DEPARTMENT OF HEALTH AND HUMAN SERVICES

Health Care Financing Administration

42 CFR Parts 405, 412, 413, 485, and 486

[HCFA-1158-P]

RIN 0938-AK73

Medicare Program; Changes to the Hospital Inpatient Prospective Payment Systems and Fiscal Year 2002 Rates

AGENCY: Health Care Financing Administration (HCFA), HHS.

ACTION: Proposed rule.

SUMMARY: We are proposing to revise the Medicare hospital inpatient prospective payment systems for operating and capital costs to: Implement applicable statutory requirements, including a number of provisions of the Medicare, Medicaid, and SCHIP Benefits Improvement and Protection Act of 2000 (Public Law 106-554); and implement changes arising from our continuing experience with these systems. In addition, in the Addendum to this proposed rule, we are describing proposed changes to the amounts and factors used to determine the rates for Medicare hospital inpatient services for operating costs and capital-related costs. These changes would be applicable to discharges occurring on or after October 1, 2001. We also are setting forth proposed rate-of-increase limits as well as proposed policy changes for hospitals and hospital units excluded from the prospective payment systems.

We also are proposing changes to the policies governing payments to hospitals for the direct costs of graduate medical education and critical access hospitals.

DATES: Comments will be considered if received at the appropriate address, as provided below, no later than 5 p.m. on July 3, 2001.

ADDRESSES: Mail written comments (an original and three copies) to the following address ONLY: Health Care Financing Administration, Department of Health and Human Services, Attention: HCFA-1158-P, P.O. Box 8010, Baltimore, MD 21244-1850.

If you prefer, you may deliver by courier your written comments (an original and three copies) to one of the following addresses:

Room 443-G, Hubert H. Humphrey Building, 200 Independence Avenue, SW., Washington, DC 20201, or

Room C5-14-03, Central Building, 7500 Security Boulevard, Baltimore, MD 21244-1850.

Comments mailed to those addresses specified as appropriate for courier delivery may be delayed and could be considered late.

Because of staffing and resource limitations, we cannot accept comments by facsimile (FAX) transmission. In commenting, please refer to file code HCFA-1158-P.

For information on viewing public comments, see the beginning of the SUPPLEMENTARY INFORMATION section.

For comments that relate to information collection requirements, mail a copy of comments to the following addresses:

Health Care Financing Administration, Office of Information Services, Security and Standards Group, Division of HCFA Enterprise Standards, Room N2-14-26, 7500 Security Boulevard, Baltimore, Maryland 21244-1850. Attn: John Burke, HCFA-1158-P; and

Office of Information and Regulatory Affairs, Office of Management and Budget, Room 3001, New Executive Office Building, Washington, DC 20503, Attn: Allison Herron Eydt, HCFA Desk Officer.

FOR FURTHER INFORMATION CONTACT:

Steve Phillips, (410) 786-4548, Operating Prospective Payment, Diagnosis-Related Groups (DRGs), Wage Index, Hospital Geographic Reclassifications, and Sole Community Hospital Issues

Tzvi Hefter, (410) 786-4487, Capital Prospective Payment, Excluded Hospitals, Graduate Medical Education and Critical Access Hospital Issues

SUPPLEMENTARY INFORMATION:

Inspection of Public Comments

Comments received timely will be available for public inspection as they are received, generally beginning approximately 3 weeks after publication of a document, in Room C5-12-08 of the Health Care Financing Administration, 7500 Security Blvd., Baltimore, MD, on Monday through Friday of each week from 8:30 a.m. to 5 p.m. Please call (410) 786-7197 to arrange to view these comments.

Availability of Copies and Electronic Access

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $8.00. As an alternative, you can view and photocopy the Federal Register document at most libraries designated as Federal Depository Libraries and at many other public and academic libraries throughout the country that receive the Federal Register.

This Federal Register document is also available from the Federal Register online database through GPO Access, a service of the U.S. Government Printing Office. Free public access is available on a Wide Area Information Server (WAIS) through the Internet and via asynchronous dial-in. Internet users can access the database by using the World Wide Web; the Superintendent of Documents home page address is ­http://www.access.gpo.gov/nara_docs/, by using local WAIS client software, or by telnet to swais.access.gpo.gov, then login as guest (no password required). Dial-in users should use communications software and modem to call (202) 512-1661; type swais, then login as guest (no password required).

I. Background

A. Summary

Section 1886(d) of the Social Security Act (the Act) sets forth a system of payment for the operating costs of acute care hospital inpatient stays under Medicare Part A (Hospital Insurance) based on prospectively set rates. Section 1886(g) of the Act requires the Secretary to pay for the capital-related costs of hospital inpatient stays under a prospective payment system. Under these prospective payment systems, Medicare payment for hospital inpatient operating and capital-related costs is made at predetermined, specific rates for each hospital discharge. Discharges are classified according to a list of diagnosis-related groups (DRGs).

Under section 1886(d)(1)(B) of the Act in effect without consideration of the amendments made by the Balanced Budget Act of 1997 (Public Law 105-33), the Balanced Budget Refinement Act of 1999 (Public Law 106-113, and the recent Medicare, Medicaid, and SCHIP Benefits Improvement and Protection Act of 2000 (Public Law 106-554, enacted on December 21, 2000), certain specialty hospitals are excluded from the hospital inpatient prospective payment system: Psychiatric hospitals and units, rehabilitation hospitals and units, children's hospitals, long-term care hospitals, and cancer hospitals. For these hospitals and units, Medicare payment for operating costs is based on reasonable costs subject to a hospital-specific annual limit, until the payment provisions of Public Laws 105-33, 106-113, and 106-554 that are applicable to three classes of these hospitals are implemented, as discussed below.

Various sections of Public Laws 105-33, 106-113, and 106-554 provide for the transition of rehabilitation hospitals and units, psychiatric hospitals and units, and long-term care hospitals from being paid on an excluded hospital basis to being paid on an individual prospective payment system basis. These provisions are as follows:

• Rehabilitation Hospitals and Units. Section 1886(j) of the Act, as added by section 4421 of Public Law 105-33 and amended by section 125 of Public Law 106-113 and section 305 of Public Law 106-554, authorizes the implementation of a prospective payment system for inpatient hospital services furnished by rehabilitation hospitals and units. Section 4421 of Public Law 105-33 amended the Act by adding section 1886(j). Section 1886(j) of the Act provides for a fully implemented prospective payment system for inpatient rehabilitation hospitals and rehabilitation units, effective for cost reporting periods beginning on or after October 2002, with payment provisions during a transitional period of October 1, 2000 to October 1, 2002 based on target amounts specified in section 1886(b) of the Act. Section 125 of Public Law 106-113 amended section 1886(j) of the Act to require the Secretary to use a discharge as the payment unit for inpatient rehabilitation services under the prospective payment system and to establish classes of patient discharges by functional-related groups. Section 305 of Public Law 106-554 further amended section 1886(j) of the Act to allow hospitals to elect to be paid the full Federal prospective payment rather than the transitional period payments specified in the Act. A brief discussion of the November 3, 2000 proposed rule (65 FR 66304) that we issued to propose implementation of the prospective payment system for inpatient rehabilitation hospitals and rehabilitation units is included under section VI.A.4. of this preamble.

• Psychiatric Hospitals and Units. Sections 124(a) and (c) of Public Law 106-113 provide for the development of a per diem prospective payment system for payment for inpatient hospital services of psychiatric hospitals and units under the Medicare program, effective for cost reporting periods beginning on or after October 1, 2002. This system must include an adequate patient classification system that reflects the differences in patient resource use and costs among these hospitals and must maintain budget neutrality. We are in the process of developing a proposed rule, to be followed by a final rule, to implement the prospective payment system for psychiatric hospitals and units, effective for October 1, 2002.

• Long-Term Care Hospitals. Sections 123(a) and (c) of Public Law 106-113 provide for the development of a per discharge prospective payment system for payment for inpatient hospital services furnished by long-term care hospitals under the Medicare program, effective for cost reporting periods beginning on or after October 1, 2002. Section 307(b)(1) of Public Law 106-554 provides that payments under the long-term care prospective payment system will be made on a prospective payment basis rather than a cost basis. The long-term care hospital prospective payment system must include a patient classification system that reflects the differences in patient resource use and costs, and must maintain budget neutrality. We are planning to develop a proposed rule, to be followed by a final rule, to implement the prospective payment system for long-term care hospitals, effective for October 1, 2002. Section 307 of Public Law 106-554 provides that if the Secretary is unable to develop a prospective payment system for long-term care hospitals that can be implemented by October 1, 2002, the Secretary must implement a prospective payment system that bases payment under the system using the existing acute hospital DRGs, modified where feasible to account for resource use of long-term care hospital patients using the most recently available hospital discharge data for long-term care services.

Under sections 1820 and 1834(g) of the Act, payments are made to critical access hospitals (CAHs) (that is, rural hospitals or facilities that meet certain statutory requirements) for inpatient and outpatient services on a reasonable cost basis. Reasonable cost is determined under the provisions of section 1861(v)(1)(A) of the Act and existing regulations under Parts 413 and 415.

Under section 1886(a)(4) of the Act, costs of approved educational activities are excluded from the operating costs of inpatient hospital services. Hospitals with approved graduate medical education (GME) programs are paid for the direct costs of GME in accordance with section 1886(h) of the Act; the amount of payment for direct GME costs for a cost reporting period is based on the hospital's number of residents in that period and the hospital's costs per resident in a base year.

The regulations governing the hospital inpatient prospective payment system are located in 42 CFR Part 412. The regulations governing excluded hospitals and hospital units are located in Parts 412 and 413. The regulations governing GME payments and payments to CAHs are located in Part 413.

On August 1, 2000, we published a final rule in the Federal Register (65 FR 47054) that implemented both statutory requirements and other changes to the Medicare hospital inpatient prospective payment systems for both operating costs and capital-related costs, as well as changes addressing payment for excluded hospitals and payments for GME costs. Generally, these changes were effective for discharges occurring on or after October 1, 2000. On March 2, 2001, we published correction notices in the Federal Register (66 FR 13020) relating to the calculation of certain wage indexes and the labeling of certain DRGs.

Public Law 106-554 made a number of changes to the Act relating to prospective payments to hospitals for inpatient services and payments to excluded hospitals. This proposed rule would implement amendments enacted by Public Law 106-554 relating to FY 2002 payments for hospital inpatient services, new medical services and technology, GME costs, the payment adjustment for disproportionate share hospitals (DSHs), the indirect medical education (IME) adjustment for teaching hospitals, sole community hospitals (SCHs), and CAHs. It would also implement changes affecting hospitals' geographic reclassifications and wage index. These changes are addressed in sections II., III., IV., and VI. of this preamble.

Other provisions of Public Law 106-554 that relate to Medicare payments to hospitals effective prior to October 1, 2001 (that is, for FY 2001 or for the period between April 1, 2001 and September 30, 2001), are addressed in a separate interim final rule with comment period (HCFA-1178-IFC).

B. Major Contents of This Proposed Rule

In this proposed rule, we are setting forth proposed changes to the Medicare hospital inpatient prospective payment systems for operating costs and for capital-related costs in FY 2002. We also are proposing changes relating to payments for GME costs and payments to excluded hospitals and units and CAHs. The proposed changes would be effective for discharges occurring on or after October 1, 2001.

The following is a summary of the major changes that we are proposing to make:

1. Proposed Changes to the DRG Reclassifications and Recalibrations of Relative Weights

As required by section 1886(d)(4)(C) of the Act, we adjust the DRG classifications and relative weights annually. Based on analyses of Medicare claims data, we are proposing to establish a number of new DRGs and make changes to the designation of diagnosis and procedure codes under other existing DRGs. Our proposed changes for FY 2002 are set forth in section II. of this preamble.

We also address the provisions of section 533 of Public Law 106-544 regarding development of a mechanism for adequate payment for new medical services and technologies and the required report to Congress on expeditiously introducing new medical services and technology into the DRGs.

2. Proposed Changes to the Hospital Wage Index

In section III. of this preamble, we discuss proposed revisions to the wage index and the annual update of the wage data. Specific issues addressed in this section include the following:

• The FY 2002 wage index update, using FY 1998 wage data.

• The transition to excluding from the wage index Part A physician wage costs that are teaching-related, as well as resident and Part A certified registered nurse anesthetist (CRNA) costs.

• The costs of contracted pharmacy and laboratory services.

• The collection of occupational mix data, as required by section 304(c) of Public Law 106-554.

• Revisions to the wage index based on hospital redesignations and reclassifications, including changes to reflect the provisions of sections 304(a) and (b) of Public Law 106-554 relating to 3-year wage index reclassifications by the MGCRB, the use of 3 years of wage data for evaluating reclassification requests for FYs 2003 and later, and the application of a statewide wage index for reclassifications beginning in FY 2003.

• Requests for wage data corrections and modification of the process and timetable for updating the wage index, and a proposed revision of that timetable.

3. Other Decisions and Proposed Changes to the Prospective Payment System for Inpatient Operating and Graduate Medical Education Costs

In section IV. of this preamble, we discuss several provisions of the regulations in 42 CFR Parts 412 and 413 and set forth certain proposed changes concerning the following:

• Sole community hospitals.

• Rural referral centers.

• Changes relating to the IME adjustment as a result of section 302 of Public Law 106-554.

• Changes relating to the DSH adjustment as a result of section 303 of Public Law 106-554.

• The establishment of policies relating to the 3-year application of wage index reclassifications by the MGCRB, the use of 3 years of wage data in evaluating reclassification requests to the MGCRB for FYs 2003 and later, and the use of a statewide wage index for reclassifications beginning in FY 2003, as required by sections 304(a) and (b) of Public Law 106-554.

• Proposed requirements for additional payments for new medical services and technology, as required by section 533(b) of Public Law 106-554.

• Changes relating to payment for the direct costs of GME, including changes as a result of section 511 of Public Law 106-554.

4. Prospective Payment System for Capital-Related Costs

In section V. of this preamble, we specify the proposed payment requirements for capital-related costs, including the special exceptions payment, beginning October 1, 2002.

5. Proposed Changes for Hospitals and Hospital Units Excluded from the Prospective Payment Systems

In section VI. of this preamble, we discuss the following proposals concerning excluded hospital and hospital units and CAHs:

• Limits on and adjustments to the proposed target amounts for FY 2002.

• Revision of the methodology for wage neutralizing the hospital-specific target amounts using preclassified wage data.

• Updated caps for new excluded hospitals and units as well as changes in the effective date of classifications of excluded hospitals and units.

• The prospective payment system for inpatient rehabilitation hospitals and units.

• Payments to CAHs, including exclusion from the payment window requirements; the availability of CRNA pass-through payments; payment for emergency room on-call physicians; treatment of ambulance services; the use of certain qualified practitioners for preanesthesia and postanesthesia evaluations; and clarification of location requirements for CAHs.

6. Determining Prospective Payment Operating and Capital Rates and Rate-of-Increase Limits

In the Addendum to this proposed rule, we set forth proposed changes to the amounts and factors for determining the FY 2002 prospective payment rates for operating costs and capital-related costs. We also establish the proposed threshold amounts for outlier cases. In addition, we address update factors for determining the rate-of-increase limits for cost reporting periods beginning in FY 2002 for hospitals and hospital units excluded from the prospective payment system.

7. Impact Analysis

In Appendix A, we set forth an analysis of the impact that the proposed changes described in this proposed rule would have on affected entities.

8. Capital Acquisition Model

Appendix B contains the technical appendix on the proposed FY 2002 capital cost model.

9. Report to Congress on the Update Factor for Hospitals Under the Prospective Payment System and Hospitals and Units Excluded From the Prospective Payment System

Section 1886(e)(3) of the Act requires the Secretary to report to Congress on our initial estimate of a recommended update factor for FY 2002 for payments to hospitals included in the prospective payment systems, and hospitals excluded from the prospective payment systems. This report is included as Appendix C to this proposed rule.

10. Proposed Recommendation of Update Factor for Hospital Inpatient Operating Costs

As required by sections 1886(e)(4) and (e)(5) of the Act, Appendix D provides our recommendation of the appropriate percentage change for FY 2002 for the following:

• Large urban area and other area average standardized amounts (and hospital-specific rates applicable to sole community and Medicare-dependent, small rural hospitals) for hospital inpatient services paid for under the prospective payment system for operating costs.

• Target rate-of-increase limits to the allowable operating costs of hospital inpatient services furnished by hospitals and hospital units excluded from the prospective payment system.

11. Discussion of Medicare Payment Advisory Commission Recommendations

Under section 1805(b) of the Act, the Medicare Payment Advisory Commission (MedPAC) is required to submit a report to Congress, not later than March 1 of each year, that reviews and makes recommendations on Medicare payment policies. This annual report makes recommendations concerning hospital inpatient payment policies. In section VII. of this preamble, we discuss the MedPAC recommendations and any actions we are proposing to take with regard to them (when an action is recommended). For further information relating specifically to the MedPAC March 1 report or to obtain a copy of the report, contact MedPAC at (202) 653-7220 or visit MedPAC's website at: www.medpac.gov.

II. Proposed Changes to DRG Classifications and Relative Weights

A. Background

Under the prospective payment system, we pay for inpatient hospital services on a rate per discharge basis that varies according to the DRG to which a beneficiary's stay is assigned. The formula used to calculate payment for a specific case takes an individual hospital's payment rate per case and multiplies it by the weight of the DRG to which the case is assigned. Each DRG weight represents the average resources required to care for cases in that particular DRG relative to the average resources used to treat cases in all DRGS.

Congress recognized that it would be necessary to recalculate the DRG relative weights periodically to account for changes in resource consumption. Accordingly, section 1886(d)(4)(C) of the Act requires that the Secretary adjust the DRG classifications and relative weights at least annually. These adjustments are made to reflect changes in treatment patterns, technology, and any other factors that may change the relative use of hospital resources. The proposed changes to the DRG classification system, and the proposed recalibration of the DRG weights for discharges occurring on or after October 1, 2001, are discussed below.

B. DRG Reclassification

1. General

Cases are classified into DRGs for payment under the prospective payment system based on the principal diagnosis, up to eight additional diagnoses, and up to six procedures performed during the stay, as well as age, sex, and discharge status of the patient. The diagnosis and procedure information is reported by the hospital using codes from the International Classification of Diseases, Ninth Revision, Clinical Modification (ICD-9-CM). Medicare fiscal intermediaries enter the information into their claims processing systems and subject it to a series of automated screens called the Medicare Code Editor (MCE). These screens are designed to identify cases that require further review before classification into a DRG.

After screening through the MCE and any further development of the claims, cases are classified into the appropriate DRG by the Medicare GROUPER software program. The GROUPER program was developed as a means of classifying each case into a DRG on the basis of the diagnosis and procedure codes and demographic information (that is, sex, age, and discharge status). It is used both to classify past cases in order to measure relative hospital resource consumption to establish the DRG weights and to classify current cases for purposes of determining payment. The records for all Medicare hospital inpatient discharges are maintained in the Medicare Provider Analysis and Review (MedPAR) file. The data in this file are used to evaluate possible DRG classification changes and to recalibrate the DRG weights.

In the July 30, 1999 final rule (64 FR 41500), we discussed a process for considering non-MedPAR data in the recalibration process. In order for the use of particular data to be feasible, we must have sufficient time to evaluate and test the data. The time necessary to do so depends upon the nature and quality of the data submitted. Generally, however, a significant sample of the data should be submitted by August 1, approximately 8 months prior to the publication of the proposed rule, so that we can test the data and make a preliminary assessment as to the feasibility of using the data. Subsequently, a complete database should be submitted no later than December 1 for consideration in conjunction with the next year's proposed rule.

Currently, cases are assigned to one of 503 DRGs (including one DRG for a diagnosis that is invalid as a discharge diagnosis and one DRG for ungroupable diagnoses) in 25 major diagnostic categories (MDCs). Most MDCs are based on a particular organ system of the body (for example, MDC 6 (Diseases and Disorders of the Digestive System)). However, some MDCs are not constructed on this basis because they involve multiple organ systems (for example, MDC 22 (Burns)).

In general, cases are assigned to an MDC based on the principal diagnosis, before assignment to a DRG. However, there are five DRGs to which cases are directly assigned on the basis of procedure codes. These are the DRGs for liver, bone marrow, and lung transplants (DRGs 480, 481, and 495, respectively) and the two DRGs for tracheostomies (DRGs 482 and 483). Cases are assigned to these DRGs before classification to an MDC.

Within most MDCs, cases are then divided into surgical DRGs (based on a surgical hierarchy that orders individual procedures or groups of procedures by resource intensity) and medical DRGs. Medical DRGs generally are differentiated on the basis of diagnosis and age. Some surgical and medical DRGs are further differentiated based on the presence or absence of complications or comorbidities (CC).

Generally, the GROUPER does not consider other procedures; that is, nonsurgical procedures or minor surgical procedures generally not performed in an operating room are not listed as operating room (OR) procedures in the GROUPER decision tables. However, there are a few non-OR procedures that do affect DRG assignment for certain principal diagnoses, such as extracorporeal shock wave lithotripsy for patients with a principal diagnosis of urinary stones.

The major changes we are proposing to make to the DRG classification system for FY 2002 are summarized in Charts 1, 2, and 3 below, followed by detailed discussions in individual sections according to MDC assignment. Other issues concerning DRGs are also set forth below. Unless otherwise noted, our DRG analysis is based on data from 100 percent of the FY 2000 MedPAR file containing hospital bills received through May 31, 2000 for discharges in FY 2000.

Chart 1.—Summary of Proposed Changes in DRG Assignments
Diagnosis related groups (DRGs) | Added as new | Removed
Pre-MDC:
DRG 512 (Simultaneous Pancreas/Kidney Transplant) | X
DRG 513 (Pancreas Transplants) | X
MDC 5 (Diseases and Disorders of the Circulatory System):
DRG 112 (Percutaneous Cardiovascular Procedures) |  | X
DRG 514 (Cardiac Defibrillator Implant with Cardiac Catheterization) | X
DRG 515 (Cardiac Defibrillator Implant without Cardiac Catheterization) | X
DRG 516 (Percutaneous Cardiovascular Procedures with Acute Myocardial Infarction (AMI)) | X
DRG 517 (Percutaneous Cardiovascular Procedures without AMI, with Coronary Artery Stent Implant | X
DRG 518 (Percutaneous Cardiovascular Procedures without AMI, without Coronary Artery Stent Implant | X
MDC 8 (Diseases and Disorders of the Musculoskeletal System and Connective Tissue):
DRG 519 (Cervical Spinal Fusion with CC) | X
DRG 520 (Cervical Spinal Fusion without CC) | X
MDC 20 (Alcohol/Drug Use and Alcohol/Drug-Induced Organic Mental Disorders):
DRG 434 Alcohol/Drug Abuse or Dependency, Detoxification or Other Symptomatic Treatment with CC) |  | X
DRG 435 (Alcohol/Drug Abuse or Dependency, Detoxification or Other Symptomatic Treatment without CC) |  | X
DRG 436 (Alcohol/Drug Dependence with Rehabilitation Therapy) |  | X
DRG 437 (Alcohol/Drug Dependence, Combined Rehabilitation and Detoxification Therapy) |  | X
DRG 521 (Alcohol/Drug Abuse or Dependence with CC) | X
DRG 522 (Alcohol/Drug Abuse or Dependence without CC, with Rehabilitation Therapy) | X
DRG 523 (Alcohol/Drug Abuse or Dependence without CC, without Rehabilitation Therapy) | X

Chart 2.—Summary of Proposed Assignment or Reassignment of Diagnosis or Procedure Codes in Existing DRGs
Diagnosis/procedure codes | Removed from DRG | Reassigned to DRG
MDC 5 (Diseases and Disorders of the Circulatory System):
Principal Diagnosis Code:
410.01 Acute myocardial infarction of anterolateral wall, initial episode of care | 116 | 516
410.11 Acute myocardial infarction of other anterior wall, initial episode of care | 116 | 516
410.21 Acute myocardial infarction of inferolateral wall, initial episode of care | 116 | 516
410.31 Acute myocardial infarction of inferoposterior wall, initial episode of care | 116 | 516
410.41 Acute myocardial infarction of other inferior wall, initial episode of care | 116 | 516
410.51 Acute myocardial infarction of other lateral wall, initial episode of care | 116 | 516
410.61 True posterior wall infarction, initial episode of care | 116 | 516
410.71 Subendocardial infarction, initial episode of care | 116 | 516
410.81 Acute myocardial infarction of other specified sites, initial episode of care | 116 | 516
410.91 Acute myocardial infarction of unspecified site, initial episode of care | 116 | 516
Procedure Codes:
37.94 Implantation or replacement of automatic cardioverter/defibrillation, total system (AICD) | 104, 105 | 514, 515
37.95 Implantation of automatic cardioverter/defibrillator lead(s) only | 104, 105 | 514, 515
37.96 Implantation of automatic cardioverter/defibrillator pulse generator only | 104, 105 | 514, 515
37.97 Replacement of automatic cardioverter/ defibrillator lead(s) only | 104, 105 | 514, 515
37.98 Replacement of automatic cardioverter/defibrillator pulse generator only | 104, 105 | 514, 515
Operating Room Procedures:
35.96 Percutaneous valvuloplasty | 116 | 516, 517, 518
36.01 Single vessel percutaneous transluminal coronary angioplasty (PTCA) or coronary atherectomy without mention of thrombolytic agent | 116 | 516, 517, 518
36.02 Single vessel percutaneous transluminal coronary angioplasty (PTCA) or coronary atherectomy with mention of thrombolytic agent | 116 | 516, 517, 518
36.05 Multiple vessel percutaneous transluminal coronary angioplasty (PTCA) or coronary atherectomy performed during the same operation, with or without mention of thrombolytic agent | 116 | 516, 517, 518
36.09 Other removal of coronary artery obstruction | 116 | 516, 517, 518
37.34 Catheter ablation of lesion or tissues of heart | 116 | 516, 517, 518
92.27 Implantation or insertion of radioactive elements | Non-OR in MDC-5 | 517
Nonoperating Room Procedures:
36.06 Insertion of coronary artery stent(s) | 116 | 517
37.21 Right heart cardiac catheterization | 104 | 514
37.22 Left heart cardiac catheterization | 104 | 514
37.23 Right and left heart cardiac catheterization | 104 | 514
37.26 Cardiac electrophysiologic stimulation and recording studies | 104, 112 | 514, 516, 517, 518
37.27 Cardiac mapping | 112 | 516, 517, 518
88.52 Angiocardiography of right heart structures | 104 | 514
88.53 Angiocardiography of left heart structures | 104 | 514
88.54 Combined right and left heart angiocardiography | 104 | 514
88.55 Coronary arteriography using a single catheter | 104 | 514
88.56 Coronary arteriography using two catheters | 104 | 514
88.57 Other and unspecified coronary arteriography | 104 | 514
88.58 Negative-contrast cardiac roentgenography | 104 | 514
MDC 8 (Diseases and Disorders of the Musculoskeletal System and Connective Tissue):
Procedure Codes:
81.02 Other cervical fusion, anterior technique | 497, 498 | 519, 520
81.03 Other cervical fusion, posterior technique | 497, 498 | 519, 520
MDC 15 (Newborns and Other Neonates with Conditions Originating in the Perinatal Period)
Diagnosis Codes:
773.0 Hemolytic disease due to RH isoimmunization | 389 | 390
773.1 Hemolytic disease due to ABO isoimmunization | 389 | 390
Secondary Diagnosis Codes:
478.1 Other diseases of nasal cavity and sinuses | 390 | 391
520.6 Disturbances in tooth eruption | 390 | 391
623.8 Other specified noninflammatory disorders of vagina | 390 | 391
709.00 Dyschroma, unspecified | 390 | 391
709.01 Vitiglio | 390 | 391
709.09 Dyschromia, Other | 390 | 391
744.1 Accessory Auricle | 390 | 391
754.61 Congenital pes planus | 390 | 391
757.33 Congenital pigmentary anomalies of skin | 390 | 391
757.39 Other specified anomaly of skin | 390 | 391
764.08 “Light for dates” without mention of fetal malnutrition, 2,000-2,499 grams | 390 | 391
764.98 Fetal growth retardation, unspecified, 2,000-2,499 grams | 390 | 391
772.6 Cutaneous hemorrhage | 390 | 391
794.15 Abnormal and auditory function studies | 390 | 391
796.4 Other abnormal clinical findings | 390 | 391
V20.2 Routine infant or child health check | 390 | 391
V72.1 Examination of ears and hearing | 390 | 391

Chart 3.—Summary of Proposed Retitled DRGs
MDC | DRG No. | Current name | Proposed name
MDC 5 | DRG 116 | Other Permanent Cardiac Pacemaker Implantation, or PTCA, with Coronary Artery Stent Implant | Other Cardiac Pacemaker Implantation.
MDC 8 | DRG 497 | Spinal Fusion with CC | Spinal Fusion except Cervical with CC.
MDC 8 | DRG 498 | Spinal Fusion without CC | Spinal Fusion except Cervical without CC.

2. MDC 5 (Diseases and Disorders of the Circulatory System)

a. Removal of Defibrillator Cases From DRGs 104 and 105

DRGs 104 (Cardiac Valve & Other Major Cardiothoracic Procedures with Cardiac Catheterization) and 105 (Cardiac Valve & Other Major Cardiothoracic Procedures without Cardiac Catheterization) include the replacement or open repair of one or more of the four heart valves. These valves may be diseased or damaged, resulting in either leakage or restriction of blood flow to the heart, compromising the ability of the heart to pump blood. This procedure requires the use of a heart-lung bypass machine, as the heart must be stilled and opened to repair or replace the valve.

Cardiac defibrillators are implanted to correct episodes of fibrillation (very fast heart rate) caused by malfunction of the conduction mechanism of the heart. Through implanted cardiac leads, the defibrillator mechanism senses changes in heart rhythm. When very fast heart rates occur, the defibrillator produces a burst of electric current through the leads to restore the normal heart rate. An implanted defibrillator constantly monitors heart rhythm. The implantation of this device does not require the use of a heart-lung bypass machine, and would be expected to be very different in terms of resource usage, although both procedures currently group to DRGs 104 and 105.

As part of our ongoing review of DRGs, we examined Medicare claims data on DRG 104 and DRG 105. We reviewed 100 percent of the FY 2000 MedPAR file containing hospital bills received through May 31, 2000, for discharges in FY 2000, and found that the average charges across all cases in DRG 104 were $84,060, while the average charges across all cases in DRG 105 were $66,348. Carving out code 37.94 (Implantation or replacement of automatic cardioverter/defibrillator, total system [AICD]) from DRGs 104 and 105 increased those average charges to $91,366 for DRG 104 and $67,323 for DRG 105. We identified 11,021 defibrillator cases in DRG 104 (out of 25,112 total cases), with average charges of $74,719, and 2,434 defibrillator cases in DRG 105 (out of 20,094 total cases), with average charges of $59,267.

We performed additional review on cases containing code 37.95 (Implantation of automatic cardioverter/ defibrillator lead(s) only) with code 37.96 (Implantation of automatic cardioverter/defibrillator pulse generator only) and on cases containing code 37.97 (Replacement of automatic cardioverter/defibrillator lead(s) only) with code 37.98 (Replacement of automatic cardioverter/defibrillator pulse generator only). This subgrouping contained only 56 patients. The average charges for the 18 patients in DRG 104 were $58,847. The average charges for the 38 patients in DRG 105 were $54,891.

Because we believe the defibrillator cases are significantly different from other cases in DRGs 104 and 105, we are proposing to create two new DRGs: DRG 514 (Cardiac Defibrillator Implant with Cardiac Catheterization) and DRG 515 (Cardiac Defibrillator Implant without Cardiac Catheterization).

We are proposing to remove procedure codes 37.94, 37.95 and 37.96, and 37.97 and 37.98 from DRGs 104 and 105 to form the new DRGs 514 and 515. The proposed new DRGs 514 and 515 would include principal diagnosis codes and procedure codes as reflected in Chart 4 below:

Chart 4.—Composition of Proposed New DRGs 514 and 515 in MDC 5
Diagnosis and procedure codes | Included in proposed DRG 514 | Included in proposed DRG 515
Principal Diagnosis Codes:
All of the principal diagnosis codes assigned to MDC-5 | X | X
Principal or Secondary Procedure Code:
37.94 Implantation or replacement of automatic cardioverter/defibrillation, total system (AICD) | X | X
Combination Operating Procedure Codes:
37.95 Implantation of automatic cardioverter/defibrillator lead(s) only; plus
37.96 Implantation of automatic cardioverter/defibrillator pulse generator only; | X | X
Or
37.97 Replacement of automatic cardioverter/defibrillator lead(s) only; plus
37.98 Replacement of automatic cardioverter/defibrillator pulse generator only | X | X
Plus: One of the Following Nonoperating Room Procedure Codes:
37.21 Right heart cardiac catheterization | X
37.22 Left heart cardiac catheterization | X
37.23 Combined right and left heart cardiac catheterization | X
37.26 Cardiac electrophysiologic stimulation and recording studies | X
88.52 Angiocardiography of right heart structures | X
88.53 Angiocardiography of left heart structures | X
88.54 Combined right and left heart angiocardiography | X
88.55 Coronary arteriography using a single catheter | X
88.56 Coronary arteriography using two catheters | X
88.57 Other and unspecified coronary arteriography | X
88.58 Negative-contrast cardiac roentgenography | X

b. Percutaneous Cardiovascular Procedures

We reviewed other DRGs within MDC 5 in order to determine if there were also logic changes that could be made to these DRGs. The data was arrayed in a variety of ways displaying myriad permutations, resulting in the following proposed changes. A percutaneous transluminal coronary angioplasty (PTCA) is an acute intervention intended to minimize cardiac damage by restarting circulation to the heart. Some patients with an acute myocardial infarction (AMI) are now treated by performing a PTCA during the hospitalization for the AMI. Currently, PTCAs with a coronary stent implant are assigned to DRG 116 (Other Permanent Cardiac Pacemaker Implantation, or PTCA with Coronary Artery Stent Implant), along with pacemaker implants. The remaining percutaneous cardiovascular procedures are assigned to DRG 112 (Percutaneous Cardiovascular Procedures).

The volume of percutaneous cardiovascular procedures has grown dramatically, with 186,669 cases identified in the FY 2000 MedPAR file containing hospital bills submitted through May 31, 2000. Because of the high volume, we decided to review the DRG for percutaneous cardiovascular procedures. As a first step in the evaluation, we combined the percutaneous cardiovascular procedures from DRGs 112 and 116. We then subdivided the combined percutaneous cardiovascular procedure group into two groups based on the principal diagnosis (Pdx) of AMI.

Group | Count | Average charge
With Pdx of AMI | 50,442 | $31,722
Without Pdx of AMI | 136,227 | 23,989

Each of these groups was further evaluated by subdividing them based on whether a coronary stent was implanted. The vast majority of patients with an AMI had a coronary stent implanted. Patients without an AMI were subdivided into two groups based on whether a coronary stent was implanted.

Group | Count | Average charge
Without Pdx of AMI with stent | 111,441 | $24,745
Without Pdx of AMI without stent | 24,786 | 20,589

Based on this analysis, we are proposing to remove the PTCAs with coronary artery stent from DRG 116, thus limiting DRG 116 to permanent cardiac pacemaker implantation. This removal will leave approximately 68,000 non-PTCA cases in DRG 116.

In conjunction with this evaluation, we considered a new technology, intravascular brachytherapy, that is being used to treat coronary in-stent stenosis. A gamma-radiation-impregnated tape is threaded through the affected vessel for a specified amount of dwell time, and then the tape is removed. Intravascular brachytherapy was approved by the Food and Drug Administration in November 2000.

Intravascular brachytherapy is assigned to procedure code 92.27 (Implantation or insert of radioactive elements). With the use of angioplasty, these cases are currently assigned to DRG 112 (Percutaneous Cardiovascular Procedures). Therefore, cases involving this new technology will be implicated by these proposed changes.

We are proposing to retitle DRG 116 “Other Cardiac Pacemaker Implantation,” remove DRG 112, and create three new DRGs: DRG 516 (Percutaneous Cardiovascular Procedures with Acute Myocardial Infarction (AMI)); DRG 517 (Percutaneous Cardiovascular Procedures without AMI, with Coronary Artery Stent Implant; and DRG 518 (Percutaneous Cardiovascular Procedures without AMI, without Coronary Artery Stent Implant). The principal diagnosis codes and operating room and nonoperating room procedure codes that are proposed to be included in the new DRGs 516, 517, and 518 are reflected in Chart 5.

In order to be assigned to new DRG 516, cases must contain one of the principal diagnoses plus the operating room procedures listed in Chart 5. Because DRG 516 contains acute myocardial infarction, which is hierarchically ordered before DRGs 517 and 518, any AMI cases also containing codes 92.27 or 36.06 would automatically be assigned to DRG 516. We are proposing to assign patients with a percutaneous cardiovascular procedure and intravascular radiation treatment to new DRG 517. As more data become available, we will reassess the assignment of intravascular radiation treatment to DRG 517. Proposed new DRG 518 would contain the same operating room and nonoperating room procedures as new proposed DRG 517, with the exception of codes 92.27 and 36.06.

Chart 5.—Composition of Proposed New DRGs 516, 517, and 518 in MDC 5
Diagnosis and procedure codes | Included in Proposed DRG 516 | Included in Proposed DRG 517 | Included in Proposed DRG 518
Principal Diagnosis Codes:
410.01 Acute myocardial infarction of anterolateral wall, initial episode of care | X
410.11 Acute myocardial infarction of other anterior wall, initial episode of care | X
410.21 Acute myocardial infarction of inferolateral wall, initial episode of care | X
410.31 Acute myocardial infarction of inferoposterior wall, initial episode of care | X
410.41 Acute myocardial infarction of other inferior wall, initial episode of care | X
410.51 Acute myocardial infarction of other lateral wall, initial episode of care | X
410.61 True posterior wall infarction, initial episode of care | X
410.71 Subendocardial infarction, initial episode of care | X
410.81 Acute myocardial infarction of other specified sites, initial episode of care. | X
410.91 Acute myocardial infarction of unspecified site, initial episode of care | X
plus: Operating Room Procedures:
35.96 Percutaneous valvuloplasty | X | X | X
and
36.01 Single vessel percutaneous transluminal coronary angioplasty (PTCA) or coronary atherectomy without mention of thromolytic agent | X | X | X
or
36.02 Single vessel percutaneous transluminal coronary angioplasty (PTCA) or coronary atherectomy with mention of thrombolytic agent | X | X | X
or
36.05 Multiple vessel percutaneous transluminal coronary angioplasty (PTCA) or coronary atherectomy performed during the same operation, with or without mention of thrombolytic agent | X | X | X
and
36.09 Other removal of coronary artery obstruction | X | X | X
and
37.34 Catheter ablation of lesion or tissues of heart | X | X | X
92.27 Implantation or insertion of radioactive elements |  | X
OR: Nonoperating Room Procedures:
36.06 Insertion of coronary artery stent(s) |  | X
37.26 Cardiac electrophysiologic stimulation and recording studies | X | X | X
37.27 Cardiac mapping | X | X | X

DRG 121 (Circulatory Disorders with AMI and Major Complication, Discharged Alive), DRG 122 (Circulatory Disorders with AMI without Major Complication, Discharged Alive), and DRG 123 (Circulatory Disorders with AMI, Expired) are not affected by these changes.

c. Removal of Heart Assist Systems

The ICD-9-CM Coordination and Maintenance Committee considered the nonoperative removal of heart assist systems at its November 17, 2000 meeting. A device called the intra-aortic balloon pump (IABP) is one of the most common types of ventricular assist systems. A balloon catheter is placed into the patient's descending thoracic aorta, and inflates and deflates with each heartbeat. This device is timed with the patient's own heart rhythm, and inflates and circulates blood to the heart and other organs. This allows the heart to rest and recover. The IABP may be used preoperatively, intraoperatively, or postoperatively. It supports the patient from a few hours to several days.

Code 37.64 (Removal of heart assist system) already exists, and it is considered by the GROUPER to be an operative procedure. However, the nonoperative removal of a heart assist system can be done at the patient's bedside, is noninvasive, and requires no anesthesia. Therefore, the Committee created code 97.44 (Nonoperative removal of heart assist system) for use with discharges beginning on or after October 1, 2001.

In the past, we have assigned new ICD-9-CM codes to the same DRG to which the predecessor code was assigned. If this practice were to be followed, we would have proposed that code 97.44 be assigned to MDC 5, DRGs 478 (Other Vascular Procedures with CC) and 479 (Other Vascular Procedures without CC). After hospital charge data became available, we would have considered moving it to other DRGs. However, in accordance with section 533(a) of Public Law 106-554, which requires a more expeditious technique of recognizing new medical services or technology for the hospital inpatient prospective payment system, we will reconsider this longstanding practice when possible. Therefore, as code 97.44 was designed to capture heart assist system removal that is clearly nonoperative, we are not proposing to designate 97.44 as a code which the GROUPER recognizes as a procedure. This assignment can be found in Table 6B, New Procedure Codes in the addendum to this proposed rule. Therefore, these cases will be assigned by the GROUPER to a medical DRG based on the principal diagnosis, or to a surgical DRG if a surgical procedure recognized by the GROUPER is performed.

3. MDC 8 (Diseases and Disorders of the Musculoskeletal System and Connective Tissue)

a. Refusions

We have received questions from correspondents regarding the appropriateness of the spinal fusion DRGs: DRG 496 (Combined Anterior/Posterior Spinal Fusion); DRG 497 (Spinal Fusion with CC); and DRG 498 (Spinal Fusion without CC). Several correspondents expressed concern about the inclusion of all refusions of the spine into one procedure code, 81.09 (Refusion of spine, any level or technique). The correspondents pointed out that because all refusions using any technique or level are in this one code, all of these cases are assigned to DRG 497 and DRG 498. They also pointed out that fusion cases involving both an anterior and posterior technique are assigned to DRG 496. Although cases with the refusion code that involve anterior and posterior techniques would appear to be more appropriately assigned to DRG 496, this is not the case.

We recognized this limitation in the refusion codes and further acknowledged that this limitation in the ICD-9-CM coding system creates DRG problems by preventing the assignment to DRG 496 even when both anterior and posterior techniques are used for refusion cases. Therefore, we referred the issue to the ICD-9-CM Coordination and Maintenance Committee and requested the Committee to consider code revisions for the refusions of the spine during its year 2000 public meetings.

After its deliberations, the Committee approved a series of new procedure codes for refusion of the spine that could lead to improvements within DRGs 497 and 498. These new codes, listed below, go into effect on October 1, 2001.

81.30 Refusion of spine, not otherwise specified

81.31 Refusion of atlas-axis spine

81.32 Refusion of other cervical spine, anterior technique

81.33 Refusion of other cervical spine, posterior technique

81.34 Refusion of dorsal and dorsolumbar spine, anterior technique

81.35 Refusion of dorsal and dorsolumbar spine, posterior technique

81.36 Refusion of lumbar and lumbosacral spine, anterior technique

81.37 Refusion of lumbar and lumbosacral spine, lateral transverse process technique

81.38 Refusion of lumbar and lumbosacral spine, posterior technique

81.39 Refusion of spine, not elsewhere classified

As previously stated, all refusions of the spine and corrections of the pseudarthrosis of the spine are assigned to code 81.09. Code 81.09, which is always assigned to DRG 497 or DRG 498, includes refusions at any level of the spine using any technique. With the creation of the new procedure codes listed above, it will be possible to determine the level of the spine at which the refusion is performed, as well as the technique used, and assign the case to a more appropriate DRG.

These new procedure codes should greatly improve our ability to determine the level and technique used in the refusion.

In the past, we have assigned new ICD-9-CM codes to the same DRG to which the predecessor code was assigned. If this practice were followed, these new codes would have been assigned to DRG 497 and 498 as they are currently. After data became available, we would have considered moving them to other DRGs. However, in accordance with section 533(a) of Public Law 106-554, which requires more expeditious methods of recognizing new medical services or technology under the inpatient hospital prospective payment system, we will reconsider this longstanding practice when possible. Since the new codes clearly allow us to identify cases where the technique was either anterior or posterior and these cases are clinically similar and, therefore, should be handled in the same fashion, we are proposing to immediately assign these cases on the same basis as the fusion codes (81.00 through 81.09). We would not wait for actual claims data before making this change. These proposed assignments are reflected in Chart 6 and also can be found in Table 6B, in section V. of the Addendum to this proposed rule.

b. Fusion of Cervical Spine

We have received an additional inquiry concerning the spinal DRGs that focused on fusions of the cervical spine. The inquirer stated that there was a significant difference between inpatients who undergo anterior cervical spinal fusion and other types of spinal fusion in regard to treatment, recovery time, costs, and risk of complications. Anterior cervical spinal fusions are assigned to procedure code 81.02, Other cervical fusion, anterior technique. The inquirer pointed out that anterior cervical fusions differ significantly from anterior techniques at other levels since the anatomic approach is far less invasive. Thoracic anterior techniques require working around the cardiac and respiratory systems in the chest cavity, while lumbar anterior working around bowel and digestive system and the abdominal muscles. The inquirer recommended that code 81.02 be removed from DRGs 497 and 498 and grouped separately.

We analyzed claims data from 100 percent of the FY 2000 MedPAR file containing hospital bills received through May 31, 2000, and confirmed that charges are lower for fusions of the cervical spine than fusions of the thoracic and lumbar spine. This was true for both anterior and posterior cervical fusions of the spine. Our medical consultants agree that the data and their clinical analysis support the creation of new DRGs for cervical fusions of the spine. Therefore, we are proposing to remove procedure codes 81.02 and 81.03 from the spinal fusion DRGs (currently, DRGs 497 and 498) and assign them to new DRGs for cervical spinal fusion with and without CC. We are proposing to make four groupings for fusion DRGs. We believe that the net effect of this proposal would be an increase in the weights for DRGs 497 and 498, since the lower charges for the cervical fusions would be removed. The average standardized charge for all spinal fusions with CCs was $26,957. For all spinal fusions without CCs, the average charge was $16,492. The table below also shows average standardized charges for these types of cases before and after the proposed revisions.

Proposed revised spinal fusion DRGs | Average charge before proposed revisions | Average charge after revisions
DRG 497 Spinal Fusion Except Cervical with CC | $26,957 | $36,821
DRG 498 Spinal Fusion Except Cervical without CC | 17,492 | 26,297
DRG 519 Cervical Spinal Fusion with CC |  | 26,957
DRG 520 Cervical Spinal Fusion without CC |  | 16,492

Based on the proposed groupings, we would create two new DRGs: DRG 519 (Cervical Spinal Fusion with CC); and DRG 520 (Cervical Spinal Fusion without CC). The procedure codes that would be included in the proposed DRGs 519 and 520 are reflected in Chart 6 below.

We are also proposing to add the new ICD-9-CM procedure codes for refusion of the cervical spine (81.32 and 81.33) to the new cervical spine fusion DRGs because they are clinically similar.

We are proposing to retitle DRG 497 “Spinal Fusion Except Cervical with CC” and DRG 498 “Spinal Fusion Except Cervical without CC.” The retitled DRGs 497 and 498 would retain fusion codes 81.00, 81.01, and 81.04 through 81.08 and include the proposed new refusion codes 81.30, 81.31, and 81.34 through 81.39, as reflected in Chart 6 below.

c. Posterior Spinal Fusion

We received other correspondence regarding the current DRG assignment for code 81.07, Lumbar and lumbosacral fusion, lateral transverse process technique. The correspondent stated that physicians consider code 81.07 to be a posterior procedure. The patient is placed prone on the operating table and the spine is exposed through a vertical midline incision. The correspondent pointed out that code 81.07 is not classified as a posterior procedure within DRG 496 (Combined Anterior/Posterior Spinal Fusion). Therefore, when 81.07 is reported with one of the anterior techniques fusion codes, it is not assigned to DRG 496. The correspondent recommended that code 81.07 be added to the list of posterior spinal fusion codes for use in determining assignment to DRG 496.

We have consulted with our clinical advisors and they agree that this addition should be made. Since we are proposing to handle the new refusion codes in the same manner as the fusion codes, we also are proposing to assign DRG 496 when 81.37 is used with one of the anterior technique fusion or refusion codes. This would be similar to the manner in which code 81.07 is classified. For assignment to DRG 496, we would consider codes 81.01, 81.04, 81.06, 81.32, 81.34, and 81.36 to be anterior techniques and codes 81.03, 81.05, 81.07, 81.08, 81.33, 81.35, and 81.38 to be posterior techniques.

Chart 6.—Proposed Revised Composition of DRGS 496, 497, and 498 and Proposed Composition of Proposed DRG 519 and 520 in MDC 8
Diagnosis and procedure codes | Existing DRG 496: Proposed to be assigned as anterior techniques | Existing DRG 496: Proposed to be assigned as posterior techniques | Proposed to be retained in or added to existing DRG 497 | Proposed to be retained in or added to existing DRG 498 | Included in proposed DRG 519 | Included in proposed DRG 520
Principal or Secondary Procedure Codes:
81.00 Spinal fusion, not otherwise specified |  |  | X | X
81.01 Atlas-axis fusion |  |  | X | X
81.02 Other cervical fusion, anterior technique | X |  |  |  | X | X
81.03 Other cervical fusion, posterior technique |  | X |  |  | X | X
81.04 Lumbar and lumbosacral fusion, anterior technique | X |  | X | X
81.05 Lumbar and lumbosacral fusion, posterior technique |  | X | X | X
81.06 Lumbar and lumbosacral fusion, anterior technique | X |  | X | X
81.07 Lumbar and lumbosacral fusion, lateral transverse process technique |  | X | X | X
81.08 Lumbar and lumbosacral fusion, posterior technique |  | X | X | X
81.30 Refusion of spine, not otherwise specified |  |  | X | X
81.31 Refusion of atlas-axis spine |  |  | X | X
81.32 Refusion of other cervical spine, anterior technique | X |  |  |  | X | X
81.33 Refusion of other cervical spine, posterior technique |  | X |  |  | X | X
81.34 Refusion of dorsal and dorsolumbar spine, anterior technique | X |  | X | X
81.35 Refusion of dorsal and dorsolumbar spine, posterior technique |  | X | X | X
81.36 Refusion of lumbar and lumbosacral spine, anterior technique | X |  | X | X
81.37 Refusion of lumbar and lumbosacral spine, posterior technique |  | X | X | X
81.38 Refusion of lumbar and lumbosacral spine, posterior technique |  | X | X | X
81.39 Refusion of spine, not elsewhere classified |  |  | X | X

d. Spinal Surgery

The California Division of Workers' Compensation notified us of a possible problem with the following spinal DRGs:

DRG 496 (Combined Anterior/Posterior Spinal Fusion)

DRG 497 (Spinal Fusion with CC)

DRG 498 (Spinal Fusion without CC)

DRG 499 (Back & Neck Procedures except Spinal Fusion with CC)

DRG 500 (Back & Neck Procedures except Spinal Fusion without CC)

The Division of Workers' Compensation uses the DRG categories developed by HCFA to classify types of hospital care. However, instead of using HCFA's weights for determining reimbursement for inpatient services, the Division sets a global fee for all inpatient medical services not otherwise exempted. This fee is established by multiplying the product of the DRG weight (or revised DRG weight for a small number of categories) and the health facility's composite factor by 1.20 to get the maximum amount for worker compensation admissions.

The Division of Workers' Compensation has received reports that the formula it uses for reimbursing cases may be providing inadequate reimbursement. California hospitals and orthopedists have reported that certain spinal surgery DRGs (DRGs 496 through 500) may involve different types of care and/or technologies than those in use at the time these groups were formulated. Health care providers in California report “recent increased use of the new implantation devices, hardware, and instrumentation, coupled with requirements for intensive hospital services accompanying use of new procedures, has led to inadequate reimbursement in these DRGs.” As a short-term response to these concerns, the California Division of Workers' Compensation is exempting the costs of hardware and instrumentation from the global fee of the fee schedule for DRGS 496 through 500. The Division also requested that HCFA examine these DRGs for any potential problem under the Medicare reimbursement system.

The ICD-9-CM coding system does not capture specific types of implantation devices, hardware, and instrumentation. Therefore, we were not able to verify the claim that these new devices have led to increased costs in specific cases. As discussed in section II.D. of this preamble, we believe that the adoption of a more detailed coding system, such as ICD-10-PCS, would supply greater amounts of detail on these items. However, in the short term, it is not possible to identify a specific problem that involves implantation devices, hardware, and instrumentation.

4. MDC 12 (Diseases and Disorders of the Male Reproductive System)

At its May 11, 2000 public meeting, the ICD-9-CM Coordination and Maintenance Committee considered a request from a manufacturer to create a unique code for the procedure, Penile plethysmography with nerve stimulation, in DRG 334 (Major Male Pelvic Procedures with CC). The penile plethysmography is a test that can be performed during a radical prostatectomy procedure. During the course of the procedure, the physician places a probe within an area where the prostatic nerves are thought to be located and is able to detect minor changes in penile tumescence or detumescence. This reaction tells the physician that the nerve bundles have been located, which may aid the physician in performing a nerve-sparing radical prostatectomy procedure with precision. The nerve bundles can also be restimulated at the conclusion of the procedure, providing immediate feedback as to whether erectile function will be restored after surgery.

After a presentation on the nerve identifying procedure and review of existing ICD-9-CM codes, the ICD-9-CM Coordination and Maintenance Committee determined that the existing code 89.58 (Plethysmogram) adequately describes this test.

Radical prostatectomies for patients with cancer of the prostate are grouped in either DRG 334 (Major Male Pelvic Procedures with CC) or DRG 335 (Major Male Pelvic Procedures without CC). We have received a request from a manufacturer of a nerve-identifying device to assign cases containing code 89.58 into DRG 334 only, not into DRG 335, resulting in higher payments to hospitals. During FY 2001, DRG 334 had a relative weight of 1.5591, and DRG 335 had a relative weight of 1.1697. The manufacturer requested that we designate code 89.58 as an operating room procedure code that would be recognized by the GROUPER software, and make that code applicable only to DRG 334. The manufacturer believed that this would serve to take any cases of nerve sparing out of the lower paying DRG 335, and would make the technology more attractive to hospitals. As paired DRGs 334 and 335 are currently structured, they differ only in whether or not a secondary diagnosis identified as a CC is recorded.

Using 100 percent of the FY 2000 MedPAR file which contains hospital bills for FY 2000 through May 31, 2000, we examined those cases in DRG 334 to which the procedure code for prostatectomy was assigned. Of the total 7,241 cases in DRG 334 identified, 5,611 of these cases contained procedure code 60.5 (Radical prostatectomy). Only three of the prostatectomy cases included code 89.58. There is not a sufficient number of cases on which to base an assessment of the payment for this procedure. Therefore, we are not proposing to modify the assignment of code 89.58.

5. MDC 15 (Newborns and Other Neonates With Conditions Originating in the Perinatal Period)

DRG 390 (Neonate with Other Significant Problems) contains newborn or neonate cases with other significant problems, not assigned to DRGs 385 through 389, DRG 391, or DRG 469. To be assigned to DRG 389 (Full Term Neonate with Major Problems), the neonate must have one of the principal or secondary diagnosis listed under this DRG. A neonate is assigned to DRG 390 when the neonate has a principal or secondary diagnosis of newborn or neonate with other significant problems that are not assigned to DRG 385 through 389, 391, or 469.

We have received correspondence suggesting a number of changes to be made to DRGs 398 and 391. These changes involve removing two codes from DRG 389 and adding 17 codes to DRG 391, as described below.

a. DRG 389 (Full Term Neonate With Major Problems)

The correspondent suggested removing the following codes from DRG 389 and assigning them to DRG 390:

773.0 Hemolytic disease due to RH isoimmunization

773.1 Hemolytic disease due to ABO isoimmunization

The correspondent stated that hemolytic disease due to RH isoimmunization or due to ABO isoimmunization should not be considered a major problem. The correspondent recommended that these two conditions be classified as significant problems instead and thus assigned to DRG 390.

Our medical consultants sought additional advice from the National Association of Children's Hospitals and Related Institutions (NACHRI). (HCFA contracts with the 3M Health Information Systems to maintain the DRG system. The medical experts at 3M evaluate proposed DRG changes from a clinical perspective. These medical consultants assist HCFA in evaluating alternative proposals.) NACHRI and our medical consultants agree that it is appropriate to remove codes 773.0 and 773.1 from DRG 389. Therefore, we are proposing to remove 773.0 and 773.1 from DRG 389 so that neonates with these conditions are assigned to DRG 390.

b. DRG 391 (Normal Newborn)

We also have received correspondence with recommendations for changes to DRG 391. The correspondent pointed out that the following secondary codes currently lead to the assignment of the neonate to DRG 390 (Neonate with Other Significant Problems). The correspondent believed that the conditions described by these codes should not cause the neonate to be classified under DRG 390 when reported as a secondary diagnosis. The correspondent recommended that these conditions be listed under DRG 391 (Normal Newborn).

478.1 Other diseases of nasal cavity and sinuses

520.6 Disturbances in tooth eruption

623.8 Other specified noninflammatory disorders of vagina

709.00 Dyschroma, unspecified

709.01 Vitiglio

709.09 Dyschromia, Other

744.1 Accesory auricle

754.61 Congenital pes planus

757.33 Congenital pigmentary anomalies of skin

757.39 Other specified anomaly of skin, Other

764.08 “Light for dates” without mention of fetal malnutrition, 2,000-2,499 grams

764.98 Fetal growth retardation, unspecified, 2,000-2,499 grams

772.6 Cutaneous hemorrhage

794.15 Abnormal and auditory function studies

796.4 Other abnormal clinical findings

V20.2 Routine infant or child health check

V72.1 Examination of ears and hearing

Our medical consultants also sought the advice of NACHRI on this recommendation. NACHRI reviewed the list of codes and agreed that none of these conditions should be considered to be a significant problem for a neonate. NACHRI concurred that neonates with these secondary diagnoses should be classified as normal newborns. Therefore, we are proposing to add the codes listed above to DRG 391 and not classify them to DRG 390 when reported as a secondary diagnosis.

c. Medicare Code Editor Changes

The Medicare Code Editor (MCE) is a front-end software program that detects and reports errors in the coding of claims data. The age conflict edit detects inconsistencies between a patient's age and any diagnosis on the patient's record. A subset of diagnoses is considered valid only for patients over the age of 14 years. These diagnoses are identified as “adult” diagnoses and range in age from 15 through 124 years. Therefore, any codes included on the Newborn Diagnoses edit are valid only for patients under age 14.

It has come to our attention that cases including the ICD-9-CM code 770.7, Chronic respiratory disease arising in the perinatal period, are being rejected. However, a condition such as bronchopulmonary dysplasia always originates in the perinatal period, so regardless of the patient's age, this condition is always coded as 770.7. The age at which the diagnosis was established or the age at continuing treatment does not affect the assignment of code 770.7.

Because correct coding is causing these claims to be rejected, we are proposing to remove code 770.7 from the Newborn Diagnoses edit in the MCE, as well as remove it from DRG 387 (Prematurity with Major Problems) and DRG 389 (Full Term Neonate with Major Problems). Clinical conditions in code 770.7, such as pulmonary fibrosis, would group to DRG 92 (Interstitial Lung Disease with CC) and DRG 93 (Interstitial Lung Disease without CC). Therefore, we are proposing the addition of code 770.7 to DRGs 92 and 93, as they are most similar clinically. We will monitor these cases in upcoming MedPAR data to ascertain that the cases consume similar resources.

6. MDC 20 (Alcohol/Drug Use and Alcohol/Drug-Induced Organic Mental Disorders)

DRG 434 (Alcohol/Drug Abuse or Dependency, Detoxification or Other Symptomatic Treatment with CC is assigned when the patient has a principal diagnosis of alcohol or drug abuse or dependence along with a secondary diagnosis classified as a CC. If these patients do not have a CC, they are assigned to DRG 435 (Alcohol/Drug Abuse or Dependency, detoxification or Other Symptomatic Treatment without CC). When the patients receive rehabilitation and detoxification therapy during the stay, they are assigned to DRG 437 (Alcohol/Drug Dependence, Combined Rehabilitation and Detoxification Therapy). If the patients receive only rehabilitation therapy, they are assigned to DRG 436 (Alcohol/Drug Dependence with Rehabilitation Therapy).

We have received inquiries as to why the relative weight for DRG 437, which includes both rehabilitation and detoxification (for FY 2001, the relative weight is .6606, with a geometric mean length of stay of 7.5) is lower than the FY 2001 relative weight for DRG 434, which includes only detoxification (.7256, with a geometric mean length of stay of 3.9). Likewise, the FY 2001 relative weight for DRG 436, which includes only rehabilitation (.7433), is higher than the FY 2001 relative weight for DRG 437, which includes combined rehabilitation and detoxification therapy (.6606). The inquirers indicated that those patients receiving the combination therapy would be expected to have a longer length of stay, require more services, and, therefore, be more costly to treat.

We analyzed data from 100 percent of the FY 2000 MedPAR file which contains hospital bills received through May 31, 2000, and did not find support for the inquirers' assertion that combination therapy is more costly to treat. The relative weights indicate that the presence of a CC in DRG 434 leads to a significantly higher weight than is found in DRG 435, which does not have a CC. Therefore, we analyzed the alcohol/drug DRGs and focused on eliminating the distinction between rehabilitation and rehabilitation with detoxification and assessing the impact of CCs. We combined data on DRGs 436 and 437 and then subdivided the data based on the presence or absence of a CC. The following table contains the results of the analysis.

Average Charges for Cases—With and Without CCs
DRGs | With CC: Count | With CC: Charge | With CC: Length of stay | Without CC: Count | Without CC: Charge | Without CC: Length of stay
Detoxification Cases—DRG 434 and DRG 435 | 3,298 | $8,548 | 5.0 | 9,689 | $5,111 | 4.1
All Rehabilitation Cases—DRG 436 and DRG 437 | 3,298 | 8,117 | 10.1 | 4,473 | 7,407 | 9.6

We found that, for both the detoxification and rehabilitation DRGs, the with-CC group has higher charges than the without-CC group. However, the with-CC groups still contain the anomaly that the detoxification DRG 434 has a slightly higher average charge than the combined rehabilitation DRGs 436 and 437. It appears that any significant medical problems as indicated by the presence of a CC dominate the cost incurred by hospitals for treating alcohol and drug abuse patients. For the without-CC groups, the detoxification DRG 435 has substantially lower average charges than the combined rehabilitation DRGs 436 and 437. Because the average charges of the with-CC for both the detoxification DRG 434 and combined rehabilitation DRGs 436 and 437 have similar average charges, we are proposing to combine these two groups.

Based on the results of our analysis, we are proposing to restructure MDC 20 as follows. We first identified those cases with a principal diagnosis within MDC 20 where the patient left against medical advice. These cases are found in DRG 433 (Alcohol/Drug Abuse or Dependence, Left Against Medical Advice (AMA)). We next identified all remaining cases with a principal diagnosis within MDC 20 where there was a CC. We assigned these cases to a proposed new DRG, Alcohol/Drug Abuse or Dependence with CC). The remaining cases (without CC and did not leave against medical advice) were then divided into two proposed new DRGs based on whether or not the patient received rehabilitation (Alcohol/Drug Abuse or Dependence without CC, with Rehabilitation Therapy; and Alcohol/Drug Abuse or Dependence without CC, without Rehabilitation Therapy).

The following table illustrates the number of patients and average charges for each of the four proposed DRGs.

Frequencies and Average Charges for New DRGs
DRG | Group title | Number of cases | Average charges
433 | Alcohol/Drug Abuse or Dependence, Left Against Medical Advice | 3,509 | $3,855
521 | Alcohol/Drug Abuse or Dependence with CC | 18,235 | 8,470
522 | Alcohol/Drug Abuse or Dependence without CC, with Rehabilitation Therapy | 4,473 | 7,407
523 | Alcohol/Drug Abuse or Dependence without CC, without Rehabilitation Therapy | 9,689 | 5,111

This table illustrates that groups based first on the presence of CC and then on whether or not the patient receives rehabilitation therapy provide a much better explanation of differences in charges. Therefore, we are proposing to retain DRG 433, make DRGs 434 through 437 invalid, and create new DRGs 521, 522, and 523 to include the diagnosis and procedure codes reflected in Chart 7 below.

Chart 7.—Proposed Restructure of MDC 20
[Alcohol/drug use and alcohol/drug-induced organic mental disorders]
Diagnosis and procedure code | Included in existing DRG 433 | Included in proposed DRG 521 | Included in proposed DRG 522 | Included in proposed DRG 523
Principal diagnosis:
All principal diagnosis within existing MDC 20 involving cases in which patients left against medical advice (AMA) | X |  |  |
All principal diagnoses within existing MDC 20 where there is a CC and where patient did not leave against medical advice (AMA) |  | X |  |
All principal diagnoses within existing MDC 20 without CC and where patient did not leave against medical advice (AMA) |  |  | X |
All principal diagnoses in existing MDC 20 involving cases where patients did not leave against medical advice (AMA) |  |  |  | X
Procedure Codes:
94.61 Alcohol rehabilitation |  |  | X |
94.63 Alcohol rehabilitation and detoxification |  |  | X |
94.64 Drug rehabilitation |  |  | X |
94.66 Drug rehabilitation and detoxification |  |  | X |
94.67 Combined alcohol and drug rehabilitation |  |  | X |
94.69 Combined alcohol and drug rehabilitation and detoxification |  |  | X |

7. MDC 25 (Human Immunodeficiency Virus Infections)

Effective October 1, 2000, ICD-9-CM diagnosis codes 783.2 (Abnormal loss of weight) and 783.4 (Lack of expected normal physiological development) were made invalid (65 FR 47171). These two old diagnosis codes were expanded to five digits and the following new diagnosis codes were created:

783.21 Loss of weight

783.22 Underweight

783.40 Unspecified lack of normal physiological development

783.41 Failure to thrive

783.42 Delayed milestones

783.43 Short stature

These six revised codes were created in response to an industry request. Specifically, code 783.2 did not differentiate between whether the patient had lost weight recently or whether the patient was underweight. Code 783.4 was expanded to capture concepts such as failure to thrive, delayed milestones, and short stature. None of these concepts were captured in the old codes.

We listed these new codes in the August 1, 2000 final rule on the hospital inpatient prospective payment system in Table 6A—New Diagnosis Codes (65 FR 47169). At the time the final rule was published, all of these codes were assigned to DRGs 296 through 298. After the final rule was published, we received an inquiry as to why these new diagnosis codes were not included in MDC 25 as human immunodeficiency virus (HIV)-related conditions. The inquirer pointed out that the predecessor codes (783.2 and 783.4) were included in MDC 25 as HIV-related conditions and suggested that the new codes be added to MDC 25. These cases will be assigned to other MDCs if the patient does not have HIV.

We agree that the expanded codes should have been placed in the MDC 25 as HIV-related conditions. The omission was an oversight. Therefore, we are proposing to add diagnosis codes 783.21, 783.22, 783.40, 783.41, 783.42, and 783.43 as HIV-related conditions within MDC 25. When these six revised codes are reported with code 042 HIV, the patient will be classified within MDC 25.

8. Surgical Hierarchies

Some inpatient stays entail multiple surgical procedures, each one of which, occurring by itself, could result in assignment of the case to a different DRG within the MDC to which the principal diagnosis is assigned. Therefore, it is necessary to have a decision rule by which these cases are assigned to a single DRG. The surgical hierarchy, an ordering of surgical classes from resource intensive most least, performs that function. Its application ensures that cases involving multiple surgical procedures are assigned to the DRG associated with the most resource-intensive surgical class.

Because the relative resource intensity of surgical classes can shift as a function of DRG reclassification and recalibration, we reviewed the surgical hierarchy of each MDC, as we have for previous reclassifications, to determine if the ordering of classes coincided with the intensity of resource utilization, as measured by the same billing data used to compute the DRG relative weights.

A surgical class can be composed of one or more DRGs. For example, in MDC 11, the surgical class “kidney transplant” consists of a single DRG (DRG 302) and the class “kidney, ureter and major bladder procedures” consists of three DRGs (DRGs 303, 304, and 305). Consequently, in many cases, the surgical hierarchy has an impact on more than one DRG. The methodology for determining the most resource-intensive surgical class involves weighting each DRG for frequency to determine the average resources for each surgical class. For example, assume surgical class A includes DRGs 1 and 2 and surgical class B includes DRGs 3, 4, and 5. Assume also that the average charge of DRG 1 is higher than that of DRG 3, but the average charges of DRGs 4 and 5 are higher than the average charge of DRG 2. To determine whether surgical class A should be higher or lower than surgical class B in the surgical hierarchy, we would weight the average charge of each DRG by frequency (that is, by the number of cases in the DRG) to determine average resource consumption for the surgical class. The surgical classes would then be ordered from the class with the highest average resource utilization to that with the lowest, with the exception of “other OR procedures” as discussed below.

This methodology may occasionally result in a case involving multiple procedures being assigned to the lower-weighted DRG (in the highest, most resource-intensive surgical class) of the available alternatives. However, given that the logic underlying the surgical hierarchy provides that the GROUPER searches for the procedure in the most resource-intensive surgical class, this result is unavoidable.

We note that, notwithstanding the foregoing discussion, there are a few instances when a surgical class with a lower average relative weight is ordered above a surgical class with a higher average relative weight. For example, the “other OR procedures” surgical class is uniformly ordered last in the surgical hierarchy of each MDC in which it occurs, regardless of the fact that the relative weight for the DRG or DRGs in that surgical class may be higher than that for other surgical classes in the MDC. The “other OR procedures” class is a group of procedures that are least likely to be related to the diagnoses in the MDC but are occasionally performed on patients with these diagnoses. Therefore, these procedures should only be considered if no other procedure more closely related to the diagnoses in the MDC has been performed.

A second example occurs when the difference between the average weights for two surgical classes is very small. We have found that small differences generally do not warrant reordering of the hierarchy since, by virtue of the hierarchy change, the relative weights are likely to shift such that the higher-ordered surgical class has a lower average weight than the class ordered below it.

Based on the preliminary recalibration of the DRGs, we are proposing to modify the surgical hierarchy as set forth below. As we stated in the September 1, 1989 final rule (54 FR 36457), we are unable to test the effects of proposed revisions to the surgical hierarchy and to reflect these changes in the proposed relative weights due to the unavailability of the revised GROUPER software at the time the proposed rule is prepared. Rather, we simulate most major classification changes to approximate the placement of cases under the proposed reclassification and then determine the average charge for each DRG. These average charges then serve as our best estimate of relative resource use for each surgical class. We test the proposed surgical hierarchy changes after the revised GROUPER is received and reflect the final changes in the DRG relative weights in the final rule. Further, as discussed in section II.C. of this preamble, we anticipate that the final recalibrated weights will be somewhat different from those proposed, because they will be based on more complete data. Consequently, further revision of the hierarchy, using the above principles, may be necessary in the final rule.

At this time, we are proposing to revise the surgical hierarchy for the pre-MDC DRGs, MDC 5 (Diseases and Disorders of the Circulatory System), MDC 8 (Diseases and Disorders of the Musculoskeletal System & Connective Tissue) and MDC 20 (Alcohol/Drug Use & Alcohol/Drug Induced Organic Mental Disorders), as these are proposed to be revised under sections II.B.2., II.B.3., and II.B.6. of this preamble, as follows:

• In the pre-MDC DRGs, we are proposing to reorder Lung Transplant (DRG 495) above Bone Marrow Transplant (DRG 481). We are also proposing to reorder Simultaneous Pancreas/Kidney Transplant (DRG 512) and Pancreas Transplant (DRG 513) above Lung Transplant (DRG 495).

• In MDC 5, we are proposing to reorder Cardiac Defibrillator Implants (DRGs 514 and 515) above Other Cardiothoracic Procedures (DRG 108). We are also proposing to reorder Percutaneous Cardiovascular Procedures (DRGs 516, 517, and 518) above Other Vascular Procedures (DRGs 478 and 479).

• In MDC 8, we are proposing to reorder Cervical Spinal Fusion (DRGs 519 and 520) above Back & Neck Procedures Except Spinal Fusion (DRGs 499 and 500).

• In MDC 20, we are proposing to order as follows: Alcohol/Drug Abuse or Dependence, Left AMA (DRG 433) above Alcohol/Drug Abuse or Dependence With CC (DRG 521); Alcohol/Drug Abuse or Dependence With CC (DRG 521) above Alcohol/Drug Abuse or Dependence With Rehabilitation Therapy Without CC (DRG 522); and Alcohol/Drug Abuse or Dependence With Rehabilitation Therapy Without CC (DRG 522) above Alcohol/Drug Abuse or Dependence Without Rehabilitation Therapy Without CC (DRG 523).

9. Refinement of Complications and Comorbidities (CC) List

In the September 1, 1987 final notice (52 FR 33143) concerning changes to the DRG classification system, we modified the GROUPER logic so that certain diagnoses included on the standard list of CCs would not be considered a valid CC in combination with a particular principal diagnosis. Thus, we created the CC Exclusions List. We made these changes for the following reasons: (1) To preclude coding of CCs for closely related conditions; (2) to preclude duplicative coding or inconsistent coding from being treated as CCs; and (3) to ensure that cases are appropriately classified between the complicated and uncomplicated DRGs in a pair. We developed this standard list of diagnoses using physician panels to include those diagnoses that, when present as a secondary condition, would be considered a substantial complication or comorbidity. In previous years, we have made changes to the standard list of CCs, either by adding new CCs or deleting CCs already on the list. At this time, we do not propose to delete any of the diagnosis codes on the CC list.

In the May 19, 1987 proposed notice (52 FR 18877) concerning changes to the DRG classification system, we explained that the excluded secondary diagnoses were established using the following five principles:

• Chronic and acute manifestations of the same condition should not be considered CCs for one another (as subsequently corrected in the September 1, 1987 final notice (52 FR 33154)).

• Specific and nonspecific (that is, not otherwise specified (NOS)) diagnosis codes for a condition should not be considered CCs for one another.

• Conditions that may not coexist, such as partial/total, unilateral/bilateral, obstructed/unobstructed, and benign/malignant, should not be considered CCs for one another.

• The same condition in anatomically proximal sites should not be considered CCs for one another.

• Closely related conditions should not be considered CCs for one another.

The creation of the CC Exclusions List was a major project involving hundreds of codes. The FY 1988 revisions were intended only as a first step toward refinement of the CC list in that the criteria used for eliminating certain diagnoses from consideration as CCs were intended to identify only the most obvious diagnoses that should not be considered complications or comorbidities of another diagnosis. For that reason, and in light of comments and questions on the CC list, we have continued to review the remaining CCs to identify additional exclusions and to remove diagnoses from the master list that have been shown not to meet the definition of a CC. (See the September 30, 1988 final rule (53 FR 38485) for the revision made for the discharges occurring in FY 1989; the September 1, 1989 final rule (54 FR 36552) for the FY 1990 revision; the September 4, 1990 final rule (55 FR 36126) for the FY 1991 revision; the August 30, 1991 final rule (56 FR 43209) for the FY 1992 revision; the September 1, 1992 final rule (57 FR 39753) for the FY 1993 revision; the September 1, 1993 final rule (58 FR 46278) for the FY 1994 revisions; the September 1, 1994 final rule (59 FR 45334) for the FY 1995 revisions; the September 1, 1995 final rule (60 FR 45782) for the FY 1996 revisions; the August 30, 1996 final rule (61 FR 46171) for the FY 1997 revisions; the August 29, 1997 final rule (62 FR 45966) for the FY 1998 revisions; the July 31, 1998 final rule (63 FR 40954) for the FY 1999 revisions, and the August 1, 2000 final rule (65 FR 47064) for the FY 2001 revisions. In the July 30, 1999 final rule (64 FR 41490) we did not modify the CC Exclusions List for FY 2000 because we did not make any changes to the ICD-9-CM codes for FY 2000.

We are proposing a limited revision of the CC Exclusions List to take into account the changes that will be made in the ICD-9-CM diagnosis coding system effective October 1, 2001. (See section II.B.11. below, for a discussion of ICD-9-CM changes.) These proposed changes are being made in accordance with the principles established when we created the CC Exclusions List in 1987.

Tables 6F and 6G in section V. of the Addendum to this proposed rule contain the proposed revisions to the CC Exclusions List that would be effective for discharges occurring on or after October 1, 2001. Each table shows the principal diagnoses with proposed changes to the excluded CCs. Each of these principal diagnoses is shown with an asterisk, and the additions or deletions to the CC Exclusions List are provided in an indented column immediately following the affected principal diagnosis.

CCs that are added to the list are in Table 6G—Additions to the CC Exclusions List. Beginning with discharges on or after October 1, 2001, the indented diagnoses will not be recognized by the GROUPER as valid CCs for the asterisked principal diagnosis.

CCs that are deleted from the list are in Table 6H—Deletions from the CC Exclusions List. Beginning with discharges on or after October 1, 2001, the indented diagnoses will be recognized by the GROUPER as valid CCs for the asterisked principal diagnosis.

Copies of the original CC Exclusions List applicable to FY 1988 can be obtained from the National Technical Information Service (NTIS) of the Department of Commerce. It is available in hard copy for $133.00 plus shipping and handling. A request for the FY 1988 CC Exclusions List (which should include the identification accession number (PB) 88-133970) should be made to the following address: National Technical Information Service, United States Department of Commerce, 5285 Port Royal Road, Springfield, VA 22161; or by calling (800) 553-6847.

Users should be aware of the fact that all revisions to the CC Exclusions List (FYs 1989, 1990, 1991, 1992, 1993, 1994, 1995, 1996, 1997, 1998, and 1999) and those in Tables 6F and 6G of this document must be incorporated into the list purchased from NTIS in order to obtain the CC Exclusions List applicable for discharges occurring on or after October 1, 2001. (Note: There was no CC Exclusions List in FY 2000 because we did not make changes to the ICD-9-CM codes for FY 2000.)

Alternatively, the complete documentation of the GROUPER logic, including the current CC Exclusions List, is available from 3M/Health Information Systems (HIS), which, under contract with HCFA, is responsible for updating and maintaining the GROUPER program. The current DRG Definitions Manual, Version 18.0, is available for $225.00, which includes $15.00 for shipping and handling. Version 19.0 of this manual, which includes the final FY 2002 DRG changes, will be available in October 2001 for $225.00. These manuals may be obtained by writing 3M/HIS at the following address: 100 Barnes Road, Wallingford, CT 06492; or by calling (203) 949-0303. Please specify the revision or revisions requested.

10. Review of Procedure Codes in DRGs 468, 476, and 477

Each year, we review cases assigned to DRG 468 (Extensive OR Procedure Unrelated to Principal Diagnosis), DRG 476 (Prostatic OR Procedure Unrelated to Principal Diagnosis), and DRG 477 (Nonextensive OR Procedure Unrelated to Principal Diagnosis) to determine whether it would be appropriate to change the procedures assigned among these DRGs.

DRGs 468, 476, and 477 are reserved for those cases in which none of the OR procedures performed is related to the principal diagnosis. These DRGs are intended to capture atypical cases, that is, those cases not occurring with sufficient frequency to represent a distinct, recognizable clinical group. DRG 476 is assigned to those discharges in which one or more of the following prostatic procedures are performed and are unrelated to the principal diagnosis:

60.0 Incision of prostate

60.12 Open biopsy of prostate

60.15 Biopsy of periprostatic tissue

60.18 Other diagnostic procedures on prostate and periprostatic tissue

60.21 Transurethral prostatectomy

60.29 Other transurethral prostatectomy

60.61 Local excision of lesion of prostate

60.69 Prostatectomy NEC

60.81 Incision of periprostatic tissue

60.82 Excision of periprostatic tissue

60.93 Repair of prostate

60.94 Control of (postoperative) hemorrhage of prostate

60.95 Transurethral balloon dilation of the prostatic urethra

60.99 Other operations on prostate

All remaining OR procedures are assigned to DRGs 468 and 477, with DRG 477 assigned to those discharges in which the only procedures performed are nonextensive procedures that are unrelated to the principal diagnosis. The original list of the ICD-9-CM procedure codes for the procedures we consider nonextensive procedures, if performed with an unrelated principal diagnosis, was published in Table 6C in section IV. of the Addendum to the September 30, 1988 final rule (53 FR 38591). As part of the final rules published on September 4, 1990 (55 FR 36135), August 30, 1991 (56 FR 43212), September 1, 1992 (57 FR 23625), September 1, 1993 (58 FR 46279), September 1, 1994 (59 FR 45336), September 1, 1995 (60 FR 45783), August 30, 1996 (61 FR 46173), and August 29, 1997 (62 FR 45981), we moved several other procedures from DRG 468 to 477, and some procedures from DRG 477 to 468. No procedures were moved in FY 1999, as noted in the July 31, 1998 final rule (63 FR 40962); in FY 2000, as noted in the July 30, 1999 final rule (64 FR 41496); or in FY 2001, as noted in the August 1, 2000 final rule (65 FR 47064).

a. Moving Procedure Codes From DRGs 468 or 477 to MDCs

We annually conduct a review of procedures producing assignment to DRG 468 or DRG 477 on the basis of volume, by procedure, to see if it would be appropriate to move procedure codes out of these DRGs into one of the surgical DRGs for the MDC into which the principal diagnosis falls. The data are arrayed two ways for comparison purposes. We look at a frequency count of each major operative procedure code. We also compare procedures across MDCs by volume of procedure codes within each MDC.

Using 100 percent of the FY 2000 MedPAR file containing bills submitted through May 31, 2000 for discharges in FY 2000, we determined that the quantity of cases in DRG 477 totaled 17,153. There were 106 instances where the major operative procedure appeared only once (6.4 percent of the time), resulting in assignment to DRG 477.

Using the same 100 percent sample of the FY 2000 MedPAR file, we reviewed DRG 468. There were a total of 40,429 cases, with one major operative code causing the DRG assignment 311 times (or 8 percent) and 230 instances where the major operative procedure appeared only once (or 6 percent of the time).

Our medical consultants then identified those procedures occurring in conjunction with certain principal diagnoses with sufficient frequency to justify adding them to one of the surgical DRGs for the MDC in which the diagnosis falls. Based on this year's review, we did not identify any necessary changes in procedures under DRG 477 and, therefore, are not proposing to move any procedures from DRG 477 to one of the surgical DRGs. However, our medical consultants have identified a number of procedure codes that should be removed from DRG 468 and put into more clinically coherent DRGs. The movement of these codes are specified in the charts below:

Movement of Procedure Codes From DRG 468
Procedure code | Description | Included in DRG | Description
MDC 1—Diseases and Disorders of the Nervous System
5495 | Peritoneal Incision | 7 | Peripheral and Cranial Nerve and Other Nervous System Procedures with CC
5495 | Peritoneal Incision | 8 | Peripheral and Cranial Nerve and Other Incision Nervous System Procedures without CC
MDC 3—Diseases and Disorders of the Ear
3821 | Blood Vessel Biopsy | 63 | Other Ear, Nose, Mouth and Throat OR Procedure
MDC 4—Diseases and Disorders of the Respiratory System
3821 | Blood Vessel Biopsy | 76 | Other Respiratory System OR Procedures with CC
3821 | Blood Vessel Biopsy | 77 | Other Respiratory System OR Procedures without CC
3929 | Vascular Shunt & Bypass NEC | 76 | Other Respiratory System OR Procedures with CC
3929 | Vascular Shunt & Bypass NEC | 77 | Other Respiratory System OR Procedures without CC
3931 | Suture of Artery | 76 | Other Respiratory System OR Procedures with CC
3931 | Suture of Artery | 77 | Other Respiratory System OR Procedures without CC
5411 | Exploratory Laparotomy | 76 | Other Respiratory System OR Procedures with CC
5411 | Exploratory Laparotomy | 77 | Other Respiratory System OR Procedures without CC
7749 | Bone Biopsy NEC | 76 | Other Respiratory System OR Procedures with CC
7749 | Bone Biopsy NEC | 77 | Other Respiratory System OR Procedures without CC
8669 | Free Skin Graft NEC | 76 | Other Respiratory System OR Procedures with CC
8669 | Free Skin Graft NEC | 77 | Other Respiratory System OR Procedures without CC
MDC 5—Diseases and Disorders of the Circulatory System
3402 | Exploratory Thoracotomy | 120 | Other Circulatory System OR Procedures
3403 | Reopen Thoracotomy Site | 120 | Other Circulatory System OR Procedures
3421 | Transpleura Thoracoscopy | 120 | Other Circulatory System OR Procedures
3422 | Mediastinoscoy Circulatory | 120 | Other Circulatory System OR Procedures
3426 | Open Mediastinal Biopsy | 120 | Other Circulatory System OR Procedures
436 | Distal Gastrectomy | 120 | Other Circulatory System OR Procedures
437 | Partial Gastrectomy with Jejunal Anastamosis | 120 | Other Circulatory System OR Procedures
4389 | Partial Gastrectomy | 120 | Other Circulatory System OR Procedures
4399 | Total Gastrectomy | 120 | Other Circulatory System OR Procedures
14561 | Multiple Segment Small Bowel Excision | 120 | Other Circulatory System OR Procedures
4562 | Partial Small Bowel Resectomy NEC | 120 | Other Circulatory System OR Procedures
4572 | Cecectomy | 120 | Other Circulatory System OR Procedures
4573 | Right Hemicolectomy | 120 | Other Circulatory System OR Procedures
4574 | Transverse Colon Resectomy | 120 | Other Circulatory System OR Procedures
4575 | Left Hemicolectomy | 120 | Other Circulatory System OR Procedures
4579 | Partial Large Bowel Excision NEC | 120 | Other Circulatory System OR Procedures
458 | Total Intra-Abdominal Colectomy | 120 | Other Circulatory System OR Procedures
4593 | Small-to-Large Bowel NEC | 120 | Other Circulatory System OR Procedures
4603 | Large Bowel Exteriorization | 120 | Other Circulatory System OR Procedures
4613 | Permanent Colostomy | 120 | Other Circulatory System OR Procedures
4709 | Other Appendectomy | 120 | Other Circulatory System OR Procedures
4862 | Anterior Rectal Resction With Colostomy | 120 | Other Circulatory System OR Procedures
4863 | Anterior Rectal Resection NEC | 120 | Other Circulatory System OR Procedures
4869 | Rectal Resection | 120 | Other Circulatory System OR Procedures
5012 | Open Liver Biopsy | 120 | Other Circulatory System OR Procedures
540 | Abdominal Wall Incision | 120 | Other Circulatory System OR Procedures
MDC 6—Diseases and Disorders of the Digestive System
5122 | Cholecystectomy | 170 | Other Digestive System OR Procedures with CC
5122 | Cholecystectomy | 171 | Other Digestive System OR Procedures without CC
5123 | Laparoscopic Cholecystectomy | 170 | Other Digestive System OR Procedures with CC
5132 | GB-To-Intestine Anastomy | 170 | Other Digestive System OR Procedures with CC
5136 | Choledochoenterostomy | 170 | Other Digestive System OR Procedures with CC
5136 | Choledochoenterostomy | 171 | Other Digestive System OR Procedures without CC
5137 | Hepatic Duct-GI Anastomy | 170 | Other Digestive System OR Procedures with Anastomy CC
5137 | Hepatic Duct-GI Anastomy | 171 | Other Digestive System OR Procedures without CC
5159 | Bile Duct Incision NEC | 170 | Other Digestive System OR Procedures with CC
5159 | Bile Duct Incision NEC | 171 | Other Digestive System OR Procedures without CC
MDC 7—Diseases and Disorders of the Hepatobiliary System and Pancreas
540 | Abdominal Wall Incision | 201 | Other Hepatobiliary and Pancreas Procedure
MDC 8—Diseases and Disorders of the Musculoskeletal System and Connective Tissue
3479 | Other Chest Wall Repair | 233 | Other Musculoskeletal System & Connective Tissue OR Procedure with CC
3479 | Other Chest Wall Repair | 234 | Other Musculoskeletal System & Connective Tissue OR Procedure without CC
MDC 11—Diseases and Disorders of the Kidney and Urinary Tract
540 | Abdominal Wall Incision | 315 | Other Kidney & Urinary Tract OR Procedure
5451 | Laparoscopic Periton Adhesiolysis | 315 | Other Kidney & Urinary Tract OR Procedure
5459 | Other Periton Adhesiolysis | 315 | Other Kidney & Urinary Tract OR Procedure

b. Reassignment of Procedures Among DRGs 468, 476, and 477

We also annually review the list of ICD-9-CM procedures that, when in combination with their principal diagnosis code, result in assignment to DRGs 468, 476, and 477, to ascertain if any of those procedures should be moved from one of these DRGs to another of these DRGs based on average charges and length of stay. We look at the data for trends such as shifts in treatment practice or reporting practice that would make the resulting DRG assignment illogical. If our medical consultants were to find these shifts, we would propose moving cases to keep the DRGs clinically similar or to provide payment for the cases in a similar manner. Generally, we move only those procedures for which we have an adequate number of discharges to analyze the data. Based on our review this year, we are not proposing to move any procedures from DRG 468 to DRGs 476 or 477, from DRG 476 to DRGs 468 or 477, or from DRG 477 to DRGs 468 or 476.

c. Adding Diagnosis Codes to MDCs

Based on our review this year, we are not proposing to add any diagnosis codes to MDCs.

11. Changes to the ICD-9-CM Coding System

As described in section II.B.1. of this preamble, the ICD-9-CM is a coding system that is used for the reporting of diagnoses and procedures performed on a patient. In September 1985, the ICD-9-CM Coordination and Maintenance Committee was formed. This is a Federal interdepartmental committee, co-chaired by the National Center for Health Statistics (NCHS) and HCFA, charged with maintaining and updating the ICD-9-CM system. The Committee is jointly responsible for approving coding changes, and developing errata, addenda, and other modifications to the ICD-9-CM to reflect newly developed procedures and technologies and newly identified diseases. The Committee is also responsible for promoting the use of Federal and non-Federal educational programs and other communication techniques with a view toward standardizing coding applications and upgrading the quality of the classification system.

The NCHS has lead responsibility for the ICD-9-CM diagnosis codes included in the Tabular List and Alphabetic Index for Diseases, while HCFA has lead responsibility for the ICD-9-CM procedure codes included in the Tabular List and Alphabetic Index for Procedures.

The Committee encourages participation in the above process by health-related organizations. In this regard, the Committee holds public meetings for discussion of educational issues and proposed coding changes. These meetings provide an opportunity for representatives of recognized organizations in the coding field, such as the American Health Information Management Association (AHIMA) (formerly American Medical Record Association (AMRA)), the American Hospital Association (AHA), and various physician specialty groups as well as physicians, medical record administrators, health information management professionals, and other members of the public to contribute ideas on coding matters. After considering the opinions expressed at the public meetings and in writing, the Committee formulates recommendations, which then must be approved by the agencies.

The Committee presented proposals for coding changes for implementation in FY 2002 at public meetings held on May 11, 2000 and November 17, 2000, and finalized the coding changes after consideration of comments received at the meetings and in writing by January 8, 2001.

Copies of the Coordination and Maintenance Committee minutes of the 2000 meetings can be obtained from the HCFA home page at: http://www.hcfa.gov/medicare/icd9cm.htm. Paper copies of these minutes are no longer available and the mailing list has been discontinued. We encourage commenters to address suggestions on coding issues involving diagnosis codes to: Donna Pickett, Co-Chairperson; ICD-9-CM Coordination and Maintenance Committee; NCHS; Room 1100; 6525 Belcrest Road; Hyattsville, MD 20782. Comments may be sent by E-mail to: dfp4@cdc.gov.

Questions and comments concerning the procedure codes should be addressed to: Patricia E. Brooks, Co-Chairperson; ICD-9-CM Coordination and Maintenance Committee; HCFA, Center for Health Plans and Providers, Purchasing Policy Group, Division of Acute Care; C4-07-07; 7500 Security Boulevard; Baltimore, MD 21244-1850. Comments may be sent by E-mail to: pbrooks@hcfa.gov.

The ICD-9-CM code changes that have been approved will become effective October 1, 2001. The new ICD-9-CM codes are listed, along with their proposed DRG classifications, in Tables 6A and 6B (New Diagnosis Codes and New Procedure Codes, respectively) in section V. of the Addendum to this proposed rule. As we stated above, the code numbers and their titles were presented for public comment at the ICD-9-CM Coordination and Maintenance Committee meetings. Both oral and written comments were considered before the codes were approved. Therefore, we are soliciting comments only on the proposed DRG classification of these new codes.

Further, the Committee has approved the expansion of certain ICD-9-CM codes to require an additional digit for valid code assignment. Diagnosis codes that have been replaced by expanded codes or other codes or have been deleted are in Table 6C (Invalid Diagnosis Codes). These invalid diagnosis codes will not be recognized by the GROUPER beginning with discharges occurring on or after October 1, 2001. For codes that have been replaced by new or expanded codes, the corresponding new or expanded diagnosis codes are included in Table 6A (New Diagnosis Codes). There were no procedure codes that were replaced by expanded codes or other codes, or were deleted. Revisions to diagnosis code titles are in Table 6E (Revised Diagnosis Code Titles), which also include the proposed DRG assignments for these revised codes. Revisions to procedure code titles are in Table 6F (Revised Procedure Codes Titles).

In September 2000, the Department implemented a policy of paying for inpatient hospital stays for Medicare beneficiaries participating in clinical trials (HCFA Program Memorandum AB 00-89, September 19, 2000). Hospitals were encouraged to identify the patients involved by reporting an ICD-9-CM code. This would allow the examination of data on the patients involved in clinical trials. However, there was no clear ICD-9-CM diagnosis code for patients who took part in a clinical trial. There was a code for patients receiving an examination as part of the control group for clinical trials. This control group code was V70.7 (Examination for normal comparison or control in clinical research). Hospitals were instructed to use V70.5 (Health examination of defined subpopulations), for patients participating in a clinical trial.

This coding directive has created some confusion because of the title and description of the two codes. Hospitals also have requested that all clinical patients be captured under one code. They indicated that the use of one code would be especially useful because patients frequently do not know if they are part of the control group or are receiving new therapy.

To help alleviate the confusion, the ICD-9-CM Coordination and Maintenance Committee revised code V70.7. Effective October 1, 2001, the new title of code V70.7 is “Examination of patient in clinical trial.” This revision will make it easier to capture data on Medicare beneficiaries who are participating in a clinical trial.

12. Other Issues

a. Pancreas Transplant

Effective July 1, 1999, Medicare covers whole organ pancreas transplantation if the transplantation is performed simultaneously with or after a kidney transplant (procedure codes 55.69 (Other kidney transplantation), or diagnosis code V42.0 (Organ or tissue replaced by transplant, Kidney), along with 52.80 (Pancreatic transplant, not otherwise specified), or 52.82 (Homotransplant of pancreas)). A discussion of the history of these coverage decisions and codes can be found in the August 1, 2000 final rule on the prospective payment system for FY 2001 (65 FR 47067).

We discussed the appropriate DRG classification for these cases in both the July 30, 1999 final rule (64 FR 41497) and the August 1, 2000 final rule (65 FR 47067). Currently, cases can be assigned to one of two major DRGs depending on principal diagnosis. If a kidney transplant and a pancreas transplant are performed simultaneously on a patient with chronic renal failure secondary to diabetes with renal manifestations (diagnosis codes 250.40 through 250.43), the cases will be assigned to DRG 302 (Kidney Transplant). If a pancreas transplant is performed following a kidney transplant (during a different hospital admission) on a patient with chronic renal failure secondary to diabetes with renal manifestations, the case is assigned to DRG 468 (Extensive OR Procedure Unrelated to Principal Diagnosis). This is because pancreas transplant is not assigned to MDC 11 (Diseases and Disorders of the Kidney and Urinary Tract), the MDC to which a principal diagnosis of chronic renal failure secondary to diabetes is assigned.

In the August 1, 2000 final rule, we noted that we would continue to monitor these transplant cases to determine the appropriateness of establishing a new DRG. For this proposed rule, using 100 percent of the data in the FY 2000 MedPAR file (which contains hospital bills received for FY 2000 through May 31, 2000), we analyzed the cases for which procedure codes 52.80 and 52.82 were reported. (Our data showed that 15 of the cases were coded using 52.83 (Heterotransplant of pancreas), which is not a covered procedure under any circumstances.) We identified a total of 221 cases for this time period. The United Network for Organ Sharing (UNOS) reported it had identified 270 cases through September 2000.

These 221 MedPAR cases were distributed over 6 DRGs, with the majority (158 cases or 72 percent) assigned to DRG 302, and 23 cases (10 percent) assigned to DRG 468. The remaining 40 cases were distributed between 4 other DRGs, with the majority (25 cases) being assigned to DRG 292 (Other Endocrine, Nutritional and Metabolic OR Procedures with CC). Four cases were assigned to DRG 483 (Tracheostomy with Principal Diagnosis except Face, Mouth and Neck Diagnoses) in the Pre-MDC grouping, which took precedence over any other DRG assignment.

We arrayed the data based on the presence or absence of kidney transplant; that is, pancreas transplant codes with or without 55.69. The majority of cases (166 or 75 percent) had the combined kidney-pancreas transplant in one operative episode, with 55 (25 percent) of the cases having pancreas transplant subsequent to the kidney transplant. Differences in hospital charges were significantly higher for a pancreas transplant plus a kidney transplant ($138,809) than a pancreas transplant alone ($85,972), and both were higher than average standardized charges in DRG 302 ($64,760) or DRG 468 ($39,707), although it must be noted that these figures do reflect the resource intensive patients assigned to DRG 483. Those patients in DRG 483 had average standardized charges of $377,934.

Because these categories of patients do not fit into existing DRGs from either a clinical or resource perspective, we are proposing to create two new DRGs that would reflect these patients' unique clinical profiles: DRG 512 (Simultaneous Pancreas/Kidney Transplant) and DRG 513 (Pancreas Transplants). Cases grouped to either proposed DRGs 512 or 513 must have a principal or secondary diagnosis code and procedure code or combination of procedure codes as indicated in the chart below:

Composition of Proposed DRGs 512 and 513
Diagnosis and procedure codes | Included in proposed DRG 512 | Included in proposed DRG 513
Principal or Secondary ICD-9-CM Diabetes Mellitus Code:
250.00 Diabetes mellitus without mention of complication, Type II or unspecified type, not stated as uncontrolled | X | X
250.01 Diabetes mellitus without mention of complication, Type I, not stated as uncontrolled | X | X
250.02 Diabetes mellitus without mention of complication, Type I, | X | X
250.03 Diabetes mellitus without mention of complication, Type I, uncontrolled | X | X
250.10 Diabetes with ketoacidosis, Type II or Unspecified type, not stated as uncontrolled | X | X
250.11 Diabetes with ketoacidosis, Type I, not stated as uncontrolled | X | X
250.12 Diabetes with ketoacidosis, Type II or unspecified type, uncontrolled | X | X
250.13 Diabetes with ketoacidosis, Type I, controlled | X | X
250.20 Diabetes with hyperosmolarity, Type II or unspecified type, not stated as uncontrolled | X | X
250.21 Diabetes with hyperosmolarity, Type I, not stated as uncontrolled | X | X
250.22 Diabetes with hyperosmolarity, Type II or unspecified type, uncontrolled | X | X
250.23 Diabetes with hyperosmolarity, Type I, uncontrolled | X | X
250.30 Diabetes with other coma, Type II or unspecified type, not stated as uncontrolled
250.31 Diabetes with other coma, Type I, not stated as uncontrolled | X | X
250.32 Diabetes with other coma, Type II or unspecified type, uncontrolled | X | X
250.33 Diabetes with other coma, Type I, uncontrolled | X | X
250.40 Diabetes with renal manifestations, Type II or unspecified type, not stated as uncontrolled | X | X
250.41 Diabetes with renal manifestations, Type I, not stated as uncontrolled | X | X
250.42 Diabetes with renal manifestations, Type II unspecified type, uncontrolled | X | X
250.43 Diabetes with renal manifestations, Type I, uncontrolled | X | X
250.50 Diabetes with ophthalmic manifestations, Type II or unspecified type, not stated as uncontrolled | X | X
250.51 Diabetes with ophthalmic manifestations, Type I, not stated as uncontrolled | X | X
250.52 Diabetes with ophthalmic manifestations, Type II or unspecified type, uncontrolled | X | X
250.53 Diabetes with ophthalmic manifestations, Type I, uncontrolled | X | X
250.60 Diabetes with neurological manifestations, Type II or unspecified type, not stated as uncontrolled | X | X
250.61 Diabetes with neurological manifestations, Type I, not stated as uncontrolled | X | X
250.62 Diabetes with neurological manifestations, Type II or unspecified type, uncontrolled | X | X
250.63 Diabetes with neurological manifestations, Type I uncontrolled | X | X
250.70 Diabetes with peripheral circulatory disorders, Type II or unspecified type, not stated as uncontrolled | X | X
250.71 Diabetes with peripheral circulatory disorders, Type I, not stated as uncontrolled | X | X
250.72 Diabetes with peripheral circulatory disorders, Type II or unspecified type, uncontrolled | X | X
250.73 Diabetes with peripheral circulatory disorders, Type I, uncontrolled | X | X
250.80 Diabetes with other specified manifestations, Type II or unspecified type, not stated as uncontrolled | X | X
250.81 Diabetes with other specified manifestations, Type I, not stated as uncontrolled | X | X
250.82 Diabetes with other specified manifestations, Type II or unspecified type, uncontrolled | X | X
250.83 Diabetes with other specified manifestations, Type I, uncontrolled | X | X
250.90 Diabetes with unspecified complication, Type II or unspecified type, not stated as uncontrolled | X | X
250.91 Diabetes with unspecified complication, Type I, not stated as uncontrolled | X | X
250.92 Diabetes with unspecified complication, Type II or unspecified type, uncontrolled | X | X
250.93 Diabetes with unspecified complication, Type I, uncontrolled | X | X
Principal or Secondary Diagnosis Code:
585 Chronic renal failure | X | X
403.01 Hypertensive renal disease, malignant, with renal failure | X | X
403.11 Hypertensive renal disease, benign, with renal failure | X | X
403.91 Hypertensive renal disease, unspecified, with renal failure | X | X
404.02 Hypertensive heart & renal disease, malignant, with renal failure | X | X
404.03 Hypertensive heart & renal disease, malignant, with congestive heart failure and renal disease | X | X
404.12 Hypertensive heart & renal disease, benign, with renal failure | X | X
404.13 Hypertensive heart & renal disease, benign, with congestive heart failure and renal disease | X | X
404.92 Hypertensive heart & renal disease, unspecified, with renal failure | X | X
404.93 Hypertensive heart & renal disease, unspecified, with congestive heart failure and renal failure | X | X
V42.0 Organ or tissue replaced by transplant, kidney | X | X
V43.89 Organ or tissue replaced by other means, other (Kidney) | X | X
Procedure Code:
52.80 Pancreatic transplant, not otherwise specified |  | X
52.82 Homotransplant of pancreas |  | X
Combination Procedure Codes:
52.80 Pancreatic transplant, not otherwise specified, plus
55.69 Other kidney transplantation | X |
or
52.82 Homotransplant of pancreas plus
55.69 Other kidney transplantation | X |

The logic for the proposed DRG 512 accepts the pair of diagnosis codes in any position (principal/secondary or secondary/secondary). The pair of procedure codes must be present along with the two diagnosis codes. This DRG would be placed in the Pre-MDC GROUPER logic immediately following DRG 480 (Liver Transplant).

The logic for DRG 513 accepts the pair of diagnosis codes in any position (principal/secondary or secondary/secondary). Only one procedure code must be used along with the two diagnosis codes. This DRG would be placed in the Pre-MDC GROUPER logic immediately following proposed new DRG 512 (Simultaneous Pancreas/Kidney Transplant).

b. Intestinal Transplantation

Effective April 1, 2001, Medicare covers intestinal transplantation for the purpose of restoring intestinal function in patients with irreversible intestinal failure (Medicare Program Memorandum Transmittal No. AB-00-130, December 22, 2000). This procedure is covered only when performed for patients who have failed total parenteral nutrition (TPN) and only when performed in centers that meet approval criteria.

Intestinal failure is defined as the loss of absorptive capacity of the small bowel secondary to severe primary gastrointestinal disease or surgically induced short bowel syndrome. Intestinal failure prevents oral nutrition and may be associated with both mortality and profound morbidity.

If an intestinal transplantation alone is performed on a patient with an intestinal principal diagnosis, the case would be assigned to either DRG 148 (Major Small & Large Bowel Procedures With CC) or DRG 149 (Major Small & Large Bowel Procedures Without CC). If an intestinal transplantation and a liver transplantation are performed simultaneously, the case would be assigned to DRG 480 (Liver Transplant).

If an intestinal transplantation and a pancreas transplantation are performed simultaneously, currently the case would be assigned to either DRG 148 or DRG 149. As we have proposed in section II.B.12.A. of this proposed rule, effective October 1, 2001, the case would be assigned to DRG 513 (Pancreas Transplant). We are proposing to make a conforming change to the regulations at § 412.2(e)(4) and § 486.302 to include intestines (and multivisceral organs) in the list of organs for which Medicare pays for the acquisition costs on a reasonable cost basis.

Effective October 1, 2000, procedure code 46.97 (Transplant of intestine) was created. We have examined our Medicare claims data to determine whether it is appropriate to propose a new intestinal transplant DRG. We examined 100 percent of the data in the FY 2000 MedPAR file containing bills submitted through May 31, 2000. Therefore, we focused our examination on the previous code assignment for intestinal transplant, code 46.99 (Other operations on intestines), and facilities that are currently performing intestinal transplantation. We were able to identify only one case, with an average charge of approximately $10,738 as compared to the average standardized charges for DRGs 148 and 149, which are approximately $37,961, and $16,965, respectively. We will continue to monitor these cases to determine whether it may be appropriate in the future to establish a new DRG.

C. Recalibration of DRG Weights

We are proposing to use the same basic methodology for the FY 2002 recalibration as we did for FY 2001 (August 1, 2000 final rule (65 FR 47069)). That is, we would recalibrate the weights based on charge data for Medicare discharges. However, we propose to use the most current charge information available, the FY 2000 MedPAR file. (For the FY 2001 recalibration, we used the FY 1999 MedPAR file.) The MedPAR file is based on fully coded diagnostic and procedure data for all Medicare inpatient hospital bills.

The proposed recalibrate DRG relative weights are constructed from FY 2000 MedPAR data (discharges occurring between October 1, 1999 and September 30, 2000), based on bills received by HCFA through December 31, 2000, from all hospitals subject to the prospective payment system and short-term acute care hospitals in waiver States. The FY 2000 MedPAR file includes data for approximately 11,008,302 Medicare discharges.

The methodology used to calculate the proposed DRG relative weights from the FY 2000 MedPAR file is as follows:

• To the extent possible, all the claims were regrouped using the proposed DRG classification revisions discussed in section II.B. of this preamble. As noted in section II.B.8., due to the unavailability of the revised GROUPER software, we simulated most major classification changes to approximate the placement of cases under the proposed reclassification. However, there are some changes that cannot be modeled.

• Charges were standardized to remove the effects of differences in area wage levels, indirect medical education and disproportionate share payments, and, for hospitals in Alaska and Hawaii, the applicable cost-of-living adjustment.

• The average standardized charge per DRG was calculated by summing the standardized charges for all cases in the DRG and dividing that amount by the number of cases classified in the DRG.

• We then eliminated statistical outliers, using the same criteria used in computing the current weights. That is, all cases that are outside of 3.0 standard deviations from the mean of the log distribution of both the charges per case and the charges per day for each DRG are eliminated.

• The average charge for each DRG was then recomputed (excluding the statistical outliers) and divided by the national average standardized charge per case to determine the relative weight. A transfer case is counted as a fraction of a case based on the ratio of its transfer payment under the per diem payment methodology to the full DRG payment for nontransfer cases. That is, transfer cases paid under the transfer methodology equal to half of what the case would receive as a nontransfer would be counted as 0.5 of a total case.

• We established the relative weight for heart and heart-lung, liver, and lung transplants (DRGs 103, 480, and 495) in a manner consistent with the methodology for all other DRGs except that the transplant cases that were used to establish the weights were limited to those Medicare-approved heart, heart-lung, liver, and lung transplant centers that have cases in the FY 1999 MedPAR file. (Medicare coverage for heart, heart-lung, liver, and lung transplants is limited to those facilities that have received approval from HCFA as transplant centers.)

• Acquisition costs for kidney, heart, heart-lung, liver, lung, and pancreas transplants continue to be paid on a reasonable cost basis. Unlike other excluded costs, the acquisition costs are concentrated in specific DRGs (DRG 302 (Kidney Transplant); DRG 103 (Heart Transplant); DRG 480 (Liver Transplant); DRG 495 (Lung Transplant); and proposed new DRGs 512 (Simultaneous Pancreas/Kidney Transplant) and 513 (Pancreas Transplant). Because these costs are paid separately from the prospective payment rate, it is necessary to make an adjustment to prevent the relative weights for these DRGs from including the acquisition costs. Therefore, we subtracted the acquisition charges from the total charges on each transplant bill that showed acquisition charges before computing the average charge for the DRG and before eliminating statistical outliers.

When we recalibrated the DRG weights for previous years, we set a threshold of 10 cases as the minimum number of cases required to compute a reasonable weight. We propose to use that same case threshold in recalibrating the DRG weights for FY 2002. Using the FY 2000 MedPAR data set, there are 39 DRGs that contain fewer than 10 cases. We computed the weights for these 39 low-volume DRGs by adjusting the FY 2001 weights of these DRGs by the percentage change in the average weight of the cases in the other DRGs.

The new weights are normalized by an adjustment factor (1.44813) so that the average case weight after recalibration is equal to the average case weight before recalibration. This adjustment is intended to ensure that recalibration by itself neither increases nor decreases total payments under the prospective payment system, and accounts for the gradual shift in cases toward higher-weighted DRGs over time.

Section 1886(d)(4)(C)(iii) of the Act requires that, beginning with FY 1991, reclassification and recalibration changes be made in a manner that assures that the aggregate payments are neither greater than nor less than the aggregate payments that would have been made without the changes. Although normalization is intended to achieve this effect, equating the average case weight after recalibration to the average case weight before recalibration does not necessarily achieve budget neutrality with respect to aggregate payments to hospitals because payment to hospitals is affected by factors other than average case weight. Therefore, as we have done in past years and as discussed in section II.A.4.b. of the Addendum to this proposed rule, we are proposing to make a budget neutrality adjustment to ensure that the requirement of section 1886(d)(4)(C)(iii) of the Act is met.

D. Incorporating New Medical Services and Technologies in the Inpatient Hospital Prospective Payment System

Much attention recently has focused on how well Medicare incorporates the cost of new medical services and technologies into its payment systems. Of particular concern is the adequacy of Medicare's payment systems in facilitating access to new technologies for Medicare beneficiaries. Section 533 of Public Law 106-554 directs the Secretary to develop a mechanism for ensuring adequate payment under the hospital inpatient prospective payment system for new medical services and technologies, and to report to Congress on ways to more expeditiously incorporate new services and technologies into that system. This discussion addresses the requirements of section 533 of Public Law 106-554.

1. Overview

Medicare payment for an inpatient hospital discharge under the inpatient prospective payment system is determined by multiplying the relative weight associated with a particular DRG by the national average standardized amount (adjusted for other hospital characteristics such as a geographic wage index, teaching status, and treating a high percentage of low-income patients). Cases are classified into DRGs for payment under the prospective payment system based on the principal diagnosis, up to eight additional diagnoses, and up to six procedures performed during the stay, as well as age, sex, and discharge status of the patient. The diagnosis and procedure information is reported by the hospital using codes from the International Classification of Diseases, Ninth Revision, Clinical Modification (ICD-9-CM). The DRG relative weights are recalculated each year to reflect the average resources expended across all hospitals to treat patients within a particular DRG.

In general, the inpatient prospective payment system makes payments for new medical services and technologies as soon as these items are payable. New items or services generally fit within existing DRGs, and hospitals using these items and services will be paid at established payment rates for the applicable DRGs. Payment rates may subsequently be adjusted through the annual process of evaluating the assignment of cases within DRGs and recalculating the relative weights associated with each DRG based on average charges. These annual changes are made to reflect changes in treatment patterns, technology, and any other factors that may change the relative use of hospital resources.

Since the prospective payment system was first implemented in October 1983, the pace of innovation in medical technology has been rapid. Generally speaking, the system appears to have accommodated these innovations without occasioning significant concerns regarding access to new technologies. In its March 2001 report to the Congress, the Medicare Payment Advisory Commission stated “the design of the inpatient PPS (prospective payment system) makes it easier to ensure an appropriate distribution of payments while accommodating technological advances” (page 44).

2. Current Practice—Coding and Payment

A number of issues arise relating to present methods of incorporation of new technologies in the inpatient hospital prospective payment system. One issue is the appropriate ICD-9-CM code to be assigned to the new technology. This issue is discussed in detail below. Assuming the new technology is or can be covered by Medicare, a determination must be made concerning to which DRG should the new technology be assigned. The DRG (and the value of the relative weight associated with that DRG) to which the new technology is assigned determines the payment rate for the new technology. Under the DRG system, the condition of the patient is the primary consideration in the decision to assign a new technology to a DRG. Therefore, a new technology generally will be assigned to the same DRG as the DRG's predecessor technologies and treatment modalities. In this way, hospitals can receive payment for new technology under the inpatient hospital prospective payment system quickly. As use of the new technology diffuses among hospitals, HCFA will gradually and largely automatically recalibrate DRG payment rates based on hospital claims data to reflect increasing or decreasing costs of cases assigned to the DRG. Generally, it takes 2 years for claims data to be reflected in recalibrated DRG weights. Considering the actual costs as reflected in the claims data, HCFA may also reassign new technologies to different DRGs. However, because a new technology is often more costly initially than the predecessor technologies, the adequacy of the initial payment rate occasionally becomes an issue.

At present, if payment is to be made other than by routine assignment of the new technology to an existing DRG, it is necessary to establish a new ICD-9-CM code. The lag between application for a new code and its being made effective for payment is at least a year. Because we use actual charge data from hospitals, additional costs or savings from the new technology are not reflected in the DRG weight for 2 years after a new code is effective. For example, the costs or savings attributable to any new technologies that were assigned new ICD-9-CM codes effective October 1, 1999, will be reflected in the DRG relative weights effective for discharges on or after October 1, 2001.

The lag before new technology affected payment has been viewed by some observers as a useful check on payment changes, helping to ensure that these changes reflect the benefit of a new technology. Hospitals would adopt and utilize the new technology, it was reasoned, with a speed and to a degree commensurate with its medical advantages. Any differences in the resource requirements between the new and existing technologies would then be reflected over time in claims data and in changes in the DRG weights. To the extent particular new technologies may have been initially given relatively low payment, the design of the system provided incentives to compensate by achieving efficiencies elsewhere. Conversely, if a particular new technology reduced costs compared to existing technologies, hospitals would reap the payment benefits until such time as the DRG weights began to reflect the lower costs.

3. Current Practice—Data

Recently, HCFA provided an explicit avenue to permit more rapid payment adjustment through use of additional data. The Conference Report that accompanied the Balanced Budget Act of 1997 (Public Law 105-33) stated that “in order to ensure that Medicare beneficiaries have access to innovative new drug therapies, the conferees believe that HCFA should consider, to the extent feasible, reliable, validated data other than Medicare Provider Analysis and Review (MedPAR) data in annually recalibrating and reclassifying the DRGs” (H.R. Conf. Rep. No. 105-217, 105th Cong., 1st Sess., at 734 (1997)). The MedPAR contains records for all Medicare hospital discharges and is the source data used for DRG recalibration. Although we had never precluded the use of non-MedPAR data, we established an explicit process for the submission of such data in a manner consistent with the annual recalibration of the DRG weights. We stated in the July 30, 1999 Federal Register that, in the case of external data, a significant sample of the data should be submitted by August 1, approximately 8 months prior to the publication of the proposed rule. This would allow us to verify and test the data and make a preliminary assessment as to the feasibility of the data's use (64 FR 41499). Subsequently, a complete database must be submitted no later than December 1, approximately 4 months prior to the publication of the proposed rule. On the issue of the use of sample data, we stated in the Federal Register that we were not establishing specific criteria regarding sample sizes or data collection methodologies prior to gaining experience that would enable us to realistically reflect the availability of external data based on actual experience. We also encouraged anyone interested in submitting such data in the future to contact us to discuss the specific data they wish to submit and whether the data may be adequate.

4. New Legislation

Section 533 of Public Law 106-554 addresses the issue of how new technologies are introduced into the DRGs, and how DRG payment rates must be adapted to accommodate them. Specifically, the provision requires that the Secretary:

• Not later than April 1, 2001, submit a report to Congress on methods of expeditiously incorporating new medical services and technologies into the clinical coding system.

• Not later than October 1, 2001, implement the preferred methods described in the report.

• Effective October 1, 2001, establish a mechanism to recognize the costs of new medical services and technologies after notice and opportunity for public comment.

• Establish criteria to identify new medical services or technologies after notice and an opportunity for public comment.

5. DRG Assignment Issues

As background for discussion of how the DRGs should be changed to better accommodate new technology, this section will discuss the rationale for basing the initial DRG assignment on patient condition. The underlying assumption of the prospective payment system is that because hospitals are responsible for the delivery of care they can respond to the incentives to control costs inherent in the system. The success of any payment system that is predicated on providing incentives for cost control is almost totally dependent on the effectiveness with which the incentives are communicated. The DRGs were designed to be a management tool that is used also as the basis for prospective payments. The key distinction between a management tool and payment method is the ability of the hospital to use the information to take action in response to the incentives in the system. Thus, a management tool communicates information in a form and at a level of detail that can lead to specific actions. The effectiveness of any incentive-based payment system is enhanced if the payment method is simultaneously a management tool.

Because the DRGs were developed to group clinically similar patients, an extremely important means of communication between the clinical and financial aspects of care was created. DRGs provided administrators and physicians with a meaningful basis for evaluating both the process of providing care and the associated financial impacts. Development of care pathways by DRG and profit-and-loss reports by DRG product lines became commonplace. With the adoption of these new management methods, length of stay and the use of ancillary services dropped dramatically.

The DRGs not only provided a communications tool for hospital management, but they also provided an effective means for hospitals and Medicare to communicate. Instead of accountants and lawyers arguing the fine points of cost accounting, the focus of payment deliberations became the determination of a fair payment rate for patients with specific clinical problems. The vast majority of modifications to the DRGs since the inception of the Medicare inpatient hospital prospective payment system have resulted from recommendations from hospitals. The recommendations have almost always been the result of clinicians identifying specific types of patients with unique needs. A recent example of such a clinical dialogue relates to the DRGs for burns. The FY 1999 update to the DRGs included a major restructuring of the burn DRGs. This restructuring was the direct result of detailed and specific clinical recommendations provided to HCFA by burn specialists.

Central to the success of the Medicare inpatient hospital prospective payment system is that DRGs have remained a clinical description of why the patient required hospitalization. We believe it would be undesirable to transform DRGs into detailed descriptions of the technology and processes used by the hospital to treat the patient. If such a transformation were to happen, the DRGs would become largely a repackaging of fee-for-service without the management and communication benefits. A fundamental assumption underlying DRGs is that the hospital has the responsibility for deciding what technology and process to employ in treating a particular type of patient. As hospitals in the aggregate make treatment decisions, these decisions are reflected in the DRG payment weights. The separation of the clinical and payment weight methodologies allows a stable clinical methodology to be maintained while the payment weights evolve in response to changing practice patterns. The packaging of all services associated with the care of a particular type of patient into a single payment amount provides the incentive for efficiency inherent in a DRG-based prospective payment system. Substantial disaggregation of the DRGs into smaller units of payment, or a substantial number of cases receiving extra payments, would undermine the incentives and communication value in the DRG system.

6. Coding Issues

To permit us to identify use of a new technology on hospital claims and hence to make different payments than would otherwise be applicable, we would require a code that can be used to specify when that technology is used.

a. Process for Establishing New Codes

The ICD-9-CM Coordination and Maintenance Committee is responsible for discussing potential changes to ICD-9-CM. This is a Federal interdepartmental committee, co-chaired by the National Center for Health Statistics (NCHS) and HCFA. The NCHS has lead responsibility for the ICD-9-CM diagnosis codes, while HCFA has lead responsibility for the ICD-9-CM procedure codes. The committee holds meetings twice a year, usually in May and November. Agendas for the discussions about procedure codes are published on HCFA's Internet website a month before the meeting. A Federal Register notice is also published listing topics to be discussed. The meetings are open to the public and are held usually in Baltimore, Maryland. Shortly afterwards, an extensive summary of the meeting is published on HCFA's website and the public is given an additional opportunity to comment. Final comments are due by early January. A complete, current timeline is included in the Summary Report of the Committee at: www.hcfa.gov/medicare/icd9cm.htm.

For a topic to be discussed at one of the two yearly meetings of the committee, the committee must receive a request 2 months prior to the meeting. This timeframe allows HCFA to publish the agendas in the Federal Register notices and allows individuals and organizations to review the agenda and to determine if they wish to attend the public meetings. The timeframe is also necessary to allow the committee to research the topic and prepare a draft solution in time for the meeting. During the meetings, the committee provides a brief description of the topic (such as a new technology that may not be adequately identified by the current code) and then describes the technology or procedure through a formal presentation. Frequently, medical experts who perform the procedure make a presentation to describe the procedure and how it might be different from other procedures in the current code. Proposals are made to either continue capturing the procedure in the existing code, revise existing codes, or create a new code. The public then discusses the merits of the proposals and offers any alternate suggestions.

The ICD-9-CM is updated once a year, effective October 1. This date coincides with the annual updates to the DRGs within the inpatient hospital prospective payment system. Each spring HCFA publishes a proposed rule that includes proposed changes to the inpatient hospital prospective payment system. This notice also includes final decisions on changes to ICD-9-CM codes. By August 1, HCFA publishes the new codes in the Addendum to the final rule, which is a technical presentation of actual changes to be made in both the index and tabular sections of the ICD-9-CM coding books. The Addendum is available on HCFA's website and is also sent to organizations such as the American Hospital Association (AHA) and the American Health Information Management Association (AHIMA) to distribute to their members. By October 1 of each year, the Department of Health and Human Services also produces a CD-ROM version of the ICD-9-CM, which may be purchased at the Government Printing Office. Since the ICD-9-CM is not a copyrighted system, many publishers and organizations distribute and sell books or other publications that include the changes to ICD-9-CM.

Although the committee's process for discussing proposed changes to the ICD-9-CM fully involves and informs the public, the deliberative nature of the process does require some time. Topics discussed at the May and November 2000 meetings of the Committee are for changes to ICD-9-CM in October 2001. Therefore, depending on whether a request is considered at the May or November meeting, resulting changes may not be effective for approximately a year to a year-and-a-half later.

b. Options To Expedite the Implementation of Coding Changes

Several constraints upon the system would complicate implementing extensive changes. One significant complication is the interaction between the DRG system and the ICD-9-CM diagnosis and procedure codes (in the case of new services and technologies, the discussion focuses on procedure rather than diagnosis codes). When a new procedure code is created, a decision must be made as to whether the new code affects DRG assignment (for example, resulting in a case being assigned to a surgical rather than a medical DRG). Currently, new technology is generally assigned to the same DRG as its predecessor codes. Even if new codes do not affect DRG assignment, the GROUPER software (used to assign cases to DRGs) must be reprogrammed to recognize and classify all the new codes. This is necessary to allow Medicare's claims processing systems to process the claim.

In addition to the changes to the GROUPER software, implementing changes to ICD-9-CM codes is a detailed and far-reaching process involving modifications to code books and software coding systems, as well as changes to hospitals' claims processing systems. As described above, the current process is organized around the annual publication of coding changes in the Federal Register as part of the updates and changes to the inpatient hospital prospective payment system. The changes are made available during the summer, and communicated via multiple channels to hospitals. This process allows for the necessary processing changes to be thoroughly tested prior to implementation, both by HCFA and by the hospitals. This testing procedure is essential given the volume (generally 11 million claims annually) and dollar impact (approximately $75 billion during FY 2001) of Medicare inpatient discharges.

Another important issue when considering expediting the process of making coding changes is that the annual DRG reclassification and recalibration of the relative weights must be made in a manner that ensures that aggregate payments to hospitals are not affected (section 1886(d)(4)(C)(iii) of the Act). If ICD-9-CM changes were made at multiple times during the year, the budget neutrality requirement would mean the standardized amounts, and potentially the cost outlier thresholds, would change as well. These changes would compromise the prospective nature of the payment system, whereby hospitals are able to project their revenues for the year and plan accordingly. Because we do not believe the requirement in section 533 of Public Law 106-554 to explore ways to expedite coding changes was intended to disrupt the prospective nature of the payment system, we did not consider options that would require revising the DRG weights and the standardized amounts more than once a year.

With these considerations in mind, we explored the potential for shortening the current process.

First, we are proposing to move the November meeting of the Coordination and Maintenance Committee to December without significant disruption. To move it further would disrupt the process for production of the annual inpatient prospective payment system regulation. This step would shorten the code assignment process by a month and permit coding changes resulting in payment changes to be implemented in a year.

Second, we are proposing to expedite the process by issuing new coding decisions resulting from the spring meeting of the Committee (currently in May) that would be effective the following October 1. It may be necessary to move the May meeting to April to accommodate this procedure. Because the timing of this process would not allow the coding changes to be incorporated into the proposed rule published in the spring, cases with the new codes would have to be assigned to the same DRG to which they would have been assigned without the new code and no other payment adjustments would be possible. These coding changes would thus not affect the DRG weights or the budget neutrality calculations. However, more rapid introduction of new codes would permit reflection of the codes in claims data more quickly, and thus would permit eventual adjustment of payment rates sooner than otherwise possible. This capability could be of particular use where otherwise available data were not sufficient to support an immediate payment change, because hospital claims data permitting identification of use of the new technology would be available more quickly.

This change would reduce the time between discussion of a proposed code and its implementation from a minimum of 11 months to 6 months. It would allow for the collection of MedPAR data a full year earlier than under the current process, providing the possibility that DRG revisions based on new codes could be expedited by up to 1 year.

There would be significant challenges to making this proposed process work. Because the changes would not be published in the proposed rule, the public would be given less opportunity to consider the merits of the proposals, and it would have to either attend the spring meeting of the Committee or respond to the summary report within a few weeks. The decisions from the spring meeting must be finalized by the middle of June in order for us to include the changes in the Addendum of the final rule and in order to make changes in the GROUPER software to be effective October 1; it may be necessary to schedule the spring meeting earlier to meet this deadline. The opportunity to solicit additional input from industry groups and experts would be curtailed because of the short time lines. There would be an increased risk of errors related to revisions in the procedure code index (a manual process performed by HCFA), as there would be less time available to review and revise the procedure index to ensure that all changes are accurately reflected.

For example, we are creating a new procedure code to capture percutaneous gastrojejunostomy (code 44.32). All coding instructions (indexing, inclusion terms, and exclusion terms) must be verified so that the procedure is appropriately indexed. If one of the many index entries for gastrojejunostomy is not correctly updated, percutaneous gastrojejunostomy would be assigned to another gastroenterostomy (code 44.39), which is an operating room procedure. This can have a significant impact on national health care data. Coders at different hospitals may follow different entries and arrive at different codes. To limit the potential for confusion in the hospital and coding communities resulting from two separate schedules for implementing code changes, we would limit these changes to those that meet our definition of new technology eligible for special treatment as proposed below. It would not be necessary, however, to demonstrate that the cases involving the new technology would be inadequately paid, since there would be no payment impacts of these changes.

The changes would be included in the Addendum of the proposed rule for the inpatient hospital prospective payment system, and placed on the website for use by the industry in updating books and software systems. They also would be published in the final rule, and included in the CD-ROM version of ICD-9-CM that is distributed by the Government Printing Office. We are requesting public comments on this proposal.

c. Limitations of ICD-9-CM

While the updating process currently in use may not lend itself to expeditiously incorporating new medical services and technologies into the ICD-9-CM coding system, another important factor is the dated and limited structure of the ICD-9-CM system. The ICD-9-CM system was developed in the 1970s and implemented in 1979. Dramatic advances have occurred in medicine since that time. Although the ICD-9-CM Coordination and Maintenance Committee has attempted to make coding modifications to capture new technology, it has sometimes been difficult to achieve a reasonable result.

The ICD-9-CM procedure codes are made up of four digits: two numerical characters followed by a decimal, and then two additional numerical characters. The first two digits indicate a category, such as 36—Operations on the vessels of the heart. The third digit provides additional breakdown, such as 36.0—Removal of coronary artery obstruction and insertion of stents. When the fourth digit is added, the code is fully described. There are only 10 codes available within each category (fourth digits 0-9). Once a category is full, we must either combine types of similar procedures under one code, or find a place in another section of the codebook for a new code. The benefit of such a system is that we can collapse the codes into categories when analyzing claims data to capture a wide range of similar procedures. However, if similar codes are placed in separate sections of the code book, coders may not easily find them. Errors may occur when trying to identify particular types of cases when codes are not carefully placed within a system such as the current ICD-9-CM.

ICD-9-CM is 22 years old and the premises on which the coding system was established are dated. A number of approaches and techniques used for procedures such as lasers and the use of scopes were not anticipated when the structure of ICD-9-CM was developed. Consequently, the basic categories were established on technology that is now outdated. Making needed coding changes each year has been quite difficult and involves making compromises that effect the precision of the coding.

d. Short-Term Solutions Within the ICD-9-CM Structure

To consider how we might better respond to requests for new codes in the short term, we examined ICD-9-CM to attempt to identify an open series of codes that could be used for new procedures and technologies. There are currently 16 chapters of procedure codes. However, codes 17.00 through 17.99 are not in use. These codes are found between Chapter 3, “Operations on the Eye,” and Chapter 4, “Operations on the Ear.” This series of 100 codes could be used to provide codes for new procedures and technology. To fully utilize this new series of codes, we would assign new procedures to the next available code.

A limitation of this approach would be that this new chapter would capture a diverse group of procedures potentially affecting all body systems. Assigning procedure codes to this new chapter would undoubtedly create considerable confusion for coders. Currently, procedures are grouped by body system, and similar procedures are placed in categories. This arrangement assists the coder in choosing the most appropriate code because he or she can quickly review closely related codes that are together. Using Chapter 17 for new technology codes, on the other hand, would mean that closely related codes would be widely separated.

Use of Chapter 17 would also require a major revision of coding rules since coders are taught to identify codes within a group of similar procedures. They are not accustomed to looking for a list of unrelated procedures in a separate section of the coding book.

To supplement the Chapter 17 codes, the Coordination and Maintenance Committee may be able to assign vacant codes in other chapters. However, large numbers of sequences are already fully or nearly fully occupied, and this strategy would only provide limited availability of new codes.

e. Alternative Short-Term Approaches

Some observers have expressed concern that the additional codes available within the ICD-9-CM code set may not be adequate to accommodate both routine changes in coding and the new technologies under consideration here, particularly if a long-term change, such as adoption of ICD-10-PCS, is significantly delayed. We have examined several alternative short-term options in the event the additional available codes are used before a long-term solution is reached. In evaluating these alternatives, one must consider the changes each entails to hospitals' and HCFA's coding and claims processing systems, and the time necessary to implement such changes (balanced against the timeframe for adopting a long-term coding solution).

Expanding ICD-9-CM procedure codes by making them alphanumeric or adding a fifth digit would make available a substantial number of new codes for new technology but would require substantial system changes and create standards issues. This approach was extensively discussed in meetings of the ICD-9-CM Coordination and Maintenance Committee prior to the development of ICD-10-PCS. Input from the public indicated that such a significant modification to a limited and dated system would only make the system worse. The time it would take to make this system work well would be longer than that required to build a new system and the resources needed for system changes would be significant. Such a modification of the ICD-9-CM standard code set would require the formal standards setting process prescribed by the regulations implementing the Health Insurance Portability and Accountability Act of 1996 (Public Law 104-191). We solicit comments from the public about the desirability of pursuing expansion and modification of the ICD-9-CM standards for this purpose.

Using the V-code section of ICD-9-CM diagnosis codes to report new technology would not require any systems changes or create any standards issues and would create a moderate number of codes for new technology. We have discussed this recommendation with NCHS. NCHS opposed this option as an inappropriate use of diagnosis codes. While “V” codes are used for the classification of factors influencing health status and contact with health services, they are not a substitute for procedure coding. By adding procedure coding concepts to the diagnosis coding system, confusion could easily lead to increased errors. Furthermore, the V-code section has only a limited number of available spots.

We also considered using HCFA Common Procedure Coding System (HCPCS) codes to report use of new technology for inpatient cases. However, using HCPCS would require a moderate amount of systems change and may require the formal standards setting process prescribed by Public Law 104-191, since the HCPCS code set is not the standard for inpatient services. However, it would make a substantial number of codes available for new technology. Alphanumeric HCPCS codes are currently used in outpatient departments and physician offices for reporting services, and they are used on a limited basis by hospitals in reporting specific inpatient services. For instance, alphanumeric HCPCS codes are used for reporting the use of hemophilia clotting factors used during an inpatient stay.

Use of HCPCS codes would require that a new service or technology either be assigned a code through otherwise applicable processes for HCPCS coding or that HCFA assign a specific, temporary code for use in connection with new technology payments for inpatient hospital services. Specifically assigned codes could be assigned relatively quickly. However, use of such codes would run the risk of confusion if other codes were assigned to the same service or items when used in other settings. More generally, HCPCS coding would duplicate information found in the ICD-9-CM procedure codes. Careful attention to integration of coding across the two systems would be necessary, and dissemination of information about correct coding to hospital coders would present challenges. Even with excellent integration and dissemination, the risk of confusion by hospital coders would be high.

The use of HCPCS codes would also raise questions on how the accuracy of claims data will be assessed. HCFA contracts with Peer Review Organizations (PROs) to validate the accuracy of coded data. Consideration would need to be given to how the accuracy of these data could be verified. If two separate coding systems with overlapping information are used, considerable variations in reporting practices might arise.

Similar to the option of using alphanumeric ICD-9-CM procedure codes, changes in systems and in hospital coding procedures that would be associated with this approach would take time and resources to implement for hospitals, HCFA, and potentially other payers such as Medicare secondary insurers.

In recognition of these considerations, we do not propose to proceed with use of HCPCS codes for this purpose at the present. We believe this possibility should be revisited later if the ICD-9-CM codes in fact prove inadequate and if a longer term solution is not yet available. However, we are encouraging public comments on the concept of using HCPCS codes to identify specific new technologies on inpatient hospital claims.

f. Development of ICD-10-PCS; A Possible Long-Term Solution

While acknowledging the limitations of the ICD-9-CM system, the Secretary designated the ICD-9-CM system as the national standard in a final rule in the Federal Register on August 17, 2000 (65 FR 50311) following notice and comment rulemaking in accordance with Public Law 104-191. In that same final rule, the public was advised that there would be a need in the near future to replace this dated coding system with a system that could better capture today's health care information. At that time, work was proceeding on an updated variant of the ICD system, ICD-10, that could replace ICD-9-CM, but this system was not yet completed. The World Health Organization developed ICD-10 as an international diagnosis coding system. NCHS has been modifying ICD-10 to replace the diagnosis section of ICD-9-CM. This system is being referred to as ICD-10-CM. At the same time, HCFA has been developing the ICD-10-Procedure Coding System (ICD-10-PCS) as a possible replacement for the ICD-9-CM procedure codes.

Criteria for the development of a new procedure coding system were established by the National Committee on Vital and Health Statistics (NCVHS). The criteria included the following:

• Completeness—all substantially different procedures have a unique code.

• Expandability—the structure of the system allows incorporation of new procedures and technologies as unique codes.

• Standardized terminology—the coding system includes definitions of the terminology used. While the meaning of the specific words can vary in common usage, the coding scheme does not include multiple meanings for the same term. Each term is assigned a specific meaning.

• Multiaxial—the system has a multiaxial structure with each code character having the same meaning within the specific procedure section and across procedure sections to the extent possible.

• Diagnostic information is not included in the procedure description.

The ICD-10-PCS was developed using these criteria by HCFA through a contract with 3M Health Information Systems. The ICD-10-PCS system provides much greater code capacity because all substantially different procedures have a unique code. While the ICD-9-CM procedure coding system is limited to a maximum of 10,000 codes, the current draft of ICD-10-PCS contains 197,769 codes and the number could be expanded further.

g. Public Meeting on Implementing ICD-10-PCS

The Department of Health and Human Services is starting the process of soliciting public comments on whether it should proceed to adopt ICD-10-PCS as the national standard for coding inpatient hospital services to replace ICD-9-CM procedures. A public meeting on this issue has been scheduled for May 17, 2001, in the HCFA Auditorium in Baltimore, Maryland. Information on this meeting can be found in the Summary Report of the November 2000 meeting of the ICD-9-CM Coordination and Maintenance Committee at: www.hcfa.gov/medicare/icd9cm.htm. The public is encouraged to attend and participate in the discussion on whether ICD-10-PCS should become a national standard. Organizations and groups will be given the opportunity to make a brief presentation on their members' behalf. Groups wishing to be scheduled to present should contact Pat Brooks, HCFA, at (410) 786-5318. This meeting will begin the process of evaluating ICD-10-PCS as a future national standard.

h. Proposed Methods of Expeditiously Incorporating New Medical Services and Technologies Into the Coding System

In summary, we are proposing a two-part strategy for expeditiously incorporating new medical services and technologies into the clinical coding system used with respect to payment for inpatient hospital services. First, we are proposing to shorten the timeframe for implementing new codes by processing changes that do not have payment implications without first publishing them in the proposed rule in the spring. This means new codes approved at the spring meeting of the ICD-9-CM Coordination and Maintenance Committee could be implemented by October of the same year. We also are proposing to move the November meeting to December. These proposed changes would reduce the time it currently takes to implement new codes, as well as reduce the time required to collect data through the MedPAR by up to a year in many cases.

Second, to make more codes available to identify new technology, we will immediately begin to work with the public to use Chapter 17 of ICD-9-CM procedures. This will provide room for 100 additional procedure codes. We also will continue the current process of adding and revising codes within the current chapters as room and structure allow. Our long-range strategy is to consider the implementation of ICD-10-PCS as a replacement system for ICD-9-CM. However, because of the need to address any such change through notice and public rulemaking procedures (a proposed and final rule), in addition to the need to revise both our payment systems and those of hospitals, this could occur no earlier than October 2003.

7. New Requirements Relative to New Services and Technologies

Section 533 of Public Law 106-554 addresses the process by which new technologies and services are introduced into the DRGs and how DRG payment rates are to be adapted to accommodate them. Section 533(b) added new section 1886(d)(5)(K) to the Act, which specifies that the Secretary must establish criteria to use to identify a new technology after notice and an opportunity for public comment. Under new section 1886(d)(5)(K)(ii)(I) of the Act, effective for discharges occurring on or after October 1, 2001, the Secretary is required to apply a mechanism to recognize the costs of new technologies if, “based on the estimated costs incurred with respect to discharges involving such service or technology, the DRG prospective payment rate otherwise applicable to such discharges under this subsection is inadequate.” Further, new section 1886(d)(5)(K)(v) stipulates that the requirement for an additional payment for a new medical service or technology may be satisfied by means of “an add-on payment, a payment adjustment, or any other similar mechanism for increasing the amount otherwise payable with respect to a discharge under this subsection.” Section 533(b) also added a new section 1886(d)(5)(L) to the Act which states that the requirement for an additional payment for a new medical service or technology may also be met through establishing “new-technology groups into which a new medical service or technology will be classified.”

In section IV.F. of this preamble, we are setting forth, for public comment, our policy proposals to implement section 1886(d)(5)(K) of the Act, as added by section 533(b) of Public Law 106-554. In summary, the proposed policies include—

• Proposed criteria for identifying new medical services and technologies for additional payments beyond the DRG prospective payment system payment.

• The proposed methodology for determining the adequacy of current payments for new services and technology.

• The proposed methodology for determining the amount of the additional payment and for payment mechanism for new medical services and technologies.

III. Proposed Changes to the Hospital Wage Index

A. Background

Section 1886(d)(3)(E) of the Act requires that, as part of the methodology for determining prospective payments to hospitals, the Secretary must adjust the standardized amounts “for area differences in hospital wage levels by a factor (established by the Secretary) reflecting the relative hospital wage level in the geographic area of the hospital compared to the national average hospital wage level.” In accordance with the broad discretion conferred under the Act, we currently define hospital labor market areas based on the definitions of Metropolitan Statistical Areas (MSAs), Primary MSAs (PMSAs), and New England County Metropolitan Areas (NECMAs) issued by the Office of Management and Budget (OMB). The OMB also designates Consolidated MSAs (CMSAs). A CMSA is a metropolitan area with a population of one million or more, comprising two or more PMSAs (identified by their separate economic and social character). For purposes of the hospital wage index, we use the PMSAs rather than CMSAs since they allow a more precise breakdown of labor costs. If a metropolitan area is not designated as part of a PMSA, we use the applicable MSA. Rural areas are areas outside a designated MSA, PMSA, or NECMA. For purposes of the wage index, we combine all of the rural counties in a State to calculate a rural wage index for that State.

We note that, effective April 1, 1990, the term Metropolitan Area (MA) replaced the term MSA (which had been used since June 30, 1983) to describe the set of metropolitan areas consisting of MSAs, PMSAs, and CMSAs. The terminology was changed by OMB in the March 30, 1990 Federal Register to distinguish between the individual metropolitan areas known as MSAs and the set of all metropolitan areas (MSAs, PMSAs, and CMSAs) (55 FR 12154). For purposes of the prospective payment system, we will continue to refer to these areas as MSAs.

Beginning October 1, 1993, section 1886(d)(3)(E) of the Act requires that we update the wage index annually. Furthermore, this section provides that the Secretary base the update on a survey of wages and wage-related costs of short-term, acute care hospitals. The survey should measure, to the extent feasible, the earnings and paid hours of employment by occupational category, and must exclude the wages and wage-related costs incurred in furnishing skilled nursing services. As discussed below in section III.F. of this preamble, we also take into account the geographic reclassification of hospitals in accordance with sections 1886(d)(8)(B) and 1886(d)(10) of the Act when calculating the wage index.

B. FY 2002 Wage Index Update

The proposed FY 2002 wage index values in section V of the Addendum to this proposed rule (effective for hospital discharges occurring on or after October 1, 2001 and before October 1, 2002) are based on the data collected from the Medicare cost reports submitted by hospitals for cost reporting periods beginning in FY 1998 (the FY 2001 wage index was based on FY 1997 wage data).

The proposed FY 2002 wage index includes the following categories of data associated with costs paid under the hospital inpatient prospective payment system (as well as outpatient costs), which were also included in the FY 2001 wage index:

• Salaries and hours from short-term, acute care hospitals.

• Home office costs and hours.

• Certain contract labor costs and hours.

• Wage-related costs.

Consistent with the wage index methodology for FY 2001, the proposed wage index for FY 2002 also continues to exclude the direct and overhead salaries and hours for services not paid through the inpatient prospective payment system such as skilled nursing facility (SNF) services, home health services, or other subprovider components that are not subject to the prospective payment system.

We calculate a separate Puerto Rico-specific wage index and apply it to the Puerto Rico standardized amount. (See 62 FR 45984 and 46041.) This wage index is based solely on Puerto Rico's data. Finally, section 4410 of Public Law 105-33 provides that, for discharges on or after October 1, 1997, the area wage index applicable to any hospital that is not located in a rural area may not be less than the area wage index applicable to hospitals located in rural areas in that State.

C. FY 2002 Wage Index Proposal

Because it is used to adjust payments to hospitals under the prospective payment system, the hospital wage index should, to the extent possible, reflect the wage costs associated with the areas of the hospital included under the hospital inpatient prospective payment system. In response to concerns within the hospital community related to the removal, from the wage index calculation, of costs related to graduate medical education (GME) (teaching physicians and residents) and certified registered nurse anesthetists (CRNAs), which are paid by Medicare separately from the prospective payment system, the American Hospital Association (AHA) convened a workgroup to develop a consensus recommendation on this issue. The workgroup recommended that costs related to GME and CRNAs be phased out of the wage index calculation over a 5-year period. Based upon our analysis of hospitals' FY 1996 wage data, and consistent with the AHA workgroup's recommendation, we specified in the July 30, 1999 final rule (64 FR 41505) that we would phase-out these costs from the calculation of the wage index over a 5-year period, beginning in FY 2000. In keeping with the decision to phase-out costs related to GME and CRNAs, the proposed FY 2002 wage index is based on a blend of 40 percent of an average hourly wage including these costs, and 60 percent of an average hourly wage excluding these costs.

Beginning with the FY 1998 cost reports, we revised the Worksheet S-3, Part II so that hospitals can separately report teaching physician Part A costs on lines 4.01, 10.01, 12.01, and 18.01. Therefore, it is no longer necessary for us to conduct the special survey we used for the FY 2000 and FY 2001 wage indexes (64 FR 41505 and 65 FR 47071).

1. Health Insurance and Health-Related Costs

In the August 1, 2000 final rule, we clarified our definition of “purchased health insurance costs” and “self-insurance” for hospitals that provide health insurance to employees (65 FR 47073). For purposes of the wage index, purchased or self-funded health insurance plan costs include the hospitals' insurance premium costs, external administration costs, and the share of costs for services delivered to employees.

In response to a comment received concerning this issue, we stated that, for self-funded health insurance costs, personnel costs associated with hospital staff that deliver the services to the employees must continue to be excluded from wage-related costs if the costs are already included in the wage data as salaries on Worksheet S-3, Part II, Line 1. However, after further consideration of this policy, particularly with respect to concerns expressed by our fiscal intermediaries about the level of effort required during the wage index desk review process to ensure hospitals are appropriately identifying and excluding these costs, we are proposing a revision. Effective with the calculation of the FY 2003 wage index, for either purchased or self-funded health insurance, we would allow health insurance personnel costs, associated with hospital staff that deliver services to employees, to be included as part of the wage-related costs. We believe this proposed revised policy will ensure that health insurance costs are consistently reported by hospitals. Health insurance costs would continue to be developed using generally accepted accounting principles.

In the August 1, 2000 final rule (65 FR 47073), we further clarified that health-related costs (including employee physical examinations, flu shots, and clinic visits, and other services that are not covered by employees' health insurance plans but are provided at no cost or at discounted rates to employees of the hospital) may be included as “other” wage-related costs if, among other criteria, the combined cost of all such health-related costs is greater than one percent of the hospital's total salaries (less excluded area salaries).

For purposes of calculating the FY 2003 wage index (which will be based on data for cost reporting periods beginning in FY 1999), we are proposing to revise this policy to allow hospitals to include health-related costs as allowable core wage-related costs.

2. Costs of Contracted Pharmacy and Laboratory Services

Our policy concerning inclusion of contract labor costs for purposes of calculating the wage index has evolved over the years. We recognize the role of contract labor in meeting special personnel needs of many hospitals. In addition, improvements in the wage data have allowed us to more accurately identify contract labor costs and hours. As a result, effective with the FY 1994 wage index, we included the costs of direct patient care contract services in the wage index calculation. The FY 1999 wage index included the costs and hours of certain management contract services, and the FY 2000 wage index included the costs for contract physician Part A services. (The 1996 proposed rule (61 FR 27456) provided an in-depth background to the issues related to the inclusion of contract labor costs in the wage index calculation.)

We revised the 1998 cost report to collect the data associated with contract pharmacy, Worksheet S-3, Part II, Line 9.01, and contract laboratory, Worksheet S-3, Part II, Line 9.02. The cost reporting instructions for these line numbers followed that for all contract labor lines; that is, to include the amount paid for services furnished under contract for direct patient care, and not include cost for equipment, supplies, travel expenses, and other miscellaneous or overhead items (Medicare Provider Reimbursement Manual, Part 2, Cost Reporting Forms and Instructions, Chapter 36, Transmittal 6, page 36-32). Effective with the FY 2002 wage index, which uses FY 1998 wage data, we are proposing to include the costs and hours of contract pharmacy and laboratory.

3. Collection of Occupational Mix Data

Section 304(c) of Public Law 106-554 amended section 1886(d)(3)(E) of the Act to require that the Secretary must provide for the collection of data every 3 years on the occupational mix of employees for each short-term, acute care hospital participating in the Medicare program, in order to construct an occupational mix adjustment to the wage index. The initial collection of these data must be completed by September 30, 2003, for application beginning October 1, 2004.

Currently, the wage data collected by HCFA on the cost report reflect the sum of wages, hours, and wage-related costs for all hospital employees. There is no separate collection by occupational categories of employees, such as registered nurses or physical therapists. Total salaries and hours reflect management decisions made by hospitals in terms of how many employees within a certain occupation to employ to treat different types of patients. For example, a large academic medical center may tend to hire more high-cost specialized employees to treat its more acutely ill patient population. The argument is that the higher labor costs incurred to treat this patient population are reflected in the higher case mix of these hospitals, and therefore, reflecting these costs in the wage index is essentially counting them twice.

An occupational mix adjustment can be used to account for hospital management decisions about how many employees to hire in each occupational category. Occupational mix data measure the price the hospital must pay for employees within each category. A wage index that reflected only these market prices would remove the impact of management decisions about the mix of employees needed and, therefore, better capture geographic variations in the labor market.

We have examined this issue previously. In the May 27, 1994 Federal Register (59 FR 27724), we discussed the outcome of consideration of this issue by a hospital workgroup. At that time, the workgroup's consensus was that the data required to implement an occupational mix adjustment were not available and the likelihood of obtaining such data would be minimal. There seemed to be little support among hospital industry representatives for developing a system that would create additional reporting burdens with an unproven or minimal impact on the distribution of payments. Also, in the August 30, 1991 Federal Register (56 FR 43219), we stated our belief that the collection of these data would be costly and difficult.

In considering the format to collect occupational mix data, we looked to data currently being collected by the Bureau of Labor Statistics (BLS), which conducts an annual mail survey to produce estimates of employment and wages for specific occupations. This program, Occupational Employment Statistics (OES), collects data on wage and salary workers in nonfarm establishments in order to produce employment and wage estimates for over 700 occupations.

The OES survey collects wage data in 12 hourly rate intervals. Employers report the number of employees in an occupation per each wage range. To illustrate, the wage intervals used for the 1999 survey are as follows:

Interval | Hourly wages | Annual wages
Range A | Under $6.75 | Under $14,040
Range B | 6.75 to 8.49 | 14,040 to 17,659
Range C | 8.50 to 10.74 | 17,660 to 22,359
Range D | 10.75 to 13.49 | 22,360 to 28,079
Range E | 13.50 to 16.99 | 28,080 to 35,359
Range F | 17.00 to 21.49 | 35,360 to 44,719
Range G | 21.50 to 27.24 | 44,720 to 56,679
Range H | 27.25 to 34.49 | 56,680 to 71,759
Range I | 34.50 to 43.74 | 71,760 to 90,999
Range J | 43.75 to 55.49 | 91,000 to 115,439
Range K | 55.50 to 69.99 | 115,440 to 145,599
Range L | 70,000 and over | 145,600 and over

It should be noted that this table is for illustrative purposes, and we may update the data ranges in our actual collection instrument.

Although we initially considered using the OES data, section 304(c) of Public Law 106-554 requires us to collect data from every short-term, acute care hospital. The OES data are a sample survey and, therefore, as currently conducted, are not consistent with the statutory requirement to include data from every hospital. Another issue with using OES data is that, for purposes of the Medicare wage index, the hospitals' data must be reviewed and verified by the fiscal intermediaries. The OES survey is a voluntary survey.

Although we decided to pursue a separate data collection effort than OES, we propose to model our format after the one used by OES. In this way, hospitals participating in the OES survey, should have no additional recordkeeping and reporting requirements beyond those of the OES survey.

The OES survey of the hospital industry is designed to capture all occupational categories within the industry. For purposes of adjusting the wage index for occupational mix, we do not believe it is necessary to collect data from such a comprehensive scope of categories. Furthermore, because the data must be audited, a comprehensive list of categories would be excessively burdensome.

In deciding which job categories to include, we reviewed the occupational categories collected by OES and identified those with at least 35,000 hospital employees. Our goal is to collect data from a sample of job categories that provides a valid measure of wage rates within a geographical area. Using this threshold of at least 35,000 employees within a category nationally, we are proposing to collect the number of employees by wage range as illustrated in the above table, for the occupational categories listed below. The following data are based on the 1999 OES survey:

OES code | Category | Employees | Percent of total hospital employees | Mean hourly wage
15008 | Medicine and Health Services Managers | 93,680 | 1.9 | $27.38
27302 | Social Workers, Medial and Psychiatric | 53,360 | 1.1 | 16.33
32102 | Physicians and Surgeons | 125,640 | 2.6 | 43.76
32308 | Physical Therapists | 39,840 | 0.8 | 26.14
32502 | Registered Nurses | 1,231,980 | 25.0 | 21.12
32505 | Licensed Practical Nurses | 206,360 | 4.2 | 13.39
32517 | Pharmacists | 46,860 | 1.0 | 28.62
32911, 32928, 32931 | Clinical Technologists and Technicians | 122,380 | 2.50 | 11.69
51002, 55105, 55108, 55305 | First-Line Supervisors and Clerical Workers | 445,730 | 9.5 | 11.39
55332, 55347
65038, 67002, 67005 | Food Preparation Workers and Housekeeping | 218,440 | 4.5 | 8.17
66008 | Nursing Aides, Orderlies, and Attendants | 301,240 | 6.2 | 8.67

We believe this list of occupational categories provides a good representation of the employee mix at most hospitals. Definitions for each occupational category are available on the BLS website at http://stats.bls.gov/oes/1999/oes_alph.htm.

We have yet to settle on the methodology on how to use the occupational mix index. One option would be to weight each hospital's wage index by its occupational mix index. This requires calculating a national occupational mix index and then breaking it down by MSA and by hospital, similar to how the wage index is broken down. In this way, the wage index would capture geographic differences in wage rates. The decision about how to apply the occupational mix index to the wage index depends on the quality of the data collected, since this effort will be the first time wage and hour data by occupation are collected in this audited manner.

Section 304(c) directs the Secretary to provide for the collection of these data by September 30, 2003, and to apply them in the wage index by October 1, 2004. Therefore, the data are to be incorporated in the FY 2005 wage index. Under our current timetable, the FY 2005 wage index will be based on wage data collected from hospitals' cost reporting periods beginning during FY 2001. In order to facilitate the fiscal intermediaries' review of these data, we believe the occupational mix data should coincide with the data otherwise used to calculate the cost report. Therefore, we will conduct a special survey of all short-term acute-care hospitals that are required to report wage data to collect these data coinciding with hospitals' FY 2001 cost reports. More specific procedural information regarding this survey will be included in the FY 2002 final rule scheduled to be published by August 1, 2001.

D. Verification of Wage Data From the Medicare Cost Report

The data for the proposed FY 2002 wage index were obtained from Worksheet S-3, Parts II and III of the FY 1998 Medicare cost reports. The data file used to construct the proposed wage index includes FY 1998 data submitted to HCFA as of mid-February 2001. As in past years, we performed an intensive review of the wage data, mostly through the use of edits designed to identify aberrant data.

We asked our fiscal intermediaries to revise or verify data elements that resulted in specific edit failures. Some unresolved data elements are included in the calculation of the proposed FY 2002 wage index pending their resolution before calculation of the final FY 2002 wage index. We have instructed the intermediaries to complete their verification of questionable data elements and to transmit any changes to the wage data no later than April 9, 2001. We expect that all unresolved data elements will be resolved by that date. The revised data will be reflected in the final rule.

Also, as part of our editing process, we removed data for 47 hospitals that failed edits. For 23 of these hospitals, we were unable to obtain sufficient documentation to verify or revise the data because the hospitals are no longer participating in the Medicare program or are in bankruptcy status. Twenty-four hospitals had incomplete or inaccurate data resulting in zero or negative average hourly wages. Therefore, they were removed from the calculation. The data for these hospitals will be included in the final wage index if we receive corrected data that pass our edits. As a result, the proposed FY 2002 wage index is calculated based on FY 1998 wage data for 4,868 hospitals.

E. Computation of the Proposed FY 2002 Wage Index

We note a proposed technical change to the FY 2002 calculation. For the FY 2001 wage index calculation, we initially proposed to subtract Line 13 of Worksheet S-3, Part III from total hours when determining the excluded hours ratio used to estimate the amount of overhead attributed to excluded areas (65 FR 26299). However, the formula resulted in large and inappropriate increases in the average hourly wages for some hospitals (65 FR 47074), particularly hospitals that have large overhead and excluded area costs. Therefore, for the final FY 2001 wage index calculation, we reverted to the FY 2000 excluded hours ratio formula, which did not subtract Line 13.

We, and others in the hospital community, continued to believe that subtracting Part III, Line 13 from total hours is the correct formula for determining the excluded hours ratio. We analyzed how the application of this formula resulted in overstated average hourly wages for some hospitals and how we could improve the overall accuracy of the overhead allocation methodology. We became aware that the problem was not in the excluded hours ratio formula. Rather, our wage index calculation did not also remove the overhead wage-related costs associated with excluded areas, an amount that must be estimated before it can be subtracted from the calculation. The combined effect of applying the excluded hours ratio formula, which appropriately removes salaries of lower-wage, overhead employees, and not subtracting overhead wage-related costs associated with excluded areas, resulted in overstated salary costs and average hourly wages.

For the FY 2002 wage index calculation, we are proposing to apply the excluded hours ratio formula that subtracts Part III, Line 13 from total hours. Additionally, for the first time in the wage index calculation, we estimated and subtracted overhead wage-related costs allocated to excluded areas.

After we applied this new calculation, there were still a few hospitals that experienced large increases in their average hourly wages. The intermediaries verified that the hospitals' wage data were accurate, so we kept the data in the wage index calculation. These hospitals primarily function as SNFs, psychiatric hospitals, or rehabilitation hospitals that have few acute care beds. The hospitals' higher average hourly wages reflect the costs of the higher salaried employees that remain in the wage index calculation after we subtract the costs of excluded area and associated overhead employees.

The method used to compute the proposed FY 2002 wage index follows.

Step 1—As noted above, we are proposing to base the FY 2002 wage index on wage data reported on the FY 1998 Medicare cost reports. We gathered data from each of the non-Federal, short-term, acute care hospitals for which data were reported on the Worksheet S-3, Parts II and III of the Medicare cost report for the hospital's cost reporting period beginning on or after October 1, 1997 and before October 1, 1998. In addition, we included data from any hospital that had cost reporting periods beginning before October 1997 and reported a cost reporting period covering all of FY 1998. These data were included because no other data from these hospitals would be available for the cost reporting period described above, and because particular labor market areas might be affected due to the omission of these hospitals. However, we generally describe these wage data as FY 1998 data. We note that, if a hospital had more than one cost reporting period beginning during FY 1998 (for example, a hospital had two short cost reporting periods beginning on or after October 1, 1997 and before October 1, 1998), we included wage data from only one of the cost reporting periods, the longest, in the wage index calculation. If there was more than one cost reporting period and the periods were equal in length, we included the wage data from the latest period in the wage index calculation.

Step 2—Salaries—The method used to compute a hospital's average hourly wage is a blend of 40 percent of the hospital's average hourly wage including all GME and CRNA costs, and 60 percent of the hospital's average hourly wage after eliminating all GME and CRNA costs.

In calculating a hospital's average salaries plus wage-related costs, including all GME and CRNA costs, we subtracted from Line 1 (total salaries) the Part B salaries reported on Lines 3 and 5, home office salaries reported on Line 7, and excluded salaries reported on Lines 8 and 8.01 (that is, direct salaries attributable to skilled nursing facility services, home health services, and other subprovider components not subject to the prospective payment system). We also subtracted from Line 1 the salaries for which no hours were reported on Lines 2, 4, and 6. To determine total salaries plus wage-related costs, we added to the net hospital salaries the costs of contract labor for direct patient care, certain top management, pharmacy, laboratory, and physician Part A services (Lines 9, 9.01, 9.02, 10, and 10.01), home office salaries and wage-related costs reported by the hospital on Lines 11, 12, and 12.01, and nonexcluded area wage-related costs (Lines 13, 14, 16, 18, 18.01, and 20).

We note that contract labor and home office salaries for which no corresponding hours are reported were not included. In addition, wage-related costs for specific categories of employees (Lines 16, 18, 18.01, and 20) are excluded if no corresponding salaries are reported for those employees (Lines 2, 4, 4.01, and 6, respectively).

We then calculated a hospital's salaries plus wage-related costs by subtracting from total salaries the salaries plus wage-related costs for teaching physicians, Lines (4.01, 10.01, 12.01, and 18.01), Part A CRNAs (Lines 2 and 16), and residents (Lines 6 and 20).

Step 3—Hours—With the exception of wage-related costs, for which there are no associated hours, we computed total hours using the same methods as described for salaries in Step 2.

Step 4—For each hospital reporting both total overhead salaries and total overhead hours greater than zero, we then allocated overhead costs to areas of the hospital excluded from the wage index calculation. First, we determined the ratio of excluded area hours (sum of Lines 8 and 8.01 of Worksheet S-3, Part II) to revised total hours (Line 1 minus the sum of Part II, Lines 3, 5, 7, and Part III, Line 13 of Worksheet S-3). We then computed the amounts of overhead salaries and hours to be allocated to excluded areas by multiplying the above ratio by the total overhead salaries and hours reported on Line 13 of Worksheet S-3, Part III. Next, we computed the amounts of overhead wage-related costs to be allocated to excluded areas using three steps: (1) We determined the ratio of overhead hours (Part III, Line 13) to revised hours (Line 1 minus the sum of Lines 3, 5, and 7); (2) we computed overhead wage-related costs by multiplying the overhead hours ratio by wage-related costs reported on Part II, Lines 13, 14, 16, 18, 18.01, and 20; and (3) we multiplied the computed overhead wage-related costs by the above excluded area hours ratio. Finally, we subtracted the computed overhead salaries, wage-related costs, and hours associated with excluded areas from the total salaries (plus wage-related costs) and hours derived in Steps 2 and 3. Using the above method for computing overhead salaries, wage-related costs, and hours to allocate to excluded areas, we also computed these costs excluding all costs associated with GME and CRNAs (Lines 2, 4.01, 6, 10.01, 12.01, and 18.01).

Step 5—For each hospital, we adjusted the total salaries plus wage-related costs to a common period to determine total adjusted salaries plus wage-related costs. To make the wage adjustment, we estimated the percentage change in the employment cost index (ECI) for compensation for each 30-day increment from October 14, 1997 through April 15, 1999 for private industry hospital workers from the Bureau of Labor Statistics' Compensation and Working Conditions. We use the ECI because it reflects the price increase associated with total compensation (salaries plus fringes) rather than just the increase in salaries. In addition, the ECI includes managers as well as other hospital workers. This methodology to compute the monthly update factors uses actual quarterly ECI data and assures that the update factors match the actual quarterly and annual percent changes. The factors used to adjust the hospital's data were based on the midpoint of the cost reporting period, as indicated below.

Midpoint of Cost Reporting Period
After | Before | Adjustment factor
12/14/97 | 01/15/98 | 1.03292
01/14/98 | 02/15/98 | 1.03048
02/14/98 | 03/15/98 | 1.02828
03/14/98 | 04/15/98 | 1.02621
04/14/98 | 05/15/98 | 1.02411
05/14/98 | 06/15/98 | 1.02200
06/14/98 | 07/15/98 | 1.01973
07/14/98 | 08/15/98 | 1.01714
08/14/98 | 09/15/98 | 1.01424
09/14/98 | 10/15/98 | 1.01137
10/14/98 | 11/15/98 | 1.00885
11/14/98 | 12/15/98 | 1.00669
12/14/98 | 01/15/99 | 1.00462
01/14/99 | 02/15/99 | 1.00239
02/14/99 | 03/15/99 | 1.00000
03/14/99 | 04/15/99 | 0.99746

For example, the midpoint of a cost reporting period beginning January 1, 1998 and ending December 31, 1998 is June 30, 1998. An adjustment factor of 1.01973 would be applied to the wages of a hospital with such a cost reporting period. In addition, for the data for any cost reporting period that began in FY 1998 and covered a period of less than 360 days or more than 370 days, we annualized the data to reflect a 1-year cost report. Annualization is accomplished by dividing the data by the number of days in the cost report and then multiplying the results by 365.

Step 6—Each hospital was assigned to its appropriate urban or rural labor market area before any reclassifications under section 1886(d)(8)(B) or section 1886(d)(10) of the Act. Within each urban or rural labor market area, we added the total adjusted salaries plus wage-related costs obtained in Step 5 (with and without GME and CRNA costs) for all hospitals in that area to determine the total adjusted salaries plus wage-related costs for the labor market area.

Step 7—We divided the total adjusted salaries plus wage-related costs obtained under both methods in Step 6 by the sum of the corresponding total hours (from Step 4) for all hospitals in each labor market area to determine an average hourly wage for the area.

Because the proposed FY 2002 wage index is based on a blend of average hourly wages, we then added 40 percent of the average hourly wage calculated without removing GME and CRNA costs, and 60 percent of the average hourly wage calculated with these costs excluded.

Step 8—We added the total adjusted salaries plus wage-related costs obtained in Step 5 for all hospitals in the nation and then divided the sum by the national sum of total hours from Step 4 to arrive at a national average hourly wage (using the same blending methodology described in Step 7). Using the data as described above, the national average hourly wage is $22.0545.

Step 9—For each urban or rural labor market area, we calculated the hospital wage index value by dividing the area average hourly wage obtained in Step 7 by the national average hourly wage computed in Step 8.

Step 10—Following the process set forth above, we developed a separate Puerto Rico-specific wage index for purposes of adjusting the Puerto Rico standardized amounts. (The national Puerto Rico standardized amount is adjusted by a wage index calculated for all Puerto Rico labor market areas based on the national average hourly wage as described above.) We added the total adjusted salaries plus wage-related costs (as calculated in Step 5) for all hospitals in Puerto Rico and divided the sum by the total hours for Puerto Rico (as calculated in Step 4) to arrive at an overall average hourly wage of $10.8100 for Puerto Rico. For each labor market area in Puerto Rico, we calculated the Puerto Rico-specific wage index value by dividing the area average hourly wage (as calculated in Step 7) by the overall Puerto Rico average hourly wage.

Step 11—Section 4410 of Public Law 105-33 provides that, for discharges on or after October 1, 1997, the area wage index applicable to any hospital that is located in an urban area may not be less than the area wage index applicable to hospitals located in rural areas in that State. Furthermore, this wage index floor is to be implemented in such a manner as to ensure that aggregate prospective payment system payments are not greater or less than those that would have been made in the year if this section did not apply. For FY 2002, this change affects 240 hospitals in 41 MSAs. The MSAs affected by this provision are identified in Table 4A by a footnote.

F. Revisions to the Wage Index Based on Hospital Redesignation

Under section 1886(d)(8)(B) of the Act, hospitals in certain rural counties adjacent to one or more MSAs are considered to be located in one of the adjacent MSAs if certain standards are met. Under section 1886(d)(10) of the Act, the MGCRB considers applications by hospitals for geographic reclassification for purposes of payment under the prospective payment system.

1. Provisions of Public Law 106-554

Section 304 of Public Law 106-554 made changes to several provisions of section 1886(d)(10) of the Act relating to hospital reclassifications and the wage index:

• Section 304(a) amended section 1886(d)(10)(D) of the Act by adding a clause (v) to provide that, beginning with FY 2001, an MGCRB decision on a hospital reclassification for purposes of the wage index is effective for 3 years, unless the hospital elects to terminate the reclassification. Section 304(a) also provides that the MGCRB must use the 3 most recent years' average hourly wage data in evaluating a hospital's reclassification application for FY 2003 and any succeeding fiscal year (section 1886(d)(10)(D)(vi) of the Act).

• Section 304(b) provides that, by October 1, 2001, the Secretary must establish a mechanism under which a statewide entity may apply to have all of the geographic areas in the State treated as a single geographic area for purposes of computing and applying a single wage index, for reclassifications beginning in FY 2003. Section 304(b) further requires that, if the Secretary applies a statewide wage index to an area, an application by an individual hospital in that area would not be considered.

We address our policy proposals relating to implementation of these three provisions of sections 304(a) and (b) of Public Law 106-554 in section IV. of this proposed rule. The following discussion of the proposed revisions to the wage index based on hospital redesignations reflects these proposed policies.

2. Effects of Reclassification

The methodology for determining the wage index values for redesignated hospitals is applied jointly to the hospitals located in those rural counties that were deemed urban under section 1886(d)(8)(B) of the Act and those hospitals that were reclassified as a result of the MGCRB decisions under section 1886(d)(10) of the Act. Section 1886(d)(8)(C) of the Act provides that the application of the wage index to redesignated hospitals is dependent on the hypothetical impact that the wage data from these hospitals would have on the wage index value for the area to which they have been redesignated. Therefore, as provided in section 1886(d)(8)(C) of the Act, the wage index values were determined by considering the following:

• If including the wage data for the redesignated hospitals would reduce the wage index value for the area to which the hospitals are redesignated by 1 percentage point or less, the area wage index value determined exclusive of the wage data for the redesignated hospitals applies to the redesignated hospitals.

• If including the wage data for the redesignated hospitals reduces the wage index value for the area to which the hospitals are redesignated by more than 1 percentage point, the area wage index determined inclusive of the wage data for the redesignated hospitals (the combined wage index value) applies to the redesignated hospitals.

• If including the wage data for the redesignated hospitals increases the wage index value for the area to which the hospitals are redesignated, both the area and the redesignated hospitals receive the combined wage index value.

• The wage index value for a redesignated urban or rural hospital cannot be reduced below the wage index value for the rural areas of the State in which the hospital is located.

• Rural areas whose wage index values would be reduced by excluding the wage data for hospitals that have been redesignated to another area continue to have their wage index values calculated as if no redesignation had occurred.

• Rural areas whose wage index values increase as a result of excluding the wage data for the hospitals that have been redesignated to another area have their wage index values calculated exclusive of the wage data of the redesignated hospitals.

• Currently, the wage index value for an urban area is calculated exclusive of the wage data for hospitals that have been reclassified to another area.

For the FY 2002 wage index, we are proposing to include the wage data for a reclassified urban hospital in both the area to which it is reclassified and the MSA where the hospital is physically located. We believe this will improve consistency and predictability in hospital reclassification and wage indices, as well as alleviate the fluctuations in the wage indexes due to reclassifications. For example, hospitals applying to reclassify into another area will know which hospitals' data will be included in calculating the wage index, because even if some hospitals in the area are reclassified, their data will be included in the calculation of the wage index of the area where they are geographically located. Also, in some cases, excluding the data of hospitals reclassified to another MSA could have a large downward impact on the wage index of the MSA in which the hospital is physically located. The negative impact of removing the data of the reclassified hospitals from the wage index calculation could lead to large wage disparities between the reclassified hospitals and other hospitals in the MSA, as the remaining hospitals would receive reduced payments due to a lower wage index. Our proposed approach would promote consistency, and simplify our rules, with respect to how we construct the wage indexes of rural and urban areas. As noted above, in the case of rural hospitals redesignated to another area, the wage index of the rural area where the hospitals are geographically located is calculated by including the wage data of the redesignated hospitals (unless doing so would result in a lower wage index).

Finally, we note that the Medicare Payment Advisory Commission (MedPAC), in its March 2001 “Report to the Congress: Medicare Payment Policy,” recommended this policy (p. 82). (Section VII. of this preamble includes a discussion of MedPAC's recommendations and our responses.) To illustrate the potential negative impact on hospitals in an area where reclassifications of some hospitals to another area results in a decline in the wage index after the reclassified hospitals are excluded from the wage index calculation, MedPAC points out that hospitals in several MSAs have organized to pay qualifying hospitals not to reclassify. Our proposed policy change would remove this distorted incentive.

The proposed wage index values for FY 2002 are shown in Tables 4A, 4B, 4C, and 4F in the Addendum to this proposed rule. Hospitals that are redesignated should use the wage index values shown in Table 4C. Areas in Table 4C may have more than one wage index value because the wage index value for a redesignated urban or rural hospital cannot be reduced below the wage index value for the rural areas of the State in which the hospital is located. When the wage index value of the area to which a hospital is redesignated is lower than the wage index value for the rural areas of the State in which the hospital is located, the redesignated hospital receives the higher wage index value; that is, the wage index value for the rural areas of the State in which it is located, rather than the wage index value otherwise applicable to the redesignated hospitals.

As mentioned earlier, section 304(a) of Public Law 106-554 amended section 1886(d)(10)(D) of the Act by adding a new clause (v) to provide that a reclassification of a hospital by the MGCRB for purposes of the wage index is effective for 3 years (instead of 1 year) unless, under procedures established by the Secretary, the hospital elects to terminate the reclassification before the end of the 3-year period. Section 304(a) of Public Law 106-554 also amended section 1886(d)(10)(D) of the Act to specify that, for applications for reclassification for the wage index for FYs 2003 and later, the MGCRB must base any comparison of the average hourly wage of the hospital with the average hourly wage for hospitals in the area in which it is located and the area to which it seeks reclassification, using data from the most recently published hospital wage survey (as of the date of the hospital's application), as well as data from each of the two immediately preceding surveys. (Our policy proposals to incorporate the provisions of section 304(a) of Public Law 106-554 in the regulations are addressed in section IV.E. of this proposed rule).

Consistent with the section 304(a) amendment, Tables 3A and 3B list the 3-year average hourly wage for each labor market area before the redesignation of hospitals, based on FY 1996, 1997, and 1998 wage data. In addition, Table 2 in the Addendum to this proposed rule includes the adjusted average hourly wage for each hospital from the FY 1996 and FY 1997 cost reporting periods, as well as the FY 1998 period. Table 2 also shows the 3-year average (as well as hospitals' average hourly wages for each of the 3 years) that the MGCRB will use (as published in the final rule following this proposed rule) to evaluate a hospital's application for reclassification for FY 2003 (unless that average hourly wage is later revised in accordance with § 412.63(w)(2)). The 3-year averages are calculated by dividing the sum of the dollars (adjusted to a common reporting period using the method described previously in this section) across all 3 years, by the sum of the hours. If a hospital is missing data for any of the previous years, its average hourly wage for the 3-year period is calculated based on the data available during that period.

Applications for FY 2003 reclassifications are due to the MGCRB by September 1, 2001. (We note that the new location and mailing address of the MGCRB and the Provider Reimbursement Review Board (PRRB) is: 2520 Lord Baltimore Drive, Suite L, Baltimore, MD 21244-2670. The MGCRB and PRRB will be functioning at this new location as of May 21, 2001. Also, please specify whether the mail is intended for the MGCRB or the PRRB.)

At the time this proposed wage index was constructed, the MGCRB had completed its review of FY 2002 reclassification requests. The proposed FY 2002 wage index values incorporate all 643 hospitals redesignated for purposes of the wage index (hospitals redesignated under section 1886(d)(8)(B) or section 1886(d)(10) of the Act for FY 2002. The final number of reclassifications may vary because some MGCRB decisions are still under review by the Administrator and because some hospitals may withdraw their requests for reclassification.

Any changes to the wage index that result from withdrawals of requests for reclassification, wage index corrections, appeals, and the Administrator's review process will be incorporated into the wage index values published in the final rule following this proposed rule. The changes may affect not only the wage index value for specific geographic areas, but also the wage index value redesignated hospitals receive; that is, whether they receive the wage index value for the area to which they are redesignated, or a wage index value that includes the data for both the hospitals already in the area and the redesignated hospitals. Further, the wage index value for the area from which the hospitals are redesignated may be affected.

Under § 412.273, hospitals that have been reclassified by the MGCRB are permitted to withdraw their applications within 45 days of the publication of this proposed rule in the Federal Register. The request for withdrawal of an application for reclassification that would be effective in FY 2002 must be received by the MGCRB by June 18, 2001. A hospital that requests to withdraw its application may not later request that the MGCRB decision be reinstated.

In addition, because the 3-year effect of the amendment made by section 304(a) of Public Law 106-554 is applicable to reclassifications for FY 2001 (which had already taken place prior to the date of enactment of Public Law 106-554) and because the application process for reclassification for FY 2002 had already been completed by the date of enactment, we are deeming hospitals that are reclassified for purposes of the wage index to one area for FY 2001 and are reclassified for purposes of the wage index or the standardized amount to another area for FY 2002 to be reclassified to the area for which they applied for FY 2002, unless they elect to receive the wage index reclassification they were granted for FY 2001. Consistent with our application withdrawal procedures under § 412.273, we are allowing hospitals that wish to receive, for FY 2002, the reclassification they were granted for FY 2001, to withdraw their applications within 45 days of the publication of this proposed rule (that is, by June 18, 2001. (These procedures are discussed in detail under section IV.E.1. of this preamble.)

3. Statewide Wage Index

As stated earlier, section 304(b) of Public Law 106-554 requires the Secretary to establish, by October 1, 2001, a process (based on the voluntary process utilized by the Secretary under section 1848 of the Act) under which an appropriate statewide entity may apply to have all the geographic areas in the State treated as a single geographic area for purposes of computing and applying a single wage index, for reclassification beginning in FY 2003. Section 304(b) further requires that, if the Secretary applies a statewide wage index to an area, an application by an individual hospital in that area would not be considered. We believe the reference to the voluntary process utilized by the Secretary under section 1848 of the Act refers to the process whereby we allow a State containing multiple physician fee schedule payment areas (and thus multiple geographic adjustment factors) to voluntarily convert to a single statewide payment area with a single geographic adjustment factor (see § 414.4(b), as discussed in the June 24, 1994 Federal Register (59 FR 32759).

Section IV.E. of this proposed rule contains our policy proposal for implementing the provisions of section 304(b) in regulations. We are proposing that hospitals that seek a statewide geographic reclassification under the amendments made by section 304(b) of Public Law 106-554 apply to the MGCRB with the same deadlines as other hospitals. An approved application by the MGCRB would mean that the data of all the hospitals in the State would be used in computing and applying the wage index for that State. We are proposing that the statewide wage index would be applicable for 3 years from the date of approval or until all of the participating hospitals terminate their approved statewide wage index reclassification (effective with the next full fiscal year after their termination request), whichever occurs first.

4. Section 402 of Public Law 106-113

Beginning October 1, 1988, section 1886(d)(8)(B) of the Act required us to treat a hospital located in a rural county adjacent to one or more urban areas as being located in the MSA to which the greatest number of workers in the county commute, if the rural county would otherwise be considered part of an urban area under the standards published in the Federal Register on January 3, 1980 (45 FR 956) for designating MSAs (and for designating NECMAs), and if the commuting rates used in determining outlying counties (or, for New England, similar recognized areas) were determined on the basis of the aggregate number of resident workers who commute to (and, if applicable under the standards, from) the central county or counties of all contiguous MSAs (or NECMAs). Hospitals that met the criteria using the January 3, 1980 version of these OMB standards were deemed urban for purposes of the standardized amounts and for purposes of assigning the wage data index.

During FY 1994, we incorporated the revised MSA definitions based on 1990 census population data. As a result, some counties that previously were treated as an adjacent county under section 1886(d)(8)(B) of the Act officially became part of certain MSAs. However, as specified in the Act, we continued to utilize the January 3, 1980 standards. For FY 2000, there were 27 hospitals in 22 counties affected by this provision.

On March 30, 1990, OMB issued revised 1990 standards (55 FR 12154). There has been an increasing amount of interest by the hospital industry in using the 1990 standards as opposed to the 1980 standards to determine which hospitals qualify under the provisions set forth in section 1886(d)(8)(B) of the Act. Section 402 of Public Law 106-113 provides that, with respect to FYs 2001 and 2002, a hospital may elect to have the 1990 standards applied to it for purposes of section 1886(d)(8)(B) and that, beginning with FY 2003, hospitals will be required to use the standards published in the Federal Register by the Director of OMB based on the most recent decennial census.

We worked with staff of the Population Distribution Branch within the Population Division of the United States Census Bureau to compile a list of hospitals that meet the March 30, 1990 standards using 1990 census population data and information prepared for the Metropolitan Area Standards Review Project. The conditions that must be met for a hospital located in a rural county adjacent to one or more urban areas to be treated as being located in the urban area to which the greatest number of workers in the rural county commute are as follows:

• The rural county would otherwise be considered part of an MSA but for the fact that the rural county does not meet the standard established by OMB relating to the commuting rate of workers between the county and the central county or counties of any adjacent MSA.

• The county would meet the commuting standard if commuting to (and where applicable, from) the central county or central counties of all adjacent MSAs or NECMAs (rather than to just one) were considered.

A county meeting the above commuting standards must also meet the other standards established by OMB for inclusion in an MSA as an outlying county. In order to meet these requirements, the rural county must have a degree of “metropolitan character.” “Metropolitan character” is established by meeting one of the following OMB standards, which were published in the Federal Register on March 30, 1990:

a. At least 50 percent of the employed workers residing in the county commute to the central county/counties, and either—

• The population density of the county is at least 25 persons per square mile; or

• At least 10 percent of the population, or at least 5,000 persons, lives in the qualifier urbanized area(s).

b. From 40 to 50 percent of the employed workers commute to the central county/counties, and either—

• The population density is at least 35 persons per square mile; or

• At least 10 percent of the population, or at least 5,000 persons, lives in the qualifier urbanized area(s).

c. From 25 to 40 percent of the employed workers commute to the central county/counties and either the population density of the county is at least 50 persons per square mile, or any two of the following conditions exist:

• Population density is at least 35 persons per square mile.

• At least 35 percent of the population is urban.

• At least 10 percent of the population, or at least 5,000 persons, lives in the qualifier urbanized area(s).

d. From 15 to 25 percent of the employed workers commute to the central county/counties, the population density of the county is at least 50 persons per square mile, and any two of the following conditions also exist:

• Population density is at least 60 persons per square mile.

• At least 35 percent of the population is urban.

• Population growth between the last two decennial censuses is at least 20 percent.

• At least 10 percent of the population, or at least 5,000 persons, lives in the qualifier urbanized area(s).

Also accepted as meeting this commuting requirement under item d. are:

• The number of persons working in the county who live in the central county/counties is equal to at least 15 percent of the number of employed workers living in the county; or

• The sum of the number of workers commuting to and from the central county/counties is equal to at least 20 percent of the number of employed workers living in the county.

e. From 15 to 25 percent of the employed workers commute to the central county/counties, the population density of the county is less than 50 persons per square mile, and any two of the following conditions also exist:

• At least 35 percent of the population is urban.

• Population growth between the last two decennial censuses is at least 20 percent.

• At least 10 percent of the population, or at least 5,000 persons, lives in the qualifier urbanized area(s).

f. At least 2,500 of the population lives in a central city of the MSA located in the qualifier urbanized area(s).

When we apply the 1990 standards as opposed to 1980 standards, the number of qualifying counties increases from 22 to 31. On the basis of the evaluation of these data, effective for discharges occurring on or after October 1, 2001, hospitals located in the first column of the following table are proposed to be considered, for purposes of assigning the inpatient standardized amount and the wage index, to be located in the corresponding urban area in the second column:

Rural County | MSA
Chilton, AL | Birmingham, AL.
Marshall, AL | Huntsville, AL.
Talladega, AL | Anniston, AL.
Bradford, FL | Jacksonville, FL.
Hendry, FL | West Palm Beach-Boca Raton, FL.
Putnam, FL | Gainesville, FL.
Jackson, GA | Athens, GA.
Christian, IL | Springfield, IL.
Macoupin, IL | St. Louis, MO-IL.
Piatt, IL | Champaign-Urbana, IL.
Brown, IN | Indianapolis, IN.
Carroll, IN | Lafayette, IN.
Henry, IN | Indianapolis, IN.
Jefferson, KS | Topeka, KS.
Barry, MI | Kalamazoo-Battle Creek, MI.
Cass, MI | Benton Harbor, MI.
Ionia, MI | Grand Rapids-Muskegon-Holland, MI.
Shiawassee, MI | Flint, MI.
Tuscola, MI | Saginaw-Bay City-Midland, MI
Caswell, NC | Greensboro-Winston Salem-High Point, NC.
Greene, NC | Greenville, NC.
Harnett, NC | Raleigh-Durham-Chapel Hill, NC.
Wilson, NC | Rocky Mount, NC.
Preble, OH | Dayton-Springfield, OH.
Van Wert, OH | Lima, OH.
Adams, PA | York, PA.
Lawrence, PA | Pittsburgh, PA.
Monroe, PA | Newark, NJ.
Schuylkill, PA | Reading, PA.
Jefferson, WI | Milwaukee-Waukesha, WI.
Walworth, WI | Milwaukee-Waukesha, WI.

There are 14 counties that meet the qualifying criteria using 1990 standards that did not meet the criteria using the 1980 standards. These 14 counties are:

Chilton, AL

Talladega, AL

Bradford, FL

Hendry, FL

Putnam, FL

Jackson, GA

Piatt, IL

Brown, IN

Carroll, IN

Greene, NC

Wilson, NC

Adams, PA

Monroe, PA

Schuylkill, PA

In addition, when we apply the 1980 standards for three of the counties, the MSA assigned is different from the MSA that would be assigned using the 1990 standards. These counties are as follows:

Rural county | 1980 MSA designation | 1990 MSA designation
Ionia, MI | Lansing-East Lansing, MI | Grand Rapids-Muskegon-Hollan, MI.
Caswell, NC | Danville, VA | Greensboro-Winston Salem-High Point, NC.
Harnett, NC | Fayetteville, NC | Raleigh-Durham-Chapel Hill, NC.

Section 402 of Public Law 106-113 states that hospitals may elect to use either the January 3, 1980 standards or the March 30, 1990 standards for payments during FY 2001 and FY 2002. We are assuming hospitals will elect to go to the MSA resulting in the highest payment amount accounting for the applicable wage indexes and standardized amounts. Based on our analysis, we believe all hospitals in the designated rural counties would benefit by being included in the respective MSAs shown above. Therefore, we are proposing to assign the FY 2002 standardized amount and wage index of each respective MSA to the affected hospitals. Hospitals electing not to use the 1990 standards would be required to notify their fiscal intermediary in writing of such election prior to September 1, 2001, in order to allow sufficient time to reflect this change in our payment systems. (For FY 2001, we are providing further information related to this election, including recalculated wage indexes, through separate instruction.)

We note that five rural counties no longer meet the qualifying criteria when we apply the revised OMB standards. These rural counties are as follows: Indian River, FL; Mason, IL; Owen, IN; Morrow, OH; and Lincoln, WV. For FY 2002, we propose to continue to treat these hospitals as attached to an MSA on the basis of the 1980 standards. Beginning FY 2003, they must meet the 1990 standards to continue to be treated as such.

We stated in the August 1, 2000 final rule that implemented changes to the prospective payment system for FY 2001 that we were in the process of working with OMB to identify the hospitals that would be affected by section 402 of Public Law 106-113 (65 FR 47076). We further indicated we would revise payments to hospitals in the affected counties as soon as data were available. Now that the affected counties have been identified, hospitals in the 14 counties identified above will be offered the opportunity to elect this designation, as previously described. (For FY 2001, we are providing further information related to this election, including recalculated wage indexes, through separate instructions.)

Finally, three hospitals located in counties affected by the revised OMB standards also have been reclassified by the MGCRB. The affected hospitals are listed below. If the hospitals do not wish to be reclassified for FY 2002 based on their new designation as described above, they must follow the procedures described above for requesting that their reclassification be withdrawn.

Provider Number | 1990 MSA designation | FY 2002 reclassification, MSA
34-0071 | Raleigh-Durham-Chapel Hill, NC | Fayetteville, NC.
34-0124 | Raleigh-Durham-Chapel Hill, NC | Fayetteville, NC.
34-0126 | Rocky Mount, NC | Raleigh-Durham-Chapel Hill, NC (wage index only.)

G. Requests for Wage Data Corrections

As stated in section II.D. of this preamble, the data file used to construct the proposed wage index includes FY 1998 data submitted to HCFA as of mid-February 2001. In a memorandum dated February 5, 2001, we instructed all Medicare intermediaries to inform the prospective payment hospitals they service of the availability of the wage data file and the process and timeframe for requesting revisions. The wage data file was made available on February 13, 2001 through the Internet at HCFA's home page (http://www.hcfa.gov). We also instructed the intermediaries to advise hospitals of the availability of these data either through their representative hospital organizations or directly from HCFA. Additional details on ordering this data file are discussed in section IX.A of this preamble, “Requests for Data from the Public.”

In addition, Table 2 in the Addendum to this proposed rule contains each hospital's adjusted average hourly wage used to construct the proposed wage index values for the past 3 years, including the FY 1998 data used to construct the proposed FY 2002 wage index. It should be noted that the hospital average hourly wages shown in Table 2 do not reflect any changes made to a hospital's data after mid-February 2001. Changes approved by a hospital's fiscal intermediary and forwarded to HCFA by April 9, 2001, will be reflected on the final public use wage data file scheduled to be made available on or about May 4, 2001.

We believe hospitals have sufficient time to ensure the accuracy of their FY 1998 wage data. Moreover, the ultimate responsibility for accurately completing the cost report rests with the hospital, which must attest to the accuracy of the data at the time the cost report is filed. Hospitals should know what wage data were submitted on their cost reports. Additionally, they are notified of any changes to their data as a result of their intermediary's review. However, if a hospital believed that its FY 1998 wage data were incorrectly reported, the hospital was to submit corrections along with complete, detailed supporting documentation to its intermediary by March 9, 2001. Hospitals were notified of this deadline, and of all other possible deadlines and requirements, through written communications from their fiscal intermediaries in early February 2001.

After reviewing requested changes submitted by hospitals, intermediaries transmitted any revised cost reports to HCFA and forwarded a copy of the revised Worksheet S-3, Parts II and III to the hospitals. In addition, fiscal intermediaries were to notify hospitals of the changes or the reasons that changes were not accepted. This procedure ensures that hospitals have every opportunity to verify the data that will be used to construct their wage index values. We believe that fiscal intermediaries are generally in the best position to make evaluations regarding the appropriateness of a particular cost and whether it should be included in the wage index data. However, if a hospital disagrees with the intermediary's resolution of a requested change, the hospital may contact HCFA in an effort to resolve policy disputes. We note that the April 9, 2001 deadline also applies to these requested changes. We will not consider factual determinations at this time, as these should have been resolved earlier in the process.

Any wage data corrections to be reflected in the final wage index must have been reviewed and verified by the intermediary and transmitted to HCFA on or before April 9, 2001. (The deadline for hospitals to request changes from their fiscal intermediaries was March 9, 2001.) These deadlines are necessary to allow sufficient time to review and process the data so that the final wage index calculation can be completed for development of the final prospective payment rates to be published by August 1, 2001.

We have created the process described above to resolve all substantive wage data correction disputes before we finalize the wage data for the FY 2002 payment rates. Accordingly, hospitals that do not meet the procedural deadlines set forth above will not be afforded a later opportunity to submit wage data corrections or to dispute the intermediary's decision with respect to requested changes. Specifically, our policy is that hospitals that do not meet the procedural deadlines set forth above will not be permitted to later challenge, before the Provider Reimbursement Review Board, HCFA's failure to make a requested data revision (See W. A. Foote Memorial Hospital v. Shalala, No. 99-CV-75202-DT (E.D. Mich. 2001)).

The final wage data public use file will be released by May 4, 2001. Hospitals should examine both Table 2 of this proposed rule and the May 4 final public use wage data file (which reflects revisions to the data used to calculate the values in Table 2) to verify the data HCFA is using to calculate the wage index. Hospitals will have until June 4, 2001, to submit requests to correct errors in the final wage data due to data entry or tabulation errors by the intermediary or HCFA. The correction requests that will be considered at that time will be limited to errors in the entry or tabulation of the final wage data that the hospital could not have known about before the release of the final wage data public use file.

As with the file made available in February 2001, HCFA will make the final wage data file released in May 2001 available to hospital associations and the public on the Internet. However, the May 2001 file will be made available solely for the limited purpose of identifying any potential errors made by HCFA or the intermediary in the entry of the final wage data that result from the correction process described above (with the March 9 deadline). Hospitals are encouraged to review their hospital wage data promptly after the release of the final file. Data presented at this time cannot be used by hospitals to initiate new wage data correction requests.

If, after reviewing the final file, a hospital believes that its wage data are incorrect due to a fiscal intermediary or HCFA error in the entry or tabulation of the final wage data, it should send a letter to both its fiscal intermediary and HCFA. The letters should outline why the hospital believes an error exists and provide all supporting information, including dates. These requests must be received by HCFA and the intermediaries no later than June 4, 2001. Requests mailed to HCFA should be sent to: Health Care Financing Administration; Center for Health Plans and Providers; Attention: Wage Index Team, Division of Acute Care; C4-07-07; 7500 Security Boulevard; Baltimore, MD 21244-1850. Each request must also be sent to the hospital's fiscal intermediary. The intermediary will review requests upon receipt and contact HCFA immediately to discuss its findings.

At this point in the process, that is, between release of the May 2001 wage index file and June 4, 2001, changes to the hospital wage data will only be made in those very limited situations involving an error by the intermediary or HCFA that the hospital could not have known about before its review of the final wage data file. Specifically, neither the intermediary nor HCFA will accept the following types of requests at this stage of the process:

• Requests for wage data corrections that were submitted too late to be included in the data transmitted to HCFA on or before April 9, 2001.

• Requests for correction of errors that were not, but could have been, identified during the hospital's review of the February 2001 wage data file.

• Requests to revisit factual determinations or policy interpretations made by the intermediary or HCFA during the wage data correction process.

Verified corrections to the wage index received timely (that is, by June 4, 2001) will be incorporated into the final wage index to be published by August 1, 2001 and effective October 1, 2001.

Again, we believe the wage data correction process described above provides hospitals with sufficient opportunity to bring errors in their wage data to the intermediary's attention. Moreover, because hospitals will have access to the final wage data by early May 2001, they will have the opportunity to detect any data entry or tabulation errors made by the intermediary or HCFA before the development and publication of the FY 2002 wage index by August 1, 2001 and the implementation of the FY 2002 wage index on October 1, 2001. If hospitals avail themselves of this opportunity, the wage index implemented on October 1 should be accurate. Nevertheless, in the event that errors are identified after that date, we retain the right to make midyear changes to the wage index under very limited circumstances.

Specifically, in accordance with § 412.63(w)(2), we may make midyear corrections to the wage index only in those limited circumstances in which a hospital can show (1) That the intermediary or HCFA made an error in tabulating its data; and (2) that the hospital could not have known about the error, or did not have an opportunity to correct the error, before the beginning of FY 2002 (that is, by the June 4, 2001 deadline). As indicated earlier, since a hospital will have the opportunity to verify its data, and the intermediary will notify the hospital of any changes, we do not foresee any specific circumstances under which midyear corrections would be necessary. However, should a midyear correction be necessary, the wage index-change for the affected area will be effective prospectively from the date the correction is made.

H. Modification of the Process and Timetable for Updating the Wage Index

Although the wage data correction process described above has proven successful in the past for ensuring that the wage data used each year to calculate the wage indexes are generally reliable and accurate, we are concerned about the growing volume of wage data revisions initiated by hospitals during February and the first week of March. We first discussed this issue in the FY 1998 proposed rule (62 FR 29918). At that time, we noted that, in developing the FY 1997 wage index, the wage data were revised between the proposed and final rules for more than 13 percent of the hospitals (approximately 700 of 5,200). Last year, in developing the FY 2001 wage index, the wage data were revised between the proposed and final rules for more than 32 percent of the hospitals (1,605 of 4,950).

Since hospitals are expected to submit complete and accurate cost report data, and intermediaries review and request hospitals to correct problematic wage data before the data are submitted to HCFA in mid-November, we believe there should be limited revisions at this stage of the process. We remind the hospital community that the primary purpose of this file is to allow hospitals to verify that we have their correct data on file. However, according to information received from the intermediaries, these late revisions are frequently due to hospitals' lack of responsiveness in providing sufficient information to the intermediaries during the desk reviews (that is, during the intermediary's review of the hospital's cost report).

We are proposing two changes to the wage index development process and timetable beginning with the FY 2003 wage index. We believe these changes will encourage earlier submissions of wage data revisions by hospitals and will allow intermediaries more time to address the heavy volume of revisions requested after the intermediaries have completed their desk reviews of these data. First, we are proposing to release the preliminary wage data file by early January rather than early February. As with the current preliminary file, the January file would include desk reviewed wage data that intermediaries submitted to HCFA by November of the previous year and any timely revisions HCFA received from intermediaries prior to release of the January file. Hospitals would be allowed until early February to submit requests for wage data revisions to their intermediaries. Second, intermediaries would be allowed approximately 8 weeks from the hospitals' deadline for submitting revision requests (that is, until early March) to review and transmit revised wage data to HCFA.

We believe this proposed revised schedule will improve the quality of the wage index by allowing intermediaries more time to sufficiently review wage data revisions before the data are submitted to HCFA. Further, we believe the proposed revised process will encourage hospitals to submit revisions earlier, so the proposed wage index, from which hospitals base geographic reclassification decisions, is more accurate.

IV. Other Decisions and Proposed Changes to the Prospective Payment System for Inpatient Operating Costs and Graduate Medical Education Costs

A. Sole Community Hospitals (SCHs) (§§ 412.63, 412.71, 412.72, 412.73, 412.75, 412.77, and 412.92)

For the benefit of the reader, in this proposed rule, we are discussing and seeking to clarify many of the rules and policies governing SCHs because of the legislative changes that have occurred in recent years. It has been several years since the SCH criteria have been published in one location. Rather than continue to refer to various Federal Register documents and sections of the Code of Federal Regulations, we are publishing a detailed discussion of these policies, proposing to make further changes to incorporate the provisions of sections 213, 302, 303, 304, and 311 of Public Law 106-554, and proposing to clarify other related policies.

Under the hospital inpatient prospective payment system, special payment protections are provided to an SCH. Section 1886(d)(5)(D)(iii) of the Act defines an SCH as a hospital that, by reason of factors such as isolated location, weather conditions, travel conditions, absence of other like hospitals (as determined by the Secretary), or historical designation by the Secretary as an Essential Access Community Hospital (EACH), is the sole source of inpatient hospital services reasonably available to Medicare beneficiaries. The regulations that set forth the criteria that a hospital must meet to be classified as an SCH are at § 412.92. To be classified as an SCH, a hospital must either have been designated as an SCH prior to the beginning of the prospective payment system on October 1, 1983, and must be located more than 35 miles from other like hospitals, or the hospital must be located in a rural area and meet one of the following requirements:

• It is located more than 35 miles from other like hospitals.

• It is located between 25 and 35 miles from other like hospitals, and it—

—Serves at least 75 percent of all inpatients, or 75 percent of Medicare beneficiary inpatients, within a 35-mile radius or, if larger, within its service area; or

—Has fewer than 50 beds and would qualify on the basis of serving 75 percent of its area's inpatients except that some patients seek specialized care unavailable at the hospital.

• It is located between 15 and 25 miles from other like hospitals, and because of local topography or extreme weather conditions, the other like hospitals are inaccessible for at least 30 days in each of 2 out of 3 years.

• The travel time between the hospital and the nearest like hospital is at least 45 minutes because of distance, posted speed limits, and predictable weather conditions.

• Effective with hospital cost reporting periods beginning on or after April 1, 1990, section 1886(d)(5)(D)(i) of the Act, as amended by section 6003(e) of Public Law 101-239, provides that SCHs are paid based on whichever of the following rates yields the greatest aggregate payment:

• The Federal rate applicable to the hospital.

• The updated hospital-specific rate based on FY 1982 costs per discharge.

• The updated hospital-specific rate based on FY 1987 costs per discharge.

Effective with hospital cost reporting periods beginning on or after October 1, 2000, section 1886(b)(3)(I)(i) of the Act, as added by section 405 of Public Law 106-113 and amended by section 213 of Public Law 106-554, provides for other options, in addition to the three bulleted options in the above paragraph, for determining which rate would yield the greatest aggregate payment. For discharges for FY 2001 through FY 2003, these additional optional rates are—

• A phase-in blended rate of the updated hospital-specific rate based on FY 1982 costs per discharge and an FY 1996 hospital-specific rate; or

• A phase-in blended rate of the updated hospital-specific rate based on FY 1987 costs per discharge and an FY 1996 hospital-specific rate.

For discharges beginning in FY 2004, the additional optional rate would be 100 percent of the FY 1996 hospital-specific rate.

For each cost reporting period, the fiscal intermediary determines which of the payment options will yield the highest rate of payment. Payments are automatically made at the highest rate using the best data available at the time the fiscal intermediary makes the determination. However, it may not be possible for the fiscal intermediary to determine in advance precisely which of the rates will yield the highest payment by year's end. In many instances, it is not possible to forecast the update factor for the Federal rates, outlier payments, the amount of the DSH adjustment, or the IME adjustment, all of which are applicable only to payments based on the Federal rate. The fiscal intermediary makes a final adjustment at the close of the cost reporting period to determine precisely which of the payment rates would yield the highest payment to the hospital.

If a hospital disagrees with the fiscal intermediary's determination regarding the final amount of program payment to which it is entitled, it has the right to appeal the fiscal intermediary's decision in accordance with the procedures set forth in Subpart R of Part 405, which concern provider payment determinations and appeals.

In calculating a hospital-specific rate for an SCH based on its FY 1996 cost reporting period, we will, to the extent possible, use the same methodology that we used to calculate the hospital-specific rate based on either the FY 1982 or FY 1987 cost reporting period. That methodology is set forth in §§ 412.71, 412.72, 412.73, 412.75 and 412.77.

• If a hospital has a cost reporting period ending in FY 1982, it will be paid a hospital-specific rate based on its FY 1982 costs; or a hospital-specific rate based on its FY 1987 costs; or a hospital-specific rate based on its FY 1996 costs (which, until FY 2004, would be a blend of the greater of the FY 1982 or FY 1987 costs and the FY 1996 costs); or it will be paid based on the Federal rate.

• If a hospital has no cost reporting period ending in FY 1982, it will be paid a hospital-specific rate based on its FY 1987 costs; or a hospital-specific rate based on its FY 1996 costs (which, until FY 2004, would be a blend of its FY 1987 costs and FY 1996 costs); or it will be paid based on the Federal rate.

• If a hospital has no cost reporting period ending in either FY 1982 or FY 1987, it will be paid based on its FY 1996 costs; or it will be paid based on the Federal rate.

• If a hospital has no cost reporting period ending in FY 1982, FY 1987, or FY 1996, it cannot be paid based on a hospital-specific rate; it will be paid based on the Federal rate.

• If a hospital was operating during any or all of FY 1982, FY 1987, or FY 1996, but, for some reason, the cost report records are no longer available, the hospital will be treated as if it had no cost report for the applicable period. The hospital will not be allowed to substitute any other base period for the FY 1982, FY 1987, or FY 1996 base period.

For each SCH, the fiscal intermediary will calculate a hospital-specific rate based on the hospital's FY 1982, FY 1987, or FY 1996 cost report as follows:

• Determine the hospital's total allowable Medicare inpatient operating cost, as stated on the cost report.

• Divide the total Medicare operating cost by the number of Medicare discharges (without adjusting for transfers) in the cost reporting period to determine the base period cost per case.

• In order to take into consideration the hospital's individual case-mix, the base year cost per case is divided by the hospital's case-mix index applicable to the cost reporting period. This step is necessary to adjust the hospital's base period cost for case mix. This is done to remove the effects of case mix from the base period costs per case. Payments using these base period costs are then adjusted to reflect the actual case mix during the payment year. A hospital's case mix is computed based on its Medicare patient discharges subject to DRG-based payment.

The fiscal intermediary will inform each SCH of its hospital-specific rate based on its applicable cost reporting period within 180 days after the start of its cost reporting period.

An SCH is also eligible for a payment adjustment if, for reasons beyond its control, it experiences a decline in volume of greater than 5 percent compared to its preceding cost reporting period. This adjustment is also available to hospitals that could qualify as SCHs but choose not to be paid as SCHs; that is, hospitals that qualify and successfully apply to be designated as SCHs but continue to receive payments based on the Federal rate. In addition, section 6003(c)(1) of Public Law 101-239 deleted the sunset date on the 5-percent volume decline adjustment, thus allowing SCHs to receive the adjustment indefinitely. The sunset provision was included under section 1886(d)(5)(C)(ii) of the Act. (Section 6003(c)(1) of Public Law 101-239 amended that provision and redesignated it as section 1886(d)(5)(D) of the Act.)

In the September 1, 1983, issue of the Federal Register (48 FR 39781), we stated that any hospital designated as an SCH would retain that status until it experienced a change in circumstances. Section 6003(e)(3) of Public Law 101-239 specifically stated that any hospital classified as an SCH as of the date of enactment of Public Law 101-239 (December 19, 1989), will retain its SCH status even if the hospital did not meet the criteria established under section 6003(e)(1) of that law. These hospitals are the “grandfathered” SCH hospitals. Therefore, we have continued to allow hospitals designated as SCHs prior to December 19, 1989, to be “grandfathered” under current criteria.

In the June 4, 1991, Federal Register, we stated that a hospital's special status as an SCH would not be retained in light of the hospital's geographic reclassification for purposes of the standardized amount. In the event the hospital's reclassification ceases, it must reapply for special status and must meet all of the applicable qualifying criteria in effect at the time it seeks requalification (56 FR 25482). However, in the event a “grandfathered” SCH was successfully reclassified, it would be reinstated as an SCH if its reclassification ceased.

Section 401(a) of Public Law 106-113 established that any subsection (d) hospital (section 1886(d) of the Act) located in an urban area may be redesignated as being located in a rural area if the hospital meets one of several criteria established by the legislation. One of these criteria is that the hospital could qualify as an SCH if the hospital were located in a rural area. Under this provision, an urban hospital that may have been “grandfathered” as an SCH could now qualify and receive payment as an SCH if it met the criteria of a rural SCH. Given this extension of SCH eligibility, we no longer believe it is necessary to extend special protection to “grandfathered” SCHs that successfully apply for geographic reclassification through the MGCRB for the standardized amount after their MGCRB reclassification ends. This circumstance falls under the provisions of §§ 412.92(b)(3) and (b)(5), which state that an approved classification as an SCH remains in effect without need for reapproval unless there is a change in the circumstances under which the classification was approved. We believe that a successful reclassification by the MGCRB fits the definition of a change in circumstances.

Because some hospitals may not have understood the effect reclassification would have on their special status, under existing § 412.273(a) we are permitting affected hospitals the option to withdraw their applications for reclassification for FY 2002, even if the MGCRB has issued a decision, by submitting a withdrawal request to the MGCRB within 45 days of publication of this proposed rule. Finally, just as a competing hospital that closes leaves an opportunity for an existing hospital to qualify as an SCH, a new hospital that opens in an area with an existing hospital designated as an SCH endangers the SCH status of the existing hospital.

As of October 1, 1997, no designations of hospitals as EACHs can be made. The EACHs designated by HCFA before October 1, 1997, will continue to be paid as SCHs for as long as they comply with the terms, conditions, and limitations under which they were designated as EACHs.

Under § 412.92(b)(2), we define the effective dates for several situations in which a hospital gains or gives up SCH status. First, SCH status and the associated payment adjustment is effective 30 days after HCFA's written notification to the SCH. Thus, 30 days after the issuance of HCFA's notice of approval, the hospital is considered to be an SCH and the payment adjustment is applied to discharges occurring on or after that date.

Second, § 412.92(b)(4)(ii) defines the effective date when a hospital chooses to give up its SCH status. Our policy has always been that an SCH can elect to give up its SCH status at any time by submitting a written request to the appropriate HCFA regional office through its fiscal intermediary. The change to fully national rates becomes effective no later than 30 days after the hospital submits its request. We believe that the “no later than 30 days” policy for the effective date for cancelling SCH status is in keeping with the prospective nature of the prospective payment system. In addition, the 30-day timeframe to give up SCH status provides the fiscal intermediaries with enough time to alter their automated payment systems prospectively, thus avoiding expensive and time-consuming reprocessing of claims. The variable timeframe of “no later than 30 days from the date of the hospital's request” also permits the regional office, the fiscal intermediary, and the hospital to select a mutually agreeable date, for example, at the end of a month, to facilitate the change in SCH status. We expect that hospitals will anticipate when they wish to give up SCH status and to submit their requests in sufficient time to permit the 30-day period for making the change.

In addition, § 412.92(b)(2)(ii) defines the effective date of SCH status in the situation where a final and nonappealable administrative or judicial decision reverses HCFA's denial of SCH status to a hospital. In this situation, if the hospital's application was submitted on or after October 1, 1983, the effective date will be 30 days after the date of HCFA's original written notification of denial.

Under § 412.92(b)(2)(iii), we define retroactive approval of SCH status. If a hospital is granted retroactive approval of SCH status by a final and nonappealable court order or an administrative decision under subpart R of Part 405 of the regulations, and it wishes its SCH status terminated prior to the current date (that is, it wishes to be paid as an SCH for a time-limited period, all of which is in the past), it must submit written notice to the HCFA regional office through its fiscal intermediary within 90 days of the court order or the administrative decision. This written notice must clearly state that, although SCH status was granted retroactively by the court order or by the administrative decision, the hospital wants this status terminated as of a specific date. If written notice is not received within 90 days of the court order or the administrative decision, SCH status will continue. Written requests to terminate SCH status that are received subsequent to the 90-day period will be effective no later than 30 days after the request is submitted, as discussed above.

Under § 412.92(c)(1), we define mileage. We believe that mileage should continue to be measured by the shortest route over improved roads maintained by any local, State, or Federal Government entity for public use. We consider improved roads to include the paved surface up to the front entrance of the hospital because this portion of the distance is utilized by the public to access the hospital. This definition provides consistency with the interpretation of the MGCRB when considering hospital reclassification applications. The MGCRB measures the distance between the hospital and the county line of the area to which it seeks reclassification beginning with the paved area outside the front entrance of the hospital. This provides a consistent, national definition that is easily recognizable for each hospital. Finally, rounding of mileage is not permissible. this is also consistent with the MGCRB definition of mileage (56 FR 25483). We are proposing to revise the definition of “miles” under § 412.92(c)(1) to state that an improved road includes the paved surface up to the front entrance of the hospital.

Under § 412.92(c)(2), we define “like” hospital. We consider like hospitals to be those hospitals furnishing short-term acute care. That is, a hospital may not qualify for an SCH classification on the grounds that neighboring hospitals offer specialty services, thereby seeking to exclude close-by competitors as like hospitals, in order to meet the mileage criteria by measuring to a like hospital that is located further away. For example, we believe that competing hospitals within a given area may each have their own specialty services, while all the facilities continue to be considered short-term acute care hospitals. We note that under § 412.92(a)(1)(ii), a hospital with fewer than 50 beds may qualify for SCH status under a special provision if patients that it would normally serve are seeking care elsewhere due to the unavailability of specialty services. This means that, if a hospital can prove that the patients from its service area are seeking specialty services elsewhere (such as, among others, heart surgery, transplants, and burn care), rather than routine care, and, because of that fact, that it otherwise would have met the criteria of section § 412.92(a)(1)(i), it can qualify as an SCH.

We note that § 412.92(b)(1)(iii)(A) retains an outdated reference to “hospitals located within a 50 mile radius of the hospital.” With the issuance of the September 1, 1989 Federal Register (54 FR 36481, 36482), the 50 mile radius was determined to be unreasonable and all references should have been changed to 35 miles in accordance with § 412.92(a)(1)(i). We are proposing to revise the reference to “a 50 mile radius” in § 412.92(b)(1)(iii)(A) to read “a 35 mile radius”.

We note that the travel time and weather conditions criteria set forth in § 412.92(a)(3) were discussed in detail in the September 4, 1990 Federal Register (55 FR 36050 through 36055 and 36162 through 36163).

Under § 412.92(a)(1)(i) and (b)(1)(ii), we define the market area analysis criteria used to determine SCH status. There are several points concerning these requests for SCH status that we would like to clarify in this proposed rule. First, a hospital seeking an SCH designation based on these criteria must make its initial request to the fiscal intermediary with all the appropriate documents as will be discussed below (§ 412.92(b)(1)(i)). The fiscal intermediary will make a recommendation on the request, based on receipt of all the appropriate documentation and its own investigation and analysis, and that recommendation will be forwarded to the HCFA regional office for another level of review and final approval or disapproval. The fiscal intermediary would forward its recommendation to the HCFA regional office located in the hospital's area as opposed to the fiscal intermediary's area, if there is a difference in these areas. As discussed above, an approval of the request for SCH status will be effective 30 days after HCFA issues the approval letter. If a determination on the request requires the use of data that are available at HCFA central office only, upon receipt of the fiscal intermediary's recommendation, the HCFA regional office will forward the request and the fiscal intermediary's recommendation to the appropriate contact at HCFA central office where the determination will be made.

Second, a hospital must provide patient origin data (the number of patients from each zip code from which the hospital draws inpatients) for all inpatient discharges to document the boundaries of its service area (§ 412.92(b)(1)(ii)(A)). Or, the hospital can request that HCFA develop patient origin data to define its service area based on the number of patients from each zip code from which the hospital draws Medicare Part A inpatients (§ 412.92(b)(1)(iii)). Then, the lowest number of zip codes in descending percentage order of Medicare inpatients that meets the 75-percent threshold will be used to represent the hospital's service area. We note that hospitals cannot substitute zip codes elsewhere on the list in order to manipulate the service area. See (Howard Young Medical Center, Inc. v. Shalala, 207 F.3d 437 (7th Cir. 2000).)

Third, the hospital must provide patient origin data from all other hospitals located within a 35-mile radius of it or, if larger, within its service area, to document that no more than 25 percent of either all of the population or the Medicare beneficiaries residing in the hospital's service area and hospitalized for inpatient care were admitted to other like hospitals for care (§ 412.92(b)(1)(ii)(B)). Again, HCFA central office can develop patient origin data for other hospitals within the requesting hospital's service area if the hospital is requesting SCH status based on an examination of Medicare Part A inpatient utilization. In either case, the requesting hospital is required to submit a comprehensive list of hospitals located within a 35-mile radius or, if larger, within its service area. This list will be checked by both the fiscal intermediary and HCFA. Again, a requesting hospital cannot argue that a competing hospital should be excluded from the service area based on the existence of specialty services at that hospital if both hospitals are short-term acute care facilities. Distances between all reported hospitals will be checked by both the fiscal intermediary and HCFA, through electronic geographic mapping services (such as Yahoo or Mapquest) or by physically driving the distance involved.

In addition, data will be analyzed based on the year for which the hospital requests SCH status. Subsequent hospital mergers or terminations will not be taken into consideration in processing the request. For example, if a hospital requests SCH status using data for FY 1999, and that data show that there is a competing hospital in existence that subsequently closed its doors in FY 2000, the data will be analyzed with the terminated hospital in existence, unless the hospital seeking SCH status applies using later data, such as FY 2001. This principle is consistent with how we analyze wage index data. If a terminated hospital has a viable cost report for the year of wage data that is being analyzed to produce the wage index, its data are included as part of the computation.

B. Rural Referral Centers (§ 412.96)

Under the authority of section 1886(d)(5)(C)(i) of the Act, the regulations at § 412.96 set forth the criteria a hospital must meet in order to receive special treatment under the prospective payment system as a rural referral center. For discharges occurring before October 1, 1994, rural referral centers received the benefit of payment based on the other urban amount rather than the rural standardized amount. Although the other urban and rural standardized amounts were the same for discharges beginning with that date, rural referral centers would continue to receive special treatment under both the disproportionate share hospital (DSH) payment adjustment and the criteria for geographic reclassification.

Section 401 of Public Law 106-113 amended section 1886(d)(8) of the Act by adding subparagraph (E), which creates a mechanism, separate and apart from the MGCRB, permitting an urban hospital to apply to the Secretary to be treated as being located in the rural area of the State in which the hospital is located. The statute directs the Secretary to treat a qualifying hospital as being located in the rural area for purposes of provisions under section 1886(d) of the Act. Congress clearly intended hospitals that become rural under section 1886(d)(8)(E) of the Act to receive some benefit as a result. In addition, one of the criteria under section 1886(d)(8)(E) of the Act is that the hospital would qualify as an SCH or a rural referral center if it were located in a rural area. An SCH would be eligible to be paid on the basis of the higher of its hospital-specific rate or the Federal rate. On the other hand, the only benefit under section 1886(d) of the Act for an urban hospital to become a rural referral center would be waiver of the proximity requirements that are otherwise applicable under the MGCRB process, as set forth in § 412.230(a)(3)(i).

When we implemented section 401 of Public Law 106-113 in the August 1, 2000 final rule (65 FR 47089), we stated that we believed Congress contemplated that hospitals might seek to be reclassified as rural under section 1886(d)(8)(E) of the Act in order to become rural referral centers so that the hospitals would be exempt from the MGCRB proximity requirement and could be reclassified by the MGCRB to another urban area. Therefore, in that final rule we sought a policy approach that would appropriately address our concern that these urban to rural redesignations not be utilized inappropriately, and that would benefit hospitals seeking to reclassify under the MGCRB process by achieving rural referral center status. (We became aware of several specific hospitals that were rural referral centers for FY 1991, but subsequently lost their status when the county in which they were located became urban, and had expressed their wish to be redesignated as a rural referral center in order to be eligible to reclassify.) Accordingly, in light of section 1886(d)(8)(E) of the Act and the language in the accompanying Conference Report, effective as of October 1, 2000, hospitals located in what is now an urban area, if they were ever a rural referral center, were reinstated to rural referral center status.

In addition, as discussed in 62 FR 45999 and 63 FR 26317, under section 4202 of Public Law 105-33, a hospital that was classified as a rural referral center for FY 1991 is to be classified as a rural referral center for FY 1998 and later years so long as that hospital continued to be located in a rural area and did not voluntarily terminate its rural referral center status. Otherwise, a hospital seeking rural referral center status must satisfy applicable criteria. One of the criteria under which a hospital may qualify as a rural referral center is to have 275 or more beds available for use. A rural hospital that does not meet the bed size requirement can qualify as a rural referral center if the hospital meets two mandatory prerequisites (specifying a minimum case-mix index and a minimum number of discharges) and at least one of three optional criteria (relating to specialty composition of medical staff, source of inpatients, or referral volume). With respect to the two mandatory prerequisites, a hospital may be classified as a rural referral center if its—

• Case-mix index is at least equal to the lower of the median case-mix index for urban hospitals in its census region, excluding hospitals with approved teaching programs, or the median case-mix index for all urban hospitals nationally; and

• Number of discharges is at least 5,000 per year, or if fewer, the median number of discharges for urban hospitals in the census region in which the hospital is located. (The number of discharges criterion for an osteopathic hospital is at least 3,000 discharges per year.)

1. Case-Mix Index

Section 412.96(c)(1) provides that HCFA will establish updated national and regional case-mix index values in each year's annual notice of prospective payment rates for purposes of determining rural referral center status. The methodology we use to determine the proposed national and regional case-mix index values is set forth in regulations at § 412.96(c)(1)(ii). The proposed national case-mix index value includes all urban hospitals nationwide, and the proposed regional values are the median values of urban hospitals within each census region, excluding those with approved teaching programs (that is, those hospitals receiving indirect medical education payments as provided in § 412.105). These values are based on discharges occurring during FY 1999 (October 1, 1998 through September 30, 1999) and include bills posted to HCFA's records through December 1999.

We are proposing that, in addition to meeting other criteria, hospitals with fewer than 275 beds, if they are to qualify for initial rural referral center status for cost reporting periods beginning on or after October 1, 2001, must have a case-mix index value for FY 2000 that is at least—

• 1.3286; or

• The median case-mix index value for urban hospitals (excluding hospitals with approved teaching programs as identified in § 412.105) calculated by HCFA for the census region in which the hospital is located.

The median case-mix values by region are set forth in the following table:

Region | Case-mix index value
1. New England (CT, ME, MA, NH, RI, VT) | 1.2377
2. Middle Atlantic (PA, NJ, NY) | 1.2305
3. South Atlantic (DE, DC, FL, GA, MD, NC, SC, VA, WV) | 1.3055
4. East North Central (IL, IN, MI, OH, WI) | 1.2613
5. East South Central (AL, KY, MS, TN) | 1.2537
6. West North Central (IA, KS, MN, MO, NE, ND, SD) | 1.1653
7. West South Central (AR, LA, OK, TX) | 1.2484
8. Mountain (AZ, CO, ID, MT, NV, NM, UT, WY) | 1.3286
9. Pacific (AK, CA, HI, OR, WA) | 1.2693

The preceding numbers will be revised in the final rule to the extent required to reflect the updated FY 2000 MedPAR file, which will contain data from additional bills received through March 31, 2001.

Hospitals seeking to qualify as rural referral centers or those wishing to know how their case-mix index value compares to the criteria should obtain hospital-specific case-mix values from their fiscal intermediaries. Data are available on the Provider Statistical and Reimbursement (PS&R) System. In keeping with our policy on discharges, these case-mix index values are computed based on all Medicare patient discharges subject to DRG-based payment.

2. Discharges

Section 412.96(c)(2)(i) provides that HCFA will set forth the national and regional numbers of discharges in each year's annual notice of prospective payment rates for purposes of determining rural referral center status. As specified in section 1886(d)(5)(C)(ii) of the Act, the national standard is set at 5,000 discharges. We are proposing to update the regional standards based on discharges for urban hospitals' cost reporting periods that began during FY 1999 (that is, October 1, 1998 through September 30, 1999). That is the latest year for which we have complete discharge data available.

Therefore, we are proposing that, in addition to meeting other criteria, a hospital, if it is to qualify for initial rural referral center status for cost reporting periods beginning on or after October 1, 2001, must have as the number of discharges for its cost reporting period that began during FY 1999 a figure that is at least—

• 5,000; or

• The median number of discharges for urban hospitals in the census region in which the hospital is located, as indicated in the following table:

Region | Number of discharges
1. New England (CT, ME, MA, NH, RI, VT) | 7083
2. Middle Atlantic (PA, NJ, NY) | 8371
3. South Atlantic (DE, DC, FL, GA, MD, NC, SC, VA, WV) | 8202
4. East North Central (IL, IN, MI, OH, WI) | 7430
5. East South Central (AL, KY, MS, TN) | 6505
6. West North Central (IA, KS, MN, MO, NE, ND, SD) | 4708
7. West South Central (AR, LA, OK, TX) | 4911
8. Mountain (AZ, CO, ID, MT, NV, NM, UT, WY) | 8287
9. Pacific (AK, CA, HI, OR, WA) | 7001

These numbers will be revised in the final rule based on the latest FY 1999 cost report data.

We reiterate that an osteopathic hospital, if it is to qualify for rural referral center status for cost reporting periods beginning on or after October 1, 2001, must have at least 3,000 discharges for its cost reporting period that began during FY 2000.

C. Indirect Medical Education (IME) Adjustment (§ 412.105)

1. IME Adjustment Factor Formula Multiplier (Section 302 of Public Law 106-554 and § 412.105(d)(3))

Section 1886(d)(5)(B) of the Act provides that prospective payment hospitals that have residents in an approved graduate medical education (GME) program receive an additional payment to reflect the higher indirect operating costs associated with GME. The regulations regarding the calculation of this additional payment, known as the indirect medical education (IME) adjustment, are located at § 412.105. The additional payment is based in part on the applicable IME adjustment factor. The IME adjustment factor is calculated using a hospital's ratio of residents to beds, which is represented as r, and a multiplier, which is represented as c, in the following equation: c × [(1 + r).405 − 1]. The formula is traditionally described in terms of a certain percentage increase in payment for every 10-percent increase in the resident-to-bed ratio.

Section 302 of Public Law 106-554 amended section 1886(d)(5)(B) of the Act to modify the transition for the IME formula multiplier, or c, that was first established by Public Law 105-33 and revised by Public Law 106-113.

Section 302(a) of Public Law 106-554 provides that, for discharges occurring during FY 2002, the formula multiplier is 1.6. For discharges occurring during FY 2003 and thereafter, the formula multiplier is 1.35. (Section 302(b) of Public Law 106-554 provides for a special payment rule which states that, for discharges occurring on or after April 1, 2001 and before October 1, 2001, IME payments are to be made if “c” equalled 1.66 rather than 1.54. We are issuing a separate interim final rule with comment period (HCFA-1178-IFC) to include this change for payments in FY 2001.) The multiplier of 1.6 for FY 2002 represents a 6.5-percent increase for every 10-percent increase in the resident-to-bed ratio. The multiplier for FY 2003 and thereafter (1.35) represents a 5.5-percent increase for every 10-percent increase in the resident-to-bed ratio.

We are proposing to revise § 412.105(d)(3)(vi) to reflect the change in the formula multiplier for FY 2002 to 1.6 as made by section 302(a) of Public Law 106-554 for discharges occurring during FY 2002. We also are proposing to add § 412.105(d)(3)(vii) to incorporate the formula multiplier of 1.35 for discharges occurring on or after October 1, 2002.

2. Resident-to-Bed Ratio Cap (§ 412.105(a)(1))

It has come to our attention that there is some misunderstanding about § 412.105(a)(1) regarding the determination of the resident-to-bed ratio that is used in calculating the IME adjustment. Section 4621(b)(1) of Public Law 105-33 amended section 1886(d)(5)(B) of the Act by adding a new clause (vi) to provide that, effective for cost reporting periods beginning on or after October 1, 1997, the resident-to-bed ratio may not exceed the ratio calculated during the prior cost reporting period (after accounting for the cap on the hospital's number of full-time equivalent (FTE) residents). We implemented this policy in the August 29, 1997 final rule (62 FR 46003) and the May 12, 1998 final rule (63 FR 26323) under regulations at § 412.105(a)(1). Existing § 412.105(a)(1) specifies that “[e]xcept for the special circumstances for affiliated groups and new programs described in paragraphs (f)(1)(vi) and (f)(1)(vii) of this section, for a hospital's cost reporting periods beginning on or after October 1, 1997, this ratio may not exceed the ratio for the hospital's most recent prior cost reporting period.” We are proposing to clarify § 412.105(a)(1) to add a provision that this ratio may not exceed the ratio for the hospital's most recent prior cost reporting period after accounting for the cap on the number of FTE residents.

In general, the resident-to-bed ratio from the prior cost reporting period, which is to be used as the cap on the resident-to-bed ratio for the current payment cost reporting period, should only include an FTE count that is subject to the FTE cap on the number of allopathic and osteopathic residents, but is not subject to the rolling average. (An explanation of rolling average appears in section IV.G.3. of this preamble.)

The following illustrates the steps for determining the resident-to-bed ratio for the current payment year cost reporting period and the cap on the resident-to-bed ratio:

Current payment year cost reporting period resident-to-bed ratio:

Step 1. Determine the hospital's number of FTE residents in the current payment year cost reporting period.

Step 2. Compare the number of FTEs from step 1 to the hospital's FTE cap (§ 412.105(f)(1)(iv)). If the number of FTEs from step 1 exceeds the FTE cap, replace it with the number of FTEs in the FTE cap.

Step 3. Determine the 3-year rolling average of the FTE residents using the FTEs from the current payment year cost reporting period and the prior two cost reporting periods (subject to the FTE cap in each cost reporting period). (Include podiatry and dental residents, and exclude residents in new programs in accordance with § 412.105(f)(1)(iv) and proposed revised (f)(1)(v). Residents in new programs are added to the quotient of the rolling average.)

Step 4. Determine the hospital's number of beds (see § 412.105(b)) in the current payment year cost reporting period.

Step 5. Determine the ratio of the number of FTEs from step 3 to the number of beds from step 4. The lower of this resident-to-bed ratio or the resident-to-bed ratio cap (calculated below) from the immediately preceding cost reporting period is used to calculate the hospital's IME adjustment factor for the current payment year cost reporting period.

Resident-to-bed ratio cap:

Step 1. Determine the hospital's number of FTE residents in its cost reporting period that immediately precedes the current payment year cost reporting period.

Step 2. Compare the number of FTEs from step 1 to the hospital's FTE cap. If the number of FTEs from step 1 exceeds the FTE cap, replace it with the number of FTEs in the FTE cap. (If there is an increase in the number of FTEs in the current payment year cost reporting period due to a new program or an affiliation agreement, these FTEs are added to FTEs in the preceding cost reporting period after comparison to the FTE cap.)

Step 3. Determine the hospital's number of beds (§ 412.105(b)) in its cost reporting period that immediately precedes the current payment year cost reporting period.

Step 4. Determine the ratio of the number of FTEs in step 2 to the number of beds in step 3. This ratio is the resident-to-bed ratio cap for the current payment year cost reporting period.

Step 5. Compare the resident-to-bed ratio cap in step 4 to the resident-to-bed ratio in the current payment year cost reporting period. The lower of the resident-to-bed ratio from the current payment year cost reporting period or the resident-to-bed ratio cap from the immediately preceding cost reporting period is used to calculate the hospital's IME adjustment factor for the current payment year cost reporting period.

We note that the resident-to-bed ratio cap is a cap on the resident-to-bed ratio calculated for all residents, including allopathic, osteopathic, dental, and podiatry residents (63 FR 26324, May 12, 1998). However, as described in existing § 412.105(a)(1), the resident-to-bed ratio cap may be adjusted to reflect an increase in the current cost reporting period's resident-to-bed ratio due to residents in a new GME program or an affiliation agreement. While this exception does not apply if the resident-to-bed ratio increases because of an increase in the number of podiatry or dentistry residents or because of a change in the number of beds, the ratio could increase after a one-year delay. An increase in the current cost reporting period's ratio (while subject to the cap on the overall number of allopathic and osteopathic residents) thereby establishes a higher cap for the following cost reporting period.

The following is an example of the application of the cap on the resident-to-bed ratio:

Example—Part 1:

• Assume Hospital A has 50 FTEs in its cost reporting period ending September 30, 1996, thereby establishing an IME FTE resident cap of 50 FTEs.

• In its cost reporting period of October 1, 1996 to September 30, 1997 (the prior year), it has 50 FTEs and 200 beds, so that its resident-to-bed ratio for this period is 50/200 = .25.

• In the (current year) cost reporting period of October 1, 1997 to September 30, 1998 (the first cost reporting period in which the FTE resident cap, the resident-to-bed ratio cap, and the rolling average apply), Hospital A has 50 FTEs and 200 beds.

• Hospital A s FTEs do not exceed its FTE cap, so its current number of FTEs (50) is used to calculate the 2-year rolling average: (50 + 50)/2 = 50.

• The result of the rolling average is used as the numerator of the resident-to-bed ratio. Thus, the resident-to-bed ratio is 50/200 = .25.

• .25 is compared to the resident-to-bed ratio from the prior period of October 1, 1996 to September 30, 1997. Because the FTE resident cap and the rolling average were not yet effective in the period of October 1, 1996 to September 30, 1997, that period's resident-to-bed ratio does not have to be recalculated to account for the FTE resident cap. Accordingly, the resident-to-bed ratio cap for October 1, 1997 to September 30, 1998 is .25.

• Because the resident-to-bed ratio does not exceed the prior year ratio, Hospital A would use the resident-to-bed ratio of .25 to determine the IME adjustment in its cost reporting period of October 1, 1997 to September 30, 1998.

Example—Part 2:

• In the (current year) cost reporting period of October 1, 1998 to September 30, 1999, Hospital A adds 1 podiatric and 1 dental resident, so that it has a total of 52 FTEs and 200 beds. Since the FTE resident cap only includes allopathic and osteopathic residents, Hospital A has not exceeded its FTE resident cap with the addition of a podiatric and a dental resident.

• Accordingly, the (now) 3-year rolling average would be (52 + 50 + 50)/3 = 50.67.

• 50.67 is used in the numerator of the current payment year's resident-to-bed ratio, so that the resident-to-bed ratio is 50.67/200 = .253.

• .253 is compared to the resident-to-bed ratio from the prior year's cost reporting period of October 1, 1997 to September 30, 1998 that is recalculated to account for the FTE resident cap. Because Hospital A did not exceed its FTE resident cap of 50 FTEs in this period of October 1, 1997 to September 30, 1998, the recalculated resident-to-bed ratio would be 50/200 = .25.

• Compare the current year resident-to-bed ratio (.253) to the resident-to-bed ratio cap (.25); .253 does exceed .25.

• Therefore, the resident-to-bed ratio in the period of October 1, 1998 to September 30, 1999 is capped at .25, which is to be used in calculating Hospital A's IME adjustment for October 1, 1998 to September 30, 1999.

Example—Part 3:

• In the cost reporting period of October 1, 1999 to September 30, 2000, Hospital A adds 2 internal medicine residents so that it has a total of 54 FTEs and 200 beds. While podiatric and dental residents are not included in the FTE resident cap, internal medicine residents are included. Hospital A has exceeded its IME FTE resident cap of 50 by 2 FTEs. Thus, 2 FTEs are excluded from the FTE count.

• Accordingly, the rolling average would be (52 + 52 + 50)/3 = 51.33.

• 51.33 is used in the numerator of the resident-to-bed ratio, so that the resident-to-bed ratio is 51.33/200 = .257.

• .257 is compared to the resident-to-bed ratio from October 1, 1998 to September 30, 1999 that is recalculated to only account for the FTE resident cap. The recalculated resident-to-bed ratio would be 50 allopathic or osteopathic FTEs plus 1 podiatric and 1 dental resident, which is 52/200 = .26.

• .26 is the resident-to-bed ratio cap for October 1, 1999 to September 30, 2000. .257 does not exceed .26.

• Therefore, the resident-to-bed ratio in the period of October 1, 1998 to September 30, 1999 is .257, which is to be used in calculating this period s IME adjustment.

If a hospital starts a new GME program, the adjustment to the resident-to-bed ratio cap applies for the period of years equal to the minimum accredited length for that type of program. (For example, for a new internal medicine program, the period of years equals 3; for a new surgery program, the period of years equals 5.) Within these program years, the number of new FTE residents in the current cost reporting period is added to the FTE resident count used in the numerator of the resident-to-bed ratio from the previous cost reporting period. The lower of the resident-to-bed ratio from the current cost reporting period or the adjusted resident-to-bed ratio from the preceding cost reporting period is used to calculate the hospital's IME adjustment for the current cost reporting period. If a hospital continues to expand its program after the period of years, the numerator of the resident-to-bed ratio from the preceding cost reporting period would not be adjusted to reflect these additional residents. However, an increase in the ratio of the current cost reporting period would establish a higher cap for the following cost reporting period. We also are proposing to add a provision that the exception for new programs described in § 412.105(f)(1)(vii) applies for the period of years equal to the minimum accredited length for that type of program.

Similarly, if a hospital increases the number of FTE residents in the current cost reporting period because of an affiliation agreement, the number of additional FTEs is added to the FTE resident count used in the numerator of the resident-to-bed ratio from the previous cost reporting period. The lower of the resident-to-bed ratio from the current cost reporting period or the adjusted resident-to-bed ratio from the preceding cost reporting period is used to calculate the hospital's IME adjustment for the current cost reporting period.

3. Conforming Changes (§ 412.105(f)(1)(ii)(C) and (f)(1)(v))

In the August 29, 1997 final rule with comment period (62 FR 46003), the May 12, 1998 final rule (63 FR 26323), and the July 31, 1998 final rule (63 FR 40986), to implement the provisions of Public Law 105-33, we set forth certain policies that affected payment for both direct and indirect GME. Some of these policies related to the FTE cap on allopathic and osteopathic residents, the rolling average, and payment for residents training in nonhospital settings. When we amended the regulations under § 413.86 for direct GME, we inadvertently did not make certain conforming changes in § 412.105 for IME. We are proposing to make the following conforming changes:

• To revise § 412.105(f)(1)(ii)(C) to specify that, effective for discharges occurring on or after October 1, 1997, the time residents spend training in a nonhospital setting in patient care activities under an approved medical residency training program may be counted towards the determination of full-time equivalency if the criteria set forth at § 413.86(f)(3) or § 413.86(f)(4), as applicable, are met.

• To revise § 412.105(f)(1)(v) to specify that residents in new residency programs are not included in the rolling average for a period of years equal to the minimum accredited length for the type of program.

In addition, we are proposing to revise § 412.105(f)(1)(ix) to specify, for IME purposes, a temporary adjustment to a hospital's FTE cap to reflect residents added because of another hospital's closure of its medical residency program (to conform to the proposed change for GME discussed in section IV.G.5. of this preamble).

D. Payments to Disproportionate Share Hospitals (§ 412.106)

Effective for discharges beginning on or after May 1, 1986, hospitals that serve a significantly disproportionate number of low-income patients (as defined in section 1886(d)(5)(F) of the Act) receive additional payments through the DSH adjustment.

Section 1886(d)(5)(F)(ix) of the Act, as amended by section 112 of Public Law 106-113, specifies a percentage reduction in the payments a hospital would otherwise receive under the disproportionate share formula. Prior to enactment of section 303 of Public Law 106-554, the reduction percentages were as follows: 3 percent for FY 2001, 4 percent for FY 2002, and 0 percent for FY 2003 and each subsequent fiscal year.

Section 303 of Public Law 106-554 revised the amount of the percent reductions to 2 percent for discharges occurring in FY 2001, and to 3 percent for discharges occurring in FY 2002. The reduction continues to be 0 percent for FY 2003 and each subsequent fiscal year. Section 303 of Public Law 106-554 contains a special rule for FY 2001: For discharges occurring on or after October 1, 2000 and before April 1, 2001, the reduction is to be 3 percent, and for discharges occurring on or after April 1, 2001 and before October 1, 2001, the reduction is to be 1 percent. Changes made by section 303 with respect to FY 2001 discharges are being implemented in a separate interim final rule with comment period (HCFA-1178-IFC).

We are proposing to revise § 412.106(e) to reflect the change in the percentage for FY 2002 made by section 303 of Public Law 106-554. We also are proposing to make a technical change in the heading of paragraph (e).

E. Medicare Geographic Classification Review Board (Proposed New § 412.235 and Existing §§ 412.256, 412.273, 412.274(b), and 412.276)

With the creation of the Medicare Geographic Classification Review Board (MGCRB), beginning in FY 1991, under section 1886(d)(10) of the Act, hospitals could request reclassification from one geographic location to another for the purpose of using the other area's standardized amount for inpatient operating costs or the wage index value, or both (September 6, 1990 interim final rule with comment period (55 FR 36754), June 4, 1991 final rule with comment period (56 FR 25458), and June 4, 1992 proposed rule (57 FR 23631)). Implementing regulations in Subpart L of Part 412 (§§ 412.230 et seq.) set forth criteria and conditions for redesignations from rural to urban, rural to rural, or from an urban area to another urban area with special rules for SCHs and RRCs.

Section 304 of Public Law 106-554 contained several provisions related to the wage index and reclassification decisions made by the MGCRB. In summary, section 304 first establishes that hospital reclassification decisions by the MGCRB for wage index purposes are effective for 3 years, beginning with reclassifications for FY 2001. Second, it provides that the MGCRB must use the 3 most recent years of average hourly wage data in evaluating a hospital's reclassification application for FY 2003 and subsequent years. Third, it provides that an appropriate statewide entity may apply to have all of the geographic areas in a State treated as a single geographic area for purposes of computing and applying the wage index, for reclassifications beginning in FY 2003. A discussion of how we are proposing to implement these three provisions follows. (Section III.F. of this preamble discusses the application of these proposed policy changes to the development of the proposed FY 2002 and later wage indexes based on hospital reclassification under the provisions of section 304 of Public Law 106-554.)

1. Three-Year Reclassifications for Wage Index Purposes

Section 304(a) of Public Law 106-554 amended section 1886(d)(10)(D) of the Act by adding clause (v), which provides that, if a hospital is approved for reclassification by the MGCRB for purposes of the wage index, the reclassification is effective for 3 years. The amendment made by section 304(a) is effective for reclassifications for FY 2001 and subsequent years. In addition, the legislation specifies that the Secretary must establish a mechanism under which a hospital may elect to terminate such reclassification during the 3-year period.

Consistent with new section 1886(d)(10)(D)(v) of the Act, we are proposing to revise § 412.274(b) to provide under new paragraph (b)(2) that any hospital that is reclassified for a particular fiscal year for purposes of receiving the wage index value of another area would receive that reclassification for 3 years beginning with discharges occurring on the first day (October 1) of the second Federal fiscal year in which a hospital files a complete application. This 3-year reclassification would remain in effect unless the hospital terminates the reclassification under proposed revised procedures that we are establishing under new proposed § 412.273(b). The proposed provision would apply to hospitals that are reclassified for purposes of the wage index only, as well as those that are reclassified for both the wage index and the standardized amount. However, in the latter case, only the wage index reclassification would be extended for 2 additional years beyond the 1 year provided for in the existing regulations (3 years total). Hospitals seeking reclassification for purposes of the standardized amount must continue to reapply to the MGCRB on an annual basis.

a. Special Rule for a Hospital That Was Reclassified for FY 2001 and FY 2002 to Different Areas

Because the 3-year effect of the amendment made by section 304(a) of Public Law 106-554 is applicable to reclassifications for FY 2001 (which had already taken place prior to the date of enactment of section 304(a) (December 21, 2000), and because the application process for reclassifications for FY 2002 had already been completed by the date of enactment, we are establishing special procedures for hospitals that are reclassified for purposes of the wage index to one area for FY 2001, and are reclassified for purposes of the wage index or the standardized amount to another area for FY 2002. We are deeming such a hospital to be reclassified to the area for which it applied for FY 2002, unless the hospital elects to receive the wage index reclassification it was granted for FY 2001. Consistent with our procedures for withdrawing an application for reclassification (§ 412.273), we are allowing a hospital that wishes to receive the reclassification it was granted for FY 2001 to withdraw its FY 2002 application by making a written request to the MGCRB within 45 days of the publication date of this proposed rule (that is, by June 18, 2001). Again, only the wage index reclassification is extended for 2 additional years (3 years total). Hospitals seeking reclassification for purposes of the standardized amount must continue to reapply to the MGCRB on an annual basis.

(We note that the new location and mailing address of the MGCRB and the Provider Reimbursement Review Board (PRRB) is: 2520 Lord Baltimore Drive, Suite L, Baltimore, MD 21244-2670. The MGCRB and PRRB will be functioning at this new location as of May 21, 2001. Also, please specify whether the mail is intended for the MGCRB or the PRRB.)

b. Overlapping Reclassifications Are Not Permitted

Under the broad authority delegated to the Secretary by section 1886(d)(10) of the Act, we are proposing that a hospital that is reclassified to an area for purposes of the wage index may not extend the 3-year effect of the reclassification under section 304(a) of Public Law 106-554 by subsequently applying for reclassification to the same area for purposes of the wage index for a fiscal year that would be within the 3-year period. For example, if a hospital is reclassified for purposes of the wage index to Area A for FY 2002, is approved to receive Area A's wage index for 3 years (FYs 2002, 2003, and 2004), and reapplies to be reclassified to Area A for FYs 2003, 2004, and 2005 (3 years) for purposes of the wage index, the hospital would not be permitted to receive Area A's wage index for FY 2005 as a result of the reapplication. Instead, we are proposing that if the hospital wishes to extend the FY 2002 3-year reclassification for fiscal years beyond FY 2004, it would have to apply for reclassification for FY 2005.

We believe new section 1886(d)(10)(D)(v) of the Act replaces the current annual reclassification cycle with a 3-year reclassification cycle. We believe this policy was intended to provide consistency and predictability in hospital reclassification and wage index data, as well as to alleviate the year-to-year fluctuations in the ability of some hospitals to qualify for reclassification. We do not believe it was intended to be used to extend reclassifications for which hospitals otherwise would not be eligible (by reapplying during the second year of a 3-year reclassification because a hospital fears it may not be eligible for reclassification after its current 3-year reclassification expires).

c. Withdrawals of Applications and Terminations of Approved Reclassifications

(1) General

Under § 412.273(a), a hospital, or group of hospitals, may withdraw its application for reclassification at any time before the MGCRB issues its decision or, if after the MGCRB issues its decision, within 45 days of publication of our annual notice of proposed rulemaking concerning changes to the inpatient hospital prospective payment system and proposed payment rates for the fiscal year for which the application was filed. We are proposing that the withdrawal procedures and the applicable timeframes in the existing regulations would apply to hospitals that would receive 3-year reclassification for wage index purposes. For example, if a hospital applied for reclassification to Area A for purposes of the wage index for FY 2002, but wished or wishes to withdraw its application, it must have done so prior to the MGCRB issuing a decision on its application or, if the MGCRB issued such a decision, within 45 days of the publication date of this proposed rule. Such a withdrawal, if effective, means that the hospital would not be reclassified to Area A for purposes of the wage index for FY 2002 (and would not receive continued reclassification for FYs 2003 and 2004). In other words, a withdrawal, if accepted, prevents a reclassification from ever becoming effective.

On the other hand, a reclassification decision that is terminated upon the request of the hospital has partial effect. Section 1886(d)(10)(D)(v) of the Act, as added by section 304(a) of Public Law 106-554, provides that a reclassification for purposes of the wage index is effective for 3 years “except that the Secretary shall establish procedures under which a * * * hospital may elect to terminate such reclassification before the end of such period.” Consistent with section 1886(d)(10)(D)(v) of the Act, we are proposing to allow a hospital to terminate its approved 3-year reclassification for 1 or 2 years of the 3-year effective period (proposed § 412.273(b)). For example, a hospital that has been reclassified for purposes of the wage index for FY 2001 is also reclassified for FYs 2002 and 2003 (3 years). Such a hospital could terminate its approved reclassification so that the reclassification is effective only for FY 2001, or only for FYs 2001 and 2002. Consistent with the prospective nature of reclassifications, we would not permit a hospital to terminate its approved 3-year reclassification for part of a fiscal year. A termination would be effective for the next fiscal year. In order to terminate an approved 3-year reclassification, we would require the hospital to notify the MGCRB in writing within 45 days of the publication date of the annual proposed rule for changes to the inpatient hospital prospective payment system. A termination request, once accepted, is effective for the balance of the 3-year period (as discussed below under reapplying within original 3-year period, following a termination).

We are establishing a special procedural rule for handling FY 2001 reclassifications. As noted above, the amendments made by section 304(a) of Public Law 106-554 are effective for reclassifications for FYs 2001 and beyond, and reclassification applications for FY 2001 had already been submitted prior to the date of enactment of section 304(a). We are deeming those hospitals that were reclassified for FY 2001 to be reclassified for FYs 2002 and 2003. Therefore, if a deemed hospital that was reclassified for purposes of the wage index for FY 2001 does not wish to continue its reclassification for FY 2002 and FY 2003, the hospital must notify the MGCRB in writing within 45 days after the publication of this proposed rule (that is, by June 18, 2001).

(2) Reinstatement After a Withdrawal of Application or a Termination of an Approved Reclassification

We are proposing that if a hospital elects to withdraw its 3-year reclassification application after the MGCRB has issued its decision, it may cancel its withdrawal in a subsequent fiscal year and request the MGCRB to reinstate its reclassification for the remaining fiscal years of the 3-year reclassification period. (This proposal is consistent with our proposal that 3-year reclassification periods may not overlap, as discussed in section IV.E.1.b. of this preamble.) Alternatively, a hospital may apply for reclassification to a different area (that is, an area different from the one to which it was originally reclassified), and if successful, the reclassification effect would be for 3 years.

Example 1: Hospital A files an application and the MGCRB issues a decision to reclassify it to Area A for purposes of wage index for FY 2002 through FY 2004 (3 years). Within 45 days after the publication of this proposed rule, Hospital A withdraws its application. Within the time for applying for a FY 2003 reclassification, Hospital A cancels its withdrawal for classification to Area A. Its reclassification to Area A is reinstated, but only for FYs 2003 and 2004.

Example 2: Hospital B files an application for reclassification for wage index purposes for FY 2002 through FY 2004 and the MGCRB issues a decision for reclassification to Area B. Within 45 days after publication of this proposed rule, Hospital B withdraws its application. Hospital B does not cancel its withdrawal of the application. Hospital B timely applies and is reclassified to Area B for 3 years, beginning with FY 2003. In this case, the reclassification to Area B would be for FYs 2003 through 2005.

Similarly, and for the same reasons, we are proposing that if a hospital elects to terminate its accepted 3-year reclassification, it may cancel that termination and have its original reclassification reinstated for the duration of the original 3-year period. Alternatively, a hospital could apply for reclassification to a different area and receive a new 3-year period of reclassification.

Example 3: Hospital C is reclassified to Area A for purposes of the wage index for FY 2002, and terminates its 3-year reclassification effective for FYs 2003 and 2004. Within the timeframe for applying for FY 2004 reclassification, Hospital C cancels its termination. Its reclassification to Area A would be reinstated for FY 2004 only.

Example 4: Hospital D has the same circumstances as Hospital C in Example 3, except that instead of canceling its termination, Hospital D applies and is reclassified to Area B for FY 2004. In this case, the reclassification would be for FYs 2004 through 2006.

d. Special Rules for Group Reclassifications

Section 412.232 discusses situations where all hospitals in a rural county are seeking urban redesignation, and § 412.234 discusses criteria where all hospitals in an urban county are seeking redesignation to another urban county. In these cases, hospitals submit an application as a group, and all hospitals in the county must be a party to the application. The reclassification is effective both for purposes of the wage index and the standardized amount of the area to which the hospitals are reclassified.

Section 304(a) of Public Law 106-554 does not specifically address the group reclassification situations under §§ 412.232 and 412.234. However, we believe that, in the case of hospitals reclassified under these group reclassification procedures, it would be appropriate to extend the 3-year reclassification provision to these situations for the wage index only. In order to be reclassified for the standardized amount during the second and third years of a 3-year reclassification for the wage index, the hospitals located in these counties would have to reapply on an annual basis to the MGCRB either as a group or as individual hospitals and meet the criteria outlined in §§ 412.232(a) and 412.234(a).

Hospitals that are part of a group reclassification would be able to withdraw or terminate their 3-year wage index reclassifications in the same manner as described above. If one hospital within the group elects to withdraw or terminate its reclassification, the reclassification of other hospitals in the group would be unaffected.

Under section 152(b) of Public Law 106-113, hospitals in certain counties were deemed to be located in specified areas for purposes of payment under the hospital inpatient prospective payment system, for discharges occurring on or after October 1, 2000. For payment purposes, these hospitals are to be treated as though they were reclassified for purposes of both the standardized amount and the wage index. Section 152(b) also requires that these reclassifications be treated for FY 2001 as though they are reclassification decisions by the MGCRB. For purposes of applying the 3-year extension of wage index reclassifications, we are proposing to extend section 1886(d)(10)(D)(v) to hospitals reclassified under section 152(b) of Public Law 106-113. These hospitals also would have to apply for the standardized amount on an annual basis to the MGCRB.

e. Administrator Authority To Cancel Inappropriate Reclassification Decisions

Under the provisions of § 412.278(g), the Administrator has the authority to review an inappropriate reclassification decision made by the MGCRB, as discovered by either the hospital or HCFA, including 3-year reclassifications in the second and third year, and to determine whether or not to cancel that decision as a result of the review of the facts. Hospitals that are concerned that they have been inappropriately reclassified should follow the procedures outlined in § 412.278.

2. Three-Year Average Hourly Wages

Section 304(a) of Public Law 106-554 amended section 1886(d)(10)(D) of the Act by adding clause (vi) which provides that the MGCRB must use the average of the 3 most recent years of hourly wage data for the hospital when evaluating a hospital's request for reclassification. Specifically, the MGCRB must base its evaluation on an average of the average hourly wage for the most recent years for the hospital seeking reclassification and the area to which the hospital seeks to reclassify. This provision is effective for reclassifications for FY 2003 and subsequent years. (Section III.F. of this preamble discusses the development and application of the proposed 3-year average hourly wage data (Table 2 in the Addendum to this proposed rule) that the MGCRB would use to evaluate hospitals' applications for reclassifications for FY 2003; and the 3-year average hourly wage data (Tables 3A and 3B in the Addendum to this proposed rule) for hospital reclassification applications for FY 2001.)

We are proposing to revise §§ 412.230(e)(2) and 412.232(d)(2) to incorporate the provisions of section 1886(d)(10)(D)(vi) of the Act as added by section 304(a) of Public Law 106-554. Specifically, we are providing that, for redesignations effective beginning FY 2003, for hospital-specific data, the hospital must provide a 3-year average of its average hourly wages using data from the HCFA hospital wage survey used to construct the wage index in effect for prospective payment purposes. For data for other hospitals, we are proposing to require hospitals to provide a 3-year average of the average hourly wage in the area in which the hospital is located and a 3-year average of the average hourly wage in the area to which the hospital seeks reclassification. The wage data would be taken from the HCFA hospital wage survey used to construct the wage index for prospective payment purposes. The 3-year averages are calculated by dividing the sum of the dollars (adjusted to a common reporting period using the method described in section III. of the proposed rule) across all 3 years, by the sum of the hours.

3. Statewide Wage Index

As stated earlier, section 304(b) of Public Law 106-554 provides for a process under which an appropriate statewide entity may apply to have all the geographic areas in the State treated as a single geographic area for purposes of computing and applying the area wage index for reclassifications beginning in FY 2003.

Section 304 does not indicate the duration of the application of these statewide wage indexes. However, it should be noted that the statutory language does refer to these applications as reclassifications. We are proposing that these statewide wage index applications be processed similar to MGCRB applications, with the same effective dates of the decisions and the withdrawal process. Therefore, similar to wage index reclassification decisions under section 1886(d)(10)(D)(v) of the Act as added by section 304(a) of Public Law 106-554, the statewide wage index reclassification would be effective for a total of 3 years. The same deadlines and timetable applicable to MGCRB reclassification applications would apply for statewide wage index applications.

We are proposing to establish a new § 412.235 to include the requirements for statewide wage indexes. We are proposing to apply the following criteria to determine whether hospitals would be approved for a statewide geographic wage index reclassification (proposed § 412.235(a)):

• There must be unanimous support for a statewide wage index among hospitals in the State in which the statewide wage index would be applied. We would require a signed affidavit on behalf of all the hospitals in the State of this support as part of the application for reclassification.

• All hospitals in the State must apply through a signed single application for the statewide wage index in order for the application to be considered by the MGCRB. We believe this is necessary to ensure that every hospital in the State is included in the application, since the payment of every hospital would be affected by the statewide wage index.

• There must be unanimous support for the termination or withdrawal of a statewide wage index among hospitals in the State in which the statewide index would be applied. We would require a signed affidavit for this agreement.

• All hospitals in the State waive their rights to any wage index that they would otherwise receive absent the statewide wage index, including a wage index that any of the hospitals might have received through individual or group geographic reclassification under § 412.273(a).

An individual hospital within the State may receive a wage index that could be higher or lower under the statewide wage index reclassification in comparison to its wage index otherwise (proposed § 412.235(b)). Specifically, hospitals must be aware that there may be a reduction in the wage index as a result of participation on a statewide basis.

We are proposing to consider statewide wage index applications under the same process we use for hospital reclassification applications, including the effective dates of the MGCRB decision and the withdrawal process (proposed § 412.235(c)). We are proposing that applications for the statewide wage index would be effective for 3 years beginning with discharges occurring on the first day (October 1) of the second Federal fiscal year following the Federal fiscal year in which the hospitals file a complete application unless all of the participating hospitals terminate their approved statewide wage index classification earlier, as discussed below. Once approved by the MGCRB, an application for a statewide wage index can only be withdrawn or terminated as a result of a signed affidavit on behalf of all the hospitals in the State indicating their request that the statewide reclassification be withdrawn or terminated. A request for withdrawal or termination must be submitted within 45 days of the publication of the annual proposed rule for the inpatient hospital prospective payment system announcing the reclassification. New hospitals that open prior to the deadline for submitting an application for a statewide wage index, but after a group application has been submitted, would be required to agree to the statewide wage index in order for the group application to remain viable. New hospitals that open after the deadline for submitting an application would receive the statewide wage index. The agreement of new hospitals would also be required in order to withdraw or terminate a statewide wage index reclassification. The proposed rules discussed under section IV.E.1.c. of this preamble for withdrawals of applications and terminations of approved 3-year wage index reclassification decisions would apply to decisions regarding statewide wage index reclassifications.

We also are proposing to allow hospitals outside a State in which hospitals have received approval of a statewide wage index classification to seek reclassification for the statewide wage index into that State. In that case, an outside hospital(s) that is reclassified into the statewide wage index area would receive a wage index calculated based on the statewide wage index reclassification. However, the support of such an outside hospital(s) would not be needed in the case of withdrawal or termination of a statewide wage index reclassification.

F. New Medical Services and Technology: Additional Payments Under the Inpatient Hospital Prospective Payment System (Proposed New §§ 412.87 and 412.88)

Section 533(b) of Public Law 106-554 amended section 1886(d)(5) of the Act to add new subparagraphs (K) and (L) to address a process of identifying and ensuring adequate payment for new medical services and technologies under Medicare. Under new section 1886(d)(5)(K)(i) of the Act, effective for discharges beginning on or after October 1, 2001, the Secretary is required to establish (after notice and opportunity for public comment) a mechanism to recognize the costs of new services and technologies under the inpatient hospital prospective payment system. New section 1886(d)(5)(K)(ii)(I) of the Act specifies that the mechanism must apply to a new medical service or technology if, “based on the estimated costs incurred with respect to discharges involving such service or technology, the DRG prospective payment rate otherwise applicable to such discharges * * * is inadequate.” New section 1886(d)(5)(K)(vi) of the Act specifies that a medical service or technology will be considered “new” if it meets criteria established by the Secretary (after notice and opportunity for public comment).

New sections 1886(d)(5)(K)(ii) through (vi) of the Act further provide—

• For an additional payment for new medical services and technology in an amount beyond the DRG prospective payment system payment rate that adequately reflects the estimated average cost of the service or technology.

• That the requirement for an additional payment for a new service or technology may be satisfied by means of a new-technology group (described in new section 1886(d)(5)(L) of the Act), an add-on payment, a payment adjustment, or any other similar mechanism for increasing the amount otherwise payable with respect to a discharge.

• For the collection of data relating to the cost of new medical service, or technology for not less than 2 years and no more than 3 years after an appropriate inpatient hospital services code is issued. The statute further provides that discharges involving new services or technology that occur after the collection of these data will be classified within a new or existing DRG group with a weighting factor derived from cost data collected for discharges occurring during such period.

A discussion of how we are proposing to implement the provisions of section 533(b) of Public Law 106-554 follows. Section II.D. of this preamble discusses the Report to Congress required by section 533(a) of Public Law 106-553 relating to methods of expeditiously incorporating new medical services and technologies into the clinical coding system used for payments for inpatient hospital services and our preferred method of achieving this purpose.

1. Criteria for Identifying New Medical Services and Technology

New section 1886(d)(5)(K)(vi) of the Act specifies that a medical service or technology will be considered “new” if it meets criteria established by the Secretary (after notice and opportunity for public comment). (For convenience, hereafter we refer to “new medical services and technology” as “new technology.”) We are proposing that a new technology would be an appropriate candidate for an additional payment when, in the judgment of the Secretary, it represents an advance in medical technology that substantially improves, relative to technologies previously available, the diagnosis or treatment of Medicare beneficiaries (proposed § 412.87(b)(1)). This criterion is to ensure that new technology can be demonstrated to provide a substantial clinical improvement based on verifiable evidence. Because any additional payments made under this provision will be financed by reducing the payments made for all other services (in order to maintain budget neutrality as discussed under section IV.F.4. of this preamble), we believe that these payments should be focused on those technologies that afford clear improvements over use of previously available technologies. As explained below, we are proposing that new technologies meeting this clinical definition also must be demonstrated to be inadequately paid otherwise under the DRG system to receive special payment treatment (proposed § 412.87(b)(3)). Hospitals adopting other new technologies that do not meet these standards would be paid for these technologies through other applicable DRG payments. These payments would be recalibrated over time to reflect actual use of the new technology.

We expect to implement this criterion by considering the clinical benefits for beneficiaries. We are aware that some technologies may offer substantial clinical improvements for small subsets of beneficiaries, such as those who have not responded to other treatments, and we expect to recognize such substantial advantages in these instances.

In addition to the clinical and cost criteria, we are proposing that, in order to qualify for the special payment treatment provided under new section 1886(d)(5)(K)(ii)(I) of the Act, a specific technology must be new (proposed § 412.87(b)(2)). We believe the new provision contemplates the special payment treatment for new technologies until such time as data are available to reflect the cost of the technology in the DRG weights through recalibration (generally 2 years). Specifically, new section 1886(d)(5)(K)(ii)(II) of the Act states that the Secretary must “provide for the collection of data with respect to the costs of a new medical service or technology * * * for a period of not less than two years and not more than three years beginning on the date on which an inpatient hospital code is issued with respect to the service or technology.” In addition, new section 1886(d)(5)(K)(ii)(III) states that the Secretary must “provide for additional payment to be made * * * with respect to discharges involving a new medical service or technology described in subclause (I) that occur during the period described in subclause (II) in an amount that adequately reflects the estimated average costs of such service or technology.”

We are proposing to make determinations regarding which technologies meet this criterion using a panel of Federal clinical and other experts, supplemented as appropriate with outside expertise. The results of all such determinations would be announced in the Federal Register as part of the annual updates and changes to the inpatient hospital prospective payment system (proposed § 412.87(b)(1)). We note that this determination is separate and distinct from the coverage decision process. In the case of new technologies that have gone through the national coverage determination process, we would expect that the evidence reviewed in that process would, in general, be sufficient for making these determinations as well.

Requests to recognize new technology for special payment treatment under new section 1886(d)(5)(K)(ii)(I) of the Act would be evaluated against this proposed criterion based on evidence submitted by the requestor. These requests should be submitted in conjunction with the initial submission of data on the costs of the new technology. In general, we encourage interested parties to initiate this process by August of the year preceding the year in which a new code identifying the new technology would become effective. This will allow maximum time to review the requestor's data and clinical material. In particular, it affords an opportunity to work with the requestor to resolve any problems or questions that may arise. At a minimum, requests should be submitted by early October of that year. It should be noted that submitting requests as late as October may not afford the opportunity for HCFA to work with the requestor to resolve problems or questions. Requests must be submitted by early October to allow adequate time to consider all aspects of a request prior to making a determination to be included in the proposed rule. Work begins on preparing the DRG changes for the following fiscal year by the middle of December, and any decisions to recognize particular new technologies should be taken into account at that time.

We are soliciting comments on these proposals. In particular, given that this process is the result of new legislation with possibly major implications for the hospital inpatient prospective payment system, we invite public comment on: our definition of new medical services and technologies; the use of Federal clinical and other experts to make determinations regarding which criteria meet our definition of a new service or technology; the information necessary to determine whether payment would be inadequate; and our payment mechanism (see following discussions for these latter two issues).

2. Determining Adequacy of Current Payments for New Services and Technology

Because the inpatient hospital prospective payment system includes costs associated with all aspects of a patient's stay in the hospital, it is not enough to simply identify a technology as “new” and pay an additional amount. A single DRG may encompass many different treatment approaches for a particular illness, with an array of costs associated with those approaches. Clinicians are expected to select the appropriate approach based on the needs of the patient, with the payments averaging out over time to approximate the level of resources needed to treat the average patient in the DRG.

Section 1886(d)(b)(K)(ii) of the Act, as added by section 533(b) of Public Law 106-554, requires that the Secretary make a determination whether the payment otherwise applicable under the existing DRG is inadequate compared to the estimated costs incurred with respect to new technology (as defined previously). We believe that, in order to evaluate whether the DRG payment inadequately reflects the costs of new technology, we must be able to assess the costs of cases involving the new technology against other cases in the DRG. In other words, the criteria for identifying new technology that will receive special payment treatment should reflect whether the new technology is so expensive that hospitals are unlikely to offset the higher costs with other less costly cases within the DRG. We are proposing that this threshold be set at one standard deviation beyond the mean standardized charge for all cases in the DRG to which the new technology is assigned (or the case-weighted average of all relevant DRGs, if the new technology occurs in many different DRGs) (proposed § 412.87(b)(3)). (Standardization adjusts the actual charges of a case by the payment factors such as the wage index, the indirect medical education adjustment factor, and the disproportionate share adjustment factor.)

This comparison would preferably be done using Medicare cases identifiable in our MedPAR database, although data from a clinical trial (including Food and Drug Administration clinical trials) where no bills were submitted for payment may be considered. To the extent possible, HCFA intends to rely on existing information in making these determinations. In most instances, the information would include the Medicare provider number of the hospital where each case was treated, the beneficiary identification numbers of the Medicare patients, the dates of admission and discharge, the charges associated with each case, and all relevant ICD-9-CM codes associated with each case. We would then assess the charges of identified cases involving the new technology, accounting for the additional costs of the new technology that might not be included in the charges if the new technology is being provided by the manufacturer as part of the clinical trial. If the costs of the new technology are not included in the total charges, the requestor must submit adequate documentation upon which to formulate an estimate of the likely costs to hospitals of the new technology.

A significant sample of the data should be submitted no later than early October, approximately 6 months prior to the publication of the proposed rule. Subsequently, a complete database must be submitted no later than mid-December. This timetable is necessary to allow adequate time to assess and verify the data, as well as to work with the submitters to deal with any unique situations with respect to data availability. It is also necessary to allow us to accurately incorporate the data into the proposed rule, which we begin preparing in January. We are soliciting public comments on this process.

To illustrate the proposed use of the standard deviation thresholds, consider DRG 8 (Peripheral and Cranial Nerve and Other Nervous System Procedures Without CC). The average standardized charge of cases assigned to this DRG based on discharges during FY 2000 was $13,212, and the standard deviation was $8,978. Therefore, if a requestor were to seek assignment of a new technology that would otherwise be assigned to DRG 8 to a different DRG, the requestor would be expected to provide data indicating that the average standardized charge of cases receiving this new technology will exceed $22,190. These data must be of a sufficient sample size to demonstrate a significant likelihood that the true mean across all cases likely to receive the new technology will exceed the mean for the cases in DRG 8 by one standard deviation.

Using standard deviation as the threshold takes into account the distribution of charges associated with different treatment modalities around the mean charge for a particular DRG, and the extent to which lower cost cases in the DRG should be expected to offset higher cost cases. Using this method, new technology in a DRG with very little variation in charges would be more likely to meet the criteria. This would be appropriate because there are fewer opportunities within such a DRG to recover the costs of very high cost cases from excess payments for very low cost cases.

We note that, although we anticipate a limited number of new technologies will qualify under this proposed threshold, we will continue to evaluate the appropriateness of all DRG assignments. This applies not only to new technology but existing technologies as well.

3. Developing a Payment Mechanism

Section 1886(d)(5)(K)(v) of the Act, as added by section 533(b) of Public Law 106-554, provides flexibility to the Secretary in terms of deciding exactly how the requirement for an additional payment will be satisfied: a new-technology group, an add-on payment, a payment adjustment, or any other similar mechanism for increasing the amount otherwise payable. We believe the approach most consistent with the design and incentives of the inpatient hospital prospective payment system would be to assign new technology to the most appropriate DRG based on the condition of the patient as described above, and adjust payments for individual cases that involve the new technology when the costs of those cases exceed a threshold amount. That is, we would not pay an additional amount for every case involving the new technology, but only where the costs of the entire case exceed the DRG payment amount. We are concerned that the establishment of new DRGs specifically for the purpose of recognizing costly new technology could potentially severely disrupt the DRG classification structure. In particular, we are concerned that some new technologies may involve large numbers of cases across multiple DRGs. Creating new DRGs specifically for new technology would pull cases out of existing DRGs, possibly leading to severe distortions in the relative weights and inadequate payments for cases remaining in the existing DRGs.

We are proposing that Medicare provide higher payments for cases with higher costs involving identified new technologies, while preserving some of the incentives under the average-based payments for all treatment modalities for a particular patient category. The payment mechanism we are proposing would be based on the cost to hospitals for the new technology. We are proposing under § 412.88 that Medicare would pay a marginal cost factor of 50 percent for the costs of the new technology in excess of the full DRG payment. This would be calculated before any outlier payments under section 1886(d)(5)(A) of the Act, if applicable. Similarly, cases involving new technology would be eligible for outlier payments, with the additional amounts paid for the new technology included in the base payment amount. Costs would be determined by applying the cost-to-charge ratio in a manner identical to that currently used for outlier payments. If the costs of a new technology case exceed the DRG payment by more than the estimated costs of the new technology, Medicare payment would be limited to the DRG payment plus 50 percent of the estimated costs of the new technology, except if the case qualified for outlier payments. (We are proposing a conforming change to § 412.80 by adding a new paragraph (a)(3) to provide that outlier qualifying thresholds and payments would be in addition to standard DRG payments and additional payments for new medical services and technology (effective October 1, 2001).)

For example, consider a new technology estimated to cost $3,000, in a DRG that pays $20,000. A hospital submits three claims for cases involving this new technology. After applying the hospital's cost-to-charge ratio, it is determined the costs of these three cases are $19,000, $22,000, and $25,000. Under our proposal, Medicare would pay $20,000 (the DRG payment) for the first claim. For the second claim, Medicare would pay one half of the amount by which the costs of the case exceed the DRG payment, up to the estimated cost of the new technology, or $21,000 ($20,000 plus one half of $2,000). For the third claim, Medicare would pay $21,500 ($20,000 plus one half of the total estimated costs of the new technology).

We believe it is appropriate to limit the additional payment to 50 percent of the additional cost to appropriately balance the incentives. This limit would provide hospitals an incentive for continued cost-effective behavior in relation to the overall costs of the case. In addition, hospitals would face an incentive to balance the desirability of using the new technology versus the old; otherwise, there would be a large and perhaps inappropriate incentive to use the new technology. For example, in the late 1980s, we considered whether to establish a special payment adjustment for tissue plasminogen activator (TPA), a thrombolytic agent used in treating blockages of coronary arteries, reflecting the high costs of the drug. We did not establish such an adjustment because we believed that the updates to the standardized amounts, combined with the potential for continuing improvements in hospital productivity, would be adequate to finance appropriate care of Medicare patients. In fact, the costs of the drug were offset by shorter hospital stays and an overall reduction in costs per case. As clinical experience with TPA accumulated, furthermore, it appeared that the drug was not as widely beneficial as its original proponents expected. Establishing an add-on payment for this drug might have actually led to more extensive use of this drug for patients who would not have benefited, and might have even been harmed, by its blood-thinning characteristics.

4. Budget Neutrality

The report language accompanying section 533 of Public Law 106-554 directs that the Secretary implement the new mechanism on a budget neutral basis (H.R. Conf. Rep. No. 106-1033, 106th Cong., 2d Sess. at 897 (2000)). Section 1886(d)(4)(C)(iii) of the Act requires that the adjustments to annual DRG classifications and relative weights must be made in a manner that ensures that aggregate payments to hospitals are not affected. Therefore, we would simulate projected payments under this provision for new technology during the upcoming fiscal year at the same time we estimate the payment effect of changes to the DRG classifications and recalibration. The impact of those additional payments would then be factored into the budget neutrality factor, which is applied to the standardized amounts.

Because any additional payments directed toward new technology under this provision would be offset to ensure budget neutrality, it is important to carefully consider the extent of this provision and ensure that only technologies representing substantial advances are recognized for additional payments. In that regard, we would discuss in the annual proposed and final regulations implementing changes to the inpatient hospital prospective payment system those technologies that were considered under this provision; our determination as to whether a particular new technology meets our criteria for a new technology; whether it is determined further that cases involving the new technology would be inadequately paid under the existing DRG payment; and any assumptions that went into the budget neutrality calculations related to additional payments for that new technology, including the expected number, distribution, and costs of these cases.

The payments made under this provision would be redistributed from all other payments made under the inpatient prospective payment system; DRG payments would be reduced by amounts we estimate to be necessary to pay for the estimated aggregate new technology payments. Our projections of the aggregate payments for new technology would involve not only estimates of the effect of the new technology on the entire cost per case but also estimates of the volume of cases expected to involve the new technology during the upcoming year. Given the uncertainty in both of these aspects of the projections, we believe it is important to expose our estimates to public comment before implementing them.

G. Payment for Direct Costs of Graduate Medical Education (§ 413.86)

1. Background

Under section 1886(h) of the Act, Medicare pays hospitals for the direct costs of graduate medical education (GME). The payments are based in part on the number of residents trained by the hospital. Section 1886(h) of the Act, as amended by section 4623 of Public Law 105-33, caps the number of residents that hospitals may count for direct GME.

Section 1886(h)(2) of the Act, as amended by section 9202 of the Consolidated Omnibus Reconciliation Act (COBRA) of 1985 (Public Law 99-272), and implemented in regulations at § 413.86(e), establishes a methodology for determining payments to hospitals for the costs of approved GME programs. Section 1886(h)(2) of the Act, as amended by COBRA, sets forth a payment methodology for the determination of a hospital-specific, base-period per resident amount (PRA) that is calculated by dividing a hospital's allowable costs of GME for a base period by its number of residents in the base period. The base period is, for most hospitals, the hospital's cost reporting period beginning in FY 1984 (that is, the period of October 1, 1983 through September 30, 1984). The PRA is multiplied by the number of FTE residents working in all areas of the hospital complex (or nonhospital sites, when applicable), and the hospital's Medicare share of total inpatient days to determine Medicare's direct GME payments. In addition, as specified in section 1886(h)(2)(D)(ii) of the Act, for cost reporting periods beginning on or after October 1, 1993, through September 30, 1995, each hospital's PRA for the previous cost reporting period is not updated for inflation for any FTE residents who are not either a primary care or an obstetrics and gynecology resident. As a result, hospitals with both primary care and obstetrics and gynecology residents and nonprimary care residents have two separate PRAs beginning in FY 1994: one for primary care and one for nonprimary care.

Section 1886(h)(2) of the Act was further amended by section 311 of Public Law 106-113 to establish a methodology for the use of a national average PRA in computing direct GME payments for cost reporting periods beginning on or after October 1, 2000, and on or before September 30, 2005. Generally, section 1886(h)(2) of the Act establishes a “floor” and a “ceiling” based on a locality-adjusted, updated, weighted average PRA. Each hospital's PRA is compared to the floor and ceiling to determine whether its PRA should be revised. PRAs that are below the floor, that is, 70 percent of the locality-adjusted, updated, weighted average PRA, would be revised to equal 70 percent of the locality-adjusted, updated, weighted average PRA. PRAs that exceed the ceiling, that is, 140 percent of the locality-adjusted, updated, weighted average PRA, would, depending on the fiscal year, either be frozen and not increased for inflation, or increased by a reduced inflation factor. We implemented section 311 of Public Law 106-113 in the hospital inpatient prospective payment system final rule published on August 1, 2000 (65 FR 47090). In that final rule, we set forth the methodology for calculating the weighted average PRA and outlined the steps for determining whether a hospital's PRA would be revised.

2. Amendments Made by Section 511 of Public Law 106-554 (§ 413.86(e)(4)(ii)(C) and (e)(5)(iv))

Section 511 of Public Law 106-554 amended section 1886(h)(2)(D)(iii) of the Act by increasing the floor to 85 percent of the locality-adjusted national average PRA. In general, section 511 provides that, effective for cost reporting periods beginning on or after October 1, 2001, and before October 1, 2002, PRAs that are below 85 percent of the respective locality-adjusted national average PRA would be increased to equal 85 percent of that locality-adjusted national average PRA. Accordingly, we are proposing to implement section 511 by revising § 413.86(e)(4)(ii)(C)(1) to incorporate this change and by outlining the methodology for determining whether a hospital's PRA(s) will be adjusted in FY 2002 relative to the increased floor of the locality-adjusted national average PRA.

In the August 1, 2000 final rule (65 FR 47091 and 47092), as implemented at § 413.86(e)(4), we determined, in accordance with section 311 of Public Law 106-113, that the weighted average PRA for cost reporting periods ending during FY 1997 is $68,464. We described the procedures for updating the weighted average PRA of $68,464 for inflation to FY 2001 and for adjusting this average for the locality of each individual hospital. We then outlined the steps for comparing each hospital's PRA(s) to the locality-adjusted national average PRA to determine if, for cost reporting periods beginning on or after October 1, 2000, and before October 1, 2001, the PRAs should be revised to equal the 70-percent floor.

In accordance with section 511 of Public Law 106-554, in this proposed rule, we are proposing that, for cost reporting periods beginning during FY 2002, the FY 2002 PRAs of hospitals that are below 85 percent of the respective locality-adjusted national average PRA for FY 2002 be increased to equal 85 percent of that locality-adjusted national average PRA. Specifically, to determine which PRAs (primary care and nonprimary care separately) for each hospital are below the 85-percent floor, each hospital's locality-adjusted national average PRA for FY 2002 is multiplied by 85 percent. This resulting number is then compared to each hospital's PRA that is updated for inflation to FY 2002. If the hospital's PRA would be less than 85 percent of the locality-adjusted national average PRA, the individual PRA is replaced with 85 percent of the locality-adjusted national average PRA for that cost reporting period, and in future years the new PRA would be updated for inflation by the Consumer Price Index for All Urban Consumers (CPI-U) as compiled by the Bureau of Labor Statistics.

There may be some hospitals with both primary care and nonprimary care PRAs that are below the floor, and both PRAs are, therefore, replaced with 85 percent of the locality-adjusted national average PRA. In these situations, the hospitals would receive a single PRA; a distinction between PRAs would no longer be made for differences in inflation (under § 413.86(e)(3)(ii)). On the other hand, hospitals may have primary care PRAs that are above the floor, and nonprimary care PRAs that are below the floor. In these situations, only the nonprimary care PRAs would be revised to equal 85 percent of the locality adjusted national average PRA, and the prior year primary care PRAs would be updated for inflation by the CPI-U.

For example, if the FY 2002 locality-adjusted national average PRA for Area X is $100,000, then 85 percent of that amount is $85,000. If, in Area X, Hospital A has a primary care FY 2002 PRA of $84,000 and a nonprimary care FY 2002 PRA of $82,000, both of Hospital A's FY 2002 PRAs are replaced by the $85,000 floor. Thus, $85,000 is the amount that would be used to determine Hospital A's direct GME payments for both primary care and nonprimary care FTEs in its cost reporting period beginning in FY 2002, and the $85,000 PRA would be updated for inflation by the CPI-U in subsequent years. However, Hospital B, also located in Area X, has a primary care FY 2002 PRA of $86,000 and a nonprimary care FY 2002 PRA of $84,000. Thus, for Hospital B, only the nonprimary care PRA of $84,000 is replaced by the $85,000 floor. This new PRA of $85,000 would be updated for inflation by the CPI-U in subsequent years. Hospital B's primary care PRA of $86,000 and its nonprimary care PRA of $85,000 would be used to determine its direct GME payments in its cost reporting period beginning in FY 2002.

We note that section 511 of Public Law 106-554 only affects hospitals with PRAs below the 85-percent floor, and does not affect hospitals with PRAs that are either between the floor and ceiling or exceed the ceiling. Thus, with the exception of the change in the floor as provided by section 511, the policy regarding the use of a national average PRA for making direct GME payments remains as implemented in the regulations at § 413.86(e)(4).

We are proposing to amend § 413.86(e)(4)(ii)(C)(1) to add the rules implementing section 1886(h)(2)(D)(iii) of the Act as amended by section 511 of Public Law 106-554.

We also are proposing to amend § 413.86(e)(5) regarding the determination of base year PRAs for new teaching hospitals for cost reporting periods beginning during FYs 2001 through 2005. In the August 1, 2000 final rule, we made a conforming change to § 413.86(e)(5) to account for situations in which hospitals do not have a 1984 base year PRA and establish a PRA in a cost reporting period beginning on or after October 1, 2000. Existing § 413.86(e)(5)(iv) specifies that the new base year PRAs of such hospitals are subject to the regulations regarding the floor and the ceiling of the locality-adjusted national average PRA. Although the determination of new base year PRAs is subject to the national average methodology, it is not necessary to include this provision in the regulations. Therefore, we are proposing to remove § 413.86(e)(5)(iv).

We would like to clarify that, for purposes of calculating a base year PRA for a new teaching hospital, when calculating the weighted mean value of PRAs of hospitals located in the same geographic area or the weighted mean value of the PRAs in the hospital's census region (as defined in § 412.62(f)(1)(i)), the PRAs used in the weighted average calculation must not be less than the floors for cost reporting periods beginning during FY 2001 or FY 2002, or if they exceed the ceiling, they must either be frozen for FYs 2001 and 2002 or updated with the CPI-U minus 2 percent for FYs 2003 through 2005. In addition, existing § 413.86(e)(5) provides that the PRA for a new teaching hospital is based on the lower of the hospital's actual costs incurred in connection with the GME program or the weighted mean value of PRAs. For cost reporting periods beginning during FYs 2001 and 2005, the PRA for a new teaching hospital also would be subject to the floor and the ceiling of the national average PRA methodology. If a hospital's actual costs of the GME program during its cost reporting period beginning during FY 2001 or FY 2002 are less than the floors, the hospital's PRA would not be based on the actual costs. Instead, it would be equal to 70 percent in FY 2001, or 85 percent during FY 2002, of the locality-adjusted national average PRA. The floor applies to hospitals with existing PRAs in FYs 2001 and 2002, or to hospitals that are establishing new base year PRAs in FYs 2001 and 2002. We are proposing to clarify that if a hospital establishes a new base year PRA in a cost reporting period beginning after FY 2002, its PRA would not be increased to equal the floor if it is less than the floor. Similarly, the ceiling applies to hospitals with existing PRAS in FYs 2001 through 2005, or to hospitals that are establishing new base year PRAs in FYs 2001 through 2005.

3. Determining the 3-Year Rolling Average for Direct GME Payments (§ 413.86(g)(4) and (g)(5))

Section 1886(h)(4)(G)(iii) of the Act, as added by section 4623 of Public Law 106-33, provides that for the hospital's first cost reporting period beginning on or after October 1, 1997, the hospital's weighted FTE count for direct GME payment purposes equals the average of the weighted FTE count for that cost reporting period and the preceding cost reporting period. For cost reporting periods beginning on or after October 1, 1998, section 1886(h)(4)(G) of the Act requires that hospitals' direct medical education weighted FTE count for payment purposes equal the average of the actual weighted FTE count for the payment year cost reporting period and the preceding two cost reporting periods (rolling average). This provision phases in the associated reduction in payment over a 3-year period for hospitals that are reducing their number of residents.

In the August 29, 1997 final rule with comment period (62 FR 46004), we revised § 413.86(g)(5) accordingly, and outlined the methodology for determining a hospital's direct GME payment. Based on what we explained in the 1997 final rule, for cost reporting periods beginning on or after October 1, 1997, we would determine a hospital's direct GME payment as follows:

Step 1. Determine the average of the weighted FTE counts for the payment year cost reporting period and the prior two immediately preceding cost reporting periods (with exception of the hospital's first cost reporting period beginning on or after October 1, 1997, which will be based on the average of the weighted average for that cost reporting period and the immediately preceding cost reporting period).

Step 2. Determine the hospital's direct GME amount without regard to the FTE cap (before determining Medicare's share). That is, take the sum of (a) the product of the primary care PRA and the primary care weighted FTE count in the current payment year, and (b) the product of the nonprimary care PRA and the nonprimary care weighted FTE count in the current payment year.

Step 3. Divide the hospital's direct GME amount by the total number of FTE residents (including the effect of weighting factors) for the cost reporting period to determine the weighted average PRA (this amount reflects the FTE weighted average of the primary and nonprimary care PRAs) for the cost reporting period.

Step 4. Multiply the weighted average PRA for the cost reporting period by the 3-year average weighted count to determine the hospital's allowable direct GME costs. This product is then multiplied by the hospital's Medicare patient load for the cost reporting period to determine Medicare's direct GME payment to the hospital.

Steps 2 and 3 above describe the methodology for combining a hospital's primary care PRA and nonprimary care PRA to determine the hospital's single weighted average PRA for the payment year cost reporting period. (This step accounts for hospitals that were training residents in both primary care and nonprimary care residency programs in FYs 1994 and 1995, when, as described in § 413.86(e)(3)(ii), each hospital's PRA for the previous cost reporting period was not adjusted for any resident FTEs who were not either a primary care resident or an obstetrics or a gynecology resident. As a result, such hospitals have two PRAs for direct GME payment; one for primary care and obstetrics and gynecology residents, and one for all other, or nonprimary care, residents. Hospitals that train either only primary care (including obstetrics and gynecology) residents or only nonprimary care residents follow the methodology described above, with the exception of combining two PRAs). Step 4 then dictates that the resulting average PRA is multiplied by the 3-year rolling average, which, in turn, is multiplied by the hospital's Medicare patient load in the current year to determine Medicare's direct GME payment to the hospital for that cost reporting period.

In implementing this provision in the August 29, 1997 final rule with comment period, we believed that the methodology described above was appropriate because it was consistent with the methodology described under section 1886(h)(3)(B) of the Act. This section specifies that, in order to arrive at the average PRA, or “aggregate approved amount,” HCFA must multiply a hospital's PRA by the “weighted average number of [FTE] residents * * * in the hospital's approved medical residency training programs in that period” (emphasis added).

We also believed the methodology outlined above and in the August 29, 1997 rule was appropriate because it was consistent with the intent of the statute that, after October 1, 1997, direct GME payments should be based on a rolling average. Specifically, section 4623 of Public Law 106-33 provides that, “For cost reporting periods beginning on or after October 1, 1997 * * * the total number of full-time equivalent residents for determining a hospital's graduate medical education payment shall equal the average of the actual full-time equivalent resident counts for the cost reporting period and the preceding two cost reporting periods” (emphasis added). Thus, while the statute does not include a specific methodology for computing the direct GME payments, it clearly indicates that the payment should be based on a 3-year average of the weighted number of residents, not the weighted number of residents in the current payment year cost reporting period.

As stated above, Congress provided that the direct GME payments should be made based on a 3-year average of the weighted number of residents in order to phase in the associated reduction in payment over a 3-year period for hospitals that are reducing the number of residents they are training. However, in steps 2 and 3 above, when combining a hospital's primary care PRA and nonprimary care PRA, we weight the respective PRAs by current year residents. This introduces the number of residents that a hospital is training in the current cost reporting period into the payment formula. A payment formula that incorporates the number of current year residents “dilutes” the effect of the rolling average as related to direct GME payments. After further consideration, we believe that, consistent with the statute, the formula should be based on rolling average counts of residents. We are proposing an alternative methodology in which the direct GME payment would be the sum of (a) the product of the primary care PRA and the primary care and obstetrics and gynecology rolling average, and (b) the product of the nonprimary care PRA and the nonprimary care rolling average. (This sum would then be multiplied by the Medicare patient load.) We note that IME payments would not be affected because, although they also are based on a 3-year rolling average, there is no distinction between primary care and nonprimary care residents.

The new methodology would be effective for cost reporting periods beginning on or after October 1, 2001. The proposed methodology for determining a hospital's direct GME payment is as follows:

Step 1. Determine that the hospital's total unweighted FTE counts in the payment year cost reporting period and the prior two immediately preceding cost reporting periods for all residents in allopathic and osteopathic medicine do not exceed the hospital's FTE cap for these residents in accordance with § 413.86(g)(4). If the hospital's total unweighted FTE count in a cost reporting period exceeds its cap, the hospital's weighted FTE count, for primary care and obstetrics and gynecology residents and nonprimary care residents, respectively, will be reduced in the same proportion that the number of these FTE residents for that cost reporting period exceeds the unweighted FTE count in the cap. The proportional reduction is calculated for primary care and obstetrics and gynecology residents and nonprimary care residents separately in the following manner:

(FTE cap/unweighted total FTEs in the cost reporting period) × (weighted primary care and obstetrics and gynecology FTEs in the cost reporting period)

plus

(FTE cap/unweighted total FTEs in the cost reporting period) × (weighted nonprimary care FTEs in the cost reporting period).

Add the two products to determine the hospital's reduced cap.

Step 2. Determine the 3-year average of the weighted FTE count for primary care and obstetrics and gynecology residents in the payment year cost reporting period and the two immediately preceding cost reporting periods. Determine the 3-year average of the weighted FTE count for nonprimary care residents in the payment year cost reporting period and the two immediately preceding cost reporting periods.

Step 3. Determine the product of the primary care PRA and the primary care and obstetrics and gynecology 3-year average from step 2. Determine the product of the nonprimary care PRA and the nonprimary care 3-year average from step 2.

Step 4. Sum the products of step 3.

Step 5. Multiply the sum from step 4 by the hospital's Medicare patient load for the cost reporting period to determine Medicare's direct GME payment to the hospital.

Existing § 413.86(g)(5) specifies that residents in new programs are excluded from the rolling average calculation for a period of years equal to the minimum accredited length for the type of program, and are added to the payment formula after applying the averaging rules. Accordingly, for hospitals that qualify for an adjustment to their FTE caps for residents training in new programs under § 413.86(g)(6), primary care and obstetrics and gynecology residents in new programs would be added to the quotient of the primary care and obstetrics and gynecology 3-year average, and nonprimary care residents in new programs would be added to the quotient of the nonprimary care 3-year average. The sums of the respective 3-year averages and new residents would then be multiplied by the respective PRAs.

The following example illustrates the determination of direct GME payment under the proposed rolling average methodology for an existing teaching hospital with no new programs:

Example: Assume a hospital with a cost reporting period ending September 30, 1996 (beginning October 1, 1995) had 100 unweighted FTE residents and 90 weighted FTE residents. The hospital's FTE cap is 100 unweighted residents.

Step 1. In its cost reporting period beginning in FY 2000, it had 100 unweighted residents and 90 weighted residents (50 primary care and 40 nonprimary care).

• The hospital had 90 unweighted residents and 85 weighted residents (50 primary care and 35 nonprimary care) for its cost reporting period beginning in FY 2001.

• In its cost reporting period beginning in FY 2002, the hospital had 80 unweighted residents and 80 weighted residents (50 primary care and 30 nonprimary care).

Step 2. The 3-year average of weighted primary care and obstetrics and gynecology residents is (50 + 50 + 50)/3 = 50. The 3-year average of weighted nonprimary care residents is (40 + 35 + 30)/3 = 35.

Step 3. Primary care: $80,000 PRA × 50 weighted primary care and obstetrics and gynecology FTEs = $4,000,000. Nonprimary care: $78,000 × 35 weighted nonprimary care FTEs = $2,730,000.

Step 4. $4,000,000 + $2,730,000 = $6,730,000.

Step 5. If the hospital's Medicare patient load for the payment cost reporting period is .20, Medicare's direct GME payment would be $6,730,000 × .20 = $1,346,000.

Whether the proposed methodology results in a payment difference for a hospital is dependent upon whether or not the number and mix (primary care and nonprimary care) of FTEs changes in a 3-year period. If the number and mix of FTEs does not change in a 3-year period, there would be no difference in a direct GME payment amount derived using the proposed methodology versus the existing methodology. For example, if a hospital has 90 weighted FTEs (50 primary care and 40 nonprimary care) in the current year and the 2 previous years (using the PRAs and the Medicare patient load from the example above), the payment amounts derived from the existing methodology and the proposed methodology would be equal.

If the number and mix of FTEs varies from year to year, there will be a difference in the results of the two methodologies. In some instances the existing methodology would result in a higher payment, and in other instances the proposed methodology would result in a higher payment. In the example above, the hospital has reduced its number of weighted residents by 5 FTEs in FYs 2001 and 2002. Calculating this hospital's direct GME payment amount using the existing methodology (using the PRAs and the Medicare patient load from the example) would result in a payment of $1,347,250, which is $1,250 more than $1,346,000, the amount calculated in the example using the proposed methodology.

In a scenario where a hospital makes larger reductions to the number of FTEs, the proposed methodology may be more beneficial. For example, using the PRAs and the Medicare patient load from the example above, assume a hospital has 90 weighted FTEs (50 primary care and 40 nonprimary care) in FY 2000, 85 weighted FTEs (50 primary care and 35 nonprimary care) in FY 2001, and 70 weighted FTEs (35 primary care and 35 nonprimary care) in FY 2002. If the proposed methodology is used, the payment amount of $1,292,050 would be calculated, which is $1,666 more than $1,290,386, the amount calculated if the existing methodology is used.

We are proposing to revise § 413.86(g)(4) to specify that, effective for cost reporting periods beginning on or after October 1, 2001, if the hospital's total unweighted FTE count in a cost reporting period exceeds its cap, the hospital's weighted FTE count, for primary care and obstetrics and gynecology residents and nonprimary care residents, respectively, will be reduced in the same proportion that the number of these FTE residents for that cost reporting period exceeds the unweighted FTE count in the cap. We also are proposing to revise § 413.86(g)(5) to specify that, effective for cost reporting periods beginning on or after October 1, 2001, the direct GME payment will be calculated using two separate rolling averages, one for primary care and obstetrics and gynecology residents and one for nonprimary care residents.

4. Counting Research Time as Direct and Indirect GME Costs (§§ 412.105 and 413.86)

It has come to our attention that there appears to be some confusion in the provider community as to whether the time that residents spend performing research is countable for the purposes of direct and indirect GME reimbursement. Although we are not proposing to make any policy changes in this proposed rule, we would like to reiterate our longstanding policy regarding time that residents spend in research and propose to incorporate this policy in the IME regulations.

Section 413.86(f) specifies that, for the purposes of determining the total number of FTE residents for the direct GME payment, residents in an approved program working in all areas of the hospital complex may be counted. Accordingly, the time the residents spend performing research as part of an approved program anywhere in the hospital complex may be counted for direct GME payment purposes. If the requirements listed at §§ 413.86(f)(3) and (f)(4) are met, a hospital may also count the time residents spend doing research in non-hospital settings for direct GME payment.

For purposes of determining the IME payment, § 412.105(f)(ii) specifies that the time residents spend training in parts of the hospital that are subject to the inpatient prospective payment system, in the outpatient departments, or (effective on or after October 1, 1997, in accordance with §§ 413.86(f)(3) and (f)(4)) in nonhospital settings, may be counted. Section 2405.3.F.2. of the Provider Reimbursement Manual (PRM) further states that a resident must not be counted for the IME adjustment if the resident is engaged exclusively in research. Resident time spent “exclusively” in research means that the research is not associated with the treatment or diagnosis of a particular patient of the hospital. Therefore, although the research component may be part of an approved program, the time that residents devote specifically to performing research that is not related to delivering patient care, whether it occurs in the hospital complex or in non-hospital settings, may not be counted for IME payment purposes. “Exclusively research” time is not allowable for IME purposes irrespective of whether the resident is engaged only in research or spends only part of his or her time on research. Accordingly, time spent exclusively in research over the course of a program year should be subtracted from the total FTE for that year. For example, if a resident is required to spend 3 months in a particular program year engaged in research activities unrelated to delivering patient care, that amount of time should be subtracted from the total FTE, whether or not the research time is fulfilled in one block of time, or is distributed throughout the training year.

We note that in order to count residents for both direct GME and IME payment purposes, the residents' training must be part of an approved program. This applies whether or not the residents are doing work that is clinical in nature. There are situations where residents have completed their residency program requirements but remain for an additional period of time to continue their training (that is, to conduct research or other activities) outside the context of a formally organized approved program. As we explained in the September 29, 1989 final rule (54 FR 40306), these residents are not countable for direct GME or IME reimbursement. Rather, patient care services provided by these residents should be paid as Part B services.

We are proposing to amend § 412.105(f)(1)(iii) to add a paragraph (B) to incorporate language that reflects this policy.

5. Temporary Adjustments to FTE Cap To Reflect Residents Affected by Residency Program Closure

In the July 30, 1999 hospital inpatient prospective payment system final rule (64 FR 41522), we indicated that we would allow a temporary adjustment to a hospital's FTE resident cap under limited circumstances and if certain criteria are met when a hospital assumes the training of additional residents because of another hospital's closure. We made this change because hospitals had indicated a reluctance to accept additional residents from a closed hospital without a temporary adjustment to their caps. When we proposed this change 2 years ago, we received several comments suggesting that we include lost accreditation of a program (that is, a program's closure) in the temporary adjustment policy. We explained in our response to these comments (64 FR 41522) that we did not believe it was appropriate to expand our policy to cover any acts other than a hospital's closure. We made this decision because, unless the hospital terminates its Medicare agreement, the hospital would retain its statutory FTE cap and could affiliate with other hospitals to enable the residents to finish their training.

It has come to our attention that, despite a hospital's ability to affiliate with other hospitals when it shuts down a residency program, some hospitals for various reasons do not affiliate before their programs close, particularly when the program closes abruptly towards the end of the program year (the deadline to submit Medicare affiliation agreements is July 1 of the upcoming program year). Therefore, we are proposing that if a hospital that closes its residency training program agrees to temporarily reduce its FTE cap, another hospital(s) may receive a temporary adjustment to its FTE cap to reflect residents added because of the closure of the former hospital's residency training program. For purposes of this proposed policy on closed programs, we are proposing to define “closure of a hospital residency training program” as when the hospital ceases to offer training for residents in a particular approved medical residency training program (proposed § 413.86(g)(8)(i)(B)). The methodology for adjusting the caps for the “receiving hospital” and the “hospital that closed its program” is described below.

a. Receiving hospital. We are proposing that a hospital(s) may receive a temporary adjustment to its (or their) FTE cap to reflect residents added because of the closure of another hospital's residency training program if—

• The hospital is training additional residents from the residency training program of a hospital that closed its program; and

• No later that 60 days after the hospital begins to train the residents, the hospital submits to its fiscal intermediary a request for a temporary adjustment to its FTE cap, documents that the hospital is eligible for this temporary adjustment by identifying the residents who have come from another hospital's closed program and have caused the hospital to exceed its cap, specifies the length of time the adjustment is needed, and submits to its fiscal intermediary a copy of the FTE cap reduction statement by the hospital closing the program, as specified in paragraph (g)(8)(iii)(B)(2).

In general, the above criteria we are proposing for the temporary adjustment are reflective of the criteria for the temporary adjustment for taking on the training of displaced residents from closed hospitals. We note that we are proposing that more than one hospital would be eligible to apply for the temporary adjustment, because residents from one closed program may go to different hospitals, or they may finish their training at more than one hospital. We also note that only to the extent a hospital would exceed its FTE cap by training displaced residents would it be eligible for the temporary adjustment.

Finally, we note that we are proposing that hospitals that meet the above proposed criteria would be eligible to receive temporary adjustments (for cost reporting periods beginning on or after October 1, 2001, for direct GME and with discharges beginning on or after October 1, 2001 for IME) for training the displaced residents from programs that closed even before the effective date of this policy. We mention this because hospitals may have closed programs in the recent past and the residents from the closed programs may not have completed their training as of the effective date of this policy. For instance, if a 5-year residency program, such as surgery, closed on July 1, 1997, the 5th program year residents may still be training during this residency year (2001). We are proposing that if both the receiving hospital(s) and the hospital that closed the program in this example follow the criteria described in this preamble, the receiving hospital may receive a temporary adjustment to its FTE cap for 9 months (October 1, 2001 through June 30, 2002) to accommodate the 5th year surgery residents. However, we note that hospitals would not be eligible to receive a temporary adjustment for training the residents until the effective date of this rule.

b. Hospital that closed its program(s). We are proposing that a hospital that agrees to train residents who have been displaced by the closure of another hospital's program may receive a temporary FTE cap adjustment only if the hospital with the closed program(s)—

• Temporarily reduces its FTE cap by the number of FTE residents in each program year training in the program at the time of the program's closure. The yearly reduction would be determined by deducting the number of those residents who would have been training in the program year during each year had the program not closed; and

• No later than 60 days after the residents who were in the closed program begin training at another hospital, submits to its fiscal intermediary a statement signed and dated by its representative that specifies that it agrees to the temporary reduction in its FTE cap to allow the hospital training the displaced residents to obtain a temporary adjustment to its cap; identifies the residents who were training at the time of the program's closure; identifies the hospitals to which the residents are transferring once the program closes; and specifies the reduction for the applicable program years.

Unlike the closed hospital policy at § 413.86(g)(8), we are proposing under this closed program policy (which we are proposing to amend § 413.86(g)(8) to include), that in order for the receiving hospital(s) to qualify for a temporary adjustment to its FTE cap, the hospitals that are closing their programs would need to reduce their FTE cap for the duration of time the displaced residents would need to finish their training. We are proposing this change because, as explained below, the hospital that closes the program still has the FTE slots in its cap, even if the hospital chooses not to fill the slots with residents. We believe it is inappropriate to allow an increase to the receiving hospital's cap without an attendant decrease to the cap of the hospital with the closed program, even if the increase is only temporary. We note that even under this proposed closed program policy, the hospital that closes its program may choose instead to affiliate with another hospital by July 1 of the next residency year so that the residents can more easily finish their training.

We are proposing that the cap reduction for the hospital with the closed program would be based on the number of FTE residents in each program year who were in the program at the program's closure, and who began training at another hospital, rather than the count of residents each year at the hospital(s) receiving the temporary adjustment(s). We believe it would be too burdensome administratively to require the hospital closing the program to keep track of the status of the residents when they are training at other hospitals. For instance, Joe Smith, a resident who is a PGY 1 when Hospital X closes its pathology residency program, may then finish his training at Hospital Y. The resident trains for one year at Hospital Y as a PGY 2, but decides to drop out of the program before finishing. It would be burdensome to require Hospital X to keep track of Joe Smith's status while he is training at Hospital Y for purposes of the reduction in Hospital X's cap. Therefore, we are proposing to “freeze” the basis for the reduction of the FTE cap of the hospital that closed the program based on the count and status of the residents when the hospital closes the program.

Example: Hospital A, which has a direct GME FTE cap of 20 FTEs and an IME FTE cap of 18 FTEs, is experiencing financial difficulties and decides to close down its internal medicine residency training program effective June 30, 2002. As of June 30, 2002, Hospital A is training 2 PGY 1s, 4 PGY 2s, and 6 PGY 3s in its internal medicine program. Hospitals B, C, and D take on the training of the displaced residents. These hospitals are eligible to receive temporary adjustments to their FTE caps if they follow the proposed criteria stated above. In order for Hospitals B, C, and D to receive the temporary adjustments, however, Hospital A must agree to reduce its FTE cap. According to the proposed criteria stated above, Hospital A's reduction would be:

July 1, 2002 through June 30, 2003

Direct GME FTE cap: 14 FTEs, (20 FTEs cap—2 PGY 2s—4 PGY 3s)

IME FTE cap: 12 FTEs (18 FTEs—2 PGY 2s—4 PGY 3s)

We note that no downward adjustment for the 6 PGY 3s for either cap is necessary since these residents will have completed their training in that program by the July 1, 2000 through June 30, 2003 program year.

July 1, 2003 through June 30, 2004

Direct GME FTE cap: 18 FTEs (20 FTEs cap—2 PGY 3s)

IME FTE cap: 16 FTEs (18 FTEs cap—2 PGY 3s)

July 1, 2004 through June 30, 2005

Direct GME FTE cap: 20 FTEs

IME FTE cap: 18 FTEs

We also are proposing to revise § 412.105(f)(1)(ix) to make the provision relating to the adjustment to FTE caps to reflect residents affected by closure of hospitals' medical residency training programs applicable to determining the IME payment.

6. Conforming Change to Regulations Governing Payment to Federally Qualified Health Centers (§ 405.2468(f))

We have discovered a technical error in the regulations at § 405.2468(f) regarding payment to federally qualified health centers (FQHCs) and rural health centers (RHCs) for the costs of graduate medical education. Specifically, § 405.2468(f)(6)(ii)(D) provides that “The costs associated with activities described in § 413.85(d) of this chapter” are not allowable graduate medical education costs. We recently amended § 413.85 in a final rule (66 FR 3358, January 12, 2001) regarding Medicare pass-through payment for approved nursing and allied health education programs. However, we inadvertently did not make a conforming change to § 405.2468(f)(6)(ii)(D). Section 405.2468(f)(6)(ii)(D) should read “The costs associated with activities described in § 413.85(h) of this chapter.” We are proposing to revise § 405.2468(f)(6)(ii)(D) to reflect this change.

V. Proposed Changes to the Prospective Payment System for Capital-Related Costs

A. End of the Transition Period

Federal fiscal year (FY) 2001 is the last year of the 10-year transition period established to phase in the prospective payment system for hospital capital-related costs. For the readers' benefit in this proposed rule, we are providing a summary of the statutory basis for the system, the development and evolution of the system, the methodology used to determine capital-related payments to hospitals, and the policy for providing exceptions payments during the transition period.

Section 1886(g) of the Act requires the Secretary to pay for the capital-related costs of inpatient hospital services “in accordance with a prospective payment system established by the Secretary.” Under the statute, the Secretary has broad authority in establishing and implementing the capital prospective payment system. We initially implemented the capital prospective payment system in the August 30, 1991 final rule (56 FR 43409), in which we established a 10-year transition period to change the payment methodology for Medicare inpatient capital-related costs from a reasonable cost-based methodology to a prospective methodology (based fully on the Federal rate).

The 10-year transition period established to phase in the prospective payment system for capital-related costs is effective for cost reporting periods beginning on or after October 1, 1991 (FY 1992) and before October 1, 2001 (FY 2002). Beginning in FY 2001, the last year of the 10-year transition period for the prospective payment system for hospital capital-related costs, capital prospective payment system payments are based solely on the Federal rate for the vast majority of hospitals. Since FY 2001 is the final year of the capital transition period, we will no longer determine a hospital-specific rate for FY 2002 in section IV. of the Addendum of this proposed rule. For cost reporting periods beginning on or after October 1, 2001, payment for capital-related costs for all hospitals, except those defined as new hospitals under § 412.30(b), will be determined based solely on the capital standard Federal rate.

Generally, during the transition period, inpatient capital-related costs are paid on a per discharge basis, and the amount of payment depended on the relationship between the hospital-specific rate and the Federal rate during the hospital's base year. A hospital with a base year hospital-specific rate lower than the Federal rate is paid under the fully prospective payment methodology during the transition period. This method is based on a dynamic blend percentage of the hospital's hospital-specific rate and the applicable Federal rate for each year during the transition period. A hospital with a base period hospital-specific rate greater than the Federal rate is paid under the hold-harmless payment methodology during the transition period.

During the transition period, a hospital paid under the hold-harmless payment methodology receives the higher of (1) a blended payment of 85 percent of reasonable cost for old capital plus an amount for new capital based on a portion of the Federal rate; or (2) a payment based on 100 percent of the adjusted Federal rate. The amount recognized as old capital is generally limited to the allowable Medicare capital-related costs that were in use for patient care as of December 31, 1990. Under limited circumstances, capital-related costs for assets obligated as of December 31, 1990, but put in use for patient care after December 31, 1990, also may be recognized as old capital if certain conditions were met. These costs are known as obligated capital costs. New capital costs are generally defined as allowable Medicare capital-related costs for assets put in use for patient care after December 31, 1990.

Hospitals that are defined as “new” for the purposes of capital payments during the transition period (see § 412.300(b)) will continue to be paid according to the applicable payment methodology outlined in § 412.324. During the transition period, new hospitals are exempt from the prospective payment system for capital-related costs for their first 2 years of operation and are paid 85 percent of their reasonable capital-related costs during that period. The hospital's first 12-month cost reporting period (or combination of cost reporting periods covering at least 12 months), beginning at least 1 year after the hospital accepts its first patient, serves as the hospital's base period. Those base year costs qualify as old capital and are used to establish its hospital-specific rate used to determine its payment methodology under the capital prospective payment system. Effective with the third year of operation, the hospital will be paid under either the fully prospective methodology or the hold-harmless methodology. If the fully prospective methodology is applicable, the hospital is paid using the appropriate transition blend of its hospital-specific rate and the Federal rate for that fiscal year until the conclusion of the transition period, at which time the hospital will be paid based on 100 percent of the Federal rate. If the hold-harmless methodology is applicable, the hospital will receive hold-harmless payment for assets in use during the base period for 8 years, which may extend beyond the transition period.

The basic methodology for determining capital prospective payments based on the Federal rate is set forth in § 412.312. For the purpose of calculating payments for each discharge, the standard Federal rate is adjusted as follows:

(Standard Federal Rate) × (DRG Weight) × (GAF) × (Large Urban Add-on, if applicable) × (COLA Adjustment for Hospitals Located in Alaska and Hawaii) × (1 + DSH Adjustment Factor + IME Adjustment Factor)

Hospitals may also receive outlier payments for those cases that qualify under the thresholds established for each fiscal year. Section 412.312(c) provides for a single set of thresholds to identify outlier cases for both inpatient operating and inpatient capital-related payments.

In accordance with section 1886(d)(9)(A) of the Act, under the prospective payment system for inpatient operating costs, hospitals located in Puerto Rico are paid for operating costs under a special payment formula. Prior to FY 1998, hospitals in Puerto Rico were paid a blended rate that consisted of 75 percent of the applicable standardized amount specific to Puerto Rico hospitals and 25 percent of the applicable national average standardized amount. However, effective October 1, 1997, under amendments to the Act enacted by section 4406 of Public Law 105-33, operating payments to hospitals in Puerto Rico are based on a blend of 50 percent of the applicable standardized amount specific to Puerto Rico hospitals and 50 percent of the applicable national average standardized amount. In conjunction with this change to the operating blend percentage, effective with discharges on or after October 1, 1997, we compute capital payments to hospitals in Puerto Rico based on a blend of 50 percent of the Puerto Rico rate and 50 percent of the Federal rate as specified in the regulations at § 412.374. For capital-related costs, we compute a separate payment rate specific to Puerto Rico hospitals using the same methodology used to compute the national Federal rate for capital-related costs.

In the August 30, 1991 final rule (56 FR 43409), we established a capital exceptions policy, which provided for exceptions payments during the transition period (§ 412.348). Section 412.348 provides that, during the transition period, a hospital may receive additional payment under the exceptions process when its regular payments are less than a minimum percentage, established by class of hospital, of the hospital's reasonable capital-related costs. The amount of the exceptions payment is the difference between the hospital's minimum payment level and the payments the hospital would have received under the capital prospective payment system in the absence of an exceptions payment. The comparison is made on a cumulative basis for all cost reporting periods during which the hospital has been subject to the capital prospective payment transition rules. The minimum payment percentages throughout the transition period for regular capital exceptions payments by class of hospitals are:

• For sole community hospitals, 90 percent;

• For urban hospitals with at least 100 beds that have a disproportionate share patient percentage of at least 20.2 percent or that received more than 30 percent of their net inpatient care revenues from State or local governments for indigent care, 80 percent;

• For all other hospitals, 70 percent of the hospital's reasonable inpatient capital-related costs.

The provision for regular exceptions payments expires at the end of the transition period, that is, on September 30, 2001. Capital prospective payment system payments are no longer adjusted to reflect regular exceptions payments at § 412.348 after that date. Accordingly, for cost reporting periods beginning on or after October 1, 2001, all hospitals other than those defined as “new” under § 412.300(b) will receive only the per discharge payment based on the Federal rate for capital costs (plus any applicable DSH or IME and outlier adjustments) unless a hospital qualifies for a special exceptions payment under § 412.348(g).

B. Special Exceptions Process

In the August 30, 1991 final rule (56 FR 43409), we established a capital exceptions policy at § 412.348, which provided for regular exception payments during the transition period. In the September 1, 1994 final rule (59 FR 45385), we added the special exceptions process, describing it as “* * * narrowly defined, focusing on a small group of hospitals who found themselves in a disadvantaged position. The target hospitals were those who had an immediate and imperative need to begin major renovations or replacements just after the beginning of the capital prospective payment system. These hospitals would not be eligible for protection under the old capital and obligated capital provisions, and would not have been allowed any time to accrue excess capital prospective payments to fund these projects.”

Under the special exceptions provisions at § 412.348(g), an additional payment may be made through the 10th year beyond the end of the capital prospective payment system transition period for eligible hospitals that meet (1) a project need requirement as described at § 412.348(g)(2), which, in the case of certain urban hospitals, includes an excess capacity test; and (2) a project size requirement as described at § 412.348(g)(5). Eligible hospitals include sole community hospitals, urban hospitals with at least 100 beds that have a disproportionate share percentage of at least 20.2 percent, and hospitals with a combined Medicare and Medicaid inpatient utilization of at least 70 percent.

When we established the special exceptions process, we selected the hospital's cost reporting period beginning before October 1, 2001, as the project completion date in order to limit cost-based exceptions payments to a period of not more than 10 years beyond the end of the transition to the fully Federal capital prospective payment system. Therefore, hospitals are eligible to receive special exceptions payments for the 10 years after the cost reporting year in which they complete their project. Generally, if a project is completed in the hospital cost reporting period ending September 29, 2002, exceptions payments would continue through September 29, 2012. In addition, we believe that, for projects completed after the deadline, hospitals would have had the opportunity to reserve their prior years' capital prospective payment system payments for financing projects. We note that the August 1, 2000 final rule (65 FR 47095) incorrectly stated that special exceptions payments could extend through September 30, 2011; the date should have been September 29, 2012.

For each cost reporting period, the amount of the special exceptions payment is determined by comparing the cumulative payments made to the hospital under the capital payment system to the cumulative minimum payment levels applicable to the hospital for each cost reporting period subject to the prospective payment system. This comparison is offset or reduced by (1) any amount by which the hospital's cumulative payments exceed its cumulative minimum payments under the regular exceptions process for all cost reporting periods during which the hospital has been subject to the capital prospective payment system; and (2) any amount by which the hospital's current year Medicare inpatient operating and capital prospective payment system payments (excluding 75 percent of its operating DSH payments) exceed its Medicare inpatient operating and capital costs (or its Medicare inpatient margin). During the capital prospective payment system transition period, the minimum payment level under the regular exceptions process varied by class of hospital as set forth in § 412.348(c) and described in section V.A. of this preamble. After the transition period and for the duration of the special exceptions provision, the minimum payment level is 70 percent as set forth in § 412.348(g)(6).

In the July 31, 1998 final rule (63 FR 40999), we stated that a few hospitals had expressed concern with the required completion date of October 1, 2001, and other qualifying criteria for the special exceptions payment. Therefore, we solicited certain information from hospitals on major capital construction projects that might qualify for the capital special exceptions payments so we could determine if any changes in the special exceptions criteria or process were necessary. In the May 7, 1999 proposed rule (64 FR 24736), we reported that four hospitals had responded timely to our solicitation with information on their major capital construction projects. The hospitals submitted information about their location, the cost of the project, the date that the certificate of need approval was received, the start date of the project, and the anticipated completion date. Some hospitals also suggested changing a number of the requirements of the special exception provision.

When we issued the May 7, 1999 proposed rule, we had no specific proposal to revise the special exceptions process. However, we invited comments and suggestions from hospitals and other interested parties on the revision to the special exceptions process (64 FR 24738). We noted that, because the capital special exceptions process is budget neutral, any liberalization of the policy would require a commensurate reduction in the capital rate paid to all hospitals. That is, we will continue to make an adjustment to the capital Federal rate in a budget neutral manner to pay for exceptions as long as an exceptions policy is in force, just as we have for regular exceptions during the transition period. We also stated that, based on the comments we received, we may make changes to the special exceptions criteria in the final regulation or propose changes in the FY 2001 proposed rule.

In the July 30, 1999 final rule (64 FR 41526), we responded to the six comments we received on potential changes to the special exceptions process. In that same final rule, we also described our attempt to obtain information on hospital projects that might qualify for special exceptions payments in order to assess the impact of the recommended changes to the existing policy. In conjunction with the most recent cost report data readily available at that time (FY 1996), we attempted to estimate which of the hospital construction projects might qualify for special exception payments under the existing policy and how that universe of hospitals might change as a result of the recommended revisions to the special exceptions criteria.

Because exception payments to a hospital for a given cost reporting period are based on a percentage of the capital costs incurred during the cost reporting period, we were unable to determine a precise estimate of the amount of payments to hospitals that might be eligible for special exceptions. In addition, hospitals are not eligible for special exception payments until the assets are put into use for patient care. Once eligibility for special exceptions payment has been demonstrated, it is some time before completed and settled cost reports are available to determine these payments.

Based on our research, we determined that it is difficult to predict whether particular hospitals will be able to meet all of the special exceptions eligibility criteria (DSH percentage, completion date, project size, and project need requirements) as well as qualify to receive special exception payments after taking into account the appropriate offsets, such as inpatient operating and capital margins. However, we believe that any changes to the special exceptions policy may affect a significant number of hospitals.

Based on our belief that these changes may have an impact on a significant number of hospitals, our evaluation of the comments, and careful consideration of all the issues, we stated in the July 30, 1999 final rule that the more appropriate forum for addressing changes to the capital special exceptions policy is the legislative process in Congress rather than the regulation process (64 FR 41528).

As we also indicated in the July 30, 1999 final rule (64 FR 41526), we have little information about the number of hospitals that may qualify for special exceptions payments or the projected dollar amount of special exception payments, because no hospitals are currently being paid under the special exceptions process. Until FY 2002, the special exceptions provision pays either the same as the regular exceptions process or less for high DSH and sole community hospitals. In accordance with § 412.348(g)(7), a qualifying hospital may receive additional payments for up to 10 years from the year in which it completes a project that meets the project need and project size requirements of the special exception provision in §§ 412.348(g)(2) through (g)(5). Because a qualifying project under the special exceptions provision at § 412.348(g) must be completed (put into use for patient care) by the end of the hospital's last cost reporting period beginning before the end of the transition period (September 30, 2001), a hospital may receive special exception payments for 10 years through September 30, 2012. For example, an eligible hospital that completes a qualifying project in October 1993 (FY 1994) will be eligible to receive special exception payments up through FY 2003 (September 30, 2003).

In order to assist our fiscal intermediaries in determining the end of the 10-year period in which an eligible hospital will no longer be entitled to receive special exception payments, we are proposing to add a new § 412.348(g)(9) to require that hospitals eligible for special exception payments under § 412.348(g) submit documentation to the intermediary indicating the completion date of their project (the date the project was put in use for patient care) that meets the project need and project size requirements outlined in §§ 412.348(g)(2) through (g)(5). We are proposing that, in order for an eligible hospital to receive special exception payments, this documentation would have to be submitted in writing to the intermediary by the later of October 1, 2001, or within 3 months of the end of the hospital's last cost reporting period beginning before October 1, 2001, during which a qualifying project was completed. For example, if a hospital completed a qualifying project in March 1995, it would be required to submit documentation to the intermediary by October 1, 2001. If a hospital with a 12-month cost reporting period beginning on July 1 completed a qualifying project in November 2001, it would be required to submit documentation to the intermediary no later than September 30, 2002, which is 3 months after the end of its 12-month cost reporting period that began on July 1, 2001.

C. Exceptions Minimum Payment Level

Section 412.348(h) limits the estimated aggregate amount of exceptions payments under both the regular exceptions and special exceptions process to no more than 10 percent of the total estimated capital prospective payment system payments in a given fiscal year. Consistent with the requirements for regular exceptions at § 412.348(c), we are proposing that if we estimate that special exception payments would exceed 10 percent of total capital prospective payment system payments for a given fiscal year, we will adjust the minimum payment level of 70 percent by one percentage point increments until the estimated payments are within the 10-percent limit. For example, we could set the minimum payment level at 69 percent to ensure that estimated aggregate special exceptions payments do not exceed 10 percent of estimated total capital prospective payment system payments. If the estimate of aggregate special exceptions payments were still projected to exceed 10 percent of total capital prospective payment system payments, we would continue reducing the minimum payment level by one percentage point increments until the requirements in § 412.348(h) were satisfied. We are proposing to revise § 412.348(g)(6) accordingly to reflect this policy.

D. Exceptions Adjustment Factor

Section 412.308(c)(3) requires that the standard capital Federal rate be reduced by an adjustment factor equal to the estimated proportion of additional payments for both regular exceptions and special exceptions under § 412.348 relative to total capital prospective payment system payments. In estimating the proportion of regular exceptions payments to total capital prospective payment system payments during the transition period, we used the model originally developed for determining budget neutrality (described in Appendix B of this proposed rule) to determine the exception adjustment factor, which was applied to both the Federal and hospital-specific rates. Below we describe our proposed methodology for determining the special exceptions adjustment used in establishing the Federal capital rate.

Under the special exceptions provision specified at § 412.348(g)(1), eligible hospitals include SCHs, urban hospitals with at least 100 beds that have a disproportionate share percentage of at least 20.2 percent or qualify for DSH payments under § 412.106(c)(2), and hospitals with a combined Medicare and Medicaid inpatient utilization of at least 70 percent. An eligible hospital may receive special exception payments if it meets (1) a project need requirement as described at § 412.348(g)(2), which, in the case of certain urban hospitals, includes an excess capacity test; (2) an age of assets test as described at § 412.348(g)(3); and (3) a project size requirement as described at § 412.348(g)(5).

In order to determine the estimated proportion of special exceptions payments to total capital payments, we attempted to identify the universe of eligible hospitals that may potentially qualify for special exception payments. First, we identified hospitals that met the eligibility requirements at § 412.348(g)(1). Then we determined each hospital's average fixed asset age in the earliest available cost report starting in FY 1992 and later. For each of those hospitals, we calculated the average fixed asset age by dividing the accumulated depreciation by the current year's depreciation. In accordance with § 412.348(g)(3), a hospital must have an average age of buildings and fixed assets above the 75th percentile of all hospitals in the first year of capital prospective payment system. In the September 1, 1994 final rule (59 FR 45385), we stated that, based on the June 1994 update of the cost report files in HCRIS, the 75th percentile for buildings and fixed assets for FY 1992 was 16.4 years. However, we noted that we would make a final determination of that value on the basis of more complete cost report information at a later date. In the August 29, 1997 final rule (62 FR 46012), based on the December 1996 update of HCRIS and the removal of outliers, we finalized the 75th percentile for buildings and fixed assets for FY 1992 as 15.4 years. Thus, we eliminated any hospitals from the potential universe of hospitals that may qualify for special exception payments if its average age of fixed assets did not exceed 15.4 years.

For the hospitals remaining in the potential universe, we estimated project-size by using the fixed capital acquisitions shown on Worksheet A7 from the following HCRIS cost reports updated through December 2000.

PPS year | Cost reports periods beginning in
IX | FY 1992
X | FY 1993
XI | FY 1994
XII | FY 1995
XIII | FY 1996
XIV | FY 1997
XV | FY 1998
XVI | FY 1999

Because the project phase-in may overlap 2 cost reporting years, we added together the fixed acquisitions from sequential pairs of cost reports to determine project size. Under § 412.348(g)(5), the project-size must meet the following requirements: (1) $200 million; or (2) 100 percent of its operating cost during the first 12-month cost reporting period beginning on or after October 1, 1991. We calculated the operating costs from the earliest available cost report starting in FY 1992 and later by subtracting inpatient capital costs from inpatient costs (for all payers). We did not subtract the direct medical education costs as those costs are not available on every update of the HCRIS minimum data set. If the hospital met the project size requirement, we assumed that it also met the project need requirements at § 412.348(g)(2) and the excess capacity test for urban hospitals at § 412.348(g)(4).

Because we estimate that so few hospitals will qualify for special exceptions, projecting costs, payments, and margins would result in high statistical variance. Consequently, we decided to model the effects of special exceptions using historical data based on hospitals' actual cost experiences. If we determined that a hospital may qualify for special exceptions, we modeled special exceptions payments from the project start date through the last available cost report (FY 1999). For purposes of modeling we used the cost and payment data on the cost reports from HCRIS assuming that special exceptions would begin at the start of the qualifying project. In other words, when modeling costs and payment data, we ignored any regular exception payments that these hospitals may otherwise have received as if there had not been regular exceptions during the transition period. In projecting an eligible hospital's special exception payments, we applied the 70-percent minimum payment level, the cumulative comparison of current year capital prospective payment system payments and costs, and the cumulative operating margin offset (excluding 75 percent of operating DSH payments).

Because hospitals may receive regular exception payments up through the end of their last cost reporting period beginning before October 1, 2001, hospitals with cost reporting periods beginning on a day other than October 1 will continue to receive regular exception payments until the end of their FY 2002 cost reporting period. Therefore, these hospitals will only receive special exception payments for the remainder of Federal FY year 2002. Consequently, the special exceptions payments made in FY 2002 will be less than for subsequent years since they are only being paid a special exception payment for a portion of FY 2002.

Our modeling of special exception payments produced the following results:

Cost report | Number of hospitals eligible for special exceptions | Special exceptions as a fraction of capital payments to all hospitals | Special exceptions as a fraction of capital payments to all hospitals weighted by portion of FY 2002 for which special exceptions are paid
PPS IX |  |  |
PPS X |  |  |
PPS XI | 3 |  |
PPS XII | 6 | 0.0002 | 0.0001
PPS XIII | 8 | 0.0001 | 0.0000
PPS XIV | 14 | 0.0002 | 0.0001
PPS XV | 18 | 0.0016 | 0.0002
PPS XVI | 22 | 0.0011 | 0.0008

Currently, the PPS XVI cost reports in HCRIS are incomplete because there is a 2-year lag time between the end of a hospital's cost reporting period and the submission and processing of the cost reports for HCRIS. In particular, hospitals whose cost reporting periods begin July 1 are missing. We expect more hospitals to qualify for special exceptions once data from later HCRIS updates are available. In addition, hospitals still have two more cost reporting periods (PPS XVII and PPS XVIII) to complete their projects in order to be eligible for special exceptions. We estimate that about 30 additional hospitals could qualify for special exceptions. Thus, we project that special exception payments as a fraction of capital payments to all hospitals could be approximately 0.0025. However, after weighting this amount to account for the FY 2002 phase-in of special exception payments, we project that this factor would be approximately 0.0012. Because special exceptions are budget neutral, we propose to offset the Federal capital rate by 0.12 percent for special exceptions for FY 2002. Therefore, the proposed exceptions adjustment factor would equal 0.9988 (1 minus 0.0012) to account for special exception payments in FY 2002. We will revise this projection of the special exception adjustment factor in the final rule based on the latest available data.

VI. Proposed Changes for Hospitals and Hospital Units Excluded From the Prospective Payment System

A. Limits on and Adjustments to the Target Amounts for Excluded Hospitals and Units (§§ 413.40(b)(4) and (g))

1. Updated Caps for Existing Hospitals and Units

Section 1886(b)(3) of the Act (as amended by section 4414 of Public Law 105-33) established caps on the target amounts for certain existing hospitals and units excluded from the prospective payment system for cost reporting periods beginning on or after October 1, 1997 through September 30, 2002. The caps on the target amounts apply to the following three classes of excluded hospitals: psychiatric hospitals and units, rehabilitation hospitals and units, and long-term care hospitals.

In addition, section 4416 of Public Law 105-33 limited payments for psychiatric hospitals and units, rehabilitation hospitals and units, and long-term care hospitals that first received payments on or after October 1, 1997. Payment for these hospitals and units is limited to the lesser of the hospital's operating costs per case or 110 percent of the national median of target amounts for the same class of hospitals for cost reporting periods ending during FY 1996, updated and adjusted for differences in area wage levels.

A discussion of how the caps on the target amounts and the payment limitation were calculated can be found in the August 29, 1997 final rule with comment period (62 FR 46018); the May 12, 1998 final rule (63 FR 26344); the July 31, 1998 final rule (63 FR 41000), and the July 30, 1999 final rule (64 FR 41529). For purposes of calculating the caps for existing facilities, the statute required the Secretary to estimate the national 75th percentile of the target amounts for each class of hospital (psychiatric, rehabilitation, or long-term care) for cost reporting periods ending during FY 1996 without adjusting for differences in area wage levels. Under section 1886(b)(3)(H)(iii) of the Act, the resulting amounts are updated by the market basket percentage to the applicable fiscal year.

Section 121 of Public Law 106-113 amended section 1886(b)(3)(H) of the Act to also provide for an appropriate wage adjustment to the caps on the target amounts for existing psychiatric hospitals and units, rehabilitation hospitals and units, and long-term care hospitals, effective for cost reporting periods beginning on or after October 1, 1999, through September 30, 2002. On August 1, 2000, we published an interim final rule with comment period that implemented this provision for cost reporting periods beginning on or after October 1, 1999 and before October 1, 2000 (65 FR 47026) and a final rule that implemented this provision for cost reporting periods beginning on or after October 1, 2000 (65 FR 47054). This proposed rule addresses the wage adjustment to the caps and payment limitations for cost reporting periods beginning on or after October 1, 2001.

For purposes of calculating the caps, section 1886(b)(3)(H)(ii) of the Act requires the Secretary to first “estimate the 75th percentile of the target amounts for such hospitals within such class for cost reporting periods ending during fiscal year 1996.” Furthermore, section 1886(b)(3)(H)(iii), as added by Public Law 106-113, requires the Secretary to also provide for existing hospitals “an appropriate adjustment to the labor-related portion of the amount determined under such subparagraph to take into account the differences between average wage-related costs in the area of the hospital and the national average of such costs within the same class of hospital.”

Consistent with the broad authority conferred on the Secretary by section 1886(b)(3)(H)(iii) of the Act to determine the appropriate wage adjustment, we account for differences in wage-related costs by adjusting the caps to account for the following:

First, we adjust each hospital's target amount to account for area differences in wage-related costs. For each class of hospitals (psychiatric, rehabilitation, and long-term care), we determine the labor-related portion of each hospital's FY 1996 target amount by multiplying its target amount by the actuarial estimate of the labor-related portion of costs (or 0.71553). Similarly, we determine the nonlabor-related portion of each hospital's FY 1996 target amount by multiplying its target amount by the actuarial estimate of the nonlabor-related portion of costs (or 0.28447).

Next, we account for wage differences among hospitals within each class by dividing the labor-related portion of each hospital's target amount by the hospital's wage index under the hospital inpatient prospective payment system. Within each class, each hospital's wage-neutralized target amount was calculated by adding the wage-neutralized labor-related portion of its target amount and the nonlabor-related portion of its target amount. Then, the wage-neutralized target amounts for hospitals within each class were arrayed in order to determine the national 75th percentile caps on the target amounts for each class.

Taking into account the national 75th percentile of the target amounts for cost reporting periods ending during FY 1996 (wage-neutralized using the FY 2000 acute care wage index), the wage adjustment provided for under Public Law 106-113, and the applicable update factor based on the market basket percentage increase for FY 2001, in the August 1, 2000 final rule (65 FR 47096), we established the FY 2001 caps on the target amounts as follows:

Class of excluded hospital or unit | FY 2001 labor-related share | FY 2001 nonlabor-related share
Psychiatric | $8,131 | $3,233
Rehabilitation | 15,164 | 6,029
Long Term Care | 29,284 | 11,642

In reviewing our methodology for wage neutralizing the hospital specific target amounts, it appears that we incorrectly used the FY 2000 hospital inpatient prospective payment system wage index published in Tables 4A and 4B of the July 30, 1999 final rule (64 FR 41585 through 41593), which is based on wage data after taking into account geographic reclassification under section 1886(d)(8) of the Act. We are proposing to revise the methodology of wage neutralizing the hospital-specific target amounts using pre-reclassified wage data. We propose to recalculate the limit for new excluded hospitals and units, as well as calculate the cap for existing excluded hospitals and units, using the pre-reclassification wage index. The pre-reclassification wage index is the same wage index used under the prospective payment system for skilled nursing facilities (SNFs) and was included in Table 7 of the July 30, 1999 SNF final rule (64 FR 41690). (We note that both SNFs and ambulatory surgical centers use the prospective payment system inpatient wage index without regard to the prospective payment system reclassification as a proxy for variations in local costs.)

As we stated in the August 1, 2000 final rule, long-term care hospitals, rehabilitation hospitals and units, and psychiatric hospitals and units that are exempt from the prospective payment system are not subject to the prospective payment system hospital reclassification system under section 1886(d)(10)(A) of the Act. This section establishes the MGCRB for the purpose of evaluating applications from short-term, acute care providers. There is no equivalent statutory mandate for HCFA to develop an alternative board for long-term care hospitals, psychiatric hospitals and units, and rehabilitation hospitals and units. In addition, while it would be feasible to allow units physically located in prospective payment system hospitals that have been reclassified by the MGCRB to use the wage index for the area to which that hospital has been reclassified, at the present time there is no process in place to make reclassification determinations for freestanding excluded providers. There are approximately 1,000 freestanding excluded providers. Therefore, in the interest of equity, we believe that, in determining a hospital's wage-adjusted cap on its target amount, it is appropriate for excluded hospitals and units to use the wage index associated with the area in which they are physically located (MSA or rural area) and the prospective payment system reclassification under section 1886(d)(10) of the Act is not applicable. This policy is also consistent with the policy for SNFs and ambulatory surgical centers that use the acute care, inpatient hospital prospective payment system wage index and that does not allow for reclassifications since there is no analogous determinations process to the MGCRB. The MGCRB only has authority over the prospective payment system for acute care hospitals.

Therefore, based on the broad authority conferred on the Secretary by section 1886(b)(3)(H)(iii) of the Act to determine the appropriate wage adjustment to the caps, we have determined the labor-related and nonlabor-related portions of the proposed caps on the target amounts for FY 2002 using the methodology outlined above.

Class of excluded hospital or unit | FY 2002 proposed labor-related share | FY 2002 proposed nonlabor-related share
Psychiatric | $8,404 | $3,341
Rehabilitation | 15,689 | 6,237
Long-Term Care | 31,399 | 12,483

These labor-related and nonlabor-related portions of the proposed caps on the target amounts for FY 2002 are based on the current estimate of the market basket increase for excluded hospitals and units for FY 2002 of 3.0 percent and reflect the change in applying the pre-reclassified hospital inpatient prospective payment system wage index as discussed above. Furthermore, in accordance with section 307(a) of Public Law 106-554, which amended section 1886(b)(3) of the Act, the labor-related and nonlabor-related portions of the proposed cap for long-term care hospitals for FY 2002 are increased by 2 percent. We are providing a further discussion of this provision in an interim final rule with comment period that will implement provisions of Public Law 106-554 for FY 2001 and for periods in FY 2001 from April 1, 2001 through September 30, 2001 (HCFA-1178-IFC).

Finally, to determine payments described in § 413.40(c), the cap on the hospital's target amount per discharge is determined by adding the hospital's nonlabor-related portion of the national 75th percentile cap to its wage-adjusted, labor-related portion of the national 75th percentile cap. A hospital's wage-adjusted, labor-related portion of the target amount is calculated by multiplying the labor-related portion of the national 75th percentile cap for the hospital's class by the hospital's applicable wage index. For FY 2002, a hospital's applicable wage index is the pre-reclassified wage index under the hospital inpatient prospective payment system (see § 412.63). The proposed wage index values are computed based on the same data used to compute the proposed FY 2002 wage index values for the hospital inpatient prospective payment system without taking into account changes in geographic reclassification under section 1886(d)(8)(B) of the Act for certain rural hospitals or reclassifications based on MGCRB decisions or the Secretary's decisions under sections 1886(d)(8) through (d)(10) of the Act. For cost reporting periods beginning on or after October 1, 2001 and before October 1, 2002, the pre-reclassified wage index is in Tables 4G and 4H of this proposed rule. A hospital's applicable wage index corresponds to the area in which the hospital or unit is physically located (MSA or rural area).

2. New Excluded Hospitals and Units

a. Updated Caps (§ 413.40(f))

Section 1886(b)(7) of the Act establishes a payment methodology for new psychiatric hospitals and units, new rehabilitation hospitals and units, and new long-term care hospitals. Under the statutory methodology, for a hospital that is within a class of hospitals specified in the statute and first receives payments as a hospital or unit excluded from the prospective payment system on or after October 1, 1997, the amount of payment will be determined as follows: For the first two 12-month cost reporting periods, the amount of payment is the lesser of (1) the operating costs per case; or (2) 110 percent of the national median of target amounts for the same class of hospitals for cost reporting periods ending during FY 1996, updated to the first cost reporting period in which the hospital receives payments as adjusted for differences in area wage levels.

As discussed earlier, in reviewing our methodology for wage neutralizing the hospital-specific target amounts, it appears we incorrectly used the FY 2000 hospital inpatient prospective payment system wage index published in Tables 4A and 4B of the July 30, 1999 final rule, which is based on wage data after taking into account geographic reclassifications under section 1886(d)(8) of the Act. Therefore, we also are proposing to revise the methodology of wage neutralizing the hospital-specific target amounts using pre-reclassified wage data in our calculation of the limit for new excluded hospitals and units.

The proposed amounts included in the following table reflect the updated and recalculated 110 percent of the wage neutralized national median target amounts for each class of excluded hospitals and units for cost reporting periods beginning during FY 2002. These figures are updated to reflect the projected market basket increase of 3.0 percent. For a new provider, the labor-related share of the target amount is multiplied by the appropriate geographic area wage index, without regard to prospective payment system reclassifications, and added to the nonlabor-related share in order to determine the per case limit on payment under the statutory payment methodology for new providers.

Class of excluded hospital or unit | FY 2002 proposed labor-related share | FY 2002 proposed nonlabor-related share
Psychiatric | $6,795 | $2,701
Rehabilitation | 13,425 | 5,337
Long-Term Care | 16,651 | 6,620

b. Changes in Type of Hospital Classification (§§ 412.23 and 412.25)

Section 1886(b)(3) of the Act (as amended by section 4414 of Public Law 105-33) establishes caps on the target amounts for existing psychiatric hospitals and units, rehabilitation hospitals and units, and long-term care hospitals for cost reporting periods beginning on or after October 1, 1997 through September 30, 2002. Section 4416 of Public Law 105-33 amended section 1886(b)(7) of the Act to provide for a limitation on payment for new excluded psychiatric hospitals and units, new rehabilitation hospitals and units, and new long-term care hospitals. Since the establishment of the caps on target amounts and the payment limitations, there has been an increase in the number of hospitals requesting a change from one classification type to another (for example, from rehabilitation to long-term care). Regulations at § 412.22(d) state that “For purposes of exclusion from the prospective payment systems under this subpart, the status of each currently participating hospital (excluded or not excluded) is determined at the beginning of each cost reporting period and is effective for the entire cost reporting period. Any changes in the status of the hospital are made only at the start of a cost reporting period.” Even though the existing regulations directly address only a hospital that changes from a prospective payment system hospital to an excluded hospital, our longstanding policy has been that a change of any classification type can be effective only at the beginning of the provider's cost reporting period. Although the existing regulations do not directly address changes in a classification type of excluded hospital, we believe that a change from one classification type of excluded hospital to another type of excluded hospital is analogous to a change from a prospective payment system hospital to an excluded hospital. Therefore, we believe it would be consistent with our longstanding policy to amend our regulations to specify that a change from one excluded hospital classification type to another type is allowed only at the beginning of the hospital's cost reporting period.

The rationale underlying our present policy of requiring that these types of changes should only be effective at the beginning of the cost reporting period is the need to avoid any undue (and possibly significant) administrative burden that could result from doing otherwise (for example, cost allocation, cost reporting requirements, certification issues). If we were to accept changes in an excluded hospital's classification type from one type of classification to another, other than at the beginning of the cost reporting period, the hospital would need to file a terminating cost report with respect to its original classification as well as file a separate cost report for the remainder of the cost reporting period with respect to its new classification. Filing these cost reports would involve gathering the appropriate cost data, allocating the data, and apportioning the data between the two hospital classes. Additionally, we would have to validate the cost reports. To allow these types of changes in the middle of a cost reporting period would result in a significant administrative burden. We would point out that this burden is applicable equally for either a change from a prospective payment system hospital to an excluded hospital, or a change from one excluded hospital classification type to another classification type. Therefore, we are proposing to amend the regulations to provide that the effective date of any of these classification changes is only at the beginning of a provider's cost reporting period (proposed § 412.23(i), for excluded hospitals, and proposed § 412.25(f), for excluded units).

3. Effective Date of Exclusion of Long-Term Care Hospitals

Existing regulations at § 412.23(e) require a newly established long-term care hospital to operate for at least 6 months with an average length of stay in excess of 25 days in order to qualify for exclusion from the inpatient hospital prospective payment system as a long-term care hospital. Other regulations at § 412.22(d) allow changes in a hospital's status from not excluded to excluded to occur only at the start of a cost reporting period. These two regulations, taken together, typically require a hospital to operate for at least 6 months under the prospective payment system before becoming eligible for payment at the more favorable rate under section 1886(b)(3) of the Act.

These regulations were challenged in litigation by a chain organization that operates a large number of long-term care hospitals (Transitional Hospital Corporation of Louisiana, Inc. v. Shalala, 222 F.3d 1019 (D.C. Cir. 2000) (THC)). Although the court of appeals in this case found that the Secretary has ample authority to adopt current regulatory provisions, it also concluded that the Secretary has not adequately considered other policy options. Consequently, it remanded the case to the agency for the agency to consider whether it wanted to continue its existing policy or adopt a policy of either “self-certification” or “retroactive adjustment.” Generally, under a self-certification approach, hospitals that have not yet demonstrated the required average length of stay would be excluded from the prospective payment system based on a commitment to maintain such a length of stay. Under a retroactive adjustment approach, a hospital's long-term care classification would be made effective with the beginning of the 6-month period in which it demonstrated the required average length of stay. Payments for that period initially would be made under the prospective payment system and then adjusted retroactively to amounts payable for an excluded long-term care hospital once length of stay was successfully established.

As directed by the court of appeals, we are reviewing the issues raised in this case in light of the court's decision, and are specifically considering the options of self-certification and retroactive adjustment. Our current proposals and the alternatives we considered before arriving at them are set forth below. To assist us in completing the review process, we are requesting public comment on our proposals, taking into account the following considerations.

a. Demonstrating Required Average Length of Stay

Although we understand that we have discretion to select other policy options, we are proposing to continue our policy of requiring hospitals seeking long-term care hospital classification to demonstrate the required average length of stay based on 6 months of data, instead of permitting these hospitals to “self-certify” the required average length of stay.

We note that the statute provides the agency with broad authority to determine the methodology by which facilities can qualify for exclusion as long-term care hospitals (section 1886(d)(1)(B)(iv)(I) of the Act specifies that “a hospital which has an average inpatient length of stay (as determined by the Secretary) of greater than 25 days” qualifies for exclusion as a long-term care hospital). As the court of appeals decided, the parenthetical phrase as determined by the Secretary “gives the Secretary considerable leeway to determine whether to require prospective, contemporaneous, or retrospective evaluation and payment.” (THC at 1026.)

Although we have considered the self-certification option, we do not believe that it is appropriate to permit long-term care hospitals to self-certify. Long-term care hospitals “are licensed as acute care hospitals in the States in which they operate [and] their only distinguishing characteristic is their long average length of stay” (ProPAC March 1, 1997 Report and Recommendations to the Congress, Recommendation 30). For this reason, and because average length of stay can be difficult, if not impossible, to forecast when a new hospital first opens its doors for service, it would not be appropriate to allow new hospitals to self-certify that they will have an average length of stay exceeding 25 days.

Requiring newly participating hospitals to collect at least 6 months of length of stay data before permitting them to qualify as long-term care hospitals is consistent with treatment of other types of excluded hospitals in the regulations. Like long-term care hospitals, children's hospitals, which by statute are also excluded from the prospective payment system, also have just one distinguishing characteristic from acute care hospitals; namely, having inpatients who are predominantly individuals under 18 years of age (section 1886(d)(1)(B)(iii) of the Act). As with long-term care hospitals, we do not permit children's hospitals to self-certify that they will meet this requirement as to a future cost reporting period (§ 412.23(d)).

Although we permit rehabilitation hospitals to self-certify that they meet certain elements of the definition for such a hospital, important differences between rehabilitation hospitals and long-term care hospitals render such a scheme inappropriate for the latter. The differences in the two types of excluded hospitals begin with the statute, which excludes from the prospective payment system “a rehabilitation hospital (as defined by the Secretary)” and “a hospital which has an average inpatient length of stay (as defined by the Secretary) of greater than 25 days”; that is, a long-term care hospital (sections 1886(d)(1)(B)(ii) and 1886(d)(1)(B)(iv)(I) of the Act). Thus, Congress delegated broad authority to the Secretary to define rehabilitation hospitals, but provided the definition of long-term care hospitals in the statute itself (and then, as discussed above, gave the agency broad authority to determine how to apply that definition).

In exercising our authority to define a rehabilitation hospital, we promulgated regulations that contain several defining features that a facility must possess to be considered such a hospital, as opposed to the one statutorily mandated feature (average length of stay) that defines long-term care hospitals (§ 412.23(b)). The requirements that a rehabilitation hospital must meet include a showing that 75 percent of its patients are of a certain type, the existence of a preadmission screening process, assurance that patients will receive close medical supervision and that the hospital will furnish certain types of therapy through the use of qualified personnel, the presence of a director of rehabilitation with certain qualifications, evidence of a plan of treatment for each inpatient that is established and monitored by a physician, and the use of a coordinated interdisciplinary team approach in the rehabilitation of each patient (§ 412.23(b)(1) through (b)(7)). With the exception of the “75 percent rule,” all of these requirements are “characteristics of the patients and types of services that the facility furnishes” that “can be assessed at a given point in time” (ProPAC March 1, 1997 Report and Recommendations to the Congress, Recommendation 30).

Thus, rehabilitation hospitals are defined primarily by static and observable features, most of which can be accurately assessed when a new rehabilitation hospital is first certified under the Medicare program. As a result, the regulations permit a new rehabilitation hospital to provide written certification that it will meet the 75 percent rule, provided we find that it also meets the six other elements of the definition of a rehabilitation facility (§ 412.23(b)(8)). The hospital's demonstrated ability to meet the six remaining requirements provides an adequate level of assurance that the hospital will also meet the 75-percent requirement if it so certifies. No such assurance is available, however, regarding whether a hospital might, during a future period, meet the sole requirement for qualification as a long-term care hospital—the average length of stay of its patients.

b. Effective Date of Exclusion From the Prospective Payment System

Because we propose to continue our policy of not allowing a hospital to self-certify the required average length of stay in order to be paid as an excluded long-term care hospital, it is necessary to consider the effective date of excluded status for a hospital that has demonstrated the required average length of stay. We considered making long-term care classification effective retroactively with the beginning of the 6-month period in which the hospital demonstrated the required average length of stay. Doing so would mean, for example, that a hospital that admitted its first patient on January 1, 2001, and demonstrated that its average length of stay exceeded 25 days for the period January 1 through June 30, and that was approved for long-term care classification on July 15, would be paid for its discharges from January 1, 2001 forward as an excluded long-term care hospital rather than under the prospective payment system, as long as it continued to demonstrate the requisite average length of stay. However, we believe that such retroactive application of excluded status is inappropriate.

For the reasons below, we are proposing to continue our policy that a hospital's payment as a long-term care hospital would be effective with the beginning of the hospital's cost reporting period that follows the determination to classify the hospital as a long-term care hospital. From the first rulemaking implementing the inpatient acute hospital prospective payment system payment methodology, the agency has generally applied decisions regarding various elements of the prospective payment system payment methodology prospectively only, and the courts have upheld that action. (THC at 1022 (“status” decisions regarding whether a hospital is subject to or excluded from the prospective payment system); County of Los Angeles v. Shalala 192 F.3d 1005 (D.C. Cir. 1999) (decisions regarding criteria for receipt of “outlier” payments); Methodist Hospital of Sacramento v. Shalala, 38 F.3d 1225 (D.C. Cir. 1994) (decisions to revise “wage index” component of the prospective payment system payment rate); Hennepin County v. Sullivan, 883 F.2d 85, 91 (D.C. Cir. 1989) (“there is nothing inherently arbitrary or capricious about an agency's decision to apply new data prospectively only”); 57 FR 39746 and 39798 (1992).)

For the same reasons that existed in the cases cited above, we believe that prospective implementation of the statutory exclusion for long-term care hospitals is fully consistent with Congress' goals in enacting the prospective payment system. It allows both the hospital and us to know with certainty at the beginning of each cost reporting period of the hospital whether the hospital is subject to or excluded from the prospective payment system for that cost reporting period and thus promotes certainty and predictability of payment for both providers and the agency. County of Los Angeles at 1019; Methodist Hospital of Sacramento at 1232 (“because the Secretary's prospectivity policy permits hospitals to rely with certainty on one additional element in the PPS calculation rate * * * the Secretary could reasonably conclude that it will promote efficient and realistic cost saving targets”).

Moreover, retroactive application of a prospective payment system excluded status decision would entail a significant administrative burden as it would require reprocessing of large numbers of a hospital's claims for hospital inpatient services. See 49 FR 234 and 271 (1984) (making retroactive changes in decisions regarding providers' status as “sole community hospitals” would require us “to reprocess every inpatient hospital claim submitted for the hospital and make adjustment payments at the new rate). It is reasonable to conclude that such a burden outweighs any “increase in accuracy that would result” from retroactive application of decisions regarding long-term care hospital exclusions (Methodist Hospital of Sacramento at 1233).

Finally, we apply our prospective-only policy evenhandedly, regardless of whether it results in a hospital's being subject to, or excluded from, the prospective payment system. Thus, retroactive adjustments in hospitals' status are as likely to hurt providers that slip below the required average length of stay during a cost reporting period as they are to help them by furnishing reimbursement for a past period in which they met that requirement (Methodist Hospital of Sacramento at 1232, 1233). Any adverse effect of the prospective only policy that might be perceived by new long-term care facilities is also lessened by the availability of a short initial cost reporting period and outlier payments for extraordinarily lengthy cases during the initial period when the hospital is subject to the prospective payment system.

In addition to believing that it is appropriate to make payment as a long-term care hospital effective prospectively rather than retroactively, we believe it is also appropriate to continue our policy of making payment effective with the beginning of the hospital's next cost reporting period rather than as of the date of approval of long-term care status. This policy is consistent with how we treat changes in status (that is, from excluded to nonexcluded or from nonexcluded to excluded) for all types of hospitals. As we explain in more detail in section VI.A.2.b of this proposed rule, the rationale for requiring changes in a hospital's status, or changes in a hospital's classification (that is, from one type of excluded hospital to another), only at the start of the hospital's cost reporting period is to alleviate the administrative burden and potential confusion that would result from doing otherwise.

As noted earlier, we request public comments on the proposals described above.

4. Development of Prospective Payment System for Inpatient Rehabilitation Hospitals and Units

Section 1886(j) of the Act, as added by section 4421 of Public Law 105-33, provided the phase-in of a case-mix adjusted prospective payment system for inpatient rehabilitation services (freestanding hospitals and units) for cost reporting periods beginning on or after October 1, 2000 and before October 1, 2002, with a fully implemented system for cost reporting periods beginning on or after October 1, 2002. Section 1886(j) of the Act was amended by section 125 of Public Law 106-113 to require the Secretary to use the discharge as the payment unit under the prospective payment system for inpatient rehabilitation services and to establish classes of patient discharges by functional-related groups. Section 305 of Public Law 106-554 further amended section 1886(j) of the Act to allow hospitals to elect to be paid the full Federal prospective payment rather than the transitional period payments specified in the Act.

On November 3, 2000, we issued a notice of proposed rulemaking in the Federal Register (65 FR 66303) on the proposed establishment of the prospective payment system for inpatient rehabilitation facilities, to be effective on April 1, 2001. Due to the scope and complexity of the proposed system and requests from the public for more time to comment on the proposed rule, we extended the public comment period for an additional 30 days, from January 3, 2001 to February 1, 2001. As a result of the extension of the comment period, it would have been technically impossible to publish a final rule 60 days prior to implementing the prospective payment system for rehabilitation facilities by April l. We anticipate publication of a final rule in May 2001 and intend to announce our plans for implementation at that time.

B. Critical Access Hospitals (CAHs)

1. Exclusion of CAHs From Payment Window Requirements

Section 1886 of the Act specifies the requirements governing payment to full-service hospitals for the operating costs of inpatient hospital services under both the inpatient hospital prospective payment system and the limits on the target amounts for hospitals excluded from the prospective payment system. “Operating costs of inpatient hospital services” are defined in section 1886(a)(3) of the Act, which provides in part that costs of certain services provided to a beneficiary during the 3 days (or in the case of an excluded hospital or unit, during the 1 day) immediately preceding the patient's admission are to be included in the payments for costs under the inpatient hospital prospective payment system, or the target amount for excluded hospitals and units. This part of the definition is sometimes referred to as the “payment window” requirement. Regulations implementing the payment window requirement are found at § 412.2(c)(5) for hospitals subject to the prospective payment system, and § 413.40(c)(2) for hospitals excluded from the prospective payment system.

Payment to CAHs for inpatient services is not made under section 1886 of the Act, nor are CAHs considered to be hospitals excluded from the inpatient hospital Prospective Payment System. Instead, payment is made on a reasonable cost basis, as mandated by section 1814(l) of the Act. Neither section 1814(l) nor section 1861(v) of the Act (which defines “reasonable cost”) requires application of the payment window to services furnished on an outpatient basis immediately before admission to a CAH. Therefore, we have determined that the payment window provision does not apply to CAHs. To clarify this point and avoid possible misapplication of the payment window, we are proposing to amend § 413.70(a)(l) to provide that the requirements of §§ 412.2(c)(5) and 413.40(c)(2) do not apply to CAHs.

2. Availability of CRNA Pass-Through for CAHs

Generally, anesthesia services furnished to a hospital patient by a certified registered nurse anesthetist (CRNA) must be billed to the Part B carrier and payment is made under the applicable fee schedule provisions of § 414.60. However, certain rural hospitals that furnish no more than 500 surgical procedures requiring anesthesia per year and meet other specified requirements are exempted from the fee schedule. These hospitals are paid on a reasonable cost basis for their costs of anesthesia services furnished by qualified nonphysician anesthetists. The exemption is provided in accordance with section 9320(k) of the Omnibus Budget Reconciliation Act of 1986 (Public Law 99-509) (as added by section 608(c)(2) of the Family Support Act of 1988 (Public Law 100-185), as amended by section 6132 of the Omnibus Budget Reconciliation Act of 1989 (Public Law 101-239)). HCFA has codified this exemption at § 412.113(c).

Although § 412.113(c) does not specifically extend eligibility for the pass-through payment for CRNAs to CAHs, some CAHs have pointed out that they are similar to the rural hospitals that are eligible for this payment, in that they also furnish low volumes of surgical procedures requiring anesthesia and could face the same problem of potentially inadequate payment for CRNA services if they are not allowed to qualify for the pass-through payment. We share this concern.

We recognize that the legislation cited above, which provides the legal basis for the pass-through payments, refers only to “hospitals,” not to CAHs. Moreover, section 1861(e) of the Act states that “the term “hospital” does not include, unless the context otherwise requires, a critical access hospital * * *.” It is clear from section 1861(e) of the Act that CAHs are not to be considered hospitals under the Medicare law for most purposes. However, the reference to “context” in the provision indicates that CAHs may be classified as hospitals where, in specific contexts, it would be consistent with the purpose of the legislation to do so.

We believe this is the case with the statutory provisions authorizing pass-through payments for CRNA costs. The purpose of the pass-through legislation is to provide small rural hospitals with low surgical volumes with relief from the difficulties they might otherwise have in furnishing CRNA services for their patients. CAHs are by definition limited'service facilities located in rural areas and, as such, they serve a population much like those served by hospitals eligible for the pass-through payments. In some cases, an institution that now participates as a CAH may even have been eligible for the pass-through payments when it participated as a hospital. Such an institution would clearly be disadvantaged if it were to lose this status. Thus, in accordance with section 1861(e) of the Act and in light of the context of the pass-through legislation cited above, we consider CAHs to be “hospitals” for purposes of extending eligibility for the CRNA pass-through payments to them.

Therefore, we are proposing to add a new § 413.70(a)(3) and revise §§ 413.70(a)(2), (b)(1), and (b)(6) to permit CAHs that meet the criteria for the pass-through payments in § 412.113(c) to qualify for pass-through payments for the costs of anesthesia services for both inpatient and outpatient surgeries, on the same basis as full service rural hospitals. As an unrelated technical correction, we are proposing to revise § 413.70(b)(2)(i)(C) to delete the incorrect reference to § 413.130(j)(2) and replace it with a reference to reduction in capital costs under § 413.130(j). We also are proposing to revise § 412.113(c) by changing the term “hospital” to “hospital or CAH”.

3. Payment to CAHs for Emergency Room On-Call Physicians (Proposed § 413.70(b)(4))

Under section 1834(g) of the Act, Medicare payment to a CAH for facility services to Medicare outpatients is the reasonable costs of the CAH in providing such services. The term “reasonable cost” is defined in section 1861(v) of the Act and in regulations at 42 CFR Part 413, including, with specific reference to CAHs, § 413.70. Consistent with the general policies stated in section 2109 of the Medicare Provider Reimbursement Manual (PRM), Part I (HCFA Publication 15-1), the reasonable cost of CAH services to outpatients may include reasonable costs of compensating physicians who are on standby status in the emergency room (that is, physicians who are present and ready to treat patients if necessary). However, under existing policy, the reasonable cost of CAH services to outpatients may not include any costs of compensating physicians who are not present in the facility but are on call.

Section 204 of Public Law 106-554 further amended section 1834(g) of the Act (as amended by section 201 of Public Law 106-554) by adding a new paragraph (5). New section 1834(g)(5) of the Act provides that, in determining the reasonable costs of outpatient CAH services under sections 1834(g)(1) and 1834(g)(2)(A) of the Act, the Secretary shall recognize as allowable costs amounts (as defined by the Secretary) for reasonable compensation and related costs for emergency room physicians who are on call (as defined by the Secretary) but who are not present on the premises of the CAH involved, are not otherwise furnishing physicians' services, and are not on call at any other provider or facility. The provisions of section 204 of Public Law 106-554 are effective for cost reporting periods beginning on or after October 1, 2001.

To implement the provisions of section 1834(g)(5) of the Act, we are proposing to add a new paragraph (4) to § 413.70(b). The proposed § 413.70(b)(4) would permit the reasonable costs of CAH outpatient services to include the reasonable compensation and related costs of emergency room on-call physicians under the terms and conditions specified in the statute. As directed in the statute, under § 413.70(b)(4)(ii)(A) of this proposed rule, we are defining “amounts for reasonable compensation and related costs” as those allowable costs of compensating emergency room physicians for being on call, to the extent these costs are found to be reasonable under the rules in § 413.70(b)(2).

In addition, as specified under § 413.70(b)(4)(ii)(A) of this proposed rule, we are defining an “emergency room physician who is on call” as a doctor of medicine or osteopathy with training or experience in emergency care who is immediately available by telephone or radio contact, and who is available on site within the timeframes specified in our existing regulations under § 485.618(d). Existing § 485.618(d) specifies that the physician must be available on site (1) within 30 minutes, on a 24-hour a day basis, if the CAH is located in an area other than an area described in item (2); or (2) within 60 minutes, on a 24-hour a day basis, if all of the following requirements are met:

• The CAH is located in an area designated as a frontier area (that is, an area with fewer than six residents per square mile based on the latest population data published by the Bureau of the Census) or in an area that meets criteria for a remote location adopted by the State in its rural health care plan, and approved by HCFA, under section 1820(b) of the Act.

• The State has determined under criteria in its rural health care plan that allowing an emergency response time longer than 30 minutes is the only feasible method of providing emergency care to residents of the area served by the CAH.

• The State maintains documentation showing that the response time of up to 60 minutes at a particular CAH it designates is justified because other available alternatives would increase the time needed to stabilize a patient in an emergency.

We also believe that it is essential that physicians who are paid to be in on-call status in fact come to the facility when summoned. Therefore, we are proposing to specify that costs of on-call emergency room physicians are allowable only if the costs are incurred under written contracts that require them to come to the CAH when their presence is medically required.

4. Treatment of Ambulance Services Furnished by Certain Critical Access Hospitals (Proposed § 413.70(b)(5))

Under section 1861(s)(7) of the Act, Medicare Part B covers and pays for ambulance services, to the extent prescribed in regulations, when the use of other methods of transportation would be contraindicated. Various Congressional reports indicate that Congress intended that (1) the ambulance benefit cover transportation services only if other means of transportation are contraindicated by the beneficiary's medical condition; and (2) only ambulance services to local facilities be covered unless necessary services are not available locally, in which case, transportation to the nearest facility furnishing those services is covered. (H.R. Rept. No. 89-213, 89th Cong., 1st Sess. at 37 (1995) and S. Rept. No. 89-404, 89th Cong., 1st Sess., Pt. I, at 43 (1995).)

The Medicare program currently pays for ambulance services on a reasonable cost basis when furnished by a provider and on a reasonable charge basis when furnished by a supplier. (The term “provider” includes all Medicare-participating institutional providers that submit claims for Medicare ambulance services (hospitals, CAHs, SNFs, and home health agencies). The term “supplier” means an entity that is independent of any provider. The reasonable charge methodology that is the basis of payment for ambulance services is determined by the lowest of the customary, prevailing, actual, or inflation indexed charge.

Section 4531(a)(1) of Public Law 105-33 amended section 1861(v)(1) of the Act and imposed an additional per trip limitation on reasonable cost payment to hospitals and CAHs for ambulance service. As amended, the statute provides that, in determining the reasonable cost of ambulance services furnished by a provider of services, the Secretary shall not recognize the cost per trip in excess of the prior year's reasonable cost per trip updated by an inflation factor. This trip limit provision was first effective for services furnished during Federal fiscal year 1998 (October 1, 1997 through September 30, 1998).

Section 205 of Public Law 106-554 amended section 1834(l) of the Act by adding a new paragraph (8) to that section. New section 1834(l)(8) provides that the Secretary is to pay the reasonable costs incurred in furnishing ambulance services if such services are furnished by a CAH (as defined in section 1861(mm)(1) of the Act), or by an entity owned or operated by the CAH. This provision in effect eliminates any trip limit that CAHs had been subject to as a result of section 1861(v)(1) of the Act, as amended by Public Law 105-33. However, section 205 further states that in order to receive reasonable cost reimbursement for the furnishing of ambulance services, the CAH or entity must be the only provider or supplier of ambulance services located within a 35-mile drive of the CAH. Section 205 is effective for services furnished on or after December 21, 2000, the date of enactment of Public Law 106-554.

To implement the provisions of section 1834(l)(8) of the Act, we are proposing to add a new paragraph (5) to § 413.70(b). Proposed § 413.70(b)(5) would permit a CAH, or an entity owned or operated by a CAH, to be paid for furnishing ambulance services on a reasonable cost basis if the CAH or entity is the only provider or supplier of ambulance services within a 35-mile drive of the CAH. In determining whether there is any other provider or supplier of ambulance services within a 35-mile drive of a CAH or entity, we would first identify the site where the nearest other ambulance provider or supplier garages its vehicles, and then determine whether that site is within 35 miles, calculated as the shortest distance in miles measured over improved roads. An improved road for this purpose would be defined as any road that is maintained by a local, State, or Federal government entity, and is available for use by the general public. Consistent with the change we are proposing in § 412.92(c)(1) relating to SCH determinations (as explained in section IV. of this preamble), we would consider improved roads to include the paved surface up to the front entrance of the hospital and, for purposes of § 413.70(b)(5), the front entrance of the garage.

5. Qualified Practitioners for Preanesthesia and Postanesthesia Evaluation in CAHs

Section 1820 of the Act sets forth the conditions for designating certain hospitals as CAHs. Implementing regulations for section 1820 of the Act are located in 42 CFR part 485, Subpart F. Among the conditions of participation regulations for CAHs in subpart F is the condition for surgical services (§ 485.639). Existing § 485.639 specifies that preanesthesia and postanesthesia services in a CAH can only be performed by a doctor of medicine or an osteopathic practitioner; a doctor of dental surgery or dental medicine; or a doctor of podiatric medicine. This Medicare condition of participation requirement regarding preanesthesia and postanesthesia evaluations for CAHs differs from, and is more restrictive than, the current requirement for acute care hospitals in general. In an acute care hospital, the CRNA is listed among the practitioners who may perform the preanesthesia and postanesthesia evaluations.

Our principal consideration in regulating providers is to ensure patient safety and high quality patient outcomes. As circumstances and health care environments change, we reassess regulations and propose changes accordingly.

When the regulations for the initial Rural Primary Care Hospital (RPCH) program (which later became the CAH program) were adopted, RPCHs were limited to patient stays of no more than 72 hours and to bed counts of no more than 6 acute care beds. We initially viewed RPCHs as very limited-service facilities that would be unlikely to perform any surgery beyond what might be done in a physician's office; therefore, we did not have a condition of participation for surgery. Section 102(a)(1) of the Social Security Amendments of 1994, Public Law 103-432, specifically authorized surgical care in RPCHs. In June 1995, we proposed a surgical condition of participation that incorporated the ambulatory surgery center (ASC) standards. We expected that the types of procedures done in a RPCH would most likely be those that could be done in ASCs. At the time, we received no comments in response to the proposed standards and therefore adopted them in the final RPCH conditions of participation that were published on September 1, 1995 (60 FR 45851).

In 1997, the RPCH (now CAH) program was expanded through a statutory change to include all States and to allow for an increase in bed size and length of stay (August 29, 1997 final rule, 62 FR 46035). Since that time, the program's original conditions of participation have been revised to remove possible barriers to access to care. One example of this effort is the final rule to eliminate the Federal requirement for physician supervision of CRNAs in CAHs as well as acute care hospitals and ASCs that was published in the Federal Register on January 18, 2001 (66 FR 96570).

Recently, provider and medical groups have suggested that CAHs may be at risk of losing the ability to provide access to appropriate surgical services without the full support of available CRNAs. They indicated that the existing regulations place the responsibility of the preanesthesia and postanesthesia evaluations on the operating practitioner, thereby creating a higher standard for CAHs than for other hospitals.

In an effort to eliminate or minimize potential access issues in rural areas and to recognize the CAH's program expansion, we are proposing to revise § 485.639(b) to allow CRNAs to perform preanesthesia and postanesthesia evaluations in a CAH. As with any licensed independent health care provider, the proposed change would not permit CRNAs to practice beyond his or her licensed scope of practice or the approved policies and procedures of the CAH.

6. Clarification of Location Requirements for CAHs

Under section 1820(c)(2)(B)(i) of the Act, a facility seeking designation by the State as a CAH must meet two distinct types of location requirements. First, the facility must either be actually located in a county or equivalent unit of local government in a rural area, as defined in section 1886(d)(2)(D) of the Act, or it must be located in an urban area as defined in section 1886(d)(2)(D) of the Act, but be treated as being located in a rural area under section 1886(d)(8)(E) of the Act. Second, the facility must also be located more than a 35-mile drive (or, in the case of mountainous terrain or in areas with only secondary roads available, a 15-mile drive) from a hospital or similar facility described in section 1820(c) of the Act, or it must be certified by the State as being a necessary provider of health care services to residents in the area. Implementing regulations for these provisions were published in an interim final rule with comment period in the Federal Register on August 1, 2000 (65 FR 47026) and are set forth at § 485.610(b).

Recently, concern has been expressed that § 485.610(b) does not accurately reflect the fact that a facility may satisfy the “rural location” requirement either by actually being located in a rural area or by being located in an urban area but qualifying for treatment as rural under section 1886(d)(8)(E) of the Act. In addition, we have received questions as to whether a potential CAH must meet both the rural location requirement and the requirement for location relative to other facilities (or certification by the State as a “necessary provider”).

To avoid any further confusion, and ensure that our regulations reflect the provisions of the law accurately, we are proposing to revise § 485.610(b) to clarify that a potential CAH must either be actually located in a rural area, or be treated as being rural under section 1886(d)(8)(E) of the Act. In addition, we are proposing to place the provisions of the existing § 485.610(b)(5) in a newly created paragraph (c) entitled, “Location relative to other facilities or necessary provider certification”. We are proposing to relocate this provision in order to clarify that these criteria are separate from the rural location criteria. These proposed changes do not reflect any change in policy; they are merely an attempt to improve the clarity of the regulations.

VII. MedPAC Recommendations

We have reviewed the March 1, 2001 report submitted by MedPAC to Congress and have given it careful consideration in conjunction with the proposals set forth in this document. Recommendation 5A concerning the update factor for inpatient hospital operating costs and for hospitals and hospital distinct-part units excluded from the prospective payment system are discussed in Appendix D to this proposed rule. Other MedPAC recommendations and our responses are set forth below.

A. Accounting for New Technology in Hospital Prospective Payment Systems (Recommendations 3D and 3E)

Recommendation 3D: For the inpatient payment system, the Secretary should develop formalized procedures for expeditiously assigning codes, updating relative weights, and investigating the need for patient classification changes to recognize the costs of new and substantially improved technologies.

Response: Section 533 of Public Law 106-554 directs the Secretary to develop a mechanism for ensuring adequate payment under the hospital inpatient prospective payment system for new medical services and technologies, and to report to Congress on ways to more expeditiously incorporate new services and technologies into that system. The discussion relating to new medical services and technologies is found in section II.D. of this proposed rule and addresses MedPAC's concern regarding the process of assigning new codes. In addition, MedPAC acknowledges, and we agree, that the process of updating the relative weights has an established track record.

MedPAC states that a more formal system for assigning codes and investigating the need for DRG changes would have enabled the current system to more adequately respond to new technology. Although we believe the current process for assigning new codes has the advantage of being well-understood, the proposed new process we described in section II. of this proposed rule should improve the ability of the system to respond to the introduction of new technology.

Recommendation 3E: Additional payments in the inpatient payment system should be limited to new or substantially improved technologies that add significantly to the cost of care in a diagnosis related group and should be made on a budget-neutral basis.

Response: Section 533 of Public Law 106-554 directed the Secretary to establish a mechanism to make these payments beginning with discharges on or after October 1, 2001, and we are proposing implementation of this provision under section IV.F. of this proposed rule.

B. Occupational-Mix Adjusted Wage Index for FY 2005 (Recommendation 4)

Recommendation: To implement an occupation-mix adjusted wage index in FY 2005, the Secretary should collect data on wage rates by occupation in the fiscal year 2002 Medicare cost reports. Hospital-specific wage rates for each occupation should be supplemented by data on the mix of occupations for each provider type. The Secretary also should continue to improve the accuracy of the wage index by investigating differences in wages across areas for each type of provider and in the substitution of one occupation for another.

Response: We are proposing to collect occupational mix data from hospitals through a supplemental survey to the cost report for cost reporting periods beginning during FY 2001. A more complete discussion of our proposed methodology can be found in section III. of this proposed rule.

C. Financial Performance and Inpatient Payment Issues (Recommendations 5B, 5C, and 5D)

Recommendation 5B: In collecting sample patient-level data, HCFA should seek to balance the goals of minimizing payment errors and furthering understanding of the effects of coding on case-mix change.

Response: The sample data referred to by MedPAC is the Payment Error Prevention Program (PEPP) Surveillance Sample. These data are collected to monitor the payment error rate for Medicare inpatient prospective payment system services and provide outcome data to measure PROs' performance in reducing payment errors in their respective States. This information can be appropriately weighted to reflect the true distribution of DRGs nationally. The sample data supplant the DRG validation sample that MedPAC used in its original 1996 through 1998 estimates. The current PEPP Surveillance Sample doubles the size of the earlier DRG validation sample. It is comprised of approximately 60,000 cases per year. We believe this is a sufficient number of cases to both monitor case-mix index changes and PRO performance on payment error reduction.

Recommendation 5C: Although the Benefits Improvement and Protection Act of 2000 improved the equity of the hospital disproportionate share adjustment, Congress still needs to reform this adjustment by:

• Including the costs of all poor patients in calculating low-income shares used to distribute disproportionate share payments; and

• Using the same formula to distribute payments to all hospitals covered by prospective payment.

Response: HCFA is participating a Medicare Technical Advisory Group workgroup concerning technical issues related to the collection of uncompensated care data relative to the Medicare disproportionate share formula. A worksheet and instructions to collect these data will be sent out for prior consultation this summer for revisions to the cost reports applicable for cost reporting periods beginning on or after October 1, 2001.

Recommendation 5E: The Congress should protect urban hospitals from the adverse effect of nearby hospitals being reclassified to areas with higher wage indexes by computing each area's wage index as if none of the hospitals located in the area had been reassigned.

Response: With this rule, HCFA has proposed to include the wage data for a reclassified hospital in both the area to which it is reclassified and the area where the hospital is physically located. We agree with MedPAC and believe that this will provide consistency and predictability in hospital reclassification and wage indices.

D. Specialties With Training Beyond the Initial Residency Period (Recommendation 10)

Recommendation: The Congress should eliminate the weighting factors that currently determine Medicare's direct graduate medical education payments and count all residencies equally through completion of residents' first specialty or combined program and subspecialty if one is pursued. Residents training longer than the minimum number of years required for board eligibility in a specialty, combined program, or subspecialty should not be included in hospitals' direct graduate medical education resident counts. These policy changes should be implemented in a budget-neutral manner through adjustments to the per resident payment amounts.

Response: Currently, Medicare payments to hospitals for direct GME is dependent, in part, on the initial residency period of the residents. Generally, the initial residency period is defined at § 413.86(g)(1) as the minimum number of years required for board eligibility, not to exceed 5 years. For purposes of determining the direct GME payment, residents are weighted at 1.0 FTE within the initial residency period, and at .5 FTE beyond the initial residency period. The limitation on the initial residency period was designed by Congress to limit full Medicare direct GME payment to the time required to train in a single specialty.

MedPAC states that Medicare's current direct GME payment policy of limiting full funding to the first specialty in which a resident trains provides a disincentive for hospitals to offer training in subspecialties or combined programs, and therefore, may influence hospitals' decisions on the types of residents that they train. MedPAC believes that Medicare should not influence workforce policy and recommends that the disincentive be removed to make Medicare payments policies neutral with regard to programs with prerequisites, subspecialties, and combined programs. Accordingly, MedPAC recommends that Congress eliminate the weighting factors associated with direct GME payment so that all residents would be counted for full direct GME payment through the completion of their first specialty, combined program, or subspecialty. Residents training beyond the minimum number of years required for board eligibility in a specialty, combined program, or subspecialty should not be counted for purposes of the direct GME payment.

MedPAC also believes that eliminating the weighting factors could potentially increase Medicare's direct GME payments by approximately 5 to 8 percent. Therefore, MedPAC recommends that hospitals' per resident amounts (PRAs), which are used to calculate the direct GME payment, be reduced so that this change can be implemented, to the extent possible, in a budget-neutral manner. MedPAC explains that, although further research is needed, it appears that hospitals with substantial subspecialty training (that is, at least 15 percent of the resident mix) would likely see a small net increase in payments, despite the reduction to the PRAs, while hospitals that do not have subspecialty training would likely see a small decrease in payments.

In response to MedPAC's recommendation, we question MedPAC's estimate that eliminating the weighting factors could increase Medicare direct GME payments by only 5 to 8 percent. We believe that subspecialty training constitutes a significant portion of all GME programs, and, consequently, the elimination of the weighting factors could potentially increase payments by far more than 8 percent. If budget neutrality is to be maintained, this could mean that the attendant reductions to the PRAs could be much greater than MedPAC might assume. For those teaching hospitals that have substantial subspecialty training, there is no guarantee that the decreases in the PRAs will be offset by the increases in the direct GME payments due to the elimination of the weighting factors.

While the recommendation would remove the existing disincentive for training in subspecialties, we believe the reductions to the PRAs, whether they are minimal or more significant, will be far more detrimental to the smaller teaching hospitals that have little or no subspecialty training. Many of these hospitals provide care to beneficiaries in rural, underserved areas and in nonhospital settings. We believe these conditions may discourage the expansion of residency training in these areas. It may be inappropriate to limit the direct GME funding to such hospitals, considering Congress' initiatives to encourage residency training in rural, underserved areas and in nonhospital settings. We also are unclear as to how MedPAC would implement the proposed reduction to the PRAs. MedPAC did not explain in its recommendation how it would propose to do this.

VIII. Other Required Information

A. Requests for Data From the Public

In order to respond promptly to public requests for data related to the prospective payment system, we have established a process under which commenters can gain access to raw data on an expedited basis. Generally, the data are available in computer tape or cartridge format; however, some files are available on diskette as well as on the Internet at http://www.hcfa.gov/stats/pubfiles.html. Data files, and the cost for each, are listed below. Anyone wishing to purchase data tapes, cartridges, or diskettes should submit a written request along with a company check or money order (payable to HCFA-PUF) to cover the cost to the following address: Health Care Financing Administration, Public Use Files, Accounting Division, P.O. Box 7520, Baltimore, Maryland 21207-0520, (410) 786-3691. Files on the Internet may be downloaded without charge.

1. Expanded Modified MedPAR-Hospital (National)

The Medicare Provider Analysis and Review (MedPAR) file contains records for 100 percent of Medicare beneficiaries using hospital inpatient services in the United States. (The file is a Federal fiscal year file, that is, discharges occurring October 1 through September 30 of the requested year.) The records are stripped of most data elements that would permit identification of beneficiaries. The hospital is identified by the 6-position Medicare billing number. The file is available to persons qualifying under the terms of the Notice of Proposed New Routine Uses for an Existing System of Records published in the Federal Register on December 24, 1984 (49 FR 49941), and amended by the July 2, 1985 notice (50 FR 27361). The national file consists of approximately 11 million records. Under the requirements of these notices, an agreement for use of HCFA Beneficiary Encrypted Files must be signed by the purchaser before release of these data. For all files requiring a signed agreement, please write or call to obtain a blank agreement form before placing an order. Two versions of this file are created each year. They support the following:

• Notice of Proposed Rulemaking (NPRM) published in the Federal Register. This file, scheduled to be available by the end of April, is derived from the MedPAR file with a cutoff of 3 months after the end of the fiscal year (December file).

• Final Rule published in the Federal Register. The FY 2000 MedPAR file used for the FY 2002 final rule will be cut off 6 months after the end of the fiscal year (March file) and is scheduled to be available by the end of April.

Media: Tape/Cartridge

File Cost: $3,655.00 per fiscal year

Periods Available: FY 1988 through FY 2000

2. Expanded Modified MedPAR-Hospital (State)

The State MedPAR file contains records for 100 percent of Medicare beneficiaries using hospital inpatient services in a particular State. The records are stripped of most data elements that will permit identification of beneficiaries. The hospital is identified by the 6-position Medicare billing number. The file is available to persons qualifying under the terms of the Notice of Proposed New Routine Uses for an Existing System of Records published in the December 24, 1984 Federal Register notice, and amended by the July 2, 1985 notice. This file is a subset of the Expanded Modified MedPAR-Hospital (National) as described above. Under the requirements of these notices, an agreement for use of HCFA Beneficiary Encrypted Files must be signed by the purchaser before release of these data. Two versions of this file are created each year. They support the following:

• NPRM published in the Federal Register. This file, scheduled to be available by the end of April, is derived from the MedPAR file with a cutoff of 3 months after the end of the fiscal year (December file).

• Final Rule published in the Federal Register. The FY 2000 MedPAR file used for the FY 2002 final rule will be cut off 6 months after the end of the fiscal year (March file) and is scheduled to be available by the end of April.

Media: Tape/Cartridge

File Cost: $1,130.00 per State per year

Periods Available: FY 1988 through FY 2000

3. HCFA Wage Data

This file contains the hospital hours and salaries for FY 1998 used to create the proposed FY 2002 prospective payment system wage index. The file will be available by the beginning of February for the NPRM and the beginning of May for the final rule.

Processing year | Wage data year | PPS fiscal year
2001 | 1998 | 2002
2000 | 1997 | 2001
1999 | 1996 | 2000
1998 | 1995 | 1999
1997 | 1994 | 1998
1996 | 1993 | 1997
1995 | 1992 | 1996
1994 | 1991 | 1995
1993 | 1990 | 1994
1992 | 1989 | 1993
1991 | 1988 | 1992

These files support the following:

• NPRM published in the Federal Register.

• Final Rule published in the Federal Register.

Media: Diskette/most recent year on the Internet

File Cost: $165.00 per year

Periods Available: FY 2002 PPS Update

4. HCFA Hospital Wages Indices (Formerly: Urban and Rural Wage Index Values Only)

This file contains a history of all wage indices since October 1, 1983.

Media: Diskette/most recent year on the Internet

File Cost: $165.00 per year

Periods Available: FY 2002 PPS Update

5. PPS SSA/FIPS MSA State and County Crosswalk

This file contains a crosswalk of State and county codes used by the Social Security Administration (SSA) and the Federal Information Processing Standards (FIPS), county name, and a historical list of Metropolitan Statistical Area (MSA).

Media: Diskette/Internet

File Cost: $165.00 per year

Periods Available: FY 2002 PPS Update

6. Reclassified Hospitals New Wage Index (Formerly: Reclassified Hospitals by Provider Only)

This file contains a list of hospitals that were reclassified for the purpose of assigning a new wage index. Two versions of these files are created each year. They support the following:

• NPRM published in the Federal Register.

• Final Rule published in the Federal Register.

Media: Diskette/Internet

File Cost: $165.00 per year

Periods Available: FY 2002 PPS Update

7. PPS-IV to PPS-XII Minimum Data Set

The Minimum Data Set contains cost, statistical, financial, and other information from Medicare hospital cost reports. The data set includes only the most current cost report (as submitted, final settled, or reopened) submitted for a Medicare participating hospital by the Medicare fiscal intermediary to HCFA. This data set is updated at the end of each calendar quarter and is available on the last day of the following month.

Media: Tape/Cartridge

File Cost: $770.00 per year

| Periods beginning on or after | And before
PPS-IV | 10/01/86 | 10/01/87
PPS-V | 10/01/87 | 10/01/88
PPS-VI | 10/01/88 | 10/01/89
PPS-VII | 10/01/89 | 10/01/90
PPS-VIII | 10/01/90 | 10/01/91
PPS-IX | 10/01/91 | 10/01/92
PPS-X | 10/01/92 | 10/01/93
PPS-XI | 10/01/93 | 10/01/94
PPS-XII | 10/01/94 | 10/01/95

Note: The PPS-XIII, PPS-XIV, PPS-XV, and PPS-XVI Minimum Data Sets are part of the PPS-XIII, PPS-XIV, PPS-XV, and PPS XVI Hospital Data Set Files.

8. PPS-IX to PPS-XII Capital Data Set

The Capital Data Set contains selected data for capital-related costs, interest expense and related information and complete balance sheet data from the Medicare hospital cost report. The data set includes only the most current cost report (as submitted, final settled or reopened) submitted for a Medicare certified hospital by the Medicare fiscal intermediary to HCFA. This data set is updated at the end of each calendar quarter and is available on the last day of the following month.

Media: Tape/Cartridge

File Cost: $770.00 per year

| Periods beginning on or after | And before
PPS-IX | 10/01/91 | 10/01/92
PPS-X | 10/01/92 | 10/01/93
PPS-XI | 10/01/93 | 10/01/94
PPS-XII | 10/01/94 | 10/01/95

Note: The PPS-XIII, PPS-XIV, PPS-XV, and PPS-XVI Capital Data Sets are part of the PPS-XIII, PPS-XIV, PPS-XV, and PPS-XVI Hospital Data Set Files.

9. PPS-XIII to PPS-XVI Hospital Data Set

The file contains cost, statistical, financial, and other data from the Medicare Hospital Cost Report. The data set includes only the most current cost report (as submitted, final settled, or reopened) submitted for a Medicare-certified hospital by the Medicare fiscal intermediary to HCFA. The data set are updated at the end of each calendar quarter and is available on the last day of the following month.

Media: Diskette/Internet

File Cost: $2,500.00

| Periods beginning on or after | And before
PPS-XIII | 10/01/95 | 10/01/96
PPS-XIV | 10/01/96 | 10/01/97
PPS-XV | 10/01/97 | 10/01/98
PPS-XVI | 10/01/98 | 10/01/99

10. Provider-Specific File

This file is a component of the PRICER program used in the fiscal intermediary's system to compute DRG payments for individual bills. The file contains records for all prospective payment system eligible hospitals, including hospitals in waiver States, and data elements used in the prospective payment system recalibration processes and related activities. Beginning with December 1988, the individual records were enlarged to include pass-through per diems and other elements.

Media: Diskette/Internet

File Cost: $265.00

Periods Available: FY 2002 PPS Update

11. HCFA Medicare Case-Mix Index File

This file contains the Medicare case-mix index by provider number as published in each year's update of the Medicare hospital inpatient prospective payment system. The case-mix index is a measure of the costliness of cases treated by a hospital relative to the cost of the national average of all Medicare hospital cases, using DRG weights as a measure of relative costliness of cases. Two versions of this file are created each year. They support the following:

• NPRM published in the Federal Register.

• Final rule published in the Federal Register.

Media: Diskette/most recent year on Internet

Price: $165.00 per year/per file

Periods Available: FY 1985 through FY 2000

12. DRG Relative Weights (Formerly Table 5 DRG)

This file contains a listing of DRGs, DRG narrative description, relative weights, and geometric and arithmetic mean lengths of stay as published in the Federal Register. The hard copy image has been copied to diskette. There are two versions of this file as published in the Federal Register:

• NPRM.

• Final rule.

Media: Diskette/Internet

File Cost: $165.00

Periods Available: FY 2002 PPS Update

13. PPS Payment Impact File

This file contains data used to estimate payments under Medicare's hospital inpatient prospective payment systems for operating and capital-related costs. The data are taken from various sources, including the Provider-Specific File, Minimum Data Sets, and prior impact files. The data set is abstracted from an internal file used for the impact analysis of the changes to the prospective payment systems published in the Federal Register. This file is available for release 1 month after the proposed and final rules are published in the Federal Register.

Media: Diskette/Internet

File Cost: $165.00

Periods Available: FY 2002 PPS Update

14. AOR/BOR Tables

This file contains data used to develop the DRG relative weights. It contains mean, maximum, minimum, standard deviation, and coefficient of variation statistics by DRG for length of stay and standardized charges. The BOR tables are “Before Outliers Removed” and the AOR is “After Outliers Removed.” (Outliers refers to statistical outliers, not payment outliers.) Two versions of this file are created each year. They support the following:

• NPRM published in the Federal Register.

• Final rule published in the Federal Register.

Media: Diskette/Internet

File Cost: $165.00

Periods Available: FY 2002 PPS Update

For further information concerning these data tapes, contact the HCFA Public Use Files Hotline at (410) 786-3691.

Commenters interested in obtaining or discussing any other data used in constructing this rule should contact Stephen Phillips at (410) 786-4531.

B. Information Collection Requirements

Under the Paperwork Reduction Act of 1995, we are required to provide 60-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

We are soliciting public comments on each of these issues for the sections that contain information collection requirements.

Proposed New § 412.230(e)(2)(ii) Criteria for an Individual Hospital Seeking Redesignation to Another Rural Area or an Urban Area; Proposed New § 412.232(d)(2)(ii) Criteria for All Hospitals in a Rural County Seeking Urban Redesignation; Proposed New § 412.235 Criteria for All Hospitals in a State Seeking a Statewide Wage Index; and Proposed Revised § 412.273 Withdrawing an Application or Terminating an Approved 3-Year Reclassification

Proposed §§ 412.230(e)(2)(ii) and 412.232(d)(2)(ii) specify that, for hospital-specific data for wage index changes for redesignations effective beginning FY 2003, the hospital must provide a 3-year average of its average hourly wages using data from the HCFA hospital wage survey used to construct the wage index in effect for prospective payment purposes. For other data, the hospital must provide a weighted 3-year average of the average hourly wage in the area in which the hospital is located and a weighted 3-year average of the average hourly wage in the area to which the hospital seeks reclassification. Proposed new § 412.235 specifies that in order for all prospective payment system hospitals in a State to use a statewide wage index, the hospitals as a group must submit an application to the MGCRB for a decision for reclassifications for wage index purposes. The proposed changes to § 412.273 would incorporate proposed revised procedures for hospitals that request withdraw of their wage index application or termination of their wage index reclassification. These proposed changes, discussed in detail in section IV.E. of this proposed rule, implement sections 304(a) and (b) of Public Law 106-554.

The information collection requirements associated with a hospital's application to the MGCRB for geographic reclassifications, including reclassifications for wage index purposes and the required submittal of wage data, that are codified in Part 412 are currently approved by OMB under OMB Approval Number 0938-0573, with an expiration date of September 30, 2002.

Proposed § 412.348(g)(9) Exception Payments

As discussed in section V. of this proposed rule, Medicare makes special exceptions payments for capital-related costs through the 10th year beyond the end of the capital prospective payment system transition period for eligible hospitals that complete a project that meets certain requirements specified in § 412.348. In order to assist our fiscal intermediaries in determining the end of the 10-year period in which an eligible hospital will no longer be entitled to receive special exception payments, we are proposing to add a new § 412.348(g)(9) to require that hospitals eligible for special exception payments under § 412.348(g) submit documentation to the intermediary indicating the completion date of their project (the date the project was put in use for patient care) that meets the project need and project size requirements outlined in §§ 412.348(g)(2) through (g)(5). We are proposing that, in order for an eligible hospital to receive special exception payments, this documentation would have to be submitted in writing to the intermediary by the later of October 1, 2001, or within 3 months of the end of the hospital's last cost reporting period beginning before October 1, 2001, during which a qualifying project was completed.

We estimate that the information collection requirement of preparing and submitting the documentation on a hospital's capital project would impose a burden of approximately 1 hour for approximately 30 hospitals.

If you comment on these information collection and recordkeeping requirements, please mail copies directly to the following addresses:

Health Care Financing Administration, Office of Information Services, Security and Standards Group, Division of HCFA Enterprise Standards Room N2-14-26, 7500 Security Boulevard, Baltimore, Maryland 21244-1850, Attn: John Burke HCFA-1158-P; and

Office of Information and Regulatory Affairs, Office of Management and Budget, Room 3001, New Executive Office Building, Washington, DC 20503, Attn: Allison Herron Eydt, HCFA Desk Officer.

These new information collection and recordkeeping requirements have been submitted to the Office of Management and Budget (OMB) for review under the authority of PRA. We have submitted a copy of the proposed rule to OMB for its review of the information collection requirements. These requirements will not be effective until they have been approved by OMB.

C. Public Comments

Because of the large number of items of correspondence we normally receive on a proposed rule, we are not able to acknowledge or respond to them individually. However, in preparing the final rule, we will consider all comments concerning the provisions of this proposed rule that we receive by the date and time specified in the DATES section of this preamble and respond to those comments in the preamble to that rule. We emphasize that section 1886(e)(5) of the Act requires the final rule for FY 2002 to be published by August 1, 2001, and we will consider only those comments that deal specifically with the matters discussed in this proposed rule.

List of Subjects

42 CFR Part 405

Administrative practice and procedure, Health facilities, Health professions, Kidney diseases, Medicare, Reporting and recordkeeping requirements, Rural areas, X-rays.

42 CFR Part 412

Administrative practice and procedure, Health facilities, Medicare, Puerto Rico, Reporting and recordkeeping requirements.

42 CFR Part 413

Health facilities, Kidney diseases, Medicare, Puerto Rico, Reporting and recordkeeping requirements.

42 CFR Part 485

Grant programs-health, Health facilities, Medicaid, Medicare, Reporting and recordkeeping requirements.

42 CFR Part 486

Health professions, Medicare, Organ procurement, X-rays.

42 CFR Chapter IV is proposed to be amended as set forth below:

PART 405—FEDERAL HEALTH INSURANCE FOR THE AGED AND DISABLED

A. Part 405 is amended as set forth below:

1. The authority citation for Part 405 continues to read as follows:

Authority: Secs. 1102, 1861, 1862(a), 1871, 1874, 1881, and 1886(k) of the Social Security Act (42 U.S.C. 1302, 1395x, 1395y(a), 1395hh, 1395kk, 1395rr, and 1395ww(k), and sec. 353 of the Public Health Service Act (42 U.S.C. 263a).

2. In § 405.2468, paragraph (f)(6)(ii) is republished and paragraph (f)(6)(ii)(D) is revised to read as follows.

§ 405.2468 Allowable costs.

* * * * *

(f) Graduate medical education. * * *

(6) * * *

(ii) The following costs are not allowable graduate medical education costs:

* * * * *

(D) The costs associated with activities described in § 413.85(h) of this chapter.

* * * * *

PART 412—PROSPECTIVE PAYMENT SYSTEMS FOR INPATIENT HOSPITAL SERVICES

B. Part 412 is amended as follows:

1. The authority citation for Part 412 continues to read as follows:

Authority: Secs. 1102 and 1871 of the Social Security Act (42 U.S.C. 1302 and 1395hh).

2. Section 412.2 is amended as follows:

a. The introductory text of paragraph (e) is republished.

b. Paragraph (e)(4) is revised.

c. The introductory text of paragraph (f) is republished.

d. A new paragraph (f)(9) is added.

§ 412.2 Basis of payment.

* * * * *

(e) Excluded costs. The following inpatient hospital costs are excluded from the prospective payment amounts and are paid on a reasonable cost basis:

* * * * *

(4) The acquisition costs of hearts, kidneys, livers, lungs, pancreas, and intestines (or multivisceral organs) incurred by approved transplantation centers.

* * * * *

(f) Additional payments to hospitals. In addition to payments based on the prospective payment system rates for inpatient operating and inpatient capital-related costs, hospitals receive payments for the following:

* * * * *

(9) Special additional payment for certain new technology as specified in § 412.87 and 412.88 of Subpart F.

3. Section 412.23 is amended by adding a new paragraph (i) to read as follows:

§ 412.23 Excluded hospitals: Classifications.

* * * * *

(i) Changes in classification of hospitals. For purposes of exclusions from the prospective payment system, the classification of a hospital is effective for the hospital's entire cost reporting period. Any changes in the classification of a hospital are made only at the start of a cost reporting period.

4. Section 412.25 is amended by adding a new paragraph (f) to read as follows:

§ 412.25 Excluded hospital units: Common requirements.

* * * * *

(f) Changes in classification of hospital units. For purposes of exclusions from the prospective payment system under this section, the classification of a hospital unit is effective for the unit's entire cost reporting period. Any changes in the classification of a hospital unit is made only at the start of a cost reporting period.

5. Section 412.63 is amended by revising paragraphs (t) and (u) to read as follows:

§ 412.63 Federal rates for inpatient operating costs for fiscal years after Federal fiscal year 1984.

* * * * *

(t) Applicable percentage change for fiscal years 2002 and 2003. The applicable percentage change for fiscal years 2002 and 2003 is the percentage increase in the market basket index for prospective payment hospitals (as defined in § 413.40(a) of this subchapter) minus 0.55 percentage points for hospitals in all areas.

(u) Applicable percentage change for fiscal year 2004 and for subsequent fiscal years. The applicable percentage change for fiscal year 2004 and for subsequent years is the percentage increase in the market basket index for prospective payment hospitals (as defined in § 413.40(a) of this subchapter) for hospitals in all areas.

* * * * *

6. The title of Subpart F is revised to read as follows:

Subpart F—Payment for Outlier Cases and Special Treatment Payment for New Technology

7. A new undesignated center heading is added after the Subpart F heading and before § 412.80; the section heading of § 412.80 is revised; and a new paragraph (a)(3) is added to read as follows:

Payment for Outlier Cases

§ 412.80 Outlier cases: General provisions.

(a) Basic rule.

* * * * *

(3) Discharges occurring on or after October 1, 2001. For discharges occurring on or after October 1, 2001, except as provided in paragraph (b) of this section concerning transfers, HCFA provides for additional payment, beyond standard DRG payments and beyond additional payments for new medical services or technology specified in §§ 412.87 and 412.88, to a hospital for covered inpatient hospital services furnished to a Medicare beneficiary if the hospital's charges for covered services, adjusted to operating costs and capital costs by applying cost-to-charge ratios as described in § 412.84(h), exceed the DRG payment for the case (plus payments for indirect costs of graduate medical education (§ 412.105), payments for serving a disproportionate share of low-income patients (§ 412.106), and additional payments for new medical services or technologies) plus a fixed dollar amount (adjusted for geographic variation in costs) as specified by HCFA.

* * * * *

8. A new undesignated center heading and §§ 412.87 and 412.88 are added immediately following § 412.86, to read as follows:

Additional Special Payment for Certain New Technology

§ 412.87 Additional payment for new medical services and technologies: General provisions.

(a) Basis. Sections 412.87 and 412.88 implement sections 1886(d)(5)(K) and 1886(d)(5)(L) of the Act, which authorizes the Secretary to establish a mechanism to recognize the costs of new medical services and technologies under the hospital inpatient prospective payment system.

(b) Eligibility criteria. For discharges occurring on or after October 1, 2001, HCFA provides for additional payments (as specified in § 412.88) beyond the standard DRG payments and outlier payments to a hospital for discharges involving covered inpatient hospital services that are new medical services and technologies, if the following conditions are met:

(1) A new medical service or technology represents an advance that substantially improves, relative to technologies previously available, the diagnosis or treatment of Medicare beneficiaries. HCFA will determine whether a new medical service or technology meets this criterion and announce the results of its determinations in the Federal Register as a part of its annual updates and changes to the hospital inpatient prospective payment system.

(2) A medical service or technology may be considered new within 2 or 3 years after it becomes available on the market (depending on when a new code is assigned and data on the new service or technology become available for DRG recalibration). After HCFA has recalibrated the DRGs, based on available data, to reflect the costs of an otherwise new medical service or technology, the medical service or technology will no longer be considered “new” under the criterion of this section.

(3) The DRG prospective payment rate otherwise applicable to discharges involving the medical service or technology is determined to be inadequate, based on application of a threshold amount to estimated costs incurred with respect to such discharges. To determine whether the payment would be adequate, HCFA will determine whether the costs of the cases involving a new medical service or technology will exceed a threshold amount set at one standard deviation beyond the mean standardized charge for all cases in the DRG to which the new medical service or technology is assigned (or the case-weighted average of all relevant DRGs if the new medical service or technology occurs in many different DRGs). Standardized charges reflect the actual charges of a case adjusted by the prospective payment system payment factors applicable to an individual hospital, such as the wage index, the indirect medical education adjustment factor, and the disproportionate share adjustment factor.

§ 412.88 Additional payment for new medical service or technology.

(a) For discharges involving new medical services or technologies that meet the criteria specified in § 412.87, Medicare payment will be:

(1) The standard DRG payment; plus

(2) If the costs of the discharge (determined by applying cost-to-charge ratios as described in § 412.84(h)) exceed the standard DRG payment, an additional amount equal to the lesser of—

(i) 50 percent of the costs of the new medical service or technology; or

(ii) 50 percent of the amount by which the costs of the case exceed the standard DRG payment.

(b) Unless a discharge case qualifies for outlier payment under § 412.84, Medicare will not pay any additional amount beyond the DRG payment plus 50 percent of the estimated costs of the new medical service or technology.

9. Section 412.92 is amended as follows:

a. Paragraph (b)(1)(iii)(A) is amended by revising the phrase “50 mile radius” to read “35 mile radius.”

b. Paragraph (c)(1) is revised.

§ 412.92 Special treatment: Sole community hospitals.

* * * * *

(c) Terminology. * * *

(1) The term miles means the shortest distance in miles measured over improved roads. An improved road for this purpose is any road that is maintained by a local, State, or Federal government entity and is available for use by the general public. An improved road includes the paved surface up to the front entrance of the hospital.

* * * * *

10. Section 412.105 is amended as follows:

a. The introductory text of paragraph (a) is republished.

b. Paragraph (a)(1) is revised.

c. Paragraph (d)(3)(vi) is revised.

d. A new paragraph (d)(3)(vii) is added.

e. Paragraph (f)(1)(ii)(C) is revised.

f. Paragraph (f)(1)(iii) is revised.

g. Paragraph (f)(1)(v) is amended by adding four sentences at the end.

h. Paragraph (f)(1)(ix) is revised.

§ 412.105 Special treatment: Hospitals that incur indirect costs for graduate medical education programs.

* * * * *

(a) Basic data. HCFA determines the following for each hospital:

(1) The hospital's ratio of full-time equivalent residents, except as limited under paragraph (f) of this section, to the number of beds (as determined under paragraph (b) of this section). Except for the special circumstances for affiliated groups and new programs described in paragraphs (f)(1)(vi) and (f)(1)(vii) of this section, for a hospital's cost reporting periods beginning on or after October 1, 1997, this ratio may not exceed the ratio for the hospital's most recent prior cost reporting period after accounting for the cap on the number of full-time equivalent residents as described in paragraph (f)(1)(iv) of this section. The exception for new programs described in paragraph (f)(1)(vii) of this section applies for the period of years equal to the minimum accredited length for that type of program.

* * * * *

(d) Determination of education adjustment factor.

* * * * *

(3) * * *

(vi) For discharges occurring during fiscal year 2002, 1.6.

(vii) For discharges occurring on or after October 1, 2002, 1.35.

* * * * *

(f) Determining the total number of full-time equivalent residents for cost reporting periods beginning on or after July 1, 1991.

(1) * * *

(ii) * * *

(C) Effective for discharges occurring on or after October 1, 1997, the time spent by a resident in a non-hospital setting in patient care activities under an approved medical residency training program is counted towards the determination of full-time equivalency if the criteria set forth in § 413.86(f)(3) or § 413.86 (f)(4), as applicable, are met.

(iii) (A) Full-time equivalent status is based on the total time necessary to fill a residency slot. No individual may be counted as more than one full-time equivalent. If a resident is assigned to more than one hospital, the resident counts as a partial full-time equivalent based on the proportion of time worked in any of the areas of the hospital listed in paragraph (f)(1)(ii) of this section, to the total time worked by the resident. A part-time resident or one working in an area of the hospital other than those listed under paragraph (f)(1)(ii) of this section (such as a freestanding family practice center or an excluded hospital unit) would be counted as a partial full-time equivalent based on the proportion of time assigned to an area of the hospital listed in paragraph (f)(1)(ii) of this section, compared to the total time necessary to fill a full-time residency slot.

(B) The time spent by a resident in research that is not associated with the treatment or diagnosis of a particular patient of the hospital is not countable.

* * * * *

(v) * * * If a hospital qualified for an adjustment to the limit established under paragraph (f)(1)(iv) of this section for new medical residency programs created under paragraph (f)(1)(vii) of this section, the count of residents participating in new medical residency training programs above the number included in the hospital's FTE count for the cost reporting period ending during calendar year 1996 is added after applying the averaging rules in this paragraph for a period of years. Residents participating in new medical residency training programs are included in the hospital's FTE count before applying the averaging rules after the period of years has expired. For purposes of this paragraph, the period of years equals the minimum accredited length for the type of program. The period of years begins when the first resident begins training.

* * * * *

(ix) A hospital may receive a temporary adjustment to its full-time equivalent cap to reflect residents added because of another hospital's closure if the hospital meets the criteria specified in §§ 413.86(g)(8)(i) and (g)(8)(ii) of this subchapter. If a hospital that closes its residency training program agrees to temporarily reduce its FTE cap according to the criteria specified in §§ 413.86(g)(8)(i) and (g)(8)(iii)(B) of this subchapter, another hospital(s) may receive a temporary adjustment to its FTE cap to reflect residents added because of the closure of the residency training program if the criteria specified in §§ 413.86(g)(8)(i) and (g)(8)(iii)(A) of this subchapter are met.

* * * * *

11. Section 412.106 is amended by revising the heading of paragraph (e) and paragraph (e)(5) to read as follows:

§ 412.106 Special treatment: Hospitals that serve a disproportionate share of low-income patients.

* * * * *

(e) Reduction in payments beginning FY 1998. * * *

(5) For FY 2002, 3 percent.

* * * * *

§ 412.113 [Amended]

12. In § 412.113(c), including the heading for paragraph (c), the term “hospital”, wherever it appears, is revised to read “hospital or CAH” (16 times).

13. Section 412.230 is amended by revising paragraph (e)(2) to read as follows:

§ 412.230 Criteria for an individual hospital seeking redesignation to another rural area or an urban area.

* * * * *

(e) Use of urban or other rural area's wage index.

* * * * *

(2) Appropriate wage data. For a wage index change, the hospital must submit appropriate wage data as follows:

(i) For redesignations effective through FY 2002:

(A) For hospital-specific data, the hospital must provide data from the HCFA hospital wage survey used to construct the wage index in effect for prospective payment purposes during the fiscal year prior to the fiscal year for which the hospital requests reclassification.

(B) For data for other hospitals, the hospital must provide data concerning the average hourly wage in the area in which the hospital is located and the average hourly wage in the area to which the hospital seeks reclassification. The wage data are taken from the HCFA hospital wage survey used to construct the wage index in effect for prospective payment purposes during the fiscal year prior to the fiscal year for which the hospital requests reclassification.

(C) If the hospital is requesting reclassification under paragraph (e)(1)(iv)(B) of this section, the hospital must provide occupational-mix data to demonstrate the average occupational mix for each employment category in the area to which it seeks reclassification. Occupational-mix data can be obtained from surveys conducted by the American Hospital Association.

(ii) For redesignations effective beginning FY 2003:

(A) For hospital-specific data, the hospital must provide a weighted 3-year average of its average hourly wages using data from the HCFA hospital wage survey used to construct the wage index in effect for prospective payment purposes.

(B) For data for other hospitals, the hospital must provide a weighted 3-year average of the average hourly wage in the area in which the hospital is located and a weighted 3-year average of the average hourly wage in the area to which the hospital seeks reclassification. The wage data are taken from the HCFA hospital wage survey used to construct the wage index in effect for prospective payment purposes.

* * * * *

14. Section 412.232 is amended by revising paragraph (d)(2) to read as follows:

§ 412.232 Criteria for all hospitals in a rural county seeking urban redesignation.

* * * * *

(d) Appropriate data.

* * * * *

(2) Appropriate wage data. The hospitals must submit appropriate data as follows:

(i) For redesignations effective through FY 2002:

(A) For hospital-specific data, the hospitals must provide data from the HCFA wage survey used to construct the wage index in effect for prospective payment purposes during the fiscal year prior to the fiscal year for which the hospitals request reclassification.

(B) For data for other hospitals, the hospitals must provide the following:

(1) The average hourly wage in the adjacent area, which is taken from the HCFA hospital wage survey used to construct the wage index in effect for prospective payment purposes during the fiscal year prior to the fiscal year for which the hospitals request reclassification.

(2) Occupational-mix data to demonstrate the average occupational mix for each employment category in the adjacent area. Occupational-mix data can be obtained from surveys conducted by the American Hospital Association.

(ii) For redesignations effective beginning FY 2003:

(A) For hospital-specific data, the hospital must provide a weighted 3-year average of its average hourly wages using data from the HCFA hospital wage survey used to construct the wage index in effect for prospective payment purposes.

(B) For data for other hospitals, the hospital must provide a weighted 3-year average of the average hourly wage in the area in which the hospital is located and a weighted 3-year average of the average hourly wage in the area to which the hospital seeks reclassification. The wage data are taken from the HCFA hospital wage survey used to construct the wage index in effect for prospective payment purposes.

15. Section 412.235 is added to read as follows:

§ 412.235 Criteria for all hospitals in a State seeking a statewide wage index redesignation.

(a) General criteria. For all prospective payment system hospitals in a State to be redesignated to a statewide wage index, the following conditions must be met:

(1) All prospective payment system hospitals in the State must apply as a group for reclassification to a statewide wage index through a signed single application.

(2) All prospective payment system hospitals in the State must agree to the reclassification to a statewide wage index through a signed affidavit on the application.

(3) All prospective payment system hospitals in the State must agree, through an affidavit, to withdrawal of an application or to termination of an approved statewide wage index reclassification.

(4) All hospitals in the State must waive their rights to any wage index classification that they would otherwise receive absent the statewide wage index classification, including a wage index that any of the hospitals might have received through individual geographic reclassification.

(5) New hospitals that open within the State prior to the deadline for submitting an application for a statewide wage index reclassification (September 1), regardless of whether a group application has already been filed, must agree to the use of the statewide wage index as part of the group application. New hospitals that open within the State after the deadline for submitting a statewide wage index reclassification application or during the approved reclassification period will be considered a party to the statewide wage index application and reclassification.

(b) Effect on payments. (1) An individual hospital within the State may receive a wage index that could be higher or lower under the statewide wage index reclassification in comparison to its otherwise redesignated wage index.

(2) Any new prospective payment system hospital that opens in the State during the effective period of an approved statewide wage index reclassification will be designated to receive the statewide wage index for the duration of that period.

(3) A hospital located in an area outside a State in which all participating hospitals have received an approved statewide wage index reclassification may apply to be reclassified into the statewide wage index area. In that case, such a hospital that is reclassified into a statewide wage index area will receive a wage index calculated based on the statewide wage index reclassification.

(c) Terms of the decision. (1) A decision by the MGCRB on an application for a statewide wage index reclassification will be effective for 3 years beginning with discharges occurring on the first day (October 1) of the second Federal fiscal year following the Federal fiscal year in which the hospitals filed a complete application.

(2) The procedures and timeframes specified in § 412.273 apply to withdrawals of applications for redesignation to a statewide wage index and terminations of approved statewide wage index reclassifications, including the requirement that, to withdraw an application or terminate an approved reclassification, the request must be made in writing by all hospitals that are party to the application, except hospitals reclassified into the State for purposes of receiving the statewide wage index.

16. Section 412.273 is amended as follows:

a. The title of the section is revised.

b. Paragraphs (b) and (c) are redesignated as paragraphs (c) and (d), respectively.

c. A new paragraph (b) is added.

d. Redesignated paragraph (c) is revised.

§ 412.273 Withdrawing an application or terminating an approved 3-year reclassification.

* * * * *

(b) Request for termination of approved 3-year wage index reclassifications.

(1) A hospital, or a group of hospitals, that has been issued a decision on its application for a 3-year reclassification for wage index purposes only or for redesignation to a statewide wage index and has not withdrawn that application under the procedures specified in paragraph (a) of this section may request termination of its approved 3-year wage index reclassification under the following conditions:

(i) The request to terminate must be received by the MGCRB within 45 days of the publication of the annual notice of proposed rulemaking concerning changes to the inpatient hospital prospective payment system and proposed payment rates for the fiscal year for which the termination is to apply.

(ii) A request to terminate a 3-year reclassification will be effective only for the full fiscal year(s) remaining in the 3-year period at the time the request is received. Requests for terminations for part of a fiscal year will not be considered.

(2) Reapplication within the approved 3-year period.

(i) If a hospital elects to withdraw its wage index application after the MGCRB has issued its decision, it may terminate its withdrawal in a subsequent fiscal year and request the MGCRB to reinstate its wage index reclassification for the remaining fiscal year(s) of the 3-year period.

(ii) A hospital may apply for reclassification for purposes of the wage index to a different area (that is, an area different from the one to which it was originally reclassified for the 3-year period). If the application is approved, the reclassification will be effective for 3 years.

(c) Written request only. A request to withdraw an application or terminate an approved reclassification must be made in writing to the MGCRB by all hospitals that are party to the application or reclassification.

* * * * *

17. Section 412.274 is amended by revising paragraph (b) to read as follows:

§ 412.274 Scope and effect of an MGCRB decision.

* * * * *

(b) Effective date and term of the decision. (1) A standardized amount classification change is effective for one year beginning with discharges occurring on the first day (October 1) of the second Federal fiscal year following the Federal fiscal year in which the complete application is filed and ending effective at the end of that Federal fiscal year (the end of the next September 30).

(2) A wage index classification change is effective for 3 years beginning with discharges occurring on the first day (October 1) of the second Federal fiscal year in which the complete application is filed.

* * * * *

18. Section 412.348 is amended by revising paragraph (g)(6) and adding a new paragraph (g)(9) to read as follows:

§ 412.348 Exception payments.

* * * * *

(g) Special exceptions process. * * *

(6) Minimum payment level.

(i) The minimum payment level for qualifying hospitals will be 70 percent.

(ii) HCFA will adjust the minimum payment level in one percentage point increments as necessary to satisfy the requirement specified in paragraph (h) of this section that total estimated payments under the exceptions process not exceed 10 percent of the total estimated capital prospective payment system payments for the same fiscal year.

* * * * *

(9) Notification requirement. Eligible hospitals must submit documentation to the intermediary indicating the completion date of a project that meets the project need requirement under paragraph (g)(2) of this section, the project size requirement under paragraph (g)(5) of this section, and, in the case of certain urban hospitals, an excess capacity test under paragraph (g)(4) of this section, by the later of October 1, 2001 or within 3 months of the end of the hospital's last cost reporting period beginning before October 1, 2001, during which a qualifying project was completed.

* * * * *

PART 413—PRINCIPLES OF REASONABLE COST REIMBURSEMENT; PAYMENT FOR END-STAGE RENAL DISEASE SERVICES; OPTIONAL PROSPECTIVELY DETERMINED PAYMENT RATES FOR SKILLED NURSING FACILITIES

C. Part 413 is amended as follows:

1. The authority citation for Part 413 is revised to read as follows:

Authority: Secs. 1102, 1812(d), 1814(b), 1815, 1833(a), (i), and (n), 1871, 1881, 1883, and 1886 of the Social Security Act (42 U.S.C. 1302, 1395d(d), 1395f(b), 1395g, 1395l(a), (i), and (n), 1395hh, 1395rr, 1395tt, and 1395ww).

2. Section 413.70 is amended as follows:

a. Paragraph (a)(1) introductory text is republished.

b. A new paragraph (a)(1)(iv) is added.

c. Paragraph (a)(2) is revised.

d. A new paragraph (a)(3) is added.

e. Paragraph (b)(1) is revised.

f. Paragraph (b)(2)(i)(C) is revised.

g. New paragraphs (b)(4), (b)(5) and (b)(6) are added.

§ 413.70 Payment for services of a CAH.

(a) Payment for inpatient services furnished by a CAH.

(1) Payment for inpatient services of a CAH is the reasonable costs of the CAH in providing CAH services to its inpatients, as determined in accordance with section 1861(v)(1)(A) of the Act and the applicable principles of cost reimbursement in this part and in Part 415 of this chapter, except that the following payment principles are excluded when determining payment for CAH inpatient services:

* * * * *

(iv) The payment window provisions for preadmission services, specified in § 412.2(c)(5) of this subchapter and § 413.40(c)(2).

(2) Except as specified in paragraph (a)(3) of this section, payment to a CAH for inpatient services does not include any costs of physician services or other professional services to CAH inpatients, and is subject to the Part A hospital deductible and coinsurance, as determined under subpart G of part 409 of this chapter.

(3) If a CAH meets the criteria in § 412.113(c) of this subchapter for pass-through of costs of anesthesia services furnished by qualified nonphysician anesthetists employed by the CAH or obtained under arrangements, payment to the CAH for the costs of those services is made in accordance with § 412.113(c).

(b) Payment for outpatient services furnished by CAH.—(1) General. (i) Unless the CAH elects to be paid for services to its outpatients under the method specified in paragraph (b)(3) of this section, the amount of payment for outpatient services of a CAH is the amount determined under paragraph (b)(2) of this section.

(ii) Except as specified in paragraph (b)(6) of this section, payment to a CAH for outpatient services does not include any costs of physician services or other professional services to CAH outpatients.

* * * * *

(2) Reasonable costs for facility services.

(i) * * *

(C) Any type of reduction to operating or capital costs under § 413.124 or § 413.130(j).

* * * * *

(4) Costs of emergency room on-call physicians. (i) Effective for cost reporting periods beginning on or after October 1, 2001, the reasonable costs of outpatient CAH services under paragraph (b) of this section may include amounts for reasonable compensation and related costs for an emergency room physician who is on call but who is not present on the premises of the CAH involved, is not otherwise furnishing physicians' services, and is not on call at any other provider or facility.

(ii) For purposes of this paragraph (b)(4)—

(A) “Amounts for reasonable compensation and related costs” means all allowable costs of compensating emergency room physicians who are on call to the extent the costs are found to be reasonable under the rules specified in paragraph (b)(2) of this section and the applicable sections of Part 413. Costs of compensating emergency room physicians are allowable only if the costs are incurred under written contracts that require the physician to come to the CAH when the physician's presence is medically required.

(B) An “emergency room physician who is on call' means a doctor of medicine or osteopathy with training or experience in emergency care who is immediately available by telephone or radio contact, and is available on site within the timeframes specified in § 485.618(d) of this chapter.

(5) Costs of ambulance services. (i) Effective for services furnished on or after December 21, 2000, payment for ambulance services furnished by a CAH or an entity that is owned and operated by a CAH is the reasonable costs of the CAH or the entity in furnishing those services, but only if the CAH or the entity is the only provider or supplier of ambulance services located within a 35-mile drive of the CAH or the entity.

(ii) For purposes of paragraph (b)(5) of this section, the distance between the CAH or the entity and the other provider or supplier of ambulance services will be determined as the shortest distance in miles measured over improved roads between the CAH or the entity and the site at which the vehicles of the closest provider or supplier of ambulance services are garaged. An improved road for this purpose is any road that is maintained by a local, State, or Federal government entity and is available for use by the general public. An improved road will be considered to include the paved surface up to the front entrance of the hospital and the front entrance of the garage.

(6) If a CAH meets the criteria in § 412.113(c) of this subchapter for pass-through of costs of anesthesia services furnished by nonphysician anesthetists employed by the CAH or obtained under arrangement, payment to the CAH for the costs of those services is made in accordance with § 412.113(c).

* * * * *

3. Section 413.86 is amended as follows:

a. Paragraph (e)(4)(ii)(C)(1) is revised.

b. Paragraph (e)(5)(iv) is removed.

c. Paragraph (g)(4) is revised.

d. Paragraph (g)(5) is revised.

e. Paragraph (g)(8) is revised.

§ 413.86 Direct graduate medical education payments.

* * * * *

(e) Determining per residents amounts for the base period. * * *

(4) * * *

(ii) * * *

(C) Determining necessary revisions to the per resident amount. * * *

(1) Floor. (i) For cost reporting periods beginning on or after October 1, 2000, and before October 1, 2001, if the hospital's per resident amount would otherwise be less than 70 percent of the locality-adjusted national average per resident amount for FY 2001 (as determined under paragraph (e)(4)(ii)(B) of this section), the per resident amount is equal to 70 percent of the locality-adjusted national average per resident amount for FY 2001.

(ii) For cost reporting periods beginning on or after October 1, 2001, and before October 1, 2002, if the hospital's per resident amount would otherwise be less than 85 percent of the locality-adjusted national average per resident amount for FY 2002 (as determined under paragraph (e)(4)(ii)(B) of this section), the per resident amount is equal to 85 percent of the locality-adjusted national average per resident amount for FY 2002.

(iii) For subsequent cost reporting periods beginning on or after October 1, 2002, the hospital's per resident amount is updated using the methodology specified under paragraph (e)(3)(i) of this section.

* * * * *

(g) Determining the weighted number of FTE residents. * * *

(4) For purposes of determining direct graduate medical education payments—

(i) For cost reporting periods beginning on or after October 1, 1997, a hospital's unweighted FTE count for residents in allopathic and osteopathic medicine may not exceed the hospital's unweighted FTE count (or, effective for cost reporting periods beginning on or after April 1, 2000, 130 percent of the unweighted FTE count for a hospital located in a rural area) for these residents for the most recent cost reporting period ending on or before December 31, 1996.

(ii) If a hospital's number of FTE residents in a cost reporting period beginning on or after October 1, 1997, and before October 1, 2001, exceeds the limit described in this paragraph (g), the hospital's total weighted FTE count (before application of the limit) will be reduced in the same proportion that the number of FTE residents for that cost reporting period exceeds the number of FTE residents for the most recent cost reporting period ending on or before December 31, 1996.

(iii) If the hospital's number of FTE residents in a cost reporting period beginning on or after October 1, 2001 exceeds the limit described in this paragraph (g), the hospital's weighted FTE count (before application of the limit), for primary care and obstetrics and gynecology residents and nonprimary care residents, respectively, will be reduced in the same proportion that the number of FTE residents for that cost reporting period exceeds the number of FTE residents for the most recent cost reporting period ending on or before December 31, 1996.

(iv) Hospitals that are part of the same affiliated group may elect to apply the limit on an aggregate basis.

(v) The fiscal intermediary may make appropriate modifications to apply the provisions of this paragraph (g)(4) based on the equivalent of a 12-month cost reporting period.

(5) For purposes of determining direct graduate medical education payment—

(i) For the hospital's first cost reporting period beginning on or after October 1, 1997, the hospital's weighted FTE count is equal to the average of the weighted FTE count for the payment year cost reporting period and the preceding cost reporting period.

(ii) For cost reporting periods beginning on or after October 1, 1998, and before October 1, 2001, the hospital's weighted FTE count is equal to the average of the weighted FTE count for the payment year cost reporting period and the preceding two cost reporting periods.

(iii) For cost reporting periods beginning on or after October 1, 2001, the hospital's weighted FTE count for primary care and obstetrics and gynecology residents is equal to the average of the weighted primary care and obstetrics and gynecology counts for the payment year cost reporting period and the preceding two cost reporting periods, and the hospital's weighted FTE count for nonprimary care residents is equal to the average of the weighted nonprimary care FTE counts for the payment year cost reporting period and the preceding two cost reporting periods.

(iv) The fiscal intermediary may make appropriate modifications to apply the provisions of this paragraph (g)(5) based on the equivalent of 12-month cost reporting periods.

(v) If a hospital qualifies for an adjustment to the limit established under paragraph (g)(4) of this section for new medical residency programs created under paragraph (g)(6) of this section, the count of the residents participating in new medical residency training programs above the number included in the hospital's FTE count for the cost reporting period ending during calendar year 1996 is added after applying the averaging rules in this paragraph (g)(5) for a period of years. Residents participating in new medical residency training programs are included in the hospital's FTE count before applying the averaging rules after the period of years has expired. For purposes of this paragraph (g)(5), the period of years equals the minimum accredited length for the type of program. The period of years begins when the first resident begins training.

* * * * *

(8) Closure of hospital or hospital residency program.

(i) Definitions. For purposes of this paragraph (g)(8)—

(A) “Closure of a hospital” means the hospital terminates its Medicare agreement under the provisions of § 489.52 of this chapter.

(B) “Closure of a hospital residency training program” means the hospital ceases to offer training for residents in a particular approved medical residency training program.

(ii) Closure of a hospital. A hospital may receive a temporary adjustment to its FTE cap to reflect residents added because of another hospital's closure if the hospital meets the following criteria:

(A) The hospital is training additional residents from a hospital that closed on or after July 1, 1996.

(B) No later than 60 days after the hospital begins to train the residents, the hospital submits a request to its fiscal intermediary for a temporary adjustment to its FTE cap, documents that the hospital is eligible for this temporary adjustment by identifying the residents who have come from the closed hospital and have caused the hospital to exceed its cap, and specifies the length of time the adjustment is needed.

(iii) Closure of a hospital's residency training program. If a hospital that closes its residency training program voluntarily agrees to temporarily reduce its FTE cap according to the criteria specified in paragraph (g)(8)(iii)(B) of this section, another hospital(s) may receive a temporary adjustment to its FTE cap to reflect residents added because of the closure of the residency training program if the criteria specified in paragraph (g)(8)(iii)(A) of this section are met.

(A) Receiving hospital(s). A hospital may receive a temporary adjustment to its FTE cap to reflect residents added because of the closure of another hospital's residency training program if—

(1) The hospital is training additional residents from the residency training program of a hospital that closed a program; and

(2) No later than 60 days after the hospital begins to train the residents, the hospital submits to its fiscal intermediary a request for a temporary adjustment to its FTE cap, documents that it is eligible for this temporary adjustment by identifying the residents who have come from another hospital's closed program and have caused the hospital to exceed its cap, specifies the length of time the adjustment is needed, and submits to its fiscal intermediary a copy of the FTE reduction statement by the hospital that closed its program, as specified in paragraph (g)(8)(iii)(B)(2) of this section.

(B) Hospital that closed its program(s). A hospital that agrees to train residents who have been displaced by the closure of another hospital's program may receive a temporary FTE cap adjustment only if the hospital with the closed program—

(1) Temporarily reduces its FTE cap based on the FTE residents in each program year training in the program at the time of the program's closure. This yearly reduction in the FTE cap will be determined based on the number of those residents who would have been training in the program during that year had the program not closed; and

(2) No later than 60 days after the residents who were in the closed program begin training at another hospital, submit to its fiscal intermediary a statement signed and dated by its representative that specifies that it agrees to the temporary reduction in its FTE cap to allow the hospital training the displaced residents to obtain a temporary adjustment to its cap; identifies the residents who were in training at the time of the program's closure; identifies the hospitals to which the residents are transferring once the program closes; and specifies the reduction for the applicable program years.

* * * * *

PART 485—CONDITIONS OF PARTICIPATION: SPECIALIZED PROVIDERS

D. Part 485 is amended as follows:

1. The authority citation for part 485 continues to read as follows:

Authority: Secs. 1102 and 1871 of the Act (42 U.S.C. 1302 and 1395hh).

2. Section 485.610 is amended by revising paragraph (b) and adding a new paragraph (c) to read as follows:

§ 485.610 Condition of participation: Status and location.

* * * * *

(b) Standard: Location in a rural area or treatment as rural. The CAH meets the requirements of either paragraph (b)(1) or (b)(2) of this section.

(1) The CAH meets the following requirements:

(i) The CAH is located outside any area that is a Metropolitan Statistical Area, as defined by the Office of Management and Budget, or that has been recognized as urban under § 412.62(f) of this chapter;

(ii) The CAH is not deemed to be located in an urban area under § 412.63(b) of this chapter; and

(iii) The CAH has not been classified as an urban hospital for purposes of the standardized payment amount by HCFA or the Medicare Geographic Classification Review Board under § 412.230(e) of this chapter, and is not among a group of hospitals that have been redesignated to an adjacent urban area under § 412.232 of this chapter.

(2) The CAH is located within a Metropolitan Statistical Area, as defined by the Office of Management and Budget, but is being treated as being located in a rural area in accordance with § 412.103 of this chapter.

(c) Standard: Location relative to other facilities or necessary provider certification. The CAH is located more than a 35-mile drive (or, in the case of mountainous terrain or in areas with only secondary roads available, a 15-mile drive) from a hospital or another CAH, or the CAH is certified by the State as being a necessary provider of health care services to residents in the area.

3. Section 485.639 is amended by revising paragraph (b) to read as follows:

§ 485.639 Condition of participation: Surgical services.

* * * * *

(b) Anesthetic risk and evaluation. (1) A qualified practitioner, as specified in paragraph (a) of this section, must examine the patient immediately before surgery to evaluate the risk of the procedure to be performed.

(2) A qualified practitioner, as specified in paragraph (c) of this section, must examine each patient before surgery to evaluate the risk of anesthesia.

(3) Before discharge from the CAH, each patient must be evaluated for proper anesthesia recovery by a qualified practitioner, as specified in paragraph (c) of this section.

* * * * *

4. Section 485.643 is amended by revising paragraph (f) to read as follows:

§ 485.643 Condition of participation: Organ, tissue, and eye procurement.

* * * * *

(f) For purposes of these standards, the term “organ” means a human kidney, liver, heart, lung, pancreas, or intestines (or multivisceral organs).

PART 486—CONDITIONS FOR COVERAGE OF SPECIALIZED SERVICES FURNISHED BY SUPPLIERS

F. Part 486 is amended as follows:

1. The authority citation for Part 486 continues to read as follows:

Authority: Sections 1102 and 1871 of the Social Security Act (42 U.S.C. 1302 and 1395hh).

2. Section 486.302 is amended by revising the definition of “organ” to read as follows:

§ 486.302 Definitions.

* * * * *

“Organ” means a human kidney, liver, heart, lung, pancreas, or intestines (or multivisceral organs).

* * * * *

(Catalog of Federal Domestic Assistance Program No. 93.773, Medicare—Hospital Insurance; and Program No. 93.774, Medicare—Supplementary Medical Insurance Program)
Dated: March 15, 2001.
Michael McMullan,
Acting Deputy Administrator, Health Care Financing Administration.
Dated: April 3, 2001.
Tommy G. Thompson,
Secretary.

Editorial Note: The following Addendum and appendixes will not appear in the Code of Federal Regulations.

Addendum—Proposed Schedule of Standardized Amounts Effective With Discharges Occurring On or After October 1, 2001 and Update Factors and Rate-of-Increase Percentages Effective With Cost Reporting Periods Beginning On or After October 1, 2001

I. Summary and Background

In this Addendum, we are setting forth the proposed amounts and factors for determining prospective payment rates for Medicare inpatient operating costs and Medicare inpatient capital-related costs. We are also setting forth proposed rate-of-increase percentages for updating the target amounts for hospitals and hospital units excluded from the prospective payment system.

For discharges occurring on or after October 1, 2001, except for SCHs, MDHs, and hospitals located in Puerto Rico, each hospital's payment per discharge under the prospective payment system will be based on 100 percent of the Federal national rate.

SCHs are paid based on whichever of the following rates yields the greatest aggregate payment: the Federal national rate, the updated hospital-specific rate based on FY 1982 cost per discharge, the updated hospital-specific rate based on FY 1987 cost per discharge, or, if qualified, 50 percent of the updated hospital-specific rate based on FY 1996 cost per discharge, plus the greater of 50 percent of the updated FY 1982 or FY 1987 hospital-specific rate or 50 percent of the Federal DRG payment rate. Section 213 of Public Law 106-554 amended section 1886(b)(3) of the Act to allow all SCHs to rebase their hospital-specific rate based on their FY 1996 cost per discharge.

Under section 1886(d)(5)(G) of the Act, MDHs are paid based on the Federal national rate or, if higher, the Federal national rate plus 50 percent of the difference between the Federal national rate and the updated hospital-specific rate based on FY 1982 or FY 1987 cost per discharge, whichever is higher.

For hospitals in Puerto Rico, the payment per discharge is based on the sum of 50 percent of a Puerto Rico rate and 50 percent of a Federal national rate. (See section II.D.3. of this Addendum for a complete description.)

As discussed below in section II. of this Addendum, we are proposing to make changes in the determination of the prospective payment rates for Medicare inpatient operating costs for FY 2002. The changes, to be applied prospectively, would affect the calculation of the Federal rates. In section III. of this Addendum, we discuss our proposed changes for determining the prospective payment rates for Medicare inpatient capital-related costs for FY 2002. Section IV. of this Addendum sets forth our proposed changes for determining the rate-of-increase limits for hospitals excluded from the prospective payment system for FY 2002. The tables to which we refer in the preamble to this proposed rule are presented at the end of this Addendum in section V.

II. Proposed Changes to Prospective Payment Rates for Inpatient Operating Costs for FY 2002

The basic methodology for determining prospective payment rates for inpatient operating costs is set forth at § 412.63. The basic methodology for determining the prospective payment rates for inpatient operating costs for hospitals located in Puerto Rico is set forth at §§ 412.210 and 412.212. Below, we discuss the proposed factors used for determining the prospective payment rates. The Federal and Puerto Rico rate changes, once issued as final, will be effective with discharges occurring on or after October 1, 2001.

In summary, the proposed standardized amounts set forth in Tables 1A and 1C of section V. of this Addendum reflect—

• Updates of 2.55 percent for all areas (that is, the market basket percentage increase of 3.1 percent minus 0.55 percentage points);

• An adjustment to ensure budget neutrality of hospital geographic reclassification, as provided for under sections 1886(d)(4)(C)(iii) and (d)(3)(E) of the Act, by applying new budget neutrality adjustment factors to the large urban and other standardized amounts;

• An adjustment to ensure budget neutrality as provided for in section 1886(d)(8)(D) of the Act by removing the FY 2001 budget neutrality factor and applying a revised factor;

• An adjustment to apply the revised outlier offset by removing the FY 2001 outlier offsets and applying a new offset; and

• An adjustment in the Puerto Rico standardized amounts to reflect the application of a Puerto Rico-specific wage index.

A. Calculation of Adjusted Standardized Amounts

1. Standardization of Base-Year Costs or Target Amounts

Section 1886(d)(2)(A) of the Act required the establishment of base-year cost data containing allowable operating costs per discharge of inpatient hospital services for each hospital. The preamble to the September 1, 1983 interim final rule (48 FR 39763) contains a detailed explanation of how base-year cost data were established in the initial development of standardized amounts for the prospective payment system and how they are used in computing the Federal rates.

Section 1886(d)(9)(B)(i) of the Act required us to determine the Medicare target amounts for each hospital located in Puerto Rico for its cost reporting period beginning in FY 1987. The September 1, 1987 final rule (52 FR 33043, 33066) contains a detailed explanation of how the target amounts were determined and how they are used in computing the Puerto Rico rates.

The standardized amounts are based on per discharge averages of adjusted hospital costs from a base period or, for Puerto Rico, adjusted target amounts from a base period, updated and otherwise adjusted in accordance with the provisions of section 1886(d) of the Act. Sections 1886(d)(2)(B) and (d)(2)(C) of the Act required us to update base-year per discharge costs for FY 1984 and then standardize the cost data in order to remove the effects of certain sources of cost variations among hospitals. These effects include case-mix, differences in area wage levels, cost-of-living adjustments for Alaska and Hawaii, indirect medical education costs, and payments to hospitals serving a disproportionate share of low-income patients.

Under sections 1886(d)(2)(H) and (d)(3)(E) of the Act, in making payments under the prospective payment system, the Secretary estimates from time to time the proportion of costs that are wages and wage-related costs. Since October 1, 1997, when the market basket was last revised, we have considered 71.1 percent of costs to be labor-related for purposes of the prospective payment system. The average labor share in Puerto Rico is 71.3 percent. We are proposing to revise the discharge-weighted national standardized amount for Puerto Rico to reflect the proportion of discharges in large urban and other areas from the FY 2000 MedPAR file.

2. Computing Large Urban and Other Area Averages

Sections 1886(d)(2)(D) and (d)(3) of the Act require the Secretary to compute two average standardized amounts for discharges occurring in a fiscal year: one for hospitals located in large urban areas and one for hospitals located in other areas. In addition, under sections 1886(d)(9)(B)(iii) and (d)(9)(C)(i) of the Act, the average standardized amount per discharge must be determined for hospitals located in large urban and other areas in Puerto Rico. Hospitals in Puerto Rico are paid a blend of 50 percent of the applicable Puerto Rico standardized amount and 50 percent of a national standardized payment amount.

Section 1886(d)(2)(D) of the Act defines “urban area” as those areas within a Metropolitan Statistical Area (MSA). A “large urban area” is defined as an urban area with a population of more than 1 million. In addition, section 4009(i) of Public Law 100-203 provides that a New England County Metropolitan Area (NECMA) with a population of more than 970,000 is classified as a large urban area. As required by section 1886(d)(2)(D) of the Act, population size is determined by the Secretary based on the latest population data published by the Bureau of the Census. Urban areas that do not meet the definition of a “large urban area” are referred to as “other urban areas.” Areas that are not included in MSAs are considered “rural areas” under section 1886(d)(2)(D) of the Act. Payment for discharges from hospitals located in large urban areas will be based on the large urban standardized amount. Payment for discharges from hospitals located in other urban and rural areas will be based on the other standardized amount.

Based on 1999 population estimates published by the Bureau of the Census, 63 areas meet the criteria to be defined as large urban areas for FY 2002. These areas are identified in Table 4A.

3. Updating the Average Standardized Amounts

Under section 1886(d)(3)(A) of the Act, we update the average standardized amounts each year. In accordance with section 1886(d)(3)(A)(iv) of the Act, we are proposing to update the large urban areas' and the other areas' average standardized amounts for FY 2002 using the applicable percentage increases specified in section 1886(b)(3)(B)(i) of the Act. Section 1886(b)(3)(B)(i)(XVII) of the Act as amended by section 301 of Public Law 106-554 specifies that the update factor for the standardized amounts for FY 2002 is equal to the market basket percentage increase minus 0.55 percentage points for hospitals in all areas. Section 301 also established that the update factor for FY 2003 is equal to the market basket percentage increase minus 0.55 percentage points. We are proposing to revise § 412.63 to reflect these changes.

The percentage change in the market basket reflects the average change in the price of goods and services purchased by hospitals to furnish inpatient care. The most recent forecast of the hospital market basket increase for FY 2002 is 3.1 percent. Thus, for FY 2002, the proposed update to the average standardized amounts equals 2.55 percent for hospitals in all areas.

As in the past, we are adjusting the FY 2001 standardized amounts to remove the effects of the FY 2001 geographic reclassifications and outlier payments before applying the FY 2002 updates. That is, we are increasing the standardized amounts to restore the reductions that were made for the effects of geographic reclassification and outliers. We then apply the new offsets to the standardized amounts for outliers and geographic reclassifications for FY 2002.

Although the update factors for FY 2002 are set by law, we are required by section 1886(e)(3) of the Act to report to the Congress our initial recommendation of update factors for FY 2002 for both prospective payment hospitals and hospitals excluded from the prospective payment system. For general information purposes, we have included the report to Congress as Appendix C to this proposed rule. Our proposed recommendation on the update factors (which is required by sections 1886(e)(4)(A) and (e)(5)(A) of the Act) is set forth as Appendix D to this proposed rule.

4. Other Adjustments to the Average Standardized Amounts

a. Recalibration of DRG Weights and Updated Wage Index—Budget Neutrality Adjustment. Section 1886(d)(4)(C)(iii) of the Act specifies that, beginning in FY 1991, the annual DRG reclassification and recalibration of the relative weights must be made in a manner that ensures that aggregate payments to hospitals are not affected. As discussed in section II. of the preamble, we normalized the recalibrated DRG weights by an adjustment factor, so that the average case weight after recalibration is equal to the average case weight prior to recalibration.

Section 1886(d)(3)(E) of the Act requires us to update the hospital wage index on an annual basis beginning October 1, 1993. This provision also requires us to make any updates or adjustments to the wage index in a manner that ensures that aggregate payments to hospitals are not affected by the change in the wage index.

To comply with the requirement of section 1886(d)(4)(C)(iii) of the Act that DRG reclassification and recalibration of the relative weights be budget neutral, and the requirement in section 1886(d)(3)(E) of the Act that the updated wage index be budget neutral, we used FY 2000 discharge data to simulate payments and compared aggregate payments using the FY 2001 relative weights and wage index to aggregate payments using the proposed FY 2002 relative weights and wage index. The same methodology was used for the FY 2001 budget neutrality adjustment. (See the discussion in the September 1, 1992 final rule (57 FR 39832).) Based on this comparison, we computed a budget neutrality adjustment factor equal to 0.992493. We also adjust the Puerto Rico-specific standardized amounts for the effect of DRG reclassification and recalibration. We computed a budget neutrality adjustment factor for Puerto Rico-specific standardized amounts equal to 0.994677. These budget neutrality adjustment factors are applied to the standardized amounts without removing the effects of the FY 2001 budget neutrality adjustments. We do not remove the prior budget neutrality adjustment because estimated aggregate payments after the changes in the DRG relative weights and wage index should equal estimated aggregate payments prior to the changes. If we removed the prior year adjustment, we would not satisfy this condition.

In addition, we are proposing to apply these same adjustment factors to the hospital-specific rates that are effective for cost reporting periods beginning on or after October 1, 2001. (See the discussion in the September 4, 1990 final rule (55 FR 36073).)

b. Reclassified Hospitals—Budget Neutrality Adjustment. Section 1886(d)(8)(B) of the Act provides that, effective with discharges occurring on or after October 1, 1988, certain rural hospitals are deemed urban. In addition, section 1886(d)(10) of the Act provides for the reclassification of hospitals based on determinations by the Medicare Geographic Classification Review Board (MGCRB). Under section 1886(d)(10) of the Act, a hospital may be reclassified for purposes of the standardized amount or the wage index, or both.

Under section 1886(d)(8)(D) of the Act, the Secretary is required to adjust the standardized amounts so as to ensure that aggregate payments under the prospective payment system after implementation of the provisions of sections 1886(d)(8)(B) and (C) and 1886(d)(10) of the Act are equal to the aggregate prospective payments that would have been made absent these provisions. To calculate this budget neutrality factor, we used FY 2000 discharge data to simulate payments, and compared total prospective payments (including indirect medical education and disproportionate share hospital payments) prior to any reclassifications to total prospective payments after reclassifications. Based on these simulations, we are applying an adjustment factor of 0.991054 to ensure that the effects of reclassification are budget neutral.

The adjustment factor is applied to the standardized amounts after removing the effects of the FY 2001 budget neutrality adjustment factor. We note that the proposed FY 2002 adjustment reflects wage index and standardized amount reclassifications approved by the MGCRB or the Administrator as of February 28, 2001, and the effects of section 304 of Public Law 106-554 to extend wage index reclassifications for 3 years. The effects of any additional reclassification changes resulting from appeals and reviews of the MGCRB decisions for FY 2002 or from a hospital's request for the withdrawal of a reclassification request will be reflected in the final budget neutrality adjustment published in the final rule for FY 2002.

c. Outliers. Section 1886(d)(5)(A) of the Act provides for payments in addition to the basic prospective payments for “outlier” cases, cases involving extraordinarily high costs (cost outliers). Section 1886(d)(3)(B) of the Act requires the Secretary to adjust both the large urban and other area national standardized amounts by the same factor to account for the estimated proportion of total DRG payments made to outlier cases. Similarly, section 1886(d)(9)(B)(iv) of the Act requires the Secretary to adjust the large urban and other standardized amounts applicable to hospitals in Puerto Rico to account for the estimated proportion of total DRG payments made to outlier cases. Furthermore, under section 1886(d)(5)(A)(iv) of the Act, outlier payments for any year must be projected to be not less than 5 percent nor more than 6 percent of total payments based on DRG prospective payment rates.

i. FY 2002 outlier thresholds. For FY 2001, the fixed loss cost outlier threshold was equal to the prospective payment rate for the DRG plus the IME and DSH payments plus $17,550 (16,036 for hospitals that have not yet entered the prospective payment system for capital-related costs). The marginal cost factor for cost outliers (the percent of costs paid after costs for the case exceed the threshold) was 80 percent. We applied an outlier adjustment to the FY 2001 standardized amounts of 0.948908 for the large urban and other areas rates and 0.9409 for the capital Federal rate.

For FY 2002, we propose to establish a fixed loss cost outlier threshold equal to the prospective payment rate for the DRG plus the IME and DSH payments plus $21,000. The capital prospective payment system is fully phased in, effective FY 2002. Therefore, we no longer are establishing a separate threshold for hospitals that have not yet entered the prospective payment system for capital-related costs. We propose to maintain the marginal cost factor for cost outliers at 80 percent.

To calculate FY 2002 outlier thresholds, we simulated payments by applying FY 2002 rates and policies to the December 2000 update of the FY 2000 MedPAR file and the December 2000 update of the provider-specific file. As we have explained in the past, to calculate outlier thresholds, we apply a cost inflation factor to update costs for the cases used to simulate payments. For FY 2000, we used a cost inflation factor of zero percent. For FY 2001, we used a cost inflation factor (or cost adjustment factor) of 1.8 percent. To set the proposed FY 2002 outlier thresholds, we are using a 2-year cost inflation factor of 5.5 percent (to inflate FY 2000 charges to FY 2002). This factor reflects our analysis of the best available cost report data as well as calculations (using the best available data) indicating that the percentage of actual outlier payments for FY 2000 is higher than we projected before the beginning of FY 2000, and that the percentage of actual outlier payments for FY 2001 will likely be higher than we projected before the beginning of FY 2001. The calculations of “actual” outlier payments are discussed further below.

ii. Other changes concerning outliers. In accordance with section 1886(d)(5)(A)(iv) of the Act, we calculated proposed outlier thresholds so that outlier payments are projected to equal 5.1 percent of total payments based on DRG prospective payment rates. In accordance with section 1886(d)(3)(E), we reduced the proposed FY 2002 standardized amounts by the same percentage to account for the projected proportion of payments paid to outliers.

As stated in the September 1, 1993 final rule (58 FR 46348), we establish outlier thresholds that are applicable to both inpatient operating costs and inpatient capital-related costs. When we modeled the combined operating and capital outlier payments, we found that using a common set of thresholds resulted in a higher percentage of outlier payments for capital-related costs than for operating costs. We project that the proposed thresholds for FY 2002 will result in outlier payments equal to 5.1 percent of operating DRG payments and 5.7 percent of capital payments based on the Federal rate.

The proposed outlier adjustment factors to be applied to the standardized amounts for FY 2002 are as follows:

| Operating standardized amounts | Capital federal rate
National | 0.948910 | 0.974711
Puerto Rico | 0.942593 | 0.970336

We apply the proposed outlier adjustment factors after removing the effects of the FY 2001 outlier adjustment factors on the standardized amounts.

Table 8A in section V. of this Addendum contains the updated Statewide average operating cost-to-charge ratios for urban hospitals and for rural hospitals to be used in calculating cost outlier payments for those hospitals for which the fiscal intermediary is unable to compute a reasonable hospital-specific cost-to-charge ratio. These Statewide average ratios would replace the ratios published in the August 1, 2000 final rule (65 FR 47054). Table 8B contains comparable statewide average capital cost-to-charge ratios. These average ratios would be used to calculate cost outlier payments for those hospitals for which the fiscal intermediary computes operating cost-to-charge ratios lower than 0.1908357 or greater than 1.3133937 and capital cost-to-charge ratios lower than 0.0120498 or greater than 0.1668928. This range represents 3.0 standard deviations (plus or minus) from the mean of the log distribution of cost-to-charge ratios for all hospitals. We note that the cost-to-charge ratios in Tables 8A and 8B would be used during FY 2002 when hospital-specific cost-to-charge ratios based on the latest settled cost report are either not available or outside the three standard deviations range.

iii. FY 2000 and FY 2001 outlier payments. In the August 1, 2000 final rule (65 FR 47054), we stated that, based on available data, we estimated that actual FY 2000 outlier payments would be approximately 6.2 percent of actual total DRG payments. This was computed by simulating payments using the March 2000 update of the FY 1999 bill data available at the time. That is, the estimate of actual outlier payments did not reflect actual FY 2000 bills but instead reflected the application of FY 2000 rates and policies to available FY 1999 bills. Our current estimate, using available FY 2000 bills, is that actual outlier payments for FY 2000 were approximately 7.4 percent of actual total DRG payments. We note that the MedPAR file for FY 2000 discharges continues to be updated. Thus, the data indicate that, for FY 2000, the percentage of actual outlier payments relative to actual total payments is higher than we projected before FY 2000 (and thus exceeds the percentage by which we reduced the standardized amounts for FY 2000). In fact, the data indicate that the proportion of actual outlier payments for FY 2000 exceeds 6.0 percent. Nevertheless, consistent with the policy and statutory interpretation we have maintained since the inception of the prospective payment system, we do not plan to recoup money and make retroactive adjustments to outlier payments for FY 2000.

We currently estimate that actual outlier payments for FY 2001 will be approximately 5.9 percent of actual total DRG payments, 0.8 percent higher than the 5.1 percent we projected in setting outlier policies for FY 2001. This estimate is based on simulations using the December 2000 update of the provider-specific file and the December 2000 update of the FY 2000 MedPAR file (discharge data for FY 2000 bills). We used these data to calculate an estimate of the actual outlier percentage for FY 2001 by applying FY 2001 rates and policies to available FY 2000 bills.

5. FY 2002 Standardized Amounts

The adjusted standardized amounts are divided into labor and nonlabor portions. Table 1A contains the two national standardized amounts that we are proposing to be applicable to all hospitals, except hospitals in Puerto Rico. Under section 1886(d)(9)(A)(ii) of the Act, the Federal portion of the Puerto Rico payment rate is based on the discharge-weighted average of the national large urban standardized amount and the national other standardized amount (as set forth in Table 1A). The labor and nonlabor portions of the national average standardized amounts for Puerto Rico hospitals are set forth in Table 1C. This table also includes the Puerto Rico standardized amounts.

B. Adjustments for Area Wage Levels and Cost of Living

Tables 1A and 1C, as set forth in this Addendum, contain the proposed labor-related and nonlabor-related shares that would be used to calculate the prospective payment rates for hospitals located in the 50 States, the District of Columbia, and Puerto Rico. This section addresses two types of adjustments to the standardized amounts that are made in determining the prospective payment rates as described in this Addendum.

1. Adjustment for Area Wage Levels

Sections 1886(d)(3)(E) and 1886(d)(9)(C)(iv) of the Act require that we make an adjustment to the labor-related portion of the prospective payment rates to account for area differences in hospital wage levels. This adjustment is made by multiplying the labor-related portion of the adjusted standardized amounts by the appropriate wage index for the area in which the hospital is located. In section III. of this preamble, we discuss the data and methodology for the proposed FY 2002 wage index. The proposed wage index is set forth in Tables 4A, 4B, 4C, and 4F of this Addendum.

2. Adjustment for Cost-of-Living in Alaska and Hawaii

Section 1886(d)(5)(H) of the Act authorizes an adjustment to take into account the unique circumstances of hospitals in Alaska and Hawaii. Higher labor-related costs for these two States are taken into account in the adjustment for area wages described above. For FY 2002, we propose to adjust the payments for hospitals in Alaska and Hawaii by multiplying the nonlabor portion of the standardized amounts by the appropriate adjustment factor contained in the table below. If the Office of Personnel Management releases revised cost-of-living adjustment factors before July 1, 2001, we will publish them in the final rule and use them in determining FY 2002 payments.

Table of Cost-of-Living Adjustment Factors, Alaska and Hawaii Hospitals
Alaska—All areas | 1.25
Hawaii:
County of Honolulu | 1.1650
County of Hawaii | 1.2325
County of Kauai | 1.2325
County of Maui | 1.2375
County of Kalawao | 1.2375
(The above factors are based on data obtained from the U.S. Office of Personnel Management.)

C. DRG Relative Weights

As discussed in section II. of the preamble, we have developed a classification system for all hospital discharges, assigning them into DRGs, and have developed relative weights for each DRG that reflect the resource utilization of cases in each DRG relative to Medicare cases in other DRGs. Table 5 of section V. of this Addendum contains the relative weights that we are proposing to use for discharges occurring in FY 2002. These factors have been recalibrated as explained in section II. of the preamble.

D. Calculation of Prospective Payment Rates for FY 2002

General Formula for Calculation of Prospective Payment Rates for FY 2002

The prospective payment rate for all hospitals located outside of Puerto Rico, except SCHs and MDHs, equals the Federal rate.

The prospective payment rate for SCHs equals whichever of the following rates yields the greatest aggregate payment: the Federal national rate, the updated hospital-specific rate based on FY 1982 cost per discharge, the updated hospital-specific rate based on FY 1987 cost per discharge, or, if qualified, 50 percent of the updated hospital-specific rate based on FY 1996 cost per discharge, plus the greater of 50 percent of the updated FY 1982 or FY 1987 hospital-specific rate or 50 percent of the Federal DRG payment rate. Section 213 of Public Law 106-554 amended section 1886(b)(3) of the Act to allow all SCHs to rebase their hospital-specific rate based on their FY 1996 cost per discharge.

The prospective payment rate for MDHs equals 100 percent of the Federal rate, or, if the greater of the updated FY 1982 hospital-specific rate or the updated FY 1987 hospital-specific rate is higher than the Federal rate, 100 percent of the Federal rate plus 50 percent of the difference between the applicable hospital-specific rate and the Federal rate.

The prospective payment rate for Puerto Rico equals 50 percent of the Puerto Rico rate plus 50 percent of a discharge-weighted average of the national large urban standardized amount and the Federal national other standardized amount.

1. Federal Rate

For discharges occurring on or after October 1, 2001 and before October 1, 2002, except for SCHs, MDHs, and hospitals in Puerto Rico, the hospital's payment is based exclusively on the Federal national rate.

The payment amount is determined as follows:

Step 1—Select the appropriate national standardized amount considering the type of hospital and designation of the hospital as large urban or other (see Table 1A in section V. of this Addendum).

Step 2—Multiply the labor-related portion of the standardized amount by the applicable wage index for the geographic area in which the hospital is located (see Tables 4A, 4B, and 4C of section V. of this Addendum).

Step 3—For hospitals in Alaska and Hawaii, multiply the nonlabor-related portion of the standardized amount by the appropriate cost-of-living adjustment factor.

Step 4—Add the amount from Step 2 and the nonlabor-related portion of the standardized amount (adjusted, if appropriate, under Step 3).

Step 5—Multiply the final amount from Step 4 by the relative weight corresponding to the appropriate DRG (see Table 5 of section V. of this Addendum).

2. Hospital-Specific Rate (Applicable Only to SCHs and MDHs)

Section 1886(b)(3)(C) of the Act provides that SCHs are paid based on whichever of the following rates yields the greatest aggregate payment: the Federal national rate, the updated hospital-specific rate based on FY 1982 cost per discharge, the updated hospital-specific rate based on FY 1987 cost per discharge, or, if qualified, 50 percent of the updated hospital-specific rate based on FY 1996 cost per discharge, plus the greater of 50 percent of the updated FY 1982 or FY 1987 hospital-specific rate or 50 percent of the Federal DRG payment rate.

Section 1886(d)(5)(G) of the Act provides that MDHs are paid based on whichever of the following rates yields the greatest aggregate payment: the Federal rate or the Federal rate plus 50 percent of the difference between the Federal rate and the greater of the updated hospital-specific rate based on FY 1982 and FY 1987 cost per discharge.

Hospital-specific rates have been determined for each of these hospitals based on either the FY 1982 cost per discharge, the FY 1987 cost per discharge or, for qualifying SCHs, the FY 1996 cost per discharge. For a more detailed discussion of the calculation of the hospital-specific rates, we refer the reader to the September 1, 1983 interim final rule (48 FR 39772); the April 20, 1990 final rule with comment (55 FR 15150); the September 4, 1990 final rule (55 FR 35994); and the August 1, 2000 final rule (65 FR 47082).

a. Updating the FY 1982, FY 1987, and FY 1996 Hospital-Specific Rates for FY 2002. We are proposing to increase the hospital-specific rates by 2.55 percent (the hospital market basket percentage increase minus 0.55 percentage points) for SCHs and MDHs for FY 2002. Section 1886(b)(3)(C)(iv) of the Act provides that the update factor applicable to the hospital-specific rates for SCHs equal the update factor provided under section 1886(b)(3)(B)(iv) of the Act, which, for SCHs in FY 2002, is the market basket rate of increase minus 0.55 percentage points. Section 1886(b)(3)(D) of the Act provides that the update factor applicable to the hospital-specific rates for MDHs equals the update factor provided under section 1886(b)(3)(B)(iv) of the Act, which, for FY 2002, is the market basket rate of increase minus 0.55 percentage points.

b. Calculation of Hospital-Specific Rate. For SCHs, the applicable FY 2002 hospital-specific rate would be based on the following: the hospital-specific rate calculated using the greater of the FY 1982 or FY 1987 costs, increased by the applicable update factor of 2.55 percent; or, if the hospital-specific rate based on cost per case in FY 1996 is greater than the hospital-specific rate using either the FY 1982 or the FY 1987 costs, the greater of 50 percent of the hospital-specific rate based on the FY 1982 or FY 1987 costs, increased by the applicable update factor, or 50 percent of the Federal rate plus 50 percent of its rebased FY 1996 hospital-specific rate updated through FY 2002. For MDHs, the applicable FY 2002 hospital-specific rate would be calculated by increasing the hospital's hospital-specific rate for the preceding fiscal year by the applicable update factor of 2.55 percent, which is the same as the update for all prospective payment hospitals. In addition, for both SCHs and MDHs, the hospital-specific rate would be adjusted by the budget neutrality adjustment factor (that is, by 0.992493) as discussed in section II.A.4.a. of this Addendum. The resulting rate is used in determining the payment under which rate an SCH or a MDH is paid for its discharges beginning on or after October 1, 2001.

3. General Formula for Calculation of Prospective Payment Rates for Hospitals Located in Puerto Rico Beginning On or After October 1, 2001 and Before October 1, 2002

a. Puerto Rico Rate. The Puerto Rico prospective payment rate is determined as follows:

Step 1—Select the appropriate adjusted average standardized amount considering the large urban or other designation of the hospital (see Table 1C of section V. of the Addendum).

Step 2—Multiply the labor-related portion of the standardized amount by the appropriate Puerto Rico-specific wage index (see Table 4F of section V. of the Addendum).

Step 3—Add the amount from Step 2 and the nonlabor-related portion of the standardized amount.

Step 4—Multiply the result in Step 3 by 50 percent.

Step 5—Multiply the amount from Step 4 by the appropriate DRG relative weight (see Table 5 of section V. of the Addendum).

b. National Rate. The national prospective payment rate is determined as follows:

Step 1—Multiply the labor-related portion of the national average standardized amount (see Table 1C of section V. of the Addendum) by the appropriate national wage index (see Tables 4A and 4B of section V. of the Addendum).

Step 2—Add the amount from Step 1 and the nonlabor-related portion of the national average standardized amount.

Step 3—Multiply the result in Step 2 by 50 percent.

Step 4—Multiply the amount from Step 3 by the appropriate DRG relative weight (see Table 5 of section V. of the Addendum).

The sum of the Puerto Rico rate and the national rate computed above equals the prospective payment for a given discharge for a hospital located in Puerto Rico.

III. Proposed Changes to Payment Rates for Inpatient Capital-Related Costs for FY 2002

The prospective payment system for hospital inpatient capital-related costs was implemented for cost reporting periods beginning on or after October 1, 1991. Effective with that cost reporting period and during a 10-year transition period extending through FY 2001, hospital inpatient capital-related costs are paid on the basis of an increasing proportion of the capital prospective payment system Federal rate and a decreasing proportion of a hospital's historical costs for capital.

The basic methodology for determining Federal capital prospective rates is set forth at §§ 412.308 through 412.352. Below we discuss the factors that we used to determine the proposed Federal for FY 2002. The rates, which will be effective for discharges occurring on or after October 1, 2001. As we stated in section V of the preamble of this proposed rule, we are no longer determining an update to the capital hospital-specific rate, since FY 2001 is the last year of the 10-year transition period, and beginning in FY 2002 all hospitals (except those defined as “new” under § 412.300) will be paid based on 100 percent of the capital Federal rate.

For FY 1992, we computed the standard Federal payment rate for capital-related costs under the prospective payment system by updating the FY 1989 Medicare inpatient capital cost per case by an actuarial estimate of the increase in Medicare inpatient capital costs per case. Each year after FY 1992, we update the standard Federal rate, as provided in § 412.308(c)(1), to account for capital input price increases and other factors. Also, § 412.308(c)(2) provides that the Federal rate is adjusted annually by a factor equal to the estimated proportion of outlier payments under the Federal rate to total capital payments under the Federal rate. In addition, § 412.308(c)(3) requires that the Federal rate be reduced by an adjustment factor equal to the estimated proportion of payments for (regular and special) exceptions under § 412.348. Furthermore, § 412.308(c)(4)(ii) requires that the Federal rate be adjusted so that the annual DRG reclassification and the recalibration of DRG weights and changes in the geographic adjustment factor are budget neutral. For FYs 1992 through 1995, § 412.352 required that the Federal rate also be adjusted by a budget neutrality factor so that aggregate payments for inpatient hospital capital costs were projected to equal 90 percent of the payments that would have been made for capital-related costs on a reasonable cost basis during the fiscal year. That provision expired in FY 1996. Section 412.308(b)(2) describes the 7.4 percent reduction to the rate that was made in FY 1994, and § 412.308(b)(3) describes the 0.28 percent reduction to the rate made in FY 1996 as a result of the revised policy of paying for transfers. In the FY 1998 final rule with comment period (62 FR 45966), we implemented section 4402 of Public Law 105-33, which requires that for discharges occurring on or after October 1, 1997, and before October 1, 2002, the unadjusted standard Federal rate is reduced by 17.78 percent. A small part of that reduction will be restored effective October 1, 2002.

To determine the appropriate budget neutrality adjustment factor and the regular exceptions payment adjustment, we developed a dynamic model of Medicare inpatient capital-related costs, that is, a model that projects changes in Medicare inpatient capital-related costs over time. With the expiration of the budget neutrality provision, the model is still used to estimate the regular exceptions payment adjustment and other factors. The model and its application are described in greater detail in Appendix B of this proposed rule.

In accordance with section 1886(d)(9)(A) of the Act, under the prospective payment system for inpatient operating costs, hospitals located in Puerto Rico are paid for operating costs under a special payment formula. Prior to FY 1998, hospitals in Puerto Rico were paid a blended rate that consisted of 75 percent of the applicable standardized amount specific to Puerto Rico hospitals and 25 percent of the applicable national average standardized amount. However, effective October 1, 1997, as a result of section 4406 of Public Law 105-33, operating payments to hospitals in Puerto Rico are based on a blend of 50 percent of the applicable standardized amount specific to Puerto Rico hospitals and 50 percent of the applicable national average standardized amount. In conjunction with this change to the operating blend percentage, effective with discharges on or after October 1, 1997, we compute capital payments to hospitals in Puerto Rico based on a blend of 50 percent of the Puerto Rico rate and 50 percent of the Federal rate.

Section 412.374 provides for the use of this blended payment system for payments to Puerto Rico hospitals under the prospective payment system for inpatient capital-related costs. Accordingly, for capital-related costs, we compute a separate payment rate specific to Puerto Rico hospitals using the same methodology used to compute the national Federal rate for capital.

A. Determination of Federal Inpatient Capital-Related Prospective Payment Rate Update

In the August 1, 2000 final rule (65 FR 47122), we established a Federal rate of $382.03 for FY 2001. In a separate interim final rule with comment, as a result of implementing section 301(a) of Public Law 106-554 we are establishing a Federal rate of $380.85 for discharges occurring on or after April 1, 2001 and before October 1, 2001. In accordance with section 547 of Public Law 106-554, the special increases and adjustments provided by Public Law 106-554 effective between April and October 2001 do not apply for discharges occurring after FY 2001 and should not be included in determining the payment rates in subsequent years. Thus, the adjustments and rates published in the August 1, 2000 final rule were used in determining the proposed FY 2002 rates. As a result of the changes we are proposing to the factors used to establish the Federal rate in this addendum, the proposed FY 20021 Federal rate is $389.09.

In the discussion that follows, we explain the factors that were used to determine the proposed FY 2002 Federal rate. In particular, we explain why the proposed FY 2002 Federal rate has increased 1.85 percent compared to the FY 2001 Federal rate (published in the August 1, 2000 final rule (65 FR 47122)). We also estimate aggregate capital payments will increase by 3.80 percent during this same period. This increase is primarily due to the increase in the number of hospital admissions and the increase in case-mix. This increase in capital payments is less than last year (5.48 percent) because with the end of the transition period the remaining hold harmless hospitals receiving “cost-based” payments will begin being paid based on 100 percent of the Federal rate.

Total payments to hospitals under the prospective payment system are relatively unaffected by changes in the capital prospective payments. Since capital payments constitute about 10 percent of hospital payments, a 1 percent change in the capital Federal rate yields only about 0.1 percent change in actual payments to hospitals. Aggregate payments under the capital prospective payment transition system are estimated to increase in FY 2002 compared to FY 2001.

1. Standard Federal Rate Update

a. Description of the Update Framework. Under § 412.308(c)(1), the standard Federal rate is updated on the basis of an analytical framework that takes into account changes in a capital input price index and other factors. The update framework consists of a capital input price index (CIPI) and several policy adjustment factors. Specifically, we have adjusted the projected CIPI rate of increase as appropriate each year for case-mix index-related changes, for intensity, and for errors in previous CIPI forecasts. The proposed update factor for FY 2002 under that framework is 1.1 percent. This proposal is based on a projected 0.5 percent increase in the CIPI, a 0.3 percent adjustment for intensity, a 0.0 percent adjustment for case-mix, a 0.0 percent adjustment for the FY 2000 DRG reclassification and recalibration, and a forecast error correction of 0.3 percent. We explain the basis for the FY 2002 CIPI projection in section II.D. of this Addendum. Below we describe the policy adjustments that have been applied.

The case-mix index is the measure of the average DRG weight for cases paid under the prospective payment system. Because the DRG weight determines the prospective payment for each case, any percentage increase in the case-mix index corresponds to an equal percentage increase in hospital payments.

The case-mix index can change for any of several reasons:

• The average resource use of Medicare patients changes (“real” case-mix change);

• Changes in hospital coding of patient records result in higher weight DRG assignments (“coding effects”); and

• The annual DRG reclassification and recalibration changes may not be budget neutral (“reclassification effect”).

We define real case-mix change as actual changes in the mix (and resource requirements) of Medicare patients as opposed to changes in coding behavior that result in assignment of cases to higher weighted DRGs but do not reflect higher resource requirements. In the update framework for the prospective payment system for operating costs, we adjust the update upwards to allow for real case-mix change, but remove the effects of coding changes on the case-mix index. We also remove the effect on total payments of prior changes to the DRG classifications and relative weights, in order to retain budget neutrality for all case-mix index-related changes other than patient severity. (For example, we are adjustinged for the effects of the FY 2000 DRG reclassification and recalibration as part of our FY 2002 update recommendation.) We have adopted this case-mix index adjustment in the capital update framework as well.

For FY 2002, we are projecting a 1.0 percent increase in the case-mix index. We estimate that real case-mix increase will equal 1.0 percent in FY 2002. Therefore, the proposed net adjustment for case-mix change in FY 2002 is 0.0 percentage points.

We estimate that FY 2000 DRG reclassification and recalibration will result in a 0.0 percent change in the case-mix when compared with the case-mix index that would have resulted if we had not made the reclassification and recalibration changes to the DRGs. Therefore, we are making a 0.0 percent adjustment for DRG reclassification and recalibration in the update recommendation for FY 2002.

The capital update framework contains an adjustment for forecast error. The input price index forecast is based on historical trends and relationships ascertainable at the time the update factor is established for the upcoming year. In any given year there may be unanticipated price fluctuations that may result in differences between the actual increase in prices and the forecast used in calculating the update factors. In setting a prospective payment rate under the framework, we make an adjustment for forecast error only if our estimate of the change in the capital input price index for any year is off by 0.25 percentage points or more. There is a 2-year lag between the forecast and the measurement of the forecast error. A forecast error of 0.3 percentage points was calculated for the FY 2000 update. That is, current historical data indicate that the FY 2000 CIPI used in calculating the forecasted FY 2000 update factor (0.6 percent) understated the actual realized price increases (0.9 percent) by 0.3 percent. This under-prediction was due to prices from municipal bond yields declining slower than expected. Therefore, we are making a 0.3 percent adjustment for forecast error in the update for FY 2002.

Under the capital prospective payment system framework, we also make an adjustment for changes in intensity. We calculate this adjustment using the same methodology and data as in the framework for the operating prospective payment system. The intensity factor for the operating update framework reflects how hospital services are utilized to produce the final product, that is, the discharge. This component accounts for changes in the use of quality-enhancing services, changes in within-DRG severity, and expected modification of practice patterns to remove cost-ineffective services.

We calculate case-mix constant intensity as the change in total charges per admission, adjusted for price level changes (the CPI for hospital and related services), and changes in real case-mix. The use of total charges in the calculation of the proposed intensity factor makes it a total intensity factor, that is, charges for capital services are already built into the calculation of the factor. Therefore, we have incorporated the intensity adjustment from the operating update framework into the capital update framework. Without reliable estimates of the proportions of the overall annual intensity increases that are due, respectively, to ineffective practice patterns and to the combination of quality-enhancing new technologies and within-DRG complexity, we assume, as in the revised operating update framework, that one-half of the annual increase is due to each of these factors. The capital update framework thus provides an add-on to the input price index rate of increase of one-half of the estimated annual increase in intensity to allow for within-DRG severity increases and the adoption of quality-enhancing technology.

For FY 2002, we have developed a Medicare-specific intensity measure based on a 5-year average using FY 1996 through 2000 data. In determining case-mix constant intensity, we found that observed case-mix increase was 1.6 percent in FY 1996, 0.3 percent in FY 1997, −0.4 percent in FY 1998, and −0.3 in FY 1999, and −0.7 percent in FY 2000. Since we found an increase in case-mix of 1.6 for FY 1996, which was outside of the range of 1.0 to 1.4 percent, we estimate that real case-mix increase was 1.0 to 1.4 percent for that year. The estimate of 1.0 to 1.4 percent is supported by past studies of case-mix change by the RAND Corporation. The most recent study was “Has DRG Creep Crept Up? Decomposing the Case Mix Index Change Between 1987 and 1988” by G. M. Carter, J. P. Newhouse, and D. A. Relles, R-4098-HCFA/ProPAC (1991). The study suggested that real case-mix change was not dependent on total change, but was usually a fairly steady 1.0 to 1.4 percent per year. We use 1.4 percent as the upper bound because the RAND study did not take into account that hospitals may have induced doctors to document medical records more completely in order to improve payment. Following that study, we consider up to 1.4 percent of observed case-mix change as real for FY 1996 through FY 2000. Based on this analysis, we believe that all of the observed case-mix increase for FY 1997, FY 1998, and FY 1999, and FY 2000 is real. The increases for FY 1996 was in excess of our estimate of real case-mix increase.

We calculate case-mix constant intensity as the change in total charges per admission, adjusted for price level changes (the CPI for hospital and related services), and changes in real case-mix. Based upon an upper limit of 1.0 percent real case-mix increase, we estimate that case-mix constant intensity increased by an average 0.3 percent during FYs 1996 through 2000, for a cumulative increase of 1.4 percent given estimates of real case-mix of 1.0 percent for FY 1996, 0.3 percent for FY 1997, −0.4 for FY 1998, and −0.3 for FY 1999, and −0.7 percent for FY 2000. Based upon an upper limit of 1.4 percent real case-mix increase, we estimate that case-mix constant intensity increase by an average 0.2 percent during FYs 1996 through 2000, for a cumulative increase of 1.2 percent, given that real case-mix increase was 1.4 percent for FY 1996, 0.3 percent for FY 1997, −0.4 for FY 1998, −0.3 for FY 1999, and −0.7 percent for FY 2000. Since we estimate that intensity has increased during that period, we are recommending a 0.3 percent intensity adjustment for FY 2002.

b. Comparison of HCFA and MedPAC Update Recommendations. In its March 2001 Report to Congress, MedPAC presented a combined operating and capital update for hospital inpatient prospective payment system payments for FY 2002. Currently, section 1886(b)(3)(B)(i)(XVII) of the Act sets forth the FY 2002 percentage increase in the prospective payment system operating cost standardized amounts. The prospective payment system capital update is set at the discretion of the Secretary under the framework outlined in § 412.308(c)(1).

For FY 2002, MedPAC's update framework supports a combined operating and capital update for hospital inpatient prospective payment system payments of 1.5 percent to 3.0 percent (or between the increase in the combined operating and capital market basket minus 1.3 percentage points and the increase in the combined operating and capital market basket plus 0.2 percentage points). MedPAC also notes that while the number of hospitals with negative inpatient hospital margins have increased in FY 1999 (from 33.7 percent in FY 1998 to 36.7 percent in FY 1999 (page 71)), overall high inpatient Medicare margins generally offset hospital losses on other lines of Medicare services. MedPAC continues to project substantially improved hospital total margins for FY 2000 based on performance in the first half of the fiscal year (page 72).

MedPAC's FY 2002 combined operating and capital update framework uses a weighted average of HCFA's forecasts of the operating (PPS Input Price Index) and capital (CIPI) market baskets. This combined market basket is used to develop an estimate of the change in overall operating and capital prices. MedPAC calculated a combined market basket forecast by weighting the operating market basket forecast by 0.92 and the capital market basket forecast by 0.08, since operating costs are estimated to represent 92 percent of total hospital costs (capital costs are estimated to represent the remaining 8 percent of total hospital costs). MedPAC's combined market basket for FY 2002 is estimated to increase by 2.8 percent, based on HCFA's December 2000 forecasted operating market basket increase of 3.0 percent and HCFA's December 2000 forecasted capital market basket increase of 0.8 percent.

Response: As we stated in the August 1, 2000 final rule (65 FR 47119), our long-term goal is to develop a single update framework for operating and capital prospective payments and that we would begin development of a unified framework. However, we have not yet developed such a single framework as the actual operating system update has been determined by Congress through FY 2003 (as amended by Public Law 106-554). In the meantime, we intend to maintain as much consistency as possible with the current operating framework in order to facilitate the eventual development of a unified framework.

Our recommendation for updating the prospective payment system capital Federal rate is supported by the following analyses that measure changes in scientific and technological advances, practice pattern changes, changes in case-mix, the effect of reclassification and recalibration, and forecast error correction. MedPAC recommends a 1.5 to 3.0 percent combined operating and capital update for hospital inpatient prospective payments. Under our existing capital update framework, we are recommending a 1.1 percent update to the capital Federal rate. For purposes of comparing HCFA's capital update recommendation and MedPAC's update recommendation for FY 2002, we have isolated the capital component of MedPAC's combined market basket forecast, which was based on HCFA's December 2000 CIPI forecast of 0.8 percent. As a result, MedPAC's update recommendation for FY 2002 for capital payments is between −0.9 percent and 0.6 percent (see Table 1).

There are some differences between HCFA's and MedPAC's update frameworks, which account for the difference in the respective update recommendations. In its combined FY 2002 update recommendation, MedPAC uses HCFA's capital input price index (the CIPI) as the starting point for estimating the change in prices since the previous year. HCFA's CIPI includes price measures for interest expense, which are an indicator of the interest rates facing hospitals during their capital purchasing decisions. Previously, MedPAC's capital market basket did not include interest expense; instead it included a financing policy adjustment when necessary to account for the prolonged changes in interest rates. HCFA's CIPI is vintage-weighted, meaning that it takes into account price changes from past purchases of capital when determining the current period update. In the past, MedPAC's capital market basket was not vintage-weighted, and only accounted for the current year price changes. Beginning last year, both HCFA's and MedPAC's FY 2002 update frameworks use HCFA's CIPI. MedPAC used HCFA's December 2000 CIPI in preparing its FY 2002 recommendation, which was forecast at 0.8 percent. Currently, the CIPI is forecast at 0.5 percent (March 2001).

MedPAC and HCFA also differ in the adjustments they make to their price indices. (See Table 1 for a comparison of HCFA and MedPAC's update recommendations.) MedPAC makes an adjustment for scientific and technological advances, which is offset by a fixed standard for productivity growth and one-time factors. HCFA has not adopted a separate adjustment for capital science and technology or productivity and efficiency.

In addition, MedPAC includes, when appropriate, an adjustment for one-time factors expected to affect costs in FY 2002 and the removal of the adjustment for FY 2002 one-time factors in its science and technology adjustment. MedPAC concluded that a one-time adjustment of 0.5 percent for the Health Insurance Portability and Accountability Act of 1996 (HIPAA) regulatory requirements be reflected in its FY 2002 payment update. Additionally, since MedPAC believes that the costs associated with one-time factors should not be built permanently into the rates, it recommended that the FY 2002 payment rates be reduced by 0.5 percent to offset the increase it recommended in the FY 2000 update for the costs associated with year 2000 (Y2K) computer improvements. Thus, MedPAC's combined FY 2002 adjustment for science and technological advances is 0.0 percent to 0.5 percent.

Instead, we have identified a total intensity factor, which reflects scientific and technological advances, but we have not identified an adequate total productivity measure. MedPAC also includes a site-of-care substitution adjustment (unbundling of the payment unit) to account for the decline in the average length of Medicare acute inpatient stays. This adjustment is designed to shift funding along with associated costs when Medicare patients are discharged to postacute settings that replace acute impatient days. Other factors, such as technological advances that allow for a decreased need in follow-up care and BBA mandated policy on payment for transfer cases that limits payments within certain DRGs, are reflected in the site-of-care substitution adjustment as well. We agree with MedPAC that the site-of-care substitution effect is real and believe that it is factored into our intensity recommendation.

For FY 2002, MedPAC recommends a −2.0 to −1.0 percent combined adjustment for site-of-care substitutions. MedPAC recommends a 0.0 to a 0.5 percent combined adjustment for scientific and technological advances, which was offset by a fixed productivity standard of 0.5 percent and a 0.0 percent adjustment for one-time factors for FY 2002. We recommend a 0.3 intensity adjustment.

Additionally, MedPAC includes an adjustment for Medicare policy changes affecting financial status in its section of factors affecting current level of payments in its FY 2002 update recommendation. While MedPAC's update framework has not considered such costs in the past, MedPAC believes that it is appropriate to account for significant costs incurred as a result of new Medicare policy. For FY 2002, MedPAC believes that legislated updates will match cost growth and that the overall net affects of legislative changes (from Public Law 105-33, Public Law 106-113, and Public Law 106-554) will be small. Thus, it did not recommend any additional allowance for these costs for FY 2002. Accordingly, MedPAC recommended a 0.0 percent adjustment for Medicare policy changes.

MedPAC makes a two-part adjustment for case-mix changes, which takes into account changes in case-mix in the past year. It recommends a 0.0 percent combined adjustment for DRG coding change and a 0.0 percent combined adjustment for within-DRG complexity change. This results in a combined total case-mix adjustment of 0.0 percent. We recommend a 0.0 adjustment for case-mix, since we are projecting a 1.0 percent increase in case-mix index and we estimate that real case-mix increase will equal 1.0 percent in FY 2002.

We recommend a 0.3 percent adjustment for forecast error correction. MedPAC's combined FY 2002 update recommendation includes a 0.7 percent adjustment for forecast error correction. However, it noted that this forecast error adjustment is a result of the difference between the forecasted FY 2000 operating market basket of 2.9 percent and the actual FY 2000 operating market basket increase of 3.6 percent. The FY 2000 capital market basket was forecast at 0.6 percent, while the actual observed increase equaled 0.9 percent for capital costs. Therefore, we have included 0.3 percent adjustment for FY 2000 forecast error correction in the comparison of MedPAC's and HCFA's update recommendations for FY 2002 shown below in Table 1.

We applied MedPAC's ratio of hospital capital costs to total hospital costs (8 percent) to the adjustment factors in its update framework for comparison with HCFA's capital update framework. The net result of these adjustments is that MedPAC has recommended a −0.9 to 0.6 percent update to the capital Federal rate for FY 2002. MedPAC believes that the annual updates to the capital and operating payments under the prospective payment system should not differ substantially, even though they are determined separately, since they correspond to costs generated by providing the same inpatient hospital services to the same Medicare patients. We describe the basis for our 1.1 percent total capital update for FY 2002 in the preceding section. Our recommendation of 1.1 percent is 0.5 percent higher than the upper limit of the range recommended by MedPAC due to MedPAC's −2.0 to −1.0 percent combined (operating and capital) adjustment for unbundling of the payment unit for FY 2002. If we had applied only the portion of that adjustment attributable to capital-related services, our proposed update recommendation would most likely have fallen with in the range of MedPAC's update recommendation for capital for FY 2002. While in previous years, our update recommendation has fallen within the range recommended by MedPAC, since MedPAC has developed its combined operating and capital update recommendation beginning in FY 2001, we have only been outside of that range by 0.5 percent. For FY 2001, our update recommendation of 0.9 percent was only 0.5 percentage points below MedPAC's lower limit of its FY 2002 recommendation.

Table 1.—HCFA's FY 2002 Update Factor and MedPAC's Recommendation
| HCFA's update factor | MedPAC's recommendation
Capital Input Price Index | 0.5 | 0.8¹
Policy Adjustment Factors:
Intensity | 0.3 | (²)
Science and Technology |  | 0.0 to 0.5.
Real within DRG Change |  | (³)
Site-of-Care Substitution |  | −2.0 to −1.0.
One-Time Factors | (⁴) | 0.0
Subtotal | 0.3 | −2.0 to −0.5.
Medicare Policy Change; |  | 0.0
Case-Mix Adjustment Factors:
Projected Case-Mix Change | −1.0 |
Real Across DRG Change | 1.0 |
Coding Change |  | 0.0
Real within DRG Change | (⁴) | 0.0
Subtotal | 0.0 | 0.0
Effect of FY 2000 Reclassification and Recalibration | 0.0 |
Forecast Error Correction | 0.3 | 0.3
Total Update | 1.1 | −0.9 to 0.6.
¹ Used HCFA's December 2000 capital marker basket forecast in its combined update recommendation.
² Included in MedPAC's productivity offset in its science and technology adjustment.
³ Included in MedPAC's case-mix adjustment.
⁴ Included in HCFA's intensity factor.

2. Outlier Payment Adjustment Factor

Section 412.312(c) establishes a unified outlier methodology for inpatient operating and inpatient capital-related costs. A single set of thresholds is used to identify outlier cases for both inpatient operating and inpatient capital-related payments. Section 412.308(c)(2) provides that the standard Federal rate for inpatient capital-related costs be reduced by an adjustment factor equal to the estimated proportion of capital-related outlier payments to total inpatient capital-related PPS payments. The outlier thresholds are set so that operating outlier payments are projected to be 5.1 percent of total operating DRG payments.

In the August 1, 2000 final rule, we estimated that outlier payments for capital in FY 2001 would equal 5.91 percent of inpatient capital-related payments based on the Federal rate (65 FR 47121). Accordingly, we applied an outlier adjustment factor of 0.9409 to the Federal rate. Based on the thresholds as set forth in section II.A.4.d. of this Addendum, we estimate that outlier payments for capital will equal 5.74 percent of inpatient capital-related payments based on the Federal rate in FY 2002. Therefore, we are proposing an outlier adjustment factor of 0.9426 to the Federal rate. Thus, the projected percentage of capital outlier payments to total capital standard payments for FY 2002 is lower than the percentage for FY 2001.

The outlier reduction factors are not built permanently into the rates; that is, they are not applied cumulatively in determining the Federal rate. As explained previously, in accordance with section 547 of Public Law 106-554, the proposed FY 2002 rates are based on the FY 2001 adjustments and rates published in the August 1, 2000 final rule (65 FR 47122). Therefore, the proposed net change in the outlier adjustment to the Federal rate for FY 2002 is 1.0018 (0.9426/0.9409). The outlier adjustment increases the FY 2002 Federal rate by 0.18 percent compared with the FY 2001 outlier adjustment.

3. Budget Neutrality Adjustment Factor for Changes in DRG Classifications and Weights and the Geographic Adjustment Factor

Section 412.308(c)(4)(ii) requires that the Federal rate be adjusted so that aggregate payments for the fiscal year based on the Federal rate after any changes resulting from the annual DRG reclassification and recalibration and changes in the geographic adjustment factor (GAF) are projected to equal aggregate payments that would have been made on the basis of the Federal rate without such changes. We use the actuarial model, described in Appendix B of this proposed rule, to estimate the aggregate payments that would have been made on the basis of the Federal rate without changes in the DRG classifications and weights and in the GAF. We also use the model to estimate aggregate payments that would be made on the basis of the Federal rate as a result of those changes. We then use these figures to compute the adjustment required to maintain budget neutrality for changes in DRG weights and in the GAF.

For FY 2001, we calculated a GAF/DRG budget neutrality factor of 0.9979. For FY 2002, we are proposing a GAF/DRG budget neutrality factor of 0.9913. The GAF/DRG budget neutrality factors are built permanently into the rates; that is, they are applied cumulatively in determining the Federal rate. This follows from the requirement that estimated aggregate payments each year be no more than they would have been in the absence of the annual DRG reclassification and recalibration and changes in the GAF. As explained previously, in accordance with section 547 of Public Law 106-554, the proposed FY 2002 adjustments and rates are based on the FY 2001 adjustment and rates published in the August 1, 2000 final rule (65 FR 47122). The proposed incremental change in the adjustment from FY 2001 to FY 2002 is 0.9913. The proposed cumulative change in the rate due to this adjustment is 0.9906 (the product of the incremental factors for FY 1993, FY 1994, FY 1995, FY 1996, FY 1997, FY 1998, FY 1999, FY 2000, FY 2001 and the proposed incremental factor for FY 2002: 0.9980 × 1.0053 × 0.9998 × 0.9994 × 0.9987 × 0.9989 × 1.0028 × 0.9985 × 0.9979 × 0.9913 = 0.9906).

This proposed factor accounts for DRG reclassifications and recalibration and for changes in the GAF. It also incorporates the effects on the GAF of FY 2002 geographic reclassification decisions made by the MGCRB compared to FY 2001 decisions. However, it does not account for changes in payments due to changes in the DSH and IME adjustment factors or in the large urban add-on.

4. Exceptions Payment Adjustment Factor

Section 412.308(c)(3) requires that the standard Federal rate for inpatient capital-related costs be reduced by an adjustment factor equal to the estimated proportion of additional payments for exceptions under § 412.348 relative to total capital payments payments under the hospital-specific rate and Federal rate. We use the model originally developed for determining the budget neutrality adjustment factor to determine the regular exceptions payment adjustment factor. We describe that model in Appendix B to this proposed rule. An adjustment for regular exceptions is necessary for determining the FY 2002 rates because we will continue to pay regular exceptions for cost reporting periods beginning before October 1, 2001 but ending in FY 2002 in accordance with § 412.312(c)(3). In FY 2003 and later, no payments will be made under the regular exceptions provision, hence we will only compute a budget neutrality adjustment under § 412.348(d) for special exceptions. We describe the proposed methodology to determine to special exceptions adjustment in section V.D. of this proposed rule. For FY 2002, the exceptions adjustment is a combination of the adjustment that would be made under the regular exceptions provision and under the special exceptions provision under § 412.348(g).

For FY 2001, we estimated that exceptions payments would equal 2.15 percent of aggregate payments based on the Federal rate and the hospital-specific rate. Therefore, we applied an exceptions reduction factor of 0.9785 (1−0.0215) in determining the Federal rate. For this proposed rule, we estimate that regular exceptions payments for FY 2002 will equal 0.63 percent of aggregate payments based on the Federal rate we estimate that special exceptions payments for FY 2002 will equal 0.12 percent of aggregate payments based on the Federal rate. Therefore, we estimate that total exceptions payments for FY 2002 will equal 0.75 percent (0.63 + 0.12 = 0.75) of aggregate payments based on the Federal rate and we are proposing an exceptions payment reduction factor of 0.9925 (1 − 0.0075) to the Federal rate for FY 2002. The proposed exceptions reduction factor for FY 2002 is 1.43 percent higher than the factor for FY 2001 published in the August 1, 2000 final rule. This increase is primarily due to the expiration of the regular exceptions provision and the narrowly defined nature of the special exceptions policy.

The exceptions reduction factors are not built permanently into the rates; that is, the factors are not applied cumulatively in determining the Federal rate. As explained previously, in accordance with section 547 of Public Law 106-554, the proposed FY 2002 adjustments and rates are based on the FY 2001 adjustments and rates published in the August 1, 2000 final rule (65 FR 47122). Therefore, the proposed net adjustment to the FY 2002 Federal rate is 0.9925/0.9785, or 1.0143.

5. Standard Capital Federal Rate for FY 2002

For FY 2001, the capital Federal rate was $383.06 for discharges occurring between October 1, 2000 and April 1, 2001. As a result of implementing section 301(a) of Public Law 106-554, for discharges occurring from April to October 2001, the capital Federal rate was $380.85. However, as explained previously, in accordance with section 547 of Public Law 106-554, the proposed FY 2002 adjustments and rates are based on the FY 2001 adjustments and rates published in the August 1, 2000 final rule (65 FR 47122). As a result of changes we are proposing to the factors used to establish the Federal rate, the proposed FY 2002 Federal rate is $389.09. The proposed Federal rate for FY 2002 was calculated as follows:

• The proposed FY 2002 update factor is 1.0110; that is, the proposed update is 1.10 percent.

• The proposed FY 2002 budget neutrality adjustment factor that is applied to the standard Federal payment rate for changes in the DRG relative weights and in the GAF is 0.9913.

• The proposed FY 2002 outlier adjustment factor is 0.9426.

• The proposed FY 2002 (regular and special) exceptions payments adjustment factor is 0.9925.

Since the Federal rate has already been adjusted for differences in case-mix, wages, cost-of-living, indirect medical education costs, and payments to hospitals serving a disproportionate share of low-income patients, we propose to make no additional adjustments in the standard Federal rate for these factors other than the budget neutrality factor for changes in the DRG relative weights and the GAF.

We are providing a chart that shows how each of the factors and adjustments for FY 2002 affected the computation of the proposed FY 2002 Federal rate in comparison to the FY 2001 Federal rate. The proposed FY 2002 update factor has the effect of increasing the Federal rate by 1.10 percent compared to the FY 2001 rate published in the August 1, 2000 final rule, while the proposed geographic and DRG budget neutrality factor has the effect of decreasing the Federal rate by 0.87 percent. The proposed FY 2002 outlier adjustment factor has the effect of increasing the Federal rate by 0.18 percent compared to the FY 2001 rate published in the August 1, 2000 final rule. The proposed FY 2002 (regular and special) exceptions reduction factor has the effect of increasing the Federal rate by 1.43 percent compared to the exceptions reduction for FY 2001. The combined effect of all the proposed changes is to increase the proposed Federal rate by 1.85 percent compared to the Federal rate for FY 2001.

Comparison of Factors and Adjustments: FY 2001 Federal Rate and Proposed FY 2002 Federal Rate
| FY 2001 | Proposed FY 2002 | Change | Percent change
Update factor ¹ | 1.0090 | 1.0110 | 1.0110 | 1.10
GAF/DRG Adjustment Factor ¹ | 0.9979 | 0.9913 | 0.9913 | −0.87
Outlier Adjustment Factor ² | 0.9409 | 0.9426 | 1.0018 | 0.18
Exceptions Adjustment Factor ² | 0.9785 | 0.9925 | 1.0143 | 1.43
Federal Rate | $382.03 | $38.09 | 1.018 | 1.85
¹ The update factor and the GAF/DRG budget neutrality factors are built permanently into the rates. Thus, for example, the incremental change from FY 2000 to FY 2001 resulting from the application of the 0.9913 GAF/DRG budget neutrality factor for FY 2001 is 0.9913.
² The outlier reduction factor and the exceptions reduction factor are not built permanently into the rates; that is, these factors are not applied cumulatively in determining the rates. Thus, for example, the net change resulting from the application of the FY 2001 outlier reduction factor is 0.9426/0.9409, or 1.0018.

6. Special Rate for Puerto Rico Hospitals

As explained at the beginning of section IV of this Addendum, hospitals in Puerto Rico are paid based on 50 percent of the Puerto Rico rate and 50 percent of the Federal rate. The Puerto Rico rate is derived from the costs of Puerto Rico hospitals only, while the Federal rate is derived from the costs of all acute care hospitals participating in the prospective payment system (including Puerto Rico). To adjust hospitals' capital payments for geographic variations in capital costs, we apply a GAF to both portions of the blended rate. The GAF is calculated using the operating prospective payment system wage index and varies depending on the MSA or rural area in which the hospital is located. We use the Puerto Rico wage index to determine the GAF for the Puerto Rico part of the capital-blended rate and the national wage index to determine the GAF for the national part of the blended rate.

Because we implemented a separate GAF for Puerto Rico in FY 1998, we also apply separate budget neutrality adjustments for the national GAF and for the Puerto Rico GAF. However, we apply the same budget neutrality factor for DRG reclassifications and recalibration nationally and for Puerto Rico. The Puerto Rico GAF budget neutrality factor is 0.99941, while the DRG adjustment is 0.9943, for a combined cumulative adjustment of 0.9937.

In computing the payment for a particular Puerto Rico hospital, the Puerto Rico portion of the rate (50 percent) is multiplied by the Puerto Rico-specific GAF for the MSA in which the hospital is located, and the national portion of the rate (50 percent) is multiplied by the national GAF for the MSA in which the hospital is located (which is computed from national data for all hospitals in the United States and Puerto Rico). In FY 1998, we implemented a 17.78 percent reduction to the Puerto Rico rate as a result of Public Law 105-33.

For FY 2001, before application of the GAF, the special rate for Puerto Rico hospitals was $185.06. As explained previously, in accordance with section 547 of Public Law 106-554, the proposed FY 2002 adjustments and rates are based on the FY 2001 rates published in the August 1, 2000 final rule. With the changes we are proposing to the factors used to determine the rate, the proposed FY 2002 special rate for Puerto Rico is $188.67.

B. Calculation of Inpatient Capital-Related Prospective Payments for FY 2002

With the end of the capital prospective payment system transition period, all hospitals (except those defined as “new” under § 412.300(b)) will be paid based on 100 percent of the Federal rate in FY 2002. The applicable Federal rate was determined by making adjustments as follows:

• For outliers, by dividing the standard Federal rate by the outlier reduction factor for that fiscal year; and

• For the payment adjustments applicable to the hospital, by multiplying the hospital's GAF, disproportionate share adjustment factor, and IME adjustment factor, when appropriate.

For purposes of calculating payments for each discharge during FY 2002, the standard Federal rate is adjusted as follows:

(Standard Federal Rate) × (DRG weight) × (GAF) × (Large Urban Add-on, if applicable) × (COLA adjustment for hospitals located in Alaska and Hawaii) × (1 + Disproportionate Share Adjustment Factor + IME Adjustment Factor, if applicable).

The result is the adjusted Federal rate.

Hospitals also may receive outlier payments for those cases that qualify under the thresholds established for each fiscal year. Section 412.312(c) provides for a single set of thresholds to identify outlier cases for both inpatient operating and inpatient capital-related payments. The proposed outlier thresholds for FY 2002 are in section II.A.4.c. of this Addendum. For FY 2002, a case qualifies as a cost outlier if the cost for the case (after standardization for the indirect teaching adjustment and disproportionate share adjustment) is greater than the prospective payment rate for the DRG plus $20,900.

During the capital prospective payment system transition period, a hospital also may receive an additional payment under the regular an exceptions process through its cost reporting period beginning before October 1, 2001 but ending in FY 2002 if its total inpatient capital-related payments are less than a minimum percentage of its allowable Medicare inpatient capital-related costs. The minimum payment level is established by class of hospital under § 412.348(c). Under § 412.348(d), the amount of a regular exceptions payment is determined by comparing the cumulative payments made to the hospital under the capital prospective payment system to the cumulative minimum payment levels applicable to the hospital for each cost reporting period subject to that system. Any amount by which the hospital's cumulative payments exceed its cumulative minimum payment is deducted from the additional payment that would otherwise be payable for a cost reporting period.

An eligible hospital may qualify for a special exception payment under § 412.348(g) through the 10th year beyond the end of the capital transition period if meets (1) a project need requirement described at § 412.348(g)(2), which in the case of certain urban hospitals includes an excess capacity test; and (2) a project size requirement as described at § 412.348(g)(5). Eligible hospitals include sole community hospitals, urban hospitals with at lest 100 beds that have a DSH percentage of at least 20.2 percent, and hospitals that have a combined Medicare and Medicaid inpatient utilization of at least 70 percent. Under § 412.348(g)(8), the amount of a special exceptions payment is determined by comparing the cumulative payments made to the hospital under the capital prospective payment system to the cumulative minimum payment level. This amount is offset by (1) any amount by which a hospital's cumulative capital payments exceed its cumulative minimum payment levels applicable under the regular exceptions process for cost reporting periods beginning during which the hospital has been subject to capital PPS; and (2) any amount by which a hospital's current year operating and capital payments (excluding 75 percent of operating DSH payments) exceed its operating and capital costs. The minimum payment level is 70 percent for all eligible hospitals under § 412.348(g).

New hospitals as defined under § 412.300 are exempted from the capital prospective payment system for their first 2 years of operation and are paid 85 percent of their reasonable costs during that period. A new hospital's old capital costs are its allowable costs for capital assets that were put in use for patient care on or before the later of December 31, 1990, or the last day of the hospital's base year cost reporting period, and are subject to the rules pertaining to old capital and obligated capital as of the applicable date. Effective with the third year of operation, we will pay the hospital under either the fully prospective methodology, using the appropriate transition blend in that Federal fiscal year, or the hold-harmless methodology. If the hold-harmless methodology is applicable, the hold-harmless payment for assets in use during the base period would extend for 8 years, even if the hold-harmless payments extend beyond the normal transition period.

C. Capital Input Price Index

1. Background

Like the operating input price index, the capital input price index (CIPI) is a fixed-weight price index that measures the price changes associated with costs during a given year. The CIPI differs from the operating input price index in one important aspect—the CIPI reflects the vintage nature of capital, which is the acquisition and use of capital over time. Capital expenses in any given year are determined by the stock of capital in that year (that is, capital that remains on hand from all current and prior capital acquisitions). An index measuring capital price changes needs to reflect this vintage nature of capital. Therefore, the CIPI was developed to capture the vintage nature of capital by using a weighted-average of past capital purchase prices up to and including the current year.

Using Medicare cost reports, American Hospital Association (AHA) data, and Securities Data Company data, a vintage-weighted price index was developed to measure price increases associated with capital expenses. We periodically update the base year for the operating and capital input prices to reflect the changing composition of inputs for operating and capital expenses. Currently, the CIPI is based to FY 1992 and was last rebased in 1997. The most recent discussion of the cost category weights in the CIPI was in the final rule with comment period for FY 1998 published on August 29, 1997 (62 FR 46050).

2. Forecast of the CIPI for Federal Fiscal Year 2001

We are forecasting the CIPI to increase 0.9 percent for FY 2002. This reflects a projected 1.5 percent increase in vintage-weighted depreciation prices (building and fixed equipment, and movable equipment) and a 3.5 percent increase in other capital expense prices in FY 2002, partially offset by a 1.3 percent decline in vintage-weighted interest rates in FY 2002. The weighted average of these three factors produces the 0.9 percent increase for the CIPI as a whole.

IV. Proposed Changes to Payment Rates for Excluded Hospitals and Hospital Units: Rate-of-Increase Percentages

The inpatient operating costs of hospitals and hospital units excluded from the prospective payment system are subject to rate-of-increase limits established under the authority of section 1886(b) of the Act, which is implemented in regulations at § 413.40. Under these limits, a hospital-specific target amount (expressed in terms of the inpatient operating cost per discharge) is set for each hospital, based on the hospital's own historical cost experience trended forward by the applicable rate-of-increase percentages (update factors). In the case of a psychiatric hospital or hospital unit, a rehabilitation hospital or hospital unit, or a long-term care hospital, the target amount may not exceed the updated figure for the 75th percentile of target amounts adjusted to take into account differences between average wage-related costs in the area of the hospital and the national average of such costs within the same class of hospital for hospitals and units in the same class (psychiatric, rehabilitation, and long-term care) for cost reporting periods ending during FY 1996. The target amount is multiplied by the number of Medicare discharges in a hospital's cost reporting period, yielding the ceiling on aggregate Medicare inpatient operating costs for the cost reporting period.

Each hospital-specific target amount is adjusted annually, at the beginning of each hospital's cost reporting period, by an applicable update factor.

Section 1886(b)(3)(B) of the Act, which is implemented in regulations at § 413.40(c)(3)(vii), provides that for cost reporting periods beginning on or after October 1, 1998 and before October 1, 2002, the update factor for a hospital or unit depends on the hospital's or hospital unit's costs in relation to the ceiling for the most recent cost reporting period for which information is available. For hospitals with costs exceeding the ceiling by 10 percent or more, the update factor is the market basket increase. For hospitals with costs exceeding the ceiling by less than 10 percent, the update factor is the market basket minus .25 percent for each percentage point by which costs are less than 10 percent over the ceiling. For hospitals with costs equal to or less than the ceiling but greater than 66.7 percent of the ceiling, the update factor is the greater of 0 percent or the market basket minus 2.5 percent. For hospitals with costs that do not exceed 66.7 percent of the ceiling, the update factor is 0.

The most recent forecast of the market basket increase for FY 2002 for hospitals and hospital units excluded from the prospective payment system is 3.0 percent. Therefore, the update to a hospital's target amount for its cost reporting period beginning in FY 2002 would be between 0.5 and 3.0 percent, or 0 percent, depending on the hospital's or unit's costs in relation to its rate-of-increase limit.

In addition, § 413.40(c)(4)(iii) requires that for cost reporting periods beginning on or after October 1, 1998 and before October 1, 2002, the target amount for each psychiatric hospital or hospital unit, rehabilitation hospital or hospital unit, and long-term care hospital cannot exceed a cap on the target amounts for hospitals in the same class.

Section 1886(b)(3)(H) of the Act, as amended by section 121 of Public Law 106-113, provides for an appropriate wage adjustment to the caps on the target amounts for psychiatric hospitals and units, rehabilitation hospitals and units, and long-term care hospitals, effective for cost reporting periods beginning on or after October 1, 1999, through September 30, 2002. On August 1, 2000, we published an interim final rule with comment period that implemented this provision for cost reporting periods beginning on or after October 1, 1999 and before October 1, 2000 (65 FR 47026) and a final rule that implemented the provision for cost reporting periods beginning on or after October 1, 2000 and before October 1, 2001 (65 FR 47054). This proposed rule addresses the wage adjustment to the caps for cost reporting periods beginning on or after October 1, 2001.

As discussed in section VI. of the preamble of this proposed rule, the cap on the target amount per discharge is determined by adding the hospital's nonlabor-related portion of the national 75th percentile cap to its wage-adjusted, labor-related portion of the national 75th percentile cap (the labor-related portion of costs equals 0.71553 and the nonlabor-related portion of costs equals 0.28447). A hospital's wage-adjusted, labor-related portion of the target amount is calculated by multiplying the labor-related portion of the national 75th percentile cap for the hospital's class by the wage index under the hospital inpatient prospective payment system (see § 412.63), without taking into account reclassifications under sections 1886(d)(8)(B) and (d)(10) of the Act.

As discussed in section VI. of the preamble of this proposed rule, we are proposing to make an adjustment to the caps on target amounts for new and existing excluded hospitals and units. In calculating the wage-adjusted caps on target amounts for new and existing excluded and units for FY 2001, we inadvertently made an error. In wage neutralizing FY 1996 target amounts, we used the FY 2000 hospital inpatient prospective payment system wage index published in Tables 4A and 4B of the July 30, 1999 final rule (64 FR 41585 through 41593), which is based on wage data after taking into account geographic reclassifications under section 1886(d)(8) of the Act. We are proposing to use pre-reclassified wage data in our recalculation of the caps for FY 2002. We propose to recalculate the limits for new excluded hospitals and units, as well as calculate the cap for existing excluded hospitals and units using the same wage index used under the prospective payment system for skilled nursing facilities (SNF) as shown in Table 7 of the July 30, 1999 SNF final rule (64 FR 41690). We do not anticipate a significant impact on overall payments to these hospitals and units.

Section 307(a) of Public Law 106-554 amended section 1886(b)(3) of the Act to provide for a 2-percent increase to the wage-adjusted 75th percentile cap on the target amount for long-term care hospitals, effective for cost reporting periods beginning during FY 2001. This provision is applicable to long-term care hospitals that were subject to the cap for existing excluded hospitals and units, as specified in § 413.40(c).

In addition to the increase to the cap on target amounts for long-term care hospitals, section 307(a) of Public Law 106-554 amended section 1886(b)(3)(A) of the Act to make the section applicable to all long-term care hospitals, effective for cost reporting periods beginning during FY 2001. This provision requires a revision to the determination of each long-term care hospital's FY 2001 target amount as specified in § 413.40(c)(4). For cost reporting periods beginning during FY 2001, the hospital-specific target amount otherwise determined for a long-term care hospital as specified under § 413.40(c)(4)(ii) is multiplied by 1.25 (that is, increased by 25 percent). However, the revised FY 2001 target amount for a long-term care hospital cannot exceed its wage-adjusted national cap as required by section 1886(b)(3) of the Act, as amended by section 307(a) of Public Law 106-554.

For cost reporting periods beginning in FY 2002, the proposed caps are as follows:

Class of excluded hospital or unit | Labor-related share | Nonlabor-related share
Psychiatric | $8,404 | $3,341
Rehabilitation | 15,689 | 6,237
Long-Term Care | 31,399 | 12,483

Regulations at § 413.40(d) specify the formulas for determining bonus and relief payments for excluded hospitals and specify established criteria for an additional bonus payment for continuous improvement. Regulations at § 413.40(f)(2)(ii) specify the payment methodology for new hospitals and hospital units (psychiatric, rehabilitation, and long-term care) effective October 1, 1997.

V. Tables

This section contains the tables referred to throughout the preamble to this proposed rule and in this Addendum. For purposes of this proposed rule, and to avoid confusion, we have retained the designations of Tables 1 through 5 that were first used in the September 1, 1983 initial prospective payment final rule (48 FR 39844). Tables 1A, 1C, 1D, 2, 3A, 3B, 4A, 4B, 4C, 4F, 4G, 4H, 5, 6A, 6B, 6C, 6D, 6E, 6F, 6G, 6H, 7A, 7B, 8A, and 8B are presented below. The tables presented below are as follows:

Table 1A—National Adjusted Operating Standardized Amounts, Labor/Nonlabor

Table 1C—Adjusted Operating Standardized Amounts for Puerto Rico, Labor/Nonlabor

Table 1D—Capital Standard Federal Payment Rate

Table 2—Hospital Average Hourly Wage for Federal Fiscal Years 2000 (1996 Wage Data), 2001 (1997 Wage Data) and 2002 (1998 Wage Data) Wage Indexes and 3-Year Average of Hospital Average Hourly Wages

Table 3A—3-Year Average Hourly Wage for Urban Areas

Table 3B—3-Year Average Hourly Wage for Rural Areas

Table 4A—Wage Index and Capital Geographic Adjustment Factor (GAF) for Urban Areas

Table 4B—Wage Index and Capital Geographic Adjustment Factor (GAF) for Rural Areas

Table 4C—Wage Index and Capital Geographic Adjustment Factor (GAF) for Hospitals That Are Reclassified

Table 4F—Puerto Rico Wage Index and Capital Geographic Adjustment Factor (GAF)

Table 4G—Pre-Reclassified Wage Index for Urban Areas

Table 4H—Pre-Reclassified Wage Index for Rural Areas

Table 5—List of Diagnosis Related Groups (DRGs), Relative Weighting Factors, Geometric and Arithmetic Mean Length of Stay

Table 6A—New Diagnosis Codes

Table 6B—New Procedure Codes

Table 6C—Invalid Diagnosis Codes

Table 6D—Invalid Procedure Codes

Table 6E—Revised Diagnosis Code Titles

Table 6F—Revised Procedure Code Titles

Table 6G—Additions to the CC Exclusions List

Table 6H—Deletions to the CC Exclusions List

Table 7A—Medicare Prospective Payment System Selected Percentile Lengths of Stay FY 2000 MedPAR Update 12/00 GROUPER V18.0

Table 7B—Medicare Prospective Payment System Selected Percentile Lengths of Stay FY 2000 MedPAR Update 12/00 GROUPER V20.0

Table 8A—Statewide Average Operating Cost-to-Charge Ratios for Urban and Rural Hospitals (Case Weighted) March 2001

Table 8B—Statewide Average Capital Cost-to-Charge Ratios (Case Weighted) March 2001

Table 1A.—National Adjusted Operating Standardized Amounts, Labor/Nonlabor
Large urban areas: Labor-related | Large urban areas: Nonlabor-related | Other areas: Labor-related | Other areas: Nonlabor-related
$2,940.89 | $1,195.38 | $2,894.33 | $1,176.46

Table 1C.—Adjusted Operating Standardized Amounts for Puerto Rico, Labor/Nonlabor
| Large urban areas: Labor | Large urban areas: Nonlabor | Other areas: Labor | Other areas: Nonlabor
National | $2,915.45 | $1,185.04 | $2,915.45 | $1,185.04
Puerto Rico | 1,414.18 | 569.25 | 1,391.79 | 560.23

Table 1D.—Capital Standard Federal Payment Rate
| Rate
National | $389.09
Puerto Rico | 188.67

——————————

* Wage data not available for the provider that year.

** For Federal Fiscal Year 2002 only, the average hourly wage is based upon data on file as of February 15, 2001. It does not reflect changes processed after that date.

*** The 3-year average hourly wage is weighted by salaries and hours.

Table 2.—Hospital Average Hourly Wage for Federal Fiscal Years 2000 (1996 Wage Data), 2001 (1997 Wage Data) and 2002 (1998 Wage Data) Wage Indexes and 3-Year Average of Hospital Average Hourly Wages
Provider No. | Average hourly wage FFY 2000 | Average hourly wage FFY 2001 | Average** hourly wage FFY 2002 | Average*** hourly wage (3 years)
010001 | 15.8484 | 16.4088 | 17.1352 | 16.4665
010004 | 15.0194 | 17.9732 | 19.0010 | 17.1863
010005 | 16.2615 | 17.5985 | 18.6554 | 17.4986
010006 | 17.3081 | 16.7480 | 17.3537 | 17.1306
010007 | 14.8048 | 15.4798 | 15.6788 | 15.3288
010008 | 17.6549 | 14.7443 | 17.4728 | 16.6080
010009 | 17.5328 | 18.7731 | 18.4390 | 18.2439
010010 | 15.9090 | 16.4468 | 16.4664 | 16.2848
010011 | 20.6261 | 20.7972 | 21.9311 | 21.1001
010012 | 19.2992 | 17.7171 | 15.8686 | 17.5430
010015 | 18.3461 | 15.4510 | 18.7062 | 17.3913
010016 | 16.1311 | 17.2473 | 18.6772 | 17.4112
010018 | 18.9617 | 17.6449 | 18.9388 | 18.5180
010019 | 15.4910 | 16.3493 | 17.0672 | 16.3245
010021 | 14.6297 | 16.2919 | 15.1241 | 15.3000
010022 | 20.5050 | 18.5879 | 17.6435 | 18.8422
010023 | 16.2581 | 16.1025 | 16.3209 | 16.2283
010024 | 16.0263 | 16.2900 | 16.2974 | 16.2091
010025 | 14.5311 | 15.1356 | 15.1548 | 14.9441
010027 | 14.9278 | 11.7900 | 16.8595 | 14.1053
010029 | 16.4103 | 17.6461 | 18.3605 | 17.4403
010031 | 18.0194 | 18.7835 | 18.5180 | 18.4445
010032 | 12.6540 | 12.5995 | 15.3590 | 13.6017
010033 | 19.6797 | 20.3923 | 21.1818 | 20.4188
010034 | 14.7342 | 15.0959 | 15.3639 | 15.0606
010035 | 17.4788 | 20.1853 | 16.0377 | 17.7343
010036 | 17.2880 | 17.8140 | 17.0366 | 17.3872
010038 | 18.3309 | 18.2671 | 19.6098 | 18.7632
010039 | 18.8080 | 20.1045 | 20.3406 | 19.7778
010040 | 19.1030 | 18.9376 | 19.9152 | 19.2851
010043 | 16.2022 | 30.7489 | 18.6640 | 19.9982
010044 | 17.0229 | 22.0091 | 24.0265 | 20.8906
010045 | 15.0065 | 15.2200 | 17.0417 | 15.7248
010046 | 17.1822 | 17.3970 | 18.9737 | 17.8750
010047 | 16.3803 | 13.3521 | 15.4332 | 15.2044
010049 | 14.4823 | 14.7590 | 15.5246 | 14.9487
010050 | 15.4159 | 18.5163 | 17.3895 | 17.0820
010051 | 9.9390 | 11.9275 | 11.8108 | 11.1940
010052 | 13.8649 | 16.5486 | 18.0653 | 16.1248
010053 | 13.1778 | 14.6267 | 15.5649 | 14.5406
010054 | 17.1246 | 18.5103 | 19.5148 | 18.4901
010055 | 18.1930 | 18.9526 | 18.8590 | 18.6711
010058 | 12.7809 | 16.1702 | 16.9715 | 15.1274
010059 | 18.1886 | 19.1286 | 18.8020 | 18.7124
010061 | 15.9215 | 14.9547 | 14.5003 | 15.1112
010062 | 13.5690 | 14.7732 | 12.3259 | 13.5151
010064 | 20.8966 | 20.4139 | 19.5256 | 20.2712
010065 | 15.6357 | 16.4049 | 16.8752 | 16.3279
010066 | 12.0681 | 15.4317 | 13.1559 | 13.4757
010068 | 18.7367 | 12.0525 | 12.9616 | 14.2644
010069 | 13.5684 | 13.8636 | 14.7211 | 14.0429
010072 | 14.3481 | 14.9526 | 16.2339 | 15.1957
010073 | 12.8328 | 13.8601 | 14.1273 | 13.6015
010078 | 17.7110 | 17.9202 | 18.1028 | 17.9134
010079 | 16.8701 | 16.4421 | 14.5611 | 15.8427
010080 | 13.8473 | * | * | 13.8473
010081 | 16.9823 | 18.9474 | 17.2996 | 17.7081
010083 | 16.2146 | 16.8933 | 18.0312 | 17.0916
010084 | 18.7794 | 18.4965 | 18.7769 | 18.6812
010085 | 18.8696 | 18.4744 | 19.6888 | 19.0044
010086 | 14.9255 | 16.6694 | 16.5711 | 16.0968
010087 | 18.3889 | 19.0033 | 17.3321 | 18.3237
010089 | 16.6090 | 16.8042 | 17.7800 | 17.0521
010090 | 18.1121 | 18.3866 | 18.9445 | 18.4882
010091 | 16.3620 | 13.9405 | 17.0799 | 15.6820
010092 | 16.4980 | 16.9900 | 17.8144 | 17.1322
010094 | 18.5603 | * | * | 18.5603
010095 | 11.8993 | 12.4525 | 12.2597 | 12.2090
010097 | 12.8955 | 13.0413 | 12.7286 | 12.8889
010098 | 14.2787 | 15.9165 | 14.0300 | 14.6833
010099 | 15.9309 | 15.9874 | 15.5619 | 15.8073
010100 | 15.4826 | 17.2011 | 17.7237 | 16.8503
010101 | 15.4173 | 15.3859 | 14.4460 | 15.0721
010102 | 12.7251 | 13.7933 | 13.8136 | 13.4259
010103 | 19.3115 | 17.9358 | 16.6514 | 17.9628
010104 | 18.0997 | 17.7126 | 15.9964 | 17.2534
010108 | 20.7914 | 17.9017 | 19.4617 | 19.3047
010109 | 14.0870 | 15.3107 | 14.6834 | 14.6934
010110 | 15.9066 | 15.6317 | 15.8283 | 15.7917
010112 | 15.1056 | 15.1401 | 16.8271 | 15.6716
010113 | 17.2440 | 16.9683 | 13.9413 | 15.9844
010114 | 17.2612 | 15.2454 | 17.0136 | 16.4485
010115 | 13.7524 | 14.6268 | 14.9632 | 14.4787
010118 | 16.6889 | 18.8477 | 17.0834 | 17.5145
010119 | 18.1707 | 18.8024 | 20.7741 | 19.7059
010120 | 17.0332 | 17.2336 | 18.2567 | 17.5146
010121 | 15.1806 | 14.6444 | 14.5262 | 14.8160
010123 | 18.1604 | 16.7344 | 19.2140 | 17.9949
010124 | 16.2666 | 16.2846 | 16.7465 | 16.4273
010125 | 14.4153 | 15.5304 | 16.0136 | 15.3557
010126 | 17.6405 | 19.5710 | 19.1065 | 18.7347
010127 | 19.6095 | 19.5190 | 18.2786 | 19.1726
010128 | 12.5747 | 14.5056 | 14.4322 | 13.6385
010129 | 14.4267 | 14.7286 | 16.1733 | 15.1385
010130 | 16.3465 | 16.6809 | 18.1314 | 16.9797
010131 | 17.9076 | 17.8260 | 20.1883 | 18.6602
010134 | 10.7817 | 18.8835 | 19.9856 | 15.8677
010137 | 15.9348 | 12.1217 | 20.4561 | 15.8609
010138 | 12.1295 | 12.8675 | 14.5254 | 13.1763
010139 | 19.9487 | 19.0001 | 20.6815 | 19.8355
010143 | 15.7144 | 16.7911 | 17.6212 | 16.7651
010144 | 17.1211 | 17.1320 | 17.7580 | 17.3377
010145 | 20.7460 | 20.8434 | 20.5895 | 20.7209
010146 | 18.8561 | 18.5198 | 19.1415 | 18.8309
010148 | 14.6443 | 12.2214 | 15.8349 | 13.9784
010149 | 17.0836 | 18.6333 | 18.0156 | 17.9216
010150 | 16.9749 | 17.8951 | 18.8977 | 17.9203
010152 | 17.3835 | 17.8306 | 18.2173 | 17.8172
010155 | 16.7028 | 9.0300 | 15.0689 | 12.5183
010158 | * | 17.3227 | 18.3957 | 17.8637
020001 | 27.9690 | 28.1747 | 27.4110 | 27.8426
020002 | 26.9145 | 24.5815 | 25.1987 | 25.5092
020004 | 26.3979 | 30.5667 | 25.4679 | 27.5927
020005 | 29.0068 | 30.2920 | 29.2378 | 29.5337
020006 | 26.7706 | 31.2404 | 28.1417 | 28.8630
020007 | 24.9555 | 27.8319 | 32.3852 | 28.0097
020008 | 30.4712 | 29.4146 | 30.8691 | 30.2487
020009 | 23.1801 | 20.1930 | 18.4660 | 20.3801
020010 | 18.6417 | 23.6727 | 22.7559 | 21.4818
020011 | 29.4697 | 30.4727 | 28.0658 | 29.3006
020012 | 23.9259 | 24.8543 | 25.5320 | 24.7635
020013 | 26.8172 | 23.8847 | 28.1557 | 26.0576
020014 | 24.0932 | 27.3823 | 24.9201 | 25.4246
020017 | 24.9714 | 26.8319 | 27.6501 | 26.5037
020024 | 22.7263 | 24.0872 | 25.3205 | 24.0621
020025 | 27.1529 | 21.7557 | 20.2583 | 22.6334
030001 | 19.8695 | 20.3673 | 21.7869 | 20.6506
030002 | 21.6263 | 21.5977 | 21.8375 | 21.6886
030003 | 23.6722 | 23.4833 | 22.6804 | 23.3063
030004 | 17.7333 | 14.0711 | 15.5478 | 15.4308
030006 | 17.6409 | 18.2668 | 19.7289 | 18.5307
030007 | 18.5602 | 19.6708 | 21.5169 | 19.9379
030008 | * | 22.2758 | 22.2190 | 22.2524
030009 | 17.9343 | 18.1794 | 18.7557 | 18.2786
030010 | 18.7997 | 19.0907 | 19.5123 | 19.1422
030011 | 20.0784 | 19.2973 | 19.4310 | 19.5785
030012 | 19.4245 | 18.9918 | 20.6585 | 19.6997
030013 | 21.0182 | 20.7458 | 19.6369 | 20.4298
030014 | 19.4697 | 19.9315 | 19.7966 | 19.7342
030016 | 20.5606 | 19.3967 | 19.4785 | 19.8559
030017 | 20.4185 | 22.8765 | 21.7938 | 21.6805
030018 | 18.9115 | 20.2032 | 20.8980 | 20.0193
030019 | 19.9211 | 21.7005 | 21.2540 | 20.9846
030022 | 15.7886 | 19.2966 | 17.3485 | 17.0947
030023 | 22.4365 | 23.6697 | 24.1678 | 23.4686
030024 | 21.6692 | 22.2541 | 22.6199 | 22.1974
030025 | 17.6759 | 12.7254 | 11.9894 | 13.7385
030027 | 17.5796 | 15.7554 | 17.6555 | 16.9563
030030 | 21.6249 | 20.8303 | 21.6932 | 21.3795
030033 | 16.8396 | 20.0044 | 20.2820 | 18.9069
030034 | 19.0868 | 16.8241 | 20.8689 | 18.8279
030035 | 19.7153 | 19.2781 | 20.0226 | 19.6580
030036 | 18.9449 | 20.7567 | 21.6371 | 20.4743
030037 | 21.4376 | 22.8266 | 23.7615 | 22.6712
030038 | 22.0777 | 22.6776 | 22.9822 | 22.5885
030040 | 17.9722 | 18.5456 | 19.7636 | 18.7537
030041 | 17.4389 | 15.8921 | 18.8717 | 17.2718
030043 | 20.7721 | 20.9341 | 20.5598 | 20.7468
030044 | 16.4654 | 16.8649 | 17.6575 | 17.0214
030047 | 19.6916 | 22.6401 | 21.4412 | 21.2271
030049 | 19.0896 | 19.0881 | 19.3580 | 19.1639
030054 | 14.4861 | 15.3338 | 15.0657 | 14.9801
030055 | 18.2751 | 16.3613 | 20.2991 | 18.2684
030059 | 21.7100 | 24.0465 | 22.6279 | 22.7570
030060 | 16.7661 | 19.2461 | 18.6313 | 18.2043
030061 | 17.3470 | 18.9063 | 19.9047 | 18.7238
030062 | 17.4825 | 17.6738 | 18.0603 | 17.7568
030064 | 18.5391 | 19.5673 | 19.9437 | 19.3687
030065 | 19.9277 | 20.5130 | 20.7838 | 20.4254
030067 | 15.6207 | 14.4446 | 17.2778 | 15.7364
030068 | 17.3482 | 17.3614 | 17.7208 | 17.4823
030069 | 19.0013 | 19.0961 | 21.0936 | 19.7255
030080 | 19.9865 | 20.5144 | 20.6581 | 20.3684
030083 | 23.6433 | 23.3355 | 23.5229 | 23.4991
030085 | 17.8402 | 21.0954 | 20.8611 | 19.9420
030086 | 18.5030 | 19.5436 | * | 19.0352
030087 | 20.0469 | 21.4084 | 21.9465 | 21.1838
030088 | 19.5772 | 19.8682 | 20.4978 | 20.0029
030089 | 19.9018 | 20.4019 | 20.9516 | 20.4404
030092 | 21.5628 | 20.6986 | 21.8308 | 21.3646
030093 | 19.4688 | 19.7262 | 20.4314 | 19.9052
030094 | 19.4773 | 21.6218 | 22.8123 | 21.4086
030095 | 14.2499 | 13.7293 | 13.7664 | 13.9087
030099 | 18.0747 | 16.1541 | 18.2263 | 17.4781
030100 | * | * | 23.7609 | 23.7609
030101 | * | * | 19.2547 | 19.2547
030102 | * | * | 18.2413 | 18.2413
040001 | 15.5735 | 15.1624 | 16.9178 | 15.8741
040002 | 14.0865 | 13.0592 | 15.1107 | 14.0333
040003 | 14.0027 | 14.2089 | 15.5740 | 14.5731
040004 | 17.2926 | 17.8476 | 17.9034 | 17.6718
040005 | 12.8825 | 13.2597 | 11.1318 | 12.3937
040007 | 19.5299 | 21.9583 | 18.6998 | 19.9568
040008 | 12.6974 | 15.3040 | 14.7985 | 14.3087
040010 | 17.6231 | 18.6023 | 19.4913 | 18.6031
040011 | 12.2654 | 14.5319 | 16.0995 | 14.1756
040014 | 15.3853 | 17.6340 | 18.1434 | 17.0051
040015 | 14.6045 | 16.5891 | 15.5207 | 15.5649
040016 | 17.5431 | 19.0295 | 20.2321 | 18.9152
040017 | 14.9533 | 13.5098 | 15.4686 | 14.6576
040018 | 17.5602 | 17.6027 | 18.7463 | 17.9749
040019 | 25.7080 | 22.6769 | 23.4163 | 23.8479
040020 | 14.8059 | 16.4827 | 18.9844 | 16.6335
040021 | 16.4628 | 17.6398 | 19.6835 | 17.8176
040022 | 16.0006 | 17.0397 | 14.8398 | 15.8797
040024 | 15.7282 | 14.4541 | 17.6523 | 15.9585
040025 | 10.9496 | 11.5079 | 13.4705 | 11.8847
040026 | 18.2398 | 19.5563 | 19.7924 | 19.1863
040027 | 14.5406 | 16.0975 | 17.4431 | 16.0716
040028 | 12.8409 | 14.6584 | 13.9946 | 13.7921
040029 | 17.7777 | 17.8787 | 21.1370 | 18.9480
040030 | 14.1541 | 13.5428 | 11.2402 | 12.7784
040032 | 13.3280 | 13.7030 | 13.2872 | 13.4471
040035 | 11.2123 | 12.8300 | 10.9569 | 11.6408
040036 | 17.9080 | 18.9757 | 20.0835 | 18.9954
040037 | 13.4815 | 14.6559 | 14.0941 | 14.0704
040039 | 13.8386 | 14.3576 | 14.7177 | 14.3115
040040 | 17.4283 | 18.0895 | 19.1984 | 18.2668
040041 | 13.3613 | 15.9896 | 16.4624 | 15.2103
040042 | 14.6641 | 15.2142 | 15.2057 | 15.0333
040044 | 11.4422 | 12.6275 | 13.3501 | 12.5381
040045 | 18.7724 | 14.9429 | 16.2469 | 16.4870
040047 | 16.3948 | 16.8654 | 17.5336 | 16.9538
040048 | 15.8203 | * | * | 15.8203
040050 | 11.7934 | 13.3818 | 14.0036 | 13.0341
040051 | 16.2803 | 15.8627 | 16.6039 | 16.2390
040053 | 15.8193 | 16.3610 | 15.0219 | 15.7502
040054 | 15.0412 | 15.3219 | 14.2577 | 14.8844
040055 | 16.1029 | 17.1269 | 17.7214 | 16.9813
040058 | 15.6706 | 17.6766 | 16.4278 | 16.6344
040060 | 11.4686 | 12.8148 | 17.9805 | 13.6105
040062 | 17.2757 | 18.2048 | 17.8902 | 17.8204
040064 | 12.4007 | 10.7255 | 11.5029 | 11.4801
040066 | 17.6429 | 18.3377 | 17.8338 | 17.9377
040067 | 13.4930 | 14.6014 | 14.4741 | 14.1956
040069 | 16.1147 | 17.5052 | 17.0026 | 16.8681
040070 | 15.4757 | 16.9027 | 16.9700 | 16.4358
040071 | 16.3022 | 16.9610 | 17.2834 | 16.8497
040072 | 15.8425 | 16.0895 | 17.4822 | 16.4893
040074 | 17.3819 | 18.3224 | 18.7542 | 18.1968
040075 | 12.7496 | 13.3623 | 14.0975 | 13.3977
040076 | 18.5512 | 19.0732 | 20.5840 | 19.3801
040077 | 12.4625 | 12.9211 | 13.9114 | 13.0965
040078 | 17.8573 | 18.7600 | 18.5821 | 18.4100
040080 | 15.7397 | 19.2461 | 19.3707 | 18.0636
040081 | 10.6791 | 11.3169 | 11.1332 | 11.0311
040082 | 16.5127 | 16.2152 | 15.1331 | 15.9302
040084 | 17.2469 | 17.2613 | 17.7295 | 17.4070
040085 | 15.7765 | 16.8957 | 16.5216 | 16.3838
040088 | 15.6710 | 17.9636 | 17.1624 | 16.9372
040090 | 17.5503 | 17.8282 | 19.0824 | 18.0989
040091 | 17.0444 | 19.8700 | 20.1378 | 18.8893
040093 | 12.9010 | 12.3537 | 13.9741 | 13.0114
040100 | 14.9688 | 14.7587 | 15.6833 | 15.1704
040105 | 14.2409 | 15.3319 | 14.3896 | 14.6616
040106 | 15.4000 | 15.6545 | 18.1341 | 16.4515
040107 | 19.6184 | 18.8120 | 17.8628 | 18.6841
040109 | 13.9807 | 14.6266 | 16.6278 | 15.0815
040114 | 18.3133 | 18.8743 | 21.1110 | 19.3778
040116 | 19.5695 | 20.2716 | * | 19.9151
040118 | 17.4300 | 19.3720 | 18.2123 | 18.3407
040119 | 15.3847 | 15.5338 | 16.7730 | 15.9002
040124 | 17.2547 | 19.1349 | 19.2889 | 18.5723
040126 | 11.6845 | 12.5368 | 11.6517 | 11.9404
040132 | 13.1760 | 17.5179 | 10.3875 | 13.4483
040134 | * | 18.0787 | 19.0185 | 18.5701
040135 | * | 22.6761 | 23.0084 | 22.8797
050002 | 27.6006 | 37.8295 | 36.9630 | 33.5586
050006 | 19.5272 | 19.5594 | 18.2061 | 19.0382
050007 | 29.5398 | 30.7126 | 30.8676 | 30.4910
050008 | 25.8570 | 26.2458 | 26.3682 | 26.1654
050009 | 26.2506 | 26.8159 | 28.0701 | 27.0878
050013 | 24.8541 | 23.2201 | 28.0569 | 25.1985
050014 | 24.5302 | 22.8478 | 23.6745 | 23.6450
050015 | 25.3838 | 26.2481 | 27.7731 | 26.4938
050016 | 20.1542 | 20.5566 | 21.2045 | 20.6377
050017 | 23.6639 | 23.9625 | 24.4598 | 24.0349
050018 | 14.6622 | 15.4721 | 15.2903 | 15.1444
050021 | 28.5003 | 25.8966 | * | 27.2682
050022 | 22.9583 | 24.0318 | 24.5254 | 23.8802
050024 | 20.3427 | 21.3989 | 22.4274 | 21.4070
050025 | 21.9952 | 23.3896 | 23.9879 | 23.0936
050026 | 28.6850 | 27.8736 | 27.0130 | 27.8531
050028 | 16.4531 | 16.4671 | 17.6138 | 16.8496
050029 | 23.2911 | 25.1259 | 24.6839 | 24.3441
050030 | 21.0096 | 20.9812 | 21.5621 | 21.1955
050032 | 22.5868 | 25.2010 | 24.3598 | 24.0616
050033 | 24.5609 | 24.9328 | 31.7747 | 27.1293
050036 | 20.4703 | 21.2420 | 20.1678 | 20.6131
050038 | 27.8274 | 28.6528 | 29.9698 | 28.8293
050039 | 22.2524 | 22.7117 | 22.5974 | 22.5195
050040 | 30.6664 | 32.1287 | 30.4110 | 31.0613
050042 | 22.2343 | 24.8067 | 24.5260 | 23.8317
050043 | 33.2286 | 32.9958 | 33.8255 | 33.3456
050045 | 20.7307 | 19.8831 | 21.1474 | 20.5973
050046 | 31.3831 | 25.3185 | 25.2005 | 27.4555
050047 | 29.4412 | 29.9255 | 29.9580 | 29.7840
050051 | 17.8401 | 17.8945 | 18.7809 | 18.1179
050054 | 19.3686 | 20.7212 | 22.0982 | 20.7075
050055 | 29.0872 | 29.3984 | 29.2730 | 29.2593
050056 | 23.8507 | 27.4321 | 23.8058 | 24.9609
050057 | 21.7581 | 21.1554 | 20.7050 | 21.1842
050058 | 25.7261 | 23.1641 | 23.3009 | 23.9601
050060 | 20.9219 | 20.7747 | 20.5450 | 20.7207
050061 | 23.7443 | 23.5454 | 24.5488 | 23.9503
050063 | 23.0724 | 24.8851 | 25.7593 | 24.5061
050065 | 21.1848 | 24.0420 | 24.3835 | 23.0762
050066 | 21.4187 | 16.5725 | 16.1649 | 17.6784
050067 | 21.3029 | 23.1966 | 25.8857 | 23.3989
050068 | 28.4804 | 20.6851 | 19.3615 | 22.4409
050069 | 29.2980 | 25.9420 | 24.6153 | 26.4351
050070 | 32.5964 | 32.5166 | 33.0195 | 32.7172
050071 | 33.1379 | 33.1850 | 33.3740 | 33.2367
050072 | 32.9660 | 33.2858 | 38.5136 | 34.8941
050073 | 34.6111 | 33.3922 | 31.4874 | 33.0669
050075 | 33.5246 | 33.9095 | 32.6142 | 33.3899
050076 | 33.8835 | 27.7797 | 32.7847 | 31.3195
050077 | 23.2986 | 24.1019 | 24.2083 | 23.8775
050078 | 22.8023 | 23.0736 | 24.3150 | 23.3638
050079 | 34.4253 | 33.2432 | 30.0167 | 32.3461
050082 | 21.7004 | 22.1009 | 23.7617 | 22.5498
050084 | 23.0966 | 23.5866 | 25.4517 | 24.0054
050088 | 24.0634 | 20.8406 | 24.9641 | 23.1779
050089 | 20.0194 | 20.9117 | 21.9331 | 20.9434
050090 | 23.8969 | 23.4097 | 23.9183 | 23.7390
050091 | 22.2220 | 25.2792 | 23.7713 | 23.6457
050092 | 15.3841 | 16.7969 | 17.1211 | 16.4241
050093 | 24.0837 | 25.2130 | 25.6647 | 24.9860
050095 | 33.3761 | 33.6718 | 32.5552 | 33.2492
050096 | 21.6752 | 20.0487 | 22.7394 | 21.3870
050097 | 22.6147 | 16.7054 | 22.5991 | 20.1968
050099 | 24.2921 | 24.8091 | 23.5693 | 24.1958
050100 | 30.0552 | 29.8758 | 25.0335 | 28.0584
050101 | 30.0132 | 31.0264 | 31.8957 | 30.9871
050102 | 21.2947 | 22.2937 | 24.0014 | 22.4745
050103 | 25.3384 | 24.7932 | 25.4133 | 25.1832
050104 | 25.4407 | 25.5797 | 26.8367 | 25.9399
050107 | 21.7649 | 21.2690 | 22.2019 | 21.7497
050108 | 25.2116 | 23.5564 | 25.1307 | 24.5504
050109 | 26.4768 | * | * | 26.4768
050110 | 20.1769 | 20.1870 | 19.9589 | 20.1175
050111 | 21.7397 | 21.5487 | 20.7897 | 21.3840
050112 | 26.2922 | 25.3015 | 26.8182 | 26.1335
050113 | 27.7805 | 28.8420 | 28.5224 | 28.4025
050114 | 25.9073 | 24.7286 | 26.6757 | 25.7599
050115 | 21.0499 | 21.3291 | 23.0182 | 21.8124
050116 | 25.5919 | 25.2130 | 24.9196 | 25.2412
050117 | 20.4379 | 23.3612 | 22.2123 | 21.9903
050118 | 23.9976 | 23.7698 | 23.7129 | 23.8243
050121 | 18.8818 | 19.5252 | 18.4827 | 18.9563
050122 | * | 26.3172 | 26.9546 | 26.6358
050124 | 23.0193 | 22.7736 | 24.5069 | 23.3667
050125 | 24.0434 | 29.6147 | 32.0230 | 28.3742
050126 | 23.8424 | 23.9247 | 24.6752 | 24.1448
050127 | 19.7654 | 22.1937 | 20.9157 | 20.9577
050128 | 24.1801 | 25.7240 | 26.6132 | 25.5185
050129 | 27.1586 | 26.5030 | 23.0719 | 25.3795
050131 | 29.0570 | 31.0732 | 32.5462 | 30.8106
050132 | 22.9139 | 24.0834 | 24.0173 | 23.6527
050133 | 24.4011 | 24.9746 | 23.2093 | 24.1354
050135 | 27.0341 | 23.2361 | 24.7157 | 24.9796
050136 | 24.4336 | 24.7921 | 24.4162 | 24.5396
050137 | 30.0725 | 32.6507 | 31.5620 | 31.4326
050138 | 37.4088 | 37.3286 | 40.3920 | 38.3945
050139 | 31.3785 | 32.9351 | 30.3774 | 31.5037
050140 | 33.6644 | 34.1499 | 31.6524 | 33.0748
050144 | 25.7483 | 27.8751 | 27.4069 | 26.9409
050145 | 33.0620 | 32.3857 | 34.5185 | 33.3152
050148 | 21.0584 | 21.9211 | 20.0971 | 20.9748
050149 | 23.3754 | 24.6078 | 26.8674 | 24.8666
050150 | 23.4777 | 24.9073 | 24.6596 | 24.3771
050152 | 27.7504 | 34.0766 | 33.3305 | 31.5833
050153 | 29.5915 | 30.5714 | 32.3389 | 30.8441
050155 | 22.9420 | 21.0257 | 25.3354 | 22.9852
050158 | 27.9789 | 27.5623 | 28.6071 | 28.0313
050159 | 25.2105 | 23.2912 | 22.5313 | 23.6099
050167 | 21.6778 | 21.9128 | 21.8796 | 21.8226
050168 | 25.2504 | 23.3511 | 25.1937 | 24.5830
050169 | 24.6361 | 22.3888 | 24.8407 | 23.8796
050170 | 22.1989 | 23.9574 | 24.3654 | 23.4164
050172 | 17.6976 | 20.1841 | 19.6120 | 19.1630
050173 | 23.3255 | 24.5545 | 24.8694 | 24.1923
050174 | 31.2136 | 30.2140 | 30.1320 | 30.4943
050175 | 27.7875 | 27.2806 | 24.7548 | 26.2477
050177 | 20.2485 | 21.7943 | 21.1396 | 21.0728
050179 | 19.2861 | 21.7175 | 23.8868 | 21.4573
050180 | 32.1883 | 31.8947 | 33.3257 | 32.5107
050183 | 19.9765 | 20.3638 | * | 20.1665
050186 | 21.9062 | 22.4155 | 23.6288 | 22.6119
050188 | 27.4364 | 28.0918 | 28.2364 | 27.9460
050189 | 23.2415 | 22.8687 | 27.4071 | 24.6245
050191 | 26.7297 | 20.8321 | 25.2399 | 24.1511
050192 | 17.8095 | 18.6701 | 14.0828 | 16.5416
050193 | 23.7260 | 22.6316 | 24.9444 | 23.7567
050194 | 28.2701 | 29.7371 | 29.3310 | 29.0932
050195 | 34.7789 | 35.5621 | 36.9068 | 35.7823
050196 | 16.6866 | 18.5180 | 18.2411 | 17.8430
050197 | 31.4513 | 35.7449 | 32.0779 | 32.9661
050204 | 24.3944 | 23.6105 | 22.7099 | 23.5849
050205 | 21.1545 | 23.6831 | 24.1691 | 23.0778
050207 | 20.8576 | 21.6214 | 22.9941 | 21.8243
050211 | 31.2175 | 31.6084 | 31.7280 | 31.5153
050213 | 20.7338 | 21.4806 | 21.4438 | 21.1694
050214 | 20.8704 | 21.7335 | 24.0276 | 22.1888
050215 | 28.4058 | 29.8563 | 32.4402 | 30.1364
050217 | 19.8913 | 19.6010 | 20.2042 | 19.9076
050219 | 25.4730 | 21.7444 | 21.2458 | 22.6404
050222 | 27.0713 | 27.4809 | 26.9958 | 27.1794
050224 | 23.7942 | 23.5316 | 23.5101 | 23.6043
050225 | 20.7978 | 23.3480 | 21.6206 | 21.8948
050226 | 26.9297 | 27.7315 | 24.4443 | 26.2380
050228 | 30.3772 | 34.0711 | 34.2596 | 32.7722
050230 | 25.3640 | 27.7357 | 26.6291 | 26.5638
050231 | 25.5798 | 26.1508 | 26.7319 | 26.1758
050232 | 23.3849 | 24.3072 | 24.5245 | 24.0793
050233 | 31.3954 | * | * | 31.3954
050234 | * | * | 28.5188 | 25.7035
050235 | 25.8595 | 25.2527 | 27.0922 | 26.0726
050236 | 26.2723 | 26.9803 | 25.9458 | 26.4027
050238 | 24.0043 | 24.2922 | 24.5823 | 24.2994
050239 | 20.4071 | 22.6625 | 21.9889 | 21.6674
050240 | 25.2540 | 26.3657 | 26.7736 | 26.0561
050241 | 27.2198 | 26.3740 | 29.8345 | 27.7426
050242 | 30.1432 | 31.1576 | 31.9079 | 31.0590
050243 | 22.9123 | 28.9635 | 26.4627 | 26.1049
050245 | 24.3969 | 23.8124 | 23.2716 | 23.7873
050248 | 27.4214 | 26.2015 | 27.6457 | 27.0910
050251 | 18.4990 | 21.6574 | 23.6360 | 21.1907
050253 | 20.0658 | 16.0701 | 16.7540 | 17.4281
050254 | 19.6899 | 19.3126 | 20.1176 | 19.7146
050256 | 23.5302 | 23.6887 | 23.4835 | 23.5723
050257 | 19.5923 | 15.2306 | 15.0481 | 16.3402
050260 | 23.5201 | 23.2421 | 27.4234 | 24.5032
050261 | 20.4496 | 20.0552 | 20.1040 | 20.2029
050262 | 29.0054 | 28.8785 | 29.5550 | 29.1532
050264 | 29.4542 | 32.1312 | 36.0219 | 32.4654
050267 | 24.7464 | 26.2264 | 26.0401 | 25.6690
050270 | 23.7260 | 24.0439 | 25.3757 | 24.3521
050272 | 21.4374 | 22.4247 | 23.1111 | 22.3118
050274 | 21.1943 | 20.0422 | * | 20.6204
050276 | 28.5051 | 29.8624 | 33.3302 | 30.5715
050277 | 22.3125 | 20.0520 | 26.0822 | 22.5131
050278 | 23.8434 | 24.7787 | 23.9289 | 24.1853
050279 | 21.0570 | 20.8444 | 21.8949 | 21.2309
050280 | 24.4267 | 25.2149 | 25.4011 | 25.0356
050281 | 18.5907 | 19.6888 | 24.2251 | 20.7934
050282 | 24.4593 | 28.8261 | 25.4428 | 26.2214
050283 | 27.8763 | 29.7734 | 31.7669 | 30.1598
050286 | 17.8045 | 16.5708 | 18.5915 | 17.4822
050289 | 26.7185 | 34.1393 | 30.4750 | 30.2632
050290 | 26.3745 | 28.6231 | 29.6796 | 28.2631
050291 | 26.4908 | 30.2748 | 28.3483 | 28.3026
050292 | 22.4878 | 21.6243 | 20.8410 | 21.6183
050293 | 19.1761 | 22.2963 | 24.1875 | 21.4642
050295 | 20.7393 | 21.2892 | 21.5335 | 21.1814
050296 | 25.3166 | 27.2948 | 28.3906 | 27.0098
050298 | 20.5181 | 24.4477 | 23.2006 | 22.6781
050299 | 25.7697 | 26.4543 | 25.5035 | 25.9187
050300 | 22.7423 | 23.5116 | 25.9228 | 24.1102
050301 | 26.0355 | 22.5201 | 21.1403 | 23.0323
050302 | 29.2007 | * | * | 29.2007
050305 | 32.7082 | 34.5185 | 36.7908 | 34.7340
050307 | 27.9830 | 17.2147 | * | 21.7503
050308 | 28.4019 | 29.3803 | 28.9284 | 28.9113
050309 | 24.4034 | 23.7884 | 25.3515 | 24.5133
050310 | 20.6181 | * | * | 20.6181
050312 | 23.7936 | 26.7617 | 26.0015 | 25.5439
050313 | 23.1009 | 21.7577 | 25.6827 | 23.5594
050315 | 21.9227 | 24.7086 | 22.7359 | 23.0264
050317 | 19.4479 | 21.6937 | * | 20.5789
050320 | 30.6054 | 30.4101 | 32.4809 | 31.1252
050324 | 26.2735 | 26.6049 | 25.3694 | 26.0738
050325 | 23.2355 | 24.4862 | 23.6327 | 23.7872
050327 | 22.8511 | 23.9484 | 25.6450 | 24.1469
050328 | 23.1889 | * | * | 23.1889
050329 | 21.4125 | 19.7455 | 15.1669 | 18.2146
050331 | 25.5252 | 22.2536 | 25.0230 | 24.1261
050333 | 20.1468 | 19.4589 | 19.1449 | 19.5671
050334 | 32.0169 | 34.2330 | 34.2557 | 33.5307
050335 | 20.2013 | 23.0258 | 22.9926 | 22.0827
050336 | 20.0980 | 20.7979 | 21.3402 | 20.7523
050342 | 19.3524 | 20.1841 | 20.8255 | 20.1210
050343 | 17.3394 | 17.2085 | * | 17.2799
050348 | 20.7505 | 23.8779 | 25.1085 | 23.3219
050349 | 15.0515 | 14.9754 | 15.0667 | 15.0310
050350 | 25.0676 | 24.8340 | 26.4161 | 25.4163
050351 | 24.6936 | 25.4791 | 24.8121 | 24.9948
050352 | 23.5927 | 26.1380 | 26.0974 | 25.3078
050353 | 23.2468 | 23.0564 | 23.2699 | 23.1944
050355 | 17.1597 | 17.2778 | 21.0969 | 18.0157
050357 | 23.6411 | 22.6545 | 24.5345 | 23.6386
050359 | 20.4005 | 17.7907 | 21.7548 | 19.8316
050360 | 31.7608 | 31.3526 | 31.7583 | 31.6236
050366 | 21.3442 | 23.7528 | 19.6823 | 21.4770
050367 | 29.4763 | 28.2805 | 30.7328 | 29.5063
050369 | 24.2604 | 27.0548 | 26.2234 | 25.8174
050373 | 26.6548 | 26.9776 | 28.0655 | 27.2088
050376 | 25.3036 | 26.5840 | 28.5679 | 26.7332
050377 | 25.6401 | 17.1764 | 17.0012 | 20.1035
050378 | 22.2363 | 25.9810 | 26.9101 | 24.8709
050379 | 15.4994 | 15.2022 | 17.8958 | 16.1098
050380 | 30.5790 | 31.4343 | 31.9578 | 31.3600
050382 | 26.1465 | 26.1398 | 25.9244 | 26.0725
050385 | 25.9188 | 24.6083 | 20.1687 | 23.1378
050388 | 13.7863 | 19.1512 | 22.0122 | 17.5709
050390 | 22.5668 | 25.0426 | 24.2700 | 23.9349
050391 | 22.4881 | 18.9266 | 20.0615 | 20.3952
050392 | 21.9324 | 21.6729 | 22.9430 | 22.1487
050393 | 23.1387 | 25.6964 | 24.1981 | 24.3082
050394 | 22.2424 | 23.0604 | 23.1526 | 22.8333
050396 | 23.6322 | 24.0636 | 25.3729 | 24.3512
050397 | 20.7698 | 20.2601 | 20.6397 | 20.5453
050401 | 17.7807 | 20.7473 | 18.4593 | 18.9557
050404 | 19.2754 | 17.3396 | 15.9839 | 17.4356
050406 | 16.8931 | 17.3016 | 17.8596 | 17.3407
050407 | 30.1222 | 29.9642 | 30.8346 | 30.2996
050410 | 16.4735 | 17.6769 | 19.8508 | 17.8663
050411 | 32.2364 | 34.8899 | 32.2157 | 33.0639
050414 | 24.4243 | 24.2060 | 23.9069 | 24.1441
050417 | 21.8884 | 21.5739 | 23.3005 | 22.2456
050419 | 23.1162 | 23.7584 | 23.4936 | 23.4646
050420 | 22.6819 | 22.3166 | 23.1651 | 22.7188
050423 | 23.3296 | 17.3771 | 21.3552 | 20.6272
050424 | 23.7788 | 22.8350 | 24.0727 | 23.5641
050425 | 33.6911 | 32.8364 | 33.8624 | 33.4842
050426 | 23.7082 | 25.2453 | 29.2475 | 25.9886
050427 | 20.0698 | 20.1674 | 16.4330 | 18.6499
050430 | 21.3428 | 23.8788 | 21.2275 | 22.2136
050432 | 21.4984 | 24.4133 | 24.5630 | 23.4427
050433 | 16.8035 | 17.4643 | 18.9021 | 17.7004
050434 | 15.6348 | 19.7591 | * | 17.6624
050435 | 32.9865 | 25.6676 | 23.3426 | 26.8858
050436 | 16.3594 | 14.8121 | * | 15.5729
050438 | 24.0828 | 25.0138 | 22.5006 | 23.8790
050440 | 21.1100 | 23.5167 | 22.6946 | 22.4056
050441 | 28.7067 | 28.9804 | 31.8774 | 29.8169
050443 | 16.4308 | 19.9020 | 17.2875 | 17.7906
050444 | 24.6741 | 21.4533 | 22.4530 | 22.8550
050446 | 20.5383 | 20.4908 | 22.3422 | 21.1378
050447 | 18.4183 | 17.9751 | 18.9851 | 18.4558
050448 | 20.0757 | 19.7046 | 21.7718 | 20.5035
050449 | 22.1784 | 23.8001 | 23.4614 | 23.1469
050454 | 28.6857 | 28.7432 | 30.9487 | 29.5840
050455 | 19.9209 | 20.1643 | 20.2611 | 20.1204
050456 | 17.6229 | 20.1254 | 18.1585 | 18.5890
050457 | 31.2489 | 34.4949 | 32.1910 | 32.6376
050459 | 37.0914 | * | * | 37.0914
050464 | 22.3142 | 25.3292 | 25.7710 | 24.4665
050468 | 23.1701 | 23.3050 | 22.2926 | 22.8998
050469 | 23.4404 | 23.8759 | 24.5205 | 23.8915
050470 | 17.0353 | 16.0292 | 15.7832 | 16.2133
050471 | 24.2887 | 25.6172 | 26.2221 | 25.3560
050476 | 23.1428 | 22.4754 | 24.0253 | 23.2552
050477 | 27.7855 | 27.9595 | 27.5819 | 27.7866
050478 | 23.0530 | 24.5401 | 26.3306 | 24.6133
050481 | 26.8293 | 28.9722 | 27.7973 | 27.8692
050482 | 16.9268 | 18.1217 | 16.0114 | 17.0134
050483 | 21.6038 | 22.7182 | * | 22.1632
050485 | 23.1933 | 24.1983 | 24.6906 | 24.0174
050486 | 24.4967 | * | * | 24.4967
050488 | 32.8620 | 34.6939 | 31.7481 | 33.0979
050491 | 25.1011 | 26.8703 | 27.4600 | 26.4606
050492 | 21.4156 | 19.5457 | 20.5030 | 20.4277
050494 | 25.4078 | 29.2621 | 29.1296 | 27.9125
050496 | 33.0168 | 32.5168 | 34.9704 | 33.4862
050497 | * | 13.8110 | 15.4115 | 14.5264
050498 | 24.8445 | 24.9677 | 26.1716 | 25.3085
050502 | 22.6253 | 22.3788 | 24.3517 | 23.0821
050503 | 23.5911 | 24.4069 | 23.3745 | 23.7879
050506 | 21.2165 | 25.0845 | 25.0333 | 23.8164
050510 | 33.4617 | 33.3774 | 32.6940 | 33.1728
050512 | 34.3138 | 35.3581 | 33.4465 | 34.3098
050515 | 35.0412 | 35.3419 | 32.6021 | 34.2147
050516 | 25.1850 | 24.7992 | 26.1969 | 25.4171
050517 | 20.3733 | 20.9550 | 22.0985 | 21.1081
050522 | 31.7326 | 35.3784 | 35.2780 | 33.9529
050523 | 28.4235 | 27.0544 | 31.2522 | 28.8864
050526 | 26.9206 | 23.8099 | 26.4014 | 25.6096
050528 | 18.6898 | 19.0611 | 18.9155 | 18.8867
050531 | 20.7332 | 22.7308 | 21.3948 | 21.6689
050534 | 23.3026 | 24.0700 | 24.0001 | 23.7954
050535 | 24.2257 | 25.4215 | 26.8511 | 25.4120
050537 | 22.2073 | 22.2256 | 23.8790 | 22.8084
050539 | 23.2501 | 20.7129 | 21.2318 | 21.6610
050541 | 34.6195 | 34.4573 | 35.5912 | 34.9089
050542 | 17.8537 | 16.0892 | 17.7737 | 17.2018
050543 | 23.0437 | 22.3994 | 21.6795 | 22.3610
050545 | 27.5713 | 26.3304 | 31.7280 | 27.9472
050546 | 27.7557 | 26.1949 | 38.8087 | 28.7303
050547 | 27.0845 | 26.8305 | 37.7681 | 28.7499
050548 | 26.5922 | 28.8083 | 29.8516 | 28.2370
050549 | 27.9098 | 27.2765 | 28.5457 | 27.9239
050550 | 25.7546 | 24.8048 | 25.6588 | 25.4034
050551 | 24.0488 | 25.4652 | 24.8084 | 24.7966
050552 | 22.8731 | 21.5216 | 20.3239 | 21.6775
050557 | 22.1385 | 21.1243 | 22.2562 | 21.8314
050559 | 24.6689 | 23.5759 | 24.7866 | 24.3485
050561 | 33.9268 | 34.5791 | 32.3907 | 33.5772
050564 | 24.5099 | 23.5922 | 24.2091 | 24.0891
050565 | 22.8785 | 23.7829 | 20.8349 | 22.3644
050566 | 18.3297 | 17.4423 | 22.3448 | 19.2949
050567 | 24.2349 | 24.6454 | 25.0787 | 24.6746
050568 | 20.5205 | 19.5816 | 20.5376 | 20.2025
050569 | 24.9453 | 26.5479 | 27.3429 | 26.2484
050570 | 24.4961 | 25.2294 | 26.1015 | 25.2629
050571 | 24.3741 | 26.2039 | 23.6702 | 24.7124
050573 | 25.1398 | 24.9644 | 25.6589 | 25.2612
050575 | * | 19.5611 | 20.7090 | 20.0979
050577 | 20.5177 | 25.1549 | 23.5487 | 22.9797
050578 | 28.9073 | 28.5379 | 28.3177 | 28.5843
050579 | 30.0694 | 30.4952 | 29.9348 | 30.1803
050580 | 23.9183 | 25.9004 | 24.6962 | 24.8350
050581 | 23.5660 | 23.8584 | 24.1233 | 23.8604
050583 | 23.3609 | 24.3987 | 25.8800 | 24.5448
050584 | 23.1610 | 21.2366 | 19.5805 | 21.2667
050585 | 26.4985 | 25.9426 | 24.2824 | 25.5872
050586 | 23.8402 | 23.4079 | 23.1850 | 23.4570
050588 | 30.3873 | 25.3094 | 24.5472 | 26.4705
050589 | 24.3453 | 24.8698 | 23.8109 | 24.3084
050590 | * | 22.4480 | 23.9599 | 23.1967
050591 | 22.3224 | 23.9412 | 24.8356 | 23.6641
050592 | 26.0528 | 21.1745 | 22.1174 | 23.0414
050594 | 22.7826 | 27.1584 | 27.7002 | 25.6455
050597 | 23.1789 | 22.8523 | 23.3280 | 23.1176
050598 | 28.1062 | 24.3597 | 23.9202 | 25.2869
050599 | 26.3191 | 29.1221 | 26.0892 | 27.1846
050601 | 32.8704 | 31.8670 | 29.7417 | 31.4201
050603 | 22.7500 | 23.3390 | 21.7031 | 22.5608
050604 | 33.3239 | 34.0461 | 34.3923 | 33.9347
050607 | 24.1052 | * | * | 24.1052
050608 | 16.1529 | 18.0947 | 17.6170 | 17.2527
050609 | 31.9340 | 34.9935 | 32.3640 | 33.0668
050613 | 23.4779 | 23.3835 | 30.2413 | 25.4419
050615 | 23.7015 | 23.8815 | 27.5682 | 24.9089
050616 | 22.7960 | 22.7437 | 24.9843 | 23.5101
050618 | 21.7032 | 21.6509 | 21.4895 | 21.6219
050623 | 30.3208 | 29.1806 | 33.3458 | 30.6877
050624 | 22.3419 | 22.7148 | 26.4659 | 23.7251
050625 | 24.3503 | 26.4849 | 27.5816 | 26.1377
050630 | 24.0961 | 23.9159 | 23.9834 | 23.9961
050633 | 21.9790 | 23.1918 | 25.4283 | 23.5401
050635 | 37.8481 | * | * | 37.8481
050636 | 20.8349 | 21.2618 | 23.5257 | 21.8335
050638 | 23.6341 | 18.2859 | 18.2159 | 19.5807
050641 | 21.3605 | 21.8315 | 17.1258 | 19.7042
050644 | 23.1229 | 22.3456 | 22.1489 | 22.5048
050661 | 20.4769 | 19.6780 | * | 20.1699
050662 | 28.2910 | 26.9606 | 35.0989 | 28.9225
050663 | 23.7097 | 30.6591 | 24.9110 | 25.8492
050667 | 24.1064 | 24.9979 | 27.5045 | 25.1663
050668 | 39.9001 | 42.0974 | 61.7751 | 44.9671
050670 | 21.8750 | 20.0152 | 24.6101 | 21.9523
050674 | 36.2361 | 34.7380 | 31.4935 | 33.9505
050675 | 15.8423 | 15.6794 | * | 15.7602
050676 | 17.5302 | 18.6672 | 52.8683 | 22.3243
050677 | 33.7056 | 35.6503 | 32.6045 | 33.9333
050678 | 22.6591 | 26.8741 | 22.7756 | 23.9129
050680 | 27.3188 | 28.0584 | 31.4839 | 28.9200
050682 | 17.9715 | 26.2882 | 17.3566 | 19.6443
050684 | 21.8067 | 22.3398 | 23.3697 | 22.4849
050685 | 32.1330 | 31.1725 | 35.1307 | 32.7762
050686 | 33.2515 | 35.2631 | 32.3401 | 33.5425
050688 | 29.9990 | 30.6635 | 31.0648 | 30.5922
050689 | 34.1851 | 30.7295 | 30.9399 | 31.8127
050690 | 33.8277 | 32.8204 | 33.7648 | 33.4827
050693 | 33.2977 | 26.8265 | 25.5662 | 28.3155
050694 | 22.5719 | 23.2293 | 23.5572 | 23.1120
050695 | 23.5215 | 21.1377 | 24.3451 | 23.0440
050696 | 26.4103 | 28.0015 | 28.3291 | 27.6235
050697 | 21.4716 | 21.1566 | 18.2338 | 20.1433
050699 | 28.4754 | 25.7843 | 17.5296 | 23.1610
050700 | 28.4522 | * | * | 28.4522
050701 | 27.6190 | 22.6959 | 24.3055 | 24.7548
050702 | 12.2518 | * | * | 12.2518
050704 | 20.7568 | 22.8716 | 22.7618 | 22.3025
050707 | 27.5065 | 26.2732 | 27.8958 | 27.2979
050708 | 21.9149 | 22.7821 | 24.8647 | 23.2324
050709 | 19.4255 | 21.9598 | 19.4977 | 20.2535
050710 | 26.8095 | 26.9060 | 26.7221 | 26.8057
050713 | 15.3027 | 17.7259 | 16.8538 | 16.6077
050714 | * | 28.9314 | 30.1925 | 29.4900
050715 | 19.1151 | * | * | 19.1151
050717 | * | 25.9534 | 29.6608 | 27.7154
050718 | * | 17.6062 | 18.0940 | 17.8064
050719 | * | 25.5508 | 23.0833 | 23.8495
050720 | * | * | 25.8677 | 25.8677
060001 | 20.5908 | 21.3659 | 21.1819 | 21.0411
060003 | 19.3243 | 19.8023 | 20.4682 | 19.8685
060004 | 21.7899 | 22.8750 | 21.4496 | 22.0469
060006 | 17.8613 | 19.3651 | 20.0213 | 19.0568
060007 | 16.3833 | 17.4682 | 18.2977 | 17.3945
060008 | 17.0944 | 18.0333 | 18.4590 | 17.8646
060009 | 21.1795 | 21.4312 | 22.6084 | 21.7644
060010 | 22.7241 | 24.0872 | 23.6827 | 23.5135
060011 | 21.9727 | 23.4366 | 22.6254 | 22.6752
060012 | 19.7746 | 20.1442 | 19.4932 | 19.7974
060013 | 19.1369 | 22.7346 | 18.4230 | 20.1121
060014 | 20.5353 | 24.2459 | 23.8228 | 22.8253
060015 | 23.5675 | 20.9773 | 23.0206 | 22.5102
060016 | 15.9627 | 16.4707 | 20.2408 | 17.3661
060018 | 21.8607 | 20.3183 | 21.5083 | 21.2146
060020 | 17.7250 | 18.3099 | 18.8985 | 18.3187
060022 | 19.6488 | 21.0558 | 21.0830 | 20.6200
060023 | 19.6534 | 19.2373 | 21.2785 | 20.0409
060024 | 22.8347 | 21.9955 | 22.5663 | 22.4704
060027 | 21.6731 | 20.9846 | 21.7448 | 21.4691
060028 | 22.2461 | 23.2065 | 23.1792 | 22.8860
060029 | 21.4111 | 20.8585 | 18.2938 | 20.0752
060030 | 20.0345 | 20.5002 | 20.3452 | 20.2923
060031 | 19.3998 | 21.1649 | 22.0161 | 20.8402
060032 | 22.3702 | 23.4162 | 21.7060 | 22.5248
060033 | 13.8165 | 15.9085 | 16.0760 | 15.2591
060034 | 21.4110 | 22.4791 | 22.1375 | 22.0321
060036 | 19.2386 | 15.0698 | 18.5988 | 17.4095
060037 | 14.0458 | 15.5611 | 15.4513 | 15.0213
060038 | 14.3084 | 14.0791 | 14.3249 | 14.2429
060041 | 14.8299 | 14.8934 | 19.1263 | 15.9980
060042 | 20.0815 | 19.1892 | 20.8597 | 19.9134
060043 | 13.0544 | 13.6717 | 13.4443 | 13.3963
060044 | 22.5286 | 19.7039 | 20.8673 | 21.1240
060046 | 20.4359 | 19.4567 | 22.2699 | 20.7384
060047 | 15.1181 | 15.8770 | 17.1534 | 15.9786
060049 | 20.6427 | 21.7797 | 25.5038 | 22.5344
060050 | 16.8012 | 18.2238 | 19.0832 | 18.0606
060052 | 12.5517 | 13.4210 | 14.6309 | 13.5896
060053 | 14.9399 | 15.9806 | 18.0232 | 16.2596
060054 | 19.3943 | 22.8985 | 20.4160 | 20.8278
060056 | 17.0509 | 18.2831 | 18.1263 | 17.9597
060057 | 23.3804 | 26.4046 | 25.4185 | 25.1123
060058 | 16.9064 | 15.4856 | 13.8539 | 15.6088
060060 | 14.8894 | 15.6469 | 15.6018 | 15.4330
060062 | 14.9354 | 17.2991 | 16.8640 | 16.3901
060063 | 15.0896 | * | * | 15.0896
060064 | 20.9349 | 21.2207 | 22.6830 | 21.6302
060065 | 24.3032 | 21.6305 | 23.7162 | 23.1229
060066 | 14.0672 | 16.3485 | 17.2537 | 15.7129
060068 | 19.6355 | * | * | 19.6355
060070 | 16.5821 | 17.3184 | 18.8960 | 17.6173
060071 | 16.9545 | 17.5987 | 17.4068 | 17.3254
060073 | 15.8385 | 15.7860 | 17.0846 | 16.2338
060075 | 22.8498 | 24.1550 | 23.8724 | 23.6295
060076 | 19.2861 | 24.8732 | 20.3265 | 21.3796
060085 | 13.4761 | 13.6277 | 14.3409 | 13.7955
060087 | 21.0277 | * | * | 21.0277
060088 | 16.6753 | 25.2786 | 13.7174 | 17.2655
060090 | 14.5096 | 22.2974 | 16.3760 | 17.6196
060096 | 23.1232 | 21.9623 | 20.8937 | 21.9261
060100 | 21.9983 | 23.5986 | 22.9395 | 23.0367
060103 | 22.3414 | 24.8151 | 23.5320 | 23.5039
060104 | 22.3008 | 22.2295 | 21.0656 | 21.8025
060107 | 13.6449 | 14.2698 | 21.9221 | 15.1674
070001 | 26.5150 | 26.0878 | 26.1878 | 26.2690
070002 | 25.4570 | 26.2801 | 26.2089 | 25.9775
070003 | 26.0894 | 25.6949 | 27.3062 | 26.3527
070004 | 23.2664 | 22.4871 | 24.2567 | 23.3158
070005 | 25.5739 | 26.6483 | 26.7916 | 26.3250
070006 | 28.7139 | 27.5674 | 28.4368 | 28.2423
070007 | 27.1867 | 26.9505 | 26.0179 | 26.7076
070008 | 26.0269 | 23.0227 | 24.2971 | 24.3585
070009 | 23.4686 | 24.6201 | 24.1871 | 24.0886
070010 | 25.9375 | 26.2354 | 28.0116 | 26.6816
070011 | 23.9603 | 23.3638 | 23.0883 | 23.4486
070012 | 25.1022 | 23.0321 | 28.8067 | 25.3536
070015 | 25.3317 | 23.8240 | 25.4250 | 24.8350
070016 | 26.3005 | 24.9148 | 24.4633 | 25.2035
070017 | 24.8038 | 26.2923 | 26.0424 | 25.7039
070018 | 28.8776 | 28.0689 | 30.6864 | 29.1923
070019 | 24.7025 | 25.7283 | 24.9249 | 25.1145
070020 | 23.7227 | 23.9987 | 25.0719 | 24.2498
070021 | 26.5173 | 25.2978 | 27.1879 | 26.2849
070022 | 25.0845 | 26.5691 | 26.5225 | 26.0295
070024 | 25.1491 | 25.2983 | 24.8948 | 25.1081
070025 | 25.4055 | 25.1315 | 25.0631 | 25.2037
070026 | 18.7892 | * | * | 18.7892
070027 | 23.6381 | 23.6412 | 26.8450 | 24.6648
070028 | 24.6913 | 24.6788 | 25.6145 | 24.9846
070029 | 22.7507 | 22.0080 | 23.9682 | 22.8885
070030 | 24.9676 | 28.9117 | 22.1578 | 25.5338
070031 | 21.6565 | 23.4419 | 24.1198 | 23.0342
070033 | 28.8099 | 30.4214 | 31.4671 | 30.2045
070034 | 29.1220 | 28.9200 | 29.1514 | 29.0628
070035 | 23.0574 | 23.0869 | 23.7003 | 23.2881
070036 | 28.9463 | 28.8400 | 29.9470 | 29.2263
070039 | 21.7791 | 22.9032 | 22.3356 | 22.3067
080001 | 25.2849 | 25.4836 | 24.2845 | 25.0307
080002 | 15.5984 | 19.6011 | 20.1965 | 18.4286
080003 | 22.3957 | 22.1856 | 22.6814 | 22.4058
080004 | 19.7725 | 21.9391 | 23.0537 | 21.6106
080005 | 14.4289 | * | * | 14.4289
080006 | 22.2632 | 20.0792 | 21.1059 | 21.1131
080007 | 20.3833 | 19.6213 | 21.2441 | 20.4479
090001 | 25.8921 | 21.7526 | 19.4884 | 22.5234
090002 | 19.6997 | 19.4191 | 21.5726 | 20.1912
090003 | 28.6092 | 22.1090 | 23.1268 | 24.5792
090004 | 24.4267 | 24.3367 | 25.4836 | 24.6979
090005 | 24.8766 | 23.8620 | 26.1199 | 24.9264
090006 | 20.0816 | 20.8675 | 22.0789 | 21.0107
090007 | 21.6551 | 22.1973 | 29.2840 | 24.7855
090008 | 21.5972 | 20.2166 | 25.2708 | 22.3042
090010 | 15.8676 | 24.1287 | 23.6616 | 20.2595
090011 | 27.3741 | 27.4781 | 25.5395 | 26.7683
100001 | 17.6948 | 19.5796 | 19.4948 | 18.9110
100002 | 21.3243 | 20.7136 | 20.8100 | 20.9384
100004 | 15.2465 | 14.6283 | 15.4149 | 15.0845
100006 | 20.6302 | 20.1133 | 21.0230 | 20.6052
100007 | 21.7217 | 21.7242 | 21.8476 | 21.7676
100008 | 20.7232 | 20.4980 | 20.8381 | 20.6876
100009 | 24.2947 | 22.6419 | 20.1263 | 22.1819
100010 | 21.9101 | 21.9078 | 23.0637 | 22.2904
100012 | 18.5169 | 19.6177 | 20.4659 | 19.5030
100014 | 19.8352 | 19.8023 | 19.5770 | 19.7276
100015 | 18.2394 | 18.4779 | 18.0654 | 18.2696
100017 | 17.7739 | 19.0608 | 19.8655 | 18.9086
100018 | 20.8392 | 21.0332 | 21.0971 | 20.9923
100019 | 19.8134 | 22.6152 | 22.9645 | 21.7772
100020 | 26.1783 | 21.3848 | 20.7816 | 22.5004
100022 | 25.8853 | 26.4094 | 26.5695 | 26.2778
100023 | 21.1068 | 19.9739 | 19.1787 | 20.0604
100024 | 20.7760 | 21.8791 | 22.1332 | 21.6047
100025 | 19.1219 | 18.7774 | 19.4159 | 19.1009
100026 | 20.7591 | 20.5641 | 20.9461 | 20.7639
100027 | 12.9410 | 19.1481 | 14.7916 | 15.3484
100028 | 19.7491 | 19.3757 | 19.3371 | 19.4791
100029 | 19.1768 | 20.8745 | 20.8950 | 20.2753
100030 | 18.8229 | 22.8204 | 20.6176 | 20.6840
100032 | 19.3165 | 19.8127 | 19.7451 | 19.6185
100034 | 18.2314 | 17.8743 | 19.5282 | 18.5138
100035 | 19.5842 | 20.1540 | 23.7366 | 21.2058
100038 | 24.7851 | 23.3578 | 24.5864 | 24.2183
100039 | 20.2529 | 21.5297 | 21.7861 | 21.1854
100040 | 18.6417 | 19.0449 | 18.4371 | 18.7010
100043 | 17.5215 | 18.7993 | 18.8206 | 18.3605
100044 | 21.1370 | 21.4764 | 22.3808 | 21.6907
100045 | 20.7688 | 20.9216 | 20.5433 | 20.7423
100046 | 21.2094 | 21.6207 | 22.0001 | 21.5991
100047 | 18.8677 | 20.0114 | 20.6068 | 19.8263
100048 | 13.5021 | 15.0584 | 15.7790 | 14.8232
100049 | 18.5598 | 18.8535 | 19.1025 | 18.8421
100050 | 16.6058 | 17.2377 | 17.9039 | 17.2452
100051 | 18.8377 | 23.1273 | 17.9453 | 19.6449
100052 | 16.1855 | 17.9537 | 18.1780 | 17.4312
100053 | 18.7103 | 20.1724 | 19.6800 | 19.5213
100054 | 18.1853 | 23.5491 | 21.1710 | 20.9429
100055 | 17.6226 | 18.0547 | 18.8760 | 18.1971
100056 | 23.6545 | 25.7863 | 21.8506 | 23.8349
100057 | 18.7489 | 19.9712 | 19.5319 | 19.4242
100060 | 22.3904 | 23.2561 | 23.5983 | 23.0794
100061 | 21.7923 | 22.1133 | 22.9176 | 22.2483
100062 | 17.9575 | 19.4370 | 21.4424 | 19.6570
100063 | 16.2324 | 19.2629 | 18.4642 | 17.9066
100067 | 17.3950 | 18.0877 | 18.4851 | 17.9682
100068 | 18.6480 | 19.9305 | 19.8148 | 19.4667
100069 | 16.1393 | 16.8271 | 17.3666 | 16.7757
100070 | 20.3358 | 18.7408 | 19.5034 | 19.4826
100071 | 16.4756 | 17.5451 | 17.7234 | 17.2640
100072 | 19.2223 | 21.0225 | 20.1930 | 20.2012
100073 | 18.1554 | 21.1898 | 22.2812 | 20.4948
100075 | 18.0548 | 18.3688 | 19.4480 | 18.6211
100076 | 16.2469 | 17.8733 | 17.8612 | 17.3644
100077 | 19.6214 | 22.3438 | 18.0424 | 19.9689
100078 | 18.2791 | 18.4499 | 19.2891 | 18.6609
100080 | 21.1603 | 22.1966 | 21.4042 | 21.5955
100081 | 13.9564 | 14.8313 | 15.4253 | 14.7661
100082 | 19.8033 | 18.8998 | * | 19.3432
100084 | 20.4002 | 22.3674 | 22.0600 | 21.6577
100085 | 21.0802 | 22.1231 | * | 21.5986
100086 | 21.1625 | 21.6997 | 23.3718 | 22.0734
100087 | 23.1162 | 23.6090 | 23.3607 | 23.3648
100088 | 20.0571 | 20.3693 | 20.5566 | 20.3435
100090 | 17.8768 | 19.1479 | 19.7695 | 18.9939
100092 | 18.1953 | 17.9216 | 20.1760 | 18.7907
100093 | 16.6310 | 16.5128 | 16.8422 | 16.6633
100098 | 19.0319 | 19.2427 | 20.8315 | 19.7124
100099 | 15.2983 | 15.7823 | 15.7591 | 15.6112
100102 | 19.3330 | 18.9701 | 19.7673 | 19.3542
100103 | 18.1019 | 17.2364 | 18.7844 | 18.0201
100105 | 21.5028 | 21.6604 | 21.8268 | 21.6611
100106 | 19.3113 | 17.2527 | 17.4958 | 17.9164
100107 | 18.0142 | 20.1281 | 20.0396 | 19.3936
100108 | 11.4692 | 19.9593 | 20.1125 | 16.4375
100109 | 22.1715 | 20.8440 | 19.8488 | 20.8649
100110 | 19.6439 | 20.8995 | 20.1853 | 20.2509
100112 | 9.7706 | 25.2570 | 15.2128 | 15.6728
100113 | 22.2584 | 23.2020 | 28.8892 | 24.7828
100114 | 23.4501 | 21.6262 | 22.8178 | 22.5825
100117 | 18.8619 | 20.7624 | 20.6962 | 20.1889
100118 | 19.7608 | 22.8702 | 20.7323 | 21.1427
100121 | 19.3435 | * | 18.2789 | 18.7785
100122 | 18.0551 | 19.8783 | 19.2567 | 19.0659
100124 | 19.0527 | 17.0713 | 20.4022 | 18.8192
100125 | 17.3358 | 18.9535 | 19.6097 | 18.6719
100126 | 18.0943 | 19.5413 | 19.3103 | 18.9490
100127 | 19.8727 | 19.9860 | 19.2122 | 19.6859
100128 | 21.3653 | 20.1536 | 22.8826 | 21.4045
100129 | 18.5723 | 19.1936 | * | 18.8646
100130 | 19.1052 | 18.6751 | 20.0947 | 19.3019
100131 | 22.1680 | 23.4373 | 21.1195 | 22.2597
100132 | 16.8978 | 18.1167 | 18.7863 | 17.9218
100134 | 13.4711 | 15.1764 | 15.9733 | 14.8260
100135 | 17.4785 | 18.8253 | 19.0430 | 18.4539
100137 | 19.0464 | 18.6955 | 19.5562 | 19.1372
100138 | 11.0135 | 17.1373 | 14.9539 | 13.7935
100139 | 15.6444 | 15.6514 | 15.2532 | 15.5227
100140 | 17.3518 | 17.1389 | 19.0584 | 17.8826
100142 | 18.6812 | 19.6815 | 13.0623 | 16.5381
100144 | 15.0197 | 12.2877 | * | 13.4059
100145 | 19.1143 | * | * | 19.1143
100146 | 17.8692 | 18.1267 | 21.3359 | 19.1001
100147 | 14.6751 | 14.6616 | 15.2348 | 14.8665
100150 | 21.0224 | 21.2807 | 21.5057 | 21.2659
100151 | 19.3990 | 21.6087 | 23.8489 | 21.6478
100154 | 19.8485 | 20.0015 | 20.4068 | 20.1020
100156 | 17.1335 | 19.4980 | 18.4779 | 18.3856
100157 | 21.0324 | 22.6744 | 22.6195 | 22.1032
100159 | 16.3778 | 10.2793 | 6.3232 | 9.8839
100160 | 21.6339 | 20.5581 | 23.3121 | 21.8278
100161 | 21.5025 | 22.2994 | 22.4181 | 22.0895
100162 | 19.8748 | 20.1411 | 14.1842 | 17.5642
100165 | 18.5739 | 19.0388 | 22.6622 | 20.3299
100166 | 20.4228 | 20.0250 | 21.2309 | 20.5491
100167 | 21.8138 | 23.4075 | 23.2969 | 22.8605
100168 | 20.1260 | 20.1994 | 20.2632 | 20.1979
100169 | 20.7778 | 20.9506 | 20.6223 | 20.7811
100170 | 15.1167 | 18.5088 | 19.3005 | 17.5325
100172 | 15.1848 | 14.3446 | 14.8826 | 14.8099
100173 | 17.3416 | 18.5662 | 17.1337 | 17.6572
100174 | 20.5125 | 26.1826 | 21.9807 | 22.2819
100175 | 17.8237 | 18.1692 | 20.5477 | 19.0035
100176 | 24.6978 | 22.8604 | 24.3089 | 23.9493
100177 | 22.0034 | 24.4296 | 23.5394 | 23.2665
100179 | 20.9053 | 22.3015 | 18.4114 | 20.3782
100180 | 18.4754 | 20.2130 | 21.5180 | 19.9976
100181 | 24.5704 | 23.0800 | 18.9510 | 21.8206
100183 | 20.8579 | 24.6121 | 23.0654 | 22.6623
100187 | 20.6938 | 20.2533 | 18.7750 | 19.8300
100189 | 21.0102 | 21.3147 | 26.5962 | 23.0255
100191 | 18.4692 | 19.9879 | 18.8676 | 19.1050
100199 | 23.3713 | 21.7193 | * | 22.5030
100200 | 22.2575 | 22.4579 | 23.8729 | 22.8861
100203 | 18.8628 | * | * | 18.8628
100204 | 20.2049 | 20.8995 | 19.6128 | 20.2366
100206 | 20.3511 | 19.5710 | 20.1171 | 20.0138
100207 | 15.9173 | * | * | 15.9173
100208 | 20.8337 | 21.2117 | 20.7029 | 20.9220
100209 | 19.7329 | 22.4577 | 22.7340 | 21.6408
100210 | 19.1799 | 21.3575 | 21.8545 | 20.7662
100211 | 25.5277 | 20.6427 | 20.7516 | 21.9172
100212 | 25.3441 | 21.1187 | 20.6343 | 22.0357
100213 | 19.1238 | 20.6558 | 21.1818 | 20.2975
100217 | 19.8700 | 20.5909 | 22.7335 | 21.0211
100220 | 19.9121 | 21.2796 | 21.1605 | 20.7655
100221 | 22.2517 | 17.3965 | 21.2672 | 20.0933
100222 | 22.1958 | * | * | 22.1958
100223 | 18.7580 | 20.6302 | 18.6039 | 19.2991
100224 | 24.7023 | 20.0251 | 21.8799 | 21.8886
100225 | 20.6404 | 20.6802 | 21.1013 | 20.8046
100226 | 24.8641 | 20.6858 | 22.0308 | 22.2904
100228 | 23.6986 | 21.3168 | 20.9039 | 21.8386
100229 | 18.2070 | 19.6908 | 18.2350 | 18.7682
100230 | 20.6018 | 20.5051 | 22.5650 | 21.2357
100231 | 17.4002 | 17.9226 | 18.3597 | 17.8974
100232 | 17.3171 | 19.3491 | 19.8002 | 18.8267
100234 | 21.5763 | 20.9104 | 21.6362 | 21.3290
100235 | 17.6648 | 17.1622 | * | 17.4262
100236 | 21.8111 | 20.3766 | 19.9007 | 20.6153
100237 | 22.9344 | 22.0865 | 23.2408 | 22.7368
100238 | 17.6310 | 19.6367 | 20.8252 | 19.4032
100239 | 19.7605 | 21.3193 | 19.4481 | 20.1474
100240 | 17.9339 | 20.4340 | 21.0606 | 19.8014
100241 | 13.8344 | 14.7224 | 17.1063 | 15.0865
100242 | 17.1154 | 17.9260 | 18.6938 | 17.9097
100243 | 20.3838 | 21.2644 | 20.8041 | 20.8228
100244 | 17.4124 | 18.6227 | 20.5352 | 18.9148
100246 | 21.2160 | 19.6376 | 20.8989 | 20.5473
100248 | 21.5399 | 20.7007 | 21.3017 | 21.1691
100249 | 19.0243 | 19.2808 | 18.1397 | 18.8067
100252 | 17.8726 | 17.7778 | 19.8032 | 18.4710
100253 | 20.6014 | 21.3232 | 21.8890 | 21.2952
100254 | 20.9080 | 19.6598 | 19.5489 | 19.9883
100255 | 21.0224 | 25.2119 | 21.0284 | 22.2338
100256 | 23.5640 | 20.9356 | 20.8947 | 21.6340
100258 | 21.8764 | 21.3501 | 20.0300 | 21.0257
100259 | 19.8600 | 20.3815 | 21.1160 | 20.4723
100260 | 21.2224 | 21.0506 | 24.6599 | 22.2640
100262 | 19.5874 | 20.0433 | 21.0927 | 20.2558
100263 | 16.9012 | * | * | 16.9012
100264 | 17.6085 | 19.1556 | 19.9394 | 18.8935
100265 | 19.8571 | 18.8301 | 18.2291 | 18.8491
100266 | 17.7319 | 18.2993 | 19.3623 | 18.4763
100267 | 17.0986 | 20.1141 | 21.7430 | 19.6266
100268 | 23.5863 | 23.9249 | 24.0538 | 23.8633
100269 | 21.2047 | 21.6724 | 22.5114 | 21.8200
100270 | 19.8576 | 15.1462 | 16.7148 | 17.2012
100271 | 19.9208 | 20.4824 | 20.8695 | 20.4494
100275 | 21.3273 | 20.9188 | 21.2396 | 21.1563
100276 | 21.9797 | 22.3646 | 24.1022 | 22.8308
100277 | 16.1410 | 16.6255 | 19.7241 | 17.0041
100279 | 23.0213 | 22.9095 | 21.5291 | 22.5018
100280 | 16.5851 | 17.3676 | 18.1972 | 17.4129
100281 | 22.0202 | 22.4392 | 23.0142 | 22.5262
100282 | 19.7717 | 19.1978 | 17.7837 | 18.9361
100284 | * | * | 18.9448 | 18.9448
110001 | 18.0571 | 19.1971 | 20.1150 | 19.1086
110002 | 17.3674 | 17.1406 | 19.5113 | 18.0107
110003 | 16.9099 | 18.1168 | 17.1450 | 17.3940
110004 | 18.9468 | 19.5591 | 19.7733 | 19.4194
110005 | 19.2639 | 17.7348 | 21.4023 | 19.6576
110006 | 20.1273 | 20.7820 | 21.0601 | 20.6571
110007 | 23.4976 | 21.9505 | 25.0143 | 23.4851
110008 | 18.2642 | 22.0081 | 18.5265 | 19.5622
110009 | 14.8218 | 16.3069 | 17.4306 | 16.2843
110010 | 24.5493 | 23.3213 | 23.8794 | 23.9073
110011 | 18.2846 | 18.6144 | 18.9823 | 18.6368
110013 | 16.0264 | 16.2811 | 18.9160 | 17.1183
110014 | 16.1168 | 16.0658 | 18.1787 | 16.7192
110015 | 19.4769 | 21.2146 | 20.9926 | 20.5614
110016 | 15.2967 | 22.5321 | 14.2398 | 16.6540
110017 | 10.5399 | 13.1960 | 21.4010 | 15.0953
110018 | 21.0415 | 19.6064 | 22.1480 | 20.9298
110020 | 18.5251 | 18.3147 | 19.4457 | 18.7684
110023 | 18.6460 | 21.1994 | 21.8081 | 20.5099
110024 | 19.7923 | 20.7297 | 20.7345 | 20.4144
110025 | 18.6463 | 19.5749 | 20.4232 | 19.5033
110026 | 16.1414 | 17.2977 | 16.2484 | 16.5517
110027 | 14.6834 | 16.0642 | 14.8266 | 15.2090
110028 | 19.8894 | 20.1547 | 29.1670 | 22.3800
110029 | 20.0507 | 20.2906 | 19.6048 | 19.9639
110030 | 17.6785 | 18.8105 | 19.6354 | 18.7183
110031 | 21.5794 | 19.9482 | 20.0553 | 20.4598
110032 | 16.1859 | 15.7349 | 18.2014 | 16.6413
110033 | 21.4143 | 22.1879 | 25.1743 | 22.8060
110034 | 18.1882 | 19.6055 | 19.5554 | 19.0987
110035 | 21.1670 | 19.3795 | 22.7950 | 21.1658
110036 | 24.4181 | 22.2498 | 20.7284 | 22.3301
110038 | 16.3750 | 17.7060 | 17.5767 | 17.2140
110039 | 20.7710 | 20.6011 | 20.4998 | 20.6248
110040 | 16.4043 | 17.0743 | 16.8083 | 16.7529
110041 | 16.6927 | 18.8035 | 20.2755 | 18.6583
110042 | 20.6503 | 24.0153 | 25.2331 | 23.2575
110043 | 17.2175 | 20.1016 | 20.6150 | 19.2219
110044 | 19.5983 | 16.3624 | 17.2087 | 17.5794
110045 | 19.9445 | 20.2498 | 21.3049 | 20.4714
110046 | 19.2327 | 19.7377 | 21.4905 | 20.1167
110048 | 15.6463 | 16.3148 | 15.6113 | 15.8483
110049 | 14.2135 | 16.1817 | 16.8639 | 15.7669
110050 | 18.7516 | 20.7619 | 19.2291 | 19.5578
110051 | 15.7475 | 17.0070 | 17.2292 | 16.6496
110052 | 15.0562 | * | * | 15.0562
110054 | 19.2712 | * | 20.2638 | 19.7639
110056 | 16.4960 | 15.6202 | 15.8122 | 15.9689
110059 | 17.6984 | 16.6678 | 16.7990 | 17.0253
110061 | 13.7196 | 15.0367 | 16.3557 | 15.0889
110062 | 12.2107 | 18.8019 | 17.0053 | 16.1264
110063 | 17.9743 | 16.9612 | 18.5071 | 17.7965
110064 | 18.3368 | 18.9515 | 19.1203 | 18.8163
110065 | 13.3245 | 15.6771 | 16.3546 | 15.1604
110066 | 20.6502 | 21.0207 | 22.4189 | 21.3274
110069 | 18.3519 | 19.3109 | 20.9575 | 19.5384
110070 | 18.2264 | 21.0227 | 17.3438 | 18.7743
110071 | 14.8902 | 14.5984 | 18.8321 | 15.8863
110072 | 12.4303 | 12.7877 | 12.7625 | 12.6652
110073 | 15.1377 | 15.4261 | 16.4658 | 15.6663
110074 | 20.7572 | 21.3945 | 22.3769 | 21.5169
110075 | 17.0067 | 18.5199 | 20.1757 | 18.5793
110076 | 20.4430 | 21.2867 | 21.9798 | 21.2384
110078 | 24.7069 | 22.3718 | 24.0893 | 23.6954
110079 | 20.1385 | 21.0593 | 22.1070 | 21.0913
110080 | 23.4336 | 18.4768 | 19.1839 | 20.1449
110082 | 22.0078 | 23.8768 | 24.2358 | 23.3923
110083 | 21.3578 | 23.1219 | 23.1463 | 22.5746
110086 | 14.9756 | 18.2815 | 16.6374 | 16.5417
110087 | 20.5420 | 21.7773 | 22.7069 | 21.7189
110089 | 18.5761 | 18.5587 | 19.0889 | 18.7374
110091 | 21.3789 | 19.5114 | 21.5328 | 20.7784
110092 | 15.0890 | 17.3479 | 16.9725 | 16.4433
110093 | 14.8049 | * | 16.9827 | 15.7486
110094 | 13.8658 | 14.5641 | 16.9503 | 15.0650
110095 | 15.9478 | 16.4670 | 17.2273 | 16.5433
110096 | 16.3202 | 16.8541 | 17.4157 | 16.8647
110097 | 15.6164 | 15.5811 | 17.4558 | 16.1121
110098 | 14.0067 | 16.3532 | 16.0597 | 15.3226
110100 | 20.3764 | 18.6978 | 19.0764 | 19.3213
110101 | 11.7278 | 10.8187 | 18.8491 | 12.7872
110103 | 11.9352 | 13.6842 | 21.1837 | 14.0859
110104 | 15.3184 | 15.7781 | 15.8542 | 15.6538
110105 | 16.5196 | 16.8909 | 16.7775 | 16.7306
110107 | 17.3921 | 19.3609 | 19.3897 | 18.7335
110108 | 15.1401 | 19.7938 | 25.2161 | 19.3940
110109 | 16.3703 | 15.9359 | 16.4031 | 16.2270
110111 | 17.3215 | 18.5108 | 18.3951 | 18.0800
110112 | 19.1288 | 19.0619 | 19.8617 | 19.3018
110113 | 15.1896 | 16.8179 | 15.9532 | 15.9721
110114 | 15.1303 | 14.6888 | 16.4812 | 15.4358
110115 | 24.8332 | 43.9427 | 22.9566 | 28.0177
110118 | 15.3992 | 20.5368 | 19.7509 | 18.5122
110120 | 15.1878 | 15.2589 | 17.7429 | 15.9886
110121 | 15.5792 | 16.2711 | 19.1640 | 17.0021
110122 | 18.8497 | 21.1385 | 21.1469 | 20.3688
110124 | 17.1306 | 17.5732 | 18.3366 | 17.6460
110125 | 17.3254 | 19.1311 | 18.0692 | 18.1623
110127 | 13.7612 | 14.6143 | 20.3765 | 16.2641
110128 | 18.9705 | 18.1845 | 18.0835 | 18.4293
110129 | 18.1208 | 18.9388 | 19.0001 | 18.6851
110130 | 13.0779 | 16.0580 | 14.6011 | 14.6559
110132 | 15.0231 | 16.0419 | 16.3943 | 15.8158
110134 | 11.5583 | 12.5723 | 18.6076 | 14.6296
110135 | 17.0834 | 17.4380 | 17.3504 | 17.2967
110136 | 16.1680 | 18.0639 | 16.9629 | 16.8702
110140 | 17.8806 | 17.8870 | 17.7915 | 17.8571
110141 | 12.5051 | 13.2501 | 14.4935 | 13.4024
110142 | 12.3029 | 14.6144 | 13.9525 | 13.5947
110143 | 21.6898 | 20.1603 | 22.5926 | 21.5352
110144 | 17.9766 | 16.8685 | 17.5112 | 17.4397
110146 | 17.6068 | 16.1316 | 17.1835 | 16.9320
110149 | 22.2256 | 17.7535 | 32.1975 | 23.0615
110150 | 18.7724 | 20.2644 | 21.2909 | 20.0962
110152 | 14.7674 | 15.3996 | 15.1324 | 15.1011
110153 | 18.6862 | 19.2744 | 20.5068 | 19.4781
110154 | 14.8067 | 14.9636 | 17.3761 | 15.6408
110155 | 17.1370 | 15.5306 | 16.5146 | 16.3434
110156 | 15.3422 | 14.7477 | 16.3876 | 15.4698
110161 | 20.8657 | 21.7153 | 22.2861 | 21.6563
110163 | 18.2016 | 20.4202 | 18.6088 | 18.9884
110164 | 19.4946 | 20.2074 | 21.2301 | 20.2993
110165 | 18.9974 | 21.2577 | 20.8030 | 20.3401
110166 | 19.8510 | 20.5882 | 20.5637 | 20.3331
110168 | 19.8178 | 20.6646 | 21.8508 | 20.8181
110169 | 18.7189 | 20.6385 | 22.6648 | 20.4216
110171 | 20.0874 | 23.7893 | 25.5187 | 22.6232
110172 | 25.4390 | 23.3730 | 23.6761 | 24.1702
110174 | 14.2978 | 13.7339 | 14.6199 | 14.1905
110176 | 22.3971 | * | * | 22.3971
110177 | 19.5888 | 20.7187 | 21.2661 | 20.5227
110178 | 16.8555 | 18.8306 | * | 17.8083
110179 | 20.5161 | 22.7841 | 22.8884 | 21.9497
110181 | 13.7195 | 14.0941 | 12.9798 | 13.6399
110183 | 21.1797 | 23.3826 | 22.5148 | 22.3473
110184 | 20.9465 | 22.1970 | 22.1920 | 21.7791
110185 | 16.2487 | 16.7246 | 17.7925 | 16.9013
110186 | 17.3398 | 17.4287 | 18.3013 | 17.6927
110187 | 21.4462 | 20.1154 | 19.8419 | 20.4516
110188 | 20.0548 | 24.8376 | 23.7089 | 22.6478
110189 | 18.8627 | 22.2715 | 20.8786 | 20.7023
110190 | 19.4318 | 18.5728 | 18.3649 | 18.7761
110191 | 19.1065 | 20.2033 | 21.4033 | 20.2583
110192 | 20.7660 | 21.4951 | 21.0390 | 21.1032
110193 | 18.7807 | 20.6380 | 20.7867 | 20.0518
110194 | 15.0937 | 15.1480 | 14.8115 | 15.0165
110195 | 10.5227 | 13.9135 | 12.7261 | 12.3146
110198 | 26.1898 | 24.1999 | 24.4684 | 24.9086
110200 | 17.2129 | 18.1862 | 16.0807 | 17.1358
110201 | 19.2438 | 20.4699 | 21.0011 | 20.2421
110203 | 20.2958 | 26.8148 | 22.7453 | 23.1944
110204 | 20.5728 | 19.7317 | 30.7342 | 21.7754
110205 | 26.1154 | 21.1435 | 21.3617 | 22.7145
110207 | 12.8710 | 12.9727 | 14.7154 | 13.5335
110208 | 14.8907 | 15.1742 | 15.6161 | 15.1789
110209 | 20.4640 | 17.9190 | 18.6404 | 18.9942
110211 | 21.8226 | 20.9372 | 26.9151 | 23.1427
110212 | 12.6583 | 11.8545 | 14.3790 | 12.8830
110213 | 13.1976 | 14.3651 | * | 13.7453
110215 | * | 20.1928 | 18.1539 | 19.0047
110216 | * | * | 27.1878 | 27.1878
110217 | * | * | 34.0758 | 34.0758
120001 | 26.7134 | 27.9213 | 29.0427 | 27.8237
120002 | 24.3780 | 25.0744 | 25.2021 | 24.8896
120003 | 23.8452 | 25.9059 | 23.9115 | 24.5394
120004 | 24.0456 | 23.9208 | 24.8632 | 24.2413
120005 | 20.5380 | 23.3975 | 24.1662 | 22.6197
120006 | 23.7151 | 25.0895 | 25.8943 | 24.8700
120007 | 23.2684 | 22.7200 | 22.8772 | 22.9509
120009 | 19.0216 | 17.4693 | 16.4621 | 17.5649
120010 | 25.3976 | 25.1480 | 24.1923 | 24.8868
120011 | 33.5459 | 35.0582 | 37.2759 | 35.3313
120012 | 22.5219 | 23.1144 | 21.8507 | 22.5391
120014 | 24.0467 | 22.8866 | 24.0359 | 23.6453
120015 | 29.0747 | 32.9906 | 42.6465 | 33.1800
120016 | 29.4104 | 27.9127 | 45.6878 | 31.2151
120018 | 25.6088 | 24.5031 | 31.1879 | 26.2841
120019 | 21.9199 | 22.9341 | 25.5659 | 23.4285
120021 | 19.4236 | 23.4508 | 23.1839 | 21.8865
120022 | 17.9306 | 21.7868 | 19.0792 | 19.4460
120024 | 22.2846 | 29.4808 | 32.2514 | 26.8486
120025 | 19.0197 | 20.1065 | 50.6376 | 21.3455
120026 | 23.2237 | 26.0787 | 25.1314 | 24.7719
120027 | 24.5549 | 24.7255 | 24.4535 | 24.5737
120028 | 23.4873 | 27.5023 | 27.0897 | 25.8902
130001 | 24.9511 | 18.8471 | 17.6306 | 20.1752
130002 | 16.1853 | 16.6620 | 16.9867 | 16.6200
130003 | 19.9499 | 21.7313 | 22.3600 | 21.3642
130005 | 20.1678 | 20.7169 | 21.2386 | 20.7149
130006 | 18.8705 | 19.3392 | 20.4614 | 19.5797
130007 | 19.8442 | 20.8338 | 21.8107 | 20.8426
130008 | 12.9177 | 12.5506 | 13.6018 | 12.9892
130009 | 18.2958 | 19.1837 | 15.9701 | 17.7296
130010 | 21.4325 | 17.6795 | 17.5119 | 18.7875
130011 | 19.0816 | 20.5031 | 20.1147 | 19.9190
130012 | 22.6153 | 22.9813 | 24.9976 | 23.5891
130013 | 19.2170 | 17.4038 | 15.1129 | 17.1523
130014 | 17.9836 | 18.9769 | 19.1105 | 18.6941
130015 | 15.2662 | 15.7233 | 18.5913 | 16.3849
130016 | 16.9987 | 17.3942 | 19.0516 | 17.7864
130017 | 16.8822 | 17.1710 | 19.6875 | 17.7220
130018 | 17.9651 | 19.7368 | 19.8425 | 19.2288
130019 | 17.2317 | 18.6648 | 19.1711 | 18.3322
130021 | 12.2562 | 12.8588 | 15.6155 | 13.6528
130022 | 19.5040 | 16.5270 | 18.9127 | 18.2241
130024 | 18.3789 | 19.3634 | 19.0703 | 18.9600
130025 | 15.2691 | 17.5213 | 16.4627 | 16.4881
130026 | 20.5535 | 21.5934 | 21.8106 | 21.3093
130027 | 20.7044 | 21.4279 | 20.5344 | 20.8883
130028 | 18.2074 | 19.1093 | 20.9674 | 19.4388
130029 | 20.3153 | 18.4263 | 18.7694 | 19.1364
130030 | 18.3981 | 17.8440 | 17.5759 | 17.9347
130031 | 17.6458 | 16.2397 | 16.7766 | 16.8967
130034 | 18.8164 | 16.9873 | 18.9483 | 18.2785
130035 | 20.4708 | 19.3478 | 20.7770 | 20.1943
130036 | 13.7942 | 13.7933 | 13.6362 | 13.7373
130037 | 17.7374 | 18.8071 | 18.6856 | 18.3986
130043 | 16.0686 | 16.5102 | 16.7904 | 16.4511
130044 | 13.1816 | 17.8160 | 13.4513 | 14.6424
130045 | 16.4655 | 16.0990 | 19.0208 | 17.0869
130048 | 15.0924 | 16.0899 | 16.7900 | 15.9311
130049 | 20.3928 | 20.3129 | 22.4440 | 21.0760
130054 | 17.7802 | 17.2729 | 17.7085 | 17.5766
130056 | 15.6551 | 14.6862 | 20.9476 | 16.5492
130058 | 17.7462 | * | * | 17.7462
130060 | 20.8508 | 21.8662 | 22.7399 | 21.8288
130061 | 16.7839 | 15.4006 | 14.7394 | 15.6929
130062 | 15.1086 | 16.5672 | 19.8157 | 17.1915
130063 | * | 15.9441 | 18.8024 | 17.8420
140001 | 15.4448 | 16.3372 | 17.7990 | 16.4814
140002 | 19.2575 | 19.0248 | 19.9284 | 19.3999
140003 | 18.0001 | 21.2886 | 17.8595 | 18.9466
140004 | 17.5200 | 15.7042 | 17.4574 | 16.8965
140005 | 10.8718 | 11.6127 | 12.3002 | 11.5858
140007 | 22.4015 | 22.9799 | 23.0743 | 22.8202
140008 | 21.2844 | 21.6548 | 22.0157 | 21.6522
140010 | 25.2227 | 31.8207 | 28.4268 | 28.3237
140011 | 17.2856 | 17.8676 | 18.6164 | 17.9499
140012 | 19.4406 | 23.0653 | 21.0475 | 21.1353
140013 | 17.3488 | 18.3060 | 19.6722 | 18.4213
140014 | 20.7563 | 22.4737 | 23.0372 | 21.9976
140015 | 15.0232 | 16.6735 | 17.6805 | 16.4314
140016 | 12.5363 | 13.1278 | 14.4938 | 13.3972
140018 | 21.4147 | 22.3070 | 24.6202 | 22.7573
140019 | 15.3435 | 16.6548 | 16.4254 | 16.1654
140024 | 14.6674 | 16.8271 | 15.3782 | 15.5912
140025 | 16.9489 | 16.9462 | 18.5135 | 17.4713
140026 | 15.9557 | 16.6612 | 18.3220 | 16.9446
140027 | 17.5023 | 18.7553 | 19.2149 | 18.5013
140029 | 21.0358 | 22.8322 | 26.0833 | 23.2140
140030 | 22.4414 | 21.9475 | 22.1760 | 22.1946
140031 | 15.9442 | 19.5731 | 17.6067 | 17.6942
140032 | 17.3363 | 18.1058 | 19.0383 | 18.1645
140033 | 22.5583 | 24.1722 | 25.1639 | 23.9291
140034 | 19.1482 | 19.5278 | 19.7903 | 19.4886
140035 | 12.9963 | 15.2649 | 15.5040 | 14.5633
140036 | 17.0419 | 18.5771 | 19.1076 | 18.2935
140037 | 12.5012 | 13.0764 | 14.1083 | 13.2105
140038 | 17.6094 | 18.3035 | 18.4624 | 18.1246
140040 | 16.2462 | 19.9267 | 16.7450 | 17.5895
140041 | 17.2829 | 17.6582 | 23.7556 | 19.4569
140042 | 15.6092 | 15.4095 | 15.8892 | 15.6354
140043 | 18.9464 | 19.4683 | 20.1176 | 19.5022
140045 | 20.6541 | 15.5807 | 17.7799 | 17.9528
140046 | 16.4621 | 18.9763 | 18.6371 | 18.0097
140047 | 16.3298 | 17.1539 | 13.3610 | 15.4382
140048 | 20.5773 | 24.0913 | 22.7155 | 22.4684
140049 | 21.5937 | 28.4958 | 26.9483 | 25.7338
140051 | 20.8455 | 23.8264 | 23.0662 | 22.5696
140052 | 19.6045 | 19.6409 | 17.5433 | 18.8875
140053 | 17.8218 | 19.1892 | 19.5761 | 18.8494
140054 | 26.1497 | 22.1921 | 23.2565 | 23.8024
140055 | 14.8031 | 16.3404 | 14.3603 | 15.1391
140058 | 17.2716 | 17.4927 | 18.6861 | 17.8100
140059 | 15.3934 | 15.0195 | * | 15.1978
140061 | 15.9612 | 17.3012 | 18.2039 | 17.1185
140062 | 27.0912 | 28.0877 | 28.6768 | 27.9630
140063 | 22.3882 | 25.3641 | 24.0303 | 23.8508
140064 | 19.2549 | 19.1023 | 18.9379 | 19.0960
140065 | 23.1610 | 24.1128 | 25.3336 | 24.1516
140066 | 16.1759 | 17.3902 | 13.6491 | 15.5770
140067 | 18.4031 | 19.3267 | 19.5292 | 19.0846
140068 | 18.8739 | 19.9691 | 21.6188 | 20.0995
140069 | 16.1453 | 16.7544 | 17.3879 | 16.7949
140070 | 19.2995 | 22.9678 | 22.7153 | 21.2244
140074 | 19.0077 | 19.3504 | 21.6052 | 19.9120
140075 | 22.5083 | 21.6313 | 21.0600 | 21.7539
140077 | 16.6447 | 17.5305 | 17.3647 | 17.1709
140079 | 21.9205 | 23.3020 | 23.6928 | 22.9153
140080 | 20.9999 | 21.0739 | 22.0345 | 21.3383
140081 | 15.5103 | 16.2247 | 16.9808 | 16.1897
140082 | 22.6227 | 23.8960 | 29.6534 | 24.8396
140083 | 18.1349 | 19.3145 | 21.0096 | 19.4873
140084 | 20.0133 | 20.9709 | 22.3467 | 21.0939
140086 | 17.3717 | 18.3803 | 19.1613 | 18.3356
140087 | 18.3639 | 16.1009 | 17.1147 | 17.1839
140088 | 24.2568 | 25.2369 | 22.0679 | 23.8109
140089 | 17.2086 | 17.6366 | 18.3157 | 17.7164
140090 | 23.5888 | 26.4325 | 27.0060 | 25.4162
140091 | 20.7039 | 20.9018 | 21.9322 | 21.1441
140093 | 19.1469 | 18.2899 | 20.1528 | 19.1437
140094 | 20.6129 | 21.4709 | 21.9383 | 21.3227
140095 | 21.5376 | 24.0549 | 23.3001 | 22.8780
140097 | 16.8997 | 17.5081 | 21.1719 | 18.4160
140100 | 19.0588 | 21.3581 | 23.1399 | 21.1571
140101 | 26.0894 | 21.5473 | 21.7186 | 22.8766
140102 | 15.0777 | 17.1500 | 17.5729 | 16.5644
140103 | 17.8586 | 19.2783 | 18.1303 | 18.4145
140105 | 20.9068 | 22.6573 | 22.6913 | 22.0594
140107 | 12.7573 | 13.7533 | 11.8383 | 12.6800
140108 | 28.6028 | 25.4742 | 26.9971 | 26.9964
140109 | 15.4724 | 15.7465 | 14.5498 | 15.2467
140110 | 18.8112 | 19.1822 | 19.2888 | 19.0728
140112 | 16.2399 | 17.6856 | 17.6974 | 17.1885
140113 | 17.9151 | 19.0592 | 18.8593 | 18.5977
140114 | 20.4808 | 21.1639 | 21.8154 | 21.1561
140115 | 20.0939 | 21.1926 | 21.0433 | 20.7564
140116 | 21.8290 | 23.1177 | 23.7281 | 22.8966
140117 | 19.6445 | 21.5671 | 20.4740 | 20.5537
140118 | 23.0797 | 23.5952 | 24.2708 | 23.6385
140119 | 26.5042 | 29.1419 | 27.2387 | 27.6111
140120 | 14.8375 | 18.0743 | 17.9716 | 16.8874
140121 | 9.5268 | 16.0397 | 16.6993 | 13.2257
140122 | 23.7473 | 24.6470 | 25.8773 | 24.7639
140124 | 26.9706 | 27.1906 | 27.9517 | 27.3458
140125 | 17.0974 | 17.6759 | 16.9735 | 17.2524
140127 | 19.4259 | 19.8973 | 17.5075 | 18.9895
140128 | 17.6751 | 19.4955 | 23.1327 | 20.0664
140129 | 15.2494 | 18.2639 | 20.2868 | 17.8627
140130 | 23.7682 | 22.2285 | 23.1873 | 23.0442
140132 | 23.0443 | 23.5475 | 23.3054 | 23.2992
140133 | 19.9083 | 21.4090 | 21.1453 | 20.7897
140135 | 17.6927 | 17.8100 | 17.3985 | 17.6268
140137 | 16.5141 | 16.8969 | 18.6330 | 17.3470
140138 | 14.5877 | 16.7420 | 17.1968 | 16.2121
140139 | 16.5794 | 14.0619 | 11.0397 | 13.5138
140140 | 15.2985 | 17.8243 | 17.6845 | 16.9747
140141 | 15.1782 | 17.5204 | 19.1097 | 17.2133
140143 | 18.7616 | 19.1862 | 18.9984 | 18.9893
140144 | 19.7913 | 21.3245 | 22.2864 | 21.1022
140145 | 16.6111 | 17.5471 | 18.1788 | 17.4556
140146 | 23.7400 | 21.9573 | 19.9704 | 21.7285
140147 | 24.8191 | 16.1336 | 18.8049 | 19.2135
140148 | 19.5026 | 18.6598 | 17.9816 | 18.6917
140150 | 27.8485 | 27.3378 | 26.7896 | 27.3222
140151 | 19.3016 | 21.3896 | 20.0310 | 20.2086
140152 | 22.4270 | 24.6333 | 24.9613 | 23.9173
140155 | 17.3131 | 19.9738 | 19.5083 | 18.8605
140158 | 22.2666 | 22.7639 | 22.7988 | 22.5990
140160 | 17.8822 | 17.7691 | 17.7921 | 17.8132
140161 | 19.0448 | 20.0948 | 20.3799 | 19.8258
140162 | 18.4167 | 19.6464 | 20.3452 | 19.4479
140164 | 18.6120 | 18.7806 | 18.6589 | 18.6860
140165 | 15.4186 | 14.9156 | 14.7223 | 15.0080
140166 | 17.5434 | 17.5496 | 18.2503 | 17.7751
140167 | 16.5671 | 17.1479 | 17.6525 | 17.1325
140168 | 16.4638 | 16.6770 | 17.7453 | 16.9752
140170 | 14.1360 | 16.1621 | 16.4107 | 15.5211
140171 | 14.7316 | 14.1637 | 15.0237 | 14.6354
140172 | 20.7982 | 23.8431 | 21.0186 | 21.8883
140173 | 18.4788 | 15.1487 | 16.3924 | 16.7054
140174 | 19.9216 | 20.5339 | 40.5916 | 23.4138
140176 | 21.4129 | 23.2866 | 24.0512 | 22.8950
140177 | 18.1692 | 18.2648 | 15.0827 | 17.1204
140179 | 22.6989 | 21.1948 | 21.9258 | 21.9422
140180 | 23.2536 | 22.4548 | 22.5661 | 22.7489
140181 | 20.5461 | 20.8709 | 21.9155 | 21.0777
140182 | 20.7013 | 22.0170 | 22.5552 | 21.7590
140184 | 14.9763 | 17.8155 | 17.2401 | 16.6194
140185 | 17.3616 | 17.6514 | 18.2867 | 17.7696
140186 | 18.9878 | 22.7890 | 21.0934 | 20.9521
140187 | 17.6910 | 17.9201 | 18.3331 | 17.9863
140188 | 14.8373 | 15.2479 | 16.1907 | 15.4001
140189 | 19.0791 | 21.0616 | 20.6627 | 20.2758
140190 | 15.8770 | 16.3366 | 17.5263 | 16.5534
140191 | 24.7368 | 25.8835 | 25.2628 | 25.2833
140193 | 15.5196 | 15.8022 | 17.4057 | 16.2409
140197 | 17.9828 | 18.6394 | 19.3774 | 18.6752
140199 | 18.8333 | 18.3507 | 18.0450 | 18.4044
140200 | 21.6508 | 21.5220 | 20.0559 | 21.0333
140202 | 22.1800 | 22.1939 | 22.2334 | 22.2042
140203 | 20.7854 | 19.9194 | 21.0848 | 20.5915
140205 | 17.2369 | 17.4751 | 20.0784 | 18.0505
140206 | 20.5096 | 21.3295 | 22.5109 | 21.4570
140207 | 20.2048 | 21.9779 | 22.3905 | 21.3996
140208 | 23.9441 | 25.9900 | 26.2527 | 25.3856
140209 | 17.7889 | 18.1206 | 20.1557 | 18.6405
140210 | 12.6648 | 15.6899 | 14.8248 | 14.4319
140211 | 20.9615 | 21.8891 | 22.6265 | 21.8594
140213 | 26.2041 | 27.0645 | 23.9146 | 25.7381
140215 | 14.4544 | 15.9949 | 15.2893 | 15.2456
140217 | 23.3192 | 24.8229 | 25.4896 | 24.5129
140218 | 15.0750 | 14.9459 | 14.9851 | 15.0038
140220 | 16.7341 | 17.6370 | 17.8450 | 17.4280
140223 | 21.4725 | 24.9249 | 24.8504 | 23.6225
140224 | 22.9945 | 25.8668 | 32.8061 | 26.7812
140228 | 18.6731 | 19.6988 | 19.7113 | 19.3775
140230 | 16.5979 | 18.0918 | 18.2983 | 17.6740
140231 | 21.6062 | 23.9176 | 24.5019 | 23.4404
140233 | 18.3703 | 19.4542 | 21.8857 | 19.8854
140234 | 18.7156 | 18.9945 | * | 18.8552
140236 | 13.1341 | * | 12.9253 | 13.0112
140239 | 18.8785 | 18.8127 | 19.6792 | 19.1309
140240 | 24.2141 | 23.6860 | 24.4498 | 24.1185
140242 | 22.6679 | 24.5428 | 25.1416 | 24.1471
140245 | 15.5554 | 13.4839 | 14.2481 | 14.3597
140246 | 12.8238 | 13.4639 | 11.6267 | 12.5798
140250 | 23.4127 | 25.0876 | 23.6449 | 24.0578
140251 | 20.5813 | 21.4385 | 21.8059 | 21.2700
140252 | 24.4856 | 25.2246 | 24.9718 | 24.8965
140253 | 16.7356 | 18.5511 | 19.5858 | 18.2440
140258 | 21.1321 | 23.2973 | 25.0755 | 23.1842
140271 | 15.3606 | 15.5079 | 12.0079 | 14.1590
140275 | 17.9597 | 20.1699 | 23.8171 | 20.5857
140276 | 23.7163 | 26.6777 | 25.3078 | 25.2303
140280 | 18.8420 | 20.2360 | 18.8300 | 19.2649
140281 | 23.3433 | 24.0192 | 25.2719 | 24.2302
140285 | 14.7087 | 18.1181 | 17.3787 | 16.8092
140286 | 19.9500 | 20.3735 | 22.1015 | 20.8673
140288 | 21.8213 | 25.2327 | 24.4331 | 23.7989
140289 | 16.4542 | 17.1388 | 18.1747 | 17.3055
140290 | 21.2384 | 21.1784 | 22.8465 | 21.7717
140291 | 22.4352 | 25.0911 | 24.9537 | 24.1790
140292 | 22.7136 | 20.8560 | 21.4533 | 21.6516
140294 | 17.5226 | 17.7226 | 17.7301 | 17.6645
140297 | 21.4692 | * | * | 21.4692
140300 | 23.2560 | 25.3662 | 27.8436 | 25.5898
150001 | 21.6990 | 22.8109 | 24.0620 | 22.8643
150002 | 18.7568 | 19.3401 | 19.7035 | 19.2828
150003 | 19.3117 | 19.7661 | 20.8636 | 19.9824
150004 | 19.7020 | 20.3685 | 21.2449 | 20.4349
150005 | 18.9964 | 20.6260 | 21.1610 | 20.2631
150006 | 20.0433 | 20.8158 | 20.6523 | 20.5130
150007 | 19.5255 | 20.1826 | 20.6635 | 20.1487
150008 | 20.9684 | 21.4545 | 21.8457 | 21.4285
150009 | 18.2168 | 18.7073 | 18.5540 | 18.4858
150010 | 18.4776 | 21.7125 | 20.5570 | 20.1836
150011 | 19.1957 | 18.3742 | 18.3041 | 18.6202
150012 | 20.5193 | 22.4751 | 22.1402 | 21.6785
150013 | 16.0043 | 17.0352 | 16.9327 | 16.6522
150014 | 21.2812 | 22.0143 | 21.5168 | 21.6212
150015 | 22.0452 | 22.5409 | 21.9037 | 22.1546
150017 | 18.8898 | 18.7664 | 19.5361 | 19.0702
150018 | 19.5612 | 20.4947 | 20.7080 | 20.2547
150019 | 15.2892 | 16.6327 | 17.8585 | 16.5672
150020 | 14.4592 | 15.1120 | 16.6600 | 15.3745
150021 | 19.0162 | 19.5096 | 21.5636 | 20.0344
150022 | 17.9206 | 19.1555 | 17.9222 | 18.3309
150023 | 18.6641 | 18.3598 | 19.0270 | 18.6729
150024 | 17.8311 | 18.4140 | 19.0380 | 18.3973
150025 | 18.1490 | 17.7007 | 12.7222 | 15.7084
150026 | 20.5085 | 18.8417 | 22.4284 | 20.5038
150027 | 16.4846 | 17.3284 | 18.0335 | 17.2600
150029 | 21.7414 | 23.0546 | 23.2454 | 22.7440
150030 | 17.3296 | 17.9992 | 18.6947 | 18.0196
150031 | 18.0060 | 17.2429 | 18.3463 | 17.8675
150032 | 20.6391 | * | * | 20.6391
150033 | 21.6854 | 21.8768 | 22.7658 | 22.1130
150034 | 21.2868 | 22.1317 | 23.1533 | 22.1845
150035 | 19.8177 | 20.4477 | 21.2374 | 20.5107
150036 | 20.3848 | 20.8692 | 21.4567 | 20.9448
150037 | 17.7868 | 21.7109 | 24.0213 | 21.0127
150038 | 20.2503 | 21.2193 | 22.0572 | 21.2025
150039 | 17.4919 | 18.4729 | 19.6215 | 18.5025
150042 | 17.1241 | 18.1632 | 20.0557 | 18.3464
150043 | 17.9834 | 19.0120 | 20.1741 | 18.9948
150044 | 17.6432 | 18.4381 | 19.1309 | 18.4093
150045 | 17.0395 | 16.8121 | 18.1670 | 17.3563
150046 | 17.3210 | 17.6342 | 18.2543 | 17.7460
150047 | 24.8819 | 19.7441 | 22.0305 | 22.1067
150048 | 16.9573 | 19.3329 | 19.1648 | 18.5048
150049 | 16.8529 | 17.0141 | 18.5099 | 17.4307
150050 | 17.1442 | 16.8354 | 17.7354 | 17.2410
150051 | 18.1990 | 19.0130 | 19.1637 | 18.7924
150052 | 15.3618 | 15.8590 | 17.3750 | 16.2411
150053 | 18.7463 | 19.1421 | 18.8632 | 18.9165
150054 | 17.3296 | 17.3825 | 18.3916 | 17.7528
150056 | 23.2991 | 22.4087 | 21.5774 | 22.2457
150057 | 16.8630 | 16.5882 | 16.9736 | 16.8076
150058 | 20.9537 | 20.8178 | 23.0807 | 21.5904
150059 | 20.8004 | 21.2535 | 22.7360 | 21.5830
150060 | 16.0098 | 17.0743 | 18.0032 | 17.0216
150061 | 17.2141 | 17.3887 | 19.7968 | 18.0770
150062 | 18.4110 | 20.5415 | 20.8274 | 20.0239
150063 | 21.0899 | 22.0925 | 22.6525 | 21.9213
150064 | 17.0309 | 18.1400 | 20.3865 | 18.5718
150065 | 19.0051 | 19.8913 | 21.2153 | 20.0425
150066 | 14.5977 | 15.3373 | 19.5313 | 16.4634
150067 | 17.0829 | 18.2926 | 18.8862 | 18.0821
150069 | 17.3918 | 21.5310 | 23.3969 | 20.9447
150070 | 17.1992 | 17.9260 | 18.0827 | 17.7417
150071 | 14.7306 | 13.4760 | 13.5111 | 13.9122
150072 | 16.1091 | 16.2054 | 15.0765 | 15.7702
150073 | 19.0292 | 22.2968 | * | 20.5664
150074 | 18.8597 | 20.4175 | 20.1054 | 19.7802
150075 | 14.9786 | 15.5603 | 16.7532 | 15.7414
150076 | 22.3407 | 22.9382 | 22.6424 | 22.6387
150077 | 17.5750 | * | * | 17.5750
150078 | 19.0096 | 19.2718 | 19.9668 | 19.4018
150079 | 15.4545 | 17.2436 | 18.0265 | 16.8569
150082 | 17.8796 | 17.5265 | 17.8162 | 17.7421
150084 | 22.9159 | 23.2506 | 23.9940 | 23.3857
150086 | 17.3442 | 18.9735 | 18.2185 | 18.1968
150088 | 19.4475 | 18.9869 | 20.3366 | 19.5726
150089 | 22.9458 | 23.8791 | 21.3690 | 22.6571
150090 | 19.0595 | 20.7726 | 21.0945 | 20.2459
150091 | 19.8912 | 20.4053 | 22.4640 | 20.9087
150092 | 15.9174 | 16.7434 | 16.9179 | 16.5364
150094 | 18.3410 | 16.5788 | 17.5244 | 17.5067
150095 | 17.1187 | 17.1324 | 19.2749 | 17.7838
150096 | 20.0281 | 23.2764 | 20.2897 | 21.1086
150097 | 18.3103 | 19.3802 | 19.7751 | 19.1545
150098 | 14.2953 | 15.0943 | 13.8800 | 14.4383
150099 | 18.9718 | 22.4229 | * | 20.3545
150100 | 17.4776 | 18.4148 | 19.8066 | 18.6620
150101 | 17.5554 | 16.4604 | 15.9718 | 16.6097
150102 | 11.5034 | 19.7426 | 23.7180 | 17.1422
150103 | 17.3064 | 18.4781 | 18.7036 | 18.2137
150104 | 17.2642 | 17.6981 | 20.0765 | 18.3399
150105 | 19.1709 | 20.0431 | 22.4412 | 20.4692
150106 | 18.9097 | 16.1510 | 15.7497 | 16.7986
150109 | 18.2289 | 18.8077 | 19.6344 | 18.8790
150110 | 18.5752 | 18.6627 | 21.9336 | 19.5289
150111 | 16.1707 | 18.4556 | 19.2355 | 17.8619
150112 | 19.8155 | 20.4109 | 20.5253 | 20.2569
150113 | 19.1988 | 20.3780 | 19.6603 | 19.7455
150114 | 16.9638 | 19.5183 | 17.9877 | 18.1743
150115 | 17.0627 | 17.4315 | 18.2882 | 17.5968
150122 | 19.3545 | 18.7139 | 17.7867 | 18.6097
150123 | 15.1552 | 14.1105 | 15.1583 | 14.8238
150124 | 15.0706 | 14.6245 | 15.6449 | 15.1149
150125 | 20.3198 | 20.6735 | 21.3115 | 20.7738
150126 | 20.2958 | 21.3697 | 20.6857 | 20.7640
150127 | 22.8129 | 17.1994 | 17.0052 | 18.8048
150128 | 19.9205 | 18.5100 | 19.5158 | 19.3219
150129 | 23.4718 | 24.7711 | 28.6211 | 25.2796
150130 | 16.4144 | 18.1971 | 18.4846 | 17.6635
150132 | 19.4805 | 20.1684 | 20.9443 | 20.1836
150133 | 16.4910 | 17.3966 | 16.0923 | 16.6709
150134 | 17.0612 | 19.2526 | 19.3632 | 18.5912
150136 | 19.2819 | 20.1245 | 21.8097 | 20.3987
150145 | * | 16.6851 | * | 16.6851
150146 | * | * | 19.0204 | 19.0204
160001 | 19.0279 | 18.6035 | 19.0085 | 18.8767
160002 | 15.3724 | 15.9534 | 16.6003 | 15.9668
160003 | 15.7747 | 16.0862 | 16.2208 | 16.0221
160005 | 15.2320 | 17.6153 | 17.9405 | 16.9144
160007 | 15.6638 | 13.2101 | 15.1738 | 14.6237
160008 | 14.9698 | 15.9742 | 16.6410 | 15.8545
160009 | 16.0919 | 16.8391 | 17.9886 | 16.9591
160012 | 16.5409 | 16.4827 | 16.7112 | 16.5761
160013 | 17.0602 | 18.3996 | 18.6304 | 18.0298
160014 | 15.0861 | 15.9086 | 16.7146 | 15.8981
160016 | 18.3710 | 19.6322 | 19.9747 | 19.3376
160018 | 14.1634 | 14.5946 | 15.6141 | 14.7975
160020 | 14.4135 | 15.4712 | 15.5384 | 15.1417
160021 | 15.4860 | 16.5049 | 16.7617 | 16.2368
160023 | 14.2015 | 15.0665 | 15.0099 | 14.7723
160024 | 18.9548 | 19.7050 | 19.4764 | 19.3806
160026 | 18.6624 | 18.8379 | 19.5260 | 19.0040
160027 | 15.7403 | 16.3477 | 16.9417 | 16.3376
160028 | 20.5416 | 19.9595 | 21.0000 | 20.4893
160029 | 20.4003 | 20.4678 | 21.3457 | 20.7382
160030 | 17.9860 | 19.9508 | 19.6182 | 19.1837
160031 | 15.2831 | 15.2448 | 16.1267 | 15.5484
160032 | 16.1820 | 17.3202 | 18.3168 | 17.2888
160033 | 18.3736 | 18.8673 | 18.8205 | 18.6982
160034 | 14.5053 | 15.0019 | 16.5957 | 15.3739
160035 | 15.9199 | 15.2211 | 16.3991 | 15.8029
160036 | 19.1984 | 17.8849 | 17.4558 | 18.1820
160037 | 18.3968 | 19.0532 | 19.5211 | 18.9895
160039 | 17.6272 | 17.4758 | 17.8647 | 17.6551
160040 | 16.8295 | 18.1949 | 18.0667 | 17.6917
160041 | 15.4700 | 16.7850 | 17.4435 | 16.5782
160043 | 15.6261 | 15.6909 | 14.8564 | 15.3356
160044 | 16.0385 | 16.7439 | 17.8323 | 16.9072
160045 | 20.1154 | 20.1236 | 19.4334 | 19.7761
160046 | 14.7672 | 14.5655 | 16.2737 | 15.1831
160047 | 16.6926 | 18.3593 | 19.0787 | 18.0537
160048 | 13.1417 | 14.6144 | 15.6856 | 14.5140
160049 | 13.3614 | 14.5457 | 15.5673 | 14.5017
160050 | 16.4161 | 17.4912 | 17.7878 | 17.2198
160051 | 14.2660 | 14.6400 | 16.4261 | 15.1036
160052 | 17.5509 | 18.0941 | 21.7647 | 19.2313
160054 | 15.7093 | 16.1753 | 16.1981 | 16.0321
160055 | 14.0647 | 14.7600 | 15.1674 | 14.6539
160056 | 15.3758 | 16.1575 | 17.0172 | 16.1537
160057 | 17.4101 | 18.1776 | 19.1378 | 18.2553
160058 | 20.3402 | 21.1159 | 22.1061 | 21.1598
160060 | 15.9527 | 16.0436 | 17.2825 | 16.3968
160061 | 17.5707 | 17.3215 | 16.6061 | 17.1891
160062 | 14.4433 | 17.8086 | 17.4388 | 16.4393
160063 | 16.2960 | 16.8834 | 16.3583 | 16.5061
160064 | 19.9135 | 20.5496 | 21.0458 | 20.5185
160065 | 16.5087 | 16.9373 | 17.1043 | 16.8758
160066 | 16.2651 | 17.1875 | 17.9971 | 17.1716
160067 | 17.8551 | 17.8514 | 16.7833 | 17.4322
160068 | 15.8526 | 17.9892 | 19.0572 | 17.5565
160069 | 18.4857 | 19.7280 | 19.1640 | 19.1095
160070 | 15.6647 | 16.7017 | 18.4588 | 16.9299
160072 | 14.1920 | 14.9536 | 14.4141 | 14.5422
160073 | 15.0526 | 11.8261 | 11.4997 | 12.6736
160074 | 16.4772 | 19.5092 | 17.9513 | 18.0038
160075 | 17.8870 | 19.4948 | 18.4613 | 18.6342
160076 | 17.3086 | 17.9381 | 17.8824 | 17.7060
160077 | 11.4028 | 12.8826 | 13.6658 | 12.6451
160079 | 17.7050 | 17.6187 | 18.6333 | 17.9899
160080 | 17.8143 | 18.6687 | 19.4925 | 18.6704
160081 | 16.5150 | 17.0052 | 17.4466 | 17.0164
160082 | 18.7630 | 19.6499 | 19.5322 | 19.3143
160083 | 18.4078 | 20.6189 | 19.7542 | 19.5937
160085 | 18.5510 | 18.0063 | 21.2557 | 19.2281
160086 | 16.4558 | 17.3271 | 17.5308 | 17.0998
160088 | 17.5331 | 20.2331 | 22.3655 | 19.9346
160089 | 16.7419 | 16.9538 | 17.3449 | 17.0079
160090 | 16.6002 | 17.1090 | 17.9614 | 17.2461
160091 | 12.1893 | 12.8516 | 14.2573 | 13.0755
160092 | 15.7979 | 15.5011 | 17.0633 | 16.0971
160093 | 15.9525 | 17.7457 | 18.5675 | 17.5141
160094 | 16.5609 | 18.7653 | 17.6094 | 17.6731
160095 | 14.2649 | 15.1895 | 15.2722 | 14.9322
160097 | 15.2079 | 15.9263 | 16.6790 | 15.9380
160098 | 15.5385 | 16.3135 | 16.8670 | 16.2509
160099 | 13.7864 | 13.9053 | 15.0880 | 14.2533
160101 | 17.8654 | 18.3705 | 18.9788 | 18.3824
160102 | 18.3631 | 18.8765 | 20.1161 | 19.0875
160103 | 17.1519 | 17.0973 | 18.2741 | 17.4869
160104 | 19.7387 | 18.8301 | 17.4829 | 18.7797
160106 | 16.6624 | 16.9639 | 17.3474 | 16.9910
160107 | 16.5622 | 18.0634 | 18.0097 | 17.5762
160108 | 15.4183 | 16.0529 | 16.7779 | 16.0861
160109 | 16.4885 | 16.5593 | 17.9873 | 16.9740
160110 | 18.8056 | 19.1420 | 20.6215 | 19.5351
160111 | 13.1689 | 14.1644 | 14.9965 | 14.0808
160112 | 16.2829 | 16.8332 | 17.2450 | 16.7911
160113 | 14.5838 | 14.7097 | 15.4834 | 14.9308
160114 | 15.5812 | 16.1423 | 16.5006 | 16.0651
160115 | 15.7566 | 15.8995 | 16.5654 | 16.0764
160116 | 16.6927 | 16.9534 | 16.6993 | 16.7818
160117 | 17.2914 | 17.9410 | 18.7615 | 17.9848
160118 | 15.8351 | 17.2523 | 19.4472 | 17.5046
160120 | 12.5642 | 10.5992 | 15.6789 | 12.4454
160122 | 18.5214 | 18.9252 | 18.1469 | 18.5357
160124 | 17.1642 | 18.0908 | 19.1600 | 18.1198
160126 | 17.7397 | 17.8142 | 19.4903 | 18.3068
160129 | 15.8914 | 16.7131 | 17.2112 | 16.5953
160130 | 15.4477 | 16.0528 | 15.6666 | 15.7242
160131 | 14.6874 | 15.4898 | 16.0424 | 15.4292
160134 | 13.3246 | 13.4743 | 15.3012 | 14.0359
160135 | 16.3294 | 18.2682 | 18.7711 | 17.7744
160138 | 15.7076 | 16.8699 | 17.1491 | 16.5906
160140 | 18.7962 | 18.4007 | 18.5630 | 18.5823
160142 | 16.1372 | 16.2875 | 18.1467 | 16.8318
160143 | 15.9240 | 16.6154 | 17.4497 | 16.6799
160145 | 15.1745 | 13.9152 | 16.9092 | 15.2763
160146 | 16.3532 | 16.6024 | 17.7010 | 16.8728
160147 | 18.3917 | 17.4880 | 19.4041 | 18.3938
160151 | 15.7384 | 16.8257 | 17.2177 | 16.5833
160152 | 15.2179 | 15.6170 | 15.9500 | 15.5914
160153 | 19.6927 | 20.2316 | 21.2085 | 20.3741
170001 | 17.4383 | 17.9304 | 17.9218 | 17.7616
170004 | 13.0635 | 15.0636 | 16.1442 | 14.7434
170006 | 19.3075 | 17.2192 | 17.5982 | 17.9438
170008 | 13.9009 | 14.9124 | 16.8412 | 15.1327
170009 | 19.5867 | 20.7795 | 23.1349 | 21.2143
170010 | 17.8995 | 18.7384 | 19.4584 | 18.6890
170012 | 16.7886 | 17.8719 | 18.3965 | 17.6979
170013 | 17.8949 | 18.6454 | 19.4667 | 18.6963
170014 | 17.3379 | 17.9349 | 18.4616 | 17.9223
170015 | 15.8887 | 16.5750 | 17.1302 | 16.5216
170016 | 19.6393 | 19.2130 | 20.0675 | 19.6307
170017 | 17.8690 | 17.7958 | 19.5994 | 18.4143
170018 | 14.2759 | 15.2984 | 15.3237 | 14.9817
170019 | 16.6611 | 15.2094 | 16.9362 | 16.2597
170020 | 16.1460 | 17.3400 | 18.1325 | 17.2351
170022 | 17.9383 | 18.5309 | 19.1888 | 18.5543
170023 | 19.3585 | 19.1351 | 19.2441 | 19.2444
170024 | 13.0566 | 13.6803 | 14.3604 | 13.6835
170025 | 16.3716 | 17.8667 | 18.7182 | 17.6087
170026 | 13.3122 | 15.0470 | 14.8974 | 14.3412
170027 | 16.3859 | 17.3604 | 17.8690 | 17.2095
170030 | 15.2397 | 14.6530 | 15.9282 | 15.2488
170031 | 13.4670 | 13.9601 | 14.2151 | 13.8715
170032 | 14.4835 | 15.6093 | 16.3449 | 15.4817
170033 | 16.0529 | 16.4059 | 19.1952 | 17.1087
170034 | 14.6349 | 15.8202 | 16.9586 | 15.7633
170035 | 15.6240 | 18.5885 | 17.0945 | 17.0832
170036 | 14.1732 | * | * | 14.1732
170038 | 14.2092 | 14.7776 | 13.8582 | 14.2922
170039 | 14.2952 | 15.8635 | 17.0774 | 15.7642
170040 | 20.1419 | 21.6440 | 19.4713 | 20.4318
170041 | 11.4691 | 11.7566 | 12.4488 | 11.8690
170044 | 14.7801 | 15.3011 | 17.3254 | 15.8168
170045 | 12.1066 | 14.0875 | 24.6556 | 16.5680
170049 | 18.5821 | 19.9415 | 20.7921 | 19.8083
170051 | 14.1572 | 15.0889 | 16.4851 | 15.2703
170052 | 14.6176 | 15.0108 | 15.2283 | 14.9500
170053 | 9.0407 | 16.5102 | 14.6133 | 11.9759
170054 | 12.7655 | 14.4353 | 14.6354 | 13.9214
170055 | 14.9875 | 16.9800 | 18.2607 | 16.7698
170056 | 14.8656 | 17.0442 | 18.2840 | 16.8012
170057 | 15.0892 | 13.0007 | * | 13.9776
170058 | 18.3389 | 18.6983 | 19.5415 | 18.8159
170060 | 17.2271 | 17.3482 | 18.9853 | 17.7512
170061 | 14.1380 | 15.6527 | 15.0258 | 14.9459
170063 | 11.3284 | 12.8082 | 14.1185 | 12.6216
170064 | 12.4183 | * | * | 12.4183
170066 | 14.4790 | 15.5322 | 16.2891 | 15.4168
170067 | 12.7846 | 14.7492 | 14.9921 | 14.1535
170068 | 15.8175 | 15.1790 | 17.0022 | 15.9795
170070 | 12.8158 | 14.2445 | 14.0627 | 13.7083
170072 | 13.3379 | 12.6329 | 12.7709 | 12.9159
170073 | 16.4690 | 17.5368 | 17.7056 | 17.2186
170074 | 14.4009 | 17.5537 | 17.3699 | 16.4326
170075 | 11.2598 | 12.4212 | 13.6816 | 12.5950
170076 | 13.5820 | 14.5866 | 14.6109 | 14.2394
170077 | 12.7244 | 13.5235 | 13.9104 | 13.3651
170079 | 14.2859 | 13.5261 | 11.5902 | 13.1470
170080 | 12.2012 | 12.6014 | 14.8293 | 13.1562
170081 | 12.5122 | 13.8077 | 14.6823 | 13.7421
170082 | 12.3902 | 12.8563 | 13.7464 | 12.9855
170084 | 12.1611 | 12.5410 | 13.0519 | 12.5742
170085 | 14.5069 | 15.4518 | 17.5422 | 15.9150
170086 | 19.8496 | 20.4068 | 19.7182 | 19.9991
170088 | 11.7505 | 13.4542 | 13.4860 | 12.9031
170089 | 18.0823 | 18.8136 | 15.4860 | 17.4574
170090 | 11.2747 | 11.9147 | 10.9444 | 11.3947
170092 | 12.8507 | * | * | 12.8507
170093 | 12.7780 | 13.5490 | 14.0276 | 13.4193
170094 | 17.7091 | 20.1985 | 21.2035 | 19.6936
170095 | 15.7469 | 15.5463 | 15.3532 | 15.5482
170097 | 15.8504 | 16.4608 | 17.6255 | 16.6758
170098 | 14.1026 | 15.5259 | 16.6210 | 15.4425
170099 | 13.5509 | 13.6033 | 14.3370 | 13.8072
170100 | 14.4700 | * | * | 14.4700
170101 | 12.8847 | 14.5629 | 18.0143 | 14.7718
170102 | 13.2434 | 13.6321 | 14.2048 | 13.6933
170103 | 16.6578 | 17.2844 | 17.9530 | 17.2887
170104 | 19.7645 | 20.6182 | 20.9336 | 20.4421
170105 | 15.9290 | 16.5408 | 16.7403 | 16.4083
170106 | 14.6773 | 18.5479 | 17.7467 | 16.9030
170109 | 16.9421 | 17.2629 | 16.9782 | 17.0622
170110 | 15.5549 | 16.9823 | 18.5731 | 17.1658
170112 | 13.3908 | 14.3855 | 15.4049 | 14.4270
170113 | 13.3935 | 13.9038 | 14.6486 | 13.9920
170114 | 14.5116 | 14.4545 | 16.0283 | 14.9432
170115 | 12.6815 | 12.6997 | 12.9216 | 12.7709
170116 | 15.7566 | 16.8714 | 18.0591 | 16.9087
170117 | 15.2818 | 15.7875 | 16.8237 | 15.8968
170119 | 13.9673 | 15.1990 | 15.2708 | 14.7822
170120 | 16.2122 | 17.6748 | 17.4917 | 17.1241
170122 | 20.1266 | 20.0615 | 20.5347 | 20.2343
170123 | 21.4168 | 23.1697 | 23.5468 | 22.6616
170124 | 10.2089 | 11.1249 | 15.0596 | 11.8247
170126 | 12.1268 | 12.8096 | 13.5736 | 12.8129
170128 | 14.9919 | 14.8891 | 14.1676 | 14.6301
170131 | 13.0978 | 10.1000 | * | 11.3849
170133 | 17.1103 | 18.0243 | 15.7918 | 16.8958
170134 | 14.2252 | 14.1085 | 14.6799 | 14.3402
170137 | 17.4151 | 17.8290 | 19.3118 | 18.1884
170139 | 13.3896 | 14.1967 | 14.3001 | 13.9545
170142 | 17.3234 | * | 17.7134 | 17.5177
170143 | 15.8802 | 15.6509 | 16.0415 | 15.8575
170144 | 16.0860 | 19.0929 | 20.4392 | 18.4073
170145 | 16.7499 | 17.1837 | 19.0142 | 17.6442
170146 | 19.9725 | 20.9075 | 21.7919 | 20.9132
170147 | 16.2829 | 22.3017 | 17.8070 | 18.7377
170148 | 17.2497 | 16.9183 | 19.9697 | 17.9186
170150 | 15.4283 | 15.5651 | 15.9072 | 15.6422
170151 | 13.3674 | 13.8934 | 14.3668 | 13.8637
170152 | 13.6846 | 14.9139 | 15.6423 | 14.7323
170160 | 13.3087 | 13.7108 | 14.4732 | 13.8369
170164 | 15.5597 | 16.6542 | 17.4072 | 16.5279
170166 | 17.5681 | 27.5567 | 12.7507 | 18.3396
170171 | 13.8059 | 12.5200 | 13.1792 | 13.1761
170175 | 17.8802 | 19.0232 | 19.9694 | 18.9232
170176 | 20.3194 | 21.3400 | 23.0743 | 21.5773
170180 | * | 16.6921 | 8.6352 | 11.8552
170182 | 14.1971 | 22.2164 | 21.0546 | 19.7649
170183 | 19.0919 | 20.3505 | 19.5182 | 19.7036
170184 | 27.0152 | * | * | 27.0152
180001 | 19.5188 | 17.9906 | 20.4885 | 19.3882
180002 | 18.1348 | 17.9669 | 17.5798 | 17.8819
180004 | 15.9921 | 17.2581 | 17.7149 | 16.9654
180005 | 20.6280 | 21.1390 | 22.4634 | 21.3796
180006 | 11.2254 | 11.4398 | 10.3400 | 11.0123
180007 | 17.1997 | 17.6776 | 17.9491 | 17.6005
180009 | 20.8103 | 21.4730 | 21.0608 | 21.1163
180010 | 17.5452 | 19.1100 | 19.6311 | 18.7406
180011 | 16.9311 | 17.1050 | 19.0526 | 17.8588
180012 | 18.7350 | 18.7223 | 18.9481 | 18.8031
180013 | 17.4487 | 18.2354 | 19.6031 | 18.4802
180014 | 20.8033 | 21.4856 | 21.3242 | 21.1722
180016 | 18.8422 | 19.8892 | 21.1458 | 20.0187
180017 | 15.1699 | 15.4140 | 15.6583 | 15.4240
180018 | 18.9020 | 17.1692 | 15.4575 | 17.0460
180019 | 16.7648 | 17.3970 | 17.2177 | 17.1400
180020 | 17.7782 | 17.7288 | 18.0111 | 17.8397
180021 | 15.1627 | 15.4580 | 17.0618 | 15.8957
180023 | 15.2219 | 15.8803 | 17.4717 | 16.1885
180024 | 15.3299 | 16.1731 | 16.5040 | 15.9951
180025 | 17.1688 | 14.1841 | 15.4180 | 15.4826
180026 | 14.1571 | 14.6804 | 15.0118 | 14.6082
180027 | 14.8869 | 16.4116 | 17.5286 | 16.2087
180028 | 19.3519 | 19.5276 | 15.7005 | 18.0068
180029 | 18.0191 | 17.7729 | 17.7248 | 17.8352
180030 | 17.0234 | 17.3430 | 17.9543 | 17.4342
180031 | 13.7862 | 13.9844 | 13.1848 | 13.6178
180032 | 16.0941 | 16.8318 | 17.2784 | 16.7976
180033 | 13.7667 | 17.7344 | 15.4131 | 15.5472
180034 | 17.3158 | 15.3369 | 16.3991 | 16.3000
180035 | 19.4485 | 20.1305 | 21.3666 | 20.2870
180036 | 19.1922 | 19.8398 | 19.8830 | 19.6408
180037 | 18.8053 | 19.9737 | 21.2184 | 19.9797
180038 | 17.1643 | 17.7626 | 18.4077 | 17.7880
180040 | 19.4450 | 19.5337 | 20.6296 | 19.8636
180041 | 15.1703 | 15.0785 | 16.3699 | 15.5655
180042 | 16.2924 | 16.7691 | 17.1519 | 16.7450
180043 | 16.6077 | 16.8027 | 13.8503 | 15.6793
180044 | 17.8196 | 18.5571 | 19.4984 | 18.6534
180045 | 17.7272 | 17.7130 | 20.8455 | 18.9499
180046 | 17.9096 | 19.2523 | 21.2465 | 19.4702
180047 | 15.0354 | 16.2304 | 18.6938 | 16.6027
180048 | 19.5681 | 18.3442 | 17.7816 | 18.5208
180049 | 16.0799 | 16.4319 | 16.5459 | 16.3594
180050 | 18.4753 | 17.8540 | 17.1493 | 17.7884
180051 | 15.6796 | 16.3960 | 17.5441 | 16.5170
180053 | 14.6299 | 15.9284 | 15.8994 | 15.5002
180054 | 16.3875 | 19.4858 | 20.0946 | 18.5771
180055 | 14.6446 | 15.2663 | 15.8422 | 15.2446
180056 | 16.6240 | 17.0056 | 17.5728 | 17.0694
180058 | 14.3562 | 15.9685 | 14.5355 | 14.9226
180059 | 14.2605 | 13.3955 | 14.7032 | 14.1102
180060 | 7.2139 | * | * | 7.2139
180063 | 11.9120 | 13.1036 | 12.4448 | 12.4785
180064 | 14.4872 | 15.2424 | 15.5066 | 15.0871
180065 | 20.0286 | 12.0629 | 11.1934 | 13.8815
180066 | 18.5635 | 19.2981 | 19.7883 | 19.2237
180067 | 18.5288 | 20.6322 | 19.8756 | 19.6602
180069 | 17.2956 | 17.7911 | 16.2916 | 17.1149
180070 | 13.8370 | 13.1923 | 15.9362 | 14.2840
180072 | 17.8554 | 16.9021 | 17.2347 | 17.3229
180075 | 15.0701 | * | * | 15.0701
180078 | 19.1615 | 21.1170 | 21.7116 | 20.6787
180079 | 13.4072 | 15.1636 | 15.9048 | 14.8197
180080 | 15.8327 | 16.4989 | 16.6428 | 16.3363
180087 | 14.9660 | 14.9167 | 15.6089 | 15.1555
180088 | 22.5349 | 22.0374 | 22.4148 | 22.3261
180092 | 16.3099 | 18.2405 | 18.3597 | 17.6633
180093 | 16.8286 | 17.0132 | 17.9623 | 17.2606
180094 | 12.5074 | 13.5490 | 13.6233 | 13.2263
180095 | 13.3991 | 13.8021 | 13.9050 | 13.6989
180099 | 13.6988 | 13.3631 | 13.2991 | 13.4593
180101 | 19.5644 | 18.4883 | * | 18.9778
180102 | 17.8751 | 17.9618 | 18.5018 | 18.0941
180103 | 19.2182 | 19.8965 | 20.3774 | 19.8456
180104 | 18.8730 | 18.9281 | 19.4139 | 19.0718
180105 | 14.0811 | 15.2394 | 16.6997 | 15.2994
180106 | 13.6062 | 14.3505 | 15.2895 | 14.3903
180108 | 14.6222 | 14.8187 | 13.9862 | 14.4793
180115 | 17.1079 | 16.7003 | 16.9096 | 16.9026
180116 | 16.9389 | 18.0392 | 18.2848 | 17.7647
180117 | 18.3821 | 17.7857 | 23.0192 | 19.6584
180118 | 12.1533 | 15.8597 | 16.9250 | 14.8270
180120 | 17.8145 | 16.1591 | 15.3115 | 16.3371
180121 | 14.5134 | 15.0983 | 20.0494 | 16.3330
180122 | 16.9678 | 18.5094 | 18.1930 | 17.8754
180123 | 18.9995 | 21.0613 | 21.1067 | 20.4023
180124 | 18.4064 | 17.4994 | 18.7682 | 18.2003
180125 | 19.7341 | 19.6416 | 14.9314 | 17.5744
180126 | 12.3959 | 12.9228 | 14.3551 | 13.2733
180127 | 17.3452 | 19.2581 | 17.5540 | 18.0362
180128 | 17.0508 | 17.6385 | 18.2817 | 17.6802
180129 | 17.8600 | 16.8378 | 22.3536 | 18.8696
180130 | 19.0110 | 19.8192 | 20.6684 | 19.8450
180132 | 17.2657 | 17.7744 | 19.1884 | 18.0615
180133 | 22.2325 | 21.6794 | 21.7800 | 21.8995
180134 | 13.6287 | 13.1935 | 12.5041 | 13.1008
180136 | 17.7146 | 17.3542 | * | 17.5359
180138 | 18.6149 | 19.3692 | 19.9343 | 19.3216
180139 | 18.7679 | 18.7198 | 18.0041 | 18.4600
180140 | 20.3953 | 16.8152 | 15.2719 | 17.3915
180141 | 20.0075 | 20.9820 | 23.8930 | 21.4590
180142 | * | * | 20.7510 | 20.7510
190001 | 17.0159 | 17.6832 | 18.1514 | 17.6263
190002 | 18.8381 | 19.1924 | 19.8834 | 19.2931
190003 | 22.1543 | 19.7749 | 19.9121 | 20.4811
190004 | 17.5385 | 17.7710 | 18.3620 | 17.8959
190005 | 16.7149 | 17.2422 | 17.3078 | 17.0856
190006 | 17.7335 | 17.8036 | 17.5911 | 17.7112
190007 | 13.6014 | 13.8189 | 14.4720 | 13.9833
190008 | 16.8916 | 18.6664 | 19.2456 | 18.2327
190009 | 14.2085 | 15.3555 | 15.9731 | 15.1819
190010 | 17.0192 | 16.2805 | 16.5020 | 16.6088
190011 | 15.1715 | 15.9534 | 15.6351 | 15.5881
190013 | 16.5706 | 16.8181 | 15.5019 | 16.2739
190014 | 17.0170 | 17.0959 | 17.7761 | 17.3018
190015 | 18.1943 | 18.6266 | 18.9896 | 18.6153
190017 | 15.7894 | 16.2393 | 17.5381 | 16.5250
190018 | 16.9761 | 15.0668 | 11.1898 | 14.5841
190019 | 17.4006 | 18.5257 | 18.3788 | 18.1281
190020 | 17.3084 | 17.5256 | 17.6840 | 17.5059
190025 | 16.0738 | 18.6369 | 15.8910 | 16.9047
190026 | 17.2166 | 18.1622 | 18.5015 | 17.9532
190027 | 16.1856 | 17.0827 | 17.4761 | 16.9034
190029 | 17.1103 | 16.5239 | 19.1967 | 17.5497
190033 | 10.7448 | * | * | 10.7448
190034 | 16.5066 | 16.8503 | 18.0754 | 17.1513
190036 | 19.9456 | 20.1780 | 19.1695 | 19.7802
190037 | 12.0237 | 17.6945 | 19.9878 | 16.0686
190039 | 17.1687 | 19.4713 | 19.0376 | 18.5119
190040 | 20.3180 | 21.4634 | 21.7075 | 21.1804
190041 | 17.8975 | 17.6646 | 18.0991 | 17.8870
190043 | 12.5660 | 15.5580 | 15.5618 | 14.5094
190044 | 17.1984 | 17.2892 | 17.4471 | 17.3108
190045 | 21.6948 | 21.6107 | 21.2853 | 21.5139
190046 | 19.3538 | 19.7964 | 20.4273 | 19.8671
190048 | 16.3404 | 16.6683 | 16.8136 | 16.6153
190049 | 16.4250 | 17.2280 | 17.7417 | 17.1570
190050 | 15.3771 | 16.1980 | 16.2854 | 15.9545
190053 | 12.4980 | 13.2159 | 13.0080 | 12.9160
190054 | 16.4683 | 19.1738 | 18.9059 | 18.1924
190059 | 15.8443 | 15.6942 | 15.8373 | 15.7915
190060 | 18.3689 | 14.7186 | 17.5317 | 16.6606
190064 | 19.9047 | 20.4482 | 18.2466 | 19.4909
190065 | 19.3856 | 20.9927 | 18.4695 | 19.5739
190071 | 13.5908 | 14.4827 | 16.4138 | 14.8320
190077 | 12.8290 | 15.7805 | 16.5536 | 15.0793
190078 | 13.4990 | 14.8826 | 16.9383 | 14.8793
190079 | 17.2909 | 17.7120 | 17.9403 | 17.6368
190081 | 12.0190 | 15.3198 | 14.9707 | 14.2301
190083 | 16.1374 | 18.8895 | 18.4951 | 17.8399
190086 | 14.9295 | 15.8694 | 16.5074 | 15.7738
190088 | 19.6328 | 20.5531 | 19.9362 | 20.0391
190089 | 12.7879 | 13.0503 | 15.0395 | 13.5823
190090 | 16.5580 | 16.6664 | * | 16.6122
190092 | 18.0655 | * | * | 18.0655
190095 | 15.7316 | 16.2287 | 17.3258 | 16.3915
190098 | 19.2175 | 20.4897 | 21.0847 | 20.2301
190099 | 18.9255 | 19.9018 | * | 19.4679
190102 | 19.0477 | 20.0300 | 20.5106 | 19.8707
190103 | 15.5698 | 12.1389 | 14.4158 | 13.8580
190106 | 17.7468 | 18.5813 | * | 18.1836
190109 | 14.5288 | 15.5767 | 15.8187 | 15.3068
190110 | 12.9925 | 15.8052 | 15.7313 | 14.8387
190111 | 20.0376 | 19.7514 | 20.6508 | 20.1574
190112 | 19.2067 | 21.0232 | 22.0741 | 20.6951
190113 | 18.9922 | 12.5777 | * | 15.7380
190114 | 12.9083 | 12.6366 | 13.9209 | 13.1568
190115 | 20.4914 | 20.2473 | 22.3441 | 21.0026
190116 | 12.5881 | 15.5481 | 17.3757 | 15.1678
190118 | 12.9537 | 14.7876 | 16.3776 | 14.7222
190120 | 13.6938 | 13.9591 | 17.2309 | 14.9846
190122 | 14.8255 | 15.4793 | 15.3742 | 15.2287
190124 | 22.3825 | 20.6222 | 20.1206 | 20.9375
190125 | 18.6287 | 20.4517 | 19.8298 | 19.6458
190128 | 19.7127 | 20.4688 | 20.8770 | 20.3583
190130 | 12.4307 | 15.1467 | 14.0379 | 13.8956
190131 | 19.5984 | 20.7565 | 18.8958 | 19.7536
190133 | 13.4750 | 13.5383 | 15.1393 | 13.9917
190134 | 12.6774 | 12.1749 | 12.4507 | 12.4351
190135 | 21.3511 | 21.6875 | 21.1206 | 21.3903
190136 | 11.3250 | 12.4091 | 15.1662 | 13.0730
190138 | 22.7088 | * | * | 22.7088
190140 | 12.0285 | 14.2256 | 14.6829 | 13.6611
190142 | 14.9820 | 15.4861 | 16.2280 | 15.5517
190144 | 16.8360 | 16.2068 | 18.4405 | 17.1561
190145 | 13.9893 | 15.2345 | 16.2505 | 15.1638
190146 | 20.0941 | 21.2825 | 22.0000 | 21.1693
190147 | 14.3219 | 14.4345 | 14.7202 | 14.4910
190148 | 14.0180 | 16.6337 | 15.5338 | 15.4604
190149 | 15.1862 | 17.5997 | 16.4722 | 16.4169
190151 | 11.9190 | 14.7333 | 15.5210 | 14.0028
190152 | 20.3951 | 22.2070 | 22.0319 | 21.4716
190155 | 11.0800 | * | * | 11.0800
190156 | 12.4786 | 15.7478 | 16.0442 | 14.6766
190158 | 19.6164 | 20.4637 | 20.4078 | 20.1474
190160 | 18.4746 | 17.1003 | 18.4662 | 18.0078
190161 | 14.6295 | 15.5737 | 15.9280 | 15.3544
190162 | 19.5027 | 20.6143 | 20.1962 | 20.0440
190164 | 16.3328 | 15.1783 | 18.2379 | 16.4778
190167 | 16.2880 | 16.6681 | 17.7611 | 16.9143
190170 | 13.5772 | 14.1750 | 14.5222 | 14.0895
190173 | 19.6362 | 23.6398 | 22.5148 | 21.9224
190175 | 20.6908 | 19.3625 | 20.1330 | 20.0312
190176 | 18.8205 | 24.0574 | 22.0869 | 21.4121
190177 | 20.3177 | 18.6715 | 19.7794 | 19.5846
190178 | 10.4941 | 11.0657 | 12.0372 | 11.1714
190182 | 20.0267 | 20.2855 | 20.7102 | 20.3281
190183 | 16.1064 | 16.7671 | 16.0752 | 16.3134
190184 | 14.8645 | 17.2044 | 19.8436 | 17.2547
190185 | 19.3707 | 20.1444 | 20.3479 | 19.9607
190186 | 16.3586 | 18.7568 | 17.4078 | 17.5306
190189 | 26.5419 | * | * | 26.5419
190190 | 18.6656 | 17.4642 | 15.8985 | 17.1134
190191 | 18.1353 | 20.4975 | 19.6911 | 19.4475
190196 | 14.8699 | 17.9225 | 18.6138 | 17.2784
190197 | 17.9166 | 19.5569 | 20.2082 | 19.2721
190199 | 13.4222 | 16.0637 | 15.3522 | 14.6078
190200 | 19.4148 | 22.0391 | 21.6852 | 21.0397
190201 | 19.1432 | 18.7079 | 19.7539 | 19.2099
190202 | 17.8959 | * | * | 17.8959
190203 | 21.3096 | 21.7350 | 21.7931 | 21.5975
190204 | 21.2119 | 21.4624 | 20.7215 | 21.1251
190205 | 18.1007 | 19.6587 | 19.3737 | 19.0483
190206 | 20.0648 | 21.7012 | 21.3307 | 21.0222
190207 | 17.6712 | 20.5082 | 19.0961 | 19.1272
190208 | 14.6096 | 20.0065 | 16.9641 | 17.1855
190218 | 18.1627 | 19.7518 | 19.2992 | 19.0335
190223 | 19.2550 | * | * | 19.2550
190227 | 12.1086 | * | * | 12.1086
190231 | 16.8850 | 15.8287 | 17.7247 | 16.7665
190235 | 18.2702 | * | * | 18.2702
190236 | 22.1837 | 19.3395 | 21.1982 | 20.9440
190238 | * | * | 20.6799 | 20.6799
190239 | * | * | 19.7601 | 19.7601
190240 | * | * | 14.3579 | 14.3579
200001 | 17.4890 | 18.0527 | 18.1207 | 17.8991
200002 | 18.7745 | 19.3629 | 22.9761 | 20.4367
200003 | 16.7389 | 16.9566 | 18.1540 | 17.2860
200006 | 19.7984 | 17.6586 | 21.0922 | 19.4856
200007 | 17.8859 | 18.7992 | 18.0655 | 18.2525
200008 | 20.5020 | 21.7489 | 21.2206 | 21.1621
200009 | 20.6433 | 22.2280 | 21.3591 | 21.4199
200012 | 17.0130 | 18.3484 | 20.0235 | 18.4600
200013 | 16.4933 | 18.0566 | 18.2737 | 17.6653
200015 | 20.1117 | * | * | 20.1117
200016 | 17.6623 | 18.0866 | 17.4335 | 17.7276
200017 | 19.6462 | 17.2930 | * | 18.7598
200018 | 17.2422 | 18.5397 | 18.2644 | 17.9737
200019 | 18.6399 | 19.2348 | 20.1070 | 19.3592
200020 | 20.5967 | 22.4526 | 22.5506 | 21.8845
200021 | 19.4052 | 19.9133 | 20.7565 | 20.0011
200023 | 14.9164 | 16.1707 | 18.8427 | 16.3595
200024 | 18.6518 | 19.4329 | 21.0233 | 19.7086
200025 | 19.0659 | 20.2259 | 20.4823 | 19.9499
200026 | 17.2842 | 18.1194 | 17.8759 | 17.7682
200027 | 18.2775 | 18.5659 | 19.6658 | 18.8842
200028 | 16.9306 | 19.5708 | 19.9218 | 18.7752
200031 | 15.9043 | 16.2217 | 16.3382 | 16.1598
200032 | 17.9160 | 18.9315 | 19.6907 | 18.8137
200033 | 21.4031 | 21.8634 | 22.0783 | 21.7858
200034 | 19.2407 | 20.1519 | 20.4939 | 19.9679
200037 | 18.2419 | 18.6713 | 19.2304 | 18.7348
200038 | 19.2147 | 23.3851 | 21.9205 | 21.5084
200039 | 20.2901 | 19.8589 | 20.2311 | 20.1007
200040 | 19.2970 | 19.5503 | 19.0188 | 19.2835
200041 | 17.6559 | 19.3563 | 18.4593 | 18.4719
200043 | 16.5368 | 16.7224 | 18.3804 | 17.1882
200050 | 18.0805 | 20.1214 | 13.1684 | 16.5253
200051 | 19.5925 | 22.1525 | 22.0712 | 21.5149
200052 | 15.1216 | 17.2099 | 17.8551 | 16.7641
200055 | 17.1729 | 18.8422 | 18.6877 | 18.2119
200062 | 16.5139 | 17.2273 | 18.2221 | 17.3074
200063 | 19.6658 | 19.9331 | 25.6527 | 21.3771
200066 | 16.3431 | 17.0289 | 17.1538 | 16.8395
210001 | 18.7266 | 20.4841 | 18.6617 | 19.2372
210002 | 22.8448 | 19.9219 | 20.4315 | 21.0189
210003 | 25.3730 | 20.3446 | 26.0447 | 23.6583
210004 | 23.5884 | 24.2909 | 24.9760 | 24.2880
210005 | 19.6162 | 21.4929 | 21.3829 | 20.7876
210006 | 17.7721 | 18.9436 | 19.3682 | 18.7016
210007 | 21.5415 | 23.1007 | 23.8840 | 22.8043
210008 | 19.5006 | 21.1768 | 21.2895 | 20.6531
210009 | 21.8111 | 20.5447 | 20.7479 | 21.0282
210010 | 14.3783 | 18.7197 | 19.5908 | 17.3758
210011 | 21.2422 | 21.4862 | 21.4043 | 21.3727
210012 | 23.4317 | 20.7203 | 21.3977 | 21.7764
210013 | 18.8455 | 19.7288 | 19.4505 | 19.3405
210015 | 16.6898 | 16.1912 | 18.6087 | 17.1516
210016 | 22.1469 | 23.8739 | 26.5193 | 24.0991
210017 | 17.1747 | 18.8928 | 18.5079 | 18.1448
210018 | 21.4055 | 22.2135 | 22.8553 | 22.1574
210019 | 19.0899 | 19.3046 | 20.6025 | 19.6453
210022 | 21.8160 | 22.6389 | 24.3016 | 22.9230
210023 | 21.7988 | 23.1950 | 22.9989 | 22.6719
210024 | 19.5645 | 20.6011 | 21.1669 | 20.3654
210025 | 19.5704 | 19.5876 | 21.2769 | 20.0208
210026 | 11.6440 | 12.1348 | 13.3494 | 12.4124
210027 | 18.4862 | 17.6855 | 17.1060 | 17.7943
210028 | 18.8623 | 19.6408 | 19.4157 | 19.3091
210029 | 22.3876 | 21.2167 | 22.7191 | 22.0801
210030 | 21.0169 | 21.7403 | 20.9574 | 21.2261
210031 | 15.5873 | 16.2299 | * | 15.9014
210032 | 18.4983 | 17.7228 | 20.1955 | 18.7972
210033 | 19.9144 | 20.8053 | 23.7588 | 21.3886
210034 | 16.1216 | 15.7322 | 25.0849 | 18.5047
210035 | 20.6092 | 20.2731 | 20.8317 | 20.5720
210037 | 18.7361 | 18.3072 | 20.5528 | 19.2053
210038 | 23.2616 | 23.4971 | 24.9762 | 23.8679
210039 | 20.7291 | 19.9901 | 21.3559 | 20.7067
210040 | 25.0770 | 21.5014 | 23.4252 | 23.3184
210043 | 18.5891 | 19.6474 | 22.4000 | 20.0973
210044 | 22.2438 | 22.5781 | 23.0917 | 22.6329
210045 | 9.6862 | 11.6086 | 12.1467 | 11.1781
210048 | 22.3923 | 23.0537 | 24.6921 | 23.3434
210049 | 17.6697 | 19.0821 | 19.3022 | 18.6991
210051 | 20.7633 | 22.4335 | 23.6476 | 22.3235
210054 | 23.5122 | 22.3559 | 23.2730 | 23.0396
210055 | 20.1012 | 29.2539 | 26.5272 | 25.0062
210056 | 20.9445 | 19.2662 | 22.9654 | 21.0453
210057 | 22.5717 | 23.8289 | 26.0076 | 24.0668
210058 | 21.4976 | 22.0753 | 16.3191 | 20.0884
210059 | 23.1274 | 22.6766 | 25.6052 | 23.5899
210060 | * | * | 26.5846 | 26.5846
210061 | 20.0203 | 17.2240 | 16.1931 | 17.8181
220001 | 26.3207 | 21.9369 | 22.9064 | 22.9526
220002 | 22.5808 | 24.1285 | 24.7920 | 23.8005
220003 | 19.1383 | 16.9246 | 17.9319 | 17.9948
220004 | 20.0058 | * | * | 20.0058
220006 | 22.1228 | 22.3085 | 22.6469 | 22.3611
220008 | 21.8873 | 24.4691 | 22.0796 | 22.7689
220010 | 21.9226 | 21.8582 | 22.0067 | 21.9297
220011 | 28.5673 | 26.1827 | 29.5290 | 28.2047
220012 | 29.5051 | 32.0829 | 31.2303 | 30.9286
220015 | 21.7813 | 22.5773 | 23.1893 | 22.4843
220016 | 23.1440 | 23.3750 | 23.0951 | 23.2050
220017 | 25.2630 | 22.4605 | 24.9576 | 24.2129
220019 | 19.1264 | 19.5613 | 19.8551 | 19.5190
220020 | 19.9925 | 21.4152 | 22.2245 | 21.2040
220021 | 23.6313 | * | * | 23.6313
220023 | 18.7625 | 16.1885 | * | 18.0910
220024 | 21.5871 | 21.5363 | 21.9316 | 21.6947
220025 | 19.9398 | 20.7882 | 22.8593 | 21.1235
220028 | 22.0721 | 22.8036 | 21.0630 | 21.9530
220029 | 21.8711 | 23.1509 | 25.6560 | 23.4858
220030 | 14.5383 | 18.5441 | 18.7429 | 17.2580
220031 | 28.1584 | 30.2430 | 29.3091 | 29.1415
220033 | 20.4120 | 20.0695 | 20.2601 | 20.2365
220035 | 21.9974 | 21.6396 | 23.1892 | 22.2365
220036 | 24.1570 | 24.6470 | 24.4091 | 24.3977
220038 | 22.3494 | 22.6518 | 22.3162 | 22.4382
220041 | 23.1483 | 23.4720 | 27.5034 | 24.5999
220042 | 25.2852 | 25.0779 | 26.0473 | 25.4181
220046 | 22.4677 | 22.7068 | 23.3149 | 22.8459
220049 | 23.0283 | 26.0025 | 26.3191 | 25.1679
220050 | 20.8345 | 22.0144 | 22.5265 | 21.7871
220051 | 20.4765 | 21.1033 | 21.7357 | 21.0973
220052 | 23.1376 | 23.7650 | 23.5225 | 23.4708
220053 | 21.2679 | 19.1280 | * | 20.2813
220055 | 21.5706 | 21.3743 | * | 21.4727
220057 | 23.0010 | 25.3902 | 25.8064 | 24.6606
220058 | 20.1888 | 19.9369 | 26.8345 | 22.1915
220060 | 26.1753 | 28.0843 | 28.0794 | 27.4392
220062 | 20.0560 | 20.4685 | 20.2254 | 20.2505
220063 | 20.9547 | 20.3951 | 20.8079 | 20.7132
220064 | 22.1785 | 22.3260 | 22.7497 | 22.4060
220065 | 20.1974 | 20.1364 | 20.1424 | 20.1584
220066 | 20.4586 | 20.7826 | 21.7186 | 21.0071
220067 | 25.7414 | 26.4443 | 27.5405 | 26.5452
220068 | 6.4548 | * | * | 6.4548
220070 | 19.7678 | 19.7528 | 19.0333 | 19.5401
220071 | 24.6508 | 25.6184 | 26.8257 | 25.6808
220073 | 25.8680 | 25.6025 | 26.1328 | 25.8683
220074 | 24.0523 | 25.6390 | 24.8429 | 25.0647
220075 | 21.5418 | 22.8057 | 22.5329 | 22.2794
220076 | 24.7783 | 22.6668 | 23.2795 | 23.6106
220077 | 24.8019 | 25.2646 | 25.5336 | 25.1941
220079 | 21.0090 | 22.6256 | 17.9964 | 20.4339
220080 | 20.5007 | 21.5238 | 22.1971 | 21.3825
220081 | 25.3370 | 29.1726 | 29.6682 | 28.0686
220082 | 20.0175 | 21.6726 | 22.1453 | 21.2140
220083 | 23.0759 | 23.9156 | 22.5815 | 23.1732
220084 | 24.6624 | 23.6641 | 21.3072 | 23.1862
220086 | 30.4649 | 23.8705 | 27.6595 | 26.7829
220088 | 23.3783 | 22.9067 | 23.4258 | 23.2384
220089 | 21.7884 | 23.0965 | 25.4106 | 23.3099
220090 | 21.6353 | 22.0041 | 23.2456 | 22.2523
220092 | 17.0409 | 18.5239 | 24.2591 | 19.3548
220094 | 21.9853 | * | * | 21.9853
220095 | 21.4468 | 21.4831 | 21.7851 | 21.5735
220098 | 20.8596 | 21.5906 | 23.1547 | 21.8533
220100 | 25.3484 | 25.7077 | 27.5841 | 26.2007
220101 | 24.3260 | 25.9204 | 27.0711 | 25.7662
220104 | 27.5297 | 28.0021 | 28.7258 | 28.0695
220105 | 21.6873 | 21.4129 | 21.9185 | 21.6684
220106 | 24.5518 | 25.6577 | 25.9277 | 25.3659
220107 | 20.2719 | * | * | 20.2719
220108 | 22.6372 | 21.9115 | 23.4975 | 22.6709
220110 | 29.1927 | 28.7071 | 28.8697 | 28.9201
220111 | 23.0475 | 23.8066 | 24.7510 | 23.8707
220116 | 24.9744 | 26.1662 | 32.0049 | 27.4579
220118 | 30.5213 | * | * | 30.5213
220119 | 22.8586 | 23.3216 | 23.8785 | 23.3181
220123 | 27.3063 | 25.8994 | 32.4678 | 28.6276
220126 | 20.9557 | 22.5218 | 22.9620 | 22.1062
220128 | 20.5636 | * | * | 20.5636
220133 | 35.2747 | 25.4596 | 29.3911 | 30.0324
220135 | 25.0798 | 25.6522 | 26.6636 | 25.7967
220153 | 23.8981 | 22.9592 | * | 23.4152
220154 | 22.1261 | 22.4770 | 21.1563 | 22.0118
220163 | 27.3527 | 29.1143 | 29.6933 | 28.6971
220171 | 23.4340 | 24.5553 | 25.2585 | 24.4462
230001 | 19.2015 | 19.8020 | 20.0438 | 19.6841
230002 | 21.9058 | 22.7991 | 23.3790 | 22.7047
230003 | 19.6118 | 19.8420 | 21.2215 | 20.2501
230004 | 22.0310 | 23.1036 | 20.5005 | 21.8004
230005 | 19.4040 | 18.5644 | 17.0943 | 18.3438
230006 | 18.4681 | 19.1041 | 20.4978 | 19.3271
230007 | 19.4339 | 15.5538 | * | 18.1334
230012 | 18.6663 | 15.0803 | * | 16.5807
230013 | 20.6322 | 20.8018 | 22.2211 | 21.1847
230015 | 20.4264 | 20.1104 | 20.6464 | 20.3967
230017 | 20.3975 | 22.2822 | 22.4824 | 21.6902
230019 | 21.3222 | 22.2622 | 22.1491 | 21.9247
230020 | 21.3206 | 22.1280 | 22.1198 | 21.8771
230021 | 18.5670 | 18.9636 | 19.8256 | 19.1973
230022 | 19.7598 | 18.8006 | 21.9129 | 20.1618
230024 | 27.9551 | 23.7326 | 24.9664 | 25.4314
230027 | 18.0285 | 14.6950 | 19.6393 | 17.2624
230029 | 21.0636 | 19.4911 | 22.1092 | 20.9014
230030 | 17.7040 | 18.3916 | 18.6230 | 18.2489
230031 | 17.5352 | 19.3162 | 19.9465 | 18.8845
230032 | 20.6821 | 21.8845 | 24.8930 | 22.4347
230034 | 17.2302 | 19.0473 | 19.4366 | 18.6363
230035 | 17.5607 | 17.5109 | 17.7490 | 17.6051
230036 | 21.7565 | 23.2119 | 23.8398 | 22.9390
230037 | 19.0688 | 20.4747 | 23.2751 | 20.8659
230038 | 23.3876 | 23.5251 | 21.9692 | 22.9521
230040 | 20.3897 | 21.4393 | 20.7841 | 20.8605
230041 | 19.0278 | 20.3131 | 21.7364 | 20.3273
230042 | 19.4937 | 22.1043 | 21.0266 | 20.8816
230046 | 25.9482 | 25.5696 | 25.3206 | 25.6107
230047 | 20.6379 | 21.5381 | 22.4279 | 21.5449
230053 | 22.1781 | 25.4968 | 25.5139 | 24.3278
230054 | 19.5427 | 20.6963 | 20.8014 | 20.3482
230055 | 19.8381 | 20.7932 | 20.8908 | 20.4862
230056 | 16.4101 | 16.0766 | 18.9203 | 17.0117
230058 | 18.2349 | 20.4165 | 21.0303 | 19.9623
230059 | 19.5098 | 19.9240 | 20.7092 | 20.0517
230060 | 17.8716 | 19.8021 | 19.4211 | 19.0237
230062 | 16.2952 | 17.1540 | 18.8039 | 17.3634
230063 | 20.2211 | 20.4171 | * | 20.3143
230065 | 21.1507 | 22.3459 | 22.3216 | 22.0094
230066 | 21.5116 | 22.1768 | 23.0475 | 22.2618
230069 | 21.7909 | 23.2076 | 24.1210 | 23.0181
230070 | 20.0645 | 20.2505 | 21.5666 | 20.8098
230071 | 22.1556 | 22.9052 | 23.1337 | 22.7304
230072 | 20.4308 | 20.6944 | 20.4456 | 20.5245
230075 | 19.4316 | 20.0545 | 22.5866 | 20.6203
230076 | 23.8201 | 24.4547 | 24.7010 | 24.2886
230077 | 20.3937 | 21.0178 | 19.7982 | 20.3917
230078 | 16.2486 | 17.5577 | 17.9868 | 17.2435
230080 | 18.9084 | 19.7687 | 20.2104 | 19.6745
230081 | 17.9510 | 19.0345 | 19.0199 | 18.6644
230082 | 17.7417 | 18.2992 | 19.0419 | 18.3501
230085 | 17.5447 | 20.2096 | 23.4996 | 20.3924
230086 | 16.9754 | 18.9420 | 20.1857 | 18.6805
230087 | 15.7694 | 18.9034 | 19.9700 | 18.0112
230089 | 21.3914 | 23.9100 | 22.6994 | 22.6194
230092 | 18.9567 | 20.0145 | 20.8313 | 19.9501
230093 | 20.1928 | 20.4655 | 20.6425 | 20.4363
230095 | 16.7830 | 17.3313 | 17.6444 | 17.2565
230096 | 22.5613 | 22.8410 | 22.7785 | 22.7256
230097 | 20.0960 | 21.2854 | 21.1254 | 20.8481
230099 | 20.2529 | 21.1933 | 21.7513 | 21.0709
230100 | 13.1107 | 17.1336 | 17.3842 | 16.0282
230101 | 18.6098 | 20.0932 | 20.5315 | 19.7445
230103 | 19.6014 | 22.7696 | 11.3429 | 17.7532
230104 | 23.4703 | 23.1457 | 24.1238 | 23.5809
230105 | 20.8765 | 21.5210 | 22.6098 | 21.6727
230106 | 18.3508 | 20.7997 | 21.6825 | 20.2936
230107 | 14.6673 | 16.5966 | 17.1386 | 15.9949
230108 | 17.4231 | 18.8631 | 20.3437 | 18.8600
230110 | 17.8017 | 18.9825 | 19.7262 | 18.8384
230113 | 11.1676 | 14.9411 | * | 12.8926
230115 | 16.4728 | 18.4050 | 19.2636 | 18.0559
230116 | 16.3563 | 16.5419 | 14.5692 | 15.7763
230117 | 23.9389 | 25.9318 | 25.6797 | 25.1927
230118 | 21.7089 | 21.3028 | 20.6797 | 21.2068
230119 | 23.9568 | 21.1918 | 22.5415 | 22.5507
230120 | 19.6400 | 18.5264 | 20.3306 | 19.4421
230121 | 20.0786 | 20.3158 | 21.3342 | 20.5789
230122 | 18.0903 | 20.9078 | * | 19.5648
230124 | 18.8938 | 20.3608 | 18.6352 | 19.2618
230125 | 15.3497 | * | * | 15.3497
230128 | 23.5787 | 24.9081 | 24.0724 | 24.1436
230130 | 22.5204 | 23.5170 | 22.1775 | 22.7280
230132 | 26.1727 | 26.6386 | 26.2269 | 26.3491
230133 | 17.5688 | 17.6894 | 17.1058 | 17.4473
230134 | 15.3248 | * | * | 15.3248
230135 | 22.7401 | 22.5258 | 20.5637 | 22.0738
230137 | 18.3431 | 19.1813 | * | 18.7522
230141 | 23.0496 | 22.1299 | 22.4570 | 22.5592
230142 | 20.1242 | 22.2940 | 23.3483 | 21.7608
230143 | 16.4468 | 16.3043 | 16.7948 | 16.5112
230144 | 20.9906 | 22.1108 | 23.3502 | 22.1007
230145 | 16.5986 | 20.2542 | 19.2638 | 18.8354
230146 | 18.6293 | 20.5044 | 21.1818 | 20.1337
230147 | 20.5144 | 21.8496 | 23.2755 | 21.8616
230149 | 14.1740 | 20.7691 | 18.8005 | 17.7545
230151 | 20.8884 | 22.1713 | 23.1152 | 21.9998
230153 | 17.3280 | 19.5633 | 18.7403 | 18.5291
230154 | 14.5846 | 15.4456 | 15.4362 | 15.1635
230155 | 16.9857 | 17.2076 | 20.5409 | 18.1875
230156 | 23.6126 | 24.7587 | 25.5835 | 24.6629
230157 | 19.7197 | 20.3667 | 17.3571 | 19.2380
230159 | 18.8426 | 20.0749 | * | 19.3914
230162 | 17.7689 | 21.4636 | 21.7148 | 20.3064
230165 | 23.3147 | 23.0106 | 23.2019 | 23.1727
230167 | 20.3210 | 21.5048 | 22.1550 | 21.3066
230169 | 22.8606 | 23.0652 | 24.3780 | 23.4313
230171 | 14.9595 | 13.3863 | 17.1282 | 15.0778
230172 | 20.2191 | 20.6417 | 21.4675 | 20.7898
230174 | 20.8542 | 23.0272 | 22.7304 | 22.1820
230175 | 21.8097 | 16.8909 | * | 19.0428
230176 | 21.8618 | 22.7772 | 23.8883 | 22.8410
230178 | 16.0818 | 16.9156 | 17.3030 | 16.7485
230180 | 15.4837 | 15.8769 | 18.5744 | 16.6297
230184 | 17.2928 | 19.0604 | 19.7717 | 18.6605
230186 | * | 19.5337 | 16.4977 | 18.0186
230188 | 15.5563 | 15.7112 | 16.2975 | 15.8821
230189 | 15.9089 | 16.6838 | 17.9218 | 16.8493
230190 | 23.7134 | 26.8196 | 26.4687 | 25.7543
230191 | 17.1221 | 19.0013 | 18.4861 | 18.1647
230193 | 20.1805 | 19.7066 | 19.2961 | 19.7939
230195 | 22.3745 | 21.7775 | 22.5842 | 22.2594
230197 | 21.6184 | 24.0184 | 23.3951 | 22.9141
230199 | 18.4012 | 19.4451 | 20.6580 | 19.5586
230201 | 15.3206 | 17.2141 | 18.0787 | 16.9556
230204 | 22.9506 | 25.4181 | 23.4966 | 23.9387
230205 | 13.8861 | 14.3788 | 15.9314 | 14.6555
230207 | 20.3538 | 20.6375 | 21.2483 | 20.7256
230208 | 17.1501 | 16.0733 | 15.8925 | 16.3949
230211 | 17.5087 | 18.6744 | 21.8581 | 19.0214
230212 | 22.1370 | 23.3021 | 24.2611 | 23.2193
230213 | 15.3159 | 15.1908 | 15.5469 | 15.3407
230216 | 19.5921 | 20.3359 | 21.0710 | 20.3422
230217 | 20.9510 | 21.2707 | 22.2698 | 21.4978
230219 | 20.7018 | 19.1549 | 20.0442 | 19.9745
230221 | 21.5000 | * | * | 21.5000
230222 | 20.8430 | 22.1785 | 22.0823 | 21.7090
230223 | 21.4990 | 21.1528 | 22.2627 | 21.6325
230227 | 21.3801 | 23.7259 | 22.7599 | 22.5824
230230 | 22.5346 | 22.2385 | 22.3092 | 22.3585
230232 | 12.6373 | * | * | 12.6373
230235 | 15.9466 | 16.8684 | 17.7197 | 16.8275
230236 | 23.2178 | 24.3835 | 25.9676 | 24.5556
230239 | 19.2349 | 18.0942 | 17.8168 | 18.3625
230241 | 18.8451 | 19.1000 | 20.0497 | 19.3344
230244 | 21.0758 | 21.7413 | 22.2697 | 21.6892
230253 | 21.9497 | 20.5945 | 21.0433 | 21.1989
230254 | 21.2786 | 21.9402 | 22.6335 | 21.9383
230257 | 20.4721 | 19.6982 | 21.3695 | 20.4944
230259 | 21.1519 | 22.2393 | 22.3969 | 21.9147
230264 | 15.1818 | 17.1319 | 17.4864 | 16.5360
230269 | 22.8138 | 23.3105 | 24.0992 | 23.4229
230270 | 20.0803 | 22.6187 | 21.5711 | 21.3628
230273 | 23.4000 | 22.9199 | 22.8715 | 23.0744
230275 | 17.5975 | 17.7487 | 20.8985 | 18.2554
230276 | 18.5750 | 21.3722 | 25.8709 | 21.5415
230277 | 22.5012 | 23.1456 | 23.9771 | 23.2364
230278 | 16.6645 | 18.2110 | * | 17.3814
230279 | 16.0437 | 17.6973 | 17.8074 | 17.2147
230280 | 14.2249 | 15.6654 | 18.3497 | 15.8025
230283 | * | 27.9480 | 22.5082 | 24.9202
240001 | 22.8480 | 24.6207 | 25.6936 | 24.3586
240002 | 23.0240 | 22.7981 | 23.2225 | 23.0151
240004 | 23.9195 | 25.1908 | 23.8151 | 24.2981
240005 | 16.9775 | 17.9563 | 20.3193 | 18.3770
240006 | 27.1133 | 25.1602 | 23.0715 | 24.9568
240007 | 16.9802 | 17.7625 | 19.0850 | 17.9138
240008 | 21.8068 | 20.2158 | 23.3783 | 21.6628
240009 | 16.6910 | 16.8965 | 17.1187 | 16.9211
240010 | 23.6323 | 23.6477 | 25.4752 | 24.2587
240011 | 18.9559 | 20.5192 | 21.5875 | 20.3298
240013 | 18.9705 | 20.3282 | 21.7544 | 20.2656
240014 | 21.8560 | 23.0025 | 24.3446 | 23.0734
240016 | 19.8624 | 20.4017 | 22.2011 | 20.8274
240017 | 17.2325 | 18.3585 | 18.9272 | 18.1627
240018 | 19.0671 | 20.8501 | 18.4268 | 19.4219
240019 | 20.9869 | 22.1501 | 23.1477 | 22.1062
240020 | 19.5727 | 21.1937 | 20.8849 | 20.5389
240021 | 17.3968 | 18.7515 | 20.1457 | 18.6569
240022 | 19.1554 | 21.7889 | 21.3234 | 20.7594
240023 | 20.3923 | 21.5087 | 22.8224 | 21.4999
240025 | 17.2464 | 18.8345 | 20.0308 | 18.7384
240027 | 16.2531 | 19.1017 | 16.7758 | 17.3367
240028 | 19.3781 | 19.7918 | 25.1934 | 21.5071
240029 | 17.9880 | 21.1329 | 20.0164 | 19.6781
240030 | 18.4358 | 18.8547 | 20.1653 | 19.1669
240031 | 18.0652 | 18.1566 | 19.3983 | 18.5009
240036 | 20.3270 | 22.2460 | 22.1721 | 21.6421
240037 | 18.4564 | 19.2345 | 20.1195 | 19.3188
240038 | 26.3539 | 25.3061 | 24.3957 | 25.3169
240040 | 19.9022 | 20.4813 | 23.1352 | 21.0482
240041 | 19.2127 | 19.2864 | 21.8655 | 20.0389
240043 | 17.3064 | 17.7335 | 16.9859 | 17.3013
240044 | 18.9217 | 18.8411 | 20.3339 | 19.3394
240045 | 20.9873 | 21.1396 | 24.1557 | 22.0716
240047 | 21.8576 | 22.6152 | 23.8098 | 22.7467
240048 | 23.3110 | * | * | 23.3110
240049 | 22.1345 | * | * | 22.1345
240050 | 24.5027 | 25.2983 | 21.6499 | 22.6550
240051 | 18.2287 | 19.9195 | 22.5855 | 20.1307
240052 | 19.2190 | 20.7749 | * | 19.9948
240053 | 21.1987 | 22.9611 | 23.8858 | 22.7864
240056 | 22.2927 | 23.4226 | 23.7139 | 23.1375
240057 | 23.2377 | 24.2159 | 24.3404 | 23.9501
240058 | 14.9141 | 14.9697 | 18.1695 | 15.9021
240059 | 21.9575 | 23.6215 | 23.7808 | 23.1092
240061 | 25.5581 | 27.2603 | 25.9951 | 26.2655
240063 | 23.5426 | 23.7866 | 24.4031 | 23.9101
240064 | 20.7602 | 23.2860 | 22.6742 | 22.2043
240065 | 12.5547 | 12.7867 | 14.8734 | 13.4307
240066 | 22.0542 | 23.0698 | 24.1143 | 23.1023
240069 | 19.1834 | 19.8282 | 21.7991 | 20.2573
240071 | 19.1913 | 20.2101 | 21.1721 | 20.2070
240072 | 18.0015 | 21.1824 | 20.9529 | 20.0007
240073 | 15.6318 | 16.0840 | 17.3559 | 16.3592
240075 | 21.1934 | 21.2654 | 21.4157 | 21.2934
240076 | 21.0702 | 21.8795 | 22.3280 | 21.7859
240077 | 14.9493 | 15.3794 | 20.3445 | 16.8827
240078 | 22.7122 | 23.9150 | 25.1082 | 23.9382
240079 | 17.8206 | 18.4338 | 18.8345 | 18.3648
240080 | 23.7286 | 24.3399 | 25.5619 | 24.7160
240082 | 18.0272 | 18.3555 | 18.7995 | 18.3952
240083 | 19.2922 | 19.7637 | 21.0317 | 20.0094
240084 | 19.6078 | 19.4739 | 21.7421 | 20.2965
240085 | 18.0214 | 22.5736 | 20.9778 | 20.5540
240086 | 15.3302 | 16.9392 | 18.1401 | 16.9654
240087 | 17.0624 | 18.8352 | 21.3323 | 19.0315
240088 | 21.0202 | 21.6858 | 23.1056 | 21.8928
240089 | 18.4171 | 20.7239 | 21.1989 | 20.0227
240090 | 18.0490 | 19.2968 | 19.2166 | 18.8331
240093 | 18.6788 | 18.7092 | 20.2400 | 19.2268
240094 | 20.5705 | 20.9446 | 22.0247 | 21.2053
240096 | 18.3365 | 20.1644 | 21.0417 | 19.7961
240097 | 23.6230 | 24.2662 | 27.7781 | 25.0667
240098 | 20.6036 | 21.3467 | 24.2296 | 22.0643
240099 | 14.3759 | 14.4649 | 15.4964 | 14.7485
240100 | 19.1921 | 20.8302 | 18.9953 | 19.6501
240101 | 17.7478 | 19.2120 | 20.0872 | 18.9539
240102 | 15.5644 | 14.6067 | 16.3659 | 15.5008
240103 | 16.8805 | 19.1540 | 18.7510 | 18.2532
240104 | 24.0175 | 23.2178 | 23.5351 | 23.5902
240105 | 14.7904 | 14.3965 | * | 14.6094
240106 | 23.7818 | 23.5148 | 23.5005 | 23.6022
240107 | 19.0299 | 20.3983 | 20.9004 | 20.0558
240108 | 16.4605 | 15.3547 | 18.2427 | 16.5529
240109 | 13.1537 | 13.5537 | 16.3216 | 14.2359
240110 | 17.2834 | 19.4828 | 21.0675 | 19.2326
240111 | 17.0408 | 17.2100 | 17.8617 | 17.3567
240112 | 15.3246 | 15.8350 | 16.6242 | 15.9307
240114 | 15.4919 | 16.2505 | 17.3682 | 16.3794
240115 | 22.1575 | 23.7765 | 23.8675 | 23.3187
240116 | 15.1757 | 16.6731 | 18.3520 | 16.6014
240117 | 17.5676 | 18.0636 | 17.9941 | 17.8845
240119 | 22.4981 | 20.6126 | 21.8289 | 21.5894
240121 | 21.3747 | 23.4018 | 22.2266 | 22.3266
240122 | 18.0396 | 19.1811 | 21.2876 | 19.5090
240123 | 15.5968 | 16.5098 | 18.3941 | 16.7420
240124 | 19.0505 | 19.4400 | 20.4728 | 19.6473
240125 | 13.1505 | 12.3627 | 14.9708 | 13.5694
240127 | 14.7670 | 15.8966 | 17.9724 | 16.1476
240128 | 16.0759 | 17.2513 | 16.3608 | 16.5520
240129 | 15.4226 | 14.4212 | 16.5209 | 15.4258
240130 | 15.6477 | 14.9399 | 16.4271 | 15.6650
240132 | 24.4998 | 23.0669 | 23.1452 | 23.5239
240133 | 18.5216 | 19.2126 | 19.5294 | 19.1081
240135 | 13.6014 | 14.3069 | 15.7015 | 14.4270
240137 | 19.1770 | 20.3750 | 21.5073 | 20.3195
240138 | 13.7359 | 15.2062 | 16.7332 | 15.1922
240139 | 17.0163 | 20.8053 | 20.5496 | 19.6213
240141 | 21.9909 | 23.8066 | 23.1009 | 22.9648
240142 | 20.6139 | 25.2770 | 29.2238 | 24.5024
240143 | 14.2790 | 16.6172 | * | 15.4691
240144 | 15.8710 | 18.2604 | 21.4469 | 18.2664
240145 | 14.9997 | 17.2778 | 19.0689 | 17.4197
240146 | 16.7496 | 16.0652 | 16.5412 | 16.4544
240148 | 11.3388 | 18.8779 | 19.5204 | 16.6060
240150 | 12.8255 | 13.8786 | 20.8331 | 15.4453
240152 | 20.2020 | 21.1678 | 22.4744 | 21.2973
240153 | 15.6079 | 16.5412 | 19.3336 | 17.0363
240154 | 17.0625 | 17.5769 | 21.5052 | 18.6158
240155 | 20.4189 | 19.8762 | 20.9385 | 20.4180
240157 | 14.6914 | 17.4168 | 15.2821 | 15.8915
240160 | 16.6034 | 15.9492 | 15.9014 | 16.1454
240161 | 15.4160 | 15.7996 | 16.8809 | 15.9681
240162 | 19.0404 | 16.6292 | 19.1542 | 18.1964
240163 | 17.8714 | 18.8320 | 20.4760 | 18.9698
240166 | 16.3907 | 17.3233 | 19.4131 | 17.7688
240169 | 18.6155 | 16.6725 | 16.3958 | 17.2174
240170 | 17.6501 | 18.8762 | 20.3779 | 18.9004
240171 | 16.7237 | 17.2886 | 18.5172 | 17.5402
240172 | 16.0711 | 18.2852 | 20.8606 | 18.2323
240173 | 16.7411 | 17.2655 | 18.5190 | 17.5028
240179 | 16.6464 | 17.5116 | 20.4007 | 18.1225
240184 | 14.3996 | 15.3793 | 16.8917 | 15.4746
240187 | 17.5154 | 19.9230 | 21.2736 | 19.5789
240193 | 16.3004 | 17.8226 | 18.4664 | 17.4827
240196 | 23.2666 | 24.3472 | 25.3479 | 24.3358
240200 | 14.7295 | 14.3415 | 14.9076 | 14.6539
240207 | 23.3339 | 24.1127 | 25.2814 | 24.2879
240210 | 23.8391 | 24.2218 | 24.5664 | 24.2274
240211 | 20.5548 | 19.7399 | 30.6260 | 22.1746
250001 | 18.1407 | 18.4233 | 19.2756 | 18.6319
250002 | 15.6036 | 17.2501 | 18.6938 | 17.1218
250003 | 15.6560 | 17.6539 | 16.7570 | 16.6622
250004 | 17.1177 | 17.8868 | 18.3860 | 17.7913
250005 | 12.0032 | 12.5993 | 12.5834 | 12.3909
250006 | 15.7036 | 16.9048 | 17.5192 | 16.6995
250007 | 19.1555 | 19.2913 | 19.7562 | 19.3984
250008 | 13.3179 | 14.1760 | 15.8506 | 14.4224
250009 | 16.1847 | 18.5610 | 17.7283 | 17.5396
250010 | 13.3372 | 13.3905 | 14.6101 | 13.7324
250012 | 18.4756 | 14.1623 | 16.7579 | 16.4800
250015 | 11.0747 | 13.5274 | 11.7249 | 11.9737
250017 | 17.3006 | 17.9410 | 20.5976 | 18.5334
250018 | 13.4707 | 11.9311 | 13.1687 | 12.7895
250019 | 17.1501 | 16.7425 | 18.0956 | 17.3536
250020 | 14.0618 | 13.4476 | 16.2698 | 14.4562
250021 | 9.0772 | 9.4318 | 10.5844 | 9.6552
250023 | 13.5440 | 13.9116 | 12.3434 | 13.2963
250024 | 11.5940 | 12.7127 | 12.9899 | 12.4525
250025 | 17.8890 | 19.0390 | 20.3625 | 19.2022
250027 | 12.4241 | 14.9519 | 14.5445 | 13.9032
250029 | 14.8456 | 16.4834 | 16.0682 | 15.8412
250030 | 13.6277 | 17.3636 | 26.6173 | 19.2750
250031 | 18.7663 | 17.9715 | 18.3825 | 18.3676
250032 | 17.2983 | 17.1339 | 17.5957 | 17.3467
250033 | 15.7646 | 17.8257 | 15.0941 | 16.2509
250034 | 18.1269 | 16.6988 | 17.0399 | 17.2230
250035 | 17.4148 | 15.2353 | 16.8349 | 16.3942
250036 | 13.7928 | 15.8445 | 16.1913 | 15.3676
250037 | 10.3212 | 15.4325 | 12.7156 | 12.4979
250038 | 13.6207 | 16.8454 | 17.7019 | 16.0182
250039 | 16.5105 | 14.1556 | 15.1409 | 15.2552
250040 | 15.6367 | 17.3430 | 18.3364 | 17.1495
250042 | 16.4728 | 16.3867 | 17.6050 | 16.8239
250043 | 13.6492 | 16.0729 | 16.6500 | 15.4718
250044 | 16.7462 | 16.1218 | 16.7321 | 16.5323
250045 | 19.4788 | 22.0839 | 21.8988 | 21.2480
250047 | 12.0953 | 13.3706 | 14.7461 | 13.3242
250048 | 15.7073 | 16.8932 | 17.6649 | 16.7793
250049 | 10.7578 | 11.6715 | 12.1635 | 11.5642
250050 | 13.9220 | 14.3949 | 15.1159 | 14.4819
250051 | 9.6017 | 9.3464 | 10.4900 | 9.8032
250057 | 14.2863 | 15.9237 | 16.1838 | 15.4582
250058 | 15.4206 | 15.5327 | 15.7197 | 15.5555
250059 | 14.2997 | 16.2845 | 16.6494 | 15.7755
250060 | 7.9882 | 13.0301 | 16.1804 | 11.2768
250061 | 13.9655 | 11.0308 | 11.5108 | 11.9846
250063 | 14.9743 | 13.2540 | 13.3092 | 13.7869
250065 | 12.6803 | 12.8853 | 13.6904 | 13.0682
250066 | 14.3274 | 15.6760 | 16.1742 | 15.4025
250067 | 15.2871 | 16.4120 | 16.8522 | 16.2039
250068 | 11.4272 | 13.6768 | 13.4127 | 12.8087
250069 | 15.7653 | 17.8960 | 16.8980 | 16.8834
250071 | 11.2079 | 14.3781 | 12.3488 | 12.5425
250072 | 16.9263 | 18.2218 | 18.9487 | 18.0776
250076 | * | 10.5098 | * | 10.5098
250077 | 11.4135 | 12.2564 | 13.7404 | 12.5026
250078 | 15.4571 | 15.6336 | 15.9627 | 15.6858
250079 | 19.0587 | 16.2712 | 16.5835 | 17.1998
250081 | 16.1412 | 17.3325 | 19.0358 | 17.4600
250082 | 14.0249 | 16.0975 | 17.1427 | 15.7611
250083 | 9.2019 | 14.2634 | 16.6065 | 13.1746
250084 | 19.7390 | 17.0189 | 20.6429 | 19.0165
250085 | 13.8487 | 14.3797 | 15.4477 | 14.5716
250088 | 16.7514 | 17.8674 | 18.2736 | 17.6409
250089 | 13.0481 | 13.4238 | 14.3027 | 13.5884
250093 | 15.0918 | 15.2044 | 16.1506 | 15.4926
250094 | 17.8539 | 18.0852 | 18.5063 | 18.1422
250095 | 16.3574 | 17.0039 | 17.4217 | 16.9079
250096 | 17.0713 | 19.0688 | 19.0584 | 18.3546
250097 | 18.4099 | 16.9905 | 15.5741 | 16.9320
250098 | 14.3017 | 13.1341 | * | 13.6607
250099 | 14.4142 | 14.8528 | 15.1265 | 14.8018
250100 | 16.6033 | 17.1682 | 17.8688 | 17.2128
250101 | 16.3083 | 18.4685 | 17.7194 | 17.5079
250102 | 20.0190 | 23.9329 | 18.9348 | 20.8793
250104 | 17.5421 | 18.2502 | 18.7651 | 18.1832
250105 | 14.5986 | 14.5401 | 15.5133 | 14.8921
250107 | 13.6296 | 15.1496 | 15.0737 | 14.6455
250109 | 14.5496 | 22.1551 | 21.3867 | 18.8951
250112 | 14.2023 | 15.5610 | 16.3640 | 15.3179
250117 | 14.5171 | 16.1225 | 16.9787 | 15.9014
250119 | 12.7379 | 15.2199 | 16.1218 | 14.6728
250120 | 14.4126 | 15.3433 | 16.7182 | 15.4420
250122 | 17.7079 | 18.9417 | 19.2990 | 18.6619
250123 | 17.4068 | 18.8690 | 18.7863 | 18.3698
250124 | 12.6677 | 13.1823 | 13.2490 | 13.0310
250125 | 14.4867 | 20.8895 | 21.2660 | 18.4338
250126 | 14.7083 | 18.2355 | 21.9101 | 17.8900
250128 | 12.9968 | 14.0048 | 16.1418 | 14.4375
250131 | 10.2765 | 12.6056 | 12.4557 | 11.6657
250134 | 17.9755 | 17.0671 | 18.5142 | 17.8554
250136 | 18.0538 | 18.9689 | 21.3497 | 19.3579
250138 | 17.5999 | 18.4028 | 20.4550 | 18.6918
250141 | 17.1247 | 19.0113 | 19.6692 | 18.6505
250145 | 11.4047 | 10.2507 | 11.2120 | 10.9506
250146 | 13.2763 | 14.4924 | 14.7781 | 14.1955
250148 | 14.8234 | 18.0980 | 19.4233 | 17.4956
250149 | 12.9840 | 12.9569 | 15.2318 | 13.7102
250150 | * | * | 21.8599 | 21.8599
260001 | 17.5520 | 18.0971 | 19.7805 | 18.4701
260002 | 20.5878 | 22.1183 | 21.6400 | 21.4524
260003 | 14.3537 | 14.6553 | 15.4482 | 14.8108
260004 | 13.7528 | 13.0133 | 13.7035 | 13.4793
260005 | 19.7058 | 19.5554 | 23.9681 | 21.0036
260006 | 18.9408 | 19.7467 | 20.0994 | 19.6144
260008 | 16.2451 | 13.8495 | 16.8893 | 15.5719
260009 | 17.9364 | 18.5080 | 18.2863 | 18.2469
260011 | 18.3378 | 19.1027 | 19.5059 | 18.9819
260012 | 14.4594 | 14.3645 | 17.1662 | 15.3316
260013 | 15.5388 | 15.9884 | 16.1825 | 15.8932
260015 | 21.3327 | 16.5822 | 17.8817 | 18.4578
260017 | 15.8013 | 16.7916 | 14.7406 | 15.7355
260018 | 12.2293 | 12.0060 | 12.5301 | 12.2688
260019 | 23.6727 | 18.6113 | * | 20.6992
260020 | 21.8585 | 20.5142 | 20.2241 | 20.8205
260021 | 17.5694 | 22.1017 | 21.6237 | 20.1803
260022 | 19.3454 | 17.2462 | 17.7772 | 17.8898
260023 | 15.8235 | 16.4705 | 17.8649 | 16.6827
260024 | 13.4737 | 15.2356 | 15.7815 | 14.8371
260025 | 14.9377 | 15.4935 | 17.0965 | 15.8836
260027 | 21.0084 | 21.2977 | 21.3033 | 21.2013
260029 | 17.4744 | 19.7484 | 21.1858 | 19.3784
260030 | 11.2434 | 12.5118 | 11.9215 | 11.8847
260031 | 18.3039 | 19.4921 | 19.6943 | 19.1343
260032 | 20.8097 | 20.1988 | 19.6728 | 20.2222
260034 | 17.8986 | 17.4233 | 20.4902 | 18.5746
260035 | 12.5886 | 13.1065 | 13.0071 | 12.9052
260036 | 18.3128 | 16.7430 | 18.8104 | 17.9282
260039 | 14.1980 | 14.1866 | 14.6644 | 14.3527
260040 | 15.3853 | 17.3099 | 18.0140 | 16.9033
260042 | 17.4459 | 18.7567 | 18.7514 | 18.2697
260044 | 17.1177 | 15.9927 | 15.9206 | 16.3491
260047 | 17.2768 | 19.0112 | 19.2247 | 18.5386
260048 | 21.4309 | 20.0885 | 21.0602 | 20.8622
260050 | 18.7366 | 15.6908 | 16.8520 | 17.0991
260052 | 17.7502 | 18.0553 | 18.0914 | 17.9657
260053 | 12.0098 | 15.2236 | 16.5166 | 14.4005
260054 | 17.3708 | 20.0199 | 19.9510 | 19.1024
260055 | 13.7961 | 12.0118 | 15.4214 | 13.6790
260057 | 15.3276 | 17.4636 | 19.7144 | 17.7259
260059 | 15.7887 | 16.1000 | 17.0546 | 16.3478
260061 | 15.0099 | 14.7175 | 15.7112 | 15.1405
260062 | 20.2655 | 20.1477 | 21.3138 | 20.5946
260063 | 16.8474 | 18.2309 | 18.6551 | 17.9110
260064 | 16.5033 | 16.5934 | 17.8033 | 16.9429
260065 | 18.4654 | 19.4382 | 20.0975 | 19.3238
260066 | 14.4163 | 14.9640 | 15.3460 | 14.8934
260067 | 12.1588 | 14.2249 | 15.1837 | 13.8617
260068 | 19.8261 | 20.2418 | 19.4240 | 19.8242
260070 | 21.6873 | * | 13.9510 | 17.3672
260073 | 13.0075 | 14.2550 | 15.9182 | 14.4333
260074 | 15.4480 | 19.0350 | 19.8915 | 18.1123
260077 | 18.2594 | 18.6473 | 19.4482 | 18.8035
260078 | 15.4754 | 15.6381 | 14.9463 | 15.3700
260079 | 14.8281 | 14.2985 | 16.1453 | 15.0169
260080 | 12.5631 | 13.5384 | 14.6832 | 13.5392
260081 | 18.9629 | 21.0151 | 20.3053 | 20.0653
260082 | 15.7880 | 15.9407 | 15.9858 | 15.9090
260085 | 19.5153 | 20.4669 | 20.5247 | 20.1531
260086 | 14.8730 | 14.3164 | 15.2927 | 14.8291
260091 | 19.6081 | 19.9987 | 21.4056 | 20.5321
260094 | 15.8705 | 18.0085 | 18.5395 | 17.5281
260095 | 19.7672 | 19.6944 | 20.3468 | 19.9375
260096 | 21.7176 | 23.0282 | 22.5972 | 22.4661
260097 | 15.7899 | 16.5582 | 19.0632 | 17.1704
260100 | 15.7324 | 15.7047 | 16.6523 | 16.0345
260102 | 16.3653 | 20.1264 | 20.6361 | 18.8983
260103 | 17.3541 | 18.5957 | 19.7146 | 18.4987
260104 | 19.1158 | 21.0138 | 20.3176 | 20.0928
260105 | 20.8006 | 24.7223 | 24.8181 | 23.3052
260107 | 18.4618 | 19.8422 | 19.6490 | 19.2823
260108 | 19.2422 | 19.4609 | 20.0034 | 19.5906
260109 | 13.4400 | 13.9129 | 14.8181 | 14.0725
260110 | 16.9952 | 17.8375 | 18.3227 | 17.7209
260113 | 14.8968 | 14.6756 | 16.2223 | 15.2316
260115 | 17.8971 | 19.2259 | 17.4698 | 18.2033
260116 | 14.5715 | 16.2774 | 14.9812 | 15.2548
260119 | 16.2000 | 16.8836 | 17.2942 | 16.7641
260120 | 17.1269 | 16.3755 | 16.4904 | 16.6414
260122 | 14.5390 | 14.9697 | 16.0931 | 15.2238
260123 | 13.9960 | 14.6444 | 14.6822 | 14.4496
260127 | 15.9481 | 18.3572 | 18.4026 | 17.5109
260128 | 11.2705 | 13.0481 | 12.6414 | 12.2813
260129 | 14.6353 | * | * | 14.6353
260131 | 19.7491 | 17.7686 | 18.4154 | 18.5978
260134 | 16.5834 | 16.2832 | 17.5127 | 16.7877
260137 | 15.2169 | 17.9531 | 19.4697 | 17.5188
260138 | 21.3885 | 22.6491 | 22.1044 | 22.0654
260141 | 17.9598 | 19.1580 | 19.1893 | 18.7555
260142 | 16.0299 | 17.1248 | 17.3084 | 16.7937
260143 | 11.9389 | 12.7867 | 13.9040 | 12.7859
260147 | 13.6568 | 14.0778 | 14.7769 | 14.1672
260148 | 10.3383 | 11.8674 | 11.3524 | 11.2072
260158 | 12.4020 | 12.3005 | 12.7699 | 12.4966
260159 | 18.2232 | 20.3177 | 19.7951 | 19.3893
260160 | 16.1922 | 15.8394 | 16.5792 | 16.2009
260162 | 20.7103 | 19.5655 | 21.4099 | 20.5728
260163 | 14.8051 | 16.4245 | 15.8593 | 15.6940
260164 | 14.3089 | 14.9372 | 15.1211 | 14.8191
260166 | 19.5343 | 20.1025 | 20.3449 | 20.0093
260172 | 12.4851 | 15.4163 | 16.0772 | 14.6285
260173 | 11.9777 | 12.8523 | 14.2090 | 13.1471
260175 | 16.2940 | 16.9023 | 17.5625 | 16.9246
260176 | 19.5449 | 26.8712 | 21.6044 | 22.7500
260177 | 20.7457 | 21.2578 | 21.9014 | 21.3180
260178 | 21.4080 | 19.6638 | 20.2796 | 20.4480
260179 | 20.7397 | 21.4906 | 22.7185 | 21.6624
260180 | 18.5398 | 19.5819 | 18.9881 | 19.0361
260183 | 20.1940 | 20.0712 | 21.3175 | 20.5306
260186 | 18.0588 | 19.3238 | 19.6026 | 19.0698
260188 | 18.5772 | 20.6388 | 21.6920 | 20.2650
260189 | 10.7518 | 11.3004 | 16.4233 | 12.7425
260190 | 18.1639 | 18.5168 | 19.4910 | 18.7481
260191 | 19.3386 | 17.9812 | 18.1604 | 18.4767
260193 | 20.5055 | 21.1588 | 20.2577 | 20.6284
260195 | 15.9518 | 17.7237 | 19.7068 | 17.8042
260197 | 16.4605 | 19.2840 | 20.5453 | 18.3884
260198 | 17.6381 | 11.9751 | 19.7552 | 15.6949
260200 | 18.8755 | 20.5339 | 20.6888 | 20.0233
260205 | * | 17.6210 | * | 17.6210
270002 | 17.1866 | 28.9959 | 19.2387 | 20.5385
270003 | 22.1299 | 22.0995 | 22.5019 | 22.2424
270004 | 21.3442 | 19.6292 | 19.4834 | 20.1660
270006 | 16.1872 | 16.0238 | 17.0715 | 16.3653
270007 | 13.1679 | 11.3143 | 13.8824 | 12.6774
270009 | 17.7016 | 17.2292 | 20.4393 | 18.3783
270011 | 19.8229 | 20.2669 | 21.1653 | 20.3748
270012 | 22.8770 | 19.7346 | 19.7878 | 20.8557
270013 | 20.4012 | * | * | 20.4012
270014 | 18.5595 | 19.0872 | 19.9219 | 19.1986
270016 | 19.7675 | 19.6717 | 18.6149 | 19.4350
270017 | 19.5798 | 21.0800 | 20.0152 | 20.2382
270019 | 12.7812 | 18.1099 | 15.4128 | 15.4635
270021 | 16.6541 | 17.1787 | 16.9457 | 16.9258
270023 | 20.3641 | 22.2639 | 22.7181 | 21.7139
270026 | 15.6381 | 17.5102 | 18.0568 | 17.0775
270027 | 9.7758 | 13.1392 | 17.2091 | 12.8885
270028 | 17.2132 | 21.1492 | 19.1177 | 19.1160
270029 | 17.8852 | 16.5666 | 17.3710 | 17.2639
270032 | 17.0285 | 17.7393 | 16.0946 | 16.9320
270033 | 16.4554 | 16.9602 | 15.3447 | 16.2871
270035 | 17.6482 | 16.8295 | 16.4302 | 16.9974
270036 | 14.0815 | 14.2537 | 16.8552 | 14.8821
270039 | 15.3501 | 15.9368 | 19.6796 | 16.7774
270040 | 19.1901 | 18.8145 | 20.1242 | 19.3585
270041 | 16.7791 | 19.0327 | 25.8153 | 19.7981
270044 | 13.4559 | 16.7710 | 17.6489 | 15.9061
270046 | 17.1048 | * | * | 17.1048
270048 | 15.8403 | 17.0154 | 18.0666 | 16.8972
270049 | 21.1670 | 22.2444 | 22.9547 | 22.1282
270050 | 18.0448 | 16.7110 | 19.9356 | 18.1546
270051 | 18.9468 | 20.2735 | 20.1950 | 19.8100
270052 | 14.8042 | 14.4773 | 11.6737 | 13.7344
270057 | 20.0080 | 21.1317 | 20.6714 | 20.6119
270058 | 14.0669 | 14.7481 | 16.1412 | 14.9510
270059 | 15.5957 | 14.7530 | 19.1808 | 16.3576
270060 | 14.0212 | 15.2727 | 20.4148 | 16.5316
270063 | 14.2287 | 12.6108 | 15.1049 | 13.8837
270073 | 15.5281 | 14.4569 | 16.1937 | 15.3359
270079 | 15.0277 | 15.6873 | 16.7048 | 15.7603
270080 | 14.0437 | 16.3171 | 15.0705 | 15.0926
270081 | 15.5207 | 15.6262 | 16.7389 | 15.9424
270082 | 16.1280 | 17.3443 | 23.1245 | 18.7794
270083 | 20.8231 | 18.4432 | 17.8554 | 18.9597
270084 | 16.2075 | 16.6243 | 16.2958 | 16.3734
280001 | 17.8928 | 17.3541 | 18.1831 | 17.7825
280003 | 21.9957 | 22.3179 | 23.0213 | 22.4564
280005 | 18.7477 | 19.2405 | 23.6949 | 20.6104
280009 | 18.7541 | 19.8145 | 20.9643 | 19.8453
280010 | 16.5417 | 17.4859 | 20.0462 | 17.5272
280011 | 13.9627 | 15.8573 | 15.9614 | 15.3328
280012 | 16.4079 | * | * | 16.4079
280013 | 22.1767 | 22.8063 | 22.3488 | 22.4214
280014 | 15.2414 | 15.9596 | 16.8368 | 15.9667
280015 | 14.6353 | 17.0281 | 16.6939 | 16.1405
280017 | 14.1897 | 14.2059 | 13.9939 | 14.1278
280018 | 14.8492 | 15.1328 | 15.4496 | 15.1512
280020 | 19.3963 | 19.9667 | 21.0924 | 20.2072
280021 | 16.6949 | 17.1048 | 17.6345 | 17.1389
280022 | 15.7059 | 16.7179 | 16.8184 | 16.3693
280023 | 21.2387 | 25.8494 | 22.3433 | 23.0540
280024 | 13.9115 | 14.2186 | 15.3050 | 14.4398
280025 | 14.2701 | 15.5850 | 21.4764 | 16.6875
280026 | 16.0599 | 16.6861 | 16.5851 | 16.4520
280028 | 15.8871 | 17.3176 | 18.0793 | 17.1201
280029 | 19.0519 | 23.1292 | 24.4359 | 21.9196
280030 | 28.7091 | 24.5366 | 24.1113 | 25.6720
280031 | 13.2242 | 13.5654 | 9.6321 | 12.1542
280032 | 19.3884 | 18.8964 | 19.1191 | 19.1301
280033 | 14.9334 | 15.7583 | 17.4745 | 16.1329
280034 | 15.2821 | * | * | 15.2821
280035 | 15.3304 | 15.9170 | 16.6872 | 15.8969
280037 | 16.1684 | 16.7952 | 17.1064 | 16.6926
280038 | 16.4685 | 17.0878 | 18.2503 | 17.2635
280039 | 15.1916 | 16.0442 | 16.1587 | 15.8239
280040 | 18.9717 | 19.5333 | 20.7630 | 19.8033
280041 | 13.3901 | 16.4083 | 16.5503 | 15.4920
280042 | 15.3029 | 16.1191 | 16.6239 | 16.0122
280043 | 15.7858 | 16.6570 | 17.5937 | 16.7160
280045 | 14.2741 | 16.9048 | 15.7630 | 15.6286
280046 | 13.7155 | 17.9221 | 17.3214 | 16.1724
280047 | 18.3743 | 18.3407 | 16.6409 | 17.7457
280048 | 14.0702 | 15.8723 | 15.8100 | 15.1939
280049 | 15.6343 | 18.3605 | 18.4365 | 17.4677
280050 | 15.3413 | 16.6432 | 19.9901 | 17.5838
280051 | 15.8504 | 15.6336 | 17.1942 | 16.1502
280052 | 13.6489 | 14.0819 | 14.1201 | 13.9629
280054 | 17.5819 | 18.7992 | 18.7575 | 18.3765
280055 | 12.9933 | 13.5667 | 13.8129 | 13.4587
280056 | 14.0151 | 12.6475 | 15.6135 | 14.0018
280057 | 15.7623 | 18.0454 | 20.0686 | 17.7576
280058 | 17.8798 | 19.6752 | 21.4868 | 19.6876
280060 | 28.6047 | 19.7527 | 20.7022 | 22.2434
280061 | 17.9511 | 17.1629 | 18.6370 | 17.9240
280062 | 13.6738 | 14.4896 | 15.6018 | 14.6170
280064 | 15.5092 | 16.2977 | 16.8330 | 16.2046
280065 | 18.5327 | 19.2932 | 20.6502 | 19.5213
280066 | 11.6416 | 11.6621 | 11.7207 | 11.6766
280068 | 10.1327 | 9.4943 | 10.5987 | 10.0463
280070 | 13.7353 | 17.7400 | 22.6201 | 17.5276
280073 | 17.0583 | 17.4244 | 17.7698 | 17.4266
280074 | 15.2182 | 16.4310 | 16.7879 | 16.0977
280075 | 13.7875 | 15.5327 | 13.2230 | 14.1041
280076 | 13.9203 | 14.8469 | 16.7488 | 15.0947
280077 | 19.0145 | 19.2068 | 20.0148 | 19.4096
280079 | 9.9132 | 10.4540 | 16.6117 | 11.4307
280080 | 14.3528 | 15.3308 | 16.9487 | 15.6285
280081 | 20.9196 | 21.0771 | 20.1127 | 20.6778
280082 | 13.1250 | 14.3399 | 14.6173 | 14.0723
280083 | 17.5544 | 18.2992 | 21.5336 | 19.2134
280084 | 11.6868 | 12.5836 | 13.6536 | 12.6157
280085 | 21.5793 | 20.4302 | 20.4825 | 20.9817
280088 | 22.1147 | 20.2961 | * | 21.2560
280089 | 17.4696 | 18.1668 | 18.9567 | 18.1923
280090 | 14.7191 | 14.1362 | 15.1274 | 14.6962
280091 | 15.2184 | 15.8436 | 16.1866 | 15.7538
280092 | 14.1998 | 14.1945 | 14.7912 | 14.4303
280094 | 15.8843 | 17.6873 | 16.3474 | 16.6450
280097 | 14.2990 | 14.1734 | 13.8223 | 14.0824
280098 | 10.1686 | 13.0029 | 12.5875 | 12.0141
280101 | 17.4168 | 13.5261 | 16.9973 | 15.7528
280102 | 12.9367 | 14.0102 | * | 13.4735
280104 | 13.3842 | 13.2819 | 16.1207 | 14.1161
280105 | 18.7851 | 18.6575 | 21.0735 | 19.5325
280106 | 15.5396 | 16.1247 | 16.0679 | 15.9189
280107 | 13.4553 | 13.3311 | 14.4679 | 13.7065
280108 | 17.2185 | 17.5625 | 17.1961 | 17.3277
280109 | 11.0622 | 12.6803 | 12.4408 | 12.0678
280110 | 12.2950 | 12.7546 | 14.2136 | 13.0914
280111 | 23.0856 | 21.8773 | 19.6283 | 21.4131
280114 | 13.5580 | 15.7160 | 17.3076 | 15.4628
280115 | 16.4282 | 16.7041 | 18.1480 | 17.1049
280117 | 16.8216 | 17.7276 | 18.8279 | 17.8057
280118 | 16.9228 | 16.8687 | 18.6524 | 17.4822
280123 | 20.7732 | 14.0637 | 11.8582 | 15.0281
280125 | * | 16.1332 | 16.3944 | 16.2644
290001 | 22.4188 | 22.8226 | 22.4085 | 22.5500
290002 | 20.9442 | 17.2554 | 16.5419 | 18.3712
290003 | 25.0066 | 22.8840 | 23.7504 | 23.8240
290005 | 17.8609 | 19.4888 | 21.9814 | 19.6686
290006 | 19.8815 | 21.8070 | 22.4063 | 21.4371
290007 | 29.6864 | 29.7706 | 30.9075 | 30.1389
290008 | 20.2506 | 20.6190 | 24.1255 | 21.5150
290009 | 22.7399 | 23.3620 | 23.8871 | 23.3177
290010 | 14.4800 | 15.6423 | 16.4476 | 15.5219
290011 | 16.4419 | 20.1564 | 21.1234 | 19.0261
290012 | 21.5139 | 21.8275 | 25.0430 | 22.8581
290013 | 17.0883 | 18.2713 | 15.7932 | 17.0224
290014 | 18.3755 | 18.9743 | 18.7829 | 18.7144
290015 | 17.8303 | 22.3487 | 19.4504 | 19.7229
290016 | 12.7869 | 14.3542 | 23.8656 | 16.2244
290019 | 20.9336 | 21.2509 | 22.2045 | 21.4895
290020 | 26.1502 | 20.8733 | 21.2380 | 22.7207
290021 | 21.1250 | 21.5806 | 22.8732 | 21.8512
290022 | 24.0856 | 24.5468 | 25.4709 | 24.7290
290027 | 16.4289 | 16.7786 | 13.4076 | 15.4211
290032 | 22.7882 | 22.8447 | 23.4661 | 23.0210
290036 | 18.6112 | * | 12.9074 | 15.9259
290038 | 23.1402 | 20.6753 | 27.7030 | 22.6435
290039 | 25.8004 | 25.3864 | 24.6317 | 25.1994
290041 | * | * | 26.1003 | 26.1003
290042 | * | * | 18.7527 | 18.7527
290043 | * | * | 27.9053 | 27.9053
300001 | 21.4192 | 22.0909 | 23.8567 | 22.4761
300003 | 23.3777 | 22.9111 | 24.1297 | 23.4634
300005 | 19.9876 | 20.7545 | 22.2858 | 20.9804
300006 | 18.9331 | 23.7793 | 18.9745 | 20.5179
300007 | 19.3447 | 20.2372 | 20.2433 | 19.9403
300008 | 16.4649 | 20.7702 | 19.6149 | 18.9666
300009 | 20.0057 | 18.0602 | 20.0938 | 19.3221
300010 | 19.3833 | 19.3940 | 20.2130 | 19.6671
300011 | 21.2429 | 22.4325 | 23.0279 | 22.1850
300012 | 23.8859 | 24.5673 | 24.5672 | 24.3274
300013 | 18.9664 | 19.1247 | 20.1669 | 19.4250
300014 | 19.7969 | 20.3292 | 20.1774 | 20.0987
300015 | 19.9308 | 20.4916 | 19.6627 | 20.0406
300016 | 18.5037 | 21.8659 | 17.8148 | 19.4173
300017 | 22.3408 | 21.6563 | 22.7231 | 22.2428
300018 | 20.8947 | 21.2381 | 21.6385 | 21.2565
300019 | 20.6090 | 20.9753 | 19.6728 | 20.4155
300020 | 21.9725 | 21.9165 | 22.6627 | 22.2032
300021 | 17.3477 | 18.6211 | 19.3101 | 18.4253
300022 | 17.1864 | 18.3507 | 19.1875 | 18.2148
300023 | 20.3909 | 22.1210 | 22.1608 | 21.5715
300024 | 17.9460 | 19.9116 | 21.5842 | 19.6334
300028 | 18.0515 | 17.4075 | 19.9359 | 18.5255
300029 | 20.8961 | 22.5748 | 22.5952 | 22.0043
300033 | 19.8506 | 17.1869 | 17.1632 | 17.9333
300034 | 23.5215 | 25.5182 | 24.3286 | 24.4526
310001 | 27.5967 | 28.1329 | 25.3674 | 26.9474
310002 | 27.8735 | 28.3434 | 28.9800 | 28.3940
310003 | 27.4152 | 29.1096 | 27.2582 | 27.9096
310005 | 23.0493 | 22.1146 | 21.7223 | 22.2720
310006 | 21.5557 | 21.5957 | 22.0894 | 21.7417
310008 | 24.9483 | 23.5084 | 23.6523 | 24.0400
310009 | 23.1906 | 23.6371 | 21.1082 | 22.6736
310010 | 21.1064 | 22.5682 | 21.7892 | 21.7942
310011 | 23.4038 | 23.1977 | 24.2885 | 23.6223
310012 | 26.3249 | 26.5242 | 26.5603 | 26.4724
310013 | 22.1062 | 21.2251 | 22.0056 | 21.7900
310014 | 28.6964 | 27.4614 | 23.1544 | 26.3494
310015 | 26.7584 | 27.4331 | 27.5468 | 27.2399
310016 | 26.0518 | 24.3838 | 23.8492 | 24.7461
310017 | 26.0703 | 25.7902 | 24.5976 | 25.5018
310018 | 24.5312 | 22.8428 | 22.4779 | 23.3087
310019 | 23.0888 | 24.0542 | 24.9914 | 24.0619
310020 | 19.2663 | 24.1848 | 24.4152 | 22.3484
310021 | 22.6456 | 23.9369 | 24.5562 | 23.6719
310022 | 20.7276 | 21.2706 | 20.8258 | 20.9386
310024 | 22.7831 | 24.2353 | 24.9521 | 23.9428
310025 | 22.8129 | 24.3513 | 24.1812 | 23.7695
310026 | 23.8726 | 23.5491 | 22.1997 | 23.2228
310027 | 21.7666 | 21.8846 | 22.5696 | 22.0722
310028 | 23.5188 | 23.4577 | 23.9428 | 23.6444
310029 | 23.3801 | 22.6629 | 23.5968 | 23.2088
310031 | 25.1780 | 26.1567 | 26.8214 | 26.0435
310032 | 23.3017 | 24.3528 | 24.4098 | 24.0274
310034 | 21.6851 | 23.2729 | 23.9672 | 22.9482
310036 | 19.8178 | 20.1905 | 24.0906 | 21.3182
310037 | 27.4447 | 27.7823 | 29.3440 | 28.1550
310038 | 25.3832 | 26.7209 | 30.4319 | 27.5814
310039 | 22.0259 | 22.1754 | 22.7317 | 22.2988
310040 | 23.9864 | 26.1492 | 24.5150 | 24.8208
310041 | 23.7829 | 24.8960 | 23.5559 | 24.0709
310042 | 24.3292 | 23.2472 | * | 23.7901
310043 | 22.0887 | 21.9022 | 21.6128 | 21.8925
310044 | 20.4309 | 21.6677 | 23.1076 | 21.6842
310045 | 28.1570 | 28.4854 | 28.2393 | 28.2925
310047 | 24.5225 | 25.1101 | 26.1921 | 25.2615
310048 | 23.3295 | 23.6118 | 25.2088 | 24.0558
310049 | 24.7617 | 24.8299 | 26.1668 | 25.1997
310050 | 22.5877 | 25.1752 | 24.7988 | 24.2032
310051 | 25.2762 | 27.1265 | 26.9716 | 26.4268
310052 | 22.5753 | 22.9326 | 23.0520 | 22.8616
310054 | 24.7413 | 26.1726 | 27.2074 | 25.9539
310057 | 20.4484 | 21.1686 | 22.2572 | 21.2802
310058 | 26.2243 | 26.5308 | 26.3765 | 26.3747
310060 | 19.1119 | 19.1992 | 20.3713 | 19.5633
310061 | 20.8023 | 23.2646 | 33.9582 | 25.0082
310062 | 19.2729 | 22.9073 | * | 21.3672
310063 | 21.8540 | 21.9045 | 21.9181 | 21.8914
310064 | 24.2115 | 24.8567 | 25.1096 | 24.7198
310067 | 22.2740 | 25.0888 | 23.9278 | 23.7333
310069 | 24.1662 | 23.7531 | 24.2916 | 24.0734
310070 | 25.0448 | 26.0903 | 28.4556 | 26.4357
310072 | 22.2231 | 21.7605 | 22.5611 | 22.1704
310073 | 25.6299 | 28.5149 | 26.6390 | 26.9057
310074 | 24.4638 | 23.8340 | 23.6327 | 23.9943
310075 | 26.4606 | 23.3266 | 23.5841 | 24.4497
310076 | 28.8981 | 30.0797 | 33.7139 | 30.9519
310077 | 25.0569 | 25.2500 | 26.0801 | 25.4318
310078 | 23.4788 | 23.8841 | 24.0587 | 23.7967
310081 | 23.8898 | 22.0762 | 22.4086 | 22.8084
310083 | 23.6761 | 23.8852 | 24.8204 | 24.1353
310084 | 24.0915 | 26.6753 | 24.6049 | 25.1157
310086 | 21.4350 | 22.1674 | 22.7566 | 22.1186
310087 | 20.8875 | 20.7243 | 21.1297 | 20.9153
310088 | 22.3419 | 22.3160 | 23.1722 | 22.6064
310090 | 24.2426 | 23.8284 | 24.7947 | 24.2732
310091 | 22.0103 | 22.7978 | 23.2969 | 22.6743
310092 | 22.3446 | 20.5165 | 20.1062 | 20.9829
310093 | 21.2302 | 22.4291 | 23.7251 | 22.4166
310096 | 26.3041 | 25.1572 | 24.5759 | 25.3591
310105 | 24.4851 | 25.5891 | 26.9400 | 25.6544
310108 | 22.8801 | 22.4756 | 25.2476 | 23.5055
310110 | 20.1400 | 21.8341 | 23.2594 | 21.7903
310111 | 21.7218 | 21.1066 | 22.1022 | 21.6426
310112 | 22.5213 | 23.6701 | 24.7914 | 23.6656
310113 | 22.9536 | 23.6841 | 23.1961 | 23.2803
310115 | 20.0667 | 21.7320 | 21.3837 | 21.0468
310116 | 25.2429 | 22.9812 | 23.4566 | 23.8506
310118 | 24.5443 | 26.4625 | 26.5492 | 25.7555
310119 | 29.4809 | 33.6686 | 32.7858 | 31.9394
310120 | 21.6852 | 23.9681 | 23.3200 | 22.9127
310121 | 18.7365 | * | * | 18.7365
320001 | 17.8522 | 19.1150 | 20.6225 | 19.1818
320002 | 22.4623 | 22.6175 | 23.0983 | 22.7062
320003 | 15.3484 | 15.9504 | 13.9079 | 15.0840
320004 | 17.2353 | 18.5824 | 19.6642 | 18.5890
320005 | 19.8698 | 21.6103 | 21.0411 | 20.8577
320006 | 18.6472 | 18.9019 | 20.3863 | 19.2674
320009 | 17.6400 | 18.2883 | 19.3500 | 18.4218
320011 | 16.5481 | 20.0601 | 18.4503 | 18.4082
320012 | 15.9972 | 16.4355 | 16.7110 | 16.3828
320013 | 23.8390 | 22.9573 | 27.8924 | 25.0936
320014 | 15.9666 | 16.3598 | 16.8412 | 16.4003
320016 | 18.9296 | 20.5398 | 18.7247 | 19.3888
320017 | 18.1545 | 18.6388 | 19.4498 | 18.7392
320018 | 18.1944 | 18.8479 | 19.2336 | 18.7690
320019 | 19.2600 | 24.4707 | 26.9637 | 23.5577
320021 | 17.1647 | 17.8705 | 18.6167 | 17.8360
320022 | 15.8391 | 16.1777 | 17.1375 | 16.3840
320023 | 16.4170 | 18.0548 | 22.5706 | 18.5691
320030 | 16.5266 | 16.5495 | 18.6943 | 17.2018
320031 | 13.9914 | 19.6768 | 25.1715 | 19.2605
320032 | 18.7536 | 18.8097 | 21.1505 | 19.5091
320033 | 20.3137 | 25.0777 | 21.0621 | 21.9427
320035 | 25.7392 | 21.5186 | 15.0612 | 19.2882
320037 | 17.0846 | 17.0305 | 19.8700 | 17.9947
320038 | 16.2896 | 16.8117 | 22.2664 | 18.6619
320046 | 19.0033 | 18.3190 | 25.1691 | 21.0078
320048 | 19.1705 | 19.9642 | 16.8769 | 18.5918
320063 | 19.8320 | 18.3237 | 17.3297 | 18.4052
320065 | 16.1046 | 16.7933 | 18.6525 | 17.1721
320067 | 57.4818 | 33.8654 | 15.3228 | 25.9798
320068 | 18.1809 | 17.4785 | 18.4868 | 18.1081
320069 | 11.3058 | 13.0094 | 14.4212 | 12.8497
320074 | 18.6545 | 19.3406 | 20.2290 | 19.3600
320079 | 17.0696 | 18.2828 | 19.5946 | 18.2729
330001 | 25.2067 | 26.5533 | 27.3996 | 26.4208
330002 | 26.3926 | 26.5370 | 26.9827 | 26.6287
330003 | 18.0549 | 19.4102 | 18.8260 | 18.7489
330004 | 19.9573 | 22.5298 | 20.9501 | 21.1368
330005 | 24.2795 | 24.8338 | 20.9401 | 22.5763
330006 | 25.9186 | 25.0576 | 25.8006 | 25.5856
330007 | 18.7956 | 18.9024 | 19.3974 | 18.8931
330008 | 18.0684 | 19.0045 | 18.5531 | 18.5296
330009 | 30.4220 | 30.6918 | 31.3435 | 30.8056
330010 | 14.7382 | 17.4512 | 16.5924 | 16.1266
330011 | 18.0419 | 18.2986 | 18.6748 | 18.3483
330012 | 31.5135 | 32.7624 | * | 32.1317
330013 | 19.9929 | 19.0856 | 19.7303 | 19.6038
330014 | 27.5704 | 32.3370 | 36.6670 | 32.2107
330016 | 17.4069 | 16.9717 | 16.8016 | 17.0572
330019 | 32.4515 | 35.9822 | 32.8743 | 33.7601
330020 | 14.5488 | 15.5527 | 15.1142 | 15.0641
330023 | 24.2708 | 24.4006 | 25.6145 | 24.7662
330024 | 33.6175 | 34.1682 | 37.3316 | 34.9189
330025 | 16.0290 | 16.2033 | 16.8687 | 16.3599
330027 | 32.4959 | 33.4738 | 35.5255 | 33.7629
330028 | 27.0752 | 28.2089 | 29.5294 | 28.2349
330029 | 16.5552 | 18.1567 | 17.0016 | 17.2536
330030 | 15.0551 | 17.4977 | 19.1085 | 16.8779
330033 | 16.7497 | 18.5353 | 17.0721 | 17.4766
330034 | 30.7840 | 31.3997 | 27.7738 | 30.5701
330036 | 24.3239 | 23.9874 | 25.2820 | 24.5370
330037 | 16.0026 | 16.1140 | 16.4866 | 16.2081
330038 | 16.0153 | 16.2549 | 17.3429 | 16.5336
330039 | 12.4666 | * | * | 12.4666
330041 | 30.4192 | 24.5215 | 31.4871 | 28.4761
330043 | 27.6286 | 28.7467 | 27.4661 | 27.9537
330044 | 18.6969 | 20.0238 | 19.5219 | 19.4106
330045 | 27.1759 | 28.0758 | 27.9919 | 27.7401
330046 | 31.9802 | 32.4189 | 35.2703 | 33.1562
330047 | 17.6895 | 18.1815 | 18.5536 | 18.1416
330048 | 17.6239 | 17.8787 | 19.1093 | 18.1878
330049 | 19.3136 | 19.4993 | 20.5731 | 19.7930
330053 | 15.6659 | 17.4430 | 17.8082 | 16.9823
330055 | 30.7330 | 36.1109 | 28.8026 | 31.5674
330056 | 30.2206 | 30.4525 | 30.0945 | 30.2540
330057 | 18.6891 | 18.7478 | 19.0732 | 18.8421
330058 | 16.9805 | 17.0014 | 17.7672 | 17.2379
330059 | 32.2285 | 34.1705 | 34.2426 | 33.4744
330061 | 25.0674 | 25.7331 | 25.4082 | 25.4024
330062 | 15.2819 | 17.6067 | 18.1318 | 16.9856
330064 | 32.8724 | 33.1269 | 33.6447 | 33.2084
330065 | 18.3686 | 19.8940 | 19.9327 | 19.3474
330066 | 19.9455 | 19.5611 | 19.9424 | 19.8214
330067 | 21.2872 | 20.9443 | 22.1065 | 21.4528
330072 | 29.3096 | 30.8019 | 30.4171 | 30.1659
330073 | 15.8849 | 16.2898 | 16.4518 | 16.2013
330074 | 18.1636 | 18.0005 | 17.7308 | 17.9678
330075 | 17.4266 | 17.2298 | 17.6385 | 17.4324
330078 | 17.4863 | 16.7949 | 19.0779 | 17.7511
330079 | 16.7608 | 17.4555 | 18.7622 | 17.6535
330080 | 26.8766 | 29.2686 | 21.2449 | 25.8366
330084 | 23.0327 | 18.0435 | 19.2211 | 19.8357
330085 | 18.7835 | 20.2926 | 20.4054 | 19.8243
330086 | 30.6954 | 31.2980 | 23.6496 | 28.6407
330088 | 25.6160 | 25.6626 | 25.7940 | 25.6905
330090 | 18.6833 | 19.3954 | 19.4896 | 19.1855
330091 | 18.5334 | 19.0953 | 19.7776 | 19.1249
330092 | 12.6540 | 14.0671 | 13.3723 | 13.3059
330094 | 17.7196 | 17.5585 | 17.8413 | 17.7095
330095 | 18.5502 | 20.1073 | 21.1096 | 19.8197
330096 | 16.5963 | 17.9641 | 18.5149 | 17.6975
330097 | 16.9626 | 16.2169 | 16.4433 | 16.5145
330100 | 28.1060 | 27.0661 | 29.0916 | 28.0415
330101 | 31.3075 | 32.4105 | 30.3486 | 31.0539
330102 | 17.5230 | 17.5755 | 19.0058 | 18.0012
330103 | 16.5212 | 15.7197 | 16.8110 | 16.3435
330104 | 28.7669 | 31.6471 | 31.2074 | 30.5068
330106 | 35.8740 | 40.2686 | 35.0511 | 36.9438
330107 | 28.0780 | 28.5580 | 27.7797 | 28.1411
330108 | 17.0846 | 17.3605 | 17.7326 | 17.3908
330111 | 15.2047 | 19.5314 | 15.9321 | 16.7001
330114 | 18.2390 | 17.3522 | 17.0581 | 17.5626
330115 | 16.5581 | 17.4430 | 17.1354 | 17.0407
330116 | 24.2266 | 24.4622 | 14.9610 | 20.6732
330118 | 20.7550 | 20.6936 | 21.8568 | 21.0906
330119 | 34.7478 | 34.8385 | 33.3533 | 34.3131
330121 | 15.8468 | 16.1052 | 16.3385 | 16.0964
330122 | 21.2021 | 20.8204 | 20.2417 | 20.7389
330125 | 19.7456 | 19.8494 | 18.7943 | 19.4752
330126 | 22.6990 | 23.7938 | 23.8190 | 23.4522
330127 | 29.3317 | 31.9046 | 29.0166 | 30.1127
330128 | 27.8693 | 29.0222 | 26.1374 | 27.7856
330132 | 14.7006 | 15.7633 | 14.3673 | 14.9673
330133 | 32.3812 | 37.2494 | 35.3576 | 34.8196
330135 | 18.3346 | 18.7120 | 22.2670 | 19.6717
330136 | 17.6041 | 18.2422 | 18.7546 | 18.1908
330140 | 19.5016 | 19.1438 | 18.5579 | 19.0661
330141 | 25.1371 | 26.4956 | 26.7096 | 26.0966
330144 | 15.5068 | 14.0566 | 14.5344 | 14.7317
330148 | 15.0400 | 16.8151 | 16.2552 | 16.0122
330151 | 13.9700 | 16.0714 | 15.8490 | 15.2603
330152 | 29.4818 | 30.5409 | 31.2106 | 30.3169
330153 | 17.4996 | 18.9689 | 17.7451 | 18.0540
330157 | 20.8239 | 22.0792 | 22.3804 | 21.7687
330158 | 26.0476 | 25.7569 | 27.1228 | 26.3184
330159 | 18.0211 | 19.1536 | 19.6027 | 18.8964
330160 | 30.5678 | 32.7840 | 28.8043 | 30.6325
330162 | 27.7162 | 27.1166 | 27.6010 | 27.4784
330163 | 20.4555 | 18.7816 | 20.7456 | 19.9795
330164 | 19.4831 | 19.8647 | 20.8018 | 20.0537
330166 | 14.1815 | 15.0954 | 15.4420 | 14.8722
330167 | 31.1834 | 29.3634 | 30.2346 | 30.2561
330169 | 33.4462 | 37.2655 | 35.4794 | 35.3665
330171 | 25.4314 | 25.5307 | 24.8035 | 25.2597
330175 | 16.6851 | 17.3290 | 18.3116 | 17.4443
330177 | 14.5378 | 17.2907 | 16.3704 | 16.0830
330179 | 12.6857 | 13.4999 | 13.8953 | 13.3684
330180 | 15.5304 | 16.8787 | 17.7604 | 16.6634
330181 | 32.4718 | 32.5192 | 33.0908 | 32.6900
330182 | 30.9260 | 32.9371 | 33.5756 | 32.5197
330183 | 19.9964 | 19.9207 | 20.1294 | 20.0163
330184 | 27.4859 | 30.0400 | 31.3706 | 29.6316
330185 | 26.9496 | 25.6112 | 26.8344 | 26.4445
330188 | 18.7208 | 20.9587 | 18.8000 | 19.4696
330189 | 17.6585 | 15.1253 | 18.4498 | 16.9610
330191 | 18.8586 | 18.6206 | 19.0348 | 18.8384
330193 | 29.8042 | 36.5481 | 30.2260 | 31.8162
330194 | 35.5748 | 34.6785 | 35.2036 | 35.1664
330195 | 31.3915 | 33.3254 | 34.8966 | 33.0747
330196 | 28.4465 | 30.8165 | 23.7924 | 27.8886
330197 | 16.9990 | 17.6646 | 18.3527 | 17.6922
330198 | 23.8113 | 24.6038 | 24.8590 | 24.4203
330199 | 27.6605 | 28.7609 | 24.3024 | 26.9772
330201 | 30.3293 | 32.1149 | 27.8738 | 30.0899
330202 | 30.7869 | 31.4435 | 25.5880 | 29.1884
330203 | 19.2353 | 20.7575 | * | 19.9954
330204 | 29.3662 | 29.4418 | 23.6548 | 27.7204
330205 | 19.4642 | 20.5793 | 22.3490 | 20.7832
330208 | 25.8201 | 26.1822 | 26.6682 | 26.2220
330209 | 24.8834 | 23.9924 | 25.1281 | 24.6749
330211 | 19.0968 | 19.5064 | 19.5405 | 19.3836
330212 | 21.1777 | 21.7705 | 24.7681 | 22.5597
330213 | 18.5066 | 18.7722 | 19.6796 | 18.9552
330214 | 32.1966 | 36.4447 | 31.4165 | 33.0084
330215 | 17.5818 | 19.6926 | 17.9863 | 18.3902
330218 | 21.7072 | 21.4796 | 21.1890 | 21.4557
330219 | 22.1476 | 23.9908 | 23.4310 | 23.1411
330221 | 32.2081 | 27.8485 | 33.4064 | 31.2763
330222 | 17.8140 | 18.3666 | 18.8006 | 18.3281
330223 | 17.2754 | 17.6199 | 17.8306 | 17.5845
330224 | 21.9728 | 19.6410 | 19.2734 | 20.3025
330225 | 25.8043 | 25.5823 | 27.0379 | 26.0910
330226 | 17.6708 | 16.6711 | 23.2189 | 18.8201
330229 | 16.2509 | 16.8026 | 17.5326 | 16.8453
330230 | 28.8625 | 29.7626 | 29.6283 | 29.3810
330231 | 29.0917 | 30.0923 | 21.4675 | 27.3980
330232 | 19.5042 | 17.9083 | 19.1787 | 18.8569
330233 | 33.3008 | 30.9241 | 44.1265 | 35.0751
330234 | 33.3286 | 35.1777 | 35.0720 | 34.4830
330235 | 19.4532 | 21.0842 | 19.5880 | 20.0417
330236 | 30.7017 | 29.5913 | 31.3463 | 30.5397
330238 | 14.7951 | 15.6245 | 17.3976 | 15.9047
330239 | 17.2808 | 17.4462 | 18.5079 | 17.7328
330240 | 30.4765 | 29.7082 | 23.8099 | 28.5234
330241 | 22.6046 | 24.6076 | 23.8638 | 23.6409
330242 | 24.7401 | 28.2612 | 27.6384 | 26.8305
330245 | 17.2803 | 17.6767 | 18.5221 | 17.8508
330246 | 26.6587 | 28.1090 | 28.1205 | 27.6612
330247 | 27.6203 | 28.5310 | 27.7465 | 27.9483
330249 | 16.4818 | 16.2687 | 17.1320 | 16.6304
330250 | 19.5553 | 19.5823 | 19.9619 | 19.7058
330252 | 17.0379 | * | * | 17.0379
330254 | 16.7252 | 18.4057 | 15.9123 | 17.0146
330258 | 30.4656 | 29.7426 | 31.8910 | 30.6921
330259 | 25.2526 | 26.2661 | 25.9994 | 25.8364
330261 | 26.1654 | 25.7244 | 29.1996 | 27.0324
330263 | 19.6388 | 20.4149 | 18.7378 | 19.6517
330264 | 23.1359 | 22.8672 | 22.8099 | 22.9301
330265 | 15.6249 | 18.0193 | 17.7470 | 17.0706
330267 | 23.5561 | 24.5183 | 24.5939 | 24.2287
330268 | 14.6249 | 13.0595 | 15.9060 | 14.5364
330270 | 28.2392 | 34.4254 | 33.6294 | 31.8926
330273 | 25.8910 | 23.1511 | 26.0565 | 24.9430
330275 | 17.4223 | 19.0548 | 18.5826 | 18.2987
330276 | 17.7452 | 18.2870 | 19.0228 | 18.3342
330277 | 17.1570 | 18.3169 | 19.1761 | 18.2131
330279 | 19.9079 | 19.5983 | 20.7107 | 20.0436
330285 | 22.4717 | 23.5264 | 23.3068 | 23.0987
330286 | 25.0948 | 26.7633 | 27.6508 | 26.5469
330290 | 32.5792 | 33.5056 | 30.4706 | 32.2470
330293 | 15.3782 | 16.2158 | 16.9238 | 16.1248
330304 | 29.3687 | 26.7683 | 27.3562 | 27.8227
330306 | 27.6214 | 27.3798 | 29.5186 | 28.1311
330307 | 20.7362 | 21.0673 | 21.7142 | 21.1685
330308 | 36.8361 | * | * | 36.8361
330314 | 24.7399 | 24.5444 | 25.9937 | 25.0514
330316 | 28.7872 | 27.6102 | 27.9543 | 28.1177
330327 | 16.9724 | 16.4611 | 20.3874 | 17.9258
330331 | 31.0405 | 31.6216 | 33.1276 | 32.0298
330332 | 27.1554 | 27.6914 | 25.3689 | 26.7855
330333 | * | 29.1931 | 39.5812 | 33.8163
330336 | 30.1708 | 29.7689 | 29.8294 | 29.9290
330338 | 23.0077 | 22.4581 | 21.2670 | 22.2755
330339 | 19.6730 | 20.0111 | 20.1028 | 19.9220
330340 | 26.9201 | 28.8419 | 28.4129 | 28.0687
330350 | 30.3754 | 30.8889 | 30.9763 | 30.7427
330353 | 33.5519 | 32.1984 | 34.2431 | 33.3163
330357 | 34.7492 | 36.5928 | 33.5805 | 35.0171
330359 | 29.2920 | * | * | 29.2920
330372 | 22.5027 | 28.8482 | 33.3771 | 27.5982
330381 | 29.2438 | 31.0091 | 31.8602 | 30.6612
330385 | 28.8373 | 35.6722 | 26.5687 | 30.6041
330386 | 24.6713 | 17.6383 | 20.4231 | 20.5236
330389 | 32.4234 | 30.2505 | 37.3749 | 32.9392
330390 | 29.7936 | 31.1577 | 30.8744 | 30.5843
330393 | 27.9901 | 26.4958 | 28.7973 | 27.7348
330394 | 18.7724 | 19.2392 | 19.1086 | 19.0396
330395 | 37.6805 | 32.8749 | 32.7494 | 34.3792
330396 | 30.7228 | 34.8648 | 24.4840 | 30.2958
330397 | 31.0043 | 33.9061 | 32.6068 | 32.3768
330398 | 30.3217 | 28.7707 | 29.2872 | 29.6846
330399 | 35.5212 | 32.9100 | 27.1103 | 31.5503
330400 | * | * | 16.2707 | 16.2707
340001 | 19.0159 | 18.1814 | 19.7093 | 18.9605
340002 | 18.7790 | 20.8858 | 20.5253 | 20.0921
340003 | 21.9674 | 20.2540 | 19.5145 | 20.4958
340004 | 17.8923 | 19.0695 | 20.8540 | 19.2829
340005 | 14.0941 | 15.8205 | 16.7176 | 15.5039
340006 | 17.8145 | 16.9818 | 16.5709 | 17.0955
340007 | 17.1708 | 17.2356 | 18.3399 | 17.5929
340008 | 18.3769 | 21.2889 | 20.3756 | 20.0138
340009 | 20.5011 | 20.5023 | 20.9178 | 20.6132
340010 | 17.6500 | 18.3380 | 19.4302 | 18.4900
340011 | 14.9215 | 13.6554 | 14.4798 | 14.3110
340012 | 16.6574 | 18.8701 | 17.5112 | 17.6905
340013 | 17.4302 | 20.1747 | 19.4613 | 19.0754
340014 | 19.9203 | 20.5748 | 27.5775 | 22.0875
340015 | 19.0056 | 20.1562 | 19.4256 | 19.5364
340016 | 16.3977 | 17.5404 | 18.8958 | 17.5664
340017 | 19.2203 | 19.4192 | 20.2775 | 19.6581
340018 | 15.1579 | 14.0930 | 18.1751 | 15.6569
340019 | 13.5919 | 14.8980 | 15.2887 | 14.5682
340020 | 16.7515 | 18.6334 | 18.0897 | 17.8512
340021 | 19.6658 | 19.8020 | 20.5813 | 20.0277
340022 | 16.7211 | 17.8178 | 18.7714 | 17.7886
340023 | 17.2054 | 18.5414 | 19.3146 | 18.3540
340024 | 16.6389 | 17.3824 | 17.9130 | 17.3104
340025 | 16.8198 | 17.2648 | 18.4628 | 17.5179
340027 | 17.2971 | 18.0816 | 19.4548 | 18.2602
340028 | 17.7196 | 18.4787 | 19.9403 | 18.7490
340030 | 20.0530 | 21.1420 | 22.4709 | 21.2046
340031 | 12.3895 | 14.6951 | 14.6370 | 13.8761
340032 | 20.4735 | 20.0049 | 20.7444 | 20.4083
340035 | 18.0988 | 20.2312 | 18.9930 | 19.1067
340036 | 16.9674 | 18.2190 | 17.7619 | 17.6323
340037 | 15.5347 | 16.6576 | 17.5829 | 16.5842
340038 | 17.0154 | 17.3762 | 18.1493 | 17.5050
340039 | 20.1470 | 20.5876 | 21.3711 | 20.7125
340040 | 20.1214 | 20.4282 | 21.9720 | 20.8376
340041 | 17.7626 | 15.1419 | 15.5873 | 16.0395
340042 | 16.6300 | 16.9298 | 17.0034 | 16.8680
340044 | 16.3657 | 18.8687 | 18.0863 | 17.7757
340045 | 12.4152 | 13.0538 | 13.6182 | 12.9769
340047 | 19.6050 | 20.0602 | 20.0744 | 19.9132
340049 | 16.4988 | 19.2050 | 19.5127 | 18.2917
340050 | 18.5570 | 20.0090 | 19.6726 | 19.4142
340051 | 18.5953 | 16.5617 | 19.3627 | 18.0980
340052 | 21.3746 | 22.8173 | 23.2134 | 22.4161
340053 | 19.4881 | 20.9495 | 19.9915 | 20.1403
340054 | 14.4722 | 15.5993 | 15.5090 | 15.2167
340055 | 18.1786 | 19.6056 | 19.0861 | 18.9634
340060 | 17.9167 | 18.7137 | 19.3410 | 18.6670
340061 | 20.8474 | 21.5385 | 21.9695 | 21.4360
340063 | 16.9232 | 17.0249 | 16.7377 | 16.9005
340064 | 17.2584 | 20.7125 | 18.5069 | 18.8299
340065 | 18.3212 | 17.5414 | 17.5818 | 17.8131
340067 | 18.6132 | 19.3785 | 19.7187 | 19.2365
340068 | 16.7015 | 16.6305 | 17.8065 | 17.0483
340069 | 19.9948 | 21.0840 | 21.6728 | 20.9166
340070 | 18.6270 | 19.7796 | 20.5881 | 19.6815
340071 | 16.3701 | 17.1424 | 18.0767 | 17.2043
340072 | 15.6014 | 16.7400 | 17.7129 | 16.7307
340073 | 20.6905 | 21.9761 | 23.5832 | 22.0016
340075 | 18.2060 | 18.7090 | 20.8934 | 19.2370
340080 | 16.8453 | 22.2533 | 18.2061 | 19.0642
340084 | 21.7813 | 17.1532 | 19.0103 | 19.0182
340085 | 16.2355 | 17.3462 | 18.3179 | 17.3020
340087 | 16.6987 | 17.3884 | 18.2255 | 17.4652
340088 | 19.8314 | 21.0226 | 22.2322 | 21.0156
340089 | 13.8633 | 13.8535 | 15.4760 | 14.4308
340090 | 17.8457 | 17.0584 | 18.6263 | 17.8484
340091 | 19.3955 | 20.5923 | 20.2909 | 20.1016
340093 | 15.1615 | 16.3276 | 16.8903 | 16.0870
340094 | 15.9568 | 19.0406 | * | 17.4328
340096 | 17.9764 | 17.8189 | 19.4696 | 18.4348
340097 | 21.3700 | 18.8412 | 18.2399 | 19.4192
340098 | 20.1671 | 21.4135 | 21.9578 | 21.2065
340099 | 15.0888 | 16.8305 | 15.3752 | 15.7269
340101 | 15.3610 | 13.9994 | 15.6509 | 14.9555
340104 | 15.8729 | 13.0462 | 11.5169 | 13.4465
340105 | 18.9007 | 20.2954 | * | 19.5963
340106 | 18.0769 | 17.7220 | 18.1211 | 17.9704
340107 | 16.9503 | 18.0205 | 19.3197 | 18.0904
340109 | 17.9576 | 18.7746 | 19.0532 | 18.6067
340111 | 14.9247 | 16.3344 | 16.5976 | 15.9665
340112 | 14.5966 | 14.7562 | 15.5142 | 14.9625
340113 | 20.8821 | 21.2906 | 21.7973 | 21.3226
340114 | 20.8195 | 21.2166 | 20.7261 | 20.9197
340115 | 18.6700 | 19.7578 | 21.7586 | 20.0594
340116 | 19.4786 | 20.4255 | 20.6800 | 20.2116
340119 | 16.8537 | 18.8507 | 19.3687 | 18.3855
340120 | 14.3822 | 15.0410 | 15.8240 | 15.1047
340121 | 15.9686 | 16.3295 | 17.8771 | 16.7251
340123 | 16.2227 | 16.9114 | 18.9078 | 17.3848
340124 | 14.0462 | 15.5779 | 17.4185 | 15.7171
340125 | 19.6252 | 19.7164 | 20.2270 | 19.8478
340126 | 17.7214 | 18.8100 | 19.2911 | 18.6445
340127 | 17.3849 | 19.3925 | 19.3842 | 18.7105
340129 | 19.7332 | 20.4605 | 20.5809 | 20.2641
340130 | 19.4430 | 19.7422 | 19.8707 | 19.6940
340131 | 18.9361 | 19.7908 | 21.3849 | 20.0481
340132 | 16.9369 | 17.3448 | 17.5711 | 17.3015
340133 | 14.3501 | 16.4766 | 17.2138 | 16.0568
340137 | * | 21.0249 | 31.7702 | 23.8273
340138 | 19.2807 | 20.7618 | * | 20.0092
340141 | 22.2234 | 21.3754 | 22.7090 | 22.1155
340142 | 16.0912 | 17.1525 | 18.0766 | 17.1107
340143 | 20.9509 | 21.3604 | 24.4098 | 22.2423
340144 | 19.1919 | 20.9113 | 22.9183 | 20.9333
340145 | 19.1964 | 20.1081 | 20.5002 | 19.9671
340146 | 13.0119 | 15.9203 | 17.3051 | 15.3284
340147 | 19.1087 | 19.6827 | 20.5069 | 19.7958
340148 | 18.4227 | 18.5875 | 18.9912 | 18.6555
340151 | 16.5671 | 16.7275 | 18.4733 | 17.2579
340153 | 20.6588 | 20.6420 | 20.7533 | 20.6847
340155 | 20.4236 | 20.5792 | 22.6127 | 21.1834
340158 | 17.2565 | 18.1439 | 19.0843 | 18.2232
340159 | 16.8048 | 17.3893 | 19.0255 | 17.7569
340160 | 15.5298 | 16.1778 | 16.7170 | 16.1477
340162 | 16.6362 | 14.3472 | * | 16.3541
340164 | 19.6820 | 21.2523 | 21.5769 | 20.8240
340166 | 19.1743 | 20.0434 | 20.8270 | 20.0663
340168 | 14.7508 | 15.2919 | 15.6071 | 15.2494
340171 | 20.0495 | 21.5973 | 22.4779 | 21.4041
340173 | 20.2132 | 19.3353 | 21.0898 | 20.2512
350001 | 11.7345 | 14.9080 | 16.6551 | 14.4005
350002 | 17.2834 | 17.5259 | 18.3459 | 17.7122
350003 | 17.4276 | 18.2470 | 19.0720 | 18.2341
350004 | 17.9049 | 20.6518 | 23.7016 | 20.6528
350005 | 16.0259 | 18.3792 | 19.8486 | 18.1602
350006 | 16.6241 | 18.4107 | 19.0343 | 17.9691
350007 | 13.2771 | 13.3292 | 14.7114 | 13.7285
350008 | 21.6983 | 20.4777 | 22.3784 | 21.4889
350009 | 18.2818 | 19.1611 | 18.3688 | 18.6099
350010 | 15.2762 | 16.2808 | 16.7899 | 16.1032
350011 | 18.4931 | 18.2008 | 19.1944 | 18.6474
350012 | 12.7287 | 15.7033 | 18.2524 | 15.6975
350013 | 16.6784 | 16.4579 | 17.2596 | 16.7923
350014 | 15.7906 | 16.8403 | 18.0997 | 16.8353
350015 | 15.8651 | 16.3397 | 16.4878 | 16.2122
350016 | 11.6255 | 11.6524 | * | 11.6395
350017 | 17.7835 | 17.6278 | 17.5124 | 17.6446
350018 | 13.6366 | 14.4928 | 16.4939 | 14.8276
350019 | 19.4037 | 19.3063 | 20.1608 | 19.6008
350021 | 12.6885 | 16.2898 | 16.8617 | 15.2799
350023 | 12.7952 | 17.9048 | 17.4983 | 16.4355
350024 | 14.3740 | 14.7529 | 15.7902 | 14.9309
350025 | 16.2400 | 17.1199 | 15.0469 | 16.0889
350027 | 17.1177 | 15.0835 | 15.5175 | 15.9198
350029 | 12.7950 | 13.5219 | 14.6177 | 13.6003
350030 | 17.3497 | 17.7209 | 18.1131 | 17.7195
350033 | 14.8953 | 14.9012 | 16.0870 | 15.2715
350034 | 18.3180 | 18.7245 | 19.6445 | 18.8742
350035 | 10.1561 | 10.4570 | 11.7675 | 10.7676
350038 | 18.7357 | 17.6666 | 19.6852 | 18.6647
350039 | 17.3128 | 17.0361 | 16.6280 | 17.0025
350041 | 14.6772 | 14.6680 | 19.1341 | 15.9095
350042 | 16.7544 | 16.7402 | 19.3309 | 17.4345
350043 | 17.1573 | 16.8876 | 16.7433 | 16.9224
350044 | 10.5296 | 10.2154 | 11.0178 | 10.5670
350047 | 17.9270 | 14.4628 | 18.0094 | 16.8202
350049 | 14.5330 | 14.8019 | 18.1993 | 15.6280
350050 | 10.5733 | 11.4921 | 11.2484 | 11.0842
350051 | 17.5323 | 17.7279 | 17.0183 | 17.4309
350053 | 13.9379 | 14.6398 | 15.9165 | 14.8076
350055 | 12.3722 | 14.5691 | 15.7916 | 14.3152
350056 | 14.7382 | 14.8293 | 15.0995 | 14.8885
350058 | 14.3484 | 15.9378 | 16.7034 | 15.7009
350060 | 9.5962 | 10.3666 | 10.3076 | 10.0926
350061 | 14.5894 | 15.7269 | 18.8790 | 16.4237
360001 | 17.3933 | 17.0791 | 18.9348 | 17.8110
360002 | 17.3955 | 18.0139 | 18.1923 | 17.9206
360003 | 22.0351 | 22.7471 | 22.9625 | 22.5524
360006 | 22.0906 | 21.8048 | 22.4436 | 22.1137
360007 | 17.0955 | 18.0941 | 14.8213 | 16.6387
360008 | 17.8185 | 18.5439 | 18.7961 | 18.3915
360009 | 17.5328 | 18.9322 | 18.8403 | 18.4150
360010 | 18.0886 | 19.2288 | 19.1852 | 18.8325
360011 | 18.9491 | 19.3835 | 21.3659 | 19.9105
360012 | 19.2221 | 19.9881 | 19.8772 | 19.7036
360013 | 20.8112 | 20.6021 | 21.3690 | 20.9190
360014 | 19.8844 | 20.2390 | 20.7419 | 20.2907
360016 | 18.7709 | 17.8065 | 21.2505 | 19.1632
360017 | 22.4972 | 21.7543 | 22.2740 | 22.1696
360018 | 21.3436 | 23.5219 | 24.6686 | 23.0168
360019 | 20.1726 | 18.7147 | 20.6480 | 19.8139
360020 | 22.9512 | 21.7806 | 22.1751 | 22.3268
360024 | 18.5412 | 19.8508 | 20.0395 | 19.4699
360025 | 19.2918 | 20.3638 | 20.2531 | 19.9763
360026 | 17.0378 | 18.2222 | 17.9523 | 17.7450
360027 | 20.3568 | 21.0406 | 21.7259 | 21.0412
360028 | 17.2681 | 17.0177 | 18.7174 | 17.5937
360029 | 18.2193 | 18.7622 | 19.2928 | 18.7626
360030 | 15.3535 | 17.5748 | 17.6058 | 16.8173
360031 | 19.8987 | 19.3858 | 21.0687 | 20.1028
360032 | 17.9274 | 18.6559 | 19.8020 | 18.7667
360034 | 15.5649 | 14.9534 | 17.9594 | 16.1258
360035 | 20.3358 | 20.5557 | 21.1368 | 20.6811
360036 | 19.1835 | 20.2107 | 20.9916 | 20.1250
360037 | 22.5240 | 23.5094 | 22.4361 | 22.8217
360038 | 19.8921 | 21.2467 | 22.7344 | 21.1378
360039 | 17.4033 | 18.7791 | 18.8648 | 18.5318
360040 | 18.1238 | 18.1618 | 18.7425 | 18.3503
360041 | 18.4244 | 19.5744 | 19.7968 | 19.2697
360042 | 16.1187 | 17.4306 | 17.1952 | 16.9328
360044 | 16.7925 | 17.0612 | 17.6882 | 17.1993
360045 | 21.1814 | 22.1471 | 22.4018 | 21.8209
360046 | 19.3198 | 20.4755 | 20.4607 | 20.0909
360047 | 15.3399 | 17.1871 | 15.2922 | 15.8884
360048 | 21.1719 | 22.5857 | 22.4890 | 22.0646
360049 | 18.8084 | 20.4564 | 20.8393 | 20.0008
360050 | 12.8888 | 12.9873 | 15.0568 | 13.6080
360051 | 20.9461 | 20.8338 | 20.8757 | 20.8844
360052 | 20.0182 | 19.6233 | 18.7143 | 19.4845
360054 | 16.1875 | 17.2574 | 17.4911 | 16.9860
360055 | 23.2671 | 21.5585 | 21.3101 | 22.0600
360056 | 18.7606 | 19.0474 | 19.9428 | 19.2810
360057 | 13.8094 | 15.0146 | 15.8569 | 14.8518
360058 | 17.9178 | 18.6992 | 19.3306 | 18.6392
360059 | 21.9689 | 20.5618 | 19.3576 | 20.6833
360062 | 20.3111 | 20.7588 | 22.2132 | 21.0473
360063 | 22.7866 | 18.4512 | 17.5108 | 19.4998
360064 | 20.6416 | 20.4846 | 19.6315 | 20.2734
360065 | 19.4531 | 20.0532 | 19.6199 | 19.7128
360066 | 20.0285 | 21.6015 | 22.8175 | 21.4937
360067 | 14.5687 | 15.3157 | 14.2745 | 14.7189
360068 | 21.2199 | 21.2789 | 22.5953 | 21.7071
360069 | 17.8329 | 16.6982 | 14.6597 | 16.2292
360070 | 17.5300 | 17.3758 | 18.8406 | 17.9171
360071 | 23.8013 | 17.9756 | 18.9990 | 20.2321
360072 | 17.9697 | 18.1467 | 19.0028 | 18.3949
360074 | 18.2614 | 20.8275 | 16.3870 | 18.3729
360075 | 18.4733 | 22.4523 | 26.0663 | 21.4074
360076 | 19.5864 | 20.0700 | 20.3028 | 19.9910
360077 | 20.8202 | 21.1053 | 21.5517 | 21.1550
360078 | 20.7940 | 21.4392 | 21.4033 | 21.2167
360079 | 22.0033 | 22.1096 | 21.6644 | 21.9274
360080 | 16.6414 | 17.3892 | 17.6369 | 17.2080
360081 | 19.6354 | 21.7342 | 20.4614 | 20.6451
360082 | 22.8585 | 22.9460 | 20.7610 | 22.1460
360083 | 18.4635 | * | * | 18.4635
360084 | 20.0914 | 20.4894 | 22.0492 | 20.8664
360085 | 21.6670 | 21.9051 | 22.0445 | 21.8712
360086 | 17.0389 | 19.5378 | 19.3701 | 18.5836
360087 | 20.0395 | 20.1684 | 20.7969 | 20.3249
360088 | 22.3121 | 24.0097 | 24.0822 | 23.4637
360089 | 20.5610 | 18.3881 | 18.1941 | 19.0415
360090 | 20.3955 | 21.0376 | 20.8971 | 20.7887
360091 | 21.0335 | 21.3126 | 21.8447 | 21.4132
360092 | 15.9095 | 20.4534 | 21.5073 | 18.9727
360093 | 18.5744 | 19.3292 | 19.0261 | 18.9905
360094 | 18.3105 | 18.8780 | 20.1227 | 19.0848
360095 | 18.7079 | 20.4149 | 19.8521 | 19.6643
360096 | 17.1617 | 18.2215 | 16.7129 | 17.3379
360098 | 18.3361 | 19.5314 | 19.7705 | 19.2208
360099 | 18.5523 | 18.5855 | 19.6241 | 18.9389
360100 | 17.6554 | 17.8989 | 18.0434 | 17.8622
360101 | 22.3121 | 21.3914 | 20.2635 | 21.3487
360102 | 19.7700 | 19.4345 | 18.5367 | 19.2837
360103 | 22.6228 | * | * | 22.6228
360106 | 16.1843 | 18.9752 | 19.1778 | 18.1964
360107 | 18.6195 | 19.7599 | 22.1359 | 20.1794
360108 | 16.5076 | 17.5832 | 20.0681 | 18.0497
360109 | 19.5162 | 20.1032 | 19.9237 | 19.8530
360112 | 22.5676 | 22.5589 | 24.6335 | 23.2167
360113 | 22.4584 | 24.2654 | 21.4926 | 22.7777
360114 | 16.3288 | 17.8761 | 18.7509 | 17.6758
360115 | 18.1859 | 18.8059 | 20.5842 | 19.2284
360116 | 18.0835 | 18.8882 | 18.8319 | 18.6000
360118 | 18.6098 | 19.3732 | 19.9141 | 19.3196
360121 | 21.0979 | 22.1093 | 22.2175 | 21.8088
360123 | 19.1313 | 20.3236 | 20.9792 | 20.1480
360125 | 18.1756 | 19.0774 | 20.5508 | 19.2432
360126 | 20.4558 | 19.0036 | 24.5387 | 21.1181
360127 | 16.9228 | 17.5882 | 16.4582 | 16.9587
360128 | 15.5823 | 16.1243 | 17.0515 | 16.2361
360129 | 15.5241 | 15.5002 | 16.6114 | 15.8783
360130 | 15.3356 | 17.2009 | 18.4539 | 16.9275
360131 | 18.2897 | 19.2241 | 18.4688 | 18.6543
360132 | 18.2733 | 19.9171 | 21.3493 | 19.8413
360133 | 19.0349 | 19.4316 | 20.3421 | 19.5683
360134 | 20.2383 | 20.6876 | 20.8407 | 20.5767
360136 | 17.8473 | 17.7827 | 18.2194 | 17.9464
360137 | 20.2581 | 20.1756 | 21.6611 | 20.6928
360140 | 19.1263 | 20.2791 | 21.2881 | 20.2299
360141 | 22.8496 | 23.0016 | 23.4448 | 23.0886
360142 | 17.3154 | 17.0059 | 18.3188 | 17.5468
360143 | 20.4378 | 20.1989 | 21.0336 | 20.5552
360144 | 21.9159 | 23.2191 | 20.9033 | 21.9858
360145 | 19.3907 | 19.6413 | 20.0513 | 19.6956
360147 | 16.5898 | 16.6616 | 17.6779 | 16.9779
360148 | 18.8914 | 19.2816 | 19.1393 | 19.1100
360149 | 18.7891 | 19.9808 | * | 19.3785
360150 | 20.6253 | 21.1327 | 22.3752 | 21.3686
360151 | 17.4863 | 16.6019 | 19.2788 | 17.7101
360152 | 21.9978 | 20.8328 | 21.6005 | 21.4611
360153 | 14.8948 | 15.4132 | 16.7399 | 15.6460
360154 | 13.7761 | 14.3270 | 14.3593 | 14.1608
360155 | 20.8977 | 22.5347 | 22.4566 | 21.9588
360156 | 17.9155 | 17.8787 | 18.9095 | 18.2225
360159 | 20.7119 | 20.2841 | 21.5695 | 20.8609
360161 | 19.4122 | 19.1983 | 20.3933 | 19.6539
360162 | 18.6084 | * | * | 18.6084
360163 | 20.3821 | 20.7275 | 21.2689 | 20.8164
360164 | 16.1643 | * | * | 16.1643
360165 | 19.4831 | 18.2571 | 18.2417 | 18.6524
360166 | 16.9778 | 18.7321 | * | 17.8568
360170 | 17.1779 | 16.4653 | 20.4407 | 17.9153
360172 | 18.4690 | 18.6720 | 19.7088 | 19.0739
360174 | 19.0887 | 19.9725 | 20.2255 | 19.8619
360175 | 20.4133 | 21.1685 | 21.5450 | 21.0739
360176 | 15.4730 | 15.9430 | 16.6228 | 16.0305
360177 | 19.4122 | 18.7898 | 18.9576 | 19.0368
360178 | 17.3985 | 18.8704 | 16.7962 | 17.7254
360179 | 19.1417 | 21.1309 | 21.1234 | 20.4340
360180 | 22.0949 | 21.3826 | 21.0146 | 21.4888
360184 | 19.3502 | 19.1224 | * | 19.2391
360185 | 18.6697 | 18.7291 | 19.4858 | 18.9599
360186 | 20.8579 | 18.3246 | 20.7572 | 19.9570
360187 | 18.0209 | 18.5109 | 19.6535 | 18.7427
360188 | 17.5327 | 17.1044 | 18.3057 | 17.6838
360189 | 17.3713 | 17.8981 | 18.5940 | 17.9373
360192 | 20.9980 | 21.6365 | 22.7846 | 21.8042
360193 | 17.6874 | * | * | 17.6874
360194 | 17.6890 | 17.1884 | 17.6140 | 17.4968
360195 | 19.0173 | 19.9302 | 20.5828 | 19.8368
360197 | 19.4250 | 20.0603 | 20.5062 | 19.9981
360200 | 17.7583 | 16.2306 | 17.9623 | 17.3129
360203 | 15.6212 | 16.3181 | 15.9609 | 15.9716
360204 | 19.3543 | 22.2494 | * | 20.5754
360210 | 20.2809 | 20.9955 | 21.8629 | 21.0428
360211 | 19.5762 | 19.9895 | 20.6081 | 20.0860
360212 | 20.2288 | 21.1123 | 20.6987 | 20.6781
360213 | 18.3253 | 19.4765 | 19.0584 | 18.9547
360218 | 18.4140 | 18.9469 | 18.8204 | 18.7231
360230 | 21.4385 | 21.9763 | 20.8042 | 21.3850
360231 | 13.5586 | 12.9588 | 14.4168 | 13.6102
360234 | 22.4324 | 23.2588 | 19.5102 | 21.8679
360236 | 19.4881 | 17.8426 | 19.9971 | 19.0637
360239 | 19.8584 | 20.1854 | 19.5907 | 19.8872
360241 | 22.0795 | 23.5318 | 25.3741 | 23.5406
360243 | 13.5835 | 14.8694 | * | 14.2018
360244 | 10.5518 | * | * | 10.5518
360245 | 15.0579 | 16.4622 | 15.9782 | 15.8310
360247 | 18.1116 | 16.3092 | 17.0776 | 17.0967
360248 | 21.6499 | * | * | 21.6499
360249 | * | * | 25.4331 | 25.4331
370001 | 21.2714 | 22.5214 | 24.1929 | 22.6419
370002 | 14.0847 | 14.7315 | 15.4333 | 14.7194
370004 | 16.7671 | 19.3236 | 18.5233 | 18.1546
370005 | 17.3817 | 15.1654 | 15.3881 | 15.9167
370006 | 12.9493 | 16.6484 | 16.4995 | 15.3118
370007 | 17.1535 | 15.2905 | 15.8312 | 16.0498
370008 | 17.3048 | 16.6566 | 17.5553 | 17.1688
370011 | 14.6397 | 14.9701 | 14.9186 | 14.8316
370012 | 10.8003 | 11.7265 | 12.4942 | 11.6228
370013 | 18.0385 | 19.3398 | 18.9584 | 18.7911
370014 | 19.6543 | 20.6512 | 20.2858 | 20.2276
370015 | 17.8247 | 17.0319 | 20.8765 | 18.5256
370016 | 16.6401 | 19.1191 | 19.1613 | 18.3470
370017 | 12.9837 | 12.6400 | 13.6531 | 13.1239
370018 | 14.2438 | 18.5107 | 17.7054 | 16.6955
370019 | 16.8801 | 14.2277 | 14.6216 | 15.1546
370020 | 13.4787 | 14.3798 | 15.1035 | 14.3356
370021 | 11.2639 | 12.0474 | 12.9030 | 12.0738
370022 | 17.9015 | 17.2344 | 17.3302 | 17.4722
370023 | 16.8215 | 17.7630 | 17.5148 | 17.3665
370025 | 16.3970 | 17.4988 | 18.4375 | 17.4425
370026 | 16.8991 | 18.3371 | 18.0412 | 17.7563
370028 | 19.7118 | 18.4445 | 21.1086 | 19.7253
370029 | 13.8930 | 16.4924 | 18.2580 | 16.0663
370030 | 15.4736 | 16.3269 | 16.5803 | 16.1058
370032 | 16.6432 | 18.2821 | 18.1538 | 17.7030
370033 | 12.3910 | 13.5216 | 11.3210 | 12.4595
370034 | 14.5101 | 15.6386 | 15.6288 | 15.2811
370035 | 18.9629 | 25.5764 | * | 21.9610
370036 | 11.4593 | 12.4026 | 12.4070 | 12.0833
370037 | 17.7491 | 16.7012 | 18.8472 | 17.7402
370038 | 12.8135 | 13.3084 | 13.0210 | 13.0660
370039 | 16.2661 | 15.5206 | 19.4498 | 17.0406
370040 | 14.2582 | 14.4672 | 15.5109 | 14.7638
370041 | 17.4123 | 16.7356 | 16.2316 | 16.8488
370042 | 14.6146 | 14.9175 | 15.2764 | 14.9764
370043 | 16.0764 | 15.9534 | 17.0892 | 16.3549
370045 | 12.4352 | 10.1994 | 11.3560 | 11.2236
370046 | 18.1499 | 18.8334 | * | 18.4831
370047 | 15.6716 | 16.7554 | 17.8769 | 16.7444
370048 | 17.4356 | 18.2150 | 15.6803 | 17.1206
370049 | 19.8397 | 20.7176 | 19.4868 | 19.9892
370051 | 12.1816 | 11.6736 | 12.5171 | 12.1083
370054 | 16.5598 | 16.9049 | 18.0787 | 17.1343
370056 | 18.8774 | 18.4558 | 18.1432 | 18.4804
370057 | 14.6564 | 16.7261 | 15.1228 | 15.5054
370059 | 16.4578 | 18.1386 | 18.3314 | 17.6259
370060 | 15.1169 | 16.5403 | 19.3051 | 16.8157
370063 | 17.0645 | 14.4132 | 16.7342 | 16.0603
370064 | 8.7499 | 10.9676 | 11.9954 | 10.6741
370065 | 16.5638 | 16.6898 | 18.1349 | 17.1281
370071 | 14.9472 | 16.1439 | 16.4567 | 15.8354
370072 | 14.6497 | 14.4742 | 13.6519 | 14.2760
370076 | 12.8568 | 13.5694 | 14.3555 | 13.5818
370077 | 17.6236 | * | * | 17.6236
370078 | 17.2370 | 18.4086 | 19.2412 | 18.2505
370079 | 13.5976 | 16.6861 | 16.9201 | 15.7005
370080 | 14.3445 | 13.9239 | 14.7323 | 14.3058
370082 | 13.5434 | 13.9634 | 15.0669 | 14.1855
370083 | 11.4905 | 13.1519 | 13.1316 | 12.6096
370084 | 21.7484 | 22.0545 | 13.1197 | 17.8063
370085 | 11.8844 | 11.2842 | 48.1271 | 14.9179
370086 | 13.5646 | 15.4404 | 11.1900 | 13.1933
370089 | 14.4968 | 16.0966 | 17.2638 | 15.9758
370091 | 17.5839 | 19.1698 | 20.1860 | 18.9733
370092 | 14.6757 | 14.9802 | 15.7678 | 15.1529
370093 | 18.5747 | 18.4600 | 19.7008 | 19.0469
370094 | 18.3796 | 18.0002 | 19.5462 | 18.6588
370095 | 14.1319 | 12.6383 | 13.4202 | 13.3755
370097 | 23.3116 | 22.9714 | 23.2056 | 23.1716
370099 | 16.2649 | 15.4549 | 18.9823 | 16.7206
370100 | 17.1036 | 14.0168 | 18.8274 | 16.6764
370103 | 15.8967 | 19.2353 | 18.2685 | 17.7516
370105 | 17.6811 | 21.3352 | 20.7890 | 19.9853
370106 | 18.6238 | 18.5485 | 18.7413 | 18.6375
370108 | 12.2379 | 12.3279 | 12.7470 | 12.4421
370112 | 15.2488 | 14.8539 | 15.3039 | 15.1287
370113 | 16.2043 | 16.1046 | 17.6107 | 16.6143
370114 | 15.9801 | 16.5268 | 17.4009 | 16.6473
370121 | 19.5506 | 22.5611 | 21.3099 | 21.1472
370122 | 12.1514 | 15.0645 | 15.4375 | 13.9736
370123 | 16.3609 | 18.9159 | 19.4409 | 18.1517
370125 | 13.5453 | 15.6284 | 13.9436 | 14.3107
370126 | 18.2447 | 23.9654 | 15.8020 | 19.1824
370131 | 16.2403 | 17.5689 | 15.7261 | 16.4650
370133 | 10.0169 | 10.9575 | 12.9545 | 11.1921
370138 | 15.9372 | 16.4005 | 17.5551 | 16.6500
370139 | 13.3023 | 14.8612 | 14.9964 | 14.3624
370140 | 15.2265 | 16.0721 | 17.1393 | 16.1657
370141 | 12.1420 | 18.4101 | 20.7798 | 16.3574
370146 | 12.5581 | 12.6402 | 13.0399 | 12.7467
370148 | 16.4147 | 20.6458 | 20.6612 | 19.2220
370149 | 16.7218 | 16.1850 | 17.0929 | 16.6647
370153 | 15.3218 | 17.8352 | 16.4669 | 16.5507
370154 | 15.9128 | 15.5127 | 15.6093 | 15.6789
370156 | 13.6363 | 13.9255 | 14.5696 | 14.0273
370158 | 15.0865 | 15.6917 | 15.6994 | 15.4906
370159 | 17.8319 | 28.0536 | 21.1267 | 21.7006
370163 | 14.5609 | 17.6361 | 20.4217 | 17.2893
370165 | 13.2174 | 13.0910 | 13.0375 | 13.1156
370166 | 17.8154 | 17.2849 | 21.0944 | 18.6510
370169 | 9.4807 | 12.5243 | 12.7138 | 11.5273
370176 | 16.0355 | 15.9476 | 18.9951 | 16.9629
370177 | 11.8757 | 11.2536 | 14.6481 | 12.5743
370178 | 11.6384 | 10.5726 | 11.6200 | 11.2422
370179 | 19.2677 | 17.2829 | 21.3002 | 18.9651
370183 | 7.6164 | 10.2945 | 16.9318 | 11.0088
370186 | 13.3454 | 13.6192 | 15.4533 | 14.1321
370190 | 13.7032 | 14.1397 | 19.3570 | 15.3737
370192 | 16.7402 | 18.4614 | 19.6967 | 18.2866
370197 | 21.5718 | * | * | 21.5718
370198 | * | 21.3136 | * | 21.3136
370200 | * | * | 22.5299 | 22.5299
380001 | 22.0255 | 20.3127 | 26.4822 | 22.5494
380002 | 19.4764 | 24.0241 | 21.9185 | 21.9840
380003 | 24.7434 | 21.7826 | 20.9007 | 22.2865
380004 | 23.1432 | 23.1451 | 23.3609 | 23.2208
380005 | 23.2415 | 24.0838 | 25.0750 | 24.1485
380006 | 20.5375 | 21.2731 | 21.3520 | 21.0653
380007 | 24.2933 | 25.2995 | 32.2678 | 27.0282
380008 | 21.1888 | 20.7063 | 22.1442 | 21.3538
380009 | 25.1702 | 23.8104 | 24.3851 | 24.4234
380010 | 19.7477 | 23.7488 | 22.7276 | 21.8451
380011 | 21.1353 | 21.1151 | 20.3357 | 20.8683
380013 | 20.1038 | 18.6818 | 19.8180 | 19.5721
380014 | 23.4819 | 24.6574 | 25.9828 | 24.7413
380017 | 23.8231 | 26.0578 | 25.3954 | 25.0552
380018 | 22.0776 | 22.3525 | 22.9822 | 22.4971
380019 | 20.7700 | 22.1215 | 20.8176 | 21.2209
380020 | 21.3556 | 20.1464 | 22.9568 | 21.5448
380021 | 20.6358 | 21.1590 | 23.8499 | 21.8371
380022 | 21.6110 | 22.6408 | 24.5974 | 22.8841
380023 | 19.2357 | 20.5462 | 21.3831 | 20.3976
380025 | 24.6738 | 26.3652 | 26.9346 | 25.9824
380026 | 19.2663 | 20.4706 | 20.6972 | 20.1525
380027 | 20.1576 | 20.8647 | 21.5490 | 20.8958
380029 | 18.5699 | 19.4246 | 20.1471 | 19.4015
380031 | 22.8346 | 23.3181 | 23.1696 | 23.1091
380033 | 23.2881 | 25.2454 | 26.7146 | 25.0303
380035 | 21.6533 | 22.4099 | 23.9719 | 22.6232
380036 | 19.3269 | 27.1587 | 27.2157 | 23.8613
380037 | 21.2347 | 21.9158 | 22.1774 | 21.7911
380038 | 25.5750 | 26.0869 | 26.7759 | 26.1419
380039 | 22.1235 | 23.1746 | 22.8048 | 22.6937
380040 | 21.6378 | 26.2717 | 22.5477 | 23.4095
380042 | 19.8096 | 21.1176 | 24.4172 | 21.7244
380047 | 21.9511 | 23.0718 | 24.2524 | 23.1258
380048 | 18.3847 | 17.5885 | 18.3005 | 18.0671
380050 | 18.2486 | 20.3934 | 20.3205 | 19.6254
380051 | 21.2358 | 22.3568 | 22.3207 | 21.9927
380052 | 17.8741 | 19.4570 | 18.6299 | 18.6300
380055 | 21.2459 | * | * | 21.2459
380056 | 17.1600 | 19.5185 | 18.4961 | 18.3892
380060 | 23.2923 | 24.2670 | 25.2553 | 24.2520
380061 | 22.5983 | 22.3736 | 22.8781 | 22.6217
380062 | 18.5229 | 20.7716 | 18.2148 | 19.1910
380063 | 19.3566 | 20.4077 | * | 19.9113
380064 | 19.8719 | 19.9826 | 22.9160 | 20.8404
380065 | 22.1706 | 26.1404 | 22.9608 | 23.6770
380066 | 20.4189 | 22.0349 | 23.2794 | 21.9793
380068 | 22.7573 | 22.3178 | * | 22.5559
380069 | 19.5793 | 19.8300 | 20.4882 | 19.9809
380070 | 24.7116 | 27.2541 | 27.7790 | 26.6130
380071 | 20.4707 | 22.6386 | 25.1808 | 22.8743
380072 | 16.3169 | 19.1553 | 19.4346 | 18.3236
380075 | 22.1703 | 22.3625 | 22.4139 | 22.3203
380078 | 19.1035 | 20.2507 | 21.0903 | 20.1439
380081 | 20.5902 | 20.9882 | 20.4082 | 20.6790
380082 | 22.5856 | 22.2275 | 22.9606 | 22.5990
380083 | 21.8096 | 21.3859 | 21.7431 | 21.6440
380084 | 23.6412 | 24.2844 | 27.1689 | 24.9815
380087 | 14.0976 | 16.5309 | 17.0380 | 15.8783
380088 | 19.5204 | 21.5225 | 19.5346 | 20.1728
380089 | 23.7413 | 19.5255 | 25.2908 | 23.0572
380090 | 27.0867 | 29.2702 | 24.9351 | 26.9453
380091 | 22.8333 | 27.5560 | 25.3062 | 25.1774
390001 | 18.6384 | 19.2989 | 19.6732 | 19.2277
390002 | 18.0787 | 21.8353 | * | 19.8326
390003 | 17.2435 | 17.1371 | 18.1025 | 17.4798
390004 | 18.8899 | 19.2277 | 20.1410 | 19.4180
390005 | 16.4459 | 17.3506 | * | 16.9145
390006 | 19.6012 | 20.2959 | 21.1173 | 20.3037
390007 | 21.4093 | 21.7506 | 15.6739 | 19.2842
390008 | 16.7440 | 17.8297 | 18.1339 | 17.5605
390009 | 20.1181 | 20.6507 | 20.7869 | 20.5095
390010 | 17.2315 | 17.5127 | 17.3335 | 17.3583
390011 | 18.0683 | 18.1717 | 18.3257 | 18.1941
390012 | 20.0227 | 20.6523 | 21.0569 | 20.5659
390013 | 19.3300 | 19.2698 | 19.6562 | 19.4200
390015 | 12.9372 | 13.1337 | 13.7352 | 13.2647
390016 | 17.0679 | 16.9892 | 17.0438 | 17.0335
390017 | 16.2170 | 16.7493 | 18.6113 | 17.1752
390018 | 19.1241 | 21.3626 | 19.0279 | 19.8558
390019 | 16.3965 | 16.7848 | 17.9046 | 17.0403
390022 | 22.8967 | 21.5064 | 24.3824 | 22.9198
390023 | 19.5639 | 21.8270 | 21.0689 | 20.8880
390024 | 25.0359 | 24.9437 | 25.5672 | 25.1781
390025 | 15.7111 | 15.6155 | 15.6650 | 15.6645
390026 | 22.7645 | 22.3902 | 22.6877 | 22.6120
390027 | 27.6893 | 26.8878 | 31.2135 | 28.5811
390028 | 20.1087 | 22.7700 | 24.0895 | 22.1870
390029 | 19.6883 | 21.5729 | 21.2661 | 20.8012
390030 | 18.3978 | 17.9580 | 18.6645 | 18.3352
390031 | 19.5175 | 19.2755 | 18.3572 | 19.0574
390032 | 18.1492 | 17.8041 | 21.5105 | 19.0439
390035 | 18.5146 | 20.2029 | 18.5192 | 19.0782
390036 | 18.8657 | 19.9880 | 19.7671 | 19.5278
390037 | 22.2359 | 21.0616 | 20.4263 | 21.2243
390039 | 16.5438 | 17.1046 | 17.5268 | 17.0466
390040 | 15.1211 | 15.9612 | 16.6876 | 15.9078
390041 | 19.5760 | 19.8080 | 20.1482 | 19.8333
390042 | 21.1276 | 22.7693 | 22.6393 | 22.1864
390043 | 16.3561 | 17.2607 | 17.4764 | 17.0230
390044 | 19.5419 | 20.2813 | 13.2304 | 16.8712
390045 | 18.4591 | 18.5574 | 19.2907 | 18.7716
390046 | 20.4608 | 20.7303 | 16.6014 | 19.0179
390047 | 24.5824 | 27.6661 | 18.9455 | 23.5893
390048 | 18.3801 | 19.0920 | 19.7685 | 19.0433
390049 | 21.1318 | 21.1217 | 22.1009 | 21.4604
390050 | 20.9240 | 22.8808 | 22.2639 | 22.0253
390051 | 26.0485 | 25.7910 | 20.3683 | 23.9994
390052 | 17.0988 | 20.9306 | 19.2727 | 19.0857
390054 | 17.4382 | 17.8852 | 18.4975 | 17.9431
390055 | 25.8961 | 24.2211 | 23.5510 | 24.5324
390056 | 17.1692 | 17.7858 | 19.3901 | 18.0977
390057 | 19.7459 | 20.2059 | 16.4148 | 18.5380
390058 | 19.2543 | 19.7379 | 19.8418 | 19.6169
390060 | 13.6276 | * | * | 13.6276
390061 | 20.4819 | 21.2392 | 23.8722 | 21.8310
390062 | 16.4505 | 16.6721 | 17.3750 | 16.8291
390063 | 19.6373 | 20.0125 | 19.4965 | 19.7211
390065 | 20.0001 | 19.9361 | 15.3313 | 18.1038
390066 | 18.7064 | 19.8539 | 18.8152 | 19.1167
390067 | 20.6515 | 20.9688 | 21.2031 | 20.9451
390068 | 17.5524 | 18.3158 | 19.1109 | 18.3267
390069 | 19.2858 | 19.6466 | * | 19.4555
390070 | 20.1862 | 16.1988 | 21.8549 | 19.3957
390071 | 16.2298 | 15.7165 | 16.0100 | 15.9856
390072 | 15.5565 | 16.3133 | 16.2919 | 16.0432
390073 | 20.6859 | 20.5581 | 21.2623 | 20.8422
390074 | 16.5971 | 18.4806 | 18.3093 | 17.7465
390075 | 17.2676 | 17.9840 | 18.1131 | 17.7404
390076 | 21.4307 | 20.2475 | 21.3290 | 20.9889
390078 | 18.2328 | 19.2089 | 19.0156 | 18.8052
390079 | 18.1969 | 18.3312 | 18.9269 | 18.4731
390080 | 19.5180 | 18.8028 | 21.4768 | 19.8681
390081 | 23.9922 | 24.8351 | * | 24.4080
390083 | 20.5919 | * | * | 20.5919
390084 | 16.3463 | 16.4026 | 20.2529 | 17.4556
390086 | 17.2481 | 18.5265 | 18.6854 | 18.1599
390088 | 23.4941 | 23.6173 | 22.3275 | 23.2063
390090 | 20.6463 | 21.6437 | 21.3759 | 21.2068
390091 | 18.3746 | 18.1569 | 18.2060 | 18.2472
390093 | 16.6336 | 17.7171 | 18.4442 | 17.6019
390095 | 13.0459 | 16.3357 | 16.6933 | 15.2336
390096 | 19.3118 | 19.1171 | 22.4382 | 20.4516
390097 | 21.4115 | 23.5963 | 25.2738 | 23.2417
390100 | 20.3014 | 20.7859 | 20.9809 | 20.6913
390101 | 17.0534 | 17.9499 | 18.5039 | 17.8169
390102 | 19.4924 | 19.0461 | 21.5496 | 20.0293
390103 | 17.7054 | 18.4312 | 18.8667 | 18.3176
390104 | 15.9605 | 15.9008 | 16.3255 | 16.0548
390106 | 16.2783 | 16.6666 | 16.8439 | 16.6044
390107 | 19.1793 | 19.5178 | 21.0429 | 19.9329
390108 | 21.2872 | 21.0899 | 21.1820 | 21.1861
390109 | 14.6645 | 16.4597 | 16.5299 | 15.8639
390110 | 21.3191 | 21.5282 | 21.5388 | 21.4672
390111 | 28.7875 | 27.5193 | 32.0778 | 29.4304
390112 | 14.0439 | 14.9427 | * | 14.5099
390113 | 17.9377 | 19.1945 | 19.3634 | 18.8262
390114 | 22.9698 | 19.6295 | * | 21.2139
390115 | 24.7244 | 23.3461 | 21.3119 | 23.0378
390116 | 20.6016 | 21.4877 | 21.3671 | 21.1457
390117 | 16.9036 | 17.9393 | 18.0769 | 17.6425
390118 | 16.8962 | 18.3440 | 18.9507 | 18.0638
390119 | 18.5935 | 18.2951 | 18.8353 | 18.5714
390121 | 18.6422 | 20.8780 | 19.0503 | 19.5401
390122 | 17.4645 | 17.1902 | 17.7734 | 17.4764
390123 | 20.8412 | 20.8344 | 21.3974 | 21.0254
390125 | 15.9356 | 16.7983 | 17.5446 | 16.7393
390126 | 20.9383 | 20.6498 | * | 20.8020
390127 | 21.8849 | 21.7724 | 22.4555 | 22.0398
390128 | 19.4132 | 19.6792 | 19.3165 | 19.4699
390130 | 17.3253 | 17.7049 | 18.3695 | 17.7936
390131 | 16.8349 | 16.0986 | 19.2096 | 17.3202
390132 | 20.5528 | 21.1931 | 22.4903 | 21.3712
390133 | 24.6131 | 23.3489 | 19.9376 | 22.5639
390135 | 21.2497 | 21.5782 | 22.1905 | 21.6491
390136 | 17.6128 | 16.9737 | 20.6286 | 18.3801
390137 | 16.5598 | 17.5687 | 18.5397 | 17.5480
390138 | 18.8601 | 19.6212 | 20.6936 | 19.7394
390139 | 22.9351 | 24.4515 | 23.2945 | 23.5528
390142 | 26.7954 | 26.8086 | 27.9193 | 27.2106
390145 | 20.3393 | 20.3731 | 20.4228 | 20.3787
390146 | 17.7020 | 18.7922 | 18.6505 | 18.3503
390147 | 21.1085 | 20.9651 | 21.2492 | 21.1067
390150 | 19.6575 | 20.7294 | 20.3155 | 20.2474
390151 | 20.5084 | 21.6000 | 22.5206 | 21.5535
390152 | 19.1525 | 20.3353 | 19.4017 | 19.6203
390153 | 23.1183 | 23.7013 | 22.5900 | 23.1296
390154 | 15.8478 | 17.4036 | * | 16.6285
390156 | 21.1629 | 21.8498 | 22.5648 | 21.8420
390157 | 19.8268 | 19.6578 | 18.9868 | 19.5005
390158 | 21.6045 | * | * | 21.6045
390160 | 20.7676 | 21.4810 | 19.4463 | 20.4967
390161 | 12.3743 | 16.4799 | * | 14.3389
390162 | 21.0228 | 21.4095 | 21.9188 | 21.4386
390163 | 15.6227 | 16.8013 | 17.5312 | 16.6546
390164 | 21.5890 | 24.6765 | 24.9750 | 23.5327
390166 | 19.9612 | 19.0405 | * | 19.5017
390167 | 22.9136 | 19.8973 | * | 21.3982
390168 | 18.9936 | 18.7400 | 18.8863 | 18.8736
390169 | 18.9878 | 20.2382 | 22.0547 | 20.4487
390170 | 22.9877 | 26.5891 | * | 24.5773
390173 | 17.8568 | 18.5370 | 18.3816 | 18.2561
390174 | 25.2407 | 25.4189 | 25.4110 | 25.3577
390176 | 17.3577 | 17.8740 | 20.8368 | 18.6587
390178 | 17.7036 | 16.6993 | 17.0534 | 17.1490
390179 | 21.4093 | 21.6901 | 21.8593 | 21.6579
390180 | 25.1191 | 25.7074 | * | 25.4305
390181 | 17.0860 | 19.4654 | 23.1403 | 19.5445
390183 | 19.0834 | 17.8306 | 17.9848 | 18.2942
390184 | 20.7489 | 20.8060 | 20.9349 | 20.8256
390185 | 17.6516 | 18.8798 | 19.6989 | 18.7466
390189 | 18.6668 | 20.0889 | 5.6954 | 10.5640
390191 | 16.1993 | 16.3240 | 17.2270 | 16.5760
390192 | 16.3696 | 17.4537 | 17.2512 | 17.0206
390193 | 16.4663 | 16.7874 | 18.1209 | 17.0634
390194 | 20.1547 | 20.7953 | 21.2689 | 20.7092
390195 | 23.6920 | 24.6855 | 23.1069 | 23.8298
390197 | 18.9857 | 19.2690 | 19.7956 | 19.3317
390198 | 15.4508 | 15.9721 | 15.8833 | 15.7671
390199 | 16.6644 | 17.0515 | 17.9068 | 17.2031
390200 | 13.5898 | 15.1399 | 14.9496 | 14.6311
390201 | 20.5011 | 20.6296 | 20.3533 | 20.4916
390203 | 21.1895 | 20.9432 | 21.5141 | 21.2139
390204 | 20.8483 | 20.1779 | 22.5626 | 21.1871
390206 | 18.5746 | 18.4027 | * | 18.4910
390209 | 16.9558 | 17.4792 | 18.7059 | 17.7155
390211 | 17.9132 | 17.8638 | 18.4213 | 18.0846
390213 | 17.4453 | 18.8555 | 19.1553 | 18.5312
390215 | 21.4291 | 20.7084 | 21.1303 | 21.0799
390217 | 19.2926 | 19.1406 | 19.9837 | 19.4647
390219 | 21.6295 | 18.8292 | 19.6226 | 19.9600
390220 | 18.5178 | 18.7178 | * | 18.6191
390222 | 20.9080 | 21.5739 | 22.1548 | 21.5483
390223 | 22.6498 | 23.6482 | 21.4738 | 22.5019
390224 | 15.9058 | 15.3015 | * | 15.5965
390225 | 18.1752 | 18.6125 | 18.7290 | 18.5053
390226 | 23.1638 | 21.8268 | 21.7882 | 22.2642
390228 | 19.8129 | 19.4083 | 19.8180 | 19.6802
390231 | 24.4852 | 22.7544 | 19.7578 | 22.1186
390233 | 18.7707 | 19.4887 | 20.0152 | 19.4302
390235 | 24.6044 | 25.0857 | 21.4200 | 24.0078
390236 | 17.0339 | 16.2397 | 17.5043 | 16.9210
390237 | 21.7479 | 19.5230 | 22.2221 | 21.1193
390238 | * | 17.8211 | 17.1055 | 17.4821
390242 | 18.0943 | * | * | 18.0943
390244 | 14.4133 | 15.4611 | 8.2241 | 11.8858
390245 | 20.1544 | 26.0194 | * | 22.9968
390246 | 17.9214 | 18.9733 | 18.1348 | 18.3253
390247 | 20.6671 | 20.9526 | 21.2151 | 20.8919
390249 | 10.7336 | 12.7920 | 13.1657 | 12.2298
390256 | 23.7828 | 20.9469 | 20.5812 | 21.7018
390258 | 21.3629 | 21.9207 | 22.6852 | 21.9998
390260 | 21.1917 | 21.9509 | 15.1540 | 18.9540
390262 | 18.6684 | 18.2379 | * | 18.4504
390263 | 20.0939 | 20.6855 | 20.2304 | 20.3363
390265 | 19.5089 | 20.3580 | 20.4950 | 20.1207
390266 | 16.2372 | 17.1666 | 17.1290 | 16.8341
390267 | 20.5125 | 21.2974 | 19.2665 | 20.4773
390268 | 21.0161 | 21.3486 | 22.0909 | 21.4791
390270 | 17.8280 | 19.0925 | 9.3834 | 13.7053
390277 | 27.0983 | * | * | 27.0983
390278 | 19.2019 | 18.2865 | * | 18.7672
390279 | 13.6992 | 14.3241 | 14.8655 | 14.2998
390283 | * | * | 22.5490 | 22.5490
390284 | * | * | 34.3904 | 34.3904
400001 | 9.8615 | 9.9463 | 10.5757 | 10.1359
400002 | 9.3063 | 10.1417 | 13.0494 | 10.8249
400003 | 9.9865 | 10.8821 | 12.4078 | 11.0633
400004 | 8.4811 | 8.9864 | 8.5648 | 8.6695
400005 | 7.8494 | 9.5632 | 7.7432 | 8.3858
400006 | 10.5281 | 10.3444 | 10.1048 | 10.3288
400007 | 7.8637 | 6.4490 | 8.0174 | 7.3754
400009 | 8.3727 | 8.4207 | 8.8650 | 8.5497
400010 | 11.6642 | 10.6518 | 10.8011 | 10.9779
400011 | 5.6825 | 7.4979 | 8.5426 | 7.2512
400012 | 7.8134 | 8.2412 | 8.4728 | 8.1883
400013 | 8.2066 | 8.4579 | 9.2624 | 8.6839
400014 | 9.5354 | 9.5235 | 9.4798 | 9.5126
400015 | 10.3326 | 10.9505 | 14.4076 | 11.3577
400016 | 12.0743 | 13.2756 | 13.3922 | 12.9125
400017 | 8.5675 | 8.6421 | 9.2577 | 8.8024
400018 | 9.4534 | 10.4557 | 9.7049 | 9.8618
400019 | 10.1512 | 10.4332 | 10.8940 | 10.5307
400021 | 9.9121 | 10.6988 | 12.1434 | 10.9538
400022 | 11.1204 | 11.5861 | 12.2199 | 11.6336
400024 | 7.5594 | 7.8984 | 9.2409 | 8.1615
400026 | 7.1236 | 5.6454 | 5.8335 | 6.1312
400027 | 8.4862 | 9.5899 | * | 9.0120
400028 | 8.3991 | 8.8597 | 9.1794 | 8.7817
400031 | 9.7826 | 8.2660 | * | 8.9857
400032 | 9.7291 | 10.5498 | 10.0448 | 10.1074
400044 | 11.7484 | 11.9704 | 11.9486 | 11.8844
400048 | 8.9224 | 9.1701 | 15.1405 | 10.3604
400061 | 12.2770 | 12.4493 | 13.0988 | 12.5813
400079 | 7.0830 | * | 9.7203 | 8.1082
400087 | 10.3972 | 9.5097 | 9.8534 | 9.8687
400094 | 7.8208 | 8.9116 | 7.9187 | 8.1829
400098 | 7.2098 | 9.3308 | 9.7791 | 8.8630
400102 | 7.7288 | 9.8536 | 9.9903 | 9.1668
400103 | 10.7316 | 11.2069 | 11.5359 | 11.1167
400104 | 9.9416 | 11.0672 | 14.8764 | 11.3347
400105 | 10.1726 | 9.3049 | 9.0556 | 9.5335
400106 | 8.5143 | 9.3123 | 9.1611 | 8.9912
400109 | 10.1786 | 10.9826 | 11.8760 | 11.0486
400110 | 10.5250 | 10.3326 | 10.5277 | 10.4760
400111 | 9.5600 | 9.5583 | 10.9665 | 10.1021
400112 | 12.8478 | 10.1755 | * | 11.5026
400113 | 9.4835 | 9.2238 | 8.3168 | 9.0068
400114 | 6.4076 | 9.0496 | 7.0510 | 7.4630
400115 | 9.1311 | 9.8244 | 8.5487 | 9.1780
400117 | 10.0381 | 10.2295 | 10.8756 | 10.3823
400118 | 8.6964 | 9.4398 | 11.4051 | 9.9004
400120 | 9.7425 | 9.5274 | 10.6584 | 9.9956
400121 | 7.1061 | 7.8052 | 9.8322 | 8.2686
400122 | 8.4806 | 8.1911 | 7.6413 | 8.0571
400123 | 9.0217 | 7.8099 | 10.2367 | 9.0130
400124 | 11.4839 | 12.0999 | 12.2452 | 11.9729
400125 | * | * | 10.2056 | 10.2056
410001 | 22.5322 | 23.2808 | 22.0088 | 22.6048
410004 | 22.3212 | 22.4801 | 21.0638 | 22.0103
410005 | 21.2407 | 23.1444 | 22.7170 | 22.3365
410006 | 21.9798 | 23.3968 | 23.8700 | 23.0621
410007 | 20.9489 | 22.1452 | 23.1325 | 22.1106
410008 | 22.6133 | 23.0662 | 24.9726 | 23.5244
410009 | 24.0769 | 24.4899 | 23.9378 | 24.1687
410010 | 27.1426 | 26.9813 | 26.7847 | 26.9663
410011 | 24.3676 | 25.2926 | 26.0035 | 25.2143
410012 | 21.3337 | 24.5811 | 24.1695 | 23.4018
410013 | 25.0050 | 24.5122 | 24.8800 | 24.7951
420002 | 20.2049 | 19.4845 | 19.6477 | 19.7465
420004 | 19.4079 | 19.7968 | 20.8633 | 20.0389
420005 | 15.9906 | 17.3510 | 17.9694 | 17.1171
420006 | 18.2374 | 18.3439 | 19.1760 | 18.5687
420007 | 17.5783 | 18.2096 | 18.6456 | 18.1319
420009 | 17.2515 | 18.5456 | 19.8532 | 18.5742
420010 | 17.9141 | 17.1184 | 18.0252 | 17.6914
420011 | 14.9944 | 16.5664 | 18.0970 | 16.4913
420014 | 16.7219 | 16.6065 | 18.0519 | 17.0894
420015 | 17.1802 | 18.8411 | 20.1164 | 18.5841
420016 | 18.1451 | 15.6241 | 15.5485 | 16.2939
420018 | 19.7285 | 19.7367 | 21.8775 | 20.3791
420019 | 15.5521 | 16.9990 | 17.1726 | 16.5419
420020 | 17.9011 | 20.9449 | 20.2563 | 19.6716
420023 | 20.9663 | 19.4855 | 19.3278 | 19.8743
420026 | 21.8968 | 20.3476 | 21.8749 | 21.3678
420027 | 18.0774 | 18.8457 | 18.4837 | 18.4697
420029 | 18.3557 | * | * | 18.3557
420030 | 17.8215 | 19.1453 | 20.6448 | 19.3038
420031 | 13.0718 | 14.1855 | 8.2516 | 11.1227
420033 | 21.0863 | 21.7279 | 23.1303 | 21.9705
420036 | 19.7421 | 17.6136 | 21.3791 | 19.4718
420037 | 21.9603 | 21.7908 | 22.7099 | 22.1669
420038 | 16.1498 | 17.6726 | 18.6568 | 17.4393
420039 | 16.9646 | 15.8385 | 18.3017 | 17.0260
420042 | 14.6567 | * | * | 14.6567
420043 | 18.3607 | 19.4521 | 19.7570 | 19.1785
420048 | 18.0286 | 18.4367 | 18.8070 | 18.4223
420049 | 19.2340 | 17.5854 | 19.2946 | 18.6845
420051 | 18.2518 | 19.5001 | 19.2163 | 19.0146
420053 | 16.5452 | 16.9599 | 16.8300 | 16.7761
420054 | 16.5474 | 18.2702 | 20.2574 | 18.3229
420055 | 16.1823 | 19.2048 | 16.8717 | 17.3777
420056 | 15.5966 | 14.8695 | 15.1835 | 15.1636
420057 | 14.5006 | 15.9849 | 24.0765 | 18.1532
420059 | 19.1303 | 15.8160 | 17.1483 | 17.3325
420061 | 16.1310 | 16.5555 | 17.3543 | 16.6881
420062 | 18.9513 | 17.8205 | 21.3792 | 19.3650
420064 | 15.4531 | 16.7227 | 16.0794 | 16.0985
420065 | 19.0645 | 19.6902 | 19.9435 | 19.5673
420066 | 15.5001 | 15.1804 | 18.0042 | 16.2261
420067 | 18.3106 | 18.8610 | 19.7824 | 19.0239
420068 | 17.2144 | 18.5030 | 18.5481 | 18.0958
420069 | 16.3189 | 17.0788 | 18.1298 | 17.2134
420070 | 17.4486 | 18.0057 | 17.3876 | 17.6174
420071 | 18.2878 | 19.4482 | 20.3902 | 19.3836
420072 | 12.6013 | 13.8550 | 15.0158 | 13.8117
420073 | 19.2011 | 19.1604 | 19.8502 | 19.4076
420074 | 13.8038 | 16.9292 | 17.7050 | 16.1034
420075 | 16.2946 | 14.2931 | 12.8158 | 14.3372
420078 | 20.6818 | 20.7317 | 21.2688 | 20.9023
420079 | 18.7710 | 20.8639 | 21.0874 | 20.2636
420080 | 24.8321 | 22.3443 | 21.9968 | 22.9897
420081 | 20.4211 | * | * | 20.4211
420082 | 18.8848 | 20.4653 | 21.4326 | 20.2642
420083 | 23.3425 | 20.1472 | 22.6376 | 21.9902
420085 | 18.5502 | 19.9603 | 21.6791 | 20.1188
420086 | 19.3054 | 25.7179 | 20.2878 | 21.4636
420087 | 18.4016 | 19.1403 | 19.8388 | 19.1412
420088 | 17.9063 | 17.1938 | 19.9919 | 18.3046
420089 | 21.6608 | 20.2537 | 20.5360 | 20.7623
420091 | 18.5723 | 18.8687 | 20.3092 | 19.2195
420093 | 16.7734 | 17.4689 | 18.3902 | 17.5654
420094 | 32.6768 | * | * | 32.6768
430004 | 17.8435 | 18.5438 | 19.6344 | 18.6310
430005 | 15.8449 | 16.3059 | 16.4560 | 16.2068
430007 | 14.0586 | 14.1078 | 14.6331 | 14.2620
430008 | 16.7640 | 17.6640 | 18.1323 | 17.5240
430010 | 16.1093 | 17.1766 | 19.8191 | 17.5891
430011 | 16.4234 | 16.9848 | 17.4750 | 16.9703
430012 | 17.7809 | 17.2775 | 17.5713 | 17.5419
430013 | 17.2424 | 18.1338 | 18.4817 | 17.9391
430014 | 18.4417 | 16.8925 | 19.9484 | 18.3095
430015 | 16.4123 | 18.0019 | 18.2875 | 17.5236
430016 | 18.9715 | 19.4759 | 20.8850 | 19.7559
430018 | 14.9100 | 14.8854 | 16.2244 | 15.3323
430022 | 12.9532 | 13.4905 | 14.5118 | 13.6222
430023 | 11.6383 | 12.2331 | 16.2164 | 13.2302
430024 | 13.9942 | 15.4709 | 16.1801 | 15.3449
430026 | 10.8532 | * | * | 10.8532
430027 | 18.6367 | 19.1461 | 20.2591 | 19.2968
430028 | 16.7185 | 18.2312 | 17.1574 | 17.3521
430029 | 15.1010 | 16.6500 | 17.6986 | 16.5066
430031 | 12.4631 | 13.1258 | 12.4660 | 12.6792
430033 | 14.6423 | 15.3003 | 17.3652 | 15.6688
430034 | 12.8513 | 15.4064 | 14.2491 | 14.1740
430036 | 13.7807 | 13.6967 | 15.6258 | 14.3461
430037 | 15.9545 | 16.5368 | 18.1293 | 16.8632
430038 | 11.9419 | 13.7167 | 18.4078 | 14.2118
430040 | 13.3722 | 13.6745 | 14.4509 | 13.8057
430041 | 12.6235 | 13.1936 | 14.8816 | 13.4964
430043 | 13.4288 | 13.6908 | 14.9949 | 14.0204
430044 | 16.4488 | 18.4970 | 21.0823 | 18.5195
430047 | 15.6227 | 17.4956 | 17.9823 | 16.9377
430048 | 17.2589 | 18.3524 | 19.6010 | 18.3783
430049 | 14.4354 | 15.5381 | 15.2237 | 15.0640
430051 | 17.2139 | 17.0574 | 18.8070 | 17.6987
430054 | 13.5011 | 14.7251 | 14.8003 | 14.3524
430056 | 11.4117 | 11.7627 | 9.7578 | 10.9731
430057 | 15.1516 | 15.4390 | 17.2805 | 15.9601
430060 | 8.6409 | 9.0358 | 10.0176 | 9.2343
430062 | 10.8879 | * | * | 10.8879
430064 | 12.7394 | 14.4367 | 14.2184 | 13.7779
430065 | 12.7660 | * | * | 12.7660
430066 | 13.4380 | 14.3557 | 15.6660 | 14.4524
430073 | 14.9784 | 16.1133 | 15.3776 | 15.4839
430076 | 12.2452 | 12.7608 | 13.9883 | 12.9521
430077 | 17.7126 | 19.3012 | 19.8558 | 18.9586
430079 | 12.9780 | 13.6836 | 14.1815 | 13.5924
430087 | 10.4491 | * | * | 10.4491
430089 | 17.0065 | 17.8908 | 17.9790 | 17.6658
430090 | * | 21.5239 | 21.5974 | 21.5592
430091 | * | 19.2146 | 18.1567 | 18.5152
430092 | * | * | 21.3807 | 21.3807
430093 | * | * | 19.5013 | 19.5013
440001 | 15.3134 | 14.8713 | 15.5897 | 15.2550
440002 | 18.5411 | 19.1498 | 20.3740 | 19.3756
440003 | 17.4736 | 18.3658 | 19.3042 | 18.3967
440006 | 20.6559 | 19.6021 | 21.1072 | 20.4264
440007 | 7.7632 | 12.1230 | 14.8959 | 11.0241
440008 | 15.4701 | 17.2848 | 18.8994 | 17.1822
440009 | 15.4558 | 17.8424 | 17.4831 | 16.9676
440010 | 13.5118 | 19.9829 | 16.3283 | 16.4644
440011 | 17.1591 | 17.6948 | 18.3375 | 17.7161
440012 | 19.0606 | 15.9837 | 19.5537 | 18.2430
440014 | 14.6093 | 15.9195 | 16.1143 | 15.5705
440015 | 21.0884 | 18.2632 | 22.0659 | 20.4116
440016 | 14.9409 | 15.4097 | 16.2964 | 15.5583
440017 | 21.1258 | 19.6215 | 20.4426 | 20.3788
440018 | 18.2080 | 16.4115 | 17.4995 | 17.3550
440019 | 28.2242 | 20.0416 | 21.0768 | 22.6204
440020 | 15.5889 | 18.1154 | 17.4666 | 17.0702
440022 | 19.0214 | 15.8459 | * | 17.5909
440023 | 14.1410 | 15.4721 | 16.6111 | 15.3545
440024 | 18.1028 | 18.4432 | 18.4046 | 18.3183
440025 | 15.2826 | 15.8784 | 16.3140 | 15.8395
440026 | 22.9174 | 23.0550 | 23.2566 | 23.0549
440029 | 18.5183 | 19.4326 | 20.7050 | 19.5797
440030 | 15.5718 | 16.2941 | 16.9925 | 16.3267
440031 | 14.3023 | 15.5432 | 17.0211 | 15.6197
440032 | 13.5996 | 13.9775 | 13.8140 | 13.7931
440033 | 14.0409 | 14.5304 | 13.7328 | 14.1227
440034 | 17.9315 | 19.5470 | 19.5135 | 19.0190
440035 | 18.1578 | 18.9026 | 19.3034 | 18.7862
440039 | 19.3747 | 19.9439 | 21.6560 | 20.3432
440040 | 17.4965 | 16.3740 | 16.9275 | 16.9214
440041 | 13.6279 | 14.6621 | 14.9545 | 14.4249
440046 | 16.8798 | 18.1654 | 19.0756 | 18.0134
440047 | 17.0037 | 16.6646 | 17.8092 | 17.1528
440048 | 18.1449 | 19.4498 | 21.4993 | 19.5981
440049 | 16.7066 | 17.9292 | 20.8371 | 18.4663
440050 | 16.7627 | 19.1328 | 18.2511 | 18.0098
440051 | 14.9074 | 13.1901 | 16.0421 | 14.6532
440052 | 16.2693 | 16.6541 | * | 16.4546
440053 | 17.6873 | 18.5515 | 19.6494 | 18.6583
440054 | 12.3134 | 13.8716 | 13.3967 | 13.1942
440056 | 14.2534 | 15.9821 | 16.2742 | 15.4778
440057 | 12.7190 | 12.7925 | 13.7257 | 13.0446
440058 | 18.7381 | 18.8118 | 16.5104 | 18.0102
440059 | 17.5274 | 18.5418 | 19.6018 | 18.6049
440060 | 15.8599 | 18.0586 | 19.7916 | 17.7309
440061 | 16.8442 | 14.9708 | 24.0082 | 18.4685
440063 | 18.2923 | 19.3222 | 18.5737 | 18.7318
440064 | 17.6154 | 17.7652 | 18.8038 | 18.0538
440065 | 18.6943 | 18.5825 | 16.6540 | 17.9684
440067 | 22.0655 | 16.2811 | 17.1917 | 18.2178
440068 | 17.4513 | 19.4695 | 19.1569 | 18.6340
440070 | 15.0440 | 13.7035 | 14.0437 | 14.2715
440071 | 16.2691 | 17.0186 | 16.9416 | 16.7371
440072 | 16.7675 | 17.5995 | 19.1522 | 17.8026
440073 | 18.5576 | 19.1714 | 19.5554 | 19.1079
440078 | 13.0916 | 15.0849 | 16.0188 | 14.6728
440081 | 17.9702 | 18.3587 | 18.9886 | 18.4558
440082 | 23.0805 | 22.2857 | 20.3664 | 21.8599
440083 | 35.0978 | 14.8525 | 13.7423 | 17.4998
440084 | 13.3678 | 13.4378 | 13.7731 | 13.5305
440091 | 19.7250 | 19.6114 | 20.1065 | 19.8343
440100 | 13.9487 | 13.8437 | 14.7113 | 14.1637
440102 | 13.9575 | 14.3510 | 14.5500 | 14.2949
440103 | 19.2083 | 20.3052 | 18.6990 | 19.3857
440104 | 22.3883 | 22.4403 | 22.6754 | 22.4883
440105 | 16.0338 | 16.7131 | 17.1172 | 16.6050
440109 | 14.2491 | 16.0446 | 17.7443 | 15.8919
440110 | 15.9174 | 21.1716 | 17.4123 | 17.8783
440111 | 21.0682 | 23.2425 | 23.2254 | 22.5309
440114 | 13.6095 | 14.4997 | 15.0036 | 14.3318
440115 | 12.9668 | 17.4514 | 18.5457 | 16.2205
440120 | 18.2993 | 17.2384 | 16.3115 | 17.2831
440125 | 16.1067 | 15.6588 | 19.0514 | 16.9328
440130 | 16.6750 | 17.8223 | 17.4857 | 17.3264
440131 | 14.6752 | 15.5048 | 16.1214 | 15.4186
440132 | 15.9069 | 16.6553 | 16.8871 | 16.4950
440133 | 21.5116 | 21.5313 | 22.7184 | 21.8977
440135 | 20.9029 | 19.2010 | 22.2707 | 20.8388
440137 | 14.6966 | 14.5632 | 15.0070 | 14.7511
440141 | 12.4774 | 13.5308 | 15.9429 | 13.7977
440142 | 13.0059 | 15.7287 | 16.7797 | 15.0556
440143 | 17.8429 | 17.7821 | 18.2061 | 17.9416
440144 | 16.6666 | 17.6415 | 18.4330 | 17.5831
440145 | 13.6577 | 17.0608 | 18.3948 | 16.1716
440147 | 22.0069 | 21.4304 | 26.1464 | 23.0399
440148 | 17.6438 | 19.2435 | 19.4598 | 18.7842
440149 | 17.1496 | 16.6923 | 14.8350 | 16.2240
440150 | 13.0775 | 20.1411 | 20.0178 | 17.1910
440151 | 15.4250 | 17.4248 | 18.1216 | 16.9820
440152 | 17.8399 | 21.0287 | 22.7664 | 20.2196
440153 | 16.0954 | 16.7769 | 16.0572 | 16.3283
440156 | 19.6117 | 29.5557 | 21.0346 | 22.8749
440157 | 11.3982 | 16.9265 | 18.4249 | 15.5384
440159 | 17.6237 | 17.7158 | 20.9371 | 18.4872
440161 | 20.7643 | 21.8013 | 22.1611 | 21.5480
440162 | 14.4121 | 14.7637 | * | 14.5681
440166 | 18.1413 | 19.6684 | 19.2159 | 18.9985
440168 | 15.9513 | 18.6535 | 19.1509 | 17.9995
440173 | 18.4683 | 18.6402 | 19.1299 | 18.7524
440174 | 17.0080 | 17.3294 | 18.0865 | 17.4583
440175 | 17.6107 | 20.0802 | 15.5827 | 17.7347
440176 | 18.7529 | 18.0294 | 18.9159 | 18.5457
440180 | 17.3412 | 19.7773 | 20.4039 | 19.2011
440181 | 11.8471 | 16.4878 | 17.7709 | 15.0662
440182 | 20.3202 | 17.7487 | 19.7094 | 19.1341
440183 | 19.4374 | 22.7067 | 21.3465 | 21.1277
440184 | 18.0603 | 17.2037 | 16.8880 | 17.4646
440185 | 18.7286 | 19.3870 | * | 19.0562
440186 | 18.5312 | 19.3948 | 15.8016 | 17.9134
440187 | 16.2530 | 18.9713 | 15.3044 | 16.8551
440189 | 16.1906 | * | 18.5252 | 17.4309
440192 | 19.9669 | 19.0839 | 16.5173 | 18.5279
440193 | 18.3952 | 19.0811 | 18.2608 | 18.5816
440194 | 20.3343 | 19.8682 | 22.2384 | 20.8427
440197 | 23.1080 | 21.9618 | 21.3772 | 22.0839
440200 | 16.0619 | 17.9575 | 19.5226 | 17.9170
440203 | 16.6132 | 18.3400 | 16.2861 | 17.0710
440206 | 15.5462 | 16.4429 | * | 16.0270
440209 | 14.7466 | * | * | 14.7466
440210 | 12.3292 | 11.0218 | 11.0719 | 11.3670
440211 | * | 14.8972 | * | 14.8972
440212 | * | 17.0685 | * | 17.0685
440213 | * | 19.5760 | * | 19.5760
440214 | * | * | 28.0285 | 28.0285
440215 | * | * | 22.2928 | 22.2928
450002 | 19.9195 | 21.3749 | 21.4770 | 20.9126
450004 | 15.2751 | 16.6723 | 16.7850 | 16.2360
450005 | 15.5888 | 18.3600 | 16.6396 | 16.8103
450007 | 15.7536 | 16.9681 | 19.1910 | 17.3218
450008 | 15.7458 | 17.0832 | 17.6582 | 16.7901
450010 | 16.0790 | 16.5001 | 17.6677 | 17.0234
450011 | 18.0137 | 17.1942 | 20.5022 | 18.5856
450014 | 18.2173 | 17.9495 | 17.5550 | 17.8927
450015 | 18.4400 | 18.9895 | 20.0974 | 19.1233
450016 | 17.3054 | 18.4463 | 18.3456 | 18.0337
450018 | 20.4133 | 21.4788 | 22.8298 | 21.4884
450020 | 16.9661 | 17.8415 | 19.1153 | 18.0122
450021 | 22.6910 | 23.0843 | 21.7842 | 22.5219
450023 | 16.6408 | 16.0831 | 17.6360 | 16.7896
450024 | 16.5604 | 17.3518 | 18.5649 | 17.4769
450025 | 16.4396 | 17.0004 | * | 16.7280
450028 | 18.4287 | 18.8764 | 17.4971 | 18.2201
450029 | 17.6909 | 17.4716 | 17.5595 | 17.5741
450031 | 20.8992 | 22.2222 | 29.6945 | 23.8280
450032 | 15.2404 | 17.3317 | 13.9785 | 15.3652
450033 | 20.8634 | 19.7437 | 20.7772 | 20.4518
450034 | 18.9068 | 19.6721 | 18.7154 | 19.0969
450035 | 16.8132 | 20.0951 | 20.3500 | 19.0191
450037 | 18.6549 | 19.5411 | 19.8210 | 19.3526
450039 | 22.0811 | 19.8143 | 17.9888 | 20.0023
450040 | 17.5179 | 16.8534 | 19.6370 | 18.0669
450042 | 17.5906 | 19.8921 | 18.4417 | 18.6126
450044 | 21.0399 | 24.7961 | 20.1028 | 21.8870
450046 | 17.0917 | 18.6536 | 18.0851 | 17.8763
450047 | 13.9022 | 13.4486 | 16.9028 | 14.6102
450050 | 13.0037 | 14.7669 | 15.9701 | 14.4910
450051 | 20.0763 | 21.0236 | 20.2292 | 20.4528
450052 | 13.5278 | 13.8881 | 15.2911 | 14.2591
450053 | 17.3139 | 17.0467 | 14.3712 | 16.3666
450054 | 21.9835 | 22.8960 | 15.9388 | 20.5562
450055 | 14.8119 | 15.0433 | 15.8526 | 15.2415
450056 | 20.0008 | 21.8436 | 20.4781 | 20.7787
450058 | 16.9832 | 18.0967 | 17.4599 | 17.5079
450059 | 14.2072 | 15.2168 | 19.7037 | 16.2518
450063 | 13.8126 | 14.3815 | 12.7037 | 13.6024
450064 | 16.4165 | 17.4093 | 19.7682 | 17.8341
450065 | 19.6087 | 21.4934 | 23.3797 | 21.3723
450068 | 22.6924 | 22.8998 | 21.9406 | 22.5334
450072 | 17.3794 | 19.0111 | 18.0307 | 18.1442
450073 | 16.6168 | 17.1002 | 17.4642 | 17.0560
450078 | 13.4875 | 11.7265 | 13.2820 | 12.8188
450079 | 19.4899 | 21.0518 | 19.5823 | 20.0919
450080 | 16.3147 | 17.4553 | 19.5691 | 17.8032
450081 | 16.1653 | 16.3448 | 17.5737 | 16.7023
450082 | 13.2952 | 16.1585 | 18.1087 | 15.9363
450083 | 20.1830 | 21.5884 | 20.8111 | 20.8940
450085 | 14.2167 | 18.3602 | 20.0085 | 17.2728
450087 | 21.4764 | 22.0273 | 21.8971 | 21.7995
450090 | 13.9101 | 15.0939 | 15.7102 | 14.9065
450092 | 15.7316 | 16.8260 | 17.9520 | 16.8805
450094 | 19.4249 | 21.3158 | 23.0087 | 21.3016
450096 | 16.6300 | 17.8813 | 18.6802 | 17.7158
450097 | 18.2740 | 19.5723 | 19.7187 | 19.2252
450098 | 15.4796 | 20.5754 | 19.1707 | 18.3853
450099 | 22.8834 | 19.2258 | 20.4181 | 20.6312
450101 | 16.9628 | 17.1330 | 18.1155 | 17.3801
450102 | 18.8465 | 18.6707 | 18.5587 | 18.6892
450104 | 15.9781 | 16.6744 | 16.9800 | 16.5575
450107 | 20.7359 | 25.1986 | 23.0798 | 22.8910
450108 | 16.1451 | 15.6324 | 15.2394 | 15.6277
450109 | 12.7654 | 13.8127 | 10.7641 | 12.1774
450110 | 21.4421 | 19.5821 | * | 20.4354
450111 | 19.2749 | 19.6350 | * | 19.4562
450112 | 14.7610 | 16.0441 | 14.3254 | 14.9837
450113 | 18.5356 | 20.9777 | 20.8306 | 19.9901
450118 | 15.8317 | 17.9053 | * | 16.9195
450119 | 18.3166 | 20.2853 | 20.1852 | 19.6454
450121 | 18.2278 | 20.4641 | 21.6525 | 20.0695
450123 | 19.1912 | 15.7618 | 14.1755 | 16.0237
450124 | 21.0925 | 22.7480 | 21.9767 | 21.9459
450126 | 17.4512 | 21.7233 | 21.4686 | 19.9524
450128 | 15.8881 | 18.2184 | 18.1446 | 17.4552
450130 | 17.8722 | 20.4156 | 17.4027 | 18.5777
450131 | 17.6163 | 19.2589 | 17.4168 | 18.0711
450132 | 18.0745 | 18.1713 | 16.8847 | 17.6996
450133 | 19.9259 | 23.6366 | 26.0763 | 23.0339
450135 | 20.8065 | 21.0306 | 22.0320 | 21.2622
450137 | 23.9555 | 22.4590 | 23.1148 | 23.1794
450140 | 18.0743 | 20.2280 | 17.2060 | 18.5255
450143 | 14.4623 | 14.5270 | 14.8917 | 14.6528
450144 | 16.3037 | 18.1121 | 18.7521 | 17.8369
450145 | 14.8441 | 15.6078 | 15.8542 | 15.4241
450146 | 14.2041 | 17.8572 | 15.5030 | 15.8115
450147 | 18.0664 | 18.9363 | 18.5236 | 18.5193
450148 | 22.0269 | 18.6758 | 24.1780 | 21.4997
450149 | 24.0005 | 19.7521 | 21.7219 | 21.7182
450150 | 15.2061 | 16.3719 | 17.8612 | 16.4235
450151 | 14.8373 | 15.2906 | 16.4209 | 15.5098
450152 | 17.3780 | 18.0061 | 17.7265 | 17.7015
450153 | 19.9447 | 19.4419 | 17.3002 | 18.8465
450154 | 13.1810 | 13.8731 | 13.9119 | 13.6623
450155 | 23.7678 | 11.5841 | 13.3456 | 14.7760
450157 | 14.6623 | 15.6371 | 15.3083 | 15.2158
450160 | 8.7503 | 16.6533 | 10.6852 | 11.1452
450162 | 22.1981 | 20.9560 | 21.9218 | 21.6852
450163 | 16.9811 | 17.5403 | 18.1128 | 17.5693
450164 | 20.0368 | 16.9741 | 17.7723 | 18.1030
450165 | 15.1561 | 13.9218 | 14.3250 | 14.4625
450166 | 10.2801 | 11.4772 | 11.0097 | 10.9389
450169 | 15.8793 | 13.1990 | * | 14.1674
450170 | 14.8131 | 14.2997 | 14.3234 | 14.4821
450176 | 16.3031 | 16.9674 | 17.2576 | 16.8653
450177 | 14.7280 | 14.9241 | 15.2440 | 14.9810
450178 | 16.7550 | 17.8508 | 16.0280 | 16.8828
450181 | 14.0192 | 15.5622 | 16.9427 | 15.5485
450184 | 19.9674 | 21.1263 | 18.7419 | 19.9896
450185 | 13.0632 | 14.0714 | 11.1599 | 12.6084
450187 | 17.5702 | 16.6945 | 18.2036 | 17.4833
450188 | 13.7757 | 14.3938 | 15.1954 | 14.4624
450191 | 18.8023 | 20.1222 | 20.9512 | 19.9757
450192 | 19.3352 | 20.3795 | 21.2497 | 20.3207
450193 | 22.7325 | 23.1963 | 23.2623 | 23.0664
450194 | 19.1466 | 20.5187 | 20.4842 | 20.0547
450196 | 16.4929 | 17.1955 | 18.1011 | 17.2598
450200 | 17.3756 | 18.7387 | 19.2228 | 18.4203
450201 | 17.0548 | 16.9908 | 16.9500 | 16.9956
450203 | 18.6552 | 20.6712 | 19.0752 | 19.4944
450209 | 18.6566 | 19.0811 | 19.8943 | 19.1865
450210 | 14.2317 | 13.9758 | 16.5059 | 14.8500
450211 | 17.1433 | 17.9857 | 18.6419 | 17.9272
450213 | 18.4472 | 17.7631 | 18.3953 | 18.2239
450214 | 17.2465 | 19.0475 | 20.9959 | 19.0269
450217 | 11.6893 | 12.8457 | 12.7647 | 12.4509
450219 | 15.4207 | 15.3976 | 17.6884 | 16.1962
450221 | 16.9935 | 16.3700 | 15.0701 | 16.0556
450222 | 18.4542 | 20.3129 | 19.8967 | 19.5439
450224 | 22.8300 | 24.9046 | 16.2265 | 20.5869
450229 | 16.4116 | 16.4503 | 16.7853 | 16.5551
450231 | 17.7045 | 19.1564 | 18.8419 | 18.8309
450234 | 13.3012 | 16.1945 | 16.3955 | 15.4391
450235 | 13.4177 | 15.2332 | 16.1851 | 15.0198
450236 | 15.6774 | 16.6703 | 16.4957 | 16.3054
450237 | 17.3984 | 20.7930 | 18.0874 | 18.7189
450239 | 13.6376 | 17.1308 | 17.8401 | 16.0311
450241 | 14.8674 | 12.5675 | 16.4240 | 14.4148
450243 | 12.3626 | 11.9099 | 13.1754 | 12.4894
450246 | 17.9702 | 16.5478 | 16.7959 | 17.0548
450249 | 11.6279 | 12.0302 | 11.7658 | 11.8055
450250 | 14.9133 | 10.2844 | 13.6787 | 12.3052
450253 | 15.3542 | 12.2402 | 13.2177 | 13.4392
450258 | 13.2334 | 16.0466 | 16.7337 | 15.4196
450259 | 17.8488 | * | * | 17.8488
450264 | 13.8879 | 13.8929 | 14.5956 | 14.1447
450269 | 14.9334 | 12.3594 | 12.3957 | 13.0850
450270 | 12.7018 | 12.8381 | 14.1324 | 13.1772
450271 | 15.4998 | 16.6319 | 16.7831 | 16.3572
450272 | 17.9514 | 19.9331 | 18.4344 | 18.7713
450276 | 12.7053 | 13.1155 | 14.0745 | 13.3159
450278 | 13.7894 | 14.8291 | 15.2950 | 14.5985
450280 | 19.4926 | 22.2984 | 20.1523 | 20.6175
450283 | 13.8916 | 14.5664 | 15.1950 | 14.5306
450286 | 12.1212 | * | * | 12.1212
450288 | 15.9878 | 16.2502 | 18.3824 | 16.7799
450289 | 18.3478 | 20.3104 | 20.0002 | 19.5531
450292 | 19.5050 | 16.9693 | 16.1840 | 17.4483
450293 | 14.4281 | 16.0132 | 15.8531 | 15.4701
450296 | 20.6628 | 21.6000 | 22.3430 | 21.5410
450299 | 17.9678 | 21.5672 | * | 19.7778
450303 | 12.6720 | 12.4582 | 12.8996 | 12.6812
450306 | 13.3165 | 13.8216 | 14.3639 | 13.8801
450307 | 16.6779 | 16.4622 | 17.0691 | 16.7424
450309 | 16.2055 | 13.1480 | 11.4661 | 13.2592
450315 | 20.8043 | 22.8140 | 21.4684 | 21.6913
450320 | 19.6331 | 20.0946 | 20.6596 | 20.1159
450321 | 13.3932 | 13.1752 | 14.6055 | 13.7332
450322 | 12.4570 | 22.7667 | 29.1884 | 20.6852
450324 | 17.8697 | 17.7886 | 18.6228 | 18.0773
450327 | 16.0935 | 11.7511 | 13.3639 | 13.4001
450330 | 18.4163 | 18.9425 | 19.8066 | 19.0827
450334 | 12.2721 | 12.8051 | 13.7850 | 12.9653
450337 | 17.4208 | 17.1073 | 25.1355 | 18.7580
450340 | 15.8519 | 17.6914 | * | 16.7663
450341 | 19.1828 | 18.9429 | * | 19.0666
450346 | 17.1038 | 17.5367 | 18.9475 | 17.8083
450347 | 17.6908 | 17.1099 | 19.2848 | 18.0094
450348 | 12.9414 | 13.9535 | 13.2741 | 13.3967
450351 | 15.9772 | 18.4116 | 18.7311 | 17.7343
450352 | 17.8528 | 18.7480 | 20.1871 | 18.9532
450353 | 15.0020 | 17.7539 | 16.0003 | 16.2513
450355 | 14.3182 | 11.9473 | 11.7765 | 12.5557
450358 | 21.2812 | 22.3235 | 23.2886 | 22.3172
450362 | 15.3536 | 15.8847 | 18.1747 | 16.4652
450369 | 15.1854 | 15.2233 | 14.4262 | 14.9370
450370 | 15.4368 | 12.6061 | 14.6709 | 14.1203
450371 | 11.8996 | 24.6339 | 16.0236 | 16.3341
450372 | 19.8589 | 20.0924 | 19.9926 | 19.9822
450373 | 17.5998 | 17.4183 | 17.9531 | 17.6605
450374 | 12.8264 | 13.6099 | 15.1750 | 13.8338
450378 | 23.1598 | 23.5789 | 23.4599 | 23.4221
450379 | 20.2756 | 22.7632 | 22.8756 | 21.9542
450381 | 15.6215 | 16.4166 | 15.2513 | 15.8628
450388 | 17.5561 | 19.2499 | 18.9920 | 18.6062
450389 | 18.1478 | 18.1797 | 18.6769 | 18.3421
450393 | 18.7387 | 20.2784 | 22.4992 | 20.3300
450395 | 16.6754 | 18.3768 | 17.5097 | 17.5123
450399 | 16.3066 | 15.7845 | 15.3491 | 15.8113
450400 | 14.0761 | 19.5379 | 18.6668 | 17.2665
450403 | 21.3691 | 20.1989 | 22.7969 | 21.4798
450411 | 14.0463 | 14.4832 | 14.8054 | 14.4468
450417 | 13.8517 | 13.4983 | 15.3591 | 14.2291
450418 | 20.5847 | 21.9161 | 21.9690 | 21.5007
450419 | 21.8196 | 20.6325 | 22.8505 | 21.7461
450422 | 24.5309 | 26.4848 | 28.0257 | 26.2815
450423 | 19.4352 | 22.7132 | * | 20.9607
450424 | 17.5658 | 18.9741 | 18.7478 | 18.4717
450429 | 11.3811 | 13.8723 | * | 12.4654
450431 | 16.2696 | 19.6304 | 20.8421 | 18.7034
450438 | 16.5461 | 19.5028 | 14.5873 | 16.7445
450446 | 21.9685 | 13.0986 | 20.7592 | 18.0346
450447 | 16.6124 | 18.0376 | 18.1815 | 17.5795
450451 | 19.6424 | 18.8948 | 18.1921 | 18.8786
450457 | 19.7689 | 24.7880 | 19.6569 | 21.1382
450460 | 14.2156 | 15.1765 | 14.5364 | 14.6270
450462 | 20.1347 | 22.6212 | 17.9464 | 20.1419
450464 | 13.4714 | 13.2931 | 15.5908 | 14.0563
450465 | 15.2203 | 15.5650 | 15.4731 | 15.4326
450467 | 15.6034 | 10.6184 | 16.8658 | 13.7380
450469 | 22.1012 | 19.6269 | 21.1652 | 20.9069
450473 | 14.1895 | 19.9761 | 19.7148 | 17.9827
450475 | 16.2489 | 16.3404 | 16.4898 | 16.3610
450484 | 19.5869 | 16.8131 | 18.2663 | 18.1595
450488 | 18.6813 | 19.3457 | 19.2173 | 19.0899
450489 | 14.5747 | 9.9326 | 15.8517 | 12.9537
450497 | 11.9242 | 15.0886 | 15.1284 | 14.0029
450498 | 12.0249 | 13.8551 | 14.4713 | 13.5076
450508 | 19.8722 | 18.8069 | 18.7309 | 19.1164
450514 | 22.2791 | 21.3243 | 20.0144 | 21.2387
450517 | 12.8702 | 27.8815 | 14.3191 | 16.6822
450518 | 19.0112 | 19.8116 | 21.4888 | 20.0420
450523 | 20.2589 | 20.0792 | 20.8894 | 20.3958
450530 | 22.9101 | 22.8623 | 21.1634 | 22.2676
450534 | 24.0835 | 19.9376 | 20.1520 | 21.2600
450535 | 21.2659 | 19.6645 | 21.0513 | 20.6461
450537 | 21.7432 | 20.8438 | 20.1161 | 20.8690
450538 | 19.6864 | * | * | 19.6864
450539 | 14.2536 | 16.4921 | 17.7681 | 16.1703
450544 | 19.3848 | 23.9283 | 23.8271 | 21.9636
450545 | 16.9674 | 19.5558 | 20.2823 | 18.9428
450547 | 13.8074 | 14.8248 | 17.8756 | 15.6065
450551 | 13.9069 | 16.9439 | 16.6237 | 15.8128
450558 | 20.0164 | 22.2574 | 20.7404 | 21.0120
450559 | 13.4572 | * | * | 13.4572
450561 | 16.8162 | * | * | 16.8162
450563 | 30.3744 | 19.9218 | 21.3788 | 22.6596
450565 | 16.4545 | 16.2652 | 17.3803 | 16.7063
450570 | 17.7135 | 18.9532 | 19.0336 | 18.5591
450571 | 16.9705 | 17.5598 | 18.2784 | 17.6264
450573 | 15.6698 | 12.2502 | 17.0111 | 14.8796
450574 | 14.2411 | 14.5965 | 14.6128 | 14.4845
450575 | 19.0613 | 19.3925 | 22.5621 | 20.3955
450578 | 16.8731 | 15.4783 | 17.7906 | 16.6611
450580 | 15.3581 | 15.8321 | 16.5934 | 15.9704
450583 | 15.5040 | 15.6580 | 14.4411 | 15.1895
450584 | 13.3747 | 14.2321 | 14.7876 | 14.1390
450586 | 12.8439 | 14.3773 | 13.7155 | 13.6793
450587 | 17.1124 | 17.0230 | 18.5905 | 17.5554
450591 | 17.9151 | 17.8981 | 17.7442 | 17.8480
450596 | 14.8232 | 22.5420 | 21.6729 | 19.1117
450597 | 16.1797 | 17.0776 | 17.6667 | 16.9974
450603 | 12.7682 | 11.6442 | 23.5572 | 15.3844
450604 | 15.4790 | 16.4535 | 17.2702 | 16.4273
450605 | 20.1541 | 21.1400 | 19.4580 | 20.2362
450609 | 10.7323 | 15.9753 | 16.7508 | 14.5094
450610 | 16.7464 | 18.9924 | 19.2006 | 18.3347
450614 | 13.8304 | 17.9853 | 16.5754 | 15.9153
450615 | 14.7457 | 14.8562 | 15.1188 | 14.9156
450617 | 19.5381 | 20.3387 | 20.8919 | 20.3006
450620 | 13.7063 | 15.8380 | 16.0987 | 15.2421
450623 | 21.8275 | 22.1950 | 15.3964 | 19.4094
450626 | 19.7896 | 18.1673 | 18.4349 | 18.7617
450628 | 16.8345 | 20.5611 | 18.6078 | 18.6471
450630 | 19.1904 | 21.6876 | 20.9444 | 20.5676
450631 | 17.5555 | 20.0417 | 21.5359 | 19.4585
450632 | 12.7295 | 11.7587 | 13.9147 | 12.7814
450633 | 20.7209 | 19.5183 | 19.3340 | 19.8372
450634 | 20.2932 | 23.5333 | 22.9877 | 22.3295
450638 | 19.6968 | 23.1437 | 22.1704 | 21.6228
450639 | 20.3050 | 23.1936 | 20.9189 | 21.4283
450641 | 13.5049 | 16.5125 | 15.7019 | 15.1464
450643 | 17.4268 | 18.7054 | 16.8152 | 17.6481
450644 | 20.7904 | 23.6587 | 22.7721 | 22.2903
450646 | 19.9866 | 19.8274 | 18.0467 | 19.2248
450647 | 22.4196 | 24.7981 | 24.1058 | 23.8008
450648 | 14.7541 | 14.8488 | 14.8968 | 14.8343
450649 | 15.8156 | 16.4496 | 16.6577 | 16.3245
450651 | 20.7304 | 22.7664 | 22.6977 | 22.1014
450652 | 16.6461 | 13.4389 | 17.2445 | 15.4912
450653 | 19.2847 | 18.1834 | 19.2349 | 18.8580
450654 | 13.8833 | 14.5258 | 14.5423 | 14.3223
450656 | 18.7328 | 17.6723 | 18.2606 | 18.1968
450658 | 15.1477 | 16.2657 | 17.2630 | 16.2787
450659 | 20.5609 | 22.2550 | 23.0108 | 21.9106
450661 | 20.2196 | 19.7160 | 18.9071 | 19.5857
450662 | 18.6797 | 18.2284 | 18.5812 | 18.4954
450665 | 15.4395 | 15.2015 | 14.3068 | 14.9933
450666 | 19.3456 | 20.3248 | 20.2549 | 19.9584
450668 | 18.7218 | 20.6965 | 21.0972 | 20.1590
450669 | 22.2832 | 21.7632 | 21.4199 | 21.7939
450670 | 18.2030 | 16.8893 | 20.2632 | 18.5133
450672 | 21.2079 | 21.8559 | 21.4175 | 21.4876
450673 | 13.8444 | 13.9620 | 12.4735 | 13.3217
450674 | 20.6151 | 22.2796 | 22.2305 | 21.7310
450675 | 23.2587 | 22.4961 | 21.4164 | 22.2737
450677 | 18.7905 | 22.6839 | 20.6556 | 20.7200
450678 | 20.7453 | 23.2617 | 24.1301 | 22.6596
450683 | 21.1748 | 20.9143 | 26.4385 | 22.7231
450684 | 22.8552 | 19.7005 | 21.9962 | 21.3850
450686 | 15.0122 | 16.5661 | 16.4632 | 15.9861
450688 | 20.8988 | 19.6250 | 20.1831 | 20.2348
450690 | 22.4118 | 21.6578 | 22.4707 | 22.1725
450694 | 18.4917 | 17.4758 | 17.4643 | 17.7613
450696 | 17.5701 | 24.9636 | * | 21.1885
450697 | 15.9259 | 18.8405 | 19.4949 | 18.0008
450698 | 14.3983 | 14.6680 | 15.2170 | 14.7605
450700 | 15.1153 | 14.6421 | 15.9050 | 15.2506
450702 | 21.0157 | 20.8223 | * | 20.9141
450703 | 18.8029 | * | * | 18.8029
450704 | 21.6236 | 20.9821 | 20.7987 | 21.1724
450705 | 22.3175 | 30.0116 | 20.5505 | 24.0294
450706 | 21.3777 | 21.2072 | 22.0884 | 21.5769
450709 | 19.7741 | 20.8889 | 22.1490 | 21.0078
450711 | 18.2350 | 19.8126 | 19.3400 | 19.1455
450712 | 16.8942 | 13.6240 | 15.9298 | 15.4007
450713 | 23.6009 | 20.8065 | 21.5813 | 21.8464
450715 | 19.7719 | 22.0413 | 22.5711 | 21.5401
450716 | 19.9871 | 20.5544 | 20.9088 | 20.4817
450717 | 19.4546 | 20.7192 | 20.6551 | 20.2618
450718 | 19.0679 | 19.6886 | 22.1765 | 20.3069
450723 | 19.7044 | 19.7563 | 20.0191 | 19.8245
450724 | 20.0667 | 20.3235 | 20.3706 | 20.2569
450725 | 19.5572 | * | * | 19.5572
450727 | 17.7508 | 13.5458 | 17.0205 | 15.9095
450728 | 12.9277 | 17.5284 | 19.8308 | 16.6330
450730 | 20.9129 | 22.0819 | 23.0054 | 22.0459
450733 | 20.3718 | 20.7693 | 20.0619 | 20.4133
450735 | 8.0014 | 13.8767 | * | 10.0108
450742 | 20.7775 | 22.7655 | 21.8392 | 21.8145
450743 | 15.9493 | 18.8937 | 19.6015 | 18.1561
450746 | 20.7534 | 12.7904 | 30.2677 | 19.9077
450747 | 17.3842 | 19.2585 | 20.3914 | 18.9599
450749 | 12.9542 | 16.2130 | 19.1488 | 16.2577
450750 | 14.7207 | 14.6914 | 13.8098 | 14.4310
450751 | 22.2491 | 21.2198 | 18.8616 | 21.0697
450754 | 14.8896 | 16.0860 | 16.6057 | 15.9050
450755 | 14.7070 | 17.9904 | 18.0760 | 16.8948
450757 | 13.9636 | 13.8675 | 14.9434 | 14.2422
450758 | 18.6513 | 21.8669 | 19.0221 | 19.8347
450760 | 18.0690 | 17.4852 | 19.2225 | 18.2582
450761 | 11.1444 | 13.6152 | 15.7681 | 13.3382
450763 | 17.5603 | 18.2123 | 18.6092 | 18.1083
450766 | 21.8103 | 22.4348 | 23.3879 | 22.5926
450769 | 13.6183 | 14.5858 | 18.4163 | 15.2554
450770 | 16.8250 | 16.5458 | 19.0183 | 17.4436
450771 | 21.5814 | 22.4542 | 20.4326 | 21.4743
450774 | 16.5198 | 17.9964 | 16.2948 | 16.9482
450775 | 19.9651 | 19.8897 | 21.3504 | 20.4169
450776 | 10.1953 | 15.7750 | 13.8230 | 13.0171
450777 | 19.5923 | 21.0682 | 19.0380 | 19.9747
450779 | 22.9697 | 21.4546 | 20.8027 | 21.5263
450780 | 15.2800 | 19.1498 | 18.9543 | 17.5846
450785 | 18.5475 | 18.4976 | * | 18.5211
450788 | 20.9806 | 19.1463 | 19.0680 | 19.4275
450794 | 18.3981 | 18.2229 | * | 18.3485
450795 | 14.1682 | 16.6494 | 22.5753 | 17.9737
450796 | 17.4472 | 16.5362 | 19.2059 | 17.6627
450797 | 18.5901 | 15.9188 | 16.4923 | 16.8594
450798 | 9.2165 | 9.4634 | * | 9.3327
450801 | 16.6095 | 17.5669 | 17.9548 | 17.3668
450802 | 18.9018 | 19.9168 | 17.1435 | 18.5477
450803 | 16.2047 | 18.3767 | 21.6653 | 19.3492
450804 | 20.2223 | 19.4846 | 19.0893 | 19.5891
450807 | 13.2256 | 11.3192 | 10.7200 | 11.6398
450808 | 45.4728 | 16.9915 | 17.4917 | 21.1577
450809 | 19.0266 | 20.0202 | 19.5101 | 19.5395
450811 | 18.3847 | 19.0961 | 19.9168 | 19.1389
450812 | 20.7383 | * | * | 20.7383
450813 | * | 15.9166 | 11.2807 | 13.4305
450815 | * | * | 21.2741 | 21.2741
450819 | * | * | 16.5521 | 16.5521
450820 | * | * | 25.8653 | 25.8653
450822 | * | * | 24.2740 | 24.2740
460001 | 20.6336 | 21.7996 | 22.2735 | 21.5846
460003 | 20.5958 | 20.0452 | 22.6289 | 21.0329
460004 | 20.8196 | 21.3744 | 21.7234 | 21.3231
460005 | 17.5818 | 19.7069 | 22.5252 | 19.8732
460006 | 19.6485 | 20.6252 | 21.0700 | 20.4918
460007 | 20.5677 | 20.8026 | 21.1773 | 20.8773
460008 | 21.0338 | 18.8661 | 19.1153 | 19.6864
460009 | 21.1084 | 21.9016 | 22.5295 | 21.8515
460010 | 21.2473 | 21.9830 | 22.4948 | 21.9354
460011 | 16.7114 | 18.8660 | 19.7731 | 18.3715
460013 | 20.3331 | 20.7326 | 20.3976 | 20.4959
460014 | 19.5465 | 18.3865 | 18.5370 | 18.7488
460015 | 20.0987 | 20.6593 | 21.0470 | 20.6197
460016 | 18.0791 | 18.2408 | 21.9105 | 19.2998
460017 | 26.0310 | 17.7103 | 18.9929 | 19.9984
460018 | 16.8566 | 17.6235 | 17.0063 | 17.1606
460019 | 17.3683 | 16.2671 | 17.8690 | 17.1417
460020 | 17.0271 | 17.3467 | 17.2663 | 17.2239
460021 | 20.2613 | 21.0470 | 21.5174 | 20.9913
460022 | 18.2100 | 20.1534 | 21.3614 | 19.7210
460023 | 21.3321 | 22.3535 | 22.9265 | 22.2381
460024 | 13.0279 | * | * | 13.0279
460025 | 12.5083 | 19.4247 | 17.3494 | 16.5301
460026 | 17.3431 | 19.9241 | 20.2577 | 19.0203
460027 | 20.8331 | 21.8868 | 22.2955 | 21.6637
460029 | 17.2501 | 20.5154 | 20.8366 | 19.2190
460030 | 17.2196 | 17.6071 | 17.1705 | 17.3275
460032 | 19.5474 | 21.1006 | 21.4832 | 20.7171
460033 | 15.7233 | 19.5372 | 19.2664 | 18.1972
460035 | 14.2802 | 16.0021 | 16.1685 | 15.4874
460036 | 22.3788 | 23.5893 | 23.4573 | 23.1384
460037 | 18.7665 | 18.6850 | 17.7399 | 18.3920
460039 | 24.4781 | 24.9134 | 24.4808 | 24.6217
460041 | 21.6926 | 21.0623 | 20.2035 | 20.9715
460042 | 17.8455 | 18.8814 | 19.5662 | 18.7473
460043 | 23.8970 | 24.4779 | 23.2819 | 23.8380
460044 | 20.6897 | 21.4696 | 21.8485 | 21.3516
460046 | 17.1085 | 18.2224 | * | 17.6742
460047 | 21.3843 | 23.0433 | 22.7384 | 22.4725
460049 | 18.8206 | 19.6483 | 20.8283 | 19.8892
460050 | 26.2485 | * | * | 26.2485
460051 | 20.9797 | 19.4761 | 22.1758 | 20.8643
460052 | * | * | 19.8961 | 19.8961
470001 | 19.6108 | 20.2299 | 21.3817 | 20.4021
470003 | 22.5949 | 23.6949 | 21.6305 | 22.6336
470004 | 18.0952 | 16.8842 | 18.1879 | 17.7051
470005 | 21.5151 | 21.9191 | 23.1808 | 22.1962
470006 | 18.3898 | 17.8699 | 20.2829 | 18.8123
470008 | 19.4136 | 19.6069 | 20.1969 | 19.7378
470010 | 19.4652 | 20.2961 | 21.0616 | 20.2790
470011 | 21.2014 | 21.7675 | 22.2415 | 21.7386
470012 | 18.5162 | 18.5339 | 18.9444 | 18.6579
470015 | 19.2552 | 19.5366 | 20.2125 | 19.6399
470018 | 20.4161 | 21.5426 | 21.2406 | 21.0610
470020 | 18.9884 | 20.6643 | 21.5688 | 20.4558
470023 | 20.6391 | 20.4511 | 21.7139 | 20.9439
470024 | 20.4087 | 20.8510 | 21.9807 | 21.0777
490001 | 24.7604 | 21.9755 | 20.0570 | 22.0422
490002 | 12.9871 | 15.2287 | 15.7365 | 14.6222
490003 | 18.0034 | 19.1040 | 20.3237 | 19.1299
490004 | 18.7731 | 19.2126 | 19.7074 | 19.2382
490005 | 16.9087 | 20.5517 | 21.3318 | 19.6257
490006 | 15.2276 | 15.9537 | 12.3253 | 14.5928
490007 | 18.4330 | 18.7740 | 19.9391 | 19.0604
490009 | 22.9513 | 23.9344 | 23.7659 | 23.5499
490010 | 18.5780 | 21.7424 | * | 19.9381
490011 | 18.7508 | 18.6071 | 19.3983 | 18.9085
490012 | 13.7788 | 15.9973 | 15.2965 | 15.0022
490013 | 16.9324 | 17.3318 | 18.2396 | 17.5085
490014 | 24.5557 | 25.8315 | 23.5266 | 24.6242
490015 | 19.3608 | 19.6363 | 20.0667 | 19.6821
490017 | 17.3152 | 18.4361 | 19.4810 | 18.4236
490018 | 17.9433 | 18.3435 | 18.5508 | 18.2858
490019 | 17.5309 | 19.6178 | 21.0024 | 19.4180
490020 | 17.6655 | 18.5691 | 18.9621 | 18.4232
490021 | 19.4490 | 19.3945 | 20.0496 | 19.6794
490022 | 20.7223 | 21.2183 | 22.9170 | 21.6052
490023 | 18.9587 | 20.6694 | 21.5683 | 20.4224
490024 | 16.8904 | 17.7221 | 18.4314 | 17.8400
490027 | 14.4234 | 16.2761 | 16.7556 | 15.8360
490030 | 10.5029 | 9.1789 | 8.6446 | 9.5559
490031 | 15.8213 | 14.9539 | 16.0003 | 15.5875
490032 | 21.5592 | 22.4262 | 22.0162 | 21.9790
490033 | 18.3265 | 21.1723 | 19.2908 | 19.5511
490037 | 15.9704 | 16.3759 | 17.0113 | 16.4399
490038 | 15.7099 | 21.0218 | 17.6324 | 17.9048
490040 | 22.5237 | 22.7061 | 23.9490 | 23.0684
490041 | 16.5542 | 18.3589 | 20.8247 | 18.4498
490042 | 15.2717 | 16.4666 | 17.0972 | 16.2668
490043 | 20.6775 | 22.1574 | 21.5808 | 21.5222
490044 | 17.6282 | 18.3137 | 19.7842 | 18.6148
490045 | 19.6325 | 20.5468 | 20.6436 | 20.2902
490046 | 18.6112 | 18.4825 | 19.5729 | 18.9042
490047 | 17.1631 | 25.0438 | 17.5833 | 19.3625
490048 | 17.8907 | 18.4361 | 19.5417 | 18.6005
490050 | 22.7129 | 23.0729 | 23.3668 | 23.0530
490052 | 16.9363 | 16.8600 | 16.4787 | 16.7609
490053 | 15.6883 | 15.6996 | 16.8410 | 16.1062
490054 | 15.5516 | 15.4734 | 19.5780 | 16.7024
490057 | 19.0668 | 19.9210 | 20.3160 | 19.7770
490059 | 20.3744 | 20.8662 | 21.4801 | 20.8999
490060 | 19.2006 | 17.6308 | 18.5917 | 18.4363
490063 | 28.2527 | 28.6536 | 31.0113 | 29.3929
490066 | 16.5024 | 20.6972 | 15.9322 | 17.5889
490067 | 17.1922 | 17.0195 | 17.8487 | 17.3549
490069 | 15.6986 | 17.3297 | 19.9963 | 17.6603
490071 | 19.4701 | 21.8879 | 23.3511 | 21.4480
490073 | 26.1420 | 20.7960 | 26.0957 | 24.1488
490074 | 19.3417 | * | * | 19.3417
490075 | 19.1906 | 18.6983 | 19.0566 | 18.9744
490077 | 19.7866 | 21.3670 | 22.6504 | 21.2469
490079 | 16.4379 | 17.0815 | 17.7016 | 17.0749
490083 | 16.6406 | * | * | 16.6406
490084 | 16.3846 | 16.7834 | 18.0555 | 17.0646
490085 | 16.3979 | 17.4584 | 17.6158 | 17.1539
490088 | 15.5982 | 16.4362 | 17.9141 | 16.6068
490089 | 15.8618 | 17.7692 | 18.2290 | 17.2642
490090 | 16.2785 | 17.0199 | 17.4735 | 16.9381
490091 | 19.9949 | 20.8734 | 25.0272 | 21.8088
490092 | 15.6893 | 16.9533 | 16.7502 | 16.4464
490093 | 16.4767 | 17.3711 | 17.8275 | 17.2502
490094 | 16.7880 | 18.9204 | 22.3033 | 19.3562
490095 | 18.2495 | * | * | 18.2495
490097 | 15.8586 | 15.5780 | 16.9518 | 16.0789
490098 | 14.6971 | 15.1403 | 16.0488 | 15.2544
490099 | 16.8667 | 17.9665 | 18.3985 | 17.7293
490100 | 17.2189 | 22.5010 | * | 19.8823
490101 | 25.0907 | 24.7616 | 23.5502 | 24.4252
490104 | 28.4910 | 25.6889 | 27.6495 | 27.0461
490105 | 18.2461 | 18.5765 | 21.4428 | 19.2491
490106 | 16.9117 | 17.6596 | 22.1448 | 18.3912
490107 | 22.4054 | 23.5240 | 22.9283 | 22.9660
490108 | 19.7478 | 20.2112 | 24.1232 | 21.0559
490109 | 21.1589 | 23.6620 | 25.9475 | 23.4402
490110 | 15.8408 | 16.5131 | 18.1561 | 16.8181
490111 | 17.3453 | 17.1768 | 17.8510 | 17.4580
490112 | 20.5239 | 21.4532 | 22.0815 | 21.3493
490113 | 23.0840 | 23.2235 | 23.9043 | 23.4071
490114 | 16.9083 | 17.3047 | 18.0359 | 17.4375
490115 | 17.1023 | 16.5203 | 23.9711 | 20.3158
490116 | 16.4436 | 16.6170 | 17.2040 | 16.7676
490117 | 13.8429 | 14.0104 | 14.7944 | 14.2244
490118 | 20.8707 | 21.4674 | 21.5687 | 21.3058
490119 | 17.8686 | 17.9147 | 18.6046 | 18.1353
490120 | 19.9810 | 19.3707 | 20.5777 | 19.9742
490122 | 23.9695 | 23.8801 | 25.2027 | 24.3250
490123 | 16.8505 | 17.7461 | 19.3056 | 18.0001
490124 | 19.3616 | 22.0884 | 21.3818 | 20.8857
490126 | 18.2276 | 18.6844 | 20.4294 | 19.0254
490127 | 14.4815 | 16.0516 | 16.5993 | 15.6547
490129 | 27.4701 | 22.5885 | 28.6868 | 25.1130
490130 | 16.2779 | 16.4322 | 17.6943 | 16.7915
490132 | 17.0204 | 18.6570 | 18.4671 | 18.0649
500001 | 21.3476 | 22.1896 | 23.4901 | 22.3320
500002 | 21.0375 | 21.6332 | 19.8476 | 20.7811
500003 | 24.3055 | 24.2814 | 24.4333 | 24.3392
500005 | 23.4808 | 22.3955 | 21.7512 | 22.5379
500007 | 22.4269 | 26.0599 | 21.9911 | 23.4148
500008 | 24.1930 | 25.3064 | 25.9291 | 25.1336
500011 | 25.1836 | 24.0162 | 24.6554 | 24.5938
500012 | 22.2815 | 20.7032 | 24.2799 | 22.3541
500014 | 23.9276 | 24.3419 | 24.0990 | 24.1249
500015 | 23.2435 | 23.9297 | 24.9923 | 24.0554
500016 | 23.9034 | 24.3938 | 24.9439 | 24.4287
500019 | 22.3668 | 22.4213 | 23.2054 | 22.6470
500021 | 24.4622 | 25.9198 | 27.6490 | 25.9957
500023 | 27.1892 | 26.6535 | 27.1025 | 26.9568
500024 | 24.0453 | 23.7472 | 26.6452 | 24.7736
500025 | 23.9557 | 26.4810 | 24.4825 | 24.9695
500026 | 23.3491 | 23.8005 | 26.9884 | 24.7238
500027 | 25.0529 | 22.2158 | 20.9576 | 22.6384
500028 | 18.8588 | 19.2675 | 18.9556 | 19.0337
500029 | 16.8083 | 17.9237 | 18.5042 | 17.7373
500030 | 24.1321 | 24.9039 | 26.3828 | 25.1714
500031 | 23.3659 | 29.2707 | 23.6099 | 25.1784
500033 | 21.3906 | 22.3527 | 22.5462 | 22.1428
500036 | 21.8950 | 22.1096 | 23.6333 | 22.5254
500037 | 19.6803 | 20.7139 | 21.4059 | 20.6062
500039 | 23.3211 | 23.8918 | 24.0007 | 23.7403
500041 | 24.8556 | 23.9608 | 24.9237 | 24.5799
500042 | 22.1286 | 22.9125 | * | 22.5386
500043 | 20.2509 | 20.9459 | 22.0466 | 21.0230
500044 | 23.1128 | 23.3364 | 24.2212 | 23.5535
500045 | 22.0982 | 20.8881 | 24.0526 | 22.2906
500048 | 19.3029 | 22.1906 | 20.3207 | 20.5960
500049 | 22.9534 | 24.0489 | 24.5997 | 23.8657
500050 | 20.9445 | 22.0065 | 22.6563 | 21.9092
500051 | 24.4769 | 24.8203 | 25.9447 | 25.1087
500053 | 22.0515 | 23.9397 | 22.8399 | 22.9429
500054 | 22.9024 | 22.8829 | 23.8089 | 23.1889
500055 | 22.8769 | 23.7446 | 23.8622 | 23.5097
500057 | 18.0424 | 18.2737 | 19.0479 | 18.4516
500058 | 23.3984 | 24.7882 | 24.1106 | 24.0962
500059 | 22.5412 | 23.3506 | 26.6270 | 24.1016
500060 | 23.5360 | 25.0233 | 28.3655 | 25.4628
500061 | 20.3957 | 21.7013 | 20.8624 | 20.9851
500062 | 19.4607 | 18.6329 | 19.0557 | 19.0333
500064 | 24.5283 | 25.5748 | 26.7000 | 25.6273
500065 | 21.4254 | 21.9308 | 23.5671 | 22.3106
500068 | 18.6960 | 19.6574 | 19.2638 | 19.2003
500069 | 20.6262 | 21.3592 | 21.4542 | 21.1522
500071 | 19.3810 | 19.1906 | 19.1428 | 19.2439
500072 | 24.4599 | 25.3928 | 25.2001 | 25.0228
500073 | 21.4303 | 21.2469 | 21.7698 | 21.4835
500074 | 18.6506 | 18.9679 | 19.5981 | 19.0849
500077 | 23.2056 | 22.8536 | 23.9410 | 23.3357
500079 | 22.9809 | 24.2036 | 23.1041 | 23.4248
500080 | 13.8000 | 15.6630 | 18.3883 | 15.5897
500084 | 22.2169 | 23.4032 | 24.4044 | 23.3798
500085 | 28.6121 | 21.4403 | 20.4517 | 22.7948
500086 | 22.3132 | 23.3288 | 22.8829 | 22.8469
500088 | 23.6988 | 23.2701 | 24.7822 | 23.9172
500089 | 17.9399 | 18.7080 | 19.7166 | 18.7736
500090 | 16.3297 | 16.1576 | 20.4429 | 17.2562
500092 | 17.2881 | 16.7913 | 19.2028 | 17.7527
500094 | 18.1080 | 18.5835 | 15.7866 | 17.6577
500096 | 20.9580 | 21.0151 | 23.3564 | 21.7716
500097 | 20.8010 | 19.7706 | 20.8774 | 20.4568
500098 | 12.9935 | 16.3511 | 15.2040 | 14.9340
500101 | 19.4498 | 19.7337 | 15.8000 | 18.3994
500102 | 20.3321 | 20.9389 | 21.8963 | 21.0615
500104 | 22.5849 | 22.8154 | 24.9389 | 23.3843
500106 | 18.7087 | 18.6041 | 19.1465 | 18.7914
500107 | 17.2987 | 18.1201 | 17.9489 | 17.8064
500108 | 27.2126 | 26.2939 | 28.6229 | 27.3944
500110 | 21.4053 | 21.4553 | 22.9775 | 21.9505
500118 | 22.9245 | 23.8397 | 24.8034 | 23.8697
500119 | 21.5704 | 22.4373 | 22.1192 | 22.0436
500122 | 21.9135 | 22.4268 | 23.5264 | 22.6230
500123 | 19.5855 | 20.3181 | 19.6646 | 19.8819
500124 | 24.1473 | 23.2836 | 23.7742 | 23.7287
500125 | 16.6272 | 15.1112 | 14.7910 | 15.5165
500129 | 23.5952 | 26.1575 | 25.4685 | 25.1115
500132 | 19.3567 | 15.6717 | 23.1822 | 19.3937
500134 | 20.9570 | 17.7457 | 17.2430 | 18.5700
500139 | 20.8816 | 22.2297 | 22.3022 | 21.8369
500141 | 22.9358 | 23.8838 | 29.9695 | 25.5485
500143 | 17.6031 | 18.0343 | 18.2570 | 17.9797
500146 | 17.8558 | 21.6003 | * | 19.6218
510001 | 17.8282 | 19.1492 | 20.0429 | 18.9855
510002 | 17.3409 | 20.1527 | 17.0646 | 18.0884
510005 | 14.4330 | 14.2503 | 13.8621 | 14.1872
510006 | 17.8821 | 18.7313 | 19.9609 | 18.8717
510007 | 20.2483 | 21.2729 | 21.7064 | 21.0952
510008 | 17.3653 | 18.3296 | 19.0513 | 18.2388
510012 | 16.5037 | 15.8390 | 15.6089 | 15.9887
510013 | 16.6194 | 17.8527 | 19.5798 | 17.9628
510015 | 14.7904 | 14.9039 | 16.7310 | 15.5192
510016 | 12.0276 | * | * | 12.0276
510018 | 16.4757 | 18.5269 | 18.5358 | 17.8403
510020 | 12.6472 | 13.1837 | 14.1211 | 13.3435
510022 | 19.8375 | 20.1763 | 21.5770 | 20.5146
510023 | 15.9417 | 16.0129 | 16.7777 | 16.2444
510024 | 18.7982 | 19.0941 | 18.7461 | 18.8794
510026 | 13.4586 | 13.6888 | 13.7952 | 13.6491
510027 | 17.5759 | 17.2900 | 18.5945 | 17.8135
510028 | 20.7306 | 20.0628 | 19.9208 | 20.2198
510029 | 17.0519 | 17.7124 | 18.4668 | 17.7625
510030 | 18.3137 | 17.4198 | 17.7603 | 17.8189
510031 | 18.4887 | 28.6673 | 18.6341 | 21.0020
510033 | 18.8061 | 18.4082 | 18.4718 | 18.5670
510035 | 18.6471 | 16.5007 | 18.3164 | 17.7425
510036 | 13.1995 | 13.4559 | 13.8786 | 13.5021
510038 | 14.3433 | 15.8132 | 15.5576 | 15.2710
510039 | 16.0555 | 16.9398 | 17.1461 | 16.7060
510043 | 14.2872 | 14.0662 | 13.1308 | 13.8129
510046 | 17.7320 | 17.3821 | 18.5896 | 17.9120
510047 | 19.1202 | 19.8963 | 20.8101 | 19.9042
510048 | 20.3734 | 21.0407 | 17.1647 | 19.5052
510050 | 16.5681 | 16.9136 | 18.4036 | 17.3154
510053 | 15.5856 | 16.1036 | 17.5798 | 16.4010
510055 | 22.8376 | 23.7248 | 24.1069 | 23.5675
510058 | 17.9786 | 18.4156 | 18.2634 | 18.2213
510059 | 16.7732 | 16.5854 | 16.1044 | 16.5068
510060 | 15.6581 | 17.5594 | * | 16.5969
510061 | 14.2227 | 13.8204 | 14.1968 | 14.0767
510062 | 17.6276 | 19.3881 | 18.1588 | 18.4173
510065 | 14.5882 | * | * | 14.5882
510066 | 12.7164 | 12.2943 | * | 12.5091
510067 | 18.1079 | 16.7161 | 17.3067 | 17.3634
510068 | 16.2864 | 18.7938 | 14.3582 | 16.2743
510070 | 16.3616 | 18.5146 | 18.4252 | 17.8444
510071 | 16.2390 | 17.2148 | 18.0278 | 17.1797
510072 | 17.6579 | 15.6262 | 15.9257 | 16.4174
510077 | 16.4111 | 18.0668 | 18.2947 | 17.6316
510080 | 14.7966 | 17.4485 | 16.3453 | 16.1690
510081 | 13.0020 | 13.6359 | 11.9701 | 12.8648
510082 | 13.6905 | 17.4538 | 13.5946 | 14.7307
510084 | 12.4820 | 17.2395 | 13.5339 | 14.4076
510085 | 18.6367 | 17.5624 | 18.5207 | 18.2217
510086 | 13.7937 | 13.4763 | 14.2241 | 13.8304
510088 | * | * | 14.8854 | 14.8854
520002 | 18.3521 | 19.7447 | 19.6755 | 19.2773
520003 | 16.4334 | 17.1248 | 18.7956 | 17.5028
520004 | 18.1744 | 19.6512 | 20.4591 | 19.4206
520006 | 20.4446 | 21.5313 | 21.4884 | 21.1400
520007 | 13.1087 | 16.2001 | 18.4629 | 16.0134
520008 | 22.8024 | 22.8024 | 24.9395 | 23.5372
520009 | 18.5094 | 18.6002 | 21.3967 | 19.4603
520010 | 20.3447 | 22.7703 | 22.3311 | 21.8215
520011 | 20.3797 | 20.7410 | 21.5223 | 20.8830
520013 | 21.6289 | 20.3965 | 20.5944 | 20.8585
520014 | 16.3989 | 17.1646 | 18.0841 | 17.1764
520015 | 18.3185 | 18.6078 | 19.7672 | 18.9031
520016 | 13.2889 | 17.3018 | 18.4320 | 16.1862
520017 | 19.3179 | 19.6008 | 19.4780 | 19.4685
520018 | 18.6441 | 21.1941 | 20.5761 | 20.1814
520019 | 18.3143 | 19.5440 | 20.9164 | 19.5698
520021 | 20.0355 | 21.3471 | 21.9531 | 21.1390
520024 | 14.6107 | 14.0175 | 14.4750 | 14.3609
520025 | 18.1086 | 18.2430 | 20.3838 | 18.8661
520026 | 19.8131 | 21.5453 | 20.8546 | 20.7335
520027 | 18.9085 | 19.9324 | 19.3257 | 19.4032
520028 | 19.1370 | 21.2852 | 21.5674 | 20.6109
520029 | 16.7520 | 19.5750 | 21.4197 | 19.2161
520030 | 20.0043 | 20.5039 | 20.8529 | 20.4556
520031 | 18.7066 | 20.4814 | 20.9875 | 19.9520
520032 | 17.9007 | 19.5697 | 20.1439 | 19.2148
520033 | 18.8906 | 19.2954 | 20.2520 | 19.4725
520034 | 16.6858 | 17.1282 | 20.4307 | 18.0336
520035 | 17.0997 | 18.9452 | 18.7135 | 18.2608
520037 | 20.0516 | 20.6686 | 21.4693 | 20.7219
520038 | 17.7074 | 19.6294 | 20.6130 | 19.3169
520039 | 19.5990 | 20.7641 | 23.3687 | 21.1069
520040 | 20.7420 | 20.4677 | 20.4895 | 20.5693
520041 | 15.3666 | 17.1959 | 17.5718 | 16.7004
520042 | 17.6577 | 18.5843 | 18.9667 | 18.4230
520044 | 17.7932 | 18.4014 | 19.1877 | 18.4535
520045 | 19.6736 | 20.5917 | 20.7203 | 20.3442
520047 | 17.8702 | 18.3048 | 20.3487 | 18.7633
520048 | 19.1712 | 20.6583 | 19.5238 | 19.7870
520049 | 19.5727 | 20.3559 | 20.1667 | 20.0444
520051 | 19.7416 | 21.6497 | 23.1309 | 21.4330
520053 | 16.4887 | 17.3945 | 18.0851 | 17.3336
520054 | 15.9873 | 15.1747 | 16.6782 | 15.9073
520057 | 18.3186 | 19.0872 | 19.6305 | 19.0102
520058 | 18.1264 | 19.7283 | 21.2500 | 19.7133
520059 | 19.8530 | 20.9913 | 21.5796 | 20.8254
520060 | 17.1675 | 17.9258 | 18.7639 | 17.9403
520062 | 17.8000 | 19.1482 | 19.7038 | 18.8681
520063 | 20.7744 | 19.6136 | 20.5262 | 20.3055
520064 | 21.4586 | 22.7423 | 22.0878 | 22.0905
520066 | 22.4419 | 22.8837 | 23.9506 | 23.0411
520068 | 18.0798 | 18.9943 | 19.6855 | 18.9053
520069 | 17.9133 | 20.2934 | 20.1770 | 19.3716
520070 | 17.8192 | 18.5938 | 19.2094 | 18.5389
520071 | 18.7861 | 18.7304 | 19.1628 | 18.8949
520074 | 18.6923 | 20.4601 | 20.9007 | 20.0036
520075 | 19.0891 | 19.8457 | 20.5199 | 19.8188
520076 | 16.5072 | 17.6088 | 19.5360 | 17.8404
520077 | 15.5427 | 17.7830 | 18.7119 | 17.3266
520078 | 20.5559 | 21.3380 | 20.5439 | 20.8226
520082 | 16.7417 | 17.7405 | * | 17.1848
520083 | 22.5715 | 23.8849 | 23.5787 | 23.3411
520084 | 18.9475 | 20.8427 | 23.3327 | 20.9981
520087 | 19.3942 | 20.3624 | 20.6863 | 20.1537
520088 | 20.1529 | 20.6312 | 21.8931 | 20.8632
520089 | 20.6110 | 21.5456 | 22.1055 | 21.4053
520090 | 18.0026 | 18.9343 | 19.8314 | 18.9411
520091 | 20.0693 | 20.9927 | 20.9440 | 20.6686
520092 | 17.5577 | 17.6500 | 18.6248 | 17.9402
520094 | 19.7791 | 20.3611 | 20.6179 | 20.2438
520095 | 18.5066 | 20.3269 | 18.6425 | 19.1370
520096 | 19.2980 | 19.7757 | 20.6668 | 19.9365
520097 | 19.6470 | 20.2354 | 20.8016 | 20.2268
520098 | 20.0289 | 22.3348 | 23.4707 | 21.9054
520100 | 18.3788 | 18.3832 | 19.4788 | 18.7419
520101 | 17.8453 | 19.5186 | 19.9875 | 19.1542
520102 | 19.8354 | 20.1898 | 21.0138 | 20.3351
520103 | 21.2324 | 19.4809 | 20.0842 | 20.2050
520107 | 20.5441 | 20.3747 | 21.7907 | 20.8828
520109 | 18.6322 | 19.1303 | 19.7609 | 19.1753
520110 | 20.0319 | 20.4494 | 21.0055 | 20.5065
520111 | 17.2388 | 17.7834 | 17.7673 | 17.6163
520112 | 18.1827 | 19.1797 | 18.5706 | 18.6454
520113 | 20.5925 | 21.1485 | 21.8852 | 21.2341
520114 | 17.3799 | 16.6616 | 17.8476 | 17.2735
520115 | 17.3755 | 18.2980 | 19.2248 | 18.2555
520116 | 18.5698 | 19.8509 | 20.6922 | 19.7165
520117 | 17.4242 | 18.5414 | 18.3963 | 18.1365
520118 | 12.4422 | 4.2326 | 14.8626 | 13.8369
520120 | 15.6205 | 18.7437 | * | 17.3887
520121 | 17.5851 | 19.7305 | 20.8492 | 19.5992
520122 | 16.7552 | 16.2436 | 16.9335 | 16.6326
520123 | 17.4135 | 17.3980 | 17.7986 | 17.5610
520124 | 16.3902 | 17.2619 | 17.9205 | 17.1864
520130 | 15.1639 | 15.6845 | 17.1679 | 16.0030
520131 | 18.8043 | 18.7295 | 20.2591 | 19.2549
520132 | 17.2759 | 15.6379 | 18.1630 | 16.9564
520134 | 17.6094 | 18.0953 | 18.8150 | 18.1846
520135 | 14.4748 | 15.8246 | 17.3476 | 15.9083
520136 | 19.9935 | 19.8480 | 20.4404 | 20.0986
520138 | 20.8922 | 21.2260 | 22.5103 | 21.5421
520139 | 21.2797 | 20.9988 | 21.4042 | 21.2251
520140 | 21.4175 | 21.5207 | 22.0849 | 21.6757
520141 | 16.9543 | * | * | 16.9543
520142 | 17.7003 | 20.5858 | 21.9432 | 19.9586
520144 | 16.6231 | 18.5701 | 19.9120 | 18.4107
520145 | 17.2356 | 18.2654 | 18.7958 | 18.1015
520146 | 15.7318 | 17.9585 | 18.2370 | 17.3448
520148 | 16.9293 | 17.2421 | 19.1502 | 17.8057
520149 | 13.3032 | 14.1901 | 12.8928 | 13.4360
520151 | 18.0771 | 17.3267 | 18.7070 | 18.0230
520152 | 21.3333 | 19.5858 | 22.5980 | 21.0747
520153 | 15.4467 | 15.9753 | 17.0863 | 16.1441
520154 | 17.9229 | 18.5403 | 19.5994 | 18.6875
520156 | 19.8396 | 21.3377 | 20.9638 | 20.7243
520157 | 17.2784 | 17.1974 | 19.6008 | 18.0185
520159 | 18.7423 | 18.6760 | 17.7649 | 18.3871
520160 | 18.8444 | 19.4173 | 20.1406 | 19.4824
520161 | 18.5742 | 19.4905 | 18.7197 | 18.9334
520170 | 22.5033 | 21.5233 | 21.0637 | 21.6831
520171 | 15.7316 | 17.4560 | 18.0785 | 17.1053
520173 | 20.1410 | 21.3016 | 20.5744 | 20.6635
520177 | 21.7609 | 22.7221 | 22.9673 | 22.4954
520178 | 17.0411 | 18.6936 | 20.9010 | 18.7748
520188 | * | 13.9135 | * | 13.9135
530002 | 17.5888 | 19.3273 | 21.1066 | 19.4048
530003 | 15.7813 | 16.2139 | 15.9523 | 15.9820
530004 | 16.1862 | 15.0497 | 13.3788 | 14.7758
530005 | 15.1487 | 13.3529 | 15.3255 | 14.5529
530006 | 19.3403 | 18.5894 | 19.1305 | 19.0082
530007 | 18.0601 | 18.5161 | 17.7897 | 18.1450
530008 | 22.9625 | 18.8349 | 19.0113 | 20.0471
530009 | 19.4478 | 22.5009 | 21.7795 | 21.2113
530010 | 18.9317 | 21.6092 | 14.1699 | 17.7467
530011 | 17.4412 | 18.7354 | 19.4606 | 18.5542
530012 | 19.4829 | 18.9923 | 21.1854 | 19.8564
530014 | 17.3158 | 18.0869 | 18.5571 | 17.9899
530015 | 22.6465 | 22.4568 | 23.4040 | 22.8118
530016 | 17.7084 | 18.1562 | 19.3205 | 18.4153
530017 | 13.7131 | 16.3478 | 17.7736 | 15.9421
530018 | 17.8699 | 18.3783 | 19.5986 | 18.6254
530019 | 16.7630 | 18.5430 | 20.1097 | 18.3351
530022 | 17.8781 | 18.5002 | 19.6136 | 18.7082
530023 | 20.7527 | 20.1948 | 20.0677 | 20.3449
530025 | 20.3200 | 21.2598 | 22.0300 | 21.1974
530026 | 18.9175 | 17.0118 | 19.8969 | 18.4992
530027 | 29.7722 | 18.1664 | 25.5067 | 22.9705
530029 | 17.7993 | 16.5092 | 19.3361 | 17.7626
530031 | 13.3775 | 18.3322 | 20.1734 | 17.2600
530032 | 20.2143 | 21.0361 | 20.0132 | 20.4281
* Wage data not available for the provider that year.
** For Federal Fiscal Year 2002 only, the average hourly wage is based upon data on file as of February 15, 2001. It does not reflect changes processed after that date.
*** The 3-year average hourly wage is weighted by salaries and hours.

Table 3A.—3-Year Average Hourly Wage for Urban Areas
[Based on salaries and hours computed for Federal fiscal years 2000, 2001, and 2002]
Urban area | Average hourly wage
Abilene, TX | 17.6806
Aguadilla, PR | 9.2769
Akron, OH | 21.5297
Albany, GA | 22.3923
Albany-Schenectady-Troy, NY | 18.7002
Albuquerque, NM | 19.8373
Alexandria, LA | 17.4211
Allentown-Bethlehem-Easton, PA | 21.3670
Altoona, PA | 20.1636
Amarillo, TX | 18.6302
Anchorage, AK | 27.5223
Ann Arbor, MI | 24.5218
Anniston, AL | 18.1347
Appleton-Oshkosh-Neenah, WI | 19.6303
Arecibo, PR | 10.1229
Asheville, NC | 19.9864
Athens, GA | 21.2433
Atlanta, GA | 21.9106
Atlantic-Cape May, NJ | 24.4342
Auburn-Opelika, AL | 17.4403
Augusta-Aiken, GA-SC | 20.3525
Austin-San Marcos, TX | 20.2151
Bakersfield, CA | 20.7098
Baltimore, MD | 20.9279
Bangor, ME | 20.7547
Barnstable-Yarmouth, MA | 29.3802
Baton Rouge, LA | 18.6271
Beaumont-Port Arthur, TX | 18.6898
Bellingham, WA | 25.1714
Benton Harbor, MI | 18.7937
Bergen-Passaic, NJ | 25.5796
Billings, MT | 21.1153
Biloxi-Gulfport-Pascagoula, MS | 17.8351
Binghamton, NY | 18.8043
Birmingham, AL | 18.8368
Bismarck, ND | 16.8910
Bloomington, IN | 18.7924
Bloomington-Normal, IL | 19.1663
Boise City, ID | 19.6729
Boston-Worcester-Lawrence-Lowell-Brockton, MA-NH | 24.5501
Boulder-Longmont, CO | 21.3227
Brazoria, TX | 18.3793
Bremerton, WA | 23.7403
Brownsville-Harlingen-San Benito, TX | 19.2833
Bryan-College Station, TX | 18.7394
Buffalo-Niagara Falls, NY | 20.6480
Burlington, VT | 22.4607
Caguas, PR | 10.2778
Canton-Massillon, OH | 19.0700
Casper, WY | 19.8564
Cedar Rapids, IA | 19.1268
Champaign-Urbana, IL | 19.9316
Charleston-North Charleston, SC | 19.7508
Charleston, WV | 20.0108
Charlotte-Gastonia-Rock Hill, NC-SC | 20.3826
Charlottesville, VA | 23.1481
Chattanooga, TN-GA | 20.9509
Cheyenne, WY | 17.9899
Chicago, IL | 23.8495
Chico-Paradise, CA | 21.8173
Cincinnati, OH-KY-IN | 20.5080
Clarksville-Hopkinsville, TN-KY | 17.8563
Cleveland-Lorain-Elyria, OH | 20.7803
Colorado Springs, CO | 20.7284
Columbia, MO | 19.2453
Columbia, SC | 20.5806
Columbus, GA-AL | 18.4599
Columbus, OH | 21.1200
Corpus Christi, TX | 18.5130
Corvallis, OR | 24.7413
Cumberland, MD-WV | 18.4566
Dallas, TX | 20.9635
Danville, VA | 18.9744
Davenport-Moline-Rock Island, IA-IL | 19.0733
Dayton-Springfield, OH | 20.3789
Daytona Beach, FL | 19.7030
Decatur, AL | 18.8129
Decatur, IL | 17.6940
Denver, CO | 22.1471
Des Moines, IA | 19.3257
Detroit, MI | 22.6805
Dothan, AL | 17.1181
Dover, DE | 21.6106
Dubuque, IA | 18.6795
Duluth-Superior, MN-WI | 22.1000
Dutchess County, NY | 22.7121
Eau Claire, WI | 19.2432
El Paso, TX | 19.8290
Elkhart-Goshen, IN | 20.3382
Elmira, NY | 18.4943
Enid, OK | 18.0515
Erie, PA | 19.4310
Eugene-Springfield, OR | 23.8559
Evansville, Henderson, IN-KY | 17.5189
Fargo-Moorhead, ND-MN | 19.3632
Fayetteville, NC | 19.0183
Fayetteville-Springdale-Rogers, AR | 16.7888
Flagstaff, AZ-UT | 22.9479
Flint, MI | 23.9198
Florence, AL | 16.9094
Florence, SC | 18.9644
Fort Collins-Loveland, CO | 22.4773
Fort Lauderdale, FL | 22.1771
Fort Myers-Cape Coral, FL | 19.9058
Fort Pierce-Port St. Lucie, FL | 21.3915
Fort Smith, AR-OK | 17.3369
Fort Walton Beach, FL | 19.5052
Fort Wayne, IN | 19.4642
Fort Worth-Arlington, TX | 20.8053
Fresno, CA | 21.9101
Gadsden, AL | 18.7282
Gainesville, FL | 23.1249
Galveston-Texas City, TX | 21.5574
Gary, IN | 20.5266
Glens Falls, NY | 18.3428
Goldsboro, NC | 18.4900
Grand Forks, ND-MN | 19.5346
Grand Junction, CO | 20.1153
Grand Rapids-Muskegon-Holland, MI | 22.0624
Great Falls, MT | 20.7979
Greeley, CO | 21.0411
Green Bay, WI | 19.9641
Greensboro-Winston-Salem-High Point, NC | 20.0548
Greenville, NC | 20.8376
Greenville-Spartanburg-Anderson, SC | 19.7086
Hagerstown, MD | 19.2372
Hamilton-Middletown, OH | 19.7210
Harrisburg-Lebanon-Carlisle, PA | 20.6541
Hartford, CT | 24.9991
Hattiesburg, MS | 16.3812
Hickory-Morganton-Lenoir, NC | 19.9779
Honolulu, HI | 25.2556
Houma, LA | 17.3111
Houston, TX | 20.7505
Huntington-Ashland, WV-KY-OH | 21.1928
Huntsville, AL | 19.2325
Indianapolis, IN | 21.1949
Iowa City, IA | 21.1012
Jackson, MI | 19.7797
Jackson, MS | 18.6455
Jackson, TN | 19.1864
Jacksonville, FL | 19.6584
Jacksonville, NC | 16.8680
Jamestown, NY | 17.1876
Janesville-Beloit, WI | 20.9802
Jersey City, NJ | 24.8343
Johnson City-Kingsport-Bristol, TN-VA | 18.5293
Johnstown, PA | 19.0781
Jonesboro, AR | 16.9923
Joplin, MO | 17.7354
Kalamazoo-Battlecreek, MI | 22.4822
Kankakee, IL | 20.0356
Kansas City, KS-MO | 20.4279
Kenosha, WI | 20.4490
Killeen-Temple, TX | 19.9750
Knoxville, TN | 19.0855
Kokomo, IN | 19.9881
La Crosse, WI-MN | 19.8516
Lafayette, LA | 18.3710
Lafayette, IN | 19.3581
Lake Charles, LA | 16.7150
Lakeland-Winter Haven, FL | 19.6666
Lancaster, PA | 20.1757
Lansing-East Lansing, MI | 21.3476
Laredo, TX | 17.5925
Las Cruces, NM | 18.7690
Las Vegas, NV-AZ | 24.0639
Lawrence, KS | 18.1884
Lawton, OK | 19.7127
Lewiston-Auburn, ME | 19.7957
Lexington, KY | 18.9597
Lima, OH | 20.0697
Lincoln, NE | 21.3984
Little Rock-North Little Rock, AR | 19.2004
Longview-Marshall, TX | 18.7809
Los Angeles-Long Beach, CA | 26.0786
Louisville, KY-IN | 20.4511
Lubbock, TX | 18.6166
Lynchburg, VA | 19.4241
Macon, GA | 19.2084
Madison, WI | 21.9843
Mansfield, OH | 18.7455
Mayaguez, PR | 10.2295
McAllen-Edinburg-Mission, TX | 18.1641
Medford-Ashland, OR | 22.6022
Melbourne-Titusville-Palm Bay, FL | 20.8444
Memphis, TN-AR-MS | 19.0229
Merced, CA | 21.5061
Miami, FL | 21.8283
Middlesex-Somerset-Hunterdon, NJ | 24.6509
Milwaukee-Waukesha, WI | 21.3110
Minneapolis-St. Paul, MN-WI | 23.8021
Missoula, MT | 20.0852
Mobile, AL | 17.4552
Modesto, CA | 22.6578
Monmouth-Ocean, NJ | 24.1662
Monroe, LA | 18.0030
Montgomery, AL | 16.5093
Muncie, IN | 22.6571
Myrtle Beach, SC | 18.6825
Naples, FL | 20.9923
Nashville, TN | 20.6183
Nassau-Suffolk, NY | 30.2198
New Haven-Bridgeport-Stamford-Waterbury-Danbury, CT | 26.6547
New London-Norwich, CT | 26.0295
New Orleans, LA | 19.8085
New York, NY | 31.0941
Newark, NJ | 25.6043
Newburgh, NY-PA | 23.8506
Norfolk-Virginia Beach-Newport News, VA-NC | 18.4034
Oakland, CA | 32.8350
Ocala, FL | 20.5545
Odessa-Midland, TX | 19.5695
Oklahoma City, OK | 18.8746
Olympia, WA | 23.8947
Omaha, NE-IA | 21.4322
Orange County, CA | 24.7717
Orlando, FL | 20.8479
Owensboro, KY | 17.7880
Panama City, FL | 19.7652
Parkersburg-Marietta, WV-OH | 17.9669
Pensacola, FL | 18.0417
Peoria-Pekin, IL | 18.6783
Philadelphia, PA-NJ | 23.6329
Phoenix-Mesa, AZ | 20.7971
Pine Bluff, AR | 16.8497
Pittsburgh, PA | 20.9887
Pittsfield, MA | 22.3291
Pocatello, ID | 19.9570
Ponce, PR | 11.0089
Portland, ME | 20.7444
Portland-Vancouver, OR-WA | 23.9502
Providence-Warwick, RI | 23.3619
Provo-Orem, UT | 21.5657
Pueblo, CO | 19.0481
Punta Gorda, FL | 20.1726
Racine, WI | 20.1696
Raleigh-Durham-Chapel Hill, NC | 21.0052
Rapid City, SD | 18.9541
Reading, PA | 17.8899
Redding, CA | 24.6813
Reno, NV | 22.8615
Richland-Kennewick-Pasco, WA | 24.4034
Richmond-Petersburg, VA | 20.8459
Riverside-San Bernardino, CA | 24.1711
Roanoke, VA | 18.3527
Rochester, MN | 24.8162
Rochester, NY | 19.9290
Rockford, IL | 19.3616
Rocky Mount, NC | 19.3552
Sacramento, CA | 26.0254
Saginaw-Bay City-Midland, MI | 20.6078
St. Cloud, MN | 21.3050
St. Joseph, MO | 19.6144
St. Louis, MO-IL | 19.5920
Salem, OR | 21.8859
Salinas, CA | 31.8419
Salt Lake City-Ogden, UT | 21.4139
San Angelo, TX | 17.4362
San Antonio, TX | 18.2088
San Diego, CA | 25.4124
San Francisco, CA | 30.6978
San Jose, CA | 29.9903
San Juan-Bayamon, PR | 10.2202
San Luis Obispo-Atascadero-Paso Robles, CA | 23.3041
Santa Barbara-Santa Maria-Lompoc, CA | 23.3594
Santa Cruz-Watsonville, CA | 30.3548
Santa Fe, NM | 22.5866
Santa Rosa, CA | 27.7113
Sarasota-Bradenton, FL | 21.5493
Savannah, GA | 20.9278
Scranton-Wilkes Barre-Hazleton, PA | 17.9530
Seattle-Bellevue-Everett, WA | 24.0679
Sharon, PA | 17.4923
Sheboygan, WI | 18.1442
Sherman-Denison, TX | 19.5991
Shreveport-Bossier City, LA | 19.4652
Sioux City, IA-NE | 18.6963
Sioux Falls, SD | 19.3356
South Bend, IN | 21.7219
Spokane, WA | 23.1813
Springfield, IL | 18.6860
Springfield, MO | 18.1563
Springfield, MA | 23.1451
State College, PA | 19.7984
Steubenville-Weirton, OH-WV | 18.6797
Stockton-Lodi, CA | 23.2294
Sumter, SC | 17.6174
Syracuse, NY | 20.3619
Tacoma, WA | 25.1530
Tallahassee, FL | 18.3753
Tampa-St. Petersburg-Clearwater, FL | 19.5103
Terre Haute, IN | 18.3195
Texarkana, AR-Texarkana, TX | 17.9743
Toledo, OH | 21.2747
Topeka, KS | 19.8271
Trenton, NJ | 21.9528
Tucson, AZ | 19.1755
Tulsa, OK | 18.4006
Tuscaloosa, AL | 17.6510
Tyler, TX | 20.1434
Utica-Rome, NY | 18.2674
Vallejo-Fairfield-Napa, CA | 28.6820
Ventura, CA | 24.2443
Victoria, TX | 17.9789
Vineland-Millville-Bridgeton, NJ | 22.7446
Visalia-Tulare-Porterville, CA | 21.3962
Waco, TX | 17.7862
Washington, DC-MD-VA-WV | 23.8268
Waterloo-Cedar Falls, IA | 18.0820
Wausau, WI | 20.4556
West Palm Beach-Boca Raton, FL | 21.2892
Wheeling, OH-WV | 16.9419
Wichita, KS | 20.5727
Wichita Falls, TX | 16.8194
Williamsport, PA | 18.2904
Wilmington-Newark, DE-MD | 23.9928
Wilmington, NC | 20.9815
Yakima, WA | 22.3174
Yolo, CA | 21.5151
York, PA | 18.9397
Youngstown-Warren, OH | 20.9566
Yuba City, CA | 23.0076
Yuma, AZ | 20.4298

Table 3B.—3-Year Average Hourly Wage for Rural Areas
[Based on salaries and hours computed for Federal fiscal years 2000, 2001, and 2002]
Nonurban area | Average hourly wage
Alabama | 16.1119
Alaska | 26.3477
Arizona | 18.5108
Arkansas | 16.0724
California | 21.4448
Colorado | 19.2806
Connecticut | 26.3210
Delaware | 20.0732
Florida | 19.2209
Georgia | 17.8809
Hawaii | 23.8315
Idaho | 18.9021
Illinois | 17.5886
Indiana | 18.6071
Iowa | 17.4515
Kansas | 16.5492
Kentucky | 17.3334
Louisiana | 16.4052
Maine | 18.8730
Maryland | 18.9527
Massachusetts | 24.6681
Michigan | 19.4455
Minnesota | 19.2586
Mississippi | 16.1955
Missouri | 16.7949
Montana | 18.5783
Nebraska | 17.6014
Nevada | 20.3129
New Hampshire | 21.4174
New Jersey ¹ |
New Mexico | 18.5917
New York | 18.5351
North Carolina | 18.3321
North Dakota | 16.8478
Ohio | 18.8435
Oklahoma | 16.1793
Oregon | 21.7904
Pennsylvania | 18.4680
Puerto Rico | 9.5092
Rhode Island ¹ |
South Carolina | 18.2462
South Dakota | 16.6515
Tennessee | 16.8980
Texas | 16.3672
Utah | 19.5943
Vermont | 20.4055
Virginia | 17.7547
Washington | 22.5228
West Virginia | 17.6572
Wisconsin | 19.3313
Wyoming | 19.1675
¹ All counties within the State are classified as urban.

Table 4A.—Wage Index and Capital Geographic Adjustment Factor (GAF) for Urban Areas
Urban area (Constituent counties) | Wage index | GAF
0040 Abilene, TX | 0.8118 | 0.8669
Taylor, TX
0060 Aguadilla, PR | 0.4738 | 0.5996
Aguada, PR
Aguadilla, PR
Moca, PR
0080 Akron, OH | 0.9924 | 0.9948
Portage, OH
Summit, OH
0120 Albany, GA | 1.0675 | 1.0457
Dougherty, GA
Lee, GA
0160 Albany-Schenectady-Troy, NY | 0.8597 | 0.9017
Albany, NY
Montgomery, NY
Rensselaer, NY
Saratoga, NY
Schenectady, NY
Schoharie, NY
0200 Albuquerque, NM | 0.9855 | 0.9900
Bernalillo, NM
Sandoval, NM
Valencia, NM
0220 Alexandria, LA | 0.8137 | 0.8683
Rapides, LA
0240 Allentown-Bethlehem-Easton, PA | 0.9443 | 0.9615
Carbon, PA
Lehigh, PA
Northampton, PA
0280 Altoona, PA | 0.9225 | 0.9463
Blair, PA
0320 Amarillo, TX | 0.8706 | 0.9095
Potter, TX
Randall, TX
0380 Anchorage, AK | 1.2605 | 1.1718
Anchorage, AK
0440 Ann Arbor, MI | 1.1220 | 1.0820
Lenawee, MI
Livingston, MI
Washtenaw, MI
0450 Anniston, AL | 0.8360 | 0.8846
Calhoun, AL
0460 Appleton-Oshkosh-Neenah, WI | 0.9203 | 0.9447
Calumet, WI
Outagamie, WI
Winnebago, WI
0470 Arecibo, PR | 0.4683 | 0.5948
Arecibo, PR
Camuy, PR
Hatillo, PR
0480 Asheville, NC | 0.9307 | 0.9520
Buncombe, NC
Madison, NC
0500 Athens, GA | 0.9956 | 0.9970
Clarke, GA
Madison, GA
Oconee, GA
0520 ¹ Atlanta, GA | 1.0176 | 1.0120
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.1349 | 1.0905
Atlantic, NJ
Cape May, NJ
0580 Auburn-Opelika, AL | 0.8325 | 0.8820
Lee, AL
0600 Augusta-Aiken, GA-SC | 1.0090 | 1.0062
Columbia, GA
McDuffie, GA
Richmond, GA
Aiken, SC
Edgefield, SC
0640 ¹ Austin-San Marcos, TX | 0.9327 | 0.9534
Bastrop, TX
Caldwell, TX
Hays, TX
Travis, TX
Williamson, TX
0680 ² Bakersfield, CA | 0.9870 | 0.9911
Kern, CA
0720 ¹ Baltimore, MD | 0.9723 | 0.9809
Anne Arundel, MD
Baltimore, MD
Baltimore City, MD
Carroll, MD
Harford, MD
Howard, MD
Queen Anne's, MD
0733 Bangor, ME | 0.9559 | 0.9696
Penobscot, ME
0743 Barnstable-Yarmouth, MA | 1.3539 | 1.2306
Barnstable, MA
0760 Baton Rouge, LA | 0.8258 | 0.8772
Ascension, LA
East Baton Rouge, LA
Livingston, LA
West Baton Rouge, LA
0840 Beaumont-Port Arthur, TX | 0.8508 | 0.8953
Hardin, TX
Jefferson, TX
Orange, TX
0860 Bellingham, WA | 1.1963 | 1.1306
Whatcom, WA
0870 ² Benton Harbor, MI | 0.9115 | 0.9385
Berrien, MI
0875 ¹ Bergen-Passaic, NJ | 1.1669 | 1.1115
Bergen, NJ
Passaic, NJ
0880 Billings, MT | 0.9623 | 0.9740
Yellowstone, MT
0920 Biloxi-Gulfport-Pascagoula, MS | 0.8538 | 0.8974
Hancock, MS
Harrison, MS
Jackson, MS
0960 Binghamton, NY | 0.8595 | 0.9015
Broome, NY
Tioga, NY
1000 Birmingham, AL | 0.8648 | 0.9053
Blount, AL
Jefferson, AL
St. Clair, AL
Shelby, AL
1010 ² Bismarck, ND | 0.7965 | 0.8557
Burleigh, ND
Morton, ND
1020 ² Bloomington, IN | 0.8757 | 0.9131
Monroe, IN
1040 Bloomington-Normal, IL | 0.8545 | 0.8979
McLean, IL
1080 Boise City, ID | 0.9190 | 0.9438
Ada, ID
Canyon, ID
1123 ¹, ² Boston-Worcester-Lawrence-Lowell-Brockton, MA-NH (MA Hospitals) | 1.1586 | 1.1061
Bristol, MA
Essex, MA
Middlesex, MA
Norfolk, MA
Plymouth, MA
Suffolk, MA
Worcester, MA
Hillsborough, NH
Merrimack, NH
Rockingham, NH
Strafford, NH
1123 ¹ Boston-Worcester-Lawrence-Lowell-Brockton, MA-NH (NH Hospitals) | 1.1483 | 1.0993
Bristol, MA
Essex, MA
Middlesex, MA
Norfolk, MA
Plymouth, MA
Suffolk, MA
Worcester, MA
Hillsborough, NH
Merrimack, NH
Rockingham, NH
Strafford, NH
1125 Boulder-Longmont, CO | 0.9836 | 0.9887
Boulder, CO
1145 Brazoria, TX | 0.8299 | 0.8801
Brazoria, TX
1150 Bremerton, WA | 1.0882 | 1.0596
Kitsap, WA
1240 Brownsville-Harlingen-San Benito, TX | 0.8783 | 0.9150
Cameron, TX
1260 Bryan-College Station, TX | 0.9296 | 0.9512
Brazos, TX
1280 ¹ Buffalo-Niagara Falls, NY | 0.9405 | 0.9589
Erie, NY
Niagara, NY
1303 Burlington, VT | 0.9826 | 0.9881
Chittenden, VT
Franklin, VT
Grand Isle, VT
1310 Caguas, PR | 0.5158 | 0.6355
Caguas, PR
Cayey, PR
Cidra, PR
Gurabo, PR
San Lorenzo, PR
1320 Canton-Massillon, OH | 0.9059 | 0.9346
Carroll, OH
Stark, OH
1350 Casper, WY | 0.9606 | 0.9728
Natrona, WY
1360 Cedar Rapids, IA | 0.8711 | 0.9098
Linn, IA
1400 Champaign-Urbana, IL | 0.9264 | 0.9490
Champaign, IL
1440 Charleston-North Charleston, SC | 0.9293 | 0.9510
Berkeley, SC
Charleston, SC
Dorchester, SC
1480 Charleston, WV | 0.9369 | 0.9563
Kanawha, WV
Putnam, WV
1520 ¹ Charlotte-Gastonia-Rock Hill, NC-SC | 0.9469 | 0.9633
Cabarrus, NC
Gaston, NC
Lincoln, NC
Mecklenburg, NC
Rowan, NC
Stanly, NC
Union, NC
York, SC
1540 Charlottesville, VA | 1.0688 | 1.0466
Albemarle, VA
Charlottesville City, VA
Fluvanna, VA
Greene, VA
1560 Chattanooga, TN-GA | 0.9446 | 0.9617
Catoosa, GA
Dade, GA
Walker, GA
Hamilton, TN
Marion, TN
1580 ² Cheyenne, WY | 0.8855 | 0.9201
Laramie, WY
1600 ¹ Chicago, IL | 1.1011 | 1.0682
Cook, IL
DeKalb, IL
DuPage, IL
Grundy, IL
Kane, IL
Kendall, IL
Lake, IL
McHenry, IL
Will, IL
1620 Chico-Paradise, CA | 0.9909 | 0.9938
Butte, CA
1640 ¹ Cincinnati, OH-KY-IN | 0.9574 | 0.9706
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8481 | 0.8933
Christian, KY
Montgomery, TN
1680 ¹ Cleveland-Lorain-Elyria, OH | 0.9496 | 0.9652
Ashtabula, OH
Cuyahoga, OH
Geauga, OH
Lake, OH
Lorain, OH
Medina, OH
1720 Colorado Springs, CO | 0.9754 | 0.9831
El Paso, CO
1740 Columbia, MO | 0.8787 | 0.9153
Boone, MO
1760 Columbia, SC | 0.9589 | 0.9717
Lexington, SC
Richland, SC
1800 Columbus, GA-AL | 0.8471 | 0.8926
Russell, AL
Chattahoochee, GA
Harris, GA
Muscogee, GA
1840 ¹ Columbus, OH | 0.9724 | 0.9810
Delaware, OH
Fairfield, OH
Franklin, OH
Licking, OH
Madison, OH
Pickaway, OH
1880 Corpus Christi, TX | 0.8203 | 0.8731
Nueces, TX
San Patricio, TX
1890 Corvallis, OR | 1.1781 | 1.1188
Benton, OR
1900 ² Cumberland, MD-WV (MD Hospitals) | 0.8962 | 0.9277
Allegany, MD
Mineral, WV
1900 Cumberland, MD-WV (WV Hospital) | 0.8402 | 0.8876
Allegany, MD
Mineral, WV
1920 ¹ Dallas, TX | 0.9506 | 0.9659
Collin, TX
Dallas, TX
Denton, TX
Ellis, TX
Henderson, TX
Hunt, TX
Kaufman, TX
Rockwall, TX
1950 Danville, VA | 0.8641 | 0.9048
Danville City, VA
Pittsylvania, VA
1960 Davenport-Moline-Rock Island, IA-IL | 0.8790 | 0.9155
Scott, IA
Henry, IL
Rock Island, IL
2000 Dayton-Springfield, OH | 0.9323 | 0.9531
Clark, OH
Greene, OH
Miami, OH
Montgomery, OH
2020 Daytona Beach, FL | 0.9069 | 0.9353
Flagler, FL
Volusia, FL
2030 Decatur, AL | 0.8817 | 0.9174
Lawrence, AL
Morgan, AL
2040 ² Decatur, IL | 0.8140 | 0.8686
Macon, IL
2080 ¹ Denver, CO | 1.0289 | 1.0197
Adams, CO
Arapahoe, CO
Denver, CO
Douglas, CO
Jefferson, CO
2120 Des Moines, IA | 0.8881 | 0.9219
Dallas, IA
Polk, IA
Warren, IA
2160 ¹ Detroit, MI | 1.0478 | 1.0325
Lapeer, MI
Macomb, MI
Monroe, MI
Oakland, MI
St. Clair, MI
Wayne, MI
2180 Dothan, AL | 0.8005 | 0.8587
Dale, AL
Houston, AL
2190 Dover, DE | 1.0453 | 1.0308
Kent, DE
2200 Dubuque, IA | 0.8617 | 0.9031
Dubuque, IA
2240 Duluth-Superior, MN-WI | 1.0401 | 1.0273
St. Louis, MN
Douglas, WI
2281 Dutchess County, NY | 1.0639 | 1.0433
Dutchess, NY
2290 ² Eau Claire, WI | 0.9121 | 0.9389
Chippewa, WI
Eau Claire, WI
2320 El Paso, TX | 0.9162 | 0.9418
El Paso, TX
2330 Elkhart-Goshen, IN | 0.9646 | 0.9756
Elkhart, IN
2335 Elmira, NY | 0.8530 | 0.8968
Chemung, NY
2340 Enid, OK | 0.8454 | 0.8914
Garfield, OK
2360 Erie, PA | 0.8911 | 0.9241
Erie, PA
2400 Eugene-Springfield, OR | 1.1485 | 1.0995
Lane, OR
2440 ² Evansville-Henderson, IN-KY (IN Hospitals) | 0.8757 | 0.9131
Posey, IN
Vanderburgh, IN
Warrick, IN
Henderson, KY
2440 ² Evansville-Henderson, IN-KY (KY Hospitals) | 0.8019 | 0.8597
Posey, IN
Vanderburgh, IN
Warrick, IN
Henderson, KY
2520 Fargo-Moorhead, ND-MN | 0.9374 | 0.9567
Clay, MN
Cass, ND
2560 Fayetteville, NC | 0.9132 | 0.9397
Cumberland, NC
2580 Fayetteville-Springdale-Rogers, AR | 0.7587 | 0.8277
Benton, AR
Washington, AR
2620 Flagstaff, AZ-UT | 1.0678 | 1.0459
Coconino, AZ
Kane, UT
2640 Flint, MI | 1.0920 | 1.0621
Genesee, MI
2650 Florence, AL | 0.7927 | 0.8529
Colbert, AL
Lauderdale, AL
2655 Florence, SC | 0.8843 | 0.9192
Florence, SC
2670 Fort Collins-Loveland, CO | 1.0161 | 1.0110
Larimer, CO
2680 ¹ Ft. Lauderdale, FL | 1.0906 | 1.0612
Broward, FL
2700 Fort Myers-Cape Coral, FL | 0.9380 | 0.9571
Lee, FL
2710 Fort Pierce-Port St. Lucie, FL | 1.0067 | 1.0046
Martin, FL
St. Lucie, FL
2720 Fort Smith, AR-OK | 0.8076 | 0.8639
Crawford, AR
Sebastian, AR
Sequoyah, OK
2750 ² Fort Walton Beach, FL | 0.8733 | 0.9114
Okaloosa, FL
2760 Fort Wayne, IN | 0.9186 | 0.9435
Adams, IN
Allen, IN
De Kalb, IN
Huntington, IN
Wells, IN
Whitley, IN
2800 ¹ Forth Worth-Arlington, TX | 0.9452 | 0.9621
Hood, TX
Johnson, TX
Parker, TX
Tarrant, TX
2840 Fresno, CA | 0.9972 | 0.9981
Fresno, CA
Madera, CA
2880 Gadsden, AL | 0.8845 | 0.9194
Etowah, AL
2900 Gainesville, FL | 1.2133 | 1.1416
Alachua, FL
2920 Galveston-Texas City, TX | 1.0271 | 1.0185
Galveston, TX
2960 Gary, IN | 0.9571 | 0.9704
Lake, IN
Porter, IN
2975 ² Glens Falls, NY | 0.8530 | 0.8968
Warren, NY
Washington, NY
2980 Goldsboro, NC | 0.8810 | 0.9169
Wayne, NC
2985 Grand Forks, ND-MN | 0.9173 | 0.9426
Polk, MN
Grand Forks, ND
2995 Grand Junction, CO | 0.9816 | 0.9874
Mesa, CO
3000 ¹ Grand Rapids-Muskegon-Holland, MI | 1.0161 | 1.0110
Allegan, MI
Kent, MI
Muskegon, MI
Ottawa, MI
3040 Great Falls, MT | 0.9301 | 0.9516
Cascade, MT
3060 Greeley, CO | 0.9604 | 0.9727
Weld, CO
3080 Green Bay, WI | 0.9440 | 0.9613
Brown, WI
3120 ¹ Greensboro-Winston-Salem-High Point, NC | 0.9616 | 0.9735
Alamance, NC
Davidson, NC
Davie, NC
Forsyth, NC
Guilford, NC
Randolph, NC
Stokes, NC
Yadkin, NC
3150 Greenville, NC | 0.9963 | 0.9975
Pitt, NC
3160 Greenville-Spartanburg-Anderson, SC | 0.9110 | 0.9382
Anderson, SC
Cherokee, SC
Greenville, SC
Pickens, SC
Spartanburg, SC
3180 ² Hagerstown, MD | 0.8962 | 0.9277
Washington, MD
3200 Hamilton-Middletown, OH | 0.9269 | 0.9493
Butler, OH
3240 Harrisburg-Lebanon-Carlisle, PA | 0.9311 | 0.9523
Cumberland, PA
Dauphin, PA
Lebanon, PA
Perry, PA
3283 ¹, ² Hartford, CT | 1.2357 | 1.1560
Hartford, CT
Litchfield, CT
Middlesex, CT
Tolland, CT
3285 ² Hattiesburg, MS | 0.7612 | 0.8296
Forrest, MS
Lamar, MS
3290 Hickory-Morganton-Lenoir, NC | 0.9517 | 0.9667
Alexander, NC
Burke, NC
Caldwell, NC
Catawba, NC
3320 Honolulu, HI | 1.1658 | 1.1108
Honolulu, HI
3350 Houma, LA | 0.8043 | 0.8615
Lafourche, LA
Terrebonne, LA
3360 ¹ Houston, TX | 0.9604 | 0.9727
Chambers, TX
Fort Bend, TX
Harris, TX
Liberty, TX
Montgomery, TX
Waller, TX
3400 Huntington-Ashland, WV-KY-OH | 0.9700 | 0.9794
Boyd, KY
Carter, KY
Greenup, KY
Lawrence, OH
Cabell, WV
Wayne, WV
3440 Huntsville, AL | 0.8854 | 0.9200
Limestone, AL
Madison, AL
3480 ¹ Indianapolis, IN | 0.9771 | 0.9843
Boone, IN
Hamilton, IN
Hancock, IN
Hendricks, IN
Johnson, IN
Madison, IN
Marion, IN
Morgan, IN
Shelby, IN
3500 Iowa City, IA | 0.9973 | 0.9982
Johnson, IA
3520 Jackson, MI | 0.9387 | 0.9576
Jackson, MI
3560 Jackson, MS | 0.8589 | 0.9011
Hinds, MS
Madison, MS
Rankin, MS
3580 Jackson, TN | 0.9117 | 0.9387
Madison, TN
Chester, TN
3600 ¹ Jacksonville, FL | 0.9040 | 0.9332
Clay, FL
Duval, FL
Nassau, FL
St. Johns, FL
3605 ² Jacksonville, NC | 0.8632 | 0.9042
Onslow, NC
3610 ² Jamestown, NY | 0.8530 | 0.8968
Chautauqua, NY
3620 Janesville-Beloit, WI | 0.9840 | 0.9890
Rock, WI
3640 Jersey City, NJ | 1.1216 | 1.0818
Hudson, NJ
3660 Johnson City-Kingsport-Bristol, TN-VA | 0.8540 | 0.8976
Carter, TN
Hawkins, TN
Sullivan, TN
Unicoi, TN
Washington, TN
Bristol City, VA
Scott, VA
Washington, VA
3680 Johnstown, PA | 0.8959 | 0.9275
Cambria, PA
Somerset, PA
3700 Jonesboro, AR | 0.8523 | 0.8963
Craighead, AR
3710 Joplin, MO | 0.8736 | 0.9116
Jasper, MO
Newton, MO
3720 Kalamazoo-Battlecreek, MI | 1.0696 | 1.0472
Calhoun, MI
Kalamazoo, MI
Van Buren, MI
3740 Kankakee, IL | 0.9268 | 0.9493
Kankakee, IL
3760 ¹ Kansas City, KS-MO | 0.9430 | 0.9606
Johnson, KS
Leavenworth, KS
Miami, KS
Wyandotte, KS
Cass, MO
Clay, MO
Clinton, MO
Jackson, MO
Lafayette, MO
Platte, MO
Ray, MO
3800 Kenosha, WI | 0.9678 | 0.9778
Kenosha, WI
3810 ² Killeen-Temple, TX | 0.7673 | 0.8341
Bell, TX
Coryell, TX
3840 Knoxville, TN | 0.8904 | 0.9236
Anderson, TN
Blount, TN
Knox, TN
Loudon, TN
Sevier, TN
Union, TN
3850 Kokomo, IN | 0.9290 | 0.9508
Howard, IN
Tipton, IN
3870 La Crosse, WI-MN | 0.9328 | 0.9535
Houston, MN
La Crosse, WI
3880 Lafayette, LA | 0.8600 | 0.9019
Acadia, LA
Lafayette, LA
St. Landry, LA
St. Martin, LA
3920 Lafayette, IN | 0.9165 | 0.9420
Clinton, IN
Tippecanoe, IN
3960 Lake Charles, LA | 0.7810 | 0.8443
Calcasieu, LA
3980 Lakeland-Winter Haven, FL | 0.9167 | 0.9422
Polk, FL
4000 Lancaster, PA | 0.9413 | 0.9594
Lancaster, PA
4040 Lansing-East Lansing, MI | 0.9653 | 0.9761
Clinton, MI
Eaton, MI
Ingham, MI
4080 Laredo, TX | 0.7877 | 0.8492
Webb, TX
4100 ² Las Cruces, NM | 0.8835 | 0.9187
Dona Ana, NM
4120 ¹ Las Vegas, NV-AZ | 1.1238 | 1.0832
Mohave, AZ
Clark, NV
Nye, NV
4150 Lawrence, KS | 0.8756 | 0.9130
Douglas, KS
4200 Lawton, OK | 0.8783 | 0.9150
Comanche, OK
4243 Lewiston-Auburn, ME | 0.9451 | 0.9621
Androscoggin, ME
4280 Lexington, KY | 0.8850 | 0.9197
Bourbon, KY
Clark, KY
Fayette, KY
Jessamine, KY
Madison, KY
Scott, KY
Woodford, KY
4320 Lima, OH | 0.9558 | 0.9695
Allen, OH
Auglaize, OH
4360 Lincoln, NE | 1.0272 | 1.0185
Lancaster, NE
4400 Little Rock-North Little Rock, AR | 0.9053 | 0.9341
Faulkner, AR
Lonoke, AR
Pulaski, AR
Saline, AR
4420 Longview-Marshall, TX | 0.8439 | 0.8903
Gregg, TX
Harrison, TX
Upshur, TX
4480 ¹ Los Angeles-Long Beach, CA | 1.2071 | 1.1376
Los Angeles, CA
4520 ¹ Louisville, KY-IN | 0.9596 | 0.9722
Clark, IN
Floyd, IN
Harrison, IN
Scott, IN
Bullitt, KY
Jefferson, KY
Oldham, KY
4600 Lubbock, TX | 0.8547 | 0.8981
Lubbock, TX
4640 Lynchburg, VA | 0.9208 | 0.9451
Amherst, VA
Bedford, VA
Bedford City, VA
Campbell, VA
Lynchburg City, VA
4680 Macon, GA | 0.9077 | 0.9358
Bibb, GA
Houston, GA
Jones, GA
Peach, GA
Twiggs, GA
4720 Madison, WI | 1.0462 | 1.0314
Dane, WI
4800 Mansfield, OH | 0.8827 | 0.9181
Crawford, OH
Richland, OH
4840 Mayaguez, PR | 0.4917 | 0.6150
Anasco, PR
Cabo Rojo, PR
Hormigueros, PR
Mayaguez, PR
Sabana Grande, PR
San German, PR
4880 McAllen-Edinburg-Mission, TX | 0.8433 | 0.8898
Hidalgo, TX
4890 Medford-Ashland, OR | 1.0433 | 1.0295
Jackson, OR
4900 Melbourne-Titusville-Palm Bay, FL | 0.9883 | 0.9920
Brevard, Fl
4920 ¹ Memphis, TN-AR-MS | 0.9435 | 0.9610
Crittenden, AR
DeSoto, MS
Fayette, TN
Shelby, TN
Tipton, TN
4940 Merced, CA | 0.9870 | 0.9911
Merced, CA
5000 ¹ Miami, FL | 0.9934 | 0.9955
Dade, FL
5015 ¹ Middlesex-Somerset-Hunterdon, NJ | 1.1952 | 1.1299
Hunterdon, NJ
Middlesex, NJ
Somerset, NJ
5080 ¹ Milwaukee-Waukesha, WI | 0.9898 | 0.9930
Milwaukee, WI
Ozaukee, WI
Washington, WI
Waukesha, WI
5120 ¹ Minneapolis-St. Paul, MN-WI | 1.1000 | 1.0674
Anoka, MN
Carver, MN
Chisago, MN
Dakota, MN
Hennepin, MN
Isanti, MN
Ramsey, MN
Scott, MN
Sherburne, MN
Washington, MN
Wright, MN
Pierce, WI
St. Croix, WI
5140 Missoula, MT | 0.9453 | 0.9622
Missoula, MT
5160 Mobile, AL | 0.7766 | 0.8410
Baldwin, AL
Mobile, AL
5170 Modesto, CA | 1.0945 | 1.0638
Stanislaus, CA
5190 ¹ Monmouth-Ocean, NJ | 1.1514 | 1.1014
Monmouth, NJ
Ocean, NJ
5200 Monroe, LA | 0.8296 | 0.8799
Ouachita, LA
5240 Montgomery, AL | 0.7502 | 0.8213
Autauga, AL
Elmore, AL
Montgomery, AL
5280 Muncie, IN | 0.9689 | 0.9786
Delaware, IN
5330 Myrtle Beach, SC | 0.8855 | 0.9201
Horry, SC
5345 Naples, FL | 0.9566 | 0.9701
Collier, FL
5360 ¹ Nashville, TN | 0.9602 | 0.9726
Cheatham, TN
Davidson, TN
Dickson, TN
Robertson, TN
Rutherford TN
Sumner, TN
Williamson, TN
Wilson, TN
5380 ¹ Nassau-Suffolk, NY | 1.3841 | 1.2493
Nassau, NY
Suffolk, NY
5483 ¹ ² New Haven-Bridgeport-Stamford-Waterbury-Danbury, CT | 1.2357 | 1.1560
Fairfield, CT
New Haven, CT
5523 ¹² New London-Norwich, CT | 1.2357 | 1.1560
New London, CT
5560 ¹ New Orleans, LA | 0.9054 | 0.9342
Jefferson, LA
Orleans, LA
Plaquemines, LA
St. Bernard, LA
St. Charles, LA
St. James, LA
St. John The Baptist, LA
St. Tammany, LA
5600 ¹ New York, NY | 1.3923 | 1.2544
Bronx, NY
Kings, NY
New York, NY
Putnam, NY
Queens, NY
Richmond, NY
Rockland, NY
Westchester, NY
5640 ¹ Newark, NJ | 1.2004 | 1.1332
Essex, NJ
Morris, NJ
Sussex, NJ
Union, NJ
Warren, NJ
5660 Newburgh, NY-PA | 1.1235 | 1.0830
Orange, NY
Pike, PA
5720 ¹ Norfolk-Virginia Beach-Newport News, VA-NC | 0.8630 | 0.9040
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 ¹ Oakland, CA | 1.5416 | 1.3450
Alameda, CA
Contra Costa, CA
5790 Ocala, FL | 0.9579 | 0.9710
Marion, FL
5800 Odessa-Midland, TX | 0.9017 | 0.9316
Ector, TX
Midland, TX
5880 ¹ Oklahoma City, OK | 0.8728 | 0.9110
Canadian, OK
Cleveland, OK
Logan, OK
McClain, OK
Oklahoma, OK
Pottawatomie, OK
5910 Olympia, WA | 1.1481 | 1.0992
Thurston, WA
5920 Omaha, NE-IA | 0.9696 | 0.9791
Pottawattamie, IA
Cass, NE
Douglas, NE
Sarpy, NE
Washington, NE
5945 ¹ Orange County, CA | 1.1354 | 1.0909
Orange, CA
5960 ¹ Orlando, FL | 0.9464 | 0.9630
Lake, FL
Orange, FL
Osceola, FL
Seminole, FL
5990 Owensboro, KY | 0.8346 | 0.8835
Daviess, KY
6015 Panama City, FL | 0.9166 | 0.9421
Bay, FL
6020 Parkersburg-Marietta, WV-OH (WV Hospitals) | 0.8192 | 0.8723
Washington, OH
Wood, WV
6020 ² Parkersburg-Marietta, WV-OH (OH Hospitals) | 0.8761 | 0.9134
Washington, OH
Wood, WV
6080 ² Pensacola, FL | 0.8733 | 0.9114
Escambia, FL
Santa Rosa, FL
6120 Peoria-Pekin, IL | 0.8883 | 0.9221
Peoria, IL
Tazewell, IL
Woodford, IL
6160 ¹ Philadelphia, PA-NJ | 1.0626 | 1.0425
Burlington, NJ
Camden, NJ
Gloucester, NJ
Salem, NJ
Bucks, PA
Chester, PA
Delaware, PA
Montgomery, PA
Philadelphia, PA
6200 ¹ Phoenix-Mesa, AZ | 0.9654 | 0.9762
Maricopa, AZ
Pinal, AZ
6240 Pine Bluff, AR | 0.7837 | 0.8463
Jefferson, AR
6280 ¹ Pittsburgh, PA | 0.9714 | 0.9803
Allegheny, PA
Beaver, PA
Butler, PA
Fayette, PA
Washington, PA
Westmoreland, PA
6323 ² Pittsfield, MA | 1.1586 | 1.1061
Berkshire, MA
6340 Pocatello, ID | 0.9557 | 0.9694
Bannock, ID
6360 Ponce, PR | 0.5278 | 0.6456
Guayanilla, PR
Juana Diaz, PR
Penuelas, PR
Ponce, PR
Villalba, PR
Yauco, PR
6403 Portland, ME | 0.9501 | 0.9656
Cumberland, ME
Sagadahoc, ME
York, ME
6440 ¹ Portland-Vancouver, OR-WA | 1.1291 | 1.0867
Clackamas, OR
Columbia, OR
Multnomah, OR
Washington, OR
Yamhill, OR
Clark, WA
6483 ¹ Providence-Warwick-Pawtucket, RI | 1.0781 | 1.0528
Bristol, RI
Kent, RI
Newport, RI
Providence, RI
Washington, RI
6520 Provo-Orem, UT | 0.9967 | 0.9977
Utah, UT
6560 ² Pueblo, CO | 0.8909 | 0.9239
Pueblo, CO
6580 Punta Gorda, FL | 0.8818 | 0.9175
Charlotte, FL
6600 Racine, WI | 0.9441 | 0.9614
Racine, WI
6640 ¹ Raleigh-Durham-Chapel Hill, NC | 0.9901 | 0.9932
Chatham, NC
Durham, NC
Franklin, NC
Johnston, NC
Orange, NC
Wake, NC
6660 Rapid City, SD | 0.8971 | 0.9283
Pennington, SD
6680 ² Reading, PA | 0.8473 | 0.8927
Berks, PA
6690 Redding, CA | 1.1222 | 1.0822
Shasta, CA
6720 Reno, NV | 1.0456 | 1.0310
Washoe, NV
6740 Richland-Kennewick-Pasco, WA | 1.1086 | 1.0732
Benton, WA
Franklin, WA
6760 Richmond-Petersburg, VA | 0.9712 | 0.9802
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 ¹ Riverside-San Bernardino, CA | 1.1012 | 1.0682
Riverside, CA
San Bernardino, CA
6800 ² Roanoke, VA | 0.8473 | 0.8927
Botetourt, VA
Roanoke, VA
Roanoke City, VA
Salem City, VA
6820 Rochester, MN | 1.1595 | 1.1067
Olmsted, MN
6840 ¹ Rochester, NY | 0.9238 | 0.9472
Genesee, NY
Livingston, NY
Monroe, NY
Ontario, NY
Orleans, NY
Wayne, NY
6880 Rockford, IL | 0.9194 | 0.9441
Boone, IL
Ogle, IL
Winnebago, IL
6895 Rocky Mount, NC | 0.9197 | 0.9443
Edgecombe, NC
Nash, NC
6920 ¹ Sacramento, CA | 1.1809 | 1.1206
El Dorado, CA
Placer, CA
Sacramento, CA
6960 Saginaw-Bay City-Midland, MI | 0.9662 | 0.9767
Bay, MI
Midland, MI
Saginaw, MI
6980 St. Cloud, MN | 1.0040 | 1.0027
Benton, MN
Stearns, MN
7000 St. Joseph, MO | 0.9113 | 0.9384
Andrew, MO
Buchanan, MO
7040 ¹ St. Louis, MO-IL | 0.9024 | 0.9321
Clinton, IL
Jersey, IL
Madison, IL
Monroe, IL
St. Clair, IL
Franklin, MO
Jefferson, MO
Lincoln, MO
St. Charles, MO
St. Louis, MO
St. Louis City, MO
Warren, MO
7080 ² Salem, OR | 1.0156 | 1.0107
Marion, OR
Polk, OR
7120 Salinas, CA | 1.4854 | 1.3112
Monterey, CA
7160 ¹ Salt Lake City-Ogden, UT | 0.9976 | 0.9984
Davis, UT
Salt Lake, UT
Weber, UT
7200 San Angelo, TX | 0.8288 | 0.8793
Tom Green, TX
7240 ¹ San Antonio, TX | 0.8333 | 0.8826
Bexar, TX
Comal, TX
Guadalupe, TX
Wilson, TX
7320 ¹ San Diego, CA | 1.1480 | 1.0991
San Diego, CA
7360 ¹ San Francisco, CA | 1.4319 | 1.2787
Marin, CA
San Francisco, CA
San Mateo, CA
7400 ¹ San Jose, CA | 1.4249 | 1.2744
Santa Clara, CA
7440 ¹ San Juan-Bayamon, PR | 0.4812 | 0.6060
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.1117 | 1.0752
San Luis Obispo, CA
7480 Santa Barbara-Santa Maria-Lompoc, CA | 1.0927 | 1.0626
Santa Barbara, CA
7485 Santa Cruz-Watsonville, CA | 1.4049 | 1.2621
Santa Cruz, CA
7490 Santa Fe, NM | 1.0312 | 1.0213
Los Alamos, NM
Santa Fe, NM
7500 Santa Rosa, CA | 1.2727 | 1.1796
Sonoma, CA
7510 Sarasota-Bradenton, FL | 1.0118 | 1.0081
Manatee, FL
Sarasota, FL
7520 Savannah, GA | 0.9349 | 0.9549
Bryan, GA
Chatham, GA
Effingham, GA
7560 ² Scranton—Wilkes-Barre—Hazleton, PA | 0.8473 | 0.8927
Columbia, PA
Lackawanna, PA
Luzerne, PA
Wyoming, PA
7600 ¹ Seattle-Bellevue-Everett, WA | 1.1056 | 1.0712
Island, WA
King, WA
Snohomish, WA
7610 ² Sharon, PA | 0.8473 | 0.8927
Mercer, PA
7620 ² Sheboygan, WI | 0.9121 | 0.9389
Sheboygan, WI
7640 Sherman-Denison, TX | 0.9163 | 0.9419
Grayson, TX
7680 Shreveport-Bossier City, LA | 0.9165 | 0.9420
Bossier, LA
Caddo, LA
Webster, LA
7720 Sioux City, IA-NE | 0.8868 | 0.9210
Woodbury, IA
Dakota, NE
7760 Sioux Falls, SD | 0.9245 | 0.9477
Lincoln, SD
Minnehaha, SD
7800 South Bend, IN | 1.0303 | 1.0207
St. Joseph, IN
7840 Spokane, WA | 1.0791 | 1.0535
Spokane, WA
7880 Springfield, IL | 0.8502 | 0.8948
Menard, IL
Sangamon, IL
7920 Springfield, MO | 0.8666 | 0.9066
Christian, MO
Greene, MO
Webster, MO
8003 ² Springfield, MA | 1.1586 | 1.1061
Hampden, MA
Hampshire, MA
8050 State College, PA | 0.9239 | 0.9472
Centre, PA
8080 ² Steubenville-Weirton, OH-WV (OH Hospitals) | 0.8761 | 0.9134
Jefferson, OH
Brooke, WV
Hancock, WV
8080 Steubenville-Weirton, OH-WV (WV Hospitals) | 0.8737 | 0.9117
Jefferson, OH
Brooke, WV
Hancock, WV
8120 Stockton-Lodi, CA | 1.1114 | 1.0750
San Joaquin, CA
8140 ² Sumter, SC | 0.8606 | 0.9023
Sumter, SC
8160 Syracuse, NY | 0.9247 | 0.9478
Cayuga, NY
Madison, NY
Onondaga, NY
Oswego, NY
8200 Tacoma, WA | 1.1751 | 1.1168
Pierce, WA
8240 ² Tallahassee, FL | 0.8733 | 0.9114
Gadsden, FL
Leon, FL
8280 ¹ Tampa-St. Petersburg-Clearwater, FL | 0.9095 | 0.9371
Hernando, FL
Hillsborough, FL
Pasco, FL
Pinellas, FL
8320 ² Terre Haute, IN | 0.8757 | 0.9131
Clay, IN
Vermillion, IN
Vigo, IN
8360 Texarkana, AR-Texarkana, TX | 0.8414 | 0.8885
Miller, AR
Bowie, TX
8400 Toledo, OH | 0.9815 | 0.9873
Fulton, OH
Lucas, OH
Wood, OH
8440 Topeka, KS | 0.9015 | 0.9315
Shawnee, KS
8480 Trenton, NJ | 1.0172 | 1.0117
Mercer, NJ
8520 Tucson, AZ | 0.9002 | 0.9305
Pima, AZ
8560 Tulsa, OK | 0.8949 | 0.9268
Creek, OK
Osage, OK
Rogers, OK
Tulsa, OK
Wagoner, OK
8600 Tuscaloosa, AL | 0.8265 | 0.8777
Tuscaloosa, AL
8640 Tyler, TX | 0.9109 | 0.9381
Smith, TX
8680 ² Utica-Rome, NY | 0.8530 | 0.8968
Herkimer, NY
Oneida, NY
8720 Vallejo-Fairfield-Napa, CA | 1.3535 | 1.2303
Napa, CA
Solano, CA
8735 Ventura, CA | 1.1088 | 1.0733
Ventura, CA
8750 Victoria, TX | 0.8354 | 0.8841
Victoria, TX
8760 Vineland-Millville-Bridgeton, NJ | 1.0473 | 1.0322
Cumberland, NJ
8780 ² Visalia-Tulare-Porterville, CA | 0.9870 | 0.9911
Tulare, CA
8800 Waco, TX | 0.8268 | 0.8779
McLennan, TX
8840 ¹ Washington, DC-MD-VA-WV | 1.1176 | 1.0791
District of Columbia, DC
Calvert, MD
Charles, MD
Frederick, MD
Montgomery, MD
Prince Georges, MD
Alexandria City, VA
Arlington, VA
Clarke, VA
Culpeper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8608 | 0.9024
Black Hawk, IA
8940 Wausau, WI | 0.9516 | 0.9666
Marathon, WI
8960 ¹ West Palm Beach-Boca Raton, FL | 0.9785 | 0.9852
Palm Beach, FL
9000 ² Wheeling, WV-OH (WV Hospitals) | 0.8145 | 0.8689
Belmont, OH
Marshall, WV
Ohio, WV
9000 ² Wheeling, WV-OH (OH Hospitals) | 0.8761 | 0.9134
Belmont, OH
Marshall, WV
Ohio, WV
9040 Wichita, KS | 0.9541 | 0.9683
Butler, KS
Harvey, KS
Sedgwick, KS
9080 Wichita Falls, TX | 0.8015 | 0.8594
Archer, TX
Wichita, TX
9140 Williamsport, PA | 0.8503 | 0.8949
Lycoming, PA
9160 Wilmington-Newark, DE-MD | 1.0757 | 1.0512
New Castle, DE
Cecil, MD
9200 Wilmington, NC | 0.9971 | 0.9980
New Hanover, NC
Brunswick, NC
9260 Yakima, WA | 1.0690 | 1.0468
Yakima, WA
9270 ² Yolo, CA | 0.9870 | 0.9911
Yolo, CA
9280 ² York, PA | 0.8473 | 0.8927
York, PA
9320 Youngstown-Warren, OH | 0.9480 | 0.9641
Columbiana, OH
Mahoning, OH
Trumbull, OH
9340 Yuba City, CA | 1.0479 | 1.0326
Sutter, CA
Yuba, CA
9360 Yuma, AZ | 0.8904 | 0.9236
Yuma, AZ
¹ Large Urban Area
² Hospitals geographically located in the area are assigned the statewide rural wage index for FY 2002.

Table 4B.—Wage Index and Capital Geographic Adjustment Factor (GAF) for Rural Areas
Nonurban area | Wage index | GAF
Alabama | 0.7483 | 0.8199
Alaska | 1.2006 | 1.1334
Arizona | 0.8747 | 0.9124
Arkansas | 0.7561 | 0.8258
California | 0.9870 | 0.9911
Colorado | 0.8909 | 0.9239
Connecticut | 1.2357 | 1.1560
Delaware | 0.9487 | 0.9646
Florida | 0.8733 | 0.9114
Georgia | 0.8341 | 0.8832
Hawaii | 1.1235 | 1.0830
Idaho | 0.8820 | 0.9176
Illinois | 0.8140 | 0.8686
Indiana | 0.8757 | 0.9131
Iowa | 0.8194 | 0.8725
Kansas | 0.7850 | 0.8472
Kentucky | 0.8019 | 0.8597
Louisiana | 0.7755 | 0.8402
Maine | 0.8714 | 0.9100
Maryland | 0.8962 | 0.9277
Massachusetts | 1.1586 | 1.1061
Michigan | 0.9115 | 0.9385
Minnesota | 0.9109 | 0.9381
Mississippi | 0.7612 | 0.8296
Missouri | 0.7838 | 0.8464
Montana | 0.8642 | 0.9049
Nebraska | 0.8233 | 0.8753
Nevada | 0.9785 | 0.9852
New Hampshire | 0.9914 | 0.9941
New Jersey ¹ |  |
New Mexico | 0.8835 | 0.9187
New York | 0.8530 | 0.8968
North Carolina | 0.8632 | 0.9042
North Dakota | 0.7965 | 0.8557
Ohio | 0.8761 | 0.9134
Oklahoma | 0.7646 | 0.8321
Oregon | 1.0156 | 1.0107
Pennsylvania | 0.8473 | 0.8927
Puerto Rico | 0.4654 | 0.5923
Rhode Island ¹ |  |
South Carolina | 0.8606 | 0.9023
South Dakota | 0.7934 | 0.8534
Tennessee | 0.7901 | 0.8510
Texas | 0.7673 | 0.8341
Utah | 0.9156 | 0.9414
Vermont | 0.9576 | 0.9708
Virginia | 0.8473 | 0.8927
Washington | 1.0301 | 1.0205
West Virginia | 0.8145 | 0.8689
Wisconsin | 0.9121 | 0.9389
Wyoming | 0.8855 | 0.9201
¹ All counties within the State are classified as urban.

Table 4C.—Wage Index and Capital Geographic Adjustment Factor (GAF) for Hospitals That Are Reclassified
Area | Wage index | GAF
Abilene, TX | 0.8118 | 0.8669
Akron, OH | 0.9924 | 0.9948
Albany, GA | 1.0675 | 1.0457
Albuquerque, NM | 0.9748 | 0.9827
Alexandria, LA | 0.8137 | 0.8683
Allentown-Bethlehem-Easton, PA | 0.9443 | 0.9615
Altoona, PA | 0.9225 | 0.9463
Amarillo, TX | 0.8485 | 0.8936
Anchorage, AK | 1.2605 | 1.1718
Ann Arbor, MI | 1.1220 | 1.0820
Anniston, AL | 0.7922 | 0.8526
Asheville, NC | 0.9307 | 0.9520
Athens, GA | 0.9818 | 0.9875
Atlanta, GA | 1.0066 | 1.0045
Augusta-Aiken, GA-SC | 1.0090 | 1.0062
Austin-San Marcos, TX | 0.9327 | 0.9534
Barnstable-Yarmouth, MA | 1.3415 | 1.2229
Baton Rouge, LA | 0.8258 | 0.8772
Bellingham, WA | 1.1427 | 1.0957
Benton Harbor, MI | 0.9115 | 0.9385
Bergen-Passaic, NJ | 1.1669 | 1.1115
Billings, MT | 0.9623 | 0.9740
Biloxi-Gulfport-Pascagoula, MS | 0.8198 | 0.8728
Binghamton, NY | 0.8595 | 0.9015
Birmingham, AL | 0.8648 | 0.9053
Bismarck, ND | 0.7965 | 0.8557
Bloomington-Normal, IL | 0.8545 | 0.8979
Boise City, ID | 0.9190 | 0.9438
Boston-Worcester-Lawrence-Lowell-Brockton, MA-NH | 1.1483 | 1.0993
Burlington, VT | 0.9606 | 0.9728
Caguas, PR | 0.4993 | 0.6215
Casper, WY | 0.9454 | 0.9623
Champaign-Urbana, IL | 0.9264 | 0.9490
Charleston-North Charleston, SC | 0.9293 | 0.9510
Charleston, WV | 0.8991 | 0.9298
Charlotte-Gastonia-Rock Hill, NC-SC | 0.9469 | 0.9633
Chattanooga, TN-GA | 0.9207 | 0.9450
Chicago, IL | 1.0887 | 1.0599
Cincinnati, OH-KY-IN | 0.9574 | 0.9706
Clarksville-Hopkinsville, TN-KY | 0.8481 | 0.8933
Cleveland-Lorain-Elyria, OH | 0.9496 | 0.9652
Columbia, MO | 0.8787 | 0.9153
Columbia, SC | 0.9264 | 0.9490
Columbus, GA-AL | 0.8471 | 0.8926
Columbus, OH | 0.9724 | 0.9810
Corpus Christi, TX | 0.8203 | 0.8731
Dallas, TX | 0.9506 | 0.9659
Davenport-Moline-Rock Island, IA-IL | 0.8790 | 0.9155
Dayton-Springfield, OH | 0.9323 | 0.9531
Denver, CO | 1.0289 | 1.0197
Des Moines, IA | 0.8881 | 0.9219
Dothan, AL | 0.8005 | 0.8587
Dover, DE | 0.9957 | 0.9971
Duluth-Superior, MN-WI | 1.0299 | 1.0204
Eau Claire, WI | 0.9121 | 0.9389
Elkhart-Goshen, IN | 0.9516 | 0.9666
Erie, PA | 0.8780 | 0.9148
Eugene-Springfield, OR | 1.1073 | 1.0723
Fargo-Moorhead, ND-MN | 0.9247 | 0.9478
Fayetteville, NC | 0.8970 | 0.9283
Flagstaff, AZ-UT | 1.0222 | 1.0151
Flint, MI | 1.0920 | 1.0621
Florence, AL | 0.7927 | 0.8529
Florence, SC | 0.8843 | 0.9192
Fort Collins-Loveland, CO | 1.0161 | 1.0110
Ft. Lauderdale, FL | 1.0906 | 1.0612
Fort Pierce-Port St. Lucie, FL | 1.0067 | 1.0046
Fort Smith, AR-OK | 0.7889 | 0.8501
Fort Walton Beach, FL | 0.8547 | 0.8981
Fort Wayne, IN | 0.9059 | 0.9346
Forth Worth-Arlington, TX | 0.9452 | 0.9621
Gadsden, AL | 0.8446 | 0.8908
Gainesville, FL | 1.1855 | 1.1236
Grand Forks, ND-MN (ND Hospitals) | 0.9022 | 0.9319
Grand Forks, ND-MN (MN Hospital) | 0.9109 | 0.9381
Grand Junction, CO | 0.9816 | 0.9874
Grand Rapids-Muskegon-Holland, MI | 1.0052 | 1.0036
Great Falls, MT | 0.9301 | 0.9516
Greeley, CO | 0.9604 | 0.9727
Green Bay, WI | 0.9440 | 0.9613
Greensboro-Winston-Salem-High Point, NC | 0.9474 | 0.9637
Greenville, NC | 0.9751 | 0.9829
Greenville-Spartanburg-Anderson, SC | 0.9110 | 0.9382
Harrisburg-Lebanon-Carlisle, PA | 0.9068 | 0.9352
Hartford, CT | 1.1586 | 1.1061
Hattiesburg, MS | 0.7612 | 0.8296
Hickory-Morganton-Lenoir, NC | 0.9517 | 0.9667
Honolulu, HI | 1.1658 | 1.1108
Houston, TX | 0.9604 | 0.9727
Huntington-Ashland, WV-KY-OH | 0.9286 | 0.9505
Huntsville, AL | 0.8657 | 0.9060
Indianapolis, IN | 0.9666 | 0.9770
Iowa City, IA | 0.9820 | 0.9876
Jackson, MS | 0.8589 | 0.9011
Jackson, TN | 0.8945 | 0.9265
Jacksonville, FL | 0.9040 | 0.9332
Johnson City-Kingsport-Bristol, TN-VA | 0.8540 | 0.8976
Jonesboro, AR | 0.8093 | 0.8651
Joplin, MO | 0.8560 | 0.8990
Kalamazoo-Battlecreek, MI | 1.0537 | 1.0365
Kansas City, KS-MO | 0.9430 | 0.9606
Knoxville, TN | 0.8904 | 0.9236
Kokomo, IN | 0.9290 | 0.9508
Lafayette, LA | 0.8430 | 0.8896
Lansing-East Lansing, MI | 0.9653 | 0.9761
Las Vegas, NV-AZ | 1.1238 | 1.0832
Lawton, OK | 0.8372 | 0.8854
Lexington, KY | 0.8675 | 0.9072
Lima, OH | 0.9558 | 0.9695
Lincoln, NE | 0.9945 | 0.9962
Little Rock-North Little Rock, AR | 0.8938 | 0.9260
Longview-Marshall, TX | 0.8439 | 0.8903
Los Angeles-Long Beach, CA | 1.2071 | 1.1376
Louisville, KY-IN | 0.9481 | 0.9642
Lubbock, TX | 0.8547 | 0.8981
Lynchburg, VA | 0.8897 | 0.9231
Macon, GA | 0.9077 | 0.9358
Madison, WI | 1.0462 | 1.0314
Mansfield, OH | 0.8827 | 0.9181
Medford-Ashland, OR | 1.0156 | 1.0107
Melbourne-Titusville-Palm Bay, FL | 0.9883 | 0.9920
Memphis, TN-AR-MS | 0.9152 | 0.9411
Miami, FL | 0.9934 | 0.9955
Milwaukee-Waukesha, WI | 0.9898 | 0.9930
Minneapolis-St. Paul, MN-WI | 1.1000 | 1.0674
Missoula, MT | 0.9273 | 0.9496
Mobile, AL | 0.7766 | 0.8410
Modesto, CA | 1.0945 | 1.0638
Monmouth-Ocean, NJ | 1.1514 | 1.1014
Monroe, LA | 0.8191 | 0.8723
Montgomery, AL | 0.7502 | 0.8213
Myrtle Beach, SC | 0.8663 | 0.9064
Nashville, TN | 0.9433 | 0.9608
New Haven-Bridgeport-Stamford-Waterbury-Danbury, CT | 1.2357 | 1.1560
New London-Norwich, CT | 1.1578 | 1.1055
New Orleans, LA | 0.9054 | 0.9342
New York, NY | 1.3923 | 1.2544
Newark, NJ | 1.2004 | 1.1332
Newburgh, NY-PA | 1.0838 | 1.0567
Norfolk-Virginia Beach-Newport News, VA-NC | 0.8632 | 0.9042
Oakland, CA | 1.5313 | 1.3388
Odessa-Midland, TX (TX Hospitals) | 0.8769 | 0.9140
Odessa-Midland, TX (NM Hospitals) | 0.8835 | 0.9187
Oklahoma City, OK | 0.8728 | 0.9110
Omaha, NE-IA | 0.9696 | 0.9791
Orange County, CA | 1.1354 | 1.0909
Orlando, FL | 0.9464 | 0.9630
Peoria-Pekin, IL | 0.8883 | 0.9221
Philadelphia, PA-NJ | 1.0626 | 1.0425
Pine Bluff, AR | 0.7837 | 0.8463
Pittsburgh, PA | 0.9550 | 0.9690
Pittsfield, MA | 1.0018 | 1.0012
Pocatello, ID | 0.9264 | 0.9490
Portland, ME | 0.9501 | 0.9656
Portland-Vancouver, OR-WA | 1.1291 | 1.0867
Provo-Orem, UT | 0.9840 | 0.9890
Raleigh-Durham-Chapel Hill, NC | 0.9901 | 0.9932
Rapid City, SD | 0.8849 | 0.9197
Reading, PA | 0.8473 | 0.8927
Redding, CA | 1.1222 | 1.0822
Reno, NV | 1.0456 | 1.0310
Richland-Kennewick-Pasco, WA | 1.0478 | 1.0325
Richmond-Petersburg, VA | 0.9712 | 0.9802
Roanoke, VA | 0.8468 | 0.8924
Rochester, MN | 1.1595 | 1.1067
Rockford, IL | 0.9080 | 0.9360
Sacramento, CA | 1.1809 | 1.1206
Saginaw-Bay City-Midland, MI | 0.9662 | 0.9767
St. Cloud, MN | 1.0040 | 1.0027
St. Joseph, MO | 0.8953 | 0.9271
St. Louis, MO-IL | 0.8911 | 0.9241
Salinas, CA | 1.4738 | 1.3042
Salt Lake City-Ogden, UT | 0.9976 | 0.9984
San Diego, CA | 1.1480 | 1.0991
Santa Fe, NM | 1.0013 | 1.0009
Santa Rosa, CA | 1.2408 | 1.1592
Sarasota-Bradenton, FL | 1.0118 | 1.0081
Savannah, GA | 0.9349 | 0.9549
Seattle-Bellevue-Everett, WA | 1.1056 | 1.0712
Sherman-Denison, TX | 0.8899 | 0.9232
Shreveport-Bossier City, LA | 0.9165 | 0.9420
Sioux City, IA-NE | 0.8868 | 0.9210
Sioux Falls, SD | 0.9037 | 0.9330
South Bend, IN | 1.0176 | 1.0120
Spokane, WA | 1.0663 | 1.0449
Springfield, IL | 0.8502 | 0.8948
Springfield, MO | 0.8454 | 0.8914
Stockton-Lodi, CA | 1.1114 | 1.0750
Syracuse, NY | 0.9247 | 0.9478
Tampa-St. Petersburg-Clearwater, FL | 0.9095 | 0.9371
Texarkana, AR-Texarkana, TX | 0.8414 | 0.8885
Toledo, OH | 0.9815 | 0.9873
Topeka, KS | 0.8850 | 0.9197
Tucson, AZ | 0.9002 | 0.9305
Tulsa, OK | 0.8815 | 0.9173
Tuscaloosa, AL | 0.8265 | 0.8777
Tyler, TX | 0.8905 | 0.9237
Victoria, TX | 0.8212 | 0.8738
Waco, TX | 0.8268 | 0.8779
Washington, DC-MD-VA-WV | 1.1024 | 1.0690
Waterloo-Cedar Falls, IA | 0.8608 | 0.9024
Wausau, WI | 0.9516 | 0.9666
West Palm Beach-Boca Raton, FL | 0.9785 | 0.9852
Wichita, KS | 0.9218 | 0.9458
Wichita Falls, TX | 0.8015 | 0.8594
Wilmington-Newark, DE-MD | 1.0757 | 1.0512
Rural Alabama | 0.7483 | 0.8199
Rural Florida | 0.8733 | 0.9114
Rural Illinois (IA Hospital) | 0.8194 | 0.8725
Rural Illinois (MO Hospital) | 0.8140 | 0.8686
Rural Kentucky | 0.8019 | 0.8597
Rural Louisiana | 0.7755 | 0.8402
Rural Michigan | 0.9115 | 0.9385
Rural Minnesota | 0.9109 | 0.9381
Rural Missouri (AK Hospital) | 0.7838 | 0.8464
Rural Missouri (KS Hospital) | 0.7850 | 0.8472
Rural Montana | 0.8642 | 0.9049
Rural Nebraska | 0.8233 | 0.8753
Rural Nevada | 0.9219 | 0.9458
Rural Oregon | 1.0156 | 1.0107
Rural Texas | 0.7673 | 0.8341
Rural Washington | 1.0301 | 1.0205
Rural Wisconsin | 0.9121 | 0.9389
Rural Wyoming | 0.8855 | 0.9201

Table 4F.—Puerto Rico Wage Index and Capital Geographic Adjustment Factor (GAF)
Area | Wage index | GAF | Wage index— Reclass. hospitals | GAF— Reclass. hospitals
Aguadilla, PR | 0.9666 | 0.9770 |  |
Arecibo, PR | 0.9555 | 0.9693 |  |
Caguas, PR | 1.0523 | 1.0355 | 1.0188 | 1.0128
Mayaguez, PR | 1.0031 | 1.0021 |  |
Ponce, PR | 1.0768 | 1.0520 |  |
San Juan-Bayamon, PR | 0.9817 | 0.9874 |  |
Rural Puerto Rico | 0.9495 | 0.9651 |  |

Table 4G.—Pre-Reclassified Wage Index for Urban Areas
Urban area (Constituent counties) | Wage index
0040 Abilene, TX | 0.8057
Taylor, TX
0060 Aguadilla, PR | 0.4738
Aguada, PR
Aguadilla, PR
Moca, PR
0080 Akron, OH | 0.9924
Portage, OH
Summit, OH
0120 Albany, GA | 1.0675
Dougherty, GA
Lee, GA
0160 Albany-Schenectady-Troy, NY | 0.8597
Albany, NY
Montgomery, NY
Rensselaer, NY
Saratoga, NY
Schenectady, NY
Schoharie, NY
0200 Albuquerque, NM | 0.9855
Bernalillo, NM
Sandoval, NM
Valencia, NM
0220 Alexandria, LA | 0.8121
Rapides, LA
0240 Allentown-Bethlehem-Easton, PA | 0.9443
Carbon, PA
Lehigh, PA
Northampton, PA
0280 Altoona, PA | 0.9225
Blair, PA
0320 Amarillo, TX | 0.8706
Potter, TX
Randall, TX
0380 Anchorage, AK | 1.2454
Anchorage, AK
0440 Ann Arbor, MI | 1.1220
Lenawee, MI
Livingston, MI
Washtenaw, MI
0450 Anniston, AL | 0.8360
Calhoun, AL
0460 Appleton-Oshkosh-Neenah, WI | 0.9203
Calumet, WI
Outagamie, WI
Winnebago, WI
0470 Arecibo, PR | 0.4683
Arecibo, PR
Camuy, PR
Hatillo, PR
0480 Asheville, NC | 0.9307
Buncombe, NC
Madison, NC
0500 Athens, GA | 0.9956
Clarke, GA
Madison, GA
Oconee, GA
0520 Atlanta, GA | 1.0176
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.1349
Atlantic, NJ
Cape May, NJ
0580 Auburn-Opelika, AL | 0.8325
Lee, AL
0600 Augusta-Aiken, GA-SC | 1.0090
Columbia, GA
McDuffie, GA
Richmond, GA
Aiken, SC
Edgefield, SC
0640 Austin-San Marcos, TX | 0.9327
Bastrop, TX
Caldwell, TX
Hays, TX
Travis, TX
Williamson, TX
0680 Bakersfield, CA | 0.9387
Kern, CA
0720 Baltimore, MD | 0.9723
Anne Arundel, MD
Baltimore, MD
Baltimore City, MD
Carroll, MD
Harford, MD
Howard, MD
Queen Anne's, MD
0733 Bangor, ME | 0.9559
Penobscot, ME
0743 Barnstable-Yarmouth, MA | 1.3539
Barnstable, MA
0760 Baton Rouge, LA | 0.8258
Ascension, LA
East Baton Rouge, LA
Livingston, LA
West Baton Rouge, LA
0840 Beaumont-Port Arthur, TX | 0.8508
Hardin, TX
Jefferson, TX
Orange, TX
0860 Bellingham, WA | 1.1963
Whatcom, WA
0870 Benton Harbor, MI | 0.8912
Berrien, MI
0875 Bergen-Passaic, NJ | 1.1549
Bergen, NJ
Passaic, NJ
0880 Billings, MT | 0.9623
Yellowstone, MT
0920 Biloxi-Gulfport-Pascagoula, MS | 0.8538
Hancock, MS
Harrison, MS
Jackson, MS
0960 Binghamton, NY | 0.8595
Broome, NY
Tioga, NY
1000 Birmingham, AL | 0.8648
Blount, AL
Jefferson, AL
St. Clair, AL
Shelby, AL
1010 Bismarck, ND | 0.7955
Burleigh, ND
Morton, ND
1020 Bloomington, IN | 0.8689
Monroe, IN
1040 Bloomington-Normal, IL | 0.8448
McLean, IL
1080 Boise City, ID | 0.9151
Ada, ID
Canyon, ID
1123 Boston-Worcester-Lawrence-Lowell-Brockton, MA-NH (NH Hospitals) | 1.1483
Bristol, MA
Essex, MA
Middlesex, MA
Norfolk, MA
Plymouth, MA
Suffolk, MA
Worcester, MA
Hillsborough, NH
Merrimack, NH
Rockingham, NH
Strafford, NH
1125 Boulder-Longmont, CO | 0.9836
Boulder, CO
1145 Brazoria, TX | 0.8299
Brazoria, TX
1150 Bremerton, WA | 1.0882
Kitsap, WA
1240 Brownsville-Harlingen-San Benito, TX | 0.8783
Cameron, TX
1260 Bryan-College Station, TX | 0.9296
Brazos, TX
1280 Buffalo-Niagara Falls, NY | 0.9405
Erie, NY
Niagara, NY
1303 Burlington, VT | 0.9826
Chittenden, VT
Franklin, VT
Grand Isle, VT
1310 Caguas, PR | 0.5158
Caguas, PR
Cayey, PR
Cidra, PR
Gurabo, PR
San Lorenzo, PR
1320 Canton-Massillon, OH | 0.9059
Carroll, OH
Stark, OH
1350 Casper, WY | 0.9606
Natrona, WY
1360 Cedar Rapids, IA | 0.8711
Linn, IA
1400 Champaign-Urbana, IL | 0.9264
Champaign, IL
1440 Charleston-North Charleston, SC | 0.9293
Berkeley, SC
Charleston, SC
Dorchester, SC
1480 Charleston, WV | 0.9369
Kanawha, WV
Putnam, WV
1520 Charlotte-Gastonia-Rock Hill, NC-SC | 0.9400
Cabarrus, NC
Gaston, NC
Lincoln, NC
Mecklenburg, NC
Rowan, NC
Stanly, NC
Union, NC
York, SC
1540 Charlottesville, VA | 1.0688
Albemarle, VA
Charlottesville City, VA
Fluvanna, VA
Greene, VA
1560 Chattanooga, TN-GA | 0.9446
Catoosa, GA
Dade, GA
Walker, GA
Hamilton, TN
Marion, TN
1580 Cheyenne, WY | 0.8414
Laramie, WY
1600 Chicago, IL | 1.1011
Cook, IL
DeKalb, IL
DuPage, IL
Grundy, IL
Kane, IL
Kendall, IL
Lake, IL
McHenry, IL
Will, IL
1620 Chico-Paradise, CA | 0.9909
Butte, CA
1640 Cincinnati, OH-KY-IN | 0.9574
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8433
Christian, KY
Montgomery, TN
1680 Cleveland-Lorain-Elyria, OH | 0.9496
Ashtabula, OH
Cuyahoga, OH
Geauga, OH
Lake, OH
Lorain, OH
Medina, OH
1720 Colorado Springs, CO | 0.9754
El Paso, CO
1740 Columbia, MO | 0.8787
Boone, MO
1760 Columbia, SC | 0.9589
Lexington, SC
Richland, SC
1800 Columbus, GA-AL | 0.8471
Russell, AL
Chattahoochee, GA
Harris, GA
Muscogee, GA
1840 Columbus, OH | 0.9724
Delaware, OH
Fairfield, OH
Franklin, OH
Licking, OH
Madison, OH
Pickaway, OH
1880 Corpus Christi, TX | 0.8203
Nueces, TX
San Patricio, TX
1890 Corvallis, OR | 1.1781
Benton, OR
1900 Cumberland, MD-WV (WV Hospital) | 0.8402
Allegany, MD
Mineral, WV
1920 Dallas, TX | 0.9506
Collin, TX
Dallas, TX
Denton, TX
Ellis, TX
Henderson, TX
Hunt, TX
Kaufman, TX
Rockwall, TX
1950 Danville, VA | 0.8641
Danville City, VA
Pittsylvania, VA
1960 Davenport-Moline-Rock Island, IA-IL | 0.8790
Scott, IA
Henry, IL
Rock Island, IL
2000 Dayton-Springfield, OH | 0.9323
Clark, OH
Greene, OH
Miami, OH
Montgomery, OH
2020 Daytona Beach, FL | 0.9069
Flagler, FL
Volusia, FL
2030 Decatur, AL | 0.8817
Lawrence, AL
Morgan, AL
2040 Decatur, IL | 0.8056
Macon, IL
2080 Denver, CO | 1.0289
Adams, CO
Arapahoe, CO
Denver, CO
Douglas, CO
Jefferson, CO
2120 Des Moines, IA | 0.8881
Dallas, IA
Polk, IA
Warren, IA
2160 Detroit, MI | 1.0478
Lapeer, MI
Macomb, MI
Monroe, MI
Oakland, MI
St. Clair, MI
Wayne, MI
2180 Dothan, AL | 0.7959
Dale, AL
Houston, AL
2190 Dover, DE | 1.0453
Kent, DE
2200 Dubuque, IA | 0.8617
Dubuque, IA
2240 Duluth-Superior, MN-WI | 1.0401
St. Louis, MN
Douglas, WI
2281 Dutchess County, NY | 1.0639
Dutchess, NY
2290 Eau Claire, WI | 0.8893
Chippewa, WI
Eau Claire, WI
2320 El Paso, TX | 0.9162
El Paso, TX
2330 Elkhart-Goshen, IN | 0.9646
Elkhart, IN
2335 Elmira, NY | 0.8530
Chemung, NY
2340 Enid, OK | 0.8454
Garfield, OK
2360 Erie, PA | 0.8911
Erie, PA
2400 Eugene-Springfield, OR | 1.1485
Lane, OR
2440 Evansville-Henderson, IN-KY (IN Hospitals) | 0.7808
Posey, IN
Vanderburgh, IN
Warrick, IN
Henderson, KY
2520 Fargo-Moorhead, ND-MN | 0.9374
Clay, MN
Cass, ND
2560 Fayetteville, NC | 0.9132
Cumberland, NC
2580 Fayetteville-Springdale-Rogers, AR | 0.7587
Benton, AR
Washington, AR
2620 Flagstaff, AZ-UT | 1.0678
Coconino, AZ
Kane, UT
2640 Flint, MI | 1.0920
Genesee, MI
2650 Florence, AL | 0.7875
Colbert, AL
Lauderdale, AL
2655 Florence, SC | 0.8843
Florence, SC
2670 Fort Collins-Loveland, CO | 1.0161
Larimer, CO
2680 Ft. Lauderdale, FL | 1.0407
Broward, FL
2700 Fort Myers-Cape Coral, FL | 0.9380
Lee, FL
2710 Fort Pierce-Port St. Lucie, FL | 1.0067
Martin, FL
St. Lucie, FL
2720 Fort Smith, AR-OK | 0.8076
Crawford, AR
Sebastian, AR
Sequoyah, OK
2750 Fort Walton Beach, FL | 0.8695
Okaloosa, FL
2760 Fort Wayne, IN | 0.9186
Adams, IN
Allen, IN
De Kalb, IN
Huntington, IN
Wells, IN
Whitley, IN
2800 Forth Worth-Arlington, TX | 0.9452
Hood, TX
Johnson, TX
Parker, TX
Tarrant, TX
2840 Fresno, CA | 0.9972
Fresno, CA
Madera, CA
2880 Gadsden, AL | 0.8845
Etowah, AL
2900 Gainesville, FL | 1.2133
Alachua, FL
2920 Galveston-Texas City, TX | 1.0271
Galveston, TX
2960 Gary, IN | 0.9571
Lake, IN
Porter, IN
2975 Glens Falls, NY | 0.8432
Warren, NY
Washington, NY
2980 Goldsboro, NC | 0.8810
Wayne, NC
2985 Grand Forks, ND-MN | 0.9173
Polk, MN
Grand Forks, ND
2995 Grand Junction, CO | 0.9579
Mesa, CO
3000 Grand Rapids-Muskegon-Holland, MI | 1.0161
Allegan, MI
Kent, MI
Muskegon, MI
Ottawa, MI
3040 Great Falls, MT | 0.8972
Cascade, MT
3060 Greeley, CO | 0.9604
Weld, CO
3080 Green Bay, WI | 0.9269
Brown, WI
3120 Greensboro-Winston-Salem-High Point, NC | 0.9616
Alamance, NC
Davidson, NC
Davie, NC
Forsyth, NC
Guilford, NC
Randolph, NC
Stokes, NC
Yadkin, NC
3150 Greenville, NC | 0.9963
Pitt, NC
3160 Greenville-Spartanburg-Anderson, SC | 0.9096
Anderson, SC
Cherokee, SC
Greenville, SC
Pickens, SC
Spartanburg, SC
3180 Hagerstown, MD | 0.8462
Washington, MD
3200 Hamilton-Middletown, OH | 0.9269
Butler, OH
3240 Harrisburg-Lebanon-Carlisle, PA | 0.9311
Cumberland, PA
Dauphin, PA
Lebanon, PA
Perry, PA
3283 Hartford, CT | 1.1536
Hartford, CT
Litchfield, CT
Middlesex, CT
Tolland, CT
3285 ² Hattiesburg, MS | 0.7559
Forrest, MS
Lamar, MS
3290 Hickory-Morganton-Lenoir, NC | 0.9517
Alexander, NC
Burke, NC
Caldwell, NC
Catawba, NC
3320 Honolulu, HI | 1.1653
Honolulu, HI
3350 Houma, LA | 0.8043
Lafourche, LA
Terrebonne, LA
3360 Houston, TX | 0.9604
Chambers, TX
Fort Bend, TX
Harris, TX
Liberty, TX
Montgomery, TX
Waller, TX
3400 Huntington-Ashland, WV-KY-OH | 0.9700
Boyd, KY
Carter, KY
Greenup, KY
Lawrence, OH
Cabell, WV
Wayne, WV
3440 Huntsville, AL | 0.8854
Limestone, AL
Madison, AL
3480 Indianapolis, IN | 0.9771
Boone, IN
Hamilton, IN
Hancock, IN
Hendricks, IN
Johnson, IN
Madison, IN
Marion, IN
Morgan, IN
Shelby, IN
3500 Iowa City, IA | 0.9973
Johnson, IA
3520 Jackson, MI | 0.9387
Jackson, MI
3560 Jackson, MS | 0.8589
Hinds, MS
Madison, MS
Rankin, MS
3580 Jackson, TN | 0.9117
Madison, TN
Chester, TN
3600 Jacksonville, FL | 0.9040
Clay, FL
Duval, FL
Nassau, FL
St. Johns, FL
3605 Jacksonville, NC | 0.7710
Onslow, NC
3610 Jamestown, NY | 0.8143
Chautauqua, NY
3620 Janesville-Beloit, WI | 0.9840
Rock, WI
3640 Jersey City, NJ | 1.1216
Hudson, NJ
3660 Johnson City-Kingsport-Bristol, TN-VA | 0.8540
Carter, TN
Hawkins, TN
Sullivan, TN
Unicoi, TN
Washington, TN
Bristol City, VA
Scott, VA
Washington, VA
3680 Johnstown, PA | 0.8959
Cambria, PA
Somerset, PA
3700 Jonesboro, AR | 0.8523
Craighead, AR
3710 Joplin, MO | 0.8736
Jasper, MO
Newton, MO
3720 Kalamazoo-Battlecreek, MI | 1.0696
Calhoun, MI
Kalamazoo, MI
Van Buren, MI
3740 Kankakee, IL | 0.9268
Kankakee, IL
3760 Kansas City, KS-MO | 0.9430
Johnson, KS
Leavenworth, KS
Miami, KS
Wyandotte, KS
Cass, MO
Clay, MO
Clinton, MO
Jackson, MO
Lafayette, MO
Platte, MO
Ray, MO
3800 Kenosha, WI | 0.9678
Kenosha, WI
3810 Killeen-Temple, TX | 0.7376
Bell, TX
Coryell, TX
3840 Knoxville, TN | 0.8904
Anderson, TN
Blount, TN
Knox, TN
Loudon, TN
Sevier, TN
Union, TN
3850 Kokomo, IN | 0.9232
Howard, IN
Tipton, IN
3870 La Crosse, WI-MN | 0.9328
Houston, MN
La Crosse, WI
3880 Lafayette, LA | 0.8600
Acadia, LA
Lafayette, LA
St. Landry, LA
St. Martin, LA
3920 Lafayette, IN | 0.9165
Clinton, IN
Tippecanoe, IN
3960 Lake Charles, LA | 0.7810
Calcasieu, LA
3980 Lakeland-Winter Haven, FL | 0.9167
Polk, FL
4000 Lancaster, PA | 0.9413
Lancaster, PA
4040 Lansing-East Lansing, MI | 0.9653
Clinton, MI
Eaton, MI
Ingham, MI
4080 Laredo, TX | 0.7877
Webb, TX
4100 Las Cruces, NM | 0.8721
Dona Ana, NM
4120 Las Vegas, NV-AZ | 1.1238
Mohave, AZ
Clark, NV
Nye, NV
4150 Lawrence, KS | 0.8756
Douglas, KS
4200 Lawton, OK | 0.8783
Comanche, OK
4243 Lewiston-Auburn, ME | 0.9451
Androscoggin, ME
4280 Lexington, KY | 0.8850
Bourbon, KY
Clark, KY
Fayette, KY
Jessamine, KY
Madison, KY
Scott, KY
Woodford, KY
4320 Lima, OH | 0.9558
Allen, OH
Auglaize, OH
4360 Lincoln, NE | 1.0272
Lancaster, NE
4400 Little Rock-North Little Rock, AR | 0.9053
Faulkner, AR
Lonoke, AR
Pulaski, AR
Saline, AR
4420 Longview-Marshall, TX | 0.8322
Gregg, TX
Harrison, TX
Upshur, TX
4480 Los Angeles-Long Beach, CA | 1.2062
Los Angeles, CA
4520 ¹ Louisville, KY-IN | 0.9596
Clark, IN
Floyd, IN
Harrison, IN
Scott, IN
Bullitt, KY
Jefferson, KY
Oldham, KY
4600 Lubbock, TX | 0.8547
Lubbock, TX
4640 Lynchburg, VA | 0.9208
Amherst, VA
Bedford, VA
Bedford City, VA
Campbell, VA
Lynchburg City, VA
4680 Macon, GA | 0.9064
Bibb, GA
Houston, GA
Jones, GA
Peach, GA
Twiggs, GA
4720 Madison, WI | 1.0456
Dane, WI
4800 Mansfield, OH | 0.8809
Crawford, OH
Richland, OH
4840 Mayaguez, PR | 0.4917
Anasco, PR
Cabo Rojo, PR
Hormigueros, PR
Mayaguez, PR
Sabana Grande, PR
San German, PR
4880 McAllen-Edinburg-Mission, TX | 0.8433
Hidalgo, TX
4890 Medford-Ashland, OR | 1.0433
Jackson, OR
4900 Melbourne-Titusville-Palm Bay, FL | 0.9857
Brevard, FL
4920 Memphis, TN-AR-MS | 0.9435
Crittenden, AR
DeSoto, MS
Fayette, TN
Shelby, TN
Tipton, TN
4940 Merced, CA | 0.9870
Merced, CA
5000 Miami, FL | 0.9934
Dade, FL
5015 Middlesex-Somerset-Hunterdon, NJ | 1.1952
Hunterdon, NJ
Middlesex, NJ
Somerset, NJ
5080 Milwaukee-Waukesha, WI | 0.9898
Milwaukee, WI
Ozaukee, WI
Washington, WI
Waukesha, WI
5120 Minneapolis-St. Paul, MN-WI | 1.1000
Anoka, MN
Carver, MN
Chisago, MN
Dakota, MN
Hennepin, MN
Isanti, MN
Ramsey, MN
Scott, MN
Sherburne, MN
Washington, MN
Wright, MN
Pierce, WI
St. Croix, WI
5140 Missoula, MT | 0.9453
Missoula, MT
5160 Mobile, AL | 0.7754
Baldwin, AL
Mobile, AL
5170 Modesto, CA | 1.0945
Stanislaus, CA
5190 Monmouth-Ocean, NJ | 1.0930
Monmouth, NJ
Ocean, NJ
5200 Monroe, LA | 0.8296
Ouachita, LA
5240 Montgomery, AL | 0.7502
Autauga, AL
Elmore, AL
Montgomery, AL
5280 Muncie, IN | 0.9689
Delaware, IN
5330 Myrtle Beach, SC | 0.8855
Horry, SC
5345 Naples, FL | 0.9566
Collier, FL
5360 Nashville, TN | 0.9602
Cheatham, TN
Davidson, TN
Dickson, TN
Robertson, TN
Rutherford TN
Sumner, TN
Williamson, TN
Wilson, TN
5380 Nassau-Suffolk, NY | 1.3841
Nassau, NY
Suffolk, NY
5483 New Haven-Bridgeport-Stamford-Waterbury-Danbury, CT | 1.2267
Fairfield, CT
New Haven, CT
5523 New London-Norwich, CT | 1.1578
New London, CT
5560 New Orleans, LA | 0.9054
Jefferson, LA
Orleans, LA
Plaquemines, LA
St. Bernard, LA
St. Charles, LA
St. James, LA
St. John The Baptist, LA
St. Tammany, LA
5600 New York, NY | 1.3893
Bronx, NY
Kings, NY
New York, NY
Putnam, NY
Queens, NY
Richmond, NY
Rockland, NY
Westchester, NY
5640 Newark, NJ | 1.2004
Essex, NJ
Morris, NJ
Sussex, NJ
Union, NJ
Warren, NJ
5660 Newburgh, NY-PA | 1.1235
Orange, NY
Pike, PA
5720 Norfolk-Virginia Beach-Newport News, VA-NC | 0.8629
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 Oakland, CA | 1.5416
Alameda, CA
Contra Costa, CA
5790 Ocala, FL | 0.9579
Marion, FL
5800 Odessa-Midland, TX | 0.9017
Ector, TX
Midland, TX
5880 Oklahoma City, OK | 0.8728
Canadian, OK
Cleveland, OK
Logan, OK
McClain, OK
Oklahoma, OK
Pottawatomie, OK
5910 Olympia, WA | 1.1481
Thurston, WA
5920 Omaha, NE-IA | 0.9696
Pottawattamie, IA
Cass, NE
Douglas, NE
Sarpy, NE
Washington, NE
5945 Orange County, CA | 1.1242
Orange, CA
5960 Orlando, FL | 0.9464
Lake, FL
Orange, FL
Osceola, FL
Seminole, FL
5990 Owensboro, KY | 0.8346
Daviess, KY
6015 Panama City, FL | 0.9166
Bay, FL
6020 Parkersburg-Marietta, WV-OH | 0.8192
Washington, OH
Wood, WV
6080 Pensacola, FL | 0.8367
Escambia, FL
Santa Rosa, FL
6120 Peoria-Pekin, IL | 0.8883
Peoria, IL
Tazewell, IL
Woodford, IL
6160 Philadelphia, PA-NJ | 1.0626
Burlington, NJ
Camden, NJ
Gloucester, NJ
Salem, NJ
Bucks, PA
Chester, PA
Delaware, PA
Montgomery, PA
Philadelphia, PA
6200 Phoenix-Mesa, AZ | 0.9654
Maricopa, AZ
Pinal, AZ
6240 Pine Bluff, AR | 0.7837
Jefferson, AR
6280 Pittsburgh, PA | 0.9714
Allegheny, PA
Beaver, PA
Butler, PA
Fayette, PA
Washington, PA
Westmoreland, PA
6323 Pittsfield, MA | 1.0396
Berkshire, MA
6340 Pocatello, ID | 0.9557
Bannock, ID
6360 Ponce, PR | 0.5278
Guayanilla, PR
Juana Diaz, PR
Penuelas, PR
Ponce, PR
Villalba, PR
Yauco, PR
6403 Portland, ME | 0.9501
Cumberland, ME
Sagadahoc, ME
York, ME
6440 Portland-Vancouver, OR-WA | 1.1263
Clackamas, OR
Columbia, OR
Multnomah, OR
Washington, OR
Yamhill, OR
Clark, WA
6483 Providence-Warwick-Pawtucket, RI | 1.0781
Bristol, RI
Kent, RI
Newport, RI
Providence, RI
Washington, RI
6520 Provo-Orem, UT | 0.9967
Utah, UT
6560 Pueblo, CO | 0.8704
Pueblo, CO
6580 Punta Gorda, FL | 0.8818
Charlotte, FL
6600 Racine, WI | 0.9441
Racine, WI
6640 Raleigh-Durham-Chapel Hill, NC | 0.9901
Chatham, NC
Durham, NC
Franklin, NC
Johnston, NC
Orange, NC
Wake, NC
6660 Rapid City, SD | 0.8971
Pennington, SD
6680 Reading, PA | 0.6780
Berks, PA
6690 Redding, CA | 1.1222
Shasta, CA
6720 Reno, NV | 1.0456
Washoe, NV
6740 Richland-Kennewick-Pasco, WA | 1.1086
Benton, WA
Franklin, WA
6760 Richmond-Petersburg, VA | 0.9712
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 Riverside-San Bernardino, CA | 1.1012
Riverside, CA
San Bernardino, CA
6800 Roanoke, VA | 0.8468
Botetourt, VA
Roanoke, VA
Roanoke City, VA
Salem City, VA
6820 Rochester, MN | 1.1595
Olmsted, MN
6840 Rochester, NY | 0.9238
Genesee, NY
Livingston, NY
Monroe, NY
Ontario, NY
Orleans, NY
Wayne, NY
6880 Rockford, IL | 0.9194
Boone, IL
Ogle, IL
Winnebago, IL
6895 Rocky Mount, NC | 0.9197
Edgecombe, NC
Nash, NC
6920 Sacramento, CA | 1.1809
El Dorado, CA
Placer, CA
Sacramento, CA
6960 Saginaw-Bay City-Midland, MI | 0.9662
Bay, MI
Midland, MI
Saginaw, MI
6980 St. Cloud, MN | 0.9966
Benton, MN
Stearns, MN
7000 St. Joseph, MO | 0.9113
Andrew, MO
Buchanan, MO
7040 St. Louis, MO-IL | 0.9024
Clinton, IL
Jersey, IL
Madison, IL
Monroe, IL
St. Clair, IL
Franklin, MO
Jefferson, MO
Lincoln, MO
St. Charles, MO
St. Louis, MO
St. Louis City, MO
Warren, MO
7080 Salem, OR | 1.0127
Marion, OR
Polk, OR
7120 Salinas, CA | 1.4854
Monterey, CA
7160 Salt Lake City-Ogden, UT | 0.9976
Davis, UT
Salt Lake, UT
Weber, UT
7200 San Angelo, TX | 0.8288
Tom Green, TX
7240 San Antonio, TX | 0.8333
Bexar, TX
Comal, TX
Guadalupe, TX
Wilson, TX
7320 San Diego, CA | 1.1480
San Diego, CA
7360 San Francisco, CA | 1.4319
Marin, CA
San Francisco, CA
San Mateo, CA
7400 San Jose, CA | 1.4249
Santa Clara, CA
7440 San Juan-Bayamon, PR | 0.4812
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.1117
San Luis Obispo, CA
7480 Santa Barbara-Santa Maria-Lompoc, CA | 1.0927
Santa Barbara, CA
7485 Santa Cruz-Watsonville, CA | 1.4049
Santa Cruz, CA
7490 Santa Fe, NM | 1.0312
Los Alamos, NM
Santa Fe, NM
7500 Santa Rosa, CA | 1.2727
Sonoma, CA
7510 Sarasota-Bradenton, FL | 1.0118
Manatee, FL
Sarasota, FL
7520 Savannah, GA | 0.9349
Bryan, GA
Chatham, GA
Effingham, GA
7560 Scranton—Wilkes-Barre—Hazleton, PA | 0.8071
Columbia, PA
Lackawanna, PA
Luzerne, PA
Wyoming, PA
7600 Seattle-Bellevue-Everett, WA | 1.1040
Island, WA
King, WA
Snohomish, WA
7610 Sharon, PA | 0.8013
Mercer, PA
7620 Sheboygan, WI | 0.8524
Sheboygan, WI
7640 Sherman-Denison, TX | 0.9163
Grayson, TX
7680 Shreveport-Bossier City, LA | 0.9165
Bossier, LA
Caddo, LA
Webster, LA
7720 Sioux City, IA-NE | 0.8868
Woodbury, IA
Dakota, NE
7760 Sioux Falls, SD | 0.9245
Lincoln, SD
Minnehaha, SD
7800 South Bend, IN | 1.0303
St. Joseph, IN
7840 Spokane, WA | 1.0791
Spokane, WA
7880 Springfield, IL | 0.8502
Menard, IL
Sangamon, IL
7920 Springfield, MO | 0.8666
Christian, MO
Greene, MO
Webster, MO
8003 Springfield, MA | 1.0747
Hampden, MA
Hampshire, MA
8050 State College, PA | 0.9239
Centre, PA
8080 Steubenville-Weirton, OH-WV (WV Hospitals) | 0.8737
Jefferson, OH
Brooke, WV
Hancock, WV
8120 Stockton-Lodi, CA | 1.0939
San Joaquin, CA
8140 Sumter, SC | 0.7884
Sumter, SC
8160 Syracuse, NY | 0.9243
Cayuga, NY
Madison, NY
Onondaga, NY
Oswego, NY
8200 Tacoma, WA | 1.1751
Pierce, WA
8240 Tallahassee, FL | 0.8402
Gadsden, FL
Leon, FL
8280 Tampa-St. Petersburg-Clearwater, FL | 0.8994
Hernando, FL
Hillsborough, FL
Pasco, FL
Pinellas, FL
8320 Terre Haute, IN | 0.8498
Clay, IN
Vermillion, IN
Vigo, IN
8360 Texarkana, AR-Texarkana, TX | 0.8414
Miller, AR
Bowie, TX
8400 Toledo, OH | 0.9815
Fulton, OH
Lucas, OH
Wood, OH
8440 Topeka, KS | 0.9015
Shawnee, KS
8480 Trenton, NJ | 1.0172
Mercer, NJ
8520 Tucson, AZ | 0.8990
Pima, AZ
8560 Tulsa, OK | 0.8949
Creek, OK
Osage, OK
Rogers, OK
Tulsa, OK
Wagoner, OK
8600 Tuscaloosa, AL | 0.8265
Tuscaloosa, AL
8640 Tyler, TX | 0.9109
Smith, TX
8680 Utica-Rome, NY | 0.8425
Herkimer, NY
Oneida, NY
8720 Vallejo-Fairfield-Napa, CA | 1.3535
Napa, CA
Solano, CA
8735 Ventura, CA | 1.1088
Ventura, CA
8750 Victoria, TX | 0.8354
Victoria, TX
8760 Vineland-Millville-Bridgeton, NJ | 1.0473
Cumberland, NJ
8780 Visalia-Tulare-Porterville, CA | 0.9706
Tulare, CA
8800 Waco, TX | 0.8249
McLennan, TX
8840 Washington, DC-MD-VA-WV | 1.1176
District of Columbia, DC
Calvert, MD
Charles, MD
Frederick, MD
Montgomery, MD
Prince Georges, MD
Alexandria City, VA
Arlington, VA
Clarke, VA
Culpeper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8134
Black Hawk, IA
8940 Wausau, WI | 0.9455
Marathon, WI
8960 West Palm Beach-Boca Raton, FL | 0.9785
Palm Beach, FL
9000 Wheeling, WV-OH | 0.8077
Belmont, OH
Marshall, WV
Ohio, WV
9040 Wichita, KS | 0.9541
Butler, KS
Harvey, KS
Sedgwick, KS
9080 Wichita Falls, TX | 0.7933
Archer, TX
Wichita, TX
9140 Williamsport, PA | 0.8503
Lycoming, PA
9160 Wilmington-Newark, DE-MD | 1.0757
New Castle, DE
Cecil, MD
9200 Wilmington, NC | 0.9971
New Hanover, NC
Brunswick, NC
9260 Yakima, WA | 1.0690
Yakima, WA
9270 Yolo, CA | 0.9830
Yolo, CA
9280 York, PA | 0.7840
York, PA
9320 Youngstown-Warren, OH | 0.9480
Columbiana, OH
Mahoning, OH
Trumbull, OH
9340 Yuba City, CA | 1.0479
Sutter, CA
Yuba, CA
9360 Yuma, AZ | 0.8904
Yuma, AZ

Table 4H.—Pre-Reclassified Wage Index for Rural Areas
Nonurban area | Wage index
Alabama | 0.7420
Alaska | 1.2006
Arizona | 0.8747
Arkansas | 0.7561
California | 0.9870
Colorado | 0.8909
Connecticut | 1.2357
Delaware | 0.9487
Florida | 0.8709
Georgia | 0.8341
Hawaii | 1.1235
Idaho | 0.8820
Illinois | 0.8140
Indiana | 0.8757
Iowa | 0.8194
Kansas | 0.7850
Kentucky | 0.8019
Louisiana | 0.7649
Maine | 0.8714
Maryland | 0.8962
Massachusetts | 1.1586
Michigan | 0.9106
Minnesota | 0.9109
Mississippi | 0.7612
Missouri | 0.7826
Montana | 0.8642
Nebraska | 0.8233
Nevada | 0.9785
New Hampshire | 0.9914
New Jersey ¹ |
New Mexico | 0.8835
New York | 0.8530
North Carolina | 0.8634
North Dakota | 0.7965
Ohio | 0.8761
Oklahoma | 0.7646
Oregon | 1.0150
Pennsylvania | 0.8473
Puerto Rico | 0.4654
Rhode Island ¹ |
South Carolina | 0.8606
South Dakota | 0.7934
Tennessee | 0.7901
Texas | 0.7671
Utah | 0.9156
Vermont | 0.9576
Virginia | 0.8473
Washington | 1.0301
West Virginia | 0.8145
Wisconsin | 0.9118
Wyoming | 0.8855
¹ All counties within the State are classified as urban.

* MEDICARE DATA HAVE BEEN SUPPLEMENTED BY DATA FROM 19 STATES FOR LOW VOLUME DRGS.

** DRGS 469 AND 470 CONTAIN CASES WHICH COULD NOT BE ASSIGNED TO VALID DRGS.

NOTE: GEOMETRIC MEAN IS USED ONLY TO DETERMINE PAYMENT FOR TRANSFER CASES.

NOTE: ARITHMETIC MEAN IS PRESENTED FOR INFORMATIONAL PURPOSES ONLY.

NOTE: RELATIVE WEIGHTS ARE BASED ON MEDICARE PATIENT DATA AND MAY NOT BE APPROPRIATE FOR OTHER PATIENTS.

Table 5.—List of Diagnosis Related Groups (DRGs), Relative Weighting Factors, Geometric and Arithmetic Mean Length of Stay
DRG | MDC | Type | DRG title | Relative weights | Geometric mean LOS | Arithmetric mean LOS
1 | 01 | SURG | CRANIOTOMY AGE >17 EXCEPT FOR TRAUMA | 3.2546 | 7.6 | 10.2
2 | 01 | SURG | CRANIOTOMY FOR TRAUMA AGE >17 | 3.3742 | 8.8 | 11.1
3 | 01 | SURG | * CRANIOTOMY AGE 0-17 | 1.9527 | 12.7 | 12.7
4 | 01 | SURG | SPINAL PROCEDURES | 2.4074 | 5.5 | 8.1
5 | 01 | SURG | EXTRACRANIAL VASCULAR PROCEDURES | 1.3612 | 2.3 | 3.2
6 | 01 | SURG | CARPAL TUNNEL RELEASE | .7238 | 2.1 | 3.0
7 | 01 | SURG | PERIPH & CRANIAL NERVE & OTHER NERV SYST PROC W CC | 2.6736 | 8.5 | 11.3
8 | 01 | SURG | PERIPH & CRANIAL NERVE & OTHER NERV SYST PROC W/O CC | 1.3727 | 2.3 | 3.4
9 | 01 | MED | SPINAL DISORDERS & INJURIES | 1.3411 | 5.3 | 7.0
10 | 01 | MED | NERVOUS SYSTEM NEOPLASMS W CC | 1.2655 | 5.5 | 7.2
11 | 01 | MED | NERVOUS SYSTEM NEOPLASMS W/O CC | .8455 | 3.3 | 4.3
12 | 01 | MED | DEGENERATIVE NERVOUS SYSTEM DISORDERS | .8985 | 4.9 | 6.3
13 | 01 | MED | MULTIPLE SCLEROSIS & CEREBELLAR ATAXIA | .8107 | 4.5 | 5.5
14 | 01 | MED | SPECIFIC CEREBROVASCULAR DISORDERS EXCEPT TIA | 1.1667 | 4.8 | 6.1
15 | 01 | MED | TRANSIENT ISCHEMIC ATTACK & PRECEREBRAL OCCLUSIONS | .7349 | 3.0 | 3.7
16 | 01 | MED | NONSPECIFIC CEREBROVASCULAR DISORDERS W CC | 1.1833 | 5.1 | 6.5
17 | 01 | MED | NONSPECIFIC CEREBROVASCULAR DISORDERS W/O CC | .6706 | 2.7 | 3.5
18 | 01 | MED | CRANIAL & PERIPHERAL NERVE DISORDERS W CC | .9762 | 4.6 | 5.8
19 | 01 | MED | CRANIAL & PERIPHERAL NERVE DISORDERS W/O CC | .6770 | 3.1 | 3.9
20 | 01 | MED | NERVOUS SYSTEM INFECTION EXCEPT VIRAL MENINGITIS | 2.7628 | 9.0 | 11.4
21 | 01 | MED | VIRAL MENINGITIS | 1.4606 | 5.6 | 7.1
22 | 01 | MED | HYPERTENSIVE ENCEPHALOPATHY | 1.0073 | 4.0 | 5.1
23 | 01 | MED | NONTRAUMATIC STUPOR & COMA | .8101 | 3.4 | 4.4
24 | 01 | MED | SEIZURE & HEADACHE AGE >17 W CC | 1.0182 | 4.0 | 5.3
25 | 01 | MED | SEIZURE & HEADACHE AGE >17 W/O CC | .5945 | 2.7 | 3.3
26 | 01 | MED | SEIZURE & HEADACHE AGE 0-17 | .5846 | 2.3 | 2.8
27 | 01 | MED | TRAUMATIC STUPOR & COMA, COMA >1 HR | 1.3456 | 3.7 | 5.6
28 | 01 | MED | TRAUMATIC STUPOR & COMA, COMA <1 HR AGE >17 W CC | 1.3526 | 5.2 | 6.8
29 | 01 | MED | TRAUMATIC STUPOR & COMA, COMA <1 HR AGE >17 W/O CC | .6903 | 3.0 | 3.8
30 | 01 | MED | * TRAUMATIC STUPOR & COMA, COMA <1 HR AGE 0-17 | .3303 | 2.0 | 2.0
31 | 01 | MED | CONCUSSION AGE >17 W CC | .9098 | 3.5 | 4.8
32 | 01 | MED | CONCUSSION AGE >17 W/O CC | .5191 | 2.0 | 2.6
33 | 01 | MED | * CONCUSSION AGE 0-17 | .2075 | 1.6 | 1.6
34 | 01 | MED | OTHER DISORDERS OF NERVOUS SYSTEM W CC | 1.0065 | 4.2 | 5.4
35 | 01 | MED | OTHER DISORDERS OF NERVOUS SYSTEM W/O CC | .5886 | 2.7 | 3.5
36 | 02 | SURG | RETINAL PROCEDURES | .6586 | 1.2 | 1.5
37 | 02 | SURG | ORBITAL PROCEDURES | 1.1220 | 2.9 | 4.3
38 | 02 | SURG | PRIMARY IRIS PROCEDURES | .4730 | 2.0 | 2.6
39 | 02 | SURG | LENS PROCEDURES WITH OR WITHOUT VITRECTOMY | .5882 | 1.5 | 1.9
40 | 02 | SURG | EXTRAOCULAR PROCEDURES EXCEPT ORBIT AGE >17 | .8274 | 2.4 | 3.6
41 | 02 | SURG | * EXTRAOCULAR PROCEDURES EXCEPT ORBIT AGE 0-17 | .3362 | 1.6 | 1.6
42 | 02 | SURG | INTRAOCULAR PROCEDURES EXCEPT RETINA, IRIS & LENS | .6273 | 1.6 | 2.3
43 | 02 | MED | HYPHEMA | .4570 | 2.8 | 3.3
44 | 02 | MED | ACUTE MAJOR EYE INFECTIONS | .6556 | 4.3 | 5.2
45 | 02 | MED | NEUROLOGICAL EYE DISORDERS | .6765 | 2.7 | 3.3
46 | 02 | MED | OTHER DISORDERS OF THE EYE AGE >17 W CC | .7983 | 3.9 | 5.0
47 | 02 | MED | OTHER DISORDERS OF THE EYE AGE >17 W/O CC | .5013 | 2.6 | 3.4
48 | 02 | MED | * OTHER DISORDERS OF THE EYE AGE 0-17 | .2962 | 2.9 | 2.9
49 | 03 | SURG | MAJOR HEAD & NECK PROCEDURES | 1.7590 | 3.8 | 5.2
50 | 03 | SURG | SIALOADENECTOMY | .8139 | 1.5 | 1.9
51 | 03 | SURG | SALIVARY GLAND PROCEDURES EXCEPT SIALOADENECTOMY | .7928 | 1.8 | 2.7
52 | 03 | SURG | CLEFT LIP & PALATE REPAIR | .7608 | 1.5 | 1.9
53 | 03 | SURG | SINUS & MASTOID PROCEDURES AGE >17 | 1.1741 | 2.3 | 3.7
54 | 03 | SURG | * SINUS & MASTOID PROCEDURES AGE 0-17 | .4801 | 3.2 | 3.2
55 | 03 | SURG | MISCELLANEOUS EAR, NOSE, MOUTH & THROAT PROCEDURES | .8500 | 1.8 | 2.7
56 | 03 | SURG | RHINOPLASTY | .8771 | 2.0 | 2.7
57 | 03 | SURG | T&A PROC, EXCEPT TONSILLECTOMY &/OR ADENOIDECTOMY ONLY, AGE >17 | 1.1547 | 2.8 | 4.2
58 | 03 | SURG | * T&A PROC, EXCEPT TONSILLECTOMY &/OR ADENOIDECTOMY ONLY, AGE 0-17 | .2726 | 1.5 | 1.5
59 | 03 | SURG | TONSILLECTOMY &/OR ADENOIDECTOMY ONLY, AGE >17 | .8324 | 1.9 | 2.8
60 | 03 | SURG | * TONSILLECTOMY &/OR ADENOIDECTOMY ONLY, AGE 0-17 | .2076 | 1.5 | 1.5
61 | 03 | SURG | MYRINGOTOMY W TUBE INSERTION AGE >17 | 1.3536 | 3.2 | 5.6
62 | 03 | SURG | * MYRINGOTOMY W TUBE INSERTION AGE 0-17 | .2940 | 1.3 | 1.3
63 | 03 | SURG | OTHER EAR, NOSE, MOUTH & THROAT O.R. PROCEDURES | 1.3658 | 3.3 | 4.7
64 | 03 | MED | EAR, NOSE, MOUTH & THROAT MALIGNANCY | 1.2289 | 4.8 | 6.9
65 | 03 | MED | DYSEQUILIBRIUM | .5321 | 2.4 | 2.9
66 | 03 | MED | EPISTAXIS | .5538 | 2.6 | 3.3
67 | 03 | MED | EPIGLOTTITIS | .7556 | 3.0 | 3.7
68 | 03 | MED | OTITIS MEDIA & URI AGE >17 W CC | .6687 | 3.6 | 4.3
69 | 03 | MED | OTITIS MEDIA & URI AGE >17 W/O CC | .4988 | 2.8 | 3.4
70 | 03 | MED | OTITIS MEDIA & URI AGE 0-17 | .4556 | 2.5 | 3.0
71 | 03 | MED | LARYNGOTRACHEITIS | .6714 | 3.1 | 4.0
72 | 03 | MED | NASAL TRAUMA & DEFORMITY | .6722 | 2.9 | 3.7
73 | 03 | MED | OTHER EAR, NOSE, MOUTH & THROAT DIAGNOSES AGE >17 | .8016 | 3.6 | 4.7
74 | 03 | MED | * OTHER EAR, NOSE, MOUTH & THROAT DIAGNOSES AGE 0-17 | .3341 | 2.1 | 2.1
75 | 04 | SURG | MAJOR CHEST PROCEDURES | 3.2016 | 8.8 | 10.8
76 | 04 | SURG | OTHER RESP SYSTEM O.R. PROCEDURES W CC | 2.9628 | 10.0 | 12.6
77 | 04 | SURG | OTHER RESP SYSTEM O.R. PROCEDURES W/O CC | 1.2254 | 4.1 | 5.4
78 | 04 | MED | PULMONARY EMBOLISM | 1.3317 | 6.3 | 7.2
79 | 04 | MED | RESPIRATORY INFECTIONS & INFLAMMATIONS AGE >17 W CC | 1.7116 | 7.6 | 9.3
80 | 04 | MED | RESPIRATORY INFECTIONS & INFLAMMATIONS AGE >17 W/O CC | .9285 | 5.0 | 6.0
81 | 04 | MED | * RESPIRATORY INFECTIONS & INFLAMMATIONS AGE 0-17 | 1.5125 | 6.1 | 6.1
82 | 04 | MED | RESPIRATORY NEOPLASMS | 1.4325 | 6.0 | 7.6
83 | 04 | MED | MAJOR CHEST TRAUMA W CC | .9783 | 4.8 | 5.9
84 | 04 | MED | MAJOR CHEST TRAUMA W/O CC | .5455 | 2.9 | 3.5
85 | 04 | MED | PLEURAL EFFUSION W CC | 1.2505 | 5.5 | 6.9
86 | 04 | MED | PLEURAL EFFUSION W/O CC | .6776 | 3.0 | 3.8
87 | 04 | MED | PULMONARY EDEMA & RESPIRATORY FAILURE | 1.4280 | 5.5 | 6.9
88 | 04 | MED | CHRONIC OBSTRUCTIVE PULMONARY DISEASE | .9137 | 4.5 | 5.4
89 | 04 | MED | SIMPLE PNEUMONIA & PLEURISY AGE >17 W CC | 1.0636 | 5.3 | 6.3
90 | 04 | MED | SIMPLE PNEUMONIA & PLEURISY AGE >17 W/O CC | .6385 | 3.7 | 4.3
91 | 04 | MED | SIMPLE PNEUMONIA & PLEURISY AGE 0-17 | .8141 | 3.9 | 4.8
92 | 04 | MED | INTERSTITIAL LUNG DISEASE W CC | 1.2313 | 5.6 | 6.8
93 | 04 | MED | INTERSTITIAL LUNG DISEASE W/O CC | .7311 | 3.5 | 4.2
94 | 04 | MED | PNEUMOTHORAX W CC | 1.2011 | 5.4 | 6.9
95 | 04 | MED | PNEUMOTHORAX W/O CC | .5833 | 3.2 | 3.9
96 | 04 | MED | BRONCHITIS & ASTHMA AGE >17 W CC | .7638 | 4.1 | 4.9
97 | 04 | MED | BRONCHITIS & ASTHMA AGE >17 W/O CC | .5664 | 3.2 | 3.8
98 | 04 | MED | BRONCHITIS & ASTHMA AGE 0-17 | .7073 | 3.1 | 4.4
99 | 04 | MED | RESPIRATORY SIGNS & SYMPTOMS W CC | .6971 | 2.6 | 3.3
100 | 04 | MED | RESPIRATORY SIGNS & SYMPTOMS W/O CC | .5206 | 1.8 | 2.2
101 | 04 | MED | OTHER RESPIRATORY SYSTEM DIAGNOSES W CC | .8605 | 3.6 | 4.7
102 | 04 | MED | OTHER RESPIRATORY SYSTEM DIAGNOSES W/O CC | .5226 | 2.1 | 2.7
103 | PRE | SURG | HEART TRANSPLANT | 19.8195 | 38.6 | 57.5
104 | 05 | SURG | CARDIAC VALVE & OTH MAJOR CARDIOTHORACIC PROC W CARD CATH | 7.7605 | 13.2 | 15.3
105 | 05 | SURG | CARDIAC VALVE & OTH MAJOR CARDIOTHORACIC PROC W/O CARD CATH | 5.6465 | 8.8 | 10.4
106 | 05 | SURG | CORONARY BYPASS W PTCA | 7.4382 | 10.7 | 12.3
107 | 05 | SURG | CORONARY BYPASS W CARDIAC CATH | 5.3005 | 9.7 | 10.9
108 | 05 | SURG | OTHER CARDIOTHORACIC PROCEDURES | 5.4994 | 9.2 | 11.2
109 | 05 | SURG | CORONARY BYPASS W/O PTCA OR CARDIAC CATH | 3.8957 | 7.0 | 8.0
110 | 05 | SURG | MAJOR CARDIOVASCULAR PROCEDURES W CC | 4.1492 | 8.1 | 10.2
111 | 05 | SURG | MAJOR CARDIOVASCULAR PROCEDURES W/O CC | 2.2835 | 4.3 | 5.1
112 | 05 | SURG | NO LONGER VALID | .0000 | .0 | .0
113 | 05 | SURG | AMPUTATION FOR CIRC SYSTEM DISORDERS EXCEPT UPPER LIMB & TOE | 2.6625 | 9.8 | 12.8
114 | 05 | SURG | UPPER LIMB & TOE AMPUTATION FOR CIRC SYSTEM DISORDERS | 1.6689 | 7.2 | 9.3
115 | 05 | SURG | PRM CARD PACEM IMPL W AMI, HRT FAIL OR SHK, OR AICD LEAD OR GN | 3.3784 | 7.2 | 9.2
116 | 05 | SURG | OTHER PERMANENT CARDIAC PACEMAKER IMPLANT | 2.2011 | 3.6 | 4.8
117 | 05 | SURG | CARDIAC PACEMAKER REVISION EXCEPT DEVICE REPLACEMENT | 1.3197 | 2.8 | 4.4
118 | 05 | SURG | CARDIAC PACEMAKER DEVICE REPLACEMENT | 1.4322 | 1.8 | 2.7
119 | 05 | SURG | VEIN LIGATION & STRIPPING | 1.3557 | 3.3 | 5.3
120 | 05 | SURG | OTHER CIRCULATORY SYSTEM O.R. PROCEDURES | 2.3452 | 6.7 | 9.9
121 | 05 | MED | CIRCULATORY DISORDERS W AMI & MAJOR COMP, DISCHARGED ALIVE | 1.5799 | 5.6 | 6.9
122 | 05 | MED | CIRCULATORY DISORDERS W AMI W/O MAJOR COMP, DISCHARGED ALIVE | 1.0268 | 3.2 | 3.9
123 | 05 | MED | CIRCULATORY DISORDERS W AMI, EXPIRED | 1.5882 | 3.2 | 5.0
124 | 05 | MED | CIRCULATORY DISORDERS EXCEPT AMI, W CARD CATH & COMPLEX DIAG | 1.4057 | 3.6 | 4.6
125 | 05 | MED | CIRCULATORY DISORDERS EXCEPT AMI, W CARD CATH W/O COMPLEX DIAG | 1.0395 | 2.2 | 2.8
126 | 05 | MED | ACUTE & SUBACUTE ENDOCARDITIS | 2.6700 | 10.5 | 12.9
127 | 05 | MED | HEART FAILURE & SHOCK | 1.0110 | 4.5 | 5.6
128 | 05 | MED | DEEP VEIN THROMBOPHLEBITIS | .7343 | 5.2 | 5.9
129 | 05 | MED | CARDIAC ARREST, UNEXPLAINED | 1.0273 | 1.7 | 2.8
130 | 05 | MED | PERIPHERAL VASCULAR DISORDERS W CC | .9401 | 5.0 | 6.1
131 | 05 | MED | PERIPHERAL VASCULAR DISORDERS W/O CC | .5775 | 3.8 | 4.5
132 | 05 | MED | ATHEROSCLEROSIS W CC | .6490 | 2.5 | 3.1
133 | 05 | MED | ATHEROSCLEROSIS W/O CC | .5567 | 1.9 | 2.3
134 | 05 | MED | HYPERTENSION | .5829 | 2.7 | 3.4
135 | 05 | MED | CARDIAC CONGENITAL & VALVULAR DISORDERS AGE >17 W CC | .9117 | 3.7 | 4.8
136 | 05 | MED | CARDIAC CONGENITAL & VALVULAR DISORDERS AGE >17 W/O CC | .5606 | 2.2 | 2.8
137 | 05 | MED | * CARDIAC CONGENITAL & VALVULAR DISORDERS AGE 0-17 | .8150 | 3.3 | 3.3
138 | 05 | MED | CARDIAC ARRHYTHMIA & CONDUCTION DISORDERS W CC | .8231 | 3.3 | 4.2
139 | 05 | MED | CARDIAC ARRHYTHMIA & CONDUCTION DISORDERS W/O CC | .4973 | 2.1 | 2.5
140 | 05 | MED | ANGINA PECTORIS | .5367 | 2.2 | 2.7
141 | 05 | MED | SYNCOPE & COLLAPSE W CC | .7231 | 3.0 | 3.8
142 | 05 | MED | SYNCOPE & COLLAPSE W/O CC | .5392 | 2.2 | 2.7
143 | 05 | MED | CHEST PAIN | .5198 | 1.7 | 2.1
144 | 05 | MED | OTHER CIRCULATORY SYSTEM DIAGNOSES W CC | 1.1995 | 4.3 | 5.8
145 | 05 | MED | OTHER CIRCULATORY SYSTEM DIAGNOSES W/O CC | .5919 | 2.2 | 2.8
146 | 06 | SURG | RECTAL RESECTION W CC | 2.7740 | 9.6 | 10.8
147 | 06 | SURG | RECTAL RESECTION W/O CC | 1.6036 | 6.2 | 6.7
148 | 06 | SURG | MAJOR SMALL & LARGE BOWEL PROCEDURES W CC | 3.5315 | 11.1 | 13.1
149 | 06 | SURG | MAJOR SMALL & LARGE BOWEL PROCEDURES W/O CC | 1.5103 | 6.2 | 6.7
150 | 06 | SURG | PERITONEAL ADHESIOLYSIS W CC | 2.9493 | 10.5 | 12.2
151 | 06 | SURG | PERITONEAL ADHESIOLYSIS W/O CC | 1.3502 | 5.3 | 6.3
152 | 06 | SURG | MINOR SMALL & LARGE BOWEL PROCEDURES W CC | 1.9465 | 7.4 | 8.7
153 | 06 | SURG | MINOR SMALL & LARGE BOWEL PROCEDURES W/O CC | 1.1614 | 5.1 | 5.6
154 | 06 | SURG | STOMACH, ESOPHAGEAL & DUODENAL PROCEDURES AGE >17 W CC | 4.3487 | 11.9 | 14.7
155 | 06 | SURG | STOMACH, ESOPHAGEAL & DUODENAL PROCEDURES AGE >17 W/O CC | 1.3356 | 3.5 | 4.5
156 | 06 | SURG | * STOMACH, ESOPHAGEAL & DUODENAL PROCEDURES AGE 0-17 | .8392 | 6.0 | 6.0
157 | 06 | SURG | ANAL & STOMAL PROCEDURES W CC | 1.2606 | 4.4 | 5.9
158 | 06 | SURG | ANAL & STOMAL PROCEDURES W/O CC | .6237 | 2.0 | 2.5
159 | 06 | SURG | HERNIA PROCEDURES EXCEPT INGUINAL & FEMORAL AGE >17 W CC | 1.3620 | 4.2 | 5.4
160 | 06 | SURG | HERNIA PROCEDURES EXCEPT INGUINAL & FEMORAL AGE >17 W/O CC | .7678 | 2.2 | 2.7
161 | 06 | SURG | INGUINAL & FEMORAL HERNIA PROCEDURES AGE >17 W CC | 1.1388 | 3.2 | 4.5
162 | 06 | SURG | INGUINAL & FEMORAL HERNIA PROCEDURES AGE >17 W/O CC | .6145 | 1.6 | 1.9
163 | 06 | SURG | * HERNIA PROCEDURES AGE 0-17 | .6885 | 2.1 | 2.1
164 | 06 | SURG | APPENDECTOMY W COMPLICATED PRINCIPAL DIAG W CC | 2.3980 | 7.8 | 9.0
165 | 06 | SURG | APPENDECTOMY W COMPLICATED PRINCIPAL DIAG W/O CC | 1.3000 | 4.5 | 5.0
166 | 06 | SURG | APPENDECTOMY W/O COMPLICATED PRINCIPAL DIAG W CC | 1.4919 | 4.2 | 5.4
167 | 06 | SURG | APPENDECTOMY W/O COMPLICATED PRINCIPAL DIAG W/O CC | .8778 | 2.2 | 2.6
168 | 03 | SURG | MOUTH PROCEDURES W CC | 1.3056 | 3.6 | 5.2
169 | 03 | SURG | MOUTH PROCEDURES W/O CC | .6981 | 1.8 | 2.3
170 | 06 | SURG | OTHER DIGESTIVE SYSTEM O.R. PROCEDURES W CC | 3.0651 | 9.6 | 12.7
171 | 06 | SURG | OTHER DIGESTIVE SYSTEM O.R. PROCEDURES W/O CC | 1.1773 | 3.9 | 5.0
172 | 06 | MED | DIGESTIVE MALIGNANCY W CC | 1.3972 | 5.9 | 7.6
173 | 06 | MED | DIGESTIVE MALIGNANCY W/O CC | .6929 | 2.9 | 3.9
174 | 06 | MED | G.I. HEMORRHAGE W CC | .9915 | 4.1 | 5.1
175 | 06 | MED | G.I. HEMORRHAGE W/O CC | .5435 | 2.6 | 3.0
176 | 06 | MED | COMPLICATED PEPTIC ULCER | 1.0908 | 4.4 | 5.6
177 | 06 | MED | UNCOMPLICATED PEPTIC ULCER W CC | .8938 | 3.9 | 4.8
178 | 06 | MED | UNCOMPLICATED PEPTIC ULCER W/O CC | .6424 | 2.7 | 3.2
179 | 06 | MED | INFLAMMATORY BOWEL DISEASE | 1.0861 | 5.1 | 6.4
180 | 06 | MED | G.I. OBSTRUCTION W CC | .9581 | 4.6 | 5.7
181 | 06 | MED | G.I. OBSTRUCTION W/O CC | .5245 | 3.0 | 3.5
182 | 06 | MED | ESOPHAGITIS, GASTROENT & MISC DIGEST DISORDERS AGE >17 W CC | .7959 | 3.6 | 4.6
183 | 06 | MED | ESOPHAGITIS, GASTROENT & MISC DIGEST DISORDERS AGE >17 W/O CC | .5586 | 2.4 | 3.0
184 | 06 | MED | ESOPHAGITIS, GASTROENT & MISC DIGEST DISORDERS AGE 0-17 | .4123 | 2.5 | 3.0
185 | 03 | MED | DENTAL & ORAL DIS EXCEPT EXTRACTIONS & RESTORATIONS, AGE >17 | .8675 | 3.6 | 4.8
186 | 03 | MED | * DENTAL & ORAL DIS EXCEPT EXTRACTIONS & RESTORATIONS, AGE 0-17 | .3199 | 2.9 | 2.9
187 | 03 | MED | DENTAL EXTRACTIONS & RESTORATIONS | .7960 | 3.2 | 4.2
188 | 06 | MED | OTHER DIGESTIVE SYSTEM DIAGNOSES AGE >17 W CC | 1.1234 | 4.6 | 6.0
189 | 06 | MED | OTHER DIGESTIVE SYSTEM DIAGNOSES AGE >17 W/O CC | .5791 | 2.5 | 3.3
190 | 06 | MED | OTHER DIGESTIVE SYSTEM DIAGNOSES AGE 0-17 | 1.1905 | 4.5 | 7.5
191 | 07 | SURG | PANCREAS, LIVER & SHUNT PROCEDURES W CC | 4.6065 | 12.1 | 15.5
192 | 07 | SURG | PANCREAS, LIVER & SHUNT PROCEDURES W/O CC | 1.8181 | 6.0 | 7.0
193 | 07 | SURG | BILIARY TRACT PROC EXCEPT ONLY CHOLECYST W OR W/O C.D.E. W CC | 3.5045 | 11.6 | 13.6
194 | 07 | SURG | BILIARY TRACT PROC EXCEPT ONLY CHOLECYST W OR W/O C.D.E. W/O CC | 1.7226 | 6.3 | 7.3
195 | 07 | SURG | CHOLECYSTECTOMY W C.D.E. W CC | 3.0850 | 9.4 | 10.9
196 | 07 | SURG | CHOLECYSTECTOMY W C.D.E. W/O CC | 1.6183 | 5.3 | 6.1
197 | 07 | SURG | CHOLECYSTECTOMY EXCEPT BY LAPAROSCOPE W/O C.D.E. W CC | 2.5761 | 8.1 | 9.6
198 | 07 | SURG | CHOLECYSTECTOMY EXCEPT BY LAPAROSCOPE W/O C.D.E. W/O CC | 1.2114 | 4.2 | 4.7
199 | 07 | SURG | HEPATOBILIARY DIAGNOSTIC PROCEDURE FOR MALIGNANCY | 2.4813 | 8.3 | 10.8
200 | 07 | SURG | HEPATOBILIARY DIAGNOSTIC PROCEDURE FOR NON-MALIGNANCY | 3.1972 | 8.5 | 12.0
201 | 07 | SURG | OTHER HEPATOBILIARY OR PANCREAS O.R. PROCEDURES | 3.8125 | 12.4 | 15.6
202 | 07 | MED | CIRRHOSIS & ALCOHOLIC HEPATITIS | 1.3280 | 5.5 | 7.0
203 | 07 | MED | MALIGNANCY OF HEPATOBILIARY SYSTEM OR PANCREAS | 1.3598 | 5.7 | 7.3
204 | 07 | MED | DISORDERS OF PANCREAS EXCEPT MALIGNANCY | 1.2076 | 4.9 | 6.2
205 | 07 | MED | DISORDERS OF LIVER EXCEPT MALIG,CIRR,ALC HEPA W CC | 1.2206 | 5.2 | 6.7
206 | 07 | MED | DISORDERS OF LIVER EXCEPT MALIG,CIRR,ALC HEPA W/O CC | .7345 | 3.3 | 4.1
207 | 07 | MED | DISORDERS OF THE BILIARY TRACT W CC | 1.1138 | 4.3 | 5.5
208 | 07 | MED | DISORDERS OF THE BILIARY TRACT W/O CC | .6397 | 2.4 | 3.0
209 | 08 | SURG | MAJOR JOINT & LIMB REATTACHMENT PROCEDURES OF LOWER EXTREMITY | 1.9943 | 4.6 | 5.1
210 | 08 | SURG | HIP & FEMUR PROCEDURES EXCEPT MAJOR JOINT AGE >17 W CC | 1.7528 | 6.1 | 6.9
211 | 08 | SURG | HIP & FEMUR PROCEDURES EXCEPT MAJOR JOINT AGE >17 W/O CC | 1.2261 | 4.6 | 5.0
212 | 08 | SURG | * HIP & FEMUR PROCEDURES EXCEPT MAJOR JOINT AGE 0-17 | .8428 | 11.1 | 11.1
213 | 08 | SURG | AMPUTATION FOR MUSCULOSKELETAL SYSTEM & CONN TISSUE DISORDERS | 1.9283 | 7.7 | 10.0
214 | 08 | SURG | NO LONGER VALID | .0000 | .0 | .0
215 | 08 | SURG | NO LONGER VALID | .0000 | .0 | .0
216 | 08 | SURG | BIOPSIES OF MUSCULOSKELETAL SYSTEM & CONNECTIVE TISSUE | 2.3133 | 8.5 | 10.9
217 | 08 | SURG | WND DEBRID & SKN GRFT EXCEPT HAND, FOR MUSCSKELET & CONN TISS DIS | 3.1808 | 11.0 | 15.1
218 | 08 | SURG | LOWER EXTREM & HUMER PROC EXCEPT HIP, FOOT, FEMUR AGE >17 W CC | 1.5448 | 4.7 | 5.7
219 | 08 | SURG | LOWER EXTREM & HUMER PROC EXCEPT HIP, FOOT, FEMUR AGE >17 W/O CC | .9972 | 2.8 | 3.3
220 | 08 | SURG | * LOWER EXTREM & HUMER PROC EXCEPT HIP, FOOT, FEMUR AGE 0-17 | .5814 | 5.3 | 5.3
221 | 08 | SURG | NO LONGER VALID | .0000 | .0 | .0
222 | 08 | SURG | NO LONGER VALID | .0000 | .0 | .0
223 | 08 | SURG | MAJOR SHOULDER/ELBOW PROC, OR OTHER UPPER EXTREMITY PROC W CC | .9734 | 2.1 | 2.9
224 | 08 | SURG | SHOULDER, ELBOW OR FOREARM PROC, EXC MAJOR JOINT PROC, W/O CC | .7724 | 1.6 | 1.9
225 | 08 | SURG | FOOT PROCEDURES | 1.1177 | 3.8 | 5.3
226 | 08 | SURG | SOFT TISSUE PROCEDURES W CC | 1.5897 | 5.2 | 7.3
227 | 08 | SURG | SOFT TISSUE PROCEDURES W/O CC | .7937 | 2.1 | 2.8
228 | 08 | SURG | MAJOR THUMB OR JOINT PROC, OR OTH HAND OR WRIST PROC W CC | 1.0885 | 2.7 | 4.0
229 | 08 | SURG | HAND OR WRIST PROC, EXCEPT MAJOR JOINT PROC, W/O CC | .7168 | 1.9 | 2.5
230 | 08 | SURG | LOCAL EXCISION & REMOVAL OF INT FIX DEVICES OF HIP & FEMUR | 1.3559 | 3.9 | 5.8
231 | 08 | SURG | LOCAL EXCISION & REMOVAL OF INT FIX DEVICES EXCEPT HIP & FEMUR | 1.4317 | 3.6 | 5.4
232 | 08 | SURG | ARTHROSCOPY | .9556 | 1.8 | 2.9
233 | 08 | SURG | OTHER MUSCULOSKELET SYS & CONN TISS O.R. PROC W CC | 2.0909 | 6.2 | 8.4
234 | 08 | SURG | OTHER MUSCULOSKELET SYS & CONN TISS O.R. PROC W/O CC | 1.2075 | 2.7 | 3.6
235 | 08 | MED | FRACTURES OF FEMUR | .7548 | 4.1 | 5.4
236 | 08 | MED | FRACTURES OF HIP & PELVIS | .6882 | 3.9 | 4.9
237 | 08 | MED | SPRAINS, STRAINS, & DISLOCATIONS OF HIP, PELVIS & THIGH | .5323 | 3.0 | 3.7
238 | 08 | MED | OSTEOMYELITIS | 1.4035 | 7.3 | 9.3
239 | 08 | MED | PATHOLOGICAL FRACTURES & MUSCULOSKELETAL & CONN TISS MALIGNANCY | 1.0017 | 5.4 | 6.7
240 | 08 | MED | CONNECTIVE TISSUE DISORDERS W CC | 1.3701 | 5.6 | 7.2
241 | 08 | MED | CONNECTIVE TISSUE DISORDERS W/O CC | .6337 | 3.3 | 4.0
242 | 08 | MED | SEPTIC ARTHRITIS | 1.0920 | 5.7 | 7.2
243 | 08 | MED | MEDICAL BACK PROBLEMS | .7299 | 4.0 | 4.9
244 | 08 | MED | BONE DISEASES & SPECIFIC ARTHROPATHIES W CC | .7150 | 4.1 | 5.1
245 | 08 | MED | BONE DISEASES & SPECIFIC ARTHROPATHIES W/O CC | .4655 | 2.9 | 3.6
246 | 08 | MED | NON-SPECIFIC ARTHROPATHIES | .5711 | 3.2 | 4.0
247 | 08 | MED | SIGNS & SYMPTOMS OF MUSCULOSKELETAL SYSTEM & CONN TISSUE | .5594 | 2.8 | 3.5
248 | 08 | MED | TENDONITIS, MYOSITIS & BURSITIS | .8148 | 4.1 | 5.1
249 | 08 | MED | AFTERCARE, MUSCULOSKELETAL SYSTEM & CONNECTIVE TISSUE | .6767 | 2.7 | 3.9
250 | 08 | MED | FX, SPRN, STRN & DISL OF FOREARM, HAND, FOOT AGE >17 W CC | .6809 | 3.5 | 4.3
251 | 08 | MED | FX, SPRN, STRN & DISL OF FOREARM, HAND, FOOT AGE >17 W/O CC | .4555 | 2.4 | 2.9
252 | 08 | MED | * FX, SPRN, STRN & DISL OF FOREARM, HAND, FOOT AGE 0-17 | .2525 | 1.8 | 1.8
253 | 08 | MED | FX, SPRN, STRN & DISL OF UPARM, LOWLEG EX FOOT AGE >17 W CC | .7398 | 4.0 | 5.0
254 | 08 | MED | FX, SPRN, STRN & DISL OF UPARM, LOWLEG EX FOOT AGE >17 W/O CC | .4297 | 2.8 | 3.3
255 | 08 | MED | * FX, SPRN, STRN & DISL OF UPARM, LOWLEG EX FOOT AGE 0-17 | .2941 | 2.9 | 2.9
256 | 08 | MED | OTHER MUSCULOSKELETAL SYSTEM & CONNECTIVE TISSUE DIAGNOSES | .8170 | 4.2 | 5.5
257 | 09 | SURG | TOTAL MASTECTOMY FOR MALIGNANCY W CC | .8801 | 2.2 | 2.8
258 | 09 | SURG | TOTAL MASTECTOMY FOR MALIGNANCY W/O CC | .6970 | 1.7 | 1.9
259 | 09 | SURG | SUBTOTAL MASTECTOMY FOR MALIGNANCY W CC | .8736 | 1.8 | 2.7
260 | 09 | SURG | SUBTOTAL MASTECTOMY FOR MALIGNANCY W/O CC | .6431 | 1.3 | 1.4
261 | 09 | SURG | BREAST PROC FOR NON-MALIGNANCY EXCEPT BIOPSY & LOCAL EXCISION | .9218 | 1.7 | 2.3
262 | 09 | SURG | BREAST BIOPSY & LOCAL EXCISION FOR NON-MALIGNANCY | .8377 | 3.0 | 4.2
263 | 09 | SURG | SKIN GRAFT &/OR DEBRID FOR SKN ULCER OR CELLULITIS W CC | 2.1570 | 9.4 | 12.7
264 | 09 | SURG | SKIN GRAFT &/OR DEBRID FOR SKN ULCER OR CELLULITIS W/O CC | 1.1826 | 6.0 | 7.7
265 | 09 | SURG | SKIN GRAFT &/OR DEBRID EXCEPT FOR SKIN ULCER OR CELLULITIS W CC | 1.6900 | 5.2 | 7.6
266 | 09 | SURG | SKIN GRAFT &/OR DEBRID EXCEPT FOR SKIN ULCER OR CELLULITIS W/O CC | .8435 | 2.5 | 3.4
267 | 09 | SURG | PERIANAL & PILONIDAL PROCEDURES | .9421 | 3.3 | 4.5
268 | 09 | SURG | SKIN, SUBCUTANEOUS TISSUE & BREAST PLASTIC PROCEDURES | 1.2255 | 2.5 | 3.6
269 | 09 | SURG | OTHER SKIN, SUBCUT TISS & BREAST PROC W CC | 1.8049 | 6.9 | 9.3
270 | 09 | SURG | OTHER SKIN, SUBCUT TISS & BREAST PROC W/O CC | .8020 | 2.6 | 3.8
271 | 09 | MED | SKIN ULCERS | 1.1503 | 6.5 | 8.3
272 | 09 | MED | MAJOR SKIN DISORDERS W CC | 1.0243 | 5.2 | 6.7
273 | 09 | MED | MAJOR SKIN DISORDERS W/O CC | .5658 | 3.4 | 4.2
274 | 09 | MED | MALIGNANT BREAST DISORDERS W CC | 1.1892 | 5.5 | 7.2
275 | 09 | MED | MALIGNANT BREAST DISORDERS W/O CC | .6594 | 3.0 | 4.6
276 | 09 | MED | NON-MALIGANT BREAST DISORDERS | .6954 | 4.0 | 5.0
277 | 09 | MED | CELLULITIS AGE >17 W CC | .8585 | 5.1 | 6.1
278 | 09 | MED | CELLULITIS AGE >17 W/O CC | .5638 | 3.9 | 4.6
279 | 09 | MED | * CELLULITIS AGE 0-17 | .6610 | 4.2 | 4.2
280 | 09 | MED | TRAUMA TO THE SKIN, SUBCUT TISS & BREAST AGE >17 W CC | .6940 | 3.5 | 4.4
281 | 09 | MED | TRAUMA TO THE SKIN, SUBCUT TISS & BREAST AGE >17 W/O CC | .4591 | 2.5 | 3.1
282 | 09 | MED | * TRAUMA TO THE SKIN, SUBCUT TISS & BREAST AGE 0-17 | .2557 | 2.2 | 2.2
283 | 09 | MED | MINOR SKIN DISORDERS W CC | .7154 | 3.8 | 4.9
284 | 09 | MED | MINOR SKIN DISORDERS W/O CC | .4216 | 2.5 | 3.2
285 | 10 | SURG | AMPUTAT OF LOWER LIMB FOR ENDOCRINE, NUTRIT, & METABOL DISORDERS | 2.1315 | 9.1 | 11.4
286 | 10 | SURG | ADRENAL & PITUITARY PROCEDURES | 2.2277 | 5.3 | 6.9
287 | 10 | SURG | SKIN GRAFTS & WOUND DEBRID FOR ENDOC, NUTRIT & METAB DISORDERS | 1.9616 | 8.9 | 11.7
288 | 10 | SURG | O.R. PROCEDURES FOR OBESITY | 2.1682 | 4.9 | 6.0
289 | 10 | SURG | PARATHYROID PROCEDURES | .9529 | 1.9 | 3.0
290 | 10 | SURG | THYROID PROCEDURES | .8853 | 1.7 | 2.3
291 | 10 | SURG | THYROGLOSSAL PROCEDURES | .5910 | 1.5 | 1.8
292 | 10 | SURG | OTHER ENDOCRINE, NUTRIT & METAB O.R. PROC W CC | 2.7588 | 9.1 | 11.9
293 | 10 | SURG | OTHER ENDOCRINE, NUTRIT & METAB O.R. PROC W/O CC | 1.2638 | 4.5 | 6.0
294 | 10 | MED | DIABETES AGE >35 | .7623 | 3.8 | 4.9
295 | 10 | MED | DIABETES AGE 0-35 | .7468 | 3.1 | 3.9
296 | 10 | MED | NUTRITIONAL & MISC METABOLIC DISORDERS AGE >17 W CC | .8632 | 4.3 | 5.5
297 | 10 | MED | NUTRITIONAL & MISC METABOLIC DISORDERS AGE >17 W/O CC | .5070 | 2.9 | 3.5
298 | 10 | MED | NUTRITIONAL & MISC METABOLIC DISORDERS AGE 0-17 | .3944 | 2.2 | 2.9
299 | 10 | MED | INBORN ERRORS OF METABOLISM | .8939 | 4.3 | 5.6
300 | 10 | MED | ENDOCRINE DISORDERS W CC | 1.1234 | 5.3 | 6.6
301 | 10 | MED | ENDOCRINE DISORDERS W/O CC | .6063 | 3.0 | 3.8
302 | 11 | SURG | KIDNEY TRANSPLANT | 3.2881 | 7.9 | 9.3
303 | 11 | SURG | KIDNEY, URETER & MAJOR BLADDER PROCEDURES FOR NEOPLASM | 2.4853 | 7.5 | 9.0
304 | 11 | SURG | KIDNEY, URETER & MAJOR BLADDER PROC FOR NON-NEOPL W CC | 2.4558 | 7.4 | 9.7
305 | 11 | SURG | KIDNEY, URETER & MAJOR BLADDER PROC FOR NON-NEOPL W/O CC | 1.1486 | 3.1 | 3.8
306 | 11 | SURG | PROSTATECTOMY W CC | 1.3006 | 4.3 | 6.2
307 | 11 | SURG | PROSTATECTOMY W/O CC | .6054 | 1.9 | 2.3
308 | 11 | SURG | MINOR BLADDER PROCEDURES W CC | 1.6788 | 4.8 | 6.9
309 | 11 | SURG | MINOR BLADDER PROCEDURES W/O CC | .8935 | 1.8 | 2.3
310 | 11 | SURG | TRANSURETHRAL PROCEDURES W CC | 1.1342 | 3.3 | 4.7
311 | 11 | SURG | TRANSURETHRAL PROCEDURES W/O CC | .5952 | 1.5 | 1.8
312 | 11 | SURG | URETHRAL PROCEDURES, AGE >17 W CC | 1.0749 | 3.3 | 4.8
313 | 11 | SURG | URETHRAL PROCEDURES, AGE >17 W/O CC | .6598 | 1.8 | 2.3
314 | 11 | SURG | * URETHRAL PROCEDURES, AGE 0-17 | .4927 | 2.3 | 2.3
315 | 11 | SURG | OTHER KIDNEY & URINARY TRACT O.R. PROCEDURES | 2.1396 | 4.8 | 8.2
316 | 11 | MED | RENAL FAILURE | 1.3732 | 5.6 | 7.3
317 | 11 | MED | ADMIT FOR RENAL DIALYSIS | .6157 | 2.0 | 2.9
318 | 11 | MED | KIDNEY & URINARY TRACT NEOPLASMS W CC | 1.1710 | 5.0 | 6.5
319 | 11 | MED | KIDNEY & URINARY TRACT NEOPLASMS W/O CC | .5918 | 2.1 | 2.8
320 | 11 | MED | KIDNEY & URINARY TRACT INFECTIONS AGE >17 W CC | .8610 | 4.6 | 5.6
321 | 11 | MED | KIDNEY & URINARY TRACT INFECTIONS AGE >17 W/O CC | .5592 | 3.3 | 3.9
322 | 11 | MED | KIDNEY & URINARY TRACT INFECTIONS AGE 0-17 | .5234 | 3.6 | 4.3
323 | 11 | MED | URINARY STONES W CC, &/OR ESW LITHOTRIPSY | .7969 | 2.5 | 3.3
324 | 11 | MED | URINARY STONES W/O CC | .4447 | 1.6 | 1.9
325 | 11 | MED | KIDNEY & URINARY TRACT SIGNS & SYMPTOMS AGE >17 W CC | .6332 | 3.1 | 4.0
326 | 11 | MED | KIDNEY & URINARY TRACT SIGNS & SYMPTOMS AGE >17 W/O CC | .4118 | 2.1 | 2.7
327 | 11 | MED | KIDNEY & URINARY TRACT SIGNS & SYMPTOMS AGE 0-17 | .3741 | 2.8 | 3.2
328 | 11 | MED | URETHRAL STRICTURE AGE >17 W CC | .7216 | 2.9 | 3.8
329 | 11 | MED | URETHRAL STRICTURE AGE >17 W/O CC | .4388 | 1.6 | 2.0
330 | 11 | MED | * URETHRAL STRICTURE AGE 0-17 | .3174 | 1.6 | 1.6
331 | 11 | MED | OTHER KIDNEY & URINARY TRACT DIAGNOSES AGE >17 W CC | 1.0625 | 4.6 | 6.0
332 | 11 | MED | OTHER KIDNEY & URINARY TRACT DIAGNOSES AGE >17 W/O CC | .6057 | 2.6 | 3.4
333 | 11 | MED | OTHER KIDNEY & URINARY TRACT DIAGNOSES AGE 0-17 | .8056 | 4.0 | 5.4
334 | 12 | SURG | MAJOR MALE PELVIC PROCEDURES W CC | 1.4761 | 4.0 | 4.5
335 | 12 | SURG | MAJOR MALE PELVIC PROCEDURES W/O CC | 1.1081 | 3.0 | 3.2
336 | 12 | SURG | TRANSURETHRAL PROSTATECTOMY W CC | .9149 | 2.9 | 3.9
337 | 12 | SURG | TRANSURETHRAL PROSTATECTOMY W/O CC | .5769 | 1.9 | 2.2
338 | 12 | SURG | TESTES PROCEDURES, FOR MALIGNANCY | 1.2150 | 3.7 | 5.6
339 | 12 | SURG | TESTES PROCEDURES, NON-MALIGNANCY AGE >17 | 1.2384 | 3.5 | 5.5
340 | 12 | SURG | * TESTES PROCEDURES, NON-MALIGNANCY AGE 0-17 | .2820 | 2.4 | 2.4
341 | 12 | SURG | PENIS PROCEDURES | 1.2740 | 1.9 | 3.1
342 | 12 | SURG | CIRCUMCISION AGE >17 | .7866 | 2.6 | 3.6
343 | 12 | SURG | * CIRCUMCISION AGE 0-17 | .1533 | 1.7 | 1.7
344 | 12 | SURG | OTHER MALE REPRODUCTIVE SYSTEM O.R. PROCEDURES FOR MALIGNANCY | 1.1746 | 1.6 | 2.4
345 | 12 | SURG | OTHER MALE REPRODUCTIVE SYSTEM O.R. PROC EXCEPT FOR MALIGNANCY | 1.2518 | 3.9 | 5.6
346 | 12 | MED | MALIGNANCY, MALE REPRODUCTIVE SYSTEM, W CC | 1.0311 | 4.9 | 6.4
347 | 12 | MED | MALIGNANCY, MALE REPRODUCTIVE SYSTEM, W/O CC | .5701 | 2.3 | 3.0
348 | 12 | MED | * BENIGN PROSTATIC HYPERTROPHY W CC | .7105 | 6.2 | 6.2
349 | 12 | MED | * BENIGN PROSTATIC HYPERTROPHY W/O CC | .4357 | 4.9 | 4.9
350 | 12 | MED | INFLAMMATION OF THE MALE REPRODUCTIVE SYSTEM | .7173 | 3.8 | 4.6
351 | 12 | MED | * STERILIZATION, MALE | .2352 | 1.3 | 1.3
352 | 12 | MED | OTHER MALE REPRODUCTIVE SYSTEM DIAGNOSES | .6878 | 3.0 | 4.2
353 | 13 | SURG | PELVIC EVISCERATION, RADICAL HYSTERECTOMY & RADICAL VULVECTOMY | 1.8386 | 5.4 | 6.8
354 | 13 | SURG | UTERINE,ADNEXA PROC FOR NON-OVARIAN/ADNEXAL MALIG W CC | 1.5275 | 5.1 | 6.1
355 | 13 | SURG | UTERINE,ADNEXA PROC FOR NON-OVARIAN/ADNEXAL MALIG W/O CC | .9039 | 3.1 | 3.3
356 | 13 | SURG | FEMALE REPRODUCTIVE SYSTEM RECONSTRUCTIVE PROCEDURES | .7469 | 2.0 | 2.3
357 | 13 | SURG | UTERINE & ADNEXA PROC FOR OVARIAN OR ADNEXAL MALIGNANCY | 2.4424 | 7.5 | 9.2
358 | 13 | SURG | UTERINE & ADNEXA PROC FOR NON-MALIGNANCY W CC | 1.1910 | 3.7 | 4.4
359 | 13 | SURG | UTERINE & ADNEXA PROC FOR NON-MALIGNANCY W/O CC | .8191 | 2.6 | 2.8
360 | 13 | SURG | VAGINA, CERVIX & VULVA PROCEDURES | .8530 | 2.4 | 2.9
361 | 13 | SURG | LAPAROSCOPY & INCISIONAL TUBAL INTERRUPTION | 1.0927 | 2.2 | 3.0
362 | 13 | SURG | * ENDOSCOPIC TUBAL INTERRUPTION | .3006 | 1.4 | 1.4
363 | 13 | SURG | D&C, CONIZATION & RADIO-IMPLANT, FOR MALIGNANCY | .8149 | 2.6 | 3.6
364 | 13 | SURG | D&C, CONIZATION EXCEPT FOR MALIGNANCY | .8190 | 2.9 | 4.1
365 | 13 | SURG | OTHER FEMALE REPRODUCTIVE SYSTEM O.R. PROCEDURES | 2.0115 | 5.8 | 8.1
366 | 13 | MED | MALIGNANCY, FEMALE REPRODUCTIVE SYSTEM W CC | 1.2739 | 5.6 | 7.4
367 | 13 | MED | MALIGNANCY, FEMALE REPRODUCTIVE SYSTEM W/O CC | .5582 | 2.4 | 3.2
368 | 13 | MED | INFECTIONS, FEMALE REPRODUCTIVE SYSTEM | 1.1384 | 5.6 | 7.0
369 | 13 | MED | MENSTRUAL & OTHER FEMALE REPRODUCTIVE SYSTEM DISORDERS | .5584 | 2.5 | 3.4
370 | 14 | SURG | CESAREAN SECTION W CC | 1.0417 | 4.6 | 6.1
371 | 14 | SURG | CESAREAN SECTION W/O CC | .6848 | 3.3 | 3.7
372 | 14 | MED | VAGINAL DELIVERY W COMPLICATING DIAGNOSES | .5578 | 2.6 | 3.3
373 | 14 | MED | VAGINAL DELIVERY W/O COMPLICATING DIAGNOSES | .3764 | 2.0 | 2.3
374 | 14 | SURG | VAGINAL DELIVERY W STERILIZATION &/OR D&C | .7103 | 2.6 | 3.2
375 | 14 | SURG | VAGINAL DELIVERY W O.R. PROC EXCEPT STERIL &/OR D&C | .6081 | 2.1 | 2.3
376 | 14 | MED | POSTPARTUM & POST ABORTION DIAGNOSES W/O O.R. PROCEDURE | .4954 | 2.5 | 3.2
377 | 14 | SURG | POSTPARTUM & POST ABORTION DIAGNOSES W O.R. PROCEDURE | 1.6465 | 3.7 | 5.6
378 | 14 | MED | ECTOPIC PREGNANCY | .7984 | 2.0 | 2.4
379 | 14 | MED | THREATENED ABORTION | .4502 | 2.4 | 3.5
380 | 14 | MED | ABORTION W/O D&C | .4196 | 1.6 | 2.1
381 | 14 | SURG | ABORTION W D&C, ASPIRATION CURETTAGE OR HYSTEROTOMY | .6654 | 1.8 | 2.5
382 | 14 | MED | FALSE LABOR | .1607 | 1.2 | 1.3
383 | 14 | MED | OTHER ANTEPARTUM DIAGNOSES W MEDICAL COMPLICATIONS | .4856 | 2.8 | 3.8
384 | 14 | MED | OTHER ANTEPARTUM DIAGNOSES W/O MEDICAL COMPLICATIONS | .3412 | 1.6 | 2.2
385 | 15 | MED | * NEONATES, DIED OR TRANSFERRED TO ANOTHER ACUTE CARE FACILITY | 1.3696 | 1.8 | 1.8
386 | 15 | MED | * EXTREME IMMATURITY OR RESPIRATORY DISTRESS SYNDROME, NEONATE | 4.5165 | 17.9 | 17.9
387 | 15 | MED | * PREMATURITY W MAJOR PROBLEMS | 3.0846 | 13.3 | 13.3
388 | 15 | MED | * PREMATURITY W/O MAJOR PROBLEMS | 1.8612 | 8.6 | 8.6
389 | 15 | MED | FULL TERM NEONATE W MAJOR PROBLEMS | 2.0857 | 7.9 | 13.7
390 | 15 | MED | NEONATE W OTHER SIGNIFICANT PROBLEMS | 1.1337 | 3.5 | 4.3
391 | 15 | MED | * NORMAL NEWBORN | .1519 | 3.1 | 3.1
392 | 16 | SURG | SPLENECTOMY AGE >17 | 3.3890 | 8.3 | 10.8
393 | 16 | SURG | * SPLENECTOMY AGE 0-17 | 1.3416 | 9.1 | 9.1
394 | 16 | SURG | OTHER O.R. PROCEDURES OF THE BLOOD AND BLOOD FORMING ORGANS | 1.8266 | 5.1 | 8.1
395 | 16 | MED | RED BLOOD CELL DISORDERS AGE >17 | .8194 | 3.5 | 4.7
396 | 16 | MED | RED BLOOD CELL DISORDERS AGE 0-17 | 1.0480 | 3.9 | 5.0
397 | 16 | MED | COAGULATION DISORDERS | 1.2664 | 4.2 | 5.6
398 | 16 | MED | RETICULOENDOTHELIAL & IMMUNITY DISORDERS W CC | 1.3049 | 5.1 | 6.4
399 | 16 | MED | RETICULOENDOTHELIAL & IMMUNITY DISORDERS W/O CC | .6690 | 3.0 | 3.7
400 | 17 | SURG | LYMPHOMA & LEUKEMIA W MAJOR O.R. PROCEDURE | 2.9273 | 7.4 | 10.5
401 | 17 | SURG | LYMPHOMA & NON-ACUTE LEUKEMIA W OTHER O.R. PROC W CC | 2.9814 | 9.9 | 12.8
402 | 17 | SURG | LYMPHOMA & NON-ACUTE LEUKEMIA W OTHER O.R. PROC W/O CC | 1.1619 | 3.1 | 4.4
403 | 17 | MED | LYMPHOMA & NON-ACUTE LEUKEMIA W CC | 1.8486 | 6.8 | 9.0
404 | 17 | MED | LYMPHOMA & NON-ACUTE LEUKEMIA W/O CC | .8711 | 3.4 | 4.6
405 | 17 | MED | * ACUTE LEUKEMIA W/O MAJOR O.R. PROCEDURE AGE 0-17 | 1.9021 | 4.9 | 4.9
406 | 17 | SURG | MYELOPROLIF DISORD OR POORLY DIFF NEOPL W MAJ O.R.PROC W CC | 2.9692 | 8.4 | 11.0
407 | 17 | SURG | MYELOPROLIF DISORD OR POORLY DIFF NEOPL W MAJ O.R.PROC W/O CC | 1.2484 | 3.8 | 4.7
408 | 17 | SURG | MYELOPROLIF DISORD OR POORLY DIFF NEOPL W OTHER O.R.PROC | 2.2150 | 6.0 | 9.2
409 | 17 | MED | RADIOTHERAPY | 1.1469 | 4.9 | 6.3
410 | 17 | MED | CHEMOTHERAPY W/O ACUTE LEUKEMIA AS SECONDARY DIAGNOSIS | .9972 | 3.3 | 4.1
411 | 17 | MED | HISTORY OF MALIGNANCY W/O ENDOSCOPY | .4401 | 1.8 | 2.3
412 | 17 | MED | HISTORY OF MALIGNANCY W ENDOSCOPY | .6073 | 1.9 | 2.4
413 | 17 | MED | OTHER MYELOPROLIF DIS OR POORLY DIFF NEOPL DIAG W CC | 1.3898 | 6.1 | 7.8
414 | 17 | MED | OTHER MYELOPROLIF DIS OR POORLY DIFF NEOPL DIAG W/O CC | .7422 | 3.5 | 4.5
415 | 18 | SURG | O.R. PROCEDURE FOR INFECTIOUS & PARASITIC DISEASES | 3.8811 | 12.6 | 16.2
416 | 18 | MED | SEPTICEMIA AGE >17 | 1.6209 | 6.4 | 8.1
417 | 18 | MED | SEPTICEMIA AGE 0-17 | .8498 | 4.5 | 5.3
418 | 18 | MED | POSTOPERATIVE & POST-TRAUMATIC INFECTIONS | 1.0452 | 5.3 | 6.6
419 | 18 | MED | FEVER OF UNKNOWN ORIGIN AGE >17 W CC | .8617 | 4.0 | 5.0
420 | 18 | MED | FEVER OF UNKNOWN ORIGIN AGE >17 W/O CC | .6114 | 3.0 | 3.6
421 | 18 | MED | VIRAL ILLNESS AGE >17 | .6646 | 3.2 | 3.9
422 | 18 | MED | VIRAL ILLNESS & FEVER OF UNKNOWN ORIGIN AGE 0-17 | .4800 | 2.6 | 3.2
423 | 18 | MED | OTHER INFECTIOUS & PARASITIC DISEASES DIAGNOSES | 1.8405 | 6.7 | 9.0
424 | 19 | SURG | O.R. PROCEDURE W PRINCIPAL DIAGNOSES OF MENTAL ILLNESS | 2.4350 | 10.7 | 15.6
425 | 19 | MED | ACUTE ADJUSTMENT REACTION & PSYCHOSOCIAL DYSFUNCTION | .6799 | 3.2 | 4.2
426 | 19 | MED | DEPRESSIVE NEUROSES | .5276 | 3.5 | 4.7
427 | 19 | MED | NEUROSES EXCEPT DEPRESSIVE | .5438 | 3.6 | 5.0
428 | 19 | MED | DISORDERS OF PERSONALITY & IMPULSE CONTROL | .7200 | 5.0 | 7.6
429 | 19 | MED | ORGANIC DISTURBANCES & MENTAL RETARDATION | .8357 | 5.2 | 6.8
430 | 19 | MED | PSYCHOSES | .7653 | 6.7 | 8.9
431 | 19 | MED | CHILDHOOD MENTAL DISORDERS | .6309 | 5.0 | 6.8
432 | 19 | MED | OTHER MENTAL DISORDER DIAGNOSES | .7068 | 3.4 | 5.1
433 | 20 | MED | ALCOHOL/DRUG ABUSE OR DEPENDENCE, LEFT AMA | .2852 | 2.3 | 3.2
434 | 20 | MED | NO LONGER VALID | .0000 | .0 | .0
435 | 20 | MED | NO LONGER VALID | .0000 | .0 | .0
436 | 20 | MED | NO LONGER VALID | .0000 | .0 | .0
437 | 20 | MED | NO LONGER VALID | .0000 | .0 | .0
438 | 20 |  | NO LONGER VALID | .0000 | .0 | .0
439 | 21 | SURG | SKIN GRAFTS FOR INJURIES | 1.9350 | 6.7 | 9.5
440 | 21 | SURG | WOUND DEBRIDEMENTS FOR INJURIES | 2.0732 | 7.1 | 10.3
441 | 21 | SURG | HAND PROCEDURES FOR INJURIES | .9273 | 2.3 | 3.3
442 | 21 | SURG | OTHER O.R. PROCEDURES FOR INJURIES W CC | 2.5349 | 6.8 | 9.6
443 | 21 | SURG | OTHER O.R. PROCEDURES FOR INJURIES W/O CC | .9896 | 2.7 | 3.6
444 | 21 | MED | TRAUMATIC INJURY AGE >17 W CC | .7244 | 3.4 | 4.4
445 | 21 | MED | TRAUMATIC INJURY AGE >17 W/O CC | .4713 | 2.4 | 3.0
446 | 21 | MED | * TRAUMATIC INJURY AGE 0-17 | .2949 | 2.4 | 2.4
447 | 21 | MED | ALLERGIC REACTIONS AGE >17 | .4851 | 1.9 | 2.5
448 | 21 | MED | * ALLERGIC REACTIONS AGE 0-17 | .0970 | 2.9 | 2.9
449 | 21 | MED | POISONING & TOXIC EFFECTS OF DRUGS AGE >17 W CC | .8306 | 2.8 | 3.9
450 | 21 | MED | POISONING & TOXIC EFFECTS OF DRUGS AGE >17 W/O CC | .4161 | 1.6 | 2.0
451 | 21 | MED | * POISONING & TOXIC EFFECTS OF DRUGS AGE 0-17 | .2618 | 2.1 | 2.1
452 | 21 | MED | COMPLICATIONS OF TREATMENT W CC | 1.0125 | 3.8 | 5.2
453 | 21 | MED | COMPLICATIONS OF TREATMENT W/O CC | .4997 | 2.2 | 2.8
454 | 21 | MED | OTHER INJURY, POISONING & TOXIC EFFECT DIAG W CC | .8713 | 3.4 | 4.9
455 | 21 | MED | OTHER INJURY, POISONING & TOXIC EFFECT DIAG W/O CC | .4617 | 1.9 | 2.6
456 | 22 |  | NO LONGER VALID | .0000 | .0 | .0
457 | 22 | MED | NO LONGER VALID | .0000 | .0 | .0
458 | 22 | SURG | NO LONGER VALID | .0000 | .0 | .0
459 | 22 | SURG | NO LONGER VALID | .0000 | .0 | .0
460 | 22 | MED | NO LONGER VALID | .0000 | .0 | .0
461 | 23 | SURG | O.R. PROC W DIAGNOSES OF OTHER CONTACT W HEALTH SERVICES | 1.1994 | 2.5 | 4.6
462 | 23 | MED | REHABILITATION | 1.2033 | 10.4 | 12.3
463 | 23 | MED | SIGNS & SYMPTOMS W CC | .6818 | 3.4 | 4.3
464 | 23 | MED | SIGNS & SYMPTOMS W/O CC | .4630 | 2.5 | 3.1
465 | 23 | MED | AFTERCARE W HISTORY OF MALIGNANCY AS SECONDARY DIAGNOSIS | .6065 | 2.5 | 3.6
466 | 23 | MED | AFTERCARE W/O HISTORY OF MALIGNANCY AS SECONDARY DIAGNOSIS | .6630 | 2.5 | 4.2
467 | 23 | MED | OTHER FACTORS INFLUENCING HEALTH STATUS | .5762 | 2.7 | 4.1
468 |  |  | EXTENSIVE O.R. PROCEDURE UNRELATED TO PRINCIPAL DIAGNOSIS | 3.8458 | 11.3 | 14.5
469 |  |  | ** PRINCIPAL DIAGNOSIS INVALID AS DISCHARGE DIAGNOSIS | .0000 | .0 | .0
470 |  |  | ** UNGROUPABLE | .0000 | .0 | .0
471 | 08 | SURG | BILATERAL OR MULTIPLE MAJOR JOINT PROCS OF LOWER EXTREMITY | 2.9929 | 5.0 | 5.7
472 | 22 | SURG | NO LONGER VALID | .0000 | .0 | .0
473 | 17 | SURG | ACUTE LEUKEMIA W/O MAJOR O.R. PROCEDURE AGE >17 | 3.9044 | 9.7 | 15.0
474 | 04 | SURG | NO LONGER VALID | .0000 | .0 | .0
475 | 04 | MED | RESPIRATORY SYSTEM DIAGNOSIS WITH VENTILATOR SUPPORT | 3.9155 | 10.0 | 12.7
476 |  | SURG | PROSTATIC O.R. PROCEDURE UNRELATED TO PRINCIPAL DIAGNOSIS | 2.2902 | 10.0 | 12.3
477 |  | SURG | NON-EXTENSIVE O.R. PROCEDURE UNRELATED TO PRINCIPAL DIAGNOSIS | 1.9571 | 6.7 | 9.3
478 | 05 | SURG | OTHER VASCULAR PROCEDURES W CC | 2.4276 | 5.9 | 8.2
479 | 05 | SURG | OTHER VASCULAR PROCEDURES W/O CC | 1.4024 | 2.8 | 3.7
480 | PRE | SURG | LIVER TRANSPLANT | 10.6132 | 17.7 | 22.8
481 | PRE | SURG | BONE MARROW TRANSPLANT | 7.8889 | 23.4 | 25.6
482 | PRE | SURG | TRACHEOSTOMY FOR FACE, MOUTH & NECK DIAGNOSES | 3.8343 | 11.4 | 14.3
483 | PRE | SURG | TRACHEOSTOMY EXCEPT FOR FACE, MOUTH & NECK DIAGNOSES | 15.2827 | 34.0 | 41.0
484 | 24 | SURG | CRANIOTOMY FOR MULTIPLE SIGNIFICANT TRAUMA | 5.1265 | 11.5 | 14.5
485 | 24 | SURG | LIMB REATTACHMENT, HIP AND FEMUR PROC FOR MULTIPLE SIGNIFICANT TRA | 3.1094 | 8.5 | 10.3
486 | 24 | SURG | OTHER O.R. PROCEDURES FOR MULTIPLE SIGNIFICANT TRAUMA | 5.2547 | 11.0 | 14.3
487 | 24 | MED | OTHER MULTIPLE SIGNIFICANT TRAUMA | 1.9199 | 6.3 | 8.2
488 | 25 | SURG | HIV W EXTENSIVE O.R. PROCEDURE | 5.1474 | 15.0 | 19.8
489 | 25 | MED | HIV W MAJOR RELATED CONDITION | 1.8802 | 7.0 | 9.4
490 | 25 | MED | HIV W OR W/O OTHER RELATED CONDITION | 1.0475 | 4.3 | 5.8
491 | 08 | SURG | MAJOR JOINT & LIMB REATTACHMENT PROCEDURES OF UPPER EXTREMITY | 1.6364 | 3.0 | 3.5
492 | 17 | MED | CHEMOTHERAPY W ACUTE LEUKEMIA AS SECONDARY DIAGNOSIS | 4.8853 | 13.6 | 19.0
493 | 07 | SURG | LAPAROSCOPIC CHOLECYSTECTOMY W/O C.D.E. W CC | 1.8468 | 4.9 | 6.3
494 | 07 | SURG | LAPAROSCOPIC CHOLECYSTECTOMY W/O C.D.E. W/O CC | .9800 | 1.9 | 2.5
495 | PRE | SURG | LUNG TRANSPLANT | 8.8879 | 13.8 | 16.2
496 | 08 | SURG | COMBINED ANTERIOR/POSTERIOR SPINAL FUSION | 5.6865 | 8.5 | 10.3
497 | 08 | SURG | SPINAL FUSION EXCEPT CERVICAL W CC | 3.1996 | 5.8 | 6.8
498 | 08 | SURG | SPINAL FUSION EXCEPT CERVICAL W/O CC | 2.2996 | 3.9 | 4.3
499 | 08 | SURG | BACK & NECK PROCEDURES EXCEPT SPINAL FUSION W CC | 1.4471 | 3.8 | 5.0
500 | 08 | SURG | BACK & NECK PROCEDURES EXCEPT SPINAL FUSION W/O CC | .9375 | 2.2 | 2.6
501 | 08 | SURG | KNEE PROCEDURES W PDX OF INFECTION W CC | 2.7466 | 9.8 | 12.0
502 | 08 | SURG | KNEE PROCEDURES W PDX OF INFECTION W/O CC | 1.5591 | 5.9 | 6.9
503 | 08 | SURG | KNEE PROCEDURES W/O PDX OF INFECTION | 1.2336 | 3.3 | 4.2
504 | 22 | SURG | EXTENSIVE 3RD DEGREE BURNS W SKIN GRAFT | 13.8097 | 28.2 | 33.6
505 | 22 | MED | EXTENSIVE 3RD DEGREE BURNS W/O SKIN GRAFT | 1.4893 | 2.0 | 3.4
506 | 22 | SURG | FULL THICKNESS BURN W SKIN GRAFT OR INHAL INJ W CC OR SIG TRAUMA | 4.9149 | 15.7 | 19.9
507 | 22 | SURG | FULL THICKNESS BURN W SKIN GRFT OR INHAL INJ W/O CC OR SIG TRAUMA | 1.8331 | 7.2 | 9.2
508 | 22 | MED | FULL THICKNESS BURN W/O SKIN GRFT OR INHAL INJ W CC OR SIG TRAUMA | 1.2966 | 6.0 | 8.3
509 | 22 | MED | FULL THICKNESS BURN W/O SKIN GRFT OR INH INJ W/O CC OR SIG TRAUMA | .7323 | 3.7 | 4.9
510 | 22 | MED | NON-EXTENSIVE BURNS W CC OR SIGNIFICANT TRAUMA | 1.3509 | 5.8 | 8.0
511 | 22 | MED | NON-EXTENSIVE BURNS W/O CC OR SIGNIFICANT TRAUMA | .7558 | 3.6 | 5.1
512 | PRE | SURG | SIMULTANEOUS PANCREAS/KIDNEY TRANSPLANT | 6.6413 | 13.4 | 16.5
513 | PRE | SURG | PANCREAS TRANSPLANT | 6.6497 | 10.3 | 13.4
514 | 05 | SURG | CARDIAC DEFIBRILLATOR IMPLANT W CARDIAC CATH | 6.4169 | 6.8 | 9.0
515 | 05 | SURG | CARDIAC DEFIBRILLATOR IMPLANT W/O CARDIAC CATH | 5.0652 | 4.3 | 6.8
516 | 05 | SURG | PERCUTANEOUS CARDIOVASC PROC W AMI | 2.7250 | 4.1 | 5.0
517 | 05 | SURG | PERC CARDIO PROC W CORONARY ARTERY STENT W/O AMI | 2.1497 | 1.9 | 2.7
518 | 05 | SURG | PERC CARDIO PROC W/O CORONARY ARTERY STENT OR AMI | 1.6673 | 2.5 | 3.6
519 | 08 | SURG | CERVICAL SPINAL FUSION W CC | 2.2654 | 3.4 | 5.1
520 | 08 | SURG | CERVICAL SPINAL FUSION W/O CC | 1.5709 | 2.0 | 2.8
521 | 20 | MED | ALCOHOL/DRUG ABUSE OR DEPENDENCE W CC | .7354 | 4.2 | 5.4
522 | 20 | MED | ALC/DRUG ABUSE OR DEPEND W REHABILITATION THERAPY W/O CC | .6631 | 9.0 | 10.7
523 | 20 | MED | ALC/DRUG ABUSE OR DEPEND W/O REHABILITATION THERAPY W/O CC | .3983 | 3.5 | 4.3
* MEDICARE DATA HAVE BEEN SUPPLEMENTED BY DATA FROM 19 STATES FOR LOW VOLUME DRGS.
** DRGS 469 AND 470 CONTAIN CASES WHICH COULD NOT BE ASSIGNED TO VALID DRGS.
NOTE: GEOMETRIC MEAN IS USED ONLY TO DETERMINE PAYMENT FOR TRANSFER CASES.
NOTE: ARITHMETIC MEAN IS PRESENTED FOR INFORMATIONAL PURPOSES ONLY.
NOTE: RELATIVE WEIGHTS ARE BASED ON MEDICARE PATIENT DATA AND MAY NOT BE APPROPRIATE FOR OTHER PATIENTS.

Table 6A.—New Diagnosis Codes
Diagnosis code | Description | CC | MDC | DRG
256.31 | Premature menopause | N | 13 | 358, 359, 369
256.39 | Other ovarian failure | N | 13 | 358, 359, 369
277.7 | Dysmetabolic Syndrome X | N | 10 | 299
464.00 | Acute laryngitis, without mention of obstruction | N | 3 pre | 68, 69, 70 482
464.01 | Acute laryngitis, with obstruction | N | 3 pre | 68, 69, 70 482
464.50 | Unspecified supraglottis, without mention of obstruction | N | 3 pre | 68, 69, 70 482
464.51 | Unspecified supraglottis, with obstruction | N | 3 pre | 68, 69, 70 482
521.00 | Unspecified dental caries | N | 3 pre | 185, 186, 187 482
521.01 | Dental caries limited to enamel | N | 3 pre | 185, 186, 187 482
521.02 | Dental caries extending into dentine | N | 3 pre | 185, 186, 187 482
521.03 | Dental caries extending into pulp | N | 3 pre | 185, 186, 187 482
521.04 | Arrested dental caries | N | 3 pre | 185, 186, 187 482
521.05 | Odontoclasia | N | 3 pre | 185, 186, 187 482
521.09 | Other dental caries | N | 3 pre | 185, 186, 187 482
525.10 | Unspecified acquired absence of teeth | N | 3 pre | 185, 186, 187 482
525.11 | Loss of teeth due to trauma | N | 3 pre | 185, 186, 187 482
525.12 | Loss of teeth due to periodontal disease | N | 3 pre | 182, 183, 184 482
525.13 | Loss of teeth due to caries | N | 3 pre | 185, 186, 187 482
525.19 | Other loss of teeth | N | 3 pre | 185, 186, 187 482
530.12 | Acute esophagitis | N | 6 | 182, 183, 184
564.00 | Unspecified constipation | N | 6 | 182, 183, 184
564.01 | Slow transit constipation | N | 6 | 182, 183, 184
564.02 | Outlet dysfunction constipation | N | 6 | 182, 183, 184
564.09 | Other constipation | N | 6 | 182, 183, 184
602.3 | Dysplasia of prostate | N | 12 | 352
608.82 | Hematospermia | N | 12 | 352
608.87 | Retrograde ejaculation | N | 12 | 352
692.76 | Sunburn of second degree | N | 9 | 283, 284
692.77 | Sunburn of third degree | N | 9 | 283, 284
718.70 | Developmental dislocation of joint, site unspecified | N | 8 | 256
718.71 | Developmental dislocation of joint, shoulder region | N | 8 | 256
718.72 | Developmental dislocation of joint, upper arm | N | 8 | 256
718.73 | Developmental dislocation of joint, forearm | N | 8 | 256
718.74 | Developmental dislocation of joint, hand | N | 8 | 256
718.75 | Developmental dislocation of joint, pelvic region and thigh | N | 8 | 256
718.76 | Developmental dislocation of joint, lower leg | N | 8 | 256
718.77 | Developmental dislocation of joint, ankle and foot | N | 8 | 256
718.78 | Developmental dislocation of joint, other specified sites | N | 8 | 256
718.79 | Developmental dislocation of joint, multiple sites | N | 8 | 256
733.93 | Stress fracture of tibia or fibula | Y | 8 | 239
733.94 | Stress fracture of the metatarsals | Y | 8 | 239
733.95 | Stress fracture of other bone | Y | 8 | 239
772.10 | Intraventricular hemorrhage, unspecified grade | Y | 15 | 387, 389
772.11 | Intraventricular hemorrhage, Grade I | Y | 15 | 387, 389
772.12 | Intraventricular hemorrhage, Grade II | Y | 15 | 387, 389
772.13 | Intraventricular hemorrhage, Grade III | Y | 15 | 387, 389
772.14 | Intraventricular hemorrhage, Grade IV | Y | 15 | 387, 389
779.7 | Perventricular leukomalacia | Y | 15 | 387, 389
793.80 | Unspecified abnormal mammogram | N | 9 | 276
793.81 | Mammographic microcalcification | N | 9 | 276
793.89 | Other abnormal findings on radiological examination breast | N | 9 | 276
840.7 | Superior glenoid labrum lesions (SLAP) | N | 8 24 | 253, 254, 255 487
997.71 | Vascular complications of mesenteric artery | Y | 6 15 | 188, 189, 190 387,¹ 389 ¹
997.72 | Vascular complications of renal artery | Y | 11 15 | 331, 332, 333 387,¹ 389 ¹
997.79 | Vascular complications of other vessels | Y | 5 15 | 130, 131 387,¹ 389 ¹
V10.53 | Personal history of malignant neoplasm, renal pelvis | N | 17 | 411, 412
V45.84 | Dental restoration status | N | 23 | 467
V49.82 | Dental sealant status | N | 23 | 467
V83.01 | Asymptomatic hemophilia A carrier | N | 23 | 467
V83.02 | Symptomatic hemophilia A carrier | N | 23 | 467

Table 6B.—New Procedure Codes
Procedure code | Description | OR | MDC | DRG
37.28 | Intracardiac echocardiography | N
44.32 | Percutaneous [endoscopic] gastrojejunostomy | Y | 6 7 10 17 | 154-156 201 288 400, 406, 407
67.51 | Transabdominal cerclage of cervix | Y | 13 14 21 24 | 360 372, 373 442, 443 486
67.59 | Other repair of internal cervical os | Y | 13 14 21 24 | 360 372, 373 442, 443 486
75.38 | Fetal pulse oximetry | N
81.30 | Refusion of spine, not otherwise specified | Y | 1 8 21 24 | 4 497, 498 442, 443 486
81.31 | Refusion of Atlas-axis spine | Y | 1 8 21 24 | 4 497, 498 442, 443 486
81.32 | Refusion of other cervical spine, anterior technique | Y | 1 8 21 24 | 4 496, 519, 520 442, 443 486
81.33 | Refusion of other cervical spine, posterior technique | Y | 1 8 21 24 | 4 496, 519, 520 442, 443 486
81.34 | Refusion of dorsal and dorsolumbar spine, anterior technique | Y | 1 8 21 24 | 4 496, 497, 498 442, 443 486
81.35 | Refusion of dorsal and dorsolumbar spine, posterior technique | Y | 1 8 21 24 | 4 496, 497, 498 442, 443 486
81.36 | Refusion of lumbar and lumbosacral spine, anterior technique | Y | 1 8 21 24 | 4 496, 497, 498 442, 443 486
81.37 | Refusion of lumbar and lumbosacral spine, lateral transverse process technique | Y | 1 8 21 24 | 4 496, 497, 498 442, 443 486
81.38 | Refusion of lumbar and lumbosacral spine, posterior technique | Y | 1 8 21 24 | 4 496, 497, 498 442, 443 486
81.39 | Refusion of spine, not elsewhere classified | Y | 1 8 21 24 | 4 497, 498 442, 443 486
97.44 | Nonoperative removal of heart assist system | N

Table 6C.—Invalid Diagnosis Codes
Diagnosis code | Description | CC | MDC | DRG
256.3 | Other ovarian failure | N | 13 | 358, 359, 369
464.0 | Acute laryngitis | N | 3 pre | 68, 69, 70 482
521.0 | Dental caries | N | 3 pre | 185, 186, 187 482
525.1 | Loss of teeth due to accident, extraction, or local periodontal disease | N | 3 pre | 185, 186, 187 482
564.0 | Constipation | N | 6 | 182, 183, 184
772.1 | Intraventricular hemorrhage | Y | 15 | 387,389
793.8 | Nonspecific abnormal findings on radiological and other examinations of body structure, breast | N | 9 | 276

Table 6D.—Invalid Procedure Codes
Procedure code | Description | OR | MDC | DRG
67.5 | Repair of internal cervical os | Y | 13 14 21 24 | 360 372, 373 442, 442 486
81.09 | Refusion of spine, any level or technique | Y | 1 8 21 24 | 4 497, 498 442, 443 486

Table 6E.—Revised Diagnosis Code Titles
Diagnosis code | Description | CC | MDC | DRG
411.81 | Acute coronary occlusion without myocardial infarction | Y | 5 | 124, 140
493.00 | Extrinsic asthma without mention of status asthmaticus or acute exacerbation or unspecified | N | 4 | 96, 97, 98
493.10 | Intrinsic asthma without mention of status asthmaticus or acute exacerbation or unspecified | N | 4 | 96, 97, 98
493.20 | Chronic obstructive asthma without mention of status asthmaticus or acute exacerbation or unspecified | Y | 4 | 88
493.90 | Asthma, unspecified without mention of status asthmaticus or acute exacerbation or unspecified | N | 4 | 96, 97, 98
V70.7 | Examination of participant in clinical trial | N | 23 | 467

Table 6F.—Revised Procedure Codes
Procedure code | Description | OR | MDC | DRG
75.34 | Other fetal monitoring | N

Table 6G.—Additions to the CC Exclusions List
CCs that are added to the list are in Table 6F-Additions to the CC Exclusions List. Each of the principal diagnoses is shown with an asterisk, and the revisions to the CC Exclusions List are provided in an indented column immediately following the affected principal diagnosis.
*25631 | 80600 | 82010 | 80637 | 80606 | 82021 | 77212 | 77210
2580 | 80601 | 82011 | 80638 | 80607 | 82022 | 77213 | 77211
2581 | 80602 | 82012 | 80639 | 80608 | 82030 | 77214 | 77212
2588 | 80603 | 82013 | 8064 | 80609 | 82031 | 7797 | 77213
2589 | 80604 | 82019 | 8065 | 80610 | 82032 | *7729 | 77214
*25639 | 80605 | 82020 | 80660 | 80611 | 8208 | 77210 | 7797
2580 | 80606 | 82021 | 80661 | 80612 | 8209 | 77211 | *7769
2581 | 80607 | 82022 | 80662 | 80613 | 82100 | 77212 | 77210
2588 | 80608 | 82030 | 80669 | 80614 | 82101 | 77213 | 77211
2589 | 80609 | 82031 | 80670 | 80615 | 82110 | 77214 | 77212
*6023 | 80610 | 82032 | 80671 | 80616 | 82111 | 7797 | 77213
5960 | 80611 | 8208 | 80672 | 80617 | *7720 | *7760 | 77214
5996 | 80612 | 8209 | 80679 | 80618 | 77210 | 77210 | 7797
6010 | 80613 | 82100 | 8068 | 80619 | 77211 | 77211 | *7797
6012 | 80614 | 82101 | 8069 | 80620 | 77212 | 77212 | 7722
6013 | 80615 | 82110 | 8080 | 80621 | 77213 | 77213 | 7797
6021 | 80616 | 82111 | 8082 | 80622 | 77214 | 77214 | *7798
78820 | 80617 | *73394 | 8083 | 80623 | 7797 | 7797 | 77210
78829 | 80618 | 73310 | 80843 | 80624 | *77210 | *7761 | 77211
*60887 | 80619 | 73311 | 80849 | 80625 | 77210 | 77210 | 77212
5970 | 80620 | 73312 | 80851 | 80626 | 77211 | 77211 | 77213
5994 | 80621 | 73313 | 80852 | 80627 | 77212 | 77212 | 77214
*73310 | 80622 | 73314 | 80853 | 80628 | 77213 | 77213 | 7797
73393 | 80623 | 73315 | 80859 | 80629 | 77214 | 77214 | *9972
73394 | 80624 | 73316 | 8088 | 80630 | 7722 | 7797 | 99771
73395 | 80625 | 73319 | 8089 | 80631 | 7797 | *7762 | 99772
*73311 | 80626 | 73393 | 82000 | 80632 | *77211 | 77210 | 99779
73393 | 80627 | 73394 | 82001 | 80633 | 77210 | 77211 | *99771
73394 | 80628 | 73395 | 82002 | 80634 | 77211 | 77212 | 53640
73395 | 80629 | 8058 | 82003 | 80635 | 77212 | 77213 | 53641
*73312 | 80630 | 8059 | 82009 | 80636 | 77213 | 77214 | 53642
73393 | 80631 | 80600 | 82010 | 80637 | 77214 | 7797 | 53649
73394 | 80632 | 80601 | 82011 | 80638 | 7722 | *7763 | 56962
73395 | 80633 | 80602 | 82012 | 80639 | 7797 | 77210 | 9974
*73313 | 80634 | 80603 | 82013 | 8064 | *77212 | 77211 | 99771
73393 | 80635 | 80604 | 82019 | 8065 | 77210 | 77212 | 99772
73394 | 80636 | 80605 | 82020 | 80660 | 77211 | 77213 | 99779
73395 | 80637 | 80606 | 82021 | 80661 | 77212 | 77214 | *99772
*73314 | 80638 | 80607 | 82022 | 80662 | 77213 | 7797 | 9975
73393 | 80639 | 80608 | 82030 | 80669 | 77214 | *7764 | 99771
73394 | 8064 | 80609 | 82031 | 80670 | 7722 | 77210 | 99772
73395 | 8065 | 80610 | 82032 | 80671 | 7797 | 77211 | 99779
*73315 | 80660 | 80611 | 8208 | 80672 | *77213 | 77212 | *99779
73393 | 80661 | 80612 | 8209 | 80679 | 77210 | 77213 | 9972
73394 | 80662 | 80613 | 82100 | 8068 | 77211 | 77214 | 99771
73395 | 80669 | 80614 | 82101 | 8069 | 77212 | 7797 | 99772
*73316 | 80670 | 80615 | 82110 | 8080 | 77213 | *7765 | 99779
73393 | 80671 | 80616 | 82111 | 8082 | 77214 | 77210 | *99791
73394 | 80672 | 80617 | *73395 | 8083 | 7722 | 77211 | 99771
73395 | 80679 | 80618 | 73310 | 80843 | 7797 | 77212 | 99772
*73319 | 8068 | 80619 | 73311 | 80849 | *77214 | 77213 | 99779
73393 | 8069 | 80620 | 73312 | 80851 | 77210 | 77214 | *99799
73394 | 8080 | 80621 | 73313 | 80852 | 77211 | 7797 | 99771
73395 | 8082 | 80622 | 73314 | 80853 | 77212 | *7766 | 99772
*73393 | 8083 | 80623 | 73315 | 80859 | 77213 | 77210 | 99779
73310 | 80843 | 80624 | 73316 | 8088 | 77214 | 77211 | *99881
73311 | 80849 | 80625 | 73319 | 8089 | 7722 | 77212 | 99771
73312 | 80851 | 80626 | 73393 | 82000 | 7797 | 77213 | 99772
73313 | 80852 | 80627 | 73394 | 82001 | *7722 | 77214 | 99779
73314 | 80853 | 80628 | 73395 | 82002 | 77210 | 7797 | *99883
73315 | 80859 | 80629 | 8058 | 82003 | 77211 | *7767 | 99771
73316 | 8088 | 80630 | 8059 | 82009 | 77212 | 77210 | 99772
73319 | 8089 | 80631 | 80600 | 82010 | 77213 | 77211 | 99779
73393 | 82000 | 80632 | 80601 | 82011 | 77214 | 77212 | *99889
73394 | 82001 | 80633 | 80602 | 82012 | 7797 | 77213 | 99771
73395 | 82002 | 80634 | 80603 | 82013 | *7728 | 77214 | 99772
8058 | 82003 | 80635 | 80604 | 82019 | 77210 | 7797 | 99779
8059 | 82009 | 80636 | 80605 | 82020 | 77211 | *7768 | *9989
99771
99772
99779

Table 6H.—Deletions to the CC Exclusions List
CCs that are deleted from the list are in Table 6G—Deletions to the CC Exclusions List. Each of the principal diagnoses is shown with an asterisk, and the revisions to the CC Exclusions List are provided in an indented column immediately following the affected principal diagnosis.
*2563
2580
2581
2588
2589
*7720
7721
*7721
7721
7722
*7722
7721
*7728
7721
*7729
7721
*7760
7721
*7761
7721
*7762
7721
*7763
7721
*7764
7721
*7765
7721
*7766
7721
*7767
7721
*7768
7721
*7769
7721
*7798
7721

Table 7A.—Medicare Prospective Payment System, Selected Percentile Lengths of Stay
[FY2000 MEDPAR update 12/00 Grouper V18.0]
DRG | Number discharges | Arithmetic mean LOS | 10th percentile | 25th percentile | 50th percentile | 75th percentile | 90th percentile
1 | 33822 | 8.9935 | 2 | 3 | 6 | 12 | 19
2 | 6772 | 9.9778 | 3 | 5 | 8 | 13 | 20
3 | 2 | 43.5000 | 35 | 35 | 52 | 52 | 52
4 | 6035 | 7.1639 | 1 | 2 | 5 | 9 | 15
5 | 93311 | 3.1649 | 1 | 1 | 2 | 3 | 7
6 | 366 | 2.9672 | 1 | 1 | 2 | 4 | 6
7 | 12470 | 9.9739 | 2 | 4 | 7 | 12 | 20
8 | 4164 | 3.2759 | 1 | 1 | 2 | 4 | 7
9 | 1610 | 6.3491 | 1 | 3 | 5 | 8 | 13
10 | 17577 | 6.5503 | 2 | 3 | 5 | 8 | 13
11 | 3128 | 4.0767 | 1 | 2 | 3 | 5 | 8
12 | 46758 | 5.8962 | 2 | 3 | 4 | 7 | 11
13 | 6415 | 5.2011 | 2 | 3 | 4 | 6 | 9
14 | 319523 | 5.8762 | 2 | 3 | 5 | 7 | 11
15 | 145366 | 3.5498 | 1 | 2 | 3 | 4 | 7
16 | 11155 | 6.0293 | 2 | 3 | 5 | 7 | 12
17 | 3519 | 3.3231 | 1 | 2 | 3 | 4 | 6
18 | 25961 | 5.4162 | 2 | 3 | 4 | 7 | 10
19 | 8638 | 3.6972 | 1 | 2 | 3 | 5 | 7
20 | 5629 | 10.1482 | 3 | 5 | 8 | 13 | 20
21 | 1309 | 6.5516 | 2 | 3 | 5 | 8 | 13
22 | 2535 | 4.8174 | 1 | 2 | 4 | 6 | 9
23 | 9464 | 4.1855 | 1 | 2 | 3 | 5 | 8
24 | 52753 | 4.9830 | 1 | 2 | 4 | 6 | 10
25 | 25370 | 3.2236 | 1 | 2 | 3 | 4 | 6
26 | 31 | 2.7097 | 1 | 1 | 2 | 3 | 6
27 | 3441 | 5.0584 | 1 | 1 | 3 | 6 | 11
28 | 11316 | 6.2100 | 1 | 3 | 5 | 8 | 13
29 | 4486 | 3.6097 | 1 | 2 | 3 | 5 | 7
30 | 1 | 1.0000 | 1 | 1 | 1 | 1 | 1
31 | 3488 | 4.4903 | 1 | 2 | 3 | 5 | 8
32 | 1738 | 2.5621 | 1 | 1 | 2 | 3 | 5
33 | 1 | 1.0000 | 1 | 1 | 1 | 1 | 1
34 | 20249 | 5.0786 | 1 | 2 | 4 | 6 | 10
35 | 5728 | 3.3959 | 1 | 2 | 3 | 4 | 6
36 | 3190 | 1.4649 | 1 | 1 | 1 | 1 | 2
37 | 1452 | 4.0296 | 1 | 1 | 2 | 5 | 9
38 | 102 | 2.6569 | 1 | 1 | 2 | 3 | 5
39 | 912 | 1.9079 | 1 | 1 | 1 | 2 | 4
40 | 1545 | 3.4252 | 1 | 1 | 2 | 4 | 7
42 | 2223 | 2.2852 | 1 | 1 | 1 | 3 | 5
43 | 85 | 3.1882 | 1 | 2 | 3 | 4 | 6
44 | 1238 | 4.9548 | 2 | 3 | 4 | 6 | 9
45 | 2444 | 3.1678 | 1 | 2 | 3 | 4 | 6
46 | 3051 | 4.6834 | 1 | 2 | 4 | 6 | 9
47 | 1281 | 3.2560 | 1 | 1 | 3 | 4 | 6
49 | 2241 | 4.8104 | 1 | 2 | 3 | 6 | 9
50 | 2488 | 1.9425 | 1 | 1 | 1 | 2 | 3
51 | 203 | 2.6995 | 1 | 1 | 1 | 2 | 6
52 | 220 | 1.9318 | 1 | 1 | 1 | 2 | 3
53 | 2478 | 3.5557 | 1 | 1 | 2 | 4 | 8
54 | 2 | 1.5000 | 1 | 1 | 2 | 2 | 2
55 | 1505 | 2.7442 | 1 | 1 | 1 | 3 | 6
56 | 503 | 2.7256 | 1 | 1 | 2 | 3 | 5
57 | 708 | 3.9492 | 1 | 1 | 2 | 5 | 9
59 | 107 | 2.7850 | 1 | 1 | 2 | 3 | 5
60 | 2 | 3.5000 | 2 | 2 | 5 | 5 | 5
61 | 231 | 5.0996 | 1 | 1 | 2 | 6 | 12
62 | 3 | 1.3333 | 1 | 1 | 1 | 2 | 2
63 | 2934 | 4.3889 | 1 | 2 | 3 | 5 | 8
64 | 3033 | 6.1800 | 1 | 2 | 4 | 8 | 13
65 | 34466 | 2.8420 | 1 | 1 | 2 | 4 | 5
66 | 6978 | 3.1635 | 1 | 1 | 2 | 4 | 6
67 | 495 | 3.5960 | 1 | 2 | 3 | 4 | 7
68 | 16724 | 4.1158 | 1 | 2 | 3 | 5 | 7
69 | 5435 | 3.2736 | 1 | 2 | 3 | 4 | 6
70 | 24 | 2.9167 | 1 | 2 | 2 | 4 | 5
71 | 82 | 3.8049 | 1 | 2 | 3 | 4 | 7
72 | 883 | 3.5663 | 1 | 2 | 3 | 4 | 6
73 | 6630 | 4.4065 | 1 | 2 | 3 | 6 | 9
75 | 39010 | 9.9124 | 3 | 5 | 7 | 12 | 19
76 | 38998 | 11.2677 | 3 | 5 | 9 | 14 | 21
77 | 2352 | 4.9184 | 1 | 2 | 4 | 7 | 10
78 | 32087 | 6.7848 | 3 | 4 | 6 | 8 | 11
79 | 169783 | 8.4892 | 3 | 4 | 7 | 11 | 16
80 | 9018 | 5.6618 | 2 | 3 | 5 | 7 | 10
81 | 4 | 18.2500 | 3 | 3 | 4 | 8 | 58
82 | 61883 | 6.9447 | 2 | 3 | 5 | 9 | 14
83 | 6446 | 5.5496 | 2 | 3 | 4 | 7 | 10
84 | 1508 | 3.3455 | 1 | 2 | 3 | 4 | 6
85 | 20572 | 6.3122 | 2 | 3 | 5 | 8 | 12
86 | 2118 | 3.6643 | 1 | 2 | 3 | 5 | 7
87 | 60110 | 6.2840 | 1 | 3 | 5 | 8 | 12
88 | 389694 | 5.1207 | 2 | 3 | 4 | 6 | 9
89 | 525838 | 5.9470 | 2 | 3 | 5 | 7 | 11
90 | 53895 | 4.1549 | 2 | 3 | 4 | 5 | 7
91 | 54 | 4.5185 | 2 | 2 | 3 | 5 | 10
92 | 13774 | 6.3499 | 2 | 3 | 5 | 8 | 12
93 | 1672 | 4.0353 | 1 | 2 | 3 | 5 | 7
94 | 12030 | 6.2988 | 2 | 3 | 5 | 8 | 12
95 | 1595 | 3.7179 | 1 | 2 | 3 | 5 | 7
96 | 61986 | 4.6292 | 2 | 3 | 4 | 6 | 8
97 | 31444 | 3.6560 | 1 | 2 | 3 | 5 | 7
98 | 18 | 4.2222 | 1 | 2 | 2 | 4 | 6
99 | 18996 | 3.1991 | 1 | 1 | 2 | 4 | 6
100 | 7619 | 2.1869 | 1 | 1 | 2 | 3 | 4
101 | 19997 | 4.3938 | 1 | 2 | 3 | 5 | 9
102 | 5146 | 2.6570 | 1 | 1 | 2 | 3 | 5
103 | 475 | 46.6021 | 9 | 13 | 25 | 60 | 98
104 | 36578 | 11.3165 | 7 | 11 | 28 | 60 | 98
105 | 29726 | 9.2831 | 5 | 6 | 8 | 15 | 98
106 | 3401 | 11.4963 | 5 | 7 | 10 | 14 | 20
107 | 87868 | 10.3783 | 5 | 7 | 9 | 12 | 17
108 | 6048 | 10.2116 | 3 | 5 | 8 | 13 | 19
109 | 60265 | 7.6926 | 4 | 5 | 6 | 9 | 12
110 | 52595 | 9.2013 | 2 | 5 | 7 | 11 | 18
111 | 8545 | 4.7604 | 1 | 2 | 5 | 6 | 8
113 | 42250 | 12.1885 | 3 | 6 | 9 | 15 | 24
114 | 8712 | 8.3768 | 2 | 4 | 7 | 10 | 16
115 | 14329 | 8.1687 | 1 | 4 | 7 | 11 | 16
116 | 330888 | 3.6061 | 2 | 9 | 7 | 11 | 16
117 | 3717 | 4.1512 | 1 | 1 | 2 | 5 | 9
118 | 7667 | 2.6849 | 1 | 1 | 1 | 3 | 6
119 | 1307 | 4.8829 | 1 | 1 | 3 | 6 | 12
120 | 35929 | 8.1178 | 1 | 2 | 5 | 10 | 16
121 | 162112 | 6.3821 | 2 | 3 | 5 | 8 | 12
122 | 78969 | 3.7027 | 1 | 2 | 3 | 5 | 7
123 | 40659 | 4.5833 | 1 | 1 | 3 | 6 | 11
124 | 132801 | 4.3427 | 1 | 2 | 3 | 5 | 8
125 | 80169 | 2.7657 | 1 | 1 | 2 | 4 | 5
126 | 5150 | 11.6882 | 3 | 6 | 9 | 14 | 22
127 | 678903 | 5.2745 | 2 | 3 | 4 | 7 | 10
128 | 9424 | 5.6175 | 2 | 4 | 5 | 7 | 9
129 | 4140 | 2.7621 | 1 | 1 | 1 | 3 | 6
130 | 86009 | 5.6760 | 2 | 3 | 5 | 7 | 10
131 | 28236 | 4.2426 | 1 | 2 | 4 | 6 | 7
132 | 147648 | 3.0002 | 1 | 1 | 2 | 4 | 6
133 | 8321 | 2.3367 | 1 | 1 | 2 | 3 | 4
134 | 36118 | 3.2406 | 1 | 2 | 3 | 4 | 6
135 | 7266 | 4.5531 | 1 | 2 | 3 | 6 | 9
136 | 1221 | 2.7158 | 1 | 1 | 2 | 3 | 5
138 | 194087 | 3.9932 | 1 | 2 | 3 | 5 | 8
139 | 82604 | 2.5072 | 1 | 1 | 2 | 3 | 5
140 | 69724 | 2.6533 | 1 | 1 | 2 | 3 | 5
141 | 90403 | 3.6691 | 1 | 2 | 3 | 5 | 7
142 | 45776 | 2.6508 | 1 | 1 | 2 | 3 | 5
143 | 203918 | 2.1253 | 1 | 1 | 2 | 3 | 4
144 | 81577 | 5.3196 | 1 | 2 | 4 | 7 | 11
145 | 7224 | 2.7460 | 1 | 1 | 2 | 3 | 5
146 | 10683 | 10.2826 | 5 | 7 | 9 | 12 | 17
147 | 2629 | 6.4196 | 3 | 5 | 6 | 8 | 9
148 | 129247 | 12.1904 | 5 | 7 | 10 | 15 | 22
149 | 18462 | 6.5184 | 4 | 5 | 6 | 8 | 9
150 | 19795 | 11.2770 | 4 | 7 | 10 | 14 | 20
151 | 4814 | 5.8286 | 2 | 3 | 5 | 8 | 10
152 | 4381 | 8.1438 | 3 | 5 | 7 | 9 | 14
153 | 2083 | 5.3711 | 3 | 4 | 5 | 7 | 8
154 | 28660 | 13.1491 | 4 | 7 | 10 | 16 | 25
155 | 6596 | 4.2179 | 1 | 2 | 3 | 6 | 8
156 | 4 | 7.5000 | 1 | 1 | 5 | 6 | 18
157 | 7903 | 5.3790 | 1 | 2 | 4 | 7 | 11
158 | 4630 | 2.5395 | 1 | 1 | 2 | 3 | 5
159 | 16309 | 4.9926 | 1 | 2 | 4 | 6 | 10
160 | 11655 | 2.6619 | 1 | 1 | 2 | 3 | 5
161 | 11119 | 4.2027 | 1 | 1 | 3 | 5 | 9
162 | 7199 | 1.9267 | 1 | 1 | 1 | 2 | 4
163 | 5 | 4.4000 | 1 | 1 | 3 | 4 | 13
164 | 4824 | 8.4279 | 4 | 5 | 7 | 10 | 15
165 | 2066 | 4.8049 | 2 | 3 | 5 | 6 | 8
166 | 3532 | 5.0337 | 2 | 2 | 4 | 6 | 10
167 | 3269 | 2.5990 | 1 | 2 | 2 | 3 | 5
168 | 1327 | 4.7641 | 1 | 2 | 3 | 6 | 10
169 | 834 | 2.3405 | 1 | 1 | 2 | 3 | 5
170 | 10975 | 11.1690 | 2 | 5 | 8 | 14 | 22
171 | 1284 | 4.6597 | 1 | 2 | 4 | 6 | 9
172 | 30412 | 6.9363 | 2 | 3 | 5 | 9 | 14
173 | 2685 | 3.6648 | 1 | 1 | 3 | 5 | 7
174 | 240400 | 4.7974 | 2 | 3 | 4 | 6 | 9
175 | 32375 | 2.9414 | 1 | 2 | 3 | 4 | 5
176 | 15101 | 5.2286 | 2 | 3 | 4 | 6 | 10
177 | 9190 | 4.5348 | 2 | 2 | 4 | 6 | 8
178 | 3597 | 3.0703 | 1 | 2 | 3 | 4 | 6
179 | 12291 | 5.9729 | 2 | 3 | 5 | 7 | 11
180 | 85599 | 5.3567 | 2 | 3 | 4 | 7 | 10
181 | 26315 | 3.4185 | 1 | 2 | 3 | 4 | 6
182 | 243506 | 4.3356 | 1 | 2 | 3 | 5 | 8
183 | 83969 | 2.9155 | 1 | 1 | 2 | 4 | 5
184 | 79 | 2.9620 | 1 | 2 | 2 | 4 | 6
185 | 4760 | 4.5210 | 1 | 2 | 3 | 6 | 9
186 | 3 | 9.3333 | 1 | 1 | 9 | 18 | 18
187 | 646 | 3.9164 | 1 | 1 | 3 | 5 | 8
188 | 75558 | 5.5580 | 1 | 2 | 4 | 7 | 11
189 | 11984 | 3.1542 | 1 | 1 | 2 | 4 | 6
190 | 49 | 7.0204 | 2 | 3 | 4 | 5 | 8
191 | 8889 | 13.7967 | 4 | 6 | 10 | 17 | 28
192 | 1105 | 6.5122 | 2 | 4 | 6 | 8 | 11
193 | 5258 | 12.5369 | 5 | 7 | 10 | 16 | 22
194 | 718 | 6.7869 | 2 | 4 | 6 | 8 | 12
195 | 4327 | 10.1470 | 4 | 6 | 9 | 12 | 17
196 | 1162 | 5.7212 | 2 | 4 | 5 | 7 | 10
197 | 18754 | 8.9335 | 3 | 5 | 7 | 11 | 16
198 | 5751 | 4.5416 | 2 | 3 | 4 | 6 | 8
199 | 1704 | 9.5827 | 2 | 4 | 7 | 13 | 20
200 | 1063 | 10.3518 | 1 | 3 | 7 | 13 | 22
201 | 1398 | 13.7790 | 3 | 6 | 11 | 17 | 25
202 | 25975 | 6.4045 | 2 | 3 | 5 | 8 | 13
203 | 29017 | 6.6364 | 2 | 3 | 5 | 9 | 13
204 | 57319 | 5.7964 | 2 | 3 | 4 | 7 | 11
205 | 22900 | 6.1735 | 2 | 3 | 5 | 8 | 12
206 | 1948 | 3.9168 | 1 | 2 | 3 | 5 | 7
207 | 30817 | 5.0832 | 1 | 2 | 4 | 6 | 10
208 | 10061 | 2.8946 | 1 | 1 | 2 | 4 | 6
209 | 343375 | 5.0786 | 3 | 3 | 4 | 6 | 8
210 | 120891 | 6.8189 | 3 | 4 | 6 | 8 | 11
211 | 31665 | 4.9325 | 3 | 4 | 4 | 6 | 7
212 | 6 | 13.5000 | 1 | 4 | 4 | 29 | 29
213 | 9144 | 8.9604 | 2 | 4 | 7 | 11 | 18
216 | 5956 | 9.6949 | 2 | 4 | 8 | 12 | 20
217 | 16333 | 13.1971 | 3 | 5 | 9 | 16 | 28
218 | 21296 | 5.4123 | 2 | 3 | 4 | 7 | 10
219 | 19530 | 3.2240 | 1 | 2 | 3 | 4 | 6
220 | 6 | 4.0000 | 1 | 1 | 3 | 7 | 7
223 | 13251 | 2.8497 | 1 | 1 | 2 | 3 | 6
224 | 11112 | 1.9343 | 1 | 1 | 2 | 2 | 3
225 | 5734 | 4.8575 | 1 | 2 | 3 | 6 | 11
226 | 5148 | 6.5874 | 1 | 2 | 4 | 8 | 14
227 | 4695 | 2.7242 | 1 | 1 | 2 | 3 | 5
228 | 2340 | 3.7970 | 1 | 1 | 2 | 5 | 8
229 | 1108 | 2.4838 | 1 | 1 | 2 | 3 | 5
230 | 2365 | 5.2592 | 1 | 2 | 3 | 6 | 11
231 | 11343 | 4.9395 | 1 | 2 | 3 | 6 | 11
232 | 807 | 2.8872 | 1 | 1 | 1 | 3 | 7
233 | 5059 | 7.5181 | 2 | 3 | 6 | 10 | 15
234 | 3168 | 3.4419 | 1 | 1 | 3 | 4 | 7
235 | 5036 | 5.0473 | 1 | 2 | 4 | 6 | 9
236 | 38265 | 4.8164 | 1 | 3 | 4 | 6 | 9
237 | 1687 | 3.5033 | 1 | 2 | 3 | 4 | 6
238 | 7930 | 8.5212 | 3 | 4 | 6 | 10 | 16
239 | 49088 | 6.2151 | 2 | 3 | 5 | 8 | 12
240 | 11318 | 6.6744 | 2 | 3 | 5 | 8 | 13
241 | 3168 | 3.8570 | 1 | 2 | 3 | 5 | 7
242 | 2434 | 6.6348 | 2 | 3 | 5 | 8 | 13
243 | 87407 | 4.6676 | 1 | 2 | 4 | 6 | 9
244 | 12162 | 4.8047 | 1 | 2 | 4 | 6 | 9
245 | 5130 | 3.4458 | 1 | 2 | 3 | 4 | 6
246 | 1386 | 3.8117 | 1 | 2 | 3 | 5 | 7
247 | 16832 | 3.3990 | 1 | 1 | 3 | 4 | 7
248 | 10529 | 4.8161 | 1 | 2 | 4 | 6 | 9
249 | 11336 | 3.6591 | 1 | 1 | 2 | 4 | 8
250 | 3456 | 4.1062 | 1 | 2 | 3 | 5 | 7
251 | 2406 | 2.8579 | 1 | 1 | 2 | 4 | 5
253 | 19677 | 4.7732 | 1 | 3 | 4 | 6 | 9
254 | 10449 | 3.1906 | 1 | 2 | 3 | 4 | 6
255 | 1 | 3.0000 | 3 | 3 | 3 | 3 | 3
256 | 6054 | 5.0766 | 1 | 2 | 4 | 6 | 10
257 | 16333 | 2.7359 | 1 | 1 | 2 | 3 | 5
258 | 15978 | 1.9342 | 1 | 1 | 2 | 2 | 3
259 | 3773 | 2.6801 | 1 | 1 | 1 | 2 | 6
260 | 4896 | 1.4167 | 1 | 1 | 1 | 2 | 2
261 | 1844 | 2.2749 | 1 | 1 | 1 | 3 | 5
262 | 612 | 3.9477 | 1 | 1 | 3 | 5 | 8
263 | 18146 | 12.0208 | 3 | 5 | 8 | 14 | 24
264 | 3608 | 7.4088 | 2 | 4 | 6 | 9 | 14
265 | 3681 | 6.8036 | 1 | 2 | 4 | 8 | 14
266 | 2698 | 3.3039 | 1 | 1 | 2 | 4 | 7
267 | 233 | 4.2060 | 1 | 1 | 3 | 6 | 9
268 | 878 | 3.4989 | 1 | 1 | 2 | 4 | 7
269 | 7390 | 8.2441 | 1 | 3 | 6 | 10 | 17
270 | 2623 | 3.5783 | 1 | 1 | 2 | 5 | 8
271 | 9621 | 7.6144 | 2 | 4 | 6 | 9 | 14
272 | 5459 | 6.1597 | 2 | 3 | 5 | 8 | 12
273 | 1286 | 4.0420 | 1 | 2 | 3 | 5 | 8
274 | 2334 | 6.5900 | 1 | 3 | 5 | 8 | 13
275 | 246 | 4.3130 | 1 | 1 | 3 | 5 | 9
276 | 1177 | 4.6669 | 1 | 2 | 4 | 6 | 8
277 | 85183 | 5.7309 | 2 | 3 | 5 | 7 | 10
278 | 33396 | 4.4205 | 2 | 3 | 4 | 6 | 8
279 | 3 | 2.3333 | 1 | 1 | 2 | 4 | 4
280 | 15577 | 4.1954 | 1 | 2 | 3 | 5 | 8
281 | 7128 | 3.0464 | 1 | 1 | 3 | 4 | 6
282 | 3 | 1.6667 | 1 | 1 | 2 | 2 | 2
283 | 5629 | 4.5756 | 1 | 2 | 4 | 6 | 9
284 | 1868 | 3.1124 | 1 | 1 | 2 | 4 | 6
285 | 6195 | 10.3080 | 3 | 5 | 8 | 13 | 20
286 | 2070 | 6.4396 | 2 | 3 | 5 | 7 | 13
287 | 5676 | 10.5374 | 3 | 5 | 7 | 12 | 21
288 | 2639 | 5.7704 | 2 | 3 | 4 | 6 | 9
289 | 4765 | 3.0002 | 1 | 1 | 2 | 3 | 7
290 | 8753 | 2.3103 | 1 | 1 | 2 | 2 | 4
291 | 65 | 1.8462 | 1 | 1 | 1 | 2 | 3
292 | 4702 | 10.4872 | 2 | 4 | 8 | 14 | 22
293 | 624 | 5.5096 | 1 | 2 | 4 | 7 | 12
294 | 87857 | 4.6066 | 1 | 2 | 4 | 6 | 9
295 | 3277 | 3.7376 | 1 | 2 | 3 | 5 | 7
296 | 235003 | 5.1556 | 2 | 2 | 4 | 6 | 10
297 | 43573 | 3.4124 | 1 | 2 | 3 | 4 | 6
298 | 86 | 2.8256 | 1 | 1 | 2 | 3 | 5
299 | 1178 | 5.2199 | 1 | 2 | 4 | 7 | 10
300 | 15999 | 6.1363 | 2 | 3 | 5 | 8 | 12
301 | 3208 | 3.6234 | 1 | 2 | 3 | 4 | 7
302 | 8018 | 9.0636 | 4 | 5 | 7 | 11 | 19
303 | 19452 | 8.4231 | 4 | 5 | 7 | 10 | 15
304 | 11767 | 8.7339 | 2 | 4 | 6 | 11 | 18
305 | 2984 | 3.6384 | 1 | 2 | 3 | 5 | 7
306 | 7320 | 5.6291 | 1 | 2 | 3 | 8 | 13
307 | 2082 | 2.2517 | 1 | 1 | 2 | 3 | 4
308 | 7463 | 6.1733 | 1 | 2 | 4 | 8 | 14
309 | 4096 | 2.2954 | 1 | 1 | 2 | 3 | 4
310 | 23873 | 4.4002 | 1 | 1 | 3 | 6 | 10
311 | 7963 | 1.8339 | 1 | 1 | 1 | 2 | 3
312 | 1487 | 4.4654 | 1 | 1 | 3 | 6 | 10
313 | 591 | 2.3316 | 1 | 1 | 1 | 3 | 5
315 | 29749 | 6.9546 | 1 | 1 | 4 | 9 | 15
316 | 104601 | 6.6228 | 2 | 3 | 5 | 8 | 13
317 | 1507 | 2.8779 | 1 | 1 | 2 | 3 | 6
318 | 5584 | 5.9979 | 1 | 3 | 5 | 8 | 12
319 | 422 | 2.7725 | 1 | 1 | 2 | 3 | 6
320 | 186678 | 5.3171 | 2 | 3 | 4 | 6 | 10
321 | 30428 | 3.7951 | 1 | 2 | 3 | 5 | 7
322 | 61 | 4.1475 | 2 | 2 | 3 | 5 | 8
323 | 17241 | 3.2172 | 1 | 1 | 2 | 4 | 7
324 | 7479 | 1.8826 | 1 | 1 | 1 | 2 | 3
325 | 8160 | 3.8241 | 1 | 2 | 3 | 5 | 7
326 | 2676 | 2.6648 | 1 | 1 | 2 | 3 | 5
327 | 11 | 3.0909 | 1 | 1 | 3 | 4 | 5
328 | 663 | 3.6305 | 1 | 1 | 3 | 5 | 8
329 | 77 | 2.0130 | 1 | 1 | 1 | 2 | 4
331 | 46045 | 5.5426 | 1 | 3 | 4 | 7 | 11
332 | 4930 | 3.2917 | 1 | 1 | 2 | 4 | 7
333 | 281 | 5.0569 | 1 | 2 | 4 | 6 | 10
334 | 8654 | 4.4386 | 2 | 3 | 4 | 5 | 7
335 | 10721 | 3.1791 | 2 | 2 | 3 | 4 | 5
336 | 9563 | 3.7848 | 1 | 2 | 3 | 4 | 8
337 | 3041 | 2.1500 | 1 | 1 | 2 | 3 | 3
338 | 1226 | 5.1117 | 1 | 2 | 3 | 7 | 11
339 | 1344 | 4.9821 | 1 | 1 | 3 | 7 | 12
340 | 1 | 1.0000 | 1 | 1 | 1 | 1 | 1
341 | 2738 | 3.1088 | 1 | 1 | 1 | 3 | 6
342 | 298 | 3.4094 | 1 | 1 | 2 | 4 | 7
344 | 3502 | 2.3829 | 1 | 1 | 1 | 2 | 5
345 | 410 | 5.1244 | 1 | 2 | 3 | 6 | 10
346 | 4441 | 5.8726 | 1 | 3 | 4 | 7 | 12
347 | 365 | 2.9479 | 1 | 1 | 2 | 4 | 6
350 | 6270 | 4.3933 | 1 | 2 | 4 | 5 | 8
352 | 756 | 3.9577 | 1 | 2 | 3 | 5 | 8
353 | 2533 | 6.4212 | 2 | 3 | 5 | 7 | 12
354 | 7562 | 5.8375 | 3 | 3 | 4 | 7 | 11
355 | 5504 | 3.2862 | 2 | 3 | 3 | 4 | 5
356 | 25128 | 2.2924 | 1 | 1 | 2 | 3 | 4
357 | 5548 | 8.4874 | 3 | 4 | 7 | 10 | 16
358 | 20294 | 4.3121 | 2 | 3 | 3 | 5 | 7
359 | 29890 | 2.7295 | 2 | 2 | 3 | 3 | 4
360 | 15941 | 2.8557 | 1 | 2 | 2 | 3 | 5
361 | 378 | 2.9233 | 1 | 1 | 2 | 3 | 5
363 | 2862 | 3.4693 | 1 | 2 | 2 | 3 | 7
364 | 1644 | 3.8534 | 1 | 1 | 3 | 5 | 8
365 | 1722 | 7.2410 | 1 | 3 | 5 | 9 | 16
366 | 4410 | 6.7329 | 1 | 3 | 5 | 8 | 14
367 | 583 | 3.0617 | 1 | 1 | 2 | 4 | 6
368 | 3110 | 6.4810 | 2 | 3 | 5 | 8 | 12
369 | 3133 | 3.2515 | 1 | 1 | 2 | 4 | 7
370 | 1095 | 5.8429 | 3 | 3 | 4 | 5 | 10
371 | 1307 | 3.6526 | 2 | 3 | 3 | 4 | 5
372 | 927 | 3.2891 | 1 | 2 | 2 | 3 | 5
373 | 3734 | 2.2499 | 1 | 2 | 2 | 3 | 3
374 | 120 | 3.1583 | 1 | 2 | 2 | 3 | 4
375 | 10 | 2.3000 | 1 | 2 | 2 | 3 | 4
376 | 247 | 3.0931 | 1 | 2 | 2 | 4 | 6
377 | 48 | 5.0000 | 1 | 1 | 3 | 6 | 12
378 | 157 | 2.4140 | 1 | 1 | 2 | 3 | 4
379 | 337 | 3.4303 | 1 | 1 | 2 | 4 | 6
380 | 58 | 2.1207 | 1 | 1 | 1 | 2 | 5
381 | 152 | 2.5132 | 1 | 1 | 1 | 3 | 5
382 | 45 | 1.2889 | 1 | 1 | 1 | 1 | 2
383 | 1707 | 3.5817 | 1 | 1 | 2 | 4 | 7
384 | 114 | 2.1842 | 1 | 1 | 1 | 3 | 5
385 | 1 | 1.0000 | 1 | 1 | 1 | 1 | 1
389 | 15 | 11.7333 | 1 | 3 | 6 | 10 | 24
390 | 14 | 4.0000 | 1 | 2 | 3 | 6 | 7
391 | 1 | 4.0000 | 4 | 4 | 4 | 4 | 4
392 | 2323 | 9.6750 | 3 | 4 | 7 | 12 | 20
394 | 1870 | 7.1428 | 1 | 2 | 4 | 8 | 16
395 | 86911 | 4.4001 | 1 | 2 | 3 | 6 | 9
396 | 15 | 4.6667 | 1 | 2 | 4 | 6 | 7
397 | 17554 | 5.1878 | 1 | 2 | 4 | 7 | 10
398 | 17526 | 5.9417 | 2 | 3 | 5 | 7 | 11
399 | 1721 | 3.5758 | 1 | 2 | 3 | 5 | 7
400 | 6444 | 9.1189 | 1 | 3 | 6 | 12 | 20
401 | 5581 | 11.2575 | 2 | 5 | 9 | 15 | 23
402 | 1498 | 4.1128 | 1 | 1 | 3 | 6 | 9
403 | 31732 | 8.0627 | 2 | 3 | 6 | 10 | 17
404 | 4639 | 4.2720 | 1 | 2 | 3 | 6 | 9
406 | 2513 | 9.8607 | 3 | 4 | 7 | 12 | 20
407 | 720 | 4.4417 | 1 | 2 | 4 | 5 | 8
408 | 2178 | 8.0317 | 1 | 2 | 5 | 10 | 18
409 | 2822 | 5.9072 | 2 | 3 | 4 | 6 | 12
410 | 33412 | 3.9069 | 1 | 2 | 4 | 5 | 6
411 | 13 | 2.3077 | 1 | 1 | 2 | 2 | 5
412 | 29 | 2.4483 | 1 | 1 | 2 | 3 | 4
413 | 6419 | 7.0662 | 2 | 3 | 5 | 9 | 14
414 | 767 | 4.2529 | 1 | 2 | 3 | 5 | 9
415 | 38683 | 14.2779 | 4 | 6 | 11 | 18 | 28
416 | 183557 | 7.3848 | 2 | 4 | 6 | 9 | 14
417 | 16 | 5.0000 | 2 | 2 | 4 | 6 | 9
418 | 22822 | 6.1160 | 2 | 3 | 5 | 7 | 11
419 | 15294 | 4.7204 | 2 | 2 | 4 | 6 | 9
420 | 3109 | 3.5002 | 1 | 2 | 3 | 4 | 6
421 | 11464 | 3.7872 | 1 | 2 | 3 | 5 | 7
422 | 80 | 3.0625 | 1 | 2 | 3 | 4 | 6
423 | 7452 | 8.1162 | 2 | 3 | 6 | 10 | 16
424 | 1275 | 13.4204 | 2 | 5 | 9 | 16 | 26
425 | 15710 | 3.9945 | 1 | 2 | 3 | 5 | 8
426 | 4443 | 4.4510 | 1 | 2 | 3 | 5 | 9
427 | 1633 | 4.6418 | 1 | 2 | 3 | 6 | 9
428 | 835 | 6.8192 | 1 | 2 | 4 | 8 | 14
429 | 25967 | 6.3055 | 2 | 3 | 5 | 7 | 12
430 | 58669 | 8.0151 | 2 | 3 | 6 | 10 | 16
431 | 313 | 6.2045 | 1 | 3 | 5 | 7 | 11
432 | 469 | 4.7271 | 1 | 2 | 3 | 5 | 9
433 | 5418 | 3.0945 | 1 | 1 | 2 | 4 | 6
439 | 1343 | 8.4080 | 1 | 3 | 5 | 10 | 19
440 | 5131 | 9.0209 | 2 | 3 | 6 | 11 | 20
441 | 601 | 3.2313 | 1 | 1 | 2 | 4 | 7
442 | 15366 | 8.4839 | 1 | 3 | 6 | 10 | 18
443 | 3730 | 3.4399 | 1 | 1 | 3 | 4 | 7
444 | 5185 | 4.1338 | 1 | 2 | 3 | 5 | 8
445 | 2427 | 2.9250 | 1 | 1 | 2 | 4 | 5
447 | 5451 | 2.4748 | 1 | 1 | 2 | 3 | 5
449 | 28048 | 3.7457 | 1 | 1 | 3 | 5 | 8
450 | 6867 | 2.0051 | 1 | 1 | 1 | 2 | 4
451 | 3 | 1.3333 | 1 | 1 | 1 | 2 | 2
452 | 22666 | 4.8553 | 1 | 2 | 3 | 6 | 10
453 | 5068 | 2.8035 | 1 | 1 | 2 | 3 | 6
454 | 3940 | 4.5652 | 1 | 2 | 3 | 5 | 9
455 | 931 | 2.5994 | 1 | 1 | 2 | 3 | 5
461 | 3490 | 4.3739 | 1 | 1 | 2 | 5 | 11
462 | 12994 | 11.2271 | 4 | 6 | 9 | 14 | 21
463 | 21790 | 4.1239 | 1 | 2 | 3 | 5 | 8
464 | 6533 | 2.9963 | 1 | 1 | 2 | 4 | 6
465 | 154 | 3.4481 | 1 | 1 | 2 | 4 | 7
466 | 1470 | 3.9925 | 1 | 1 | 2 | 5 | 9
467 | 534 | 3.8390 | 1 | 1 | 2 | 4 | 8
468 | 58990 | 12.9159 | 3 | 6 | 10 | 17 | 30
471 | 11639 | 5.5322 | 3 | 4 | 4 | 6 | 9
473 | 7599 | 12.5038 | 1 | 3 | 7 | 18 | 32
475 | 107089 | 11.1800 | 2 | 5 | 9 | 15 | 22
476 | 4126 | 10.8924 | 2 | 5 | 9 | 14 | 21
477 | 24823 | 8.1004 | 1 | 3 | 6 | 11 | 17
478 | 106999 | 7.3166 | 1 | 3 | 5 | 9 | 15
479 | 24939 | 3.5376 | 1 | 1 | 3 | 5 | 7
480 | 541 | 20.4843 | 7 | 9 | 13 | 25 | 43
481 | 377 | 23.9310 | 10 | 18 | 22 | 27 | 38
482 | 5686 | 12.9474 | 4 | 7 | 10 | 15 | 25
483 | 42093 | 39.0315 | 14 | 22 | 33 | 49 | 70
484 | 313 | 12.6773 | 2 | 6 | 10 | 17 | 26
485 | 2880 | 9.5955 | 4 | 5 | 7 | 11 | 18
486 | 1856 | 12.4402 | 1 | 5 | 10 | 16 | 25
487 | 3339 | 7.3612 | 1 | 3 | 6 | 10 | 15
488 | 770 | 17.0078 | 3 | 7 | 13 | 22 | 36
489 | 14005 | 8.4383 | 2 | 3 | 6 | 10 | 17
490 | 5378 | 5.3405 | 1 | 2 | 4 | 6 | 10
491 | 12205 | 3.4483 | 2 | 2 | 3 | 4 | 6
492 | 2672 | 15.6662 | 3 | 5 | 8 | 25 | 34
493 | 54859 | 5.7621 | 1 | 3 | 5 | 7 | 11
494 | 29900 | 2.4482 | 1 | 1 | 2 | 3 | 5
495 | 153 | 15.0261 | 7 | 9 | 12 | 18 | 26
496 | 1444 | 9.5824 | 4 | 5 | 7 | 12 | 18
497 | 23721 | 6.1748 | 3 | 4 | 7 | 12 | 18
498 | 22152 | 3.3273 | 3 | 4 | 6 | 12 | 18
499 | 30284 | 4.6986 | 1 | 2 | 3 | 6 | 9
500 | 43962 | 2.6146 | 1 | 1 | 2 | 3 | 5
501 | 2180 | 10.9670 | 4 | 6 | 8 | 13 | 21
502 | 586 | 6.5648 | 3 | 4 | 5 | 8 | 11
503 | 5551 | 3.9996 | 1 | 2 | 3 | 5 | 7
504 | 114 | 29.5877 | 9 | 14 | 24 | 41 | 54
505 | 145 | 3.3517 | 1 | 1 | 1 | 3 | 7
506 | 915 | 17.4000 | 4 | 8 | 14 | 22 | 35
507 | 290 | 8.2621 | 2 | 4 | 7 | 11 | 18
508 | 657 | 7.4718 | 2 | 3 | 5 | 9 | 15
509 | 176 | 4.5455 | 1 | 2 | 4 | 6 | 9
510 | 1619 | 7.1779 | 2 | 3 | 5 | 9 | 15
511 | 602 | 4.7591 | 1 | 2 | 3 | 6 | 10
512 |  |  | 1 | 2 | 3 | 6 | 10
513 |  |  | 1 | 2 | 3 | 6 | 10
514 |  |  | 1 | 2 | 3 | 6 | 10
515 |  |  | 1 | 2 | 3 | 6 | 10
516 |  |  | 1 | 2 | 3 | 6 | 10
517 |  |  | 1 | 2 | 3 | 6 | 10
518 |  |  | 1 | 2 | 3 | 6 | 10
519 |  |  | 1 | 2 | 3 | 6 | 10
520 |  |  | 1 | 2 | 3 | 6 | 10
521 |  |  | 1 | 2 | 3 | 6 | 10
522 |  |  | 1 | 2 | 3 | 6 | 10
523 |  |  | 1 | 2 | 3 | 6 | 10
| 10811358

Table 7B.—Medicare Prospective Payment System, Selected Percentile Lengths of Stay
[FY2000 MEDPAR update 12/00 Grouper V19.0]
DRG | Number discharges | Arithmetic mean LOS | 10th percentile | 25th percentile | 50th percentile | 75th percentile | 90th percentile
1 | 33822 | 8.9935 | 2 | 3 | 6 | 12 | 19
2 | 6772 | 9.9778 | 3 | 5 | 8 | 13 | 20
3 | 2 | 43.5000 | 35 | 35 | 52 | 52 | 52
4 | 6035 | 7.1639 | 1 | 2 | 5 | 9 | 15
5 | 93311 | 3.1649 | 1 | 1 | 2 | 3 | 7
6 | 366 | 2.9672 | 1 | 1 | 2 | 4 | 6
7 | 12470 | 9.9739 | 2 | 4 | 7 | 12 | 20
8 | 4164 | 3.2759 | 1 | 1 | 2 | 4 | 7
9 | 1610 | 6.3491 | 1 | 3 | 5 | 8 | 13
10 | 17577 | 6.5503 | 2 | 3 | 5 | 8 | 13
11 | 3128 | 4.0767 | 1 | 2 | 3 | 5 | 8
12 | 46758 | 5.8962 | 2 | 3 | 4 | 7 | 11
13 | 6415 | 5.2011 | 2 | 3 | 4 | 6 | 9
14 | 319523 | 5.8762 | 2 | 3 | 5 | 7 | 11
15 | 145366 | 3.5498 | 1 | 2 | 3 | 4 | 7
16 | 11155 | 6.0293 | 2 | 3 | 5 | 7 | 12
17 | 3519 | 3.3231 | 1 | 2 | 3 | 4 | 6
18 | 25961 | 5.4162 | 2 | 3 | 4 | 7 | 10
19 | 8638 | 3.6972 | 1 | 2 | 3 | 5 | 7
20 | 5629 | 10.1482 | 3 | 5 | 8 | 13 | 20
21 | 1309 | 6.5516 | 2 | 3 | 5 | 8 | 13
22 | 2535 | 4.8174 | 1 | 2 | 4 | 6 | 9
23 | 9464 | 4.1855 | 1 | 2 | 3 | 5 | 8
24 | 52753 | 4.9830 | 1 | 2 | 4 | 6 | 10
25 | 25370 | 3.2236 | 1 | 2 | 3 | 4 | 6
26 | 31 | 2.7097 | 1 | 1 | 2 | 3 | 6
27 | 3441 | 5.0584 | 1 | 1 | 3 | 6 | 11
28 | 11316 | 6.2100 | 1 | 3 | 5 | 8 | 13
29 | 4486 | 3.6097 | 1 | 2 | 3 | 5 | 7
30 | 1 | 1.0000 | 1 | 1 | 1 | 1 | 1
31 | 3488 | 4.4903 | 1 | 2 | 3 | 5 | 8
32 | 1738 | 2.5621 | 1 | 1 | 2 | 3 | 5
33 | 1 | 1.0000 | 1 | 1 | 1 | 1 | 1
34 | 20249 | 5.0786 | 1 | 2 | 4 | 6 | 10
35 | 5728 | 3.3959 | 1 | 2 | 3 | 4 | 6
36 | 3190 | 1.4649 | 1 | 1 | 1 | 1 | 2
37 | 1452 | 4.0296 | 1 | 1 | 2 | 5 | 9
38 | 102 | 2.6569 | 1 | 1 | 2 | 3 | 5
39 | 912 | 1.9079 | 1 | 1 | 1 | 2 | 4
40 | 1545 | 3.4252 | 1 | 1 | 2 | 4 | 7
42 | 2223 | 2.2852 | 1 | 1 | 1 | 3 | 5
43 | 85 | 3.1882 | 1 | 2 | 3 | 4 | 6
44 | 1238 | 4.9548 | 2 | 3 | 4 | 6 | 9
45 | 2444 | 3.1678 | 1 | 2 | 3 | 4 | 6
46 | 3051 | 4.6834 | 1 | 2 | 4 | 6 | 9
47 | 1281 | 3.2560 | 1 | 1 | 3 | 4 | 6
49 | 2241 | 4.8104 | 1 | 2 | 3 | 6 | 9
50 | 2488 | 1.9425 | 1 | 1 | 1 | 2 | 3
51 | 203 | 2.6995 | 1 | 1 | 1 | 2 | 6
52 | 220 | 1.9318 | 1 | 1 | 1 | 2 | 3
53 | 2478 | 3.5557 | 1 | 1 | 2 | 4 | 8
54 | 2 | 1.5000 | 1 | 1 | 2 | 2 | 2
55 | 1505 | 2.7442 | 1 | 1 | 1 | 3 | 6
56 | 503 | 2.7256 | 1 | 1 | 2 | 3 | 5
57 | 708 | 3.9492 | 1 | 1 | 2 | 5 | 9
59 | 107 | 2.7850 | 1 | 1 | 2 | 3 | 5
60 | 2 | 3.5000 | 2 | 2 | 5 | 5 | 5
61 | 231 | 5.0996 | 1 | 1 | 2 | 6 | 12
62 | 3 | 1.3333 | 1 | 1 | 1 | 2 | 2
63 | 3003 | 4.4409 | 1 | 2 | 3 | 5 | 9
64 | 3033 | 6.1800 | 1 | 2 | 4 | 8 | 13
65 | 34466 | 2.8420 | 1 | 1 | 2 | 4 | 5
66 | 6978 | 3.1635 | 1 | 1 | 2 | 4 | 6
67 | 495 | 3.5960 | 1 | 2 | 3 | 4 | 7
68 | 16724 | 4.1158 | 1 | 2 | 3 | 5 | 7
69 | 5435 | 3.2736 | 1 | 2 | 3 | 4 | 6
70 | 24 | 2.9167 | 1 | 2 | 2 | 4 | 5
71 | 82 | 3.8049 | 1 | 2 | 3 | 4 | 7
72 | 883 | 3.5663 | 1 | 2 | 3 | 4 | 6
73 | 6630 | 4.4065 | 1 | 2 | 3 | 6 | 9
75 | 39010 | 9.9124 | 3 | 5 | 7 | 12 | 19
76 | 38998 | 11.2677 | 3 | 5 | 9 | 14 | 21
77 | 2352 | 4.9184 | 1 | 2 | 4 | 7 | 10
78 | 32087 | 6.7848 | 3 | 4 | 6 | 8 | 11
79 | 169783 | 8.4892 | 3 | 4 | 7 | 11 | 16
80 | 9018 | 5.6618 | 2 | 3 | 5 | 7 | 10
81 | 4 | 18.2500 | 3 | 3 | 4 | 8 | 58
82 | 61883 | 6.9447 | 2 | 3 | 5 | 9 | 14
83 | 6446 | 5.5496 | 2 | 3 | 4 | 7 | 10
84 | 1508 | 3.3455 | 1 | 2 | 3 | 4 | 6
85 | 20572 | 6.3122 | 2 | 3 | 5 | 8 | 12
86 | 2118 | 3.6643 | 1 | 2 | 3 | 5 | 7
87 | 60110 | 6.2840 | 1 | 3 | 5 | 8 | 12
88 | 389694 | 5.1207 | 2 | 3 | 4 | 6 | 9
89 | 525838 | 5.9470 | 2 | 3 | 5 | 7 | 11
90 | 53895 | 4.1549 | 2 | 3 | 4 | 5 | 7
91 | 54 | 4.5185 | 2 | 2 | 3 | 5 | 10
92 | 13774 | 6.3499 | 2 | 3 | 5 | 8 | 12
93 | 1672 | 4.0353 | 1 | 2 | 3 | 5 | 7
94 | 12030 | 6.2988 | 2 | 3 | 5 | 8 | 12
95 | 1595 | 3.7179 | 1 | 2 | 3 | 5 | 7
96 | 61986 | 4.6292 | 2 | 3 | 4 | 6 | 8
97 | 31444 | 3.6560 | 1 | 2 | 3 | 5 | 7
98 | 18 | 4.2222 | 1 | 2 | 2 | 4 | 6
99 | 18996 | 3.1991 | 1 | 1 | 2 | 4 | 6
100 | 7619 | 2.1869 | 1 | 1 | 2 | 3 | 4
101 | 19997 | 4.3938 | 1 | 2 | 3 | 5 | 9
102 | 5146 | 2.6570 | 1 | 1 | 2 | 3 | 5
103 | 475 | 46.6021 | 9 | 13 | 25 | 60 | 98
104 | 19650 | 14.1922 | 6 | 8 | 12 | 17 | 25
105 | 25952 | 9.7562 | 4 | 6 | 8 | 11 | 17
106 | 3401 | 11.4963 | 5 | 7 | 10 | 14 | 20
107 | 87868 | 10.3783 | 5 | 7 | 9 | 12 | 17
108 | 6047 | 10.2128 | 3 | 5 | 8 | 13 | 19
109 | 60265 | 7.6926 | 4 | 5 | 6 | 9 | 12
110 | 52587 | 9.2019 | 2 | 5 | 7 | 11 | 18
111 | 8545 | 4.7604 | 1 | 2 | 5 | 6 | 8
113 | 42250 | 12.1885 | 3 | 6 | 9 | 15 | 24
114 | 8712 | 8.3768 | 2 | 4 | 7 | 10 | 16
115 | 14329 | 8.1687 | 1 | 4 | 7 | 11 | 16
116 | 91838 | 4.4683 | 1 | 2 | 3 | 6 | 9
117 | 3717 | 4.1512 | 1 | 1 | 2 | 5 | 9
118 | 7667 | 2.6849 | 1 | 1 | 1 | 3 | 6
119 | 1307 | 4.8829 | 1 | 1 | 3 | 6 | 12
120 | 37500 | 8.5321 | 1 | 2 | 6 | 11 | 19
121 | 162112 | 6.3821 | 2 | 3 | 5 | 8 | 12
122 | 78969 | 3.7027 | 1 | 2 | 3 | 5 | 7
123 | 40659 | 4.5833 | 1 | 1 | 3 | 6 | 11
124 | 132801 | 4.3427 | 1 | 2 | 3 | 5 | 8
125 | 80169 | 2.7657 | 1 | 1 | 2 | 4 | 5
126 | 5150 | 11.6882 | 3 | 6 | 9 | 14 | 22
127 | 678903 | 5.2745 | 2 | 3 | 4 | 7 | 10
128 | 9424 | 5.6175 | 2 | 4 | 5 | 7 | 9
129 | 4140 | 2.7621 | 1 | 1 | 1 | 3 | 6
130 | 86009 | 5.6760 | 2 | 3 | 5 | 7 | 10
131 | 28236 | 4.2426 | 1 | 2 | 4 | 6 | 7
132 | 147648 | 3.0002 | 1 | 1 | 2 | 4 | 6
133 | 8321 | 2.3367 | 1 | 1 | 2 | 3 | 4
134 | 36118 | 3.2406 | 1 | 2 | 3 | 4 | 6
135 | 7266 | 4.5531 | 1 | 2 | 3 | 6 | 9
136 | 1221 | 2.7158 | 1 | 1 | 2 | 3 | 5
138 | 194087 | 3.9932 | 1 | 2 | 3 | 5 | 8
139 | 82604 | 2.5072 | 1 | 1 | 2 | 3 | 5
140 | 69724 | 2.6533 | 1 | 1 | 2 | 3 | 5
141 | 90403 | 3.6691 | 1 | 2 | 3 | 5 | 7
142 | 45776 | 2.6508 | 1 | 1 | 2 | 3 | 5
143 | 203918 | 2.1253 | 1 | 1 | 2 | 3 | 4
144 | 81577 | 5.3196 | 1 | 2 | 4 | 7 | 11
145 | 7224 | 2.7460 | 1 | 1 | 2 | 3 | 5
146 | 10683 | 10.2826 | 5 | 7 | 9 | 12 | 17
147 | 2629 | 6.4196 | 3 | 5 | 6 | 8 | 9
148 | 129247 | 12.1904 | 5 | 7 | 10 | 15 | 22
149 | 18462 | 6.5184 | 4 | 5 | 6 | 8 | 9
150 | 19795 | 11.2770 | 4 | 7 | 10 | 14 | 20
151 | 4814 | 5.8286 | 2 | 3 | 5 | 8 | 10
152 | 4381 | 8.1438 | 3 | 5 | 7 | 9 | 14
153 | 2083 | 5.3711 | 3 | 4 | 5 | 7 | 8
154 | 28660 | 13.1491 | 4 | 7 | 10 | 16 | 25
155 | 6596 | 4.2179 | 1 | 2 | 3 | 6 | 8
156 | 4 | 7.5000 | 1 | 1 | 5 | 6 | 18
157 | 7903 | 5.3790 | 1 | 2 | 4 | 7 | 11
158 | 4630 | 2.5395 | 1 | 1 | 2 | 3 | 5
159 | 16309 | 4.9926 | 1 | 2 | 4 | 6 | 10
160 | 11655 | 2.6619 | 1 | 1 | 2 | 3 | 5
161 | 11119 | 4.2027 | 1 | 1 | 3 | 5 | 9
162 | 7199 | 1.9267 | 1 | 1 | 1 | 2 | 4
163 | 5 | 4.4000 | 1 | 1 | 3 | 4 | 13
164 | 4824 | 8.4279 | 4 | 5 | 7 | 10 | 15
165 | 2066 | 4.8049 | 2 | 3 | 5 | 6 | 8
166 | 3532 | 5.0337 | 2 | 2 | 4 | 6 | 10
167 | 3269 | 2.5990 | 1 | 2 | 2 | 3 | 5
168 | 1327 | 4.7641 | 1 | 2 | 3 | 6 | 10
169 | 834 | 2.3405 | 1 | 1 | 2 | 3 | 5
170 | 10975 | 11.1690 | 2 | 5 | 8 | 14 | 22
171 | 1284 | 4.6597 | 1 | 2 | 4 | 6 | 9
172 | 30412 | 6.9363 | 2 | 3 | 5 | 9 | 14
173 | 2685 | 3.6648 | 1 | 1 | 3 | 5 | 7
174 | 240400 | 4.7974 | 2 | 3 | 4 | 6 | 9
175 | 32375 | 2.9414 | 1 | 2 | 3 | 4 | 5
176 | 15101 | 5.2286 | 2 | 3 | 4 | 6 | 10
177 | 9190 | 4.5348 | 2 | 2 | 4 | 6 | 8
178 | 3597 | 3.0703 | 1 | 2 | 3 | 4 | 6
179 | 12291 | 5.9729 | 2 | 3 | 5 | 7 | 11
180 | 85599 | 5.3567 | 2 | 3 | 4 | 7 | 10
181 | 26315 | 3.4185 | 1 | 2 | 3 | 4 | 6
182 | 243506 | 4.3356 | 1 | 2 | 3 | 5 | 8
183 | 83969 | 2.9155 | 1 | 1 | 2 | 4 | 5
184 | 79 | 2.9620 | 1 | 2 | 2 | 4 | 6
185 | 4760 | 4.5210 | 1 | 2 | 3 | 6 | 9
186 | 3 | 9.3333 | 1 | 1 | 9 | 18 | 18
187 | 646 | 3.9164 | 1 | 1 | 3 | 5 | 8
188 | 75558 | 5.5580 | 1 | 2 | 4 | 7 | 11
189 | 11984 | 3.1542 | 1 | 1 | 2 | 4 | 6
190 | 49 | 7.0204 | 2 | 3 | 4 | 5 | 8
191 | 8867 | 13.7982 | 4 | 6 | 10 | 17 | 27
192 | 1105 | 6.5122 | 2 | 4 | 6 | 8 | 11
193 | 5258 | 12.5369 | 5 | 7 | 10 | 16 | 22
194 | 718 | 6.7869 | 2 | 4 | 6 | 8 | 12
195 | 4327 | 10.1470 | 4 | 6 | 9 | 12 | 17
196 | 1162 | 5.7212 | 2 | 4 | 5 | 7 | 10
197 | 18754 | 8.9335 | 3 | 5 | 7 | 11 | 16
198 | 5751 | 4.5416 | 2 | 3 | 4 | 6 | 8
199 | 1704 | 9.5827 | 2 | 4 | 7 | 13 | 20
200 | 1063 | 10.3518 | 1 | 3 | 7 | 13 | 22
201 | 1430 | 13.8098 | 3 | 6 | 11 | 18 | 27
202 | 25975 | 6.4045 | 2 | 3 | 5 | 8 | 13
203 | 29017 | 6.6364 | 2 | 3 | 5 | 9 | 13
204 | 57319 | 5.7964 | 2 | 3 | 4 | 7 | 11
205 | 22900 | 6.1735 | 2 | 3 | 5 | 8 | 12
206 | 1948 | 3.9168 | 1 | 2 | 3 | 5 | 7
207 | 30817 | 5.0832 | 1 | 2 | 4 | 6 | 10
208 | 10061 | 2.8946 | 1 | 1 | 2 | 4 | 6
209 | 343375 | 5.0786 | 3 | 3 | 4 | 6 | 8
210 | 120891 | 6.8189 | 3 | 4 | 6 | 8 | 11
211 | 31665 | 4.9325 | 3 | 4 | 4 | 6 | 7
212 | 6 | 13.5000 | 1 | 4 | 4 | 29 | 29
213 | 9144 | 8.9604 | 2 | 4 | 7 | 11 | 18
216 | 5956 | 9.6949 | 2 | 4 | 8 | 12 | 20
217 | 16333 | 13.1971 | 3 | 5 | 9 | 16 | 28
218 | 21296 | 5.4123 | 2 | 3 | 4 | 7 | 10
219 | 19530 | 3.2240 | 1 | 2 | 3 | 4 | 6
220 | 6 | 4.0000 | 1 | 1 | 3 | 7 | 7
223 | 13251 | 2.8497 | 1 | 1 | 2 | 3 | 6
224 | 11112 | 1.9343 | 1 | 1 | 2 | 2 | 3
225 | 5734 | 4.8575 | 1 | 2 | 3 | 6 | 11
226 | 5148 | 6.5874 | 1 | 2 | 4 | 8 | 14
227 | 4695 | 2.7242 | 1 | 1 | 2 | 3 | 5
228 | 2340 | 3.7970 | 1 | 1 | 2 | 5 | 8
229 | 1108 | 2.4838 | 1 | 1 | 2 | 3 | 5
230 | 2365 | 5.2592 | 1 | 2 | 3 | 6 | 11
231 | 11343 | 4.9395 | 1 | 2 | 3 | 6 | 11
232 | 807 | 2.8872 | 1 | 1 | 1 | 3 | 7
233 | 5059 | 7.5181 | 2 | 3 | 6 | 10 | 15
234 | 3168 | 3.4419 | 1 | 1 | 3 | 4 | 7
235 | 5036 | 5.0473 | 1 | 2 | 4 | 6 | 9
236 | 38265 | 4.8164 | 1 | 3 | 4 | 6 | 9
237 | 1687 | 3.5033 | 1 | 2 | 3 | 4 | 6
238 | 7930 | 8.5212 | 3 | 4 | 6 | 10 | 16
239 | 49088 | 6.2151 | 2 | 3 | 5 | 8 | 12
240 | 11318 | 6.6744 | 2 | 3 | 5 | 8 | 13
241 | 3168 | 3.8570 | 1 | 2 | 3 | 5 | 7
242 | 2434 | 6.6348 | 2 | 3 | 5 | 8 | 13
243 | 87407 | 4.6676 | 1 | 2 | 4 | 6 | 9
244 | 12162 | 4.8047 | 1 | 2 | 4 | 6 | 9
245 | 5130 | 3.4458 | 1 | 2 | 3 | 4 | 6
246 | 1386 | 3.8117 | 1 | 2 | 3 | 5 | 7
247 | 16832 | 3.3990 | 1 | 1 | 3 | 4 | 7
248 | 10529 | 4.8161 | 1 | 2 | 4 | 6 | 9
249 | 11336 | 3.6591 | 1 | 1 | 2 | 4 | 8
250 | 3456 | 4.1062 | 1 | 2 | 3 | 5 | 7
251 | 2406 | 2.8579 | 1 | 1 | 2 | 4 | 5
253 | 19677 | 4.7732 | 1 | 3 | 4 | 6 | 9
254 | 10449 | 3.1906 | 1 | 2 | 3 | 4 | 6
255 | 1 | 3.0000 | 3 | 3 | 3 | 3 | 3
256 | 6054 | 5.0766 | 1 | 2 | 4 | 6 | 10
257 | 16333 | 2.7359 | 1 | 1 | 2 | 3 | 5
258 | 15978 | 1.9342 | 1 | 1 | 2 | 2 | 3
259 | 3773 | 2.6801 | 1 | 1 | 1 | 2 | 6
260 | 4896 | 1.4167 | 1 | 1 | 1 | 2 | 2
261 | 1844 | 2.2749 | 1 | 1 | 1 | 3 | 5
262 | 612 | 3.9477 | 1 | 1 | 3 | 5 | 8
263 | 18146 | 12.0208 | 3 | 5 | 8 | 14 | 24
264 | 3608 | 7.4088 | 2 | 4 | 6 | 9 | 14
265 | 3681 | 6.8036 | 1 | 2 | 4 | 8 | 14
266 | 2698 | 3.3039 | 1 | 1 | 2 | 4 | 7
267 | 233 | 4.2060 | 1 | 1 | 3 | 6 | 9
268 | 878 | 3.4989 | 1 | 1 | 2 | 4 | 7
269 | 7390 | 8.2441 | 1 | 3 | 6 | 10 | 17
270 | 2623 | 3.5783 | 1 | 1 | 2 | 5 | 8
271 | 9621 | 7.6144 | 2 | 4 | 6 | 9 | 14
272 | 5459 | 6.1597 | 2 | 3 | 5 | 8 | 12
273 | 1286 | 4.0420 | 1 | 2 | 3 | 5 | 8
274 | 2334 | 6.5900 | 1 | 3 | 5 | 8 | 13
275 | 246 | 4.3130 | 1 | 1 | 3 | 5 | 9
276 | 1177 | 4.6669 | 1 | 2 | 4 | 6 | 8
277 | 85183 | 5.7309 | 2 | 3 | 5 | 7 | 10
278 | 33396 | 4.4205 | 2 | 3 | 4 | 6 | 8
279 | 3 | 2.3333 | 1 | 1 | 2 | 4 | 4
280 | 15577 | 4.1954 | 1 | 2 | 3 | 5 | 8
281 | 7128 | 3.0464 | 1 | 1 | 3 | 4 | 6
282 | 3 | 1.6667 | 1 | 1 | 2 | 2 | 2
283 | 5629 | 4.5756 | 1 | 2 | 4 | 6 | 9
284 | 1868 | 3.1124 | 1 | 1 | 2 | 4 | 6
285 | 6195 | 10.3080 | 3 | 5 | 8 | 13 | 20
286 | 2070 | 6.4396 | 2 | 3 | 5 | 7 | 13
287 | 5676 | 10.5374 | 3 | 5 | 7 | 12 | 21
288 | 2639 | 5.7704 | 2 | 3 | 4 | 6 | 9
289 | 4765 | 3.0002 | 1 | 1 | 2 | 3 | 7
290 | 8753 | 2.3103 | 1 | 1 | 2 | 2 | 4
291 | 65 | 1.8462 | 1 | 1 | 1 | 2 | 3
292 | 4654 | 10.4850 | 2 | 4 | 8 | 13 | 21
293 | 624 | 5.5096 | 1 | 2 | 4 | 7 | 12
294 | 87857 | 4.6066 | 1 | 2 | 4 | 6 | 9
295 | 3277 | 3.7376 | 1 | 2 | 3 | 5 | 7
296 | 235003 | 5.1556 | 2 | 2 | 4 | 6 | 10
297 | 43573 | 3.4124 | 1 | 2 | 3 | 4 | 6
298 | 86 | 2.8256 | 1 | 1 | 2 | 3 | 5
299 | 1178 | 5.2199 | 1 | 2 | 4 | 7 | 10
300 | 15999 | 6.1363 | 2 | 3 | 5 | 8 | 12
301 | 3208 | 3.6234 | 1 | 2 | 3 | 4 | 7
302 | 7703 | 8.8384 | 4 | 5 | 7 | 10 | 15
303 | 19452 | 8.4231 | 4 | 5 | 7 | 10 | 15
304 | 11765 | 8.7340 | 2 | 4 | 6 | 11 | 18
305 | 2984 | 3.6384 | 1 | 2 | 3 | 5 | 7
306 | 7320 | 5.6291 | 1 | 2 | 3 | 8 | 13
307 | 2082 | 2.2517 | 1 | 1 | 2 | 3 | 4
308 | 7463 | 6.1733 | 1 | 2 | 4 | 8 | 14
309 | 4096 | 2.2954 | 1 | 1 | 2 | 3 | 4
310 | 23873 | 4.4002 | 1 | 1 | 3 | 6 | 10
311 | 7963 | 1.8339 | 1 | 1 | 1 | 2 | 3
312 | 1487 | 4.4654 | 1 | 1 | 3 | 6 | 10
313 | 591 | 2.3316 | 1 | 1 | 1 | 3 | 5
315 | 30147 | 7.0663 | 1 | 1 | 4 | 9 | 16
316 | 104601 | 6.6228 | 2 | 3 | 5 | 8 | 13
317 | 1507 | 2.8779 | 1 | 1 | 2 | 3 | 6
318 | 5584 | 5.9979 | 1 | 3 | 5 | 8 | 12
319 | 422 | 2.7725 | 1 | 1 | 2 | 3 | 6
320 | 186678 | 5.3171 | 2 | 3 | 4 | 6 | 10
321 | 30428 | 3.7951 | 1 | 2 | 3 | 5 | 7
322 | 61 | 4.1475 | 2 | 2 | 3 | 5 | 8
323 | 17241 | 3.2172 | 1 | 1 | 2 | 4 | 7
324 | 7479 | 1.8826 | 1 | 1 | 1 | 2 | 3
325 | 8160 | 3.8241 | 1 | 2 | 3 | 5 | 7
326 | 2676 | 2.6648 | 1 | 1 | 2 | 3 | 5
327 | 11 | 3.0909 | 1 | 1 | 3 | 4 | 5
328 | 663 | 3.6305 | 1 | 1 | 3 | 5 | 8
329 | 77 | 2.0130 | 1 | 1 | 1 | 2 | 4
331 | 46045 | 5.5426 | 1 | 3 | 4 | 7 | 11
332 | 4930 | 3.2917 | 1 | 1 | 2 | 4 | 7
333 | 281 | 5.0569 | 1 | 2 | 4 | 6 | 10
334 | 8654 | 4.4386 | 2 | 3 | 4 | 5 | 7
335 | 10721 | 3.1791 | 2 | 2 | 3 | 4 | 5
336 | 9563 | 3.7848 | 1 | 2 | 3 | 4 | 8
337 | 3041 | 2.1500 | 1 | 1 | 2 | 3 | 3
338 | 1226 | 5.1117 | 1 | 2 | 3 | 7 | 11
339 | 1344 | 4.9821 | 1 | 1 | 3 | 7 | 12
340 | 1 | 1.0000 | 1 | 1 | 1 | 1 | 1
341 | 2738 | 3.1088 | 1 | 1 | 1 | 3 | 6
342 | 298 | 3.4094 | 1 | 1 | 2 | 4 | 7
344 | 3502 | 2.3829 | 1 | 1 | 1 | 2 | 5
345 | 410 | 5.1244 | 1 | 2 | 3 | 6 | 10
346 | 4441 | 5.8726 | 1 | 3 | 4 | 7 | 12
347 | 365 | 2.9479 | 1 | 1 | 2 | 4 | 6
350 | 6270 | 4.3933 | 1 | 2 | 4 | 5 | 8
352 | 756 | 3.9577 | 1 | 2 | 3 | 5 | 8
353 | 2533 | 6.4212 | 2 | 3 | 5 | 7 | 12
354 | 7562 | 5.8375 | 3 | 3 | 4 | 7 | 11
355 | 5504 | 3.2862 | 2 | 3 | 3 | 4 | 5
356 | 25128 | 2.2924 | 1 | 1 | 2 | 3 | 4
357 | 5548 | 8.4874 | 3 | 4 | 7 | 10 | 16
358 | 20294 | 4.3121 | 2 | 3 | 3 | 5 | 7
359 | 29890 | 2.7295 | 2 | 2 | 3 | 3 | 4
360 | 15941 | 2.8557 | 1 | 2 | 2 | 3 | 5
361 | 378 | 2.9233 | 1 | 1 | 2 | 3 | 5
363 | 2862 | 3.4693 | 1 | 2 | 2 | 3 | 7
364 | 1644 | 3.8534 | 1 | 1 | 3 | 5 | 8
365 | 1722 | 7.2410 | 1 | 3 | 5 | 9 | 16
366 | 4410 | 6.7329 | 1 | 3 | 5 | 8 | 14
367 | 583 | 3.0617 | 1 | 1 | 2 | 4 | 6
368 | 3110 | 6.4810 | 2 | 3 | 5 | 8 | 12
369 | 3133 | 3.2515 | 1 | 1 | 2 | 4 | 7
370 | 1095 | 5.8429 | 3 | 3 | 4 | 5 | 10
371 | 1307 | 3.6526 | 2 | 3 | 3 | 4 | 5
372 | 927 | 3.2891 | 1 | 2 | 2 | 3 | 5
373 | 3734 | 2.2499 | 1 | 2 | 2 | 3 | 3
374 | 120 | 3.1583 | 1 | 2 | 2 | 3 | 4
375 | 10 | 2.3000 | 1 | 2 | 2 | 3 | 4
376 | 247 | 3.0931 | 1 | 2 | 2 | 4 | 6
377 | 48 | 5.0000 | 1 | 1 | 3 | 6 | 12
378 | 157 | 2.4140 | 1 | 1 | 2 | 3 | 4
379 | 337 | 3.4303 | 1 | 1 | 2 | 4 | 6
380 | 58 | 2.1207 | 1 | 1 | 1 | 2 | 5
381 | 152 | 2.5132 | 1 | 1 | 1 | 3 | 5
382 | 45 | 1.2889 | 1 | 1 | 1 | 1 | 2
383 | 1707 | 3.5817 | 1 | 1 | 2 | 4 | 7
384 | 114 | 2.1842 | 1 | 1 | 1 | 3 | 5
385 | 1 | 1.0000 | 1 | 1 | 1 | 1 | 1
389 | 15 | 11.7333 | 1 | 3 | 6 | 10 | 24
390 | 14 | 4.0000 | 1 | 2 | 3 | 6 | 7
391 | 1 | 4.0000 | 4 | 4 | 4 | 4 | 4
392 | 2323 | 9.6750 | 3 | 4 | 7 | 12 | 20
394 | 1870 | 7.1428 | 1 | 2 | 4 | 8 | 16
395 | 86911 | 4.4001 | 1 | 2 | 3 | 6 | 9
396 | 15 | 4.6667 | 1 | 2 | 4 | 6 | 7
397 | 17554 | 5.1878 | 1 | 2 | 4 | 7 | 10
398 | 17526 | 5.9417 | 2 | 3 | 5 | 7 | 11
399 | 1721 | 3.5758 | 1 | 2 | 3 | 5 | 7
400 | 6444 | 9.1189 | 1 | 3 | 6 | 12 | 20
401 | 5581 | 11.2575 | 2 | 5 | 9 | 15 | 23
402 | 1498 | 4.1128 | 1 | 1 | 3 | 6 | 9
403 | 31732 | 8.0627 | 2 | 3 | 6 | 10 | 17
404 | 4639 | 4.2720 | 1 | 2 | 3 | 6 | 9
406 | 2513 | 9.8607 | 3 | 4 | 7 | 12 | 20
407 | 720 | 4.4417 | 1 | 2 | 4 | 5 | 8
408 | 2178 | 8.0317 | 1 | 2 | 5 | 10 | 18
409 | 2822 | 5.9072 | 2 | 3 | 4 | 6 | 12
410 | 33412 | 3.9069 | 1 | 2 | 4 | 5 | 6
411 | 13 | 2.3077 | 1 | 1 | 2 | 2 | 5
412 | 29 | 2.4483 | 1 | 1 | 2 | 3 | 4
413 | 6419 | 7.0662 | 2 | 3 | 5 | 9 | 14
414 | 767 | 4.2529 | 1 | 2 | 3 | 5 | 9
415 | 38683 | 14.2779 | 4 | 6 | 11 | 18 | 28
416 | 183557 | 7.3848 | 2 | 4 | 6 | 9 | 14
417 | 16 | 5.0000 | 2 | 2 | 4 | 6 | 9
418 | 22822 | 6.1160 | 2 | 3 | 5 | 7 | 11
419 | 15294 | 4.7204 | 2 | 2 | 4 | 6 | 9
420 | 3109 | 3.5002 | 1 | 2 | 3 | 4 | 6
421 | 11464 | 3.7872 | 1 | 2 | 3 | 5 | 7
422 | 80 | 3.0625 | 1 | 2 | 3 | 4 | 6
423 | 7452 | 8.1162 | 2 | 3 | 6 | 10 | 16
424 | 1275 | 13.4204 | 2 | 5 | 9 | 16 | 26
425 | 15710 | 3.9945 | 1 | 2 | 3 | 5 | 8
426 | 4443 | 4.4510 | 1 | 2 | 3 | 5 | 9
427 | 1633 | 4.6418 | 1 | 2 | 3 | 6 | 9
428 | 835 | 6.8192 | 1 | 2 | 4 | 8 | 14
429 | 25967 | 6.3055 | 2 | 3 | 5 | 7 | 12
430 | 58669 | 8.0151 | 2 | 3 | 6 | 10 | 16
431 | 313 | 6.2045 | 1 | 3 | 5 | 7 | 11
432 | 469 | 4.7271 | 1 | 2 | 3 | 5 | 9
433 | 5418 | 3.0945 | 1 | 1 | 2 | 4 | 6
439 | 1343 | 8.4080 | 1 | 3 | 5 | 10 | 19
440 | 5131 | 9.0209 | 2 | 3 | 6 | 11 | 20
441 | 601 | 3.2313 | 1 | 1 | 2 | 4 | 7
442 | 15366 | 8.4839 | 1 | 3 | 6 | 10 | 18
443 | 3730 | 3.4399 | 1 | 1 | 3 | 4 | 7
444 | 5185 | 4.1338 | 1 | 2 | 3 | 5 | 8
445 | 2427 | 2.9250 | 1 | 1 | 2 | 4 | 5
447 | 5451 | 2.4748 | 1 | 1 | 2 | 3 | 5
449 | 28048 | 3.7457 | 1 | 1 | 3 | 5 | 8
450 | 6867 | 2.0051 | 1 | 1 | 1 | 2 | 4
451 | 3 | 1.3333 | 1 | 1 | 1 | 2 | 2
452 | 22666 | 4.8553 | 1 | 2 | 3 | 6 | 10
453 | 5068 | 2.8035 | 1 | 1 | 2 | 3 | 6
454 | 3940 | 4.5652 | 1 | 2 | 3 | 5 | 9
455 | 931 | 2.5994 | 1 | 1 | 2 | 3 | 5
461 | 3490 | 4.3739 | 1 | 1 | 2 | 5 | 11
462 | 12994 | 11.2271 | 4 | 6 | 9 | 14 | 21
463 | 21790 | 4.1239 | 1 | 2 | 3 | 5 | 8
464 | 6533 | 2.9963 | 1 | 1 | 2 | 4 | 6
465 | 154 | 3.4481 | 1 | 1 | 2 | 4 | 7
466 | 1470 | 3.9925 | 1 | 1 | 2 | 5 | 9
467 | 534 | 3.8390 | 1 | 1 | 2 | 4 | 8
468 | 56874 | 12.7662 | 3 | 6 | 10 | 16 | 25
471 | 11639 | 5.5322 | 3 | 4 | 4 | 6 | 9
473 | 7599 | 12.5038 | 1 | 3 | 7 | 18 | 32
475 | 107089 | 11.1800 | 2 | 5 | 9 | 15 | 22
476 | 4126 | 10.8924 | 2 | 5 | 9 | 14 | 21
477 | 24823 | 8.1004 | 1 | 3 | 6 | 11 | 17
478 | 106997 | 7.3166 | 1 | 3 | 5 | 9 | 15
479 | 24939 | 3.5376 | 1 | 1 | 3 | 5 | 7
480 | 540 | 20.1370 | 7 | 9 | 13 | 25 | 43
481 | 377 | 23.9310 | 10 | 18 | 22 | 27 | 38
482 | 5686 | 12.9474 | 4 | 7 | 10 | 15 | 25
483 | 42087 | 39.0295 | 14 | 22 | 33 | 49 | 70
484 | 313 | 12.6773 | 2 | 6 | 10 | 17 | 26
485 | 2880 | 9.5955 | 4 | 5 | 7 | 11 | 18
486 | 1856 | 12.4402 | 1 | 5 | 10 | 16 | 25
487 | 3339 | 7.3612 | 1 | 3 | 6 | 10 | 15
488 | 770 | 17.0078 | 3 | 7 | 13 | 22 | 36
489 | 14005 | 8.4383 | 2 | 3 | 6 | 10 | 17
490 | 5378 | 5.3405 | 1 | 2 | 4 | 6 | 10
491 | 12205 | 3.4483 | 2 | 2 | 3 | 4 | 6
492 | 2672 | 15.6662 | 3 | 5 | 8 | 25 | 34
493 | 54859 | 5.7621 | 1 | 3 | 5 | 7 | 11
494 | 29900 | 2.4482 | 1 | 1 | 2 | 3 | 5
495 | 153 | 15.0261 | 7 | 9 | 12 | 18 | 26
496 | 1468 | 9.5320 | 4 | 5 | 7 | 12 | 19
497 | 17184 | 6.5116 | 3 | 4 | 5 | 7 | 11
498 | 12708 | 4.1701 | 2 | 3 | 4 | 5 | 6
499 | 30284 | 4.6986 | 1 | 2 | 3 | 6 | 9
500 | 43962 | 2.6146 | 1 | 1 | 2 | 3 | 5
501 | 2180 | 10.9670 | 4 | 6 | 8 | 13 | 21
502 | 586 | 6.5648 | 3 | 4 | 5 | 8 | 11
503 | 5551 | 3.9996 | 1 | 2 | 3 | 5 | 7
504 | 114 | 29.5877 | 9 | 14 | 24 | 41 | 54
505 | 145 | 3.3517 | 1 | 1 | 1 | 3 | 7
506 | 915 | 17.4000 | 4 | 8 | 14 | 22 | 35
507 | 290 | 8.2621 | 2 | 4 | 7 | 11 | 18
508 | 657 | 7.4718 | 2 | 3 | 5 | 9 | 15
509 | 176 | 4.5455 | 1 | 2 | 4 | 6 | 9
510 | 1619 | 7.1779 | 2 | 3 | 5 | 9 | 15
511 | 602 | 4.7591 | 1 | 2 | 3 | 6 | 10
512 | 328 | 15.2439 | 7 | 8 | 11 | 17 | 28
513 | 112 | 12.6161 | 6 | 7 | 8 | 12 | 20
514 | 16927 | 7.9786 | 2 | 3 | 6 | 10 | 16
515 | 3774 | 6.0297 | 1 | 1 | 4 | 8 | 14
516 | 75742 | 4.7497 | 2 | 2 | 4 | 6 | 9
517 | 171198 | 2.7066 | 1 | 1 | 2 | 3 | 6
518 | 47731 | 3.4397 | 1 | 1 | 2 | 4 | 8
519 | 5448 | 4.7412 | 1 | 2 | 3 | 6 | 11
520 | 10509 | 2.7887 | 1 | 1 | 2 | 3 | 6
521 | 22732 | 5.0204 | 1 | 2 | 4 | 6 | 9
522 | 11649 | 9.7928 | 3 | 5 | 8 | 12 | 20
523 | 14818 | 4.1079 | 1 | 2 | 3 | 5 | 7
| 10916166

Table 8A.—Statewide Average Operating Cost-to-Charge Ratios for Urban and Rural Hospitals (Case Weighted) March 2001
State | Urban | Rural
ALABAMA | 0.344 | 0.410
ALASKA | 0.417 | 0.696
ARIZONA | 0.356 | 0.491
ARKANSAS | 0.466 | 0.446
CALIFORNIA | 0.339 | 0.436
COLORADO | 0.422 | 0.577
CONNECTICUT | 0.497 | 0.506
DELAWARE | 0.511 | 0.450
DISTRICT OF COLUMBIA | 0.508 |
FLORIDA | 0.352 | 0.369
GEORGIA | 0.459 | 0.470
HAWAII | 0.413 | 0.554
IDAHO | 0.545 | 0.561
ILLINOIS | 0.406 | 0.502
INDIANA | 0.524 | 0.533
IOWA | 0.486 | 0.612
KANSAS | 0.421 | 0.635
KENTUCKY | 0.479 | 0.492
LOUISIANA | 0.410 | 0.488
MAINE | 0.615 | 0.543
MARYLAND | 0.759 | 0.819
MASSACHUSETTS | 0.512 | 0.571
MICHIGAN | 0.460 | 0.563
MINNESOTA | 0.494 | 0.589
MISSISSIPPI | 0.452 | 0.447
MISSOURI | 0.405 | 0.479
MONTANA | 0.537 | 0.594
NEBRASKA | 0.449 | 0.610
NEVADA | 0.306 | 0.498
NEW HAMPSHIRE | 0.549 | 0.581
NEW JERSEY | 0.394 |
NEW MEXICO | 0.466 | 0.491
NEW YORK | 0.528 | 0.609
NORTH CAROLINA | 0.516 | 0.464
NORTH DAKOTA | 0.620 | 0.654
OHIO | 0.501 | 0.570
OKLAHOMA | 0.409 | 0.494
OREGON | 0.613 | 0.595
PENNSYLVANIA | 0.398 | 0.525
PUERTO RICO | 0.486 | 0.583
RHODE ISLAND | 0.520 |
SOUTH CAROLINA | 0.440 | 0.463
SOUTH DAKOTA | 0.529 | 0.638
TENNESSEE | 0.438 | 0.453
TEXAS | 0.402 | 0.494
UTAH | 0.497 | 0.586
VERMONT | 0.572 | 0.599
VIRGINIA | 0.454 | 0.494
WASHINGTON | 0.583 | 0.638
WEST VIRGINIA | 0.568 | 0.527
WISCONSIN | 0.525 | 0.611
WYOMING | 0.522 | 0.717

Table 8B.—Statewide Average Capital Cost-to-Charge Ratios (Case Weighted) March 2001
State | Ratio
ALABAMA | 0.044
ALASKA | 0.058
ARIZONA | 0.037
ARKANSAS | 0.049
CALIFORNIA | 0.034
COLORADO | 0.045
CONNECTICUT | 0.036
DELAWARE | 0.051
DISTRICT OF COLUMBIA | 0.040
FLORIDA | 0.043
GEORGIA | 0.051
HAWAII | 0.038
IDAHO | 0.046
ILLINOIS | 0.040
INDIANA | 0.056
IOWA | 0.050
KANSAS | 0.050
KENTUCKY | 0.046
LOUISIANA | 0.048
MAINE | 0.040
MARYLAND | 0.013
MASSACHUSETTS | 0.053
MICHIGAN | 0.044
MINNESOTA | 0.047
MISSISSIPPI | 0.044
MISSOURI | 0.044
MONTANA | 0.058
NEBRASKA | 0.054
NEVADA | 0.030
NEW HAMPSHIRE | 0.061
NEW JERSEY | 0.036
NEW MEXICO | 0.045
NEW YORK | 0.051
NORTH CAROLINA | 0.046
NORTH DAKOTA | 0.072
OHIO | 0.048
OKLAHOMA | 0.046
OREGON | 0.046
PENNSYLVANIA | 0.039
PUERTO RICO | 0.045
RHODE ISLAND | 0.029
SOUTH CAROLINA | 0.046
SOUTH DAKOTA | 0.059
TENNESSEE | 0.049
TEXAS | 0.046
UTAH | 0.047
VERMONT | 0.052
VIRGINIA | 0.055
WASHINGTON | 0.063
WEST VIRGINIA | 0.045
WISCONSIN | 0.051
WYOMING | 0.065

Appendix A—Regulatory Impact Analysis

I. Introduction

We generally prepare a regulatory flexibility analysis that is consistent with the Regulatory Flexibility Act (RFA) (5 U.S.C. 601 through 612), unless we certify that a proposed rule would not have a significant economic impact on a substantial number of small entities. For purposes of the RFA, we consider all hospitals to be small entities. We estimate the total impact of these changes for FY 2002 payments compared to FY 2001 payments to be approximately a $1.7 billion increase. Therefore, we have prepared an impact analysis for this proposed rule.

Also, section 1102(b) of the Act requires us to prepare a regulatory impact analysis for any proposed rule that may have a significant impact on the operations of a substantial number of small rural hospitals. Such an analysis must conform to the provisions of section 603 of the RFA. With the exception of hospitals located in certain New England counties, for purposes of section 1102(b) of the Act, we define a small rural hospital as a hospital with fewer than 100 beds that is located outside of a Metropolitan Statistical Area (MSA) or New England County Metropolitan Area (NECMA). Section 601(g) of the Social Security Amendments of 1983 (Public Law 98-21) designated hospitals in certain New England counties as belonging to the adjacent NECMA. Thus, for purposes of the hospital inpatient prospective payment systems, we classify these hospitals as urban hospitals.

It is clear that the changes being proposed in this document would affect both a substantial number of small rural hospitals as well as other classes of hospitals, and the effects on some may be significant. Therefore, the discussion below, in combination with the rest of this proposed rule, constitutes a combined regulatory impact analysis and regulatory flexibility analysis.

We have reviewed this proposed rule under the threshold criteria of Executive Order 13132, Federalism, and have determined that the proposed rule will not have any negative impact on the rights, roles, and responsibilities of State, local, or tribal governments.

Section 202 of the Unfunded Mandate Reform Act of 1995 (Public Law 104-4) also requires that agencies assess anticipated costs and benefits before issuing any proposed rule (or a final rule that has been preceded by a proposed rule) that may result in an expenditure in any one year by State, local, or tribal governments, in the aggregate, or by the private sector, of $110 million. This proposed rule would not mandate any requirements for State, local, or tribal governments.

In accordance with the provisions of Executive Order 12866, this proposed rule was reviewed by the Office of Management and Budget.

II. Objectives

The primary objective of the hospital inpatient prospective payment system is to create incentives for hospitals to operate efficiently and minimize unnecessary costs while at the same time ensuring that payments are sufficient to adequately compensate hospitals for their legitimate costs. In addition, we share national goals of preserving the Medicare Trust Fund.

We believe the proposed changes would further each of these goals while maintaining the financial viability of the hospital industry and ensuring access to high quality health care for Medicare beneficiaries. We expect that these proposed changes would ensure that the outcomes of this payment system are reasonable and equitable while avoiding or minimizing unintended adverse consequences.

III. Limitations of Our Analysis

As has been the case in our previously published regulatory impact analyses, the following quantitative analysis presents the projected effects of our proposed policy changes, as well as statutory changes effective for FY 2002, on various hospital groups. We estimate the effects of individual policy changes by estimating payments per case while holding all other payment policies constant. We use the best data available, but we do not attempt to predict behavioral responses to our policy changes, and we do not make adjustments for future changes in such variables as admissions, lengths of stay, or case-mix. As we have done in previous proposed rules, we are soliciting comments and information about the anticipated effects of these changes on hospitals and our methodology for estimating them.

IV. Hospitals Included In and Excluded From the Prospective Payment System

The prospective payment systems for hospital inpatient operating and capital-related costs encompass nearly all general, short-term, acute care hospitals that participate in the Medicare program. There were 44 Indian Health Service hospitals in our database, which we excluded from the analysis due to the special characteristics of the prospective payment method for these hospitals. Among other short-term, acute care hospitals, only the 67 such hospitals in Maryland remain excluded from the prospective payment system under the waiver at section 1814(b)(3) of the Act. Thus, as of February 2001, we have included 4,583 hospitals in our analysis. This represents about 80 percent of all Medicare-participating hospitals. The majority of this impact analysis focuses on this set of hospitals.

The remaining 20 percent are specialty hospitals that are excluded from the prospective payment system and continue to be paid on the basis of their reasonable costs (subject to a rate-of-increase ceiling on their inpatient operating costs per discharge). These hospitals include psychiatric, rehabilitation, long-term care, children's, and cancer hospitals. The impacts of our final policy changes on these hospitals are discussed below.

V. Impact on Excluded Hospitals and Units

As of February 2001, there were 1,058 specialty hospitals excluded from the prospective payment system and instead paid on a reasonable cost basis subject to the rate-of-increase ceiling under § 413.40. Broken down by specialty, there were 517 psychiatric, 203 rehabilitation, 253 long-term care, 75 children's, and 10 cancer hospitals. In addition, there were 1,457 psychiatric units and 925 rehabilitation units in hospitals otherwise subject to the prospective payment system. These excluded units are also paid in accordance with § 413.40. Under § 413.40(a)(2)(i)(A), the rate-of-increase ceiling is not applicable to the 67 specialty hospitals and units in Maryland that are paid in accordance with the waiver at section 1814(b)(3) of the Act.

As required by section 1886(b)(3)(B) of the Act, the update factor applicable to the rate-of-increase limit for excluded hospitals and units for FY 2002 would be between 0.5 and 3.0 percent, or 0 percent, depending on the hospital's or unit's costs in relation to its limit for the most recent cost reporting period for which information is available.

The impact on excluded hospitals and units of the update in the rate-of-increase limit depends on the cumulative cost increases experienced by each excluded hospital or unit since its applicable base period. For excluded hospitals and units that have maintained their cost increases at a level below the percentage increases in the rate-of-increase limits since their base period, the major effect will be on the level of incentive payments these hospitals and units receive. Conversely, for excluded hospitals and units with per-case cost increases above the cumulative update in their rate-of-increase limits, the major effect will be the amount of excess costs that would not be reimbursed.

We note that, under § 413.40(d)(3), an excluded hospital or unit whose costs exceed 110 percent of its rate-of-increase limit receives its rate-of-increase limit plus 50 percent of the difference between its reasonable costs and 110 percent of the limit, not to exceed 110 percent of its limit. In addition, under the various provisions set forth in § 413.40, certain excluded hospitals and units can obtain payment adjustments for justifiable increases in operating costs that exceed the limit. At the same time, however, by generally limiting payment increases, we continue to provide an incentive for excluded hospitals and units to restrain the growth in their spending for patient services.

VI. Graduate Medical Education Impact

A. National Average Per Resident Amount (PRA)

As discussed in detail in section IV.G.2. of this proposed rule, we are proposing to implement section 511 of Public Law 106-554, which increases the floor of the locality-adjusted national average (PRA for the purposes of computing direct GME payments for cost reporting periods beginning during FY 2002. The national average PRA payment methodology, as provided in section 311 of Public Law 106-113, establishes a “floor” and “ceiling” based on a locality-adjusted, updated national average PRA for cost reporting periods beginning on or after October 1, 2000 and before October 1, 2005. Section 511 of Public Law 106-554 increased the floor from 70 percent to equal 85 percent of a locality-adjusted national average PRA for FY 2002.

For this purpose rule, we have calculated an estimated impact of this proposed policy on teaching hospital's PRAs for FY 2002, making assumptions about update factors and geographic adjustment factors (GAF) for each hospital. Generally, using FY 1997 data, we calculated a floor based on 70 percent of the national average PRA and a floor based on 85 percent of the national average PRA. We then determined the amount of direct GME payments that would have been paid had the floor remained at 70 percent of the national average PRA. Next, we determined the amount of direct GME payments that would be paid with the floor increased to equal 85 percent of the national average PRA. We subtracted the difference between the two and inflated the difference to FY 2002 to determine the impact of this provision.

The figures we use in this impact, except for the FY 1997 weighted PRA of $68,464, are estimations and are for demonstrative purposes only. Hospitals must use the methodology stated in section IV.G. of this proposed rule to revise (if appropriate) their individual PRAs.

In calculating this impact, we used Medicare cost report data for all cost reports ending in FY 1997. We excluded hospitals that file manual cost reports because we did not have access to their Medicare utilization data. We also excluded all teaching hospitals in Maryland, because these hospitals are paid on a Medicare waiver outside of the prospective payment system, and those hospitals' PRAs do not determine their level of direct GME payments. For hospitals that had two cost reporting periods ending in FY 1997, we used the later of the two periods. A total of 1,231 teaching hospitals were included in the analysis.

Using the FY 1997 weighted average PRA of $68,464, we determined an 85 percent floor of $58,194 for FY 1997. We then determined that, for cost reporting periods ending in FY 1997, approximately 562 hospitals had PRAs that were below $58,194 (336 hospitals of these hospitals had PRAs that were below the 70-percent floor, and 226 hospitals had PRAs that were above the 70-percent floor but below the 85-percent floor). The estimated total cost to the Medicare program in FY 2002 of replacing the PRAs of the 562 hospitals with the 85-percent floor is $104.4 million.

B. Closed Training Programs or Hospitals That Close Their Training Programs

As discussed in IV.G.5, of this proposed rule, we are proposing to allow a hospital to receive a temporary adjustment to its FTE cap to reflect residents added because of the closure of another hospital's GME program if the hospital that closed its program agrees to temporarily reduce its FTE cap. We have calculated an estimated impact on the Medicare program for FY 2002 as a result of this proposal. We used the best available cost report data from the FY 1997 HCRIS in our analysis.

We estimate that approximately 5 to 10 programs, each with an average of 25 residents, close each year without advance warning, displacing the residents before they complete their training. Therefore, the number of residents displaced each year could be between 125 and 250. We estimated the impact of this proposed change based on direct GME and IME payment amounts in FY 1997 to determine a total GME amount and updated the total with the CPI-U for FY 2002. At most, the estimated impact for this proposed provision for FY 2002 is moving payments of between $10 and $20 million among different hospitals. This would result from redirecting these payments from the hospital that closed its program to the hospital(s) that takes on the residents.

VII. Quantitative Impact Analysis of the Proposed Policy Changes Under the Prospective Payment System for Operating Costs

A. Basis and Methodology of Estimates

In this proposed rule, we are announcing policy changes and payment rate updates for the prospective payment systems for operating and capital-related costs. We have prepared separate impact analyses of the proposed changes to each system. This section deals with changes to the operating prospective payment system.

The data used in developing the quantitative analyses presented below are taken from the FY 2000 MedPAR file and the most current provider-specific file that is used for payment purposes. Although the analyses of the changes to the operating prospective payment system do not incorporate cost data, the most recently available hospital cost report data were used to categorize hospitals. Our analysis has several qualifications. First, we do not make adjustments for behavioral changes that hospitals may adopt in response to these proposed policy changes. Second, due to the interdependent nature of the prospective payment system, it is very difficult to precisely quantify the impact associated with each proposed change. Third, we draw upon various sources for the data used to categorize hospitals in the tables. In some cases, particularly the number of beds, there is a fair degree of variation in the data from different sources. We have attempted to construct these variables with the best available source overall. For individual hospitals, however, some miscategorizations are possible.

Using cases in the FY 2000 MedPAR file, we simulated payments under the operating prospective payment system given various combinations of payment parameters. Any short-term, acute care hospitals not paid under the general prospective payment systems (Indian Health Service hospitals and hospitals in Maryland) are excluded from the simulations. Payments under the capital prospective payment system, or payments for costs other than inpatient operating costs, are not analyzed here. Estimated payment impacts of proposed FY 2001 changes to the capital prospective payment system are discussed in section IX. of this Appendix.

The proposed changes discussed separately below are the following:

• The effects of the annual reclassification of diagnoses and procedures and the recalibration of the diagnosis-related group (DRG) relative weights required by section 1886(d)(4)(C) of the Act.

• The effects of changes in hospitals' wage index values reflecting wage data from hospitals' cost reporting periods beginning during FY 1998, compared to the FY 1997 wage data.

• The effects of our proposal to increase the accuracy of the wage index calculation by changing the overhead allocation method used so that the salaries and hours of lower-range, overhead employees and the overhead wage-related costs associated with the excluded areas of the hospital are more accurately removed when calculating the overhead costs attributable to wages.

• The effects of our proposal to include the contract labor costs of laboratories and pharmacies from Worksheet S-3 Part II Lines 9.01 and 9.02 in the wage index calculation.

• The combined effects of our proposed changes to the wage index data and calculations and the changes in the DRG recalibration.

• The effects of geographic reclassifications by the Medicare Geographic Classification Review Board (MGCRB) that will be effective in FY 2002 not including the effects of our proposed policy to hold-harmless other hospitals in an urban area where certain hospitals are reclassified elsewhere by including the wage data of reclassified hospitals in their geographic area as well as the area to which they are reclassified.

• The effects of geographic reclassifications by the MGCRB that will be effective in FY 2002 including the effects of our proposed policy to hold-harmless other hospitals in an urban area where certain hospitals are reclassified elsewhere by including the wage data of reclassified hospitals in their geographic area as well as the area to which they are reclassified.

• The total change in payments based on FY 2002 policies relative to payments based on FY 2001 policies.

To illustrate the impacts of the FY 2002 proposed changes, our analysis begins with a FY 2002 baseline simulation model using: the FY 2001 DRG GROUPER (version 18.0); the FY 2001 wage index; and no MGCRB reclassifications. Outlier payments are set at 5.1 percent of total DRG plus outlier payments.

Each proposed and statutory policy change is then added incrementally to this baseline model, finally arriving at an FY 2002 model incorporating all of the changes. This allows us to isolate the effects of each change.

Our final comparison illustrates the percent change in payments per case from FY 2001 to FY 2002. Five factors have significant impacts here. The first is the update to the standardized amounts. In accordance with section 1886(d)(3)(A)(iv) of the Act, as amended by section 301 of Public Law 106-554, we are proposing to update the large urban and the other areas average standardized amounts for FY 2002 using the most recently forecasted hospital market basket increase for FY 2002 of 3.1 percent minus 0.55 percentage points (for an update of 2.55 percent). Under section 1886(b)(3) of the Act, the updates to the hospital-specific amounts for sole community hospitals (SCHs) and for Medicare-dependent small rural hospitals (MDHs) is equal to the market basket increase of 3.1 percent minus 0.55 percentage points (for an update of 2.55 percent).

A second significant factor that impacts changes in hospitals' payments per case from FY 2001 to FY 2002 is the change in MGCRB status from one year to the next. That is, hospitals reclassified in FY 2001 that are no longer reclassified in FY 2002 may have a negative payment impact going from FY 2001 to FY 2002; conversely, hospitals not reclassified in FY 2001 that are reclassified in FY 2002 may have a positive impact. In some cases, these impacts can be quite substantial, so if a relatively small number of hospitals in a particular category lose their reclassification status, the percentage change in payments for the category may be below the national mean. This effect may be alleviated somewhat by section 304(a) of Public Law 106-554, which provided that reclassifications for purposes of the wage index are for a 3 year period.

A third significant factor is that we currently estimate that actual outlier payments during FY 2001 will be 5.9 percent of actual total DRG payments. When the FY 2001 final rule was published, we projected FY 2001 outlier payments would be 5.1 percent of total DRG plus outlier payments; the standardized amounts were offset correspondingly. The effects of the higher than expected outlier payments during FY 2001 (as discussed in the Addendum to this proposed rule) are reflected in the analyses below comparing our current estimates of FY 2001 payments per case to estimated FY 2002 payments per case.

Fourth, section 213 of Public Law 106-554 provided that all SCHs may receive payment on the basis of their costs per case during their cost reporting period that began during 1996. For FY 2001, eligible SCHs that are rebased receive a hospital-specific rate comprised of the greater of 50-percent of the higher of their FY 1982 or FY 1987 hospital-specific rate or 50-percent of the federal rate, and 50-percent of their FY 1996 hospital-specific rate.

Fifth, sections 302 and 303 of Public Law 106-554 affect payments for indirect medical education (IME) and disproportionate share hospitals (DSH), respectively. These sections increased IME and DSH payments during FY 2001 (effective with discharges on or after April 1, 2001). For FY 2002, section 302 established IME payments at the same level as FY 2001 (6.5 percent), and section 303 established DSH payments at the adjustment the hospital would otherwise receive minus 3 percent.

Table I demonstrates the results of our analysis. The table categorizes hospitals by various geographic and special payment consideration groups to illustrate the varying impacts on different types of hospitals. The top row of the table shows the overall impact on the 4,795 hospitals included in the analysis. This number is 93 fewer hospitals than were included in the impact analysis in the FY 2001 final rule (65 FR 47191).

The next four rows of Table I contain hospitals categorized according to their geographic location (all urban (which is further divided into large urban and other urban) and rural). There are 2,721 hospitals located in urban areas (MSAs or NECMAs) included in our analysis. Among these, there are 1,563 hospitals located in large urban areas (populations over 1 million), and 1,158 hospitals in other urban areas (populations of 1 million or fewer). In addition, there are 2,074 hospitals in rural areas. The next two groupings are by bed-size categories, shown separately for urban and rural hospitals. The final groupings by geographic location are by census divisions, also shown separately for urban and rural hospitals.

The second part of Table I shows hospital groups based on hospitals' FY 2002 payment classifications, including any reclassifications under section 1886(d)(10) of the Act. For example, the rows labeled urban, large urban, other urban, and rural show that the number of hospitals paid based on these categorizations (after consideration of geographic reclassifications) are 2,766, 1,643, 1,123, and 2,029, respectively.

The next three groupings examine the impacts of the proposed changes on hospitals grouped by whether or not they have residency programs (teaching hospitals that receive an IME adjustment) or receive DSH payments, or some combination of these two adjustments. There are 3,674 non-teaching hospitals in our analysis, 881 teaching hospitals with fewer than 100 residents, and 240 teaching hospitals with 100 or more residents.

In the DSH categories, hospitals are grouped according to their DSH payment status, and whether they are considered urban or rural after MGCRB reclassifications. Hospitals in the rural DSH categories, therefore, represent hospitals that were not reclassified for purposes of the standardized amount or for purposes of the DSH adjustment. (They may, however, have been reclassified for purposes of the wage index.) We note that section 211 of Public Law 106-554 reduced the qualifying DSH threshold to 15 percent for all hospitals (this threshold previously applied to urban hospitals with 100 or more beds and rural hospitals with 500 or more beds). Consequently, many more hospitals qualify for DSH. In the FY 2001 final rule, there were 3,070 hospitals that did not receive a DSH adjustment (65 FR 47192). In Table I, that number declines to 1,879. The number of urban hospitals with fewer than 100 beds receiving DSH increases from 72 prior to section 211 to 325 after its implementation. Among rural hospitals with fewer than 100 beds, 103 received DSH prior to section 211; for FY 2002 that number increases to 443.

The next category groups hospitals considered urban after geographic reclassification, in terms of whether they receive the IME adjustment, the DSH adjustment, both, or neither.

The next five rows examine the impacts of the proposed changes on rural hospitals by special payment groups (SCHs, rural referral centers (RRCs), and MDHs), as well as rural hospitals not receiving a special payment designation. The RRCs (165), SCHs (667), MDHs (328), and SCH and RRCs that are not included in the SCH or the RRC categories (69) shown here were not reclassified for purposes of the standardized amount. There are 20 RRCs, 1 MDH, 5 SCHs and 2 SCH and RRCs that will be reclassified as urban for the standardized amount in FY 2002 and, therefore, are not included in these rows.

The next two groupings are based on type of ownership and the hospital's Medicare utilization expressed as a percent of total patient days. These data are taken primarily from the FY 1999 Medicare cost report files, if available (otherwise FY 1998 data are used). Data needed to determine ownership status or Medicare utilization percentages were unavailable for 46 and 78 hospitals, respectively. For the most part, these are new hospitals.

The next series of groupings concern the geographic reclassification status of hospitals. The first grouping displays all hospitals that were reclassified by the MGCRB for FY 2002. The next two groupings separate the hospitals in the first group by urban and rural status. The final row in Table I contains hospitals located in rural counties but deemed to be urban under section 1886(d)(8)(B) of the Act.

Table I.—Impact Analysis of Changes for FY 2002 Operating Prospective Payment System
[Percent changes in payments per case]
| Number of hosps.¹ (0) | DRG re-calib.² (1) | New wage data ³ (2) | New overhead alloc.⁴ (3) | Include contract labor ⁵ (4) | DRG & WI changes ⁶ (5) | MCGRB reclassification ⁷ (6) | Reclassification hold-harmless policy ⁸ (7) | All FY 2001 changes ⁹ (8)
By Geographic Location:
All hospitals | 4,795 | 0.5 | 0.2 | 0.0 | 0.0 | 0.0 | −0.2 | 0.2 | 1.9
Urban hospitals | 2,721 | 0.6 | 0.2 | 0.0 | 0.0 | 0.0 | −0.7 | 0.2 | 1.7
Large urban areas (populations over 1 million) | 1,563 | 0.7 | −0.1 | 0.0 | 0.0 | −0.1 | −0.8 | 0.3 | 1.5
Other urban areas (populations of 1 million of fewer) | 1,158 | 0.5 | 0.6 | 0.0 | 0.0 | 0.2 | −0.5 | 0.1 | 2.0
Rural hospitals | 2,074 | −0.1 | 0.5 | 0.1 | 0.1 | −0.2 | 2.7 | 0.1 | 3.2
Bed Size (Urban):
0-99 beds | 712 | −0.1 | 0.3 | 0.0 | 0.0 | −0.4 | −0.8 | 0.2 | 2.1
100-199 beds | 943 | 0.4 | 0.2 | 0.0 | 0.0 | −0.2 | −0.7 | 0.3 | 1.6
200-299 beds | 530 | 0.6 | 0.3 | 0.0 | 0.1 | 0.1 | −0.7 | 0.3 | 1.8
300-499 beds | 391 | 0.7 | 0.1 | 0.0 | 0.0 | 0.0 | −0.7 | 0.2 | 1.6
500 or more beds | 145 | 1.0 | 0.0 | 0.0 | 0.0 | 0.2 | −0.6 | 0.1 | 1.5
Bed Size (Rural):
0-49 beds | 1,209 | −0.4 | 0.5 | 0.1 | 0.1 | −0.5 | 0.4 | 0.0 | 3.0
50-99 beds | 520 | −0.2 | 0.5 | 0.1 | 0.1 | −0.4 | 1.1 | 0.0 | 3.3
100-149 beds | 204 | −0.1 | 0.6 | 0.1 | 0.1 | −0.1 | 3.2 | 0.2 | 3.0
150-199 beds | 75 | 0.1 | 0.4 | 0.1 | 0.1 | −0.1 | 5.2 | 0.2 | 3.4
200 or more beds | 66 | 0.3 | 0.4 | 0.1 | 0.1 | 0.0 | 5.2 | 0.1 | 3.6
Urban by Region:
New England | 139 | 0.6 | 2.2 | −0.1 | 0.0 | 1.3 | −0.2 | 0.0 | 1.7
Middle Atlantic | 417 | 0.7 | −1.2 | −0.1 | 0.0 | −1.4 | −0.8 | 0.6 | 0.2
South Atlantic | 395 | 0.7 | 0.9 | 0.0 | 0.0 | 0.9 | −0.8 | 0.3 | 2.8
East North Central | 462 | 0.5 | 0.1 | 0.0 | 0.1 | −0.2 | −0.6 | 0.1 | 1.6
East South Central | 160 | 0.6 | 1.1 | 0.1 | 0.0 | 1.1 | −0.7 | 0.0 | 3.0
West North Central | 189 | 0.6 | 0.5 | 0.1 | 0.1 | 0.3 | −0.7 | 0.0 | 2.0
West South Central | 342 | 0.7 | −0.8 | 0.0 | 0.0 | −0.9 | −0.7 | 0.0 | 0.7
Mountain | 137 | 0.6 | 0.9 | 0.0 | 0.0 | 0.7 | −0.7 | 0.0 | 2.4
Pacific | 434 | 0.7 | 0.4 | 0.1 | 0.0 | 0.4 | −0.8 | 0.2 | 2.2
Puerto Rico | 46 | 0.4 | 1.3 | 0.1 | 0.0 | 1.0 | −0.5 | −0.3 | 2.6
Rural by Region:
New England | 49 | 0.0 | 0.6 | 0.1 | 0.0 | −0.1 | 3.0 | 0.1 | 3.7
Middle Atlantic | 74 | 0.0 | −0.2 | 0.0 | 0.0 | −1.0 | 2.5 | 0.0 | 2.2
South Atlantic | 267 | 0.1 | 0.6 | 0.1 | 0.1 | 0.0 | 2.9 | 0.1 | 3.6
East North Central | 273 | −0.2 | 0.6 | 0.0 | 0.1 | −0.3 | 2.2 | 0.2 | 2.8
East South Central | 263 | 0.0 | 0.5 | 0.1 | 0.1 | −0.2 | 3.3 | 0.0 | 3.6
West North Central | 479 | −0.3 | 0.8 | 0.2 | 0.1 | −0.1 | 2.1 | 0.1 | 2.5
West South Central | 331 | −0.1 | 0.7 | 0.1 | 0.1 | 0.0 | 3.5 | 0.1 | 4.2
Mountain | 194 | −0.1 | 0.4 | 0.2 | 0.0 | −0.4 | 1.9 | 0.0 | 2.9
Pacific | 139 | 0.0 | −0.2 | 0.1 | 0.1 | −0.9 | 2.3 | 0.1 | 2.7
Puerto Rico | 5 | −0.3 | 3.9 | 0.1 | 0.0 | 2.9 | 1.9 | −0.8 | 8.4
By Payment Classification:
Urban hospitals | 2,766 | 0.6 | 0.2 | 0.0 | 0.0 | 0.0 | −0.7 | 0.2 | 1.7
Large urban areas (populations over 1 million) | 1,643 | 0.7 | −0.1 | 0.0 | 0.0 | −0.1 | −0.7 | 0.3 | 1.5
Other urban areas (populations of 1 million of fewer) | 1,123 | 0.5 | 0.6 | 0.0 | 0.0 | 0.2 | −0.6 | 0.1 | 2.0
Rural areas | 2,029 | −0.1 | 0.5 | 0.1 | 0.1 | −0.2 | 2.5 | 0.0 | 3.2
Teaching Status:
Non-teaching | 3,674 | 0.3 | 0.4 | 0.0 | 0.0 | −0.1 | 0.2 | 0.2 | 2.2
Fewer than 100 Residents | 881 | 0.6 | 0.3 | 0.0 | 0.0 | 0.1 | −0.6 | 0.2 | 1.9
100 or more Residents | 240 | 1.0 | −0.2 | 0.0 | 0.0 | 0.0 | −0.5 | 0.1 | 1.3
Urban DSH:
Non-DSH | 1,879 | 0.4 | 0.2 | 0.0 | 0.0 | −0.1 | −0.2 | 0.3 | 1.7
100 or more beds | 1,378 | 0.7 | 0.2 | 0.0 | 0.0 | 0.1 | −0.7 | 0.2 | 1.7
Less than 100 beds | 325 | 0.0 | 0.4 | 0.1 | 0.0 | −0.3 | −0.8 | 0.3 | 3.3
Rural DSH:
Sole Community (SCH) | 540 | −0.2 | 0.4 | 0.1 | 0.0 | −0.5 | 0.4 | 0.0 | 3.1
Referral Center (RRC) | 157 | 0.2 | 0.5 | 0.1 | 0.1 | 0.0 | 5.3 | 0.1 | 3.7
Other Rural:
100 or more beds | 73 | −0.1 | 0.7 | 0.1 | 0.1 | −0.1 | 1.3 | 0.1 | 3.2
Less than 100 beds | 443 | −0.2 | 0.5 | 0.1 | 0.1 | −0.4 | 0.6 | 0.0 | 4.3
Urban teaching and DSH:
Both teaching and DSH | 754 | 0.8 | 0.1 | 0.0 | 0.0 | 0.0 | −0.7 | 0.2 | 1.6
Teaching and no DSH | 295 | 0.7 | 0.2 | 0.0 | 0.1 | 0.0 | −0.6 | 0.3 | 1.6
No teaching and DSH | 949 | 0.4 | 0.4 | 0.0 | 0.0 | 0.1 | −0.6 | 0.3 | 2.0
No teaching and no DSH | 768 | 0.3 | 0.2 | 0.0 | 0.0 | −0.2 | −0.6 | 0.3 | 1.5
Rural Hospital Types:
Non special status hospitals | 800 | −0.3 | 0.7 | 0.1 | 0.1 | −0.2 | 0.9 | 0.0 | 3.6
RRC | 165 | 0.2 | 0.5 | 0.1 | 0.1 | 0.0 | 6.3 | 0.1 | 3.6
SCH | 667 | −0.2 | 0.4 | 0.1 | 0.0 | −0.5 | 0.4 | 0.0 | 2.5
Medicare-dependent hospitals (MDH) | 328 | −0.3 | 0.5 | 0.1 | 0.1 | −0.5 | 0.5 | 0.0 | 3.2
SCH and RRC | 69 | 0.1 | 0.4 | 0.0 | 0.0 | −0.3 | 2.5 | 0.0 | 2.7
Type of Ownership:
Voluntary | 2,785 | 0.6 | 0.2 | 0.0 | 0.0 | −0.1 | −0.3 | 0.2 | 1.8
Proprietary | 777 | 0.6 | 0.2 | 0.1 | 0.0 | 0.1 | −0.3 | 0.2 | 2.0
Government | 1,187 | 0.5 | 0.6 | 0.1 | 0.0 | 0.3 | 0.1 | 0.1 | 2.5
Unknown | 46 | 0.3 | 1.3 | 0.0 | 0.0 | 0.7 | −1.7 | 1.0 | 2.6
Medicare Utilization as a Percent of Inpatient Days:
0-25 | 396 | 0.9 | 0.2 | 0.0 | 0.0 | 0.4 | −0.5 | 0.1 | 2.2
25-50 | 1,886 | 0.7 | 0.1 | 0.0 | 0.0 | 0.0 | −0.6 | 0.2 | 1.7
50-65 | 1,843 | 0.4 | 0.4 | 0.0 | 0.0 | 0.0 | 0.1 | 0.2 | 2.2
Over 65 | 592 | 0.2 | 0.2 | 0.0 | 0.1 | −0.2 | 0.2 | 0.3 | 1.9
Unknown | 78 | 0.5 | −2.1 | −0.1 | 0.0 | −2.4 | −0.7 | 0.1 | −1.1
Hospitals Reclassified by the Medicare Geographic Classification Review Board: FY 2002
Reclassifications:
All Reclassified Hospitals | 636 | 0.3 | 0.6 | 0.0 | 0.1 | 0.2 | 4.5 | 0.3 | 2.9
Standardized Amount Only | 74 | 0.1 | 0.7 | 0.0 | 0.0 | 0.0 | 1.9 | 1.0 | 4.0
Wage Index Only | 391 | 0.3 | 0.5 | 0.1 | 0.1 | 0.1 | 5.3 | 0.1 | 2.5
Both | 58 | 0.4 | 0.7 | 0.0 | 0.1 | 0.4 | 4.1 | 0.6 | 0.0
Nonreclassified Hospitals | 4,246 | 0.6 | 0.2 | 0.0 | 0.0 | 0.0 | −0.8 | 0.2 | 1.9
All Reclassified Urban Hospitals | 119 | 0.7 | 0.8 | 0.0 | 0.1 | 0.6 | 2.8 | 0.4 | 2.0
Urban Nonreclassified Hospitals | 18 | 0.2 | 0.5 | 0.0 | 0.0 | −0.2 | −1.2 | 1.9 | −0.6
Standardized Amount Only | 81 | 0.8 | 0.7 | 0.0 | 0.1 | 0.6 | 3.3 | 0.1 | 2.2
Wage Index Only | 20 | 0.5 | 1.4 | 0.0 | 0.1 | 1.1 | 1.9 | 2.1 | 2.5
Both | 2,564 | 0.6 | 0.2 | 0.0 | 0.0 | 0.0 | −0.9 | 0.2 | 1.6
All Reclassified Rural Hospitals | 517 | 0.1 | 0.5 | 0.1 | 0.1 | −0.1 | 5.6 | 0.2 | 3.6
Standardized Amount Only | 19 | −0.2 | 0.5 | 0.1 | 0.0 | −0.5 | 3.9 | 1.5 | 2.0
Wage Index Only | 475 | 0.1 | 0.5 | 0.1 | 0.1 | −0.1 | 5.5 | 0.1 | 3.6
Both | 23 | 0.1 | 0.8 | 0.1 | 0.1 | 0.2 | 7.7 | 1.5 | 4.2
Rural Nonreclassified Hospitals | 1,554 | −0.3 | 0.5 | 0.1 | 0.1 | −0.4 | −0.6 | 0.0 | 2.8
Other Reclassified Hospitals (Section 1886(D)(8)(B)) | 41 | −0.1 | −6.1 | 0.1 | 0.1 | 0.4 | 0.3 | 0.1 | 3.9
¹ Because data necessary to classify some hospitals by category were missing, the total number of hospitals in each category may not equal the national total. Discharge data are from FY 2000, and hospital cost report data are from reporting periods beginning in FY 1999 and FY 1998.
² This column displays the payment impact of the recalibration of the DRG weights based on FY 2000 MedPAR data and the DRG reclassification changes, in accordance with section 1886(d)(4)(C) of the Act.
³ This column shows the payment effects of updating the data used to calculate the wage index with data from the FY 1998 cost reports.
⁴ This column displays the impact of removing the salaries and hours of lower-range, overhead employees and the overhead wage-related costs associated with the excluded areas of the hospital from the wage index calculation.
⁵ This column displays the impact of including contract pharmacy and contract laboratory costs and hours in the wage index calculation.
⁶ This column displays the combined impact of the reclassification and recalibration of the DRGs, the updated and revised wage data used to calculate the wage index, the revised overhead allocation, the laboratory and pharmacy contract labor costs, and the budget neutrality adjustment factor for these two changes, in accordance with sections 1886(d)(4)(C)(iii) and 1886(d)(3)(E) of the Act. Thus, it represents the combined impacts shown in columns 1, 2 3, and 4, and the FY 2002 budget neutrality factor of .992394.
⁷ Shown here are the effects of geographic reclassifications by the Medicare Geographic Classification Review Board (MGCRB). The effects demonstrate the FY 2002 payment impact of going from no reclassifications to the reclassifications scheduled to be in effect for FY 2002. Reclassification for prior years has no bearing on the payment impacts shown here.
⁸ Shown here are the effects of geographic reclassifications by the MGCRB including the effects of our proposed policy to hold-harmless other hospitals in an urban area where certain hospitals are reclassified elsewhere by including the wage data of reclassified hospitals in their geographic area as well as the area to which they are reclassified.
⁹ This column shows changes in payments from FY 2001 to FY 2002. It incorporates all of the changes displayed in columns 5, 6, and 7 (the changes displayed in columns 1, 2, 3, and 4 are included in column 5). It also displays the impact of the FY 2002 update, changes in hospitals' reclassification status in FY 2002 compared to FY 2001, and the difference in outlier payments from FY 2001 to FY 2002. It also reflects section 213 of Public Law 106-554, which permitted all SCHs to rebase for a 1996 hospital-specific rate. The sum of these columns may be different from the percentage changes shown here due to rounding and interactive effects.

B. Impact of the Proposed Changes to the DRG Reclassifications and Recalibration of Relative Weights (Column 1)

In column 1 of Table I, we present the combined effects of the DRG reclassifications and recalibration, as discussed in section II. of the preamble to this proposed rule. Section 1886(d)(4)(C)(i) of the Act requires us to annually make appropriate classification changes and to recalibrate the DRG weights in order to reflect changes in treatment patterns, technology, and any other factors that may change the relative use of hospital resources.

We compared aggregate payments using the FY 2001 DRG relative weights (GROUPER version 18) to aggregate payments using the proposed FY 2002 DRG relative weights (GROUPER version 19). Overall payments increase 0.5 percent due to the DRG reclassification and recalibration. We note that, consistent with section 1886(d)(4)(C)(iii) of the Act, we have applied a budget neutrality factor to ensure that the overall payment impact of the DRG changes is budget neutral. This budget neutrality factor of 0.992493 is applied to payments in Column 5.

The DRG changes we are proposing in this proposed rule would result in higher payments to urban hospitals (0.6 percent) and somewhat lower payments to rural hospitals (-0.1). The changes also would result in higher payments to larger hospitals than to smaller hospitals. This impact is consistent for both urban and rural bed size groups.

This distributional impact likely results from the changes we are proposing to major diagnostic category (MDC) 5 “Diseases and Disorders of the Circulatory System.” As described in section II., we are proposing to remove cardiac defribrillator cases from DRGs 104 and 105, and create two new DRGs for these cases. In addition, we are proposing to revise the basis of the DRG assignment for cases involving percutaneous transluminal coronary angioplasty based on whether the patient experienced an acute myocardial infarction. Because MDC 5 is a high volume category, refining the categorizations of these cases has a noticeable impact.

C. Impact of Updating the Wage Data and the Proposed Changes to the Wage Index Calculation (Columns 2, 3 & 4)

Section 1886(d)(3)(E) of the Act requires that, beginning October 1, 1993, we annually update the wage data used to calculate the wage index. In accordance with this requirement, the proposed wage index for FY 2002 is based on data submitted for hospital cost reporting periods beginning on or after October 1, 1997 and before October 1, 1998. As with column 1, the impact of the new data on hospital payments is isolated in column 2 by holding the other payment parameters constant in the two simulations. That is, column 2 shows the percentage changes in payments when going from a model using the FY 2001 wage index (based on FY 1997 wage data before geographic reclassifications to a model using the FY 2002 pre-reclassification wage index based on FY 1998 wage data).

The wage data collected on the FY 1998 cost reports are similar to the data used in the calculation of the FY 2001 wage index. For a thorough discussion of the data used to calculate the wage index, see section III.B of this proposed rule.

The results indicate that the new wage data are estimated to provide a 0.2 percent increase for hospital payments overall (prior to applying the budget neutrality factor, see column 5). Rural hospitals appear to experience the greatest benefit from the update to the 1998 wage data, with an increase of 0.5 percent. Rural hospitals in Nevada, Connecticut and Arizona experience wage index increases of more than 5 percent. Rural hospitals in Puerto Rico experience a 3.9 percent increase.

Urban hospitals as a group are not significantly affected by the updated wage data. While large urban hospitals appear to experience a 0.1 percent decline, estimated payments to urban hospitals overall showed an increase of 0.2 percent. Payments in other urban areas increase by 0.6 percent. Among urban census divisions, the New England division experiences a 2.2 percent increase, Middle Atlantic a 1.2 percent decrease, East South Central a 1.1 percent increase, and Puerto Rico a 1.3 percent increase.

Columns 3 and 4, respectively, show that the proposed change to the overhead calculation and the proposal to include contract labor costs in the wage index discussed in detail in Section III.C. of this proposed rule both appear to have negligible impacts on hospital payments overall. Urban hospitals as a group are not effected by these proposals as there is a 0.0 percent impact to their payments from each proposed change. Rural hospitals, however, do appear to benefit slightly from these changes, as evidenced by the estimated 0.1 percent increase in payments to this group.

We note that the wage data used for the proposed wage index are based upon the data available as of February 22, 2001 and, therefore, do not reflect revision requests received and processed by the fiscal intermediaries after that date. To the extent these requests are granted by hospitals' fiscal intermediaries, these revisions will be reflected in the final rule. In addition, we continue to verify the accuracy of the data for hospitals with extraordinary changes in their data from the prior year.

The following chart compares the shifts in wage index values for labor market areas for FY 2001 relative to FY 2002. This chart demonstrates the impact of the proposed changes for the FY 2002 wage index relative to the FY 2001 wage index. The majority of labor market areas (318) experience less than a 5-percent change. A total of 36 labor market areas experience an increase of more than 5 percent with 4 having an increase greater than 10 percent. A total of 13 areas experience decreases of more than 5-percent. Of those, 4 decline by 10 percent or more.

Percentage change in area wage index values | Number of labor market areas: FY 2001 | Number of labor market areas: FY 2002
Increase more than 10 percent | 1 | 4
Increase more than 5 percent and less than 10 percent | 20 | 36
Increase or decrease less than 5 percent | 339 | 318
Decrease more than 5 percent and less than 10 percent | 14 | 13
Decrease more than 10 percent | 1 | 4

Among urban hospitals, 163 would experience an increase of between 5 and 10 percent and 16 more than 10 percent. A total of 33 rural hospitals have increases greater than 5 percent, but none greater than 10 percent. On the negative side, 121 urban hospitals have decreases in their wage index values of at least 5 percent but less than 10 percent. Five urban hospitals have decreases in their wage index values greater than 10 percent. There are no rural hospitals with decreases in their wage index values greater than 5 percent or with increases of more than 10 percent. The following chart shows the projected impact for urban and rural hospitals.

Percentage change in area wage index values | Number of hospitals: Urban | Number of hospitals: Rural
Increase more than 10 percent | 16 | 0
Increase more than 5 percent and less than 10 percent | 101 | 15
Increase or decrease less than 5 percent | 2,395 | 2,135
Decrease more than 5 percent and less than 10 percent | 121 | 0
Decrease more than 10 percent | 5 | 0

D. Combined Impact of DRG and Wage Index Changes—Including Budget Neutrality Adjustment (Column 5)

The impact of DRG reclassifications and recalibration on aggregate payments is required by section 1886(d)(4)(C)(iii) of the Act to be budget neutral. In addition, section 1886(d)(3)(E) of the Act specifies that any updates or adjustments to the wage index are to be budget neutral. As noted in the Addendum to this proposed rule, we compared simulated aggregate payments using the FY 2001 DRG relative weights and wage index to simulated aggregate payments using the proposed FY 2002 DRG relative weights and blended wage index. Based on this comparison, we computed a wage and recalibration budget neutrality factor of 0.992493. In Table I, the combined overall impacts of the effects of both the DRG reclassifications and recalibration and the updated wage index are shown in column 5. The 0.0 percent impact for all hospitals demonstrates that these changes, in combination with the budget neutrality factor, are budget neutral.

For the most part, the changes in this column are the sum of the changes in columns 1, 2, 3 and 4, minus approximately 0.7 percent attributable to the budget neutrality factor. There may be some variation of plus or minus 0.1 percent due to rounding.

E. Impact of MGCRB Reclassifications (Columns 6 & 7)

Our impact analysis to this point has assumed hospitals are paid on the basis of their actual geographic location (with the exception of ongoing policies that provide that certain hospitals receive payments on bases other than where they are geographically located, such as hospitals in rural counties that are deemed urban under section 1886(d)(8)(B) of the Act). The changes in column 5 reflect the per case payment impact of moving from this baseline to a simulation incorporating the MGCRB decisions for FY 2002. The changes in column 6 add in the post-reclassified wage index values resulting from the proposed change to include the wage data for a reclassified hospital in both the area to which it is reclassified and the area where the hospital is physically located. As noted below, these decisions affect hospitals' standardized amount and wage index area assignments.

By February 28 of each year, the MGCRB makes reclassification determinations that will be effective for the next fiscal year, which begins on October 1. The MGCRB may approve a hospital's reclassification request for the purpose of using the other area's standardized amount, wage index value, or both.

The proposed FY 2002 wage index values incorporate all of the MGCRB's reclassification decisions for FY 2002. The wage index values also reflect any decisions made by the HCFA Administrator through the appeals and review process for MGCRB decisions as of February 28, 2001. Additional changes that result from the Administrator's review of MGCRB decisions or a request by a hospital to withdraw its application will be reflected in the final rule for FY 2002.

The overall effect of geographic reclassification is required by section 1886(d)(8)(D) of the Act to be budget neutral. Therefore, we applied an adjustment of 0.991054 to ensure that the effects of reclassification are budget neutral. (See section II.A.4.b. of the Addendum to this proposed rule.) This results in a larger budget neutrality offset than the FY 2001 factor of 0.993187. This larger offset is accounted for by the extension of wage index reclassifications for 3 years as a result of section 304 of Public Law 106-554, and our proposed policy to hold-harmless the calculation of urban areas' wage indexes for reclassifications out of the area (see Column 7). We have identified 162 hospitals that were reclassified for FY 2001 but not FY 2002, that will nonetheless continue to be reclassified due to section 304 of Public Law 106-554.

As a group, rural hospitals benefit from geographic reclassification. Their payments rise 2.7 percent in Column 6. Payments to urban hospitals decline 0.7 percent. Hospitals in other urban areas see a decrease in payments of 0.5 percent, while large urban hospitals lose 0.8 percent. Among urban hospital groups (that is, bed size, census division, and special payment status), payments generally decline.

A positive impact is evident among most of the rural hospital groups. The smallest increase among the rural census divisions is 1.9 percent for Mountain and Puerto Rico regions. The largest increases are in rural West South Central and New England. These regions receive increases of 3.5 and 3.0 percent respectively.

Among all the hospitals that were reclassified for FY 2002, the MGCRB changes are estimated to provide a 4.5 percent increase in payments. Urban hospitals reclassified for FY 2002 are anticipated to receive an increase of 2.8 percent, while rural reclassified hospitals are expected to benefit from the MGCRB changes with a 5.6 percent increase in payments. Overall, among hospitals that were reclassified for purposes of the standardized amount only, a payment increase of 3.3 percent is expected, while those reclassified for purposes of the wage index only show a 1.9 percent increase in payments. Payments to urban and rural hospitals that did not reclassify are expected to decrease slightly due to the MGCRB changes, decreasing by 1.2 for urban hospitals and 0.6 for rural hospitals. Those hospitals located in rural counties but deemed to be urban under section 1886(d)(8)(B) of the Act are expected to receive an increase in payments of 0.3 percent.

Column 7 shows the impacts of our proposed policy to include the wage data for a reclassified hospital in both the area to which it is reclassified and the area where the hospital is physically located. This change affects overall payments by 0.2 percent, partially accounting for the larger budget neutrality factor compared to FY 2001. The payment impacts are generally largest in urban hospital groups, with the largest impact, 0.6 percent, experienced by urban hospitals in the Middle Atlantic census division.

The foregoing analysis was based on MGCRB and HCFA Administrator decisions made by February 28, 2001. As previously noted, there may be changes to some MGCRB decisions through the appeals, review, and applicant withdrawal process. The outcome of these cases will be reflected in the analysis presented in the final rule.

F. All Changes (Column 8)

Column 8 compares our estimate of payments per case, incorporating all changes reflected in this proposed rule for FY 2002 (including statutory changes), to our estimate of payments per case in FY 2001. It includes the effects of the 2.55 percent update to the standardized amounts and the hospital-specific rates for MDHs and SCHs. It also reflects the 0.8 percentage point difference between the projected outlier payments in FY 2001 (5.1 percent of total DRG payments) and the current estimate of the percentage of actual outlier payments in FY 2001 (5.9 percent), as described in the introduction to this Appendix and the Addendum to this proposed rule.

We also note that section 211 of Public Law 106-554 changed the criteria for hospitals to qualify for DSH payment status. Since more hospitals are now eligible to receive DSH payments for the full FY 2002, as opposed to for just the second 6 months of FY 2001, DSH payments to providers in FY 2002 would increase and this change is also captured in column 8.

Section 213 of Public Law 106-554 provided that all SCHs may elect to receive payment on the basis of their costs per case during their cost reporting period that began during 1996. For FY 2002, eligible SCHs that rebase receive a hospital-specific rate comprised of 50 percent of the higher of their FY 1982 or FY 1987 hospital-specific rate or their Federal rate, and 50 percent of their 1996 hospital-specific rate. The impact of this provision is modeled in column 8 as well.

There might also be interactive effects among the various factors comprising the payment system that we are not able to isolate. For these reasons, the values in column 7 may not equal the sum of the changes in columns 5 and 6, plus the other impacts that we are able to identify.

Hospitals in urban areas experience a 1.7 percent increase in payments per case compared to FY 2001. The 0.7 percent negative impact due to reclassification is offset by a similar negative impact for FY 2001 of 0.4 percent (65 FR 47196). Hospitals in rural areas, meanwhile, experience a 3.2 percent payment increase. This is primarily due to the change in the DSH threshold to 15 percent for all hospitals enacted by section 211 of Public Law 106-554 and effective for discharges on or after April 1, 2001, and the positive effect of the reclassification changes (2.7 percent increase, plus an additional 0.1 percent increase from the proposal to include the wage data for a reclassified hospital in both the area to which it is reclassified and the area where the hospital is physically located).

The impact of lowering the DSH threshold is demonstrated in Column 8, although we would note that the estimated FY 2001 payments do reflect 6 months of payments to hospitals affected by this change. The impacts are seen in the rows displaying urban hospitals with fewer than 100 beds receiving DSH (3.3 percent increase), and all rural DSH categories.

Among urban census divisions, payments increased between 0.2 and 3.0 percent between FY 2001 and FY 2002. The rural census division experiencing the smallest increase in payments was the Mid-Atlantic region (2.2 percent). The largest increases by rural hospitals is in Puerto Rico, where payments appear to increase by 8.4 percent and West South Central, where payments appear to increase by 4.2 percent. Rural New England and South Atlantic regions also benefited with 3.7 and 3.6 percent respectively.

Among special categories of rural hospitals, those hospitals receiving payment under the hospital-specific methodology (SCHs, MDHs, and SCH/RRCs) experience payment increases of 3.1 percent, 3.7 percent, and 3.2 percent, respectively. This outcome is primarily related to the fact that, for hospitals receiving payments under the hospital-specific methodology, there are no outlier payments. Therefore, these hospitals do not experience negative payment impacts from the decline in outlier payments from FY 2001 to FY 2002 (from 5.9 percent of total DRG plus outlier payments to 5.1 percent) as do hospitals paid based on the national standardized amounts.

Among hospitals that were reclassified for FY 2002, hospitals overall are estimated to receive a 2.9 percent increase in payments. Urban hospitals reclassified for FY 2002 are anticipated to receive an increase of 2.0 percent, while rural reclassified hospitals are expected to benefit from reclassification with a 3.6 percent increase in payments. Overall, among hospitals reclassified for purposes of the standardized amount, only a payment increase of 4.0 percent is expected, while those hospitals reclassified for purposes of the wage index only show an expected 2.5 percent increase in payments. Those hospitals located in rural counties but deemed to be urban under section 1886(d)(8)(B) of the Act are expected to receive an increase in payments of 3.9 percent.

Table II.—Impact Analysis of Changes for FY 2001 Operating Prospective Payment System
[Payments per case]
| Number of hosps. (1) | Average FY 2001 payment per case ¹ (2) | Average FY 2001 payment per case ¹ (3) | All FY 2001 changes (4)
By Geographic Location:
All hospitals | 4,795 | 6,969 | 7,100 | 1.9
Urban hospitals | 2,721 | 7,548 | 7,674 | 1.7
Large urban areas (populations over 1 million) | 1,563 | 8,087 | 8,207 | 1.5
Other urban areas (populations of 1 million of fewer) | 1,158 | 6,854 | 6,989 | 2.0
Rural hospitals | 2,074 | 4,705 | 4,856 | 3.2
Bed Size (Urban):
0-99 beds | 712 | 5,114 | 5,220 | 2.1
100-199 beds | 943 | 6,294 | 6,397 | 1.6
200-299 beds | 530 | 7,192 | 7,320 | 1.8
300-499 beds | 391 | 8,127 | 8,261 | 1.6
500 or more beds | 145 | 9,946 | 10,099 | 1.5
Bed Size (Rural):
0-49 beds | 1,209 | 3,922 | 4,041 | 3.0
50-99 beds | 520 | 4,410 | 4,554 | 3.3
100-149 beds | 204 | 4,780 | 4,922 | 3.0
150-199 beds | 75 | 5,291 | 5,470 | 3.4
200 or more beds | 66 | 5,961 | 6,173 | 3.6
Urban by Region:
New England | 139 | 8,077 | 8,214 | 1.7
Middle Atlantic | 417 | 8,561 | 8,579 | 0.2
South Atlantic | 395 | 7,183 | 7,386 | 2.8
East North Central | 462 | 7,210 | 7,323 | 1.6
East South Central | 160 | 6,771 | 6,973 | 3.0
West North Central | 189 | 7,287 | 7,430 | 2.0
West South Central | 342 | 7,039 | 7,087 | 0.7
Mountain | 137 | 7,282 | 7,454 | 2.4
Pacific | 434 | 8,840 | 9,037 | 2.2
Puerto Rico | 46 | 3,235 | 3,319 | 2.6
Rural by Region:
New England | 49 | 5,615 | 5,821 | 3.7
Middle Atlantic | 74 | 5,052 | 5,165 | 2.2
South Atlantic | 267 | 4,871 | 5,046 | 3.6
East North Central | 273 | 4,743 | 4,875 | 2.8
East South Central | 263 | 4,398 | 4,556 | 3.6
West North Central | 479 | 4,506 | 4,620 | 2.5
West South Central | 331 | 4,177 | 4,351 | 4.2
Mountain | 194 | 5,020 | 5,166 | 2.9
Pacific | 139 | 5,762 | 5,920 | 2.7
Puerto Rico | 5 | 2,529 | 2,742 | 8.4
By Payment Classification:
Urban hospitals | 2,766 | 7,526 | 7,652 | 1.7
Large urban areas (populations over 1 million) | 1,643 | 8,002 | 8,121 | 1.5
Other urban areas (populations of 1 million of fewer) | 1,123 | 6,870 | 7,008 | 2.0
Rural areas | 2,029 | 4,687 | 4,838 | 3.2
Teaching Status:
Non-teaching | 3,674 | 5,605 | 5,728 | 2.2
Fewer than 100 Residents | 881 | 7,309 | 7,445 | 1.9
100 or more Residents | 240 | 11,258 | 11,410 | 1.3
Urban DSH:
Non-DSH | 1,879 | 6,354 | 6,461 | 1.7
100 or more beds | 1,378 | 8,129 | 8,267 | 1.7
Less than 100 beds | 325 | 4,925 | 5,089 | 3.3
Rural DSH:
Sole Community (SCH) | 540 | 4,295 | 4,427 | 3.1
Referral Center (RRC) | 157 | 5,521 | 5,723 | 3.7
Other Rural:
100 or more beds | 73 | 4,304 | 4,441 | 3.2
Less than 100 beds | 443 | 3,928 | 4,095 | 4.3
Urban teaching and DSH:
Both teaching and DSH | 754 | 9,091 | 9,238 | 1.6
Teaching and no DSH | 295 | 7,562 | 7,683 | 1.6
No teaching and DSH | 949 | 6,298 | 6,424 | 2.0
No teaching and no DSH | 768 | 5,932 | 6,022 | 1.5
Rural Hospital Types:
Non special status hospitals | 800 | 4,042 | 4,186 | 3.6
RRC | 165 | 5,434 | 5,630 | 3.6
SCH | 667 | 4,562 | 4,676 | 2.5
Medicare-dependent hospitals (MDH) | 328 | 3,844 | 3,966 | 3.2
SCH and RRC | 69 | 5,649 | 5,803 | 2.7
Type of Ownership:
Voluntary | 2,785 | 7,136 | 7,261 | 1.8
Proprietary | 777 | 6,580 | 6,712 | 2.0
Government | 1,187 | 6,486 | 6,651 | 2.5
Unknown | 46 | 6,283 | 6,449 | 2.6
Medicare Utilization as a Percent of Inpatient Days:
0-25 | 396 | 9,504 | 9,713 | 2.2
25-50 | 1,886 | 8,030 | 8,164 | 1.7
50-65 | 1,843 | 6,012 | 6,142 | 2.2
Over 65 | 592 | 5,393 | 5,497 | 1.9
Unknown | 78 | 10,244 | 10,132 | −1.1
Hospitals Reclassified by the Medicare Geographic Classification Review Board: FY 2002 Reclassifications:
All Reclassified Hospitals | 636 | 6,153 | 6,334 | 2.9
Standardized Amount Only | 74 | 5,200 | 5,407 | 4.0
Wage Index Only | 391 | 6,004 | 6,152 | 2.5
Both | 58 | 6,818 | 6,816 | 0.0
All Nonreclassified Hospitals | 4,246 | 7,105 | 7,236 | 1.9
All Urban Reclassified Hospitals | 119 | 8,253 | 8,415 | 2.0
Urban Nonreclassified Hospitals | 18 | 6,176 | 6,136 | −0.6
Standardized Amount Only | 81 | 8,946 | 9,141 | 2.2
Wage Index Only | 20 | 6,193 | 6,346 | 2.5
Both | 2,564 | 7,531 | 7,654 | 1.6
All Reclassified Rural Hospitals | 517 | 5,277 | 5,466 | 3.6
Standardized Amount Only | 19 | 4,658 | 4,750 | 2.0
Wage Index Only | 475 | 5,283 | 5,472 | 3.6
Both | 23 | 5,396 | 5,622 | 4.2
Rural Nonreclassified Hospitals | 1,554 | 4,153 | 4,268 | 2.8
Other Reclassified Hospitals (Section 1886(D)(8)(B)) | 41 | 4,841 | 5,032 | 3.9
¹ These payment amounts per case do not reflect any estimates of annual case-mix increase.

Table II presents the projected impact of the proposed changes for FY 2002 for urban and rural hospitals and for the different categories of hospitals shown in Table I. It compares the estimated payments per case for FY 2001 with the average estimated per case payments for FY 2002, as calculated under our models. Thus, this table presents, in terms of the average dollar amounts paid per discharge, the combined effects of the changes presented in Table I. The percentage changes shown in the last column of Table II equal the percentage changes in average payments from column 8 of Table I.

VIII. Impact for Critical Access Hospitals (CAHs)

There are approximately 365 facilities that qualify as CAHs. These CAHs are paid based on reasonable costs for their services to inpatients and outpatients. We examined several parts of the proposed rule, as discussed in detail in section VI.B. of the preamble, for their potential impact on CAHs.

A. Exclusion of CAHs From Payment Window Requirements

In this proposed rule, we are proposing to clarify the policy that CAHs are not subject to the payment window provisions of section 1886(a)(3) of the Act. Existing regulations do not require that these provisions be applied to CAHs, and we are not aware of specific situations in which they are now being applied. Consequently, we do not expect any increase or decrease in Medicare spending based on this clarification.

B. Availability of CRNA Pass-Through for CAHs

Under existing § 412.113(c), CRNA pass-through payment is available only to hospitals that either qualified for the pass-through of costs of anesthesia services furnished in calendar year 1989, or employed or contracted with a qualified nonphysician anesthetist as of January 1, 1988, to perform anesthesia services. We are proposing that certain CAHs that meet the pass-through criteria would qualify for pass-through payments. Under the existing criterion, the only facilities that could qualify for the pass-through as CAHs are those that would have qualified for the pass-through if they had elected to continue participating in Medicare as hospitals rather than converting to CAH status. We do not expect any increase or decrease in Medicare spending based on the proposed change in the regulations.

C. Payment for Emergency Room On-Call Physicians

In accordance with the amendments made by section 204 of Public Law 106-544, we are proposing to recognize as allowable costs, amounts for reasonable compensation and related costs for emergency room physicians who are on call but who are not present on the premises of a CAH. We expect that at least some CAHs will elect to compensate emergency room physicians for being on call, and that as a result, Medicare spending for CAH services will increase. However, we do not have information to develop a reliable estimate of how many CAHs will make this election, or how much physician compensation costs they will incur for on call time.

D. Treatment of Ambulance Services Furnished by Certain CAHs

In accordance with the provisions of section 205 of Public Law 106-554, we are proposing to amend the existing CAH regulations to provide for payment to CAHs for the reasonable costs of ambulance services furnished by a CAH or an entity owned or operated by the CAH if certain statutory requirements are met. We expect that at least some CAHs or entities owned or operated by CAHs will be able to qualify for payment for their ambulance services. To the extent that CAHs or CAH owned or operated entities furnish these services under the conditions specified in the law, ambulance services will be paid for at higher rates than would otherwise apply. As a result, Medicare spending for ambulance services will increase. However, we do not have sufficient information or data to develop a reliable estimate of how many CAHs or entities will qualify or the dollar amount of ambulance service costs they will incur.

E. Qualified Practitioners for Preanesthesia and Postanesthesia Evaluations in CAHs

As discussed in section VI.B. of this proposed rule, in an effort to eliminate or minimize potential issues relating to beneficiary access to medical services in rural areas, we are proposing to allow CRNAs who administer the anesthesia to conduct the preanesthesia and postanesthesia evaluations in a CAH. As with any licensed independent health care provider, the proposed change would not permit CRNAs to practice beyond his or her licensed scope of practice.

We believe that this proposal would increase flexibility of providers in furnishing medical services in rural areas. However, we do not have information or data to develop a reliable estimate of how many CRNAs would be used to conduct preanesthesia and postanesthesia evaluations in CAHs or what the associated costs would be.

IX. Impact of Proposed Changes in the Capital Prospective Payment System

A. General Considerations

We now have cost report data for the 8th year of the capital prospective payment system (cost reports beginning in FY 1999) available through the December 2000 update of the HCRIS. We also have updated information on the projected aggregate amount of obligated capital approved by the fiscal intermediaries. However, our impact analysis of payment changes for capital-related costs is still limited by the lack of hospital-specific data on several items. These are the hospital's projected new capital costs for each year, its projected old capital costs for each year, and the actual amounts of obligated capital that will be put in use for patient care and recognized as Medicare old capital costs in each year. The lack of this information affects our impact analysis in the following ways:

• Major investment in hospital capital assets (for example, in building and major fixed equipment) occurs at irregular intervals. As a result, there can be significant variation in the growth rates of Medicare capital-related costs per case among hospitals. We do not have the necessary hospital-specific budget data to project the hospital capital growth rate for individual hospitals.

• Our policy of recognizing certain obligated capital as old capital makes it difficult to project future capital-related costs for individual hospitals. Under § 412.302(c), a hospital is required to notify its intermediary that it has obligated capital by the later of October 1, 1992, or 90 days after the beginning of the hospital's first cost reporting period under the capital prospective payment system. The intermediary must then notify the hospital of its determination whether the criteria for recognition of obligated capital have been met by the later of the end of the hospital's first cost reporting period subject to the capital prospective payment system or 9 months after the receipt of the hospital's notification. The amount that is recognized as old capital is limited to the lesser of the actual allowable costs when the asset is put in use for patient care or the estimated costs of the capital expenditure at the time it was obligated. We have substantial information regarding fiscal intermediary determinations of projected aggregate obligated capital amounts. However, we still do not know when these projects will actually be put into use for patient care, the actual amount that will be recognized as obligated capital when the project is put into use, or the Medicare share of the recognized costs. Therefore, we do not know actual obligated capital commitments for purposes of the FY 2002 capital cost projections. In Appendix B of this proposed rule, we discuss the assumptions and computations that we employ to generate the amount of obligated capital commitments for use in the FY 2002 capital cost projections.

In Table III of this section, we present the redistributive effects that are expected to occur between “hold-harmless” hospitals and “fully prospective” hospitals in FY 2002. In addition, we have integrated sufficient hospital-specific information into our actuarial model to project the impact of the proposed FY 2002 capital payment policies by the standard prospective payment system hospital groupings. While we now have actual information on the effects of the transition payment methodology and interim payments under the capital prospective payment system and cost report data for most hospitals, we still need to randomly generate numbers for the change in old capital costs, new capital costs for each year, and obligated amounts that will be put in use for patient care services and recognized as old capital each year. We continue to be unable to predict accurately FY 2002 capital costs for individual hospitals, but with the most recent data on hospitals' experience under the capital prospective payment system, there is adequate information to estimate the aggregate impact on most hospital groupings.

B. Projected Impact Based on the Proposed FY 2002 Actuarial Model

1. Assumptions

In this impact analysis, we model dynamically the impact of the capital prospective payment system from FY 2001 to FY 2002 using a capital cost model. The FY 2002 model, as described in Appendix B of this proposed rule, integrates actual data from individual hospitals with randomly generated capital cost amounts. We have capital cost data from cost reports beginning in FY 1989 through FY 1999 as reported on the December 2000 update of HCRIS, interim payment data for hospitals already receiving capital prospective payments through PRICER, and data reported by the intermediaries that include the hospital-specific rate determinations that have been made through January 1, 2001 in the provider-specific file. We used these data to determine the proposed FY 2002 capital rates. However, we do not have individual hospital data on old capital changes, new capital formation, and actual obligated capital costs. We have data on costs for capital in use in FY 1999, and we age that capital by a formula described in Appendix B. Therefore, we need to randomly generate only new capital acquisitions for any year after FY 1999. All Federal rate payment parameters are assigned to the applicable hospital. We will continue to pay regular exceptions during cost reporting periods beginning before October 1, 2001 but ending in FY 2002. However, in FY 2003 and later, payments will no longer be made under the regular exceptions provision, hence, we will no longer require the actuarial model described in Appendix B of this proposed rule.

For purposes of this impact analysis, the proposed FY 2002 actuarial model includes the following assumptions:

• Medicare inpatient capital costs per discharge will change at the following rates during these periods:

Average Percentage Change in Capital Costs Per Discharge
Fiscal year | Percentage change
2000 | 1.39
2001 | 1.37
2002 | 2.58

• We estimate that the Medicare case-mix index will increase by 0.0 percent in FY 2001 and will increase by 1.0 percent in FY 2002.

• The Federal capital rate and the hospital-specific rate were updated beginning in FY 1996 by an analytical framework that considers changes in the prices associated with capital-related costs and adjustments to account for forecast error, changes in the case-mix index, allowable changes in intensity, and other factors. The proposed FY 2002 update is 1.1 percent (see section IV. of the Addendum to this proposed rule).

2. Results

We have used the actuarial model to estimate the change in payment for capital-related costs from FY 2001 to FY 2002. Table III shows the effect of the capital prospective payment system on low capital cost hospitals and high capital cost hospitals. We consider a hospital to be a low capital cost hospital if, based on a comparison of its initial hospital-specific rate and the applicable Federal rate, it will be paid under the fully prospective payment methodology. A high capital cost hospital is a hospital that, based on its initial hospital-specific rate and the applicable Federal rate, will be paid under the hold-harmless payment methodology. We are no longer displaying a column for the hospital-specific payments in Table III since the FY 2001 transition blend percentage for fully prospective hospitals is 100 percent of the Federal rate and zero percent of the hospital-specific rate, and all hospitals (except those defined as “new” under § 412.300) are paid based on 100 percent of the Federal rate for FY 2002. Based on our actuarial model, the breakdown of hospitals is as follows:

Capital Transition Payment Methodology for FY 2002
Type of hospital | Percent of hospitals | Percent of discharges | Percent of capital costs | Percent of capital payments
Low Cost Hospital | 66 | 62 | 57 | 61
High Cost Hospital | 34 | 38 | 43 | 39

A low capital cost hospital may request to have its hospital-specific rate redetermined based on old capital costs in the current year, through the later of the hospital's cost reporting period beginning in FY 1994 or the first cost reporting period beginning after obligated capital comes into use (within the limits established in § 412.302(c) for putting obligated capital into use for patient care). If the redetermined hospital-specific rate is greater than the adjusted Federal rate, these hospitals will be paid under the hold-harmless payment methodology. Regardless of whether the hospital became a hold-harmless payment hospital as a result of a redetermination, we continue to show these hospitals as low capital cost hospitals in Table III.

Assuming no behavioral changes in capital expenditures, Table III displays the percentage change in payments from FY 2001 to FY 2002 using the above described actuarial model. With the proposed Federal rate, we estimate aggregate Medicare capital payments will increase by 3.80 percent in FY 2002. This increase is somewhat lower than last year's (5.48 percent) due in part to the fact that because the transition period ends after FY 2001, there is no longer an increase in the Federal blend percentage, which increased from 90 to 100 percent from FY 2000 to FY 2001, for fully prospective hospitals.

Table III.—Impact of Proposed Changes for FY 2002 on Payments per Discharge
| Number of hospitals | Discharges | Adjusted Federal payment | Average Federal percent | Hold harmless payment | Exceptions payment | Total payment | Percent change over FY 2001
FY 2001 Payments per Discharge
Low Cost Hospitals | 3,128 | 6,718,804 | $626.20 | 99.70 | $2.38 | $5.69 | $634.27 |
Fully Prospective | 2,945 | 6,231,764 | 627.54 | 100.00 |  | 5.09 | 632.63 |
100% Federal Rate | 163 | 451,843 | 627.89 | 100.00 |  | 7.75 | 635.64 |
Hold Harmless | 20 | 35,197 | 367.32 | 50.30 | 454.71 | 85.44 | 907.47 |
High Cost Hospitals | 1,577 | 4,110,246 | 636.96 | 97.69 | 19.34 | 10.64 | 666.93 |
100% Federal Rate | 1,386 | 3,744,619 | 648.86 | 100.00 |  | 8.82 | 657.68 |
Hold Harmless | 191 | 365,627 | 515.12 | 75.29 | 217.38 | 29.23 | 761.73 |
Total Hospitals | 4,705 | 10,829,050 | 630.28 | 98.92 | 8.82 | 7.57 | 646.67 |
FY 2002 Payments per Discharge
Low Cost Hospitals | 3,128 | 6,826,288 | 647.17 | 100.00 |  | 3.19 | 650.36 | 2.54
Fully Prospective | 2,945 | 6,331,437 | 646.59 | 100.00 |  | 2.96 | 649.55 | 2.68
100% Federal Rate | 183 | 494,852 | 654.56 | 100.00 |  | 6.11 | 660.67 | 3.94
High Cost Hospitals | 1,577 | 4,176,324 | 671.77 | 100.00 |  | 5.72 | 677.49 | 1.58
100% Federal Rate | 1,577 | 4,176,324 | 671.77 | 100.00 |  | 5.72 | 677.49 | 3.01
Total Hospitals | 4,705 | 11,002,612 | 656.51 | 100.00 |  | 4.15 | 660.66 | 2.16

We project that low capital cost hospitals paid under the fully prospective payment methodology will experience an average increase in payments per case of 2.54 percent, and high capital cost hospitals will experience an average increase of 1.58 percent. These results are due to the fact that there is no longer an increase in the Federal blend percentage with the conclusion of the capital transition period in FY 2001 for fully prospective hospitals. Beginning FY 2002, all hospitals (except those defined as “new” under § 412.300) are paid based on 100 percent of the Federal rate for FY 2002.

For hospitals paid under the fully prospective payment methodology, the Federal rate payment percentage remains at 100 percent from FY 2001 (last year of the transition period) since they no longer receive payments based on the hospital-specific rate. The Federal rate payment percentage in FY 2001 for hospitals paid under the hold-harmless payment methodology is based on the hospital's ratio of new capital costs to total capital costs. The average Federal rate payment percentage for high cost hospitals receiving a hold-harmless payment for old capital in FY 2001 will increase from 75.29 percent to 100 percent since the transition period will have ended. All hold-harmless hospitals will be paid based on 100 percent of the Federal rate in FY 2002. We estimate that high cost hospitals (paid based on 100 percent of the Federal rate) will receive a decrease in exceptions payments from $8.82 per discharge in FY 2001 to $5.72 per discharge in FY 2002. This is primarily due to the expiration of the regular exceptions provision in FY 2002.

We are no longer presenting the average hospital-specific rate payment per discharge in Table III because the FY 2001 transition blend percentage for fully prospective hospitals is 100 percent of the Federal rate and zero percent of the hospital-specific rate, and all hospitals (except those defined as “new” under § 412.300) will be paid based on 100 percent of the Federal rate for FY 2002.

As stated previously, we will continue to pay regular exceptions for cost reporting periods beginning before October 1, 2001, but ending in FY 2002. However, in FY 2003 and later, regular exception payments will no longer be made under the regular exceptions provision, however, eligible hospitals could receive special exception payments under § 412.348(g).

We estimate that regular exceptions payments will decrease from 1.17 percent of total capital payments in FY 2001 to 0.63 percent of payments in FY 2002. These results are primarily due to the expiration of the regular exceptions after FY 2001 and the limited nature of the special exceptions policy in FY 2002. The projected distribution of the exception payments is shown in the chart below:

Estimated FY 2002 Exceptions Payments
Type of hospital | Number of hospitals | Percent of exceptions payments
Low Capital Cost | 122 | 48
High Capital Cost | 116 | 52
Total | 238 | 100

In the past we presented a cross-sectional summary of hospital groupings by the capital prospective payment transition period methodology generated by our actuarial model (Appendix B). We are no longer including such a comparison since all hospitals (except those defined as “new” under § 412.300) will be paid based on 100 percent of the Federal rate in FY 2002 with the conclusion of the 10-year capital transition period.

C. Cross-Sectional Analysis of Changes in Aggregate Payments

We used our FY 2002 actuarial model to estimate the potential impact of our proposed changes for FY 2002 on total capital payments per case, using a universe of 4,705 hospitals. The individual hospital payment parameters are taken from the best available data, including: The January 1, 2001 update to the provider-specific file, cost report data, and audit information supplied by intermediaries. In Table IV we present the results of the cross-sectional analysis using the results of our actuarial model and the aggregate impact of the proposed FY 2002 payment policies. As we explain in Appendix B of this proposed rule, we were not able to use 90 of the 4,795 hospitals in our database due to insufficient (missing or unusable) data. Consequently, the payment methodology distribution is based on 4,705 hospitals. These data should be fully representative of the payment methodologies that will be applicable to hospitals. Columns 3 and 4 show estimates of payments per case under our model for FY 2001 and FY 2002. Column 5 shows the total percentage change in payments from FY 2001 to FY 2002. Column 6 presents the percentage change in payments that can be attributed to Federal rate changes alone.

Federal rate changes represented in Column 6 include the 1.85 percent increase in the Federal rate, a 1.0 percent increase in case mix, changes in the adjustments to the Federal rate (for example, the effect of the new hospital wage index on the geographic adjustment factor), and reclassifications by the MGCRB. Column 5 includes the effects of the Federal rate changes represented in Column 6. Column 5 also reflects the effects of all other changes, including the change for all hold-harmless hospitals being paid based on 100 percent of the Federal rate, and changes in exception payments. The comparisons are provided by: (1) Geographic location, (2) region, and (3) payment classification.

The simulation results show that, on average, capital payments per case can be expected to increase 2.2 percent in FY 2002. The results show that the effect of the Federal rate change alone is to increase payments by 3.0 percent. In addition to the increase attributable to the Federal rate change, a 0.8 percent decrease is attributable to the effects of all other changes.

Our comparison by geographic location shows an overall increase in payments to hospitals in all areas. This comparison also shows that urban and rural hospitals will experience slightly different rates of increase in capital payments per case (2.3 percent and 1.2 percent, respectively). This difference is due to the lower rate of decrease for urban hospitals relative to rural hospitals (0.7 percent and 1.7 percent, respectively) from the effect of all other changes. Urban hospitals will gain approximately the same as rural hospitals (3.0 percent versus 2.9 percent, respectively) from the effects of Federal rate changes alone.

Most regions are estimated to receive increases in total capital payments per case, partly due to the fact that payments to all hospitals (except those defined as “new” under § 412.300) will be based on 100 percent of the Federal rate in FY 2002. Changes by region vary from a minimum maximum decrease of 0.6 percent (Mountain urban region) to a maximum increase of 3.0 percent (New England urban rural region).

By type of ownership, voluntary hospitals are projected to have the largest rate of increase of total payment changes (2.5 percent, a 3.0 percent increase due to the Federal rate changes, and a 0.5 percent decrease from the effects of all other changes). Similarly, payments to government hospitals will increase 2.2 percent (a 3.0 percent increase due to Federal rate changes, and a 0.8 percent decrease from the effects of all other changes), while payments to proprietary hospitals will increase 0.5 percent (a 2.9 percent increase due to Federal rate changes, and a 2.4 percent decrease from the effects of all other changes). This 2.4 percent decrease from all other changes is primarily due to the estimated decrease in exceptions payments and the change for all hold-harmless hospitals being paid based on 100 percent of the Federal rate.

Section 1886(d)(10) of the Act established the MGCRB. Hospitals may apply for reclassification for purposes of the standardized amount, wage index, or both and for purposes of DSH for FYs 1999 through 2001. Although the Federal capital rate is not affected, a hospital's geographic classification for purposes of the operating standardized amount does affect a hospital's capital payments as a result of the large urban adjustment factor and the disproportionate share adjustment for urban hospitals with 100 or more beds. Reclassification for wage index purposes also affects the geographic adjustment factor, since that factor is constructed from the hospital wage index.

To present the effects of the hospitals being reclassified for FY 2001 compared to the effects of reclassification for FY 2000, we show the average payment percentage increase for hospitals reclassified in each fiscal year and in total. For FY 2001 reclassifications, we indicate those hospitals reclassified for standardized amount purposes only, for wage index purposes only, and for both purposes. The reclassified groups are compared to all other nonreclassified hospitals. These categories are further identified by urban and rural designation.

Hospitals reclassified for FY 2001 as a whole are projected to experience a 2.0 percent increase in payments (a 3.0 percent increase attributable to Federal rate changes and a 1.0 percent decrease attributable to the effects of all other changes). Payments to nonreclassified hospitals will increase slightly more (2.2 percent) than reclassified hospitals (2.0 percent) overall. Payments to nonreclassified hospitals will increase the same as reclassified hospitals from the Federal rate changes (3.0 percent), and they will lose less from the effects of all other changes (0.8 percent compared to 1.0 percent, respectively).

Table IV.—Comparison of Total Payments Per Case
[FY 2001 Payments Compared to FY 2002 Payments]
| Number of hospitals | Average FY 2001 payments/case | Average FY 2002 payments/case | All changes | Portion attributable to Federal rate change
By Geographic Location:
All hospitals | 4,705 | 647 | 661 | 2.2 | 3.0
Large urban areas (populations over 1 million) | 1,519 | 749 | 766 | 2.3 | 3.0
Other urban areas (populations of 1 million or fewer) | 1,125 | 635 | 650 | 2.4 | 3.0
Rural areas | 2,061 | 439 | 444 | 1.2 | 2.9
Urban hospitals | 2,644 | 699 | 716 | 2.3 | 3.0
0-99 beds | 654 | 522 | 507 | -2.8 | 2.8
100-199 beds | 927 | 596 | 607 | 1.8 | 2.9
200-299 beds | 528 | 667 | 684 | 2.6 | 3.0
300-499 beds | 390 | 739 | 762 | 3.1 | 3.0
500 or more beds | 145 | 902 | 925 | 2.6 | 2.9
Rural hospitals | 2,061 | 439 | 444 | 1.2 | 2.9
0-49 beds | 1,200 | 369 | 372 | 1.0 | 2.9
50-99 beds | 516 | 412 | 416 | 1.0 | 2.9
100-149 beds | 204 | 452 | 457 | 1.1 | 2.9
150-199 beds | 75 | 485 | 495 | 2.2 | 2.9
200 or more beds | 66 | 548 | 553 | 1.0 | 3.0
By Region:
Urban by Region | 2,644 | 699 | 716 | 2.3 | 3.0
New England | 138 | 745 | 768 | 3.0 | 3.0
Middle Atlantic | 407 | 782 | 800 | 2.4 | 2.9
South Atlantic | 393 | 669 | 684 | 2.2 | 3.0
East North Central | 448 | 672 | 690 | 2.7 | 3.0
East South Central | 156 | 638 | 655 | 2.7 | 2.9
West North Central | 181 | 688 | 708 | 2.9 | 3.0
West South Central | 321 | 665 | 673 | 1.3 | 2.9
Mountain | 127 | 702 | 698 | -0.6 | 2.9
Pacific | 427 | 787 | 808 | 2.7 | 3.0
Puerto Rico | 46 | 295 | 304 | 3.1 | 3.1
Rural by Region | 2,061 | 439 | 444 | 1.2 | 2.9
New England | 49 | 522 | 534 | 2.3 | 3.0
Middle Atlantic | 73 | 463 | 469 | 1.5 | 2.9
South Atlantic | 267 | 457 | 458 | 0.1 | 2.9
East North Central | 273 | 449 | 455 | 1.4 | 2.9
East South Central | 260 | 410 | 415 | 1.2 | 2.9
West North Central | 477 | 422 | 428 | 1.4 | 2.9
West South Central | 325 | 390 | 398 | 2.1 | 2.9
Mountain | 193 | 466 | 467 | 0.1 | 2.8
Pacific | 139 | 520 | 530 | 2.0 | 3.0
By Payment Classification:
All hospitals | 4,705 | 647 | 661 | 2.2 | 3.0
Large urban areas (populations over 1 million) | 1,599 | 742 | 759 | 2.3 | 3.0
Other urban areas (populations of 1 million or fewer) | 1,090 | 636 | 651 | 2.4 | 3.0
Rural areas | 2,016 | 437 | 442 | 1.2 | 2.9
Teaching Status:
Non-teaching | 3,586 | 533 | 540 | 1.3 | 2.9
Fewer than 100 Residents | 879 | 675 | 695 | 2.9 | 3.0
100 or more Residents | 240 | 999 | 1,026 | 2.7 | 2.9
Urban DSH:
100 or more beds | 1,374 | 734 | 752 | 2.4 | 3.0
Less than 100 beds | 317 | 489 | 491 | 0.4 | 2.8
Rural DSH:
Sole Community (SCH/EACH) | 540 | 395 | 390 | -1.3 | 2.8
Referral Center (RRC/EACH) | 157 | 504 | 511 | 1.4 | 2.9
Other Rural:
100 or more beds | 73 | 409 | 419 | 2.4 | 2.9
Less than 100 beds | 439 | 369 | 380 | 2.8 | 3.0
Urban teaching and DSH:
Both teaching and DSH | 753 | 814 | 836 | 2.7 | 3.0
Teaching and no DSH | 294 | 717 | 740 | 3.3 | 3.0
No teaching and DSH | 938 | 585 | 595 | 1.7 | 2.9
No teaching and no DSH | 704 | 590 | 595 | 0.9 | 2.9
Rural Hospital Types:
Non special status hospitals | 788 | 384 | 394 | 2.8 | 3.0
RRC/EACH | 165 | 504 | 517 | 2.6 | 3.0
SCH/EACH | 667 | 423 | 417 | -1.5 | 2.8
Medicare-dependent hospitals (MDH) | 327 | 363 | 365 | 0.7 | 2.9
SCH, RRC and EACH | 69 | 510 | 508 | -0.4 | 2.8
Hospitals Reclassified by the Medicare Geographic Classification Review Board:
Reclassification Status During FY01 and FY02: | 482 | 564 | 576 | 2.1 | 3.0
Reclassified During FY02 Only | 153 | 571 | 580 | 1.6 | 2.9
FY02 Reclassifications:
All Reclassified Hospitals | 635 | 566 | 577 | 2.0 | 3.0
All Nonreclassified Hospitals | 4,157 | 659 | 674 | 2.2 | 3.0
All Urban Reclassified Hospitals | 119 | 741 | 763 | 2.9 | 3.0
Urban Nonreclassified Hospitals | 2,487 | 699 | 715 | 2.3 | 3.0
All Reclassified Rural Hospitals | 516 | 492 | 499 | 1.4 | 2.9
Rural Nonreclassified Hospitals | 1,542 | 388 | 392 | 0.9 | 2.9
Other Reclassified Hospitals (Section 1886(D)(8)(B)). | 41 | 461 | 455 | -1.3 | 2.9
Type of Ownership:
Voluntary | 2,769 | 660 | 677 | 2.5 | 3.0
Proprietary | 755 | 639 | 642 | 0.5 | 2.9
Government | 1,179 | 581 | 594 | 2.2 | 3.0
Medicare Utilization as a Percent of Inpatient Days:
0-25 | 389 | 825 | 846 | 2.5 | 3.0
25-50 | 1,872 | 736 | 755 | 2.5 | 3.0
50-65 | 1,832 | 568 | 580 | 2.2 | 3.0
Over 65 | 585 | 522 | 519 | -0.7 | 2.9

Appendix B: Technical Appendix on the Capital Cost Model and Required Adjustments

Under section 1886(g)(1)(A) of the Act, we set capital prospective payment rates for FY 1992 through FY 1995 so that aggregate prospective payments for capital costs were projected to be 10 percent lower than the amount that would have been payable on a reasonable cost basis for capital-related costs in that year. To implement this requirement, we developed the capital acquisition model to determine the budget neutrality adjustment factor. Even though the budget neutrality requirement expired effective with FY 1996, we must continue to determine the recalibration and geographic reclassification budget neutrality adjustment factor and the reduction in the Federal and hospital-specific rates for exceptions payments. To determine these factors, we must continue to project capital costs and payments.

We will continue to pay regular exceptions for cost reporting periods beginning before October 1, 2001 but ending in FY 2002. In FY 2003 and later, no payments will be made under the regular exceptions policy, hence we will not compute a budget neutrality factor for regular exceptions in FY 2003 and later. As described in section V.D. of the preamble of this proposed rule, the budget neutrality adjustment for special exceptions will be based on historical costs. Consequently, there will be no need to estimate capital costs with the capital acquisition model. We will not publish this appendix after the final rule for the FY 2002 capital rates.

We used the capital acquisition model from the start of prospective payments for capital costs through FY 1997. We now have 8 years of cost reports under the capital prospective payment system. For FY 1998, we developed a new capital cost model to replace the capital acquisition model. This revised model makes use of the data from these cost reports.

The following cost reports are used in the capital cost model for this proposed rule: the December 31, 2000 update of the cost reports for PPS-IX (cost reporting periods beginning in FY 1992), PPS-X (cost reporting periods beginning in FY 1993), PPS-XI (cost reporting periods beginning in FY 1994), PPS-XII (cost reporting periods beginning in FY 1995), PPS-XIII (cost reporting periods beginning in FY 1996), PPS-XIV (cost reporting periods beginning in FY 1997), PPS-XV (cost reporting periods beginning in FY 1998), and PPS-XVI (cost reporting periods beginning in FY 1999). In addition, to model payments, we use the January 1, 2001 update of the provider-specific file, and the March 1995 update of the intermediary audit file.

Since hospitals under alternative payment system waivers (that is, hospitals in Maryland) are currently excluded from the capital prospective payment system, we excluded these hospitals from our model.

We developed FY 1992 through FY 2001 hospital-specific rates using the provider-specific file and the intermediary audit file. (We used the cumulative provider-specific file, which includes all updates to each hospital's records, and chose the latest record for each fiscal year.) We checked the consistency between the provider-specific file and the intermediary audit file. We ensured that increases in the hospital-specific rates were at least as large as the published updates (increases) for the hospital-specific rates each year. We were able to match hospitals to the files as shown in the following table:

Source | Number of hospitals
No match | 4
Audit file only | 90
Provider-specific file only | 185
Provider-specific and audit file | 4,516
Total | 4,795

One hundred eighteen of the 4,795 hospitals had unusable or missing data, or had no cost reports available. For 52 of the 118 hospitals, we were unable to determine a hospital-specific rate from the available cost reports. However, there was adequate cost information to determine that these hospitals were paid under the hold-harmless methodology. Since the hospital-specific rate is not used to determine payments for hospitals paid under the hold-harmless methodology, there was sufficient cost report information available to include these 52 hospitals in the analysis. We were able to estimate hospital-specific amounts from the cost reports as shown in the following table.

Cost report | Number of hospitals
PPS-9 | 1
PPS-12 | 1
PPS-13 | 1
PPS-14 | 1
PPS-15 | 2
PPS-16 | 8
Total | 14

Hence we were able to use 66 (52 plus 14) of the 118 hospitals. The remaining 52 of the 118 hospitals could not be used in the analysis because we were not able to estimate their hospital-specific amount. An additional 38 hospitals could not be used in the analysis because we could not determine their capital costs, either because we had no cost reports for them or because there was insufficient cost report data. Accordingly, we used 4,705 hospitals for the analysis. Ninety (52 plus 38) hospitals could not be used in the analysis because of insufficient (missing or unusable) information. These hospitals account for about 0.3 percent of admissions. Therefore, any effects from the elimination of their cost report data should be minimal.

We analyzed changes in capital-related costs (depreciation, interest, rent, leases, insurance, and taxes) reported in the cost reports. We found a wide variance among hospitals in the growth of these costs. For hospitals with more than 100 beds, the distribution and mean of these cost increases were different for large changes in bed-size (greater than ±20 percent). We also analyzed changes in the growth in old capital and new capital for cost reports that provided this information. For old capital, we limited the analysis to decreases in old capital. We did this since the opportunity for most hospitals to treat “obligated” capital put into service as old capital has expired. Old capital costs should decrease as assets become fully depreciated and as interest costs decrease as the loan is amortized.

The new capital cost model separates the hospitals into three mutually exclusive groups. Hold-harmless hospitals with data on old capital were placed in the first group. Of the remaining hospitals, those hospitals with fewer than 100 beds comprise the second group. The third group consists of all hospitals that did not fit into either of the first two groups. Each of these groups displayed unique patterns of growth in capital costs. We found that the gamma distribution is useful in explaining and describing the patterns of increase in capital costs. A gamma distribution is a statistical distribution that can be used to describe patterns of growth rates, with the greatest proportion of rates being at the low end. We use the gamma distribution to estimate individual hospital rates of increase as follows:

(1) For hold-harmless hospitals, old capital cost changes were fitted to a truncated gamma distribution, that is, a gamma distribution covering only the distribution of cost decreases. New capital costs changes were fitted to the entire gamma distribution, allowing for both decreases and increases.

(2) For hospitals with fewer than 100 beds (small), total capital cost changes were fitted to the gamma distribution, allowing for both decreases and increases.

(3) Other (large) hospitals were further separated into three groups:

• Bed-size decreases over 20 percent (decrease).

• Bed-size increases over 20 percent (increase).

• Other (no change).

Capital cost changes for large hospitals were fitted to gamma distributions for each bed-size change group, allowing for both decreases and increases in capital costs. We analyzed the probability distribution of increases and decreases in bed size for large hospitals. We found the probability somewhat dependent on the prior year change in bed size and factored this dependence into the analysis. Probabilities of bed-size change were determined. Separate sets of probability factors were calculated to reflect the dependence on prior year change in bed size (increase, decrease, and no change).

The gamma distributions were fitted to changes in aggregate capital costs for the entire hospital. We checked the relationship between aggregate costs and Medicare per discharge costs. For large hospitals, there was a small variance, but the variance was larger for small hospitals. Since costs are used only for the hold-harmless methodology and to determine exceptions, we decided to use the gamma distributions fitted to aggregate cost increases for estimating distributions of cost per discharge increases.

Capital costs per discharge calculated from the cost reports were increased by random numbers drawn from the gamma distribution to project costs in future years. Old and new capital were projected separately for hold-harmless hospitals. Aggregate capital per discharge costs were projected for all other hospitals. Because the distribution of increases in capital costs varies with changes in bed size for large hospitals, we first projected changes in bed size for large hospitals before drawing random numbers from the gamma distribution. Bed-size changes were drawn from the uniform distribution with the probabilities dependent on the previous year bed-size change. The gamma distribution has a shape parameter and a scaling parameter. (We used different parameters for each hospital group, and for old and new capital.)

We used discharge counts from the cost reports to calculate capital cost per discharge. To estimate total capital costs for FY 2000 (the MedPAR data year) and later, we use the number of discharges from the MedPAR data. Some hospitals had considerably more discharges in FY 2000 than in the years for which we calculated cost per discharge from the cost report data. Consequently, a hospital with few cost report discharges would have a high capital cost per discharge, since fixed costs would be allocated over only a few discharges. If discharges increase substantially, the cost per discharge would decrease because fixed costs would be allocated over more discharges. If the projection of capital cost per discharge is not adjusted for increases in discharges, the projection of exceptions would be overstated. We address this situation by recalculating the cost per discharge with the MedPAR discharges if the MedPAR discharges exceed the cost report discharges by more than 20 percent. We do not adjust for increases of less than 20 percent because we have not received all of the FY 2000 discharges, and we have removed some discharges from the analysis because they are statistical outliers. This adjustment reduces our estimate of exceptions payments, and consequently, the reduction to the Federal rate for exceptions is smaller. We will continue to monitor our modeling of exceptions payments and make adjustments as needed.

The average national capital cost per discharge generated by this model is the combined average of many randomly generated increases. This average must equal the projected average national capital cost per discharge, which we projected separately (outside this model). We adjusted the shape parameter of the gamma distributions so that the modeled average capital cost per discharge matches our projected capital cost per discharge. The shape parameter for old capital was not adjusted since we are modeling the aging of “existing” assets. This model provides a distribution of capital costs among hospitals that is consistent with our aggregate capital projections.

Once each hospital's capital-related costs are generated, the model projects capital payments. We use the actual payment parameters (for example, the case-mix index and the geographic adjustment factor) that are applicable to the specific hospital.

To project capital payments, the model first assigns the applicable payment methodology (fully prospective or hold-harmless) to the hospital as determined from the provider-specific file and the cost reports. The model simulates Federal rate payments using the assigned payment parameters and hospital-specific estimated outlier payments. The case-mix index for a hospital is derived from the FY 2000 MedPAR file using the FY 2002 DRG relative weights included in section VI. of the Addendum to this proposed rule. The case-mix index is increased each year after FY 2000 based on analysis of past experiences in case-mix increases. Based on analysis of recent case-mix increases, we estimate that case-mix will increase 0.0 percent in FY 2001. We project that case-mix will increase 1.0 percent in FY 2002. (Since we are using FY 2000 cases for our analysis, the FY 2000 increase in case-mix has no effect on projected capital payments.)

Changes in geographic classification and revisions to the hospital wage data used to establish the hospital wage index affect the geographic adjustment factor. Changes in the DRG classification system and the relative weights affect the case-mix index.

Section 412.308(c)(4)(ii) requires that the estimated aggregate payments for the fiscal year, based on the Federal rate after any changes resulting from DRG reclassifications and recalibration and the geographic adjustment factor, equal the estimated aggregate payments based on the Federal rate that would have been made without such changes. For FY 2001, the budget neutrality adjustment factors were 0.99933 for the national rate and 1.00508 for the Puerto Rico rate. In determining these factors, we used the factors from the first half of FY 2001 (October 2000 through March 2001) published in the August 1, 2000 final rule since section 547 of Public Law 106-554 specifies that the special increases and adjustments in effect between April and October 2001 do not apply for discharges occurring after FY 2001 and should not be included in determining the payment rates in subsequent years.

Since we implemented a separate geographic adjustment factor for Puerto Rico, we applied separate budget neutrality adjustments for the national geographic adjustment factor and the Puerto Rico geographic adjustment factor. We applied the same budget neutrality factor for DRG reclassifications and recalibration nationally and for Puerto Rico. Separate adjustments were unnecessary for FY 1998 and earlier since the geographic adjustment factor for Puerto Rico was implemented in FY 1998.

To determine the factors for FY 2002, we first determined the portions of the Federal national and Puerto Rico rates that would be paid for each hospital in FY 2002 based on its applicable payment methodology. Using our model, we then compared, separately for the national rate and the Puerto Rico rate, estimated aggregate Federal rate payments based on the FY 2001 DRG relative weights and the FY 2001 geographic adjustment factor to estimated aggregate Federal rate payments based on the FY 2001 relative weights and the FY 2002 geographic adjustment factor. In making the comparison, we held the FY 2002 Federal rate portion constant and set the other budget neutrality adjustment factor and the regular and special exceptions reduction factors to 1.00. To achieve budget neutrality for the changes in the national geographic adjustment factor, we applied an incremental budget neutrality adjustment of 0.99703 for FY 2002 to the previous cumulative FY 2001 adjustment of 0.99933, yielding a cumulative adjustment of 0.99637 through FY 2002. For the Puerto Rico geographic adjustment factor, we applied an incremental budget neutrality adjustment of 0.99943 for FY 2002 to the previous cumulative FY 2001 adjustment of 1.00508, yielding a cumulative adjustment of 1.00450 through FY 2002. We then compared estimated aggregate Federal rate payments based on the FY 2001 DRG relative weights and the FY 2002 geographic adjustment factors to estimated aggregate Federal rate payments based on the FY 2002 DRG relative weights and the FY 2002 geographic adjustment factors. The incremental adjustment for DRG classifications and changes in relative weights would be 0.99428 nationally and for Puerto Rico. The cumulative adjustments for DRG classifications and changes in relative weights and for changes in the geographic adjustment factors through FY 2002 would be 0.99067 nationally and 0.99876 for Puerto Rico. The following table summarizes the adjustment factors for each fiscal year:

Budget Neutrality Adjustment for DRG Reclassifications and Recalibration and the Geographic Adjustment Factors
Fiscal year | National: Incremental adjustment: Geographic adjustment factor | National: Incremental adjustment: DRG reclassifications and recalibration | National: Incremental adjustment: Combined | National: Incremental adjustment: Cumulative | Puerto Rico: Incremental adjustment: Geographic adjustment factor | Puerto Rico: Incremental adjustment: DRG reclassifications and recalibration | Puerto Rico: Incremental adjustment: Combined | Puerto Rico: Incremental adjustment: Cumulative
1992 |  |  |  | 1.00000 |  |  |  |
1993 |  |  | 0.99800 | 0.99800 |  |  |  |
1994 |  |  | 1.00531 | 1.00330 |  |  |  |
1995 |  |  | 0.99980 | 1.00310 |  |  |  |
1996 |  |  | 0.99940 | 1.00250 |  |  |  |
1997 |  |  | 0.99873 | 1.00123 |  |  |  |
1998 |  |  | 0.99892 | 1.00015 |  |  |  | 1.00000
1999 | 0.99944 | 1.00335 | 1.00279 | 1.00294 | 0.99898 | 1.00335 | 1.00233 | 1.00233
2000 | 0.99857 | 0.99991 | 0.99848 | 1.00142 | 0.99910 | 0.99991 | 0.99901 | 1.00134
2001 ¹ | 0.99846 | 1.00019 | 0.99865 | 0.99933 | 1.00365 | 1.00009 | 1.00374 | 1.00508
2001 ² | ³ 0.99771 | ³ 1.00009 | ³ 0.99780 | 0.99922 | ³ 1.00365 | ³ 1.00009 | ³ 1.00374 | 1.00508
2002 | ⁴ 0.99703 | ⁴ 0.99428 | ⁴ 0.99133 | 0.99067 | ⁴ 0.99943 | ⁴ 0.99428 | ⁴ 0.99371 | 0.99876
¹ Factors effective for the first half of FY 2001 (October 2000 through March 2001).
² Factors effective for the second half of FY 2001 (April 2001 through September 2001).
³ Incremental factors are applied to FY 2000 cumulative factors.
⁴ Incremental factors are applied to the cumulative factors for the first half of FY 2001.

The methodology used to determine the recalibration and geographic (DRG/GAF) budget neutrality adjustment factor is similar to that used in establishing budget neutrality adjustments under the prospective payment system for operating costs. One difference is that, under the operating prospective payment system, the budget neutrality adjustments for the effect of geographic reclassifications are determined separately from the effects of other changes in the hospital wage index and the DRG relative weights. Under the capital prospective payment system, there is a single DRG/GAF budget neutrality adjustment factor (the national rate and the Puerto Rico rate are determined separately) for changes in the geographic adjustment factor (including geographic reclassification) and the DRG relative weights. In addition, there is no adjustment for the effects that geographic reclassification has on the other payment parameters, such as the payments for serving low-income patients or the large urban add-on payments.

In addition to computing the DRG/GAF budget neutrality adjustment factor, we used the model to simulate total payments under the prospective payment system.

Additional payments under the exceptions process are accounted for through a reduction in the Federal and hospital-specific rates. For FY 2002 additional payments for the “regular” exceptions are made only for cost reporting periods that begin before October 1, 2001. The adjustment for “special” exceptions payments (see § 412.348(g)) is described in section V.D. of the preamble of this proposed rule. Therefore, we used the model to calculate the exceptions reduction factor. This exceptions reduction factor ensures that aggregate payments under the capital prospective payment system, including exceptions payments, are projected to equal the aggregate payments that would have been made under the capital prospective payment system without an exceptions process. In modeling exceptions for FY 2002, we calculated exceptions only for qualifying cost reporting periods. Since changes in the level of the payment rates change the level of payments under the exceptions process, the exceptions reduction factor must be determined through iteration.

In the August 30, 1991 final rule (56 FR 43517), we indicated that we would publish each year the estimated payment factors generated by the model to determine payments for the next 5 years. Since we will no longer use the model after the final notice for the FY 2002 rates, we propose to discontinue publishing this table after the final notice for the FY 2002 rates. The table below provides the actual factors for FYs 1992 through 2001, the proposed factors for FY 2002, and the estimated factors that would be applicable through FY 2006. We caution that these are estimates for FYs 2002 and later, and are subject to revisions resulting from continued methodological refinements, receipt of additional data, and changes in payment policy. We note that in making these projections, we have assumed that the cumulative national DRG/GAF budget neutrality adjustment factor will remain at 0.99067 (0.99876 for Puerto Rico) for FY 2002 and later because we do not have sufficient information to estimate the change that will occur in the factor for years after FY 2002.

The projections are as follows:

Fiscal year | Update factor | Exceptions reduction factor | Budget neutrality factor | DRG/GAF adjustment factor ¹ | Outlier adjustment factor | Federal rate adjustment | Federal rate (after outlier reduction)
1992 | N/A | 0.9813 | 0.9602 |  | 0.9497 |  | 415.59
1993 | 6.07 | .9756 | .9162 | .9980 | .9496 |  | 417.29
1994 | 3.04 | .9485 | .8947 | 1.0053 | .9454 | ².9260 | 378.34
1995 | 3.44 | .9734 | .8432 | .9998 | .9414 |  | 376.83
1996 | 1.20 | .9849 | N/A | .9994 | .9536 | ³.9972 | 461.96
1997 | 0.70 | .9358 | N/A | .9987 | .9481 |  | 438.92
1998 | 0.90 | 9659 | N/A | .9989 | .9382 | ⁴.8222 | 371.51
1999 | 0.10 | .9783 | N/A | 1.0028 | .9392 |  | 378.10
2000 | 0.30 | .9730 | N/A | .9985 | .9402 |  | 377.03
2001 ⁵ | 0.90 | .9785 | N/A | .9979 | .9409 |  | 382.03
2002 | 1.10 | ⁶.9925 | N/A | 0.9913 | .9426 |  | 389.09
2003 | 0.60 | .9975 | N/A | ⁷ 1.0000 | ⁷.9426 | ⁴ 1.0255 | 403.44
2004 | 0.90 | .9975 | N/A | 1.0000 | .9426 |  | 407.07
2005 | 1.10 | .9975 | N/A | 1.0000 | .9426 |  | 411.55
2006 | 1.10 | .9975 | N/A | 1.0000 | .9426 |  | 416.07
¹ Note: The incremental change over the previous year.
² Note: OBRA 1993 adjustment.
³ Note: Adjustment for change in the transfer policy.
⁴ Note: Balanced Budget Act of 1997 adjustment.
⁵ Note: Rates are for the first half of FY 2001 (October 1, 2000 through March 31, 2001).
⁶ Note: Product of general exceptions factor (0.9937) and special exceptions factor (0.9988).
⁷ Note: Future adjustments are, for purposes of this projection, assumed to remain at the same level.

BILLING CODE 4120-01-P

Appendix C—Report to Congress

Appendix D: Recommendation of Update Factors for Operating Cost Rates of Payment for Inpatient Hospital Services

I. Background

Several provisions of the Act address the setting of update factors for inpatient services furnished in FY 2002 by hospitals subject to the prospective payment system and by hospitals or units excluded from the prospective payment system. Section 1886(b)(3)(B)(i)(XVII) of the Act, as amended by Section 301 of Public Law 106-554, sets the FY 2002 percentage increase in the operating cost standardized amounts equal to the rate of increase in the hospital market basket minus 0.55 percent for prospective payment hospitals in all areas. Section 1886(b)(3)(B)(iv) of the Act sets the FY 2002 percentage increase in the hospital-specific rates applicable to SCHs and MDHs equal to the rate set forth in section 1886(b)(3)(B)(i) of the Act, that is, the same update factor as all other hospitals subject to the prospective payment system, or the rate of increase in the market basket minus 0.55 percentage points.

Under section 1886(b)(3)(B)(ii) of the Act, the FY 2002 percentage increase in the rate-of-increase limits for hospitals and units excluded from the prospective payment system ranges from the percentage increase in the excluded hospital market basket less a percentage between 0 and 2.5 percentage points, depending on the hospital's or unit's costs in relation to its limit for the most recent cost reporting period for which information is available, or 0 percentage point if costs do not exceed two-thirds of the limit.

In accordance with section 1886(d)(3)(A) of the Act, we are proposing to update the standardized amounts, the hospital-specific rates, and the rate-of-increase limits for hospitals and units excluded from the prospective payment system as provided in section 1886(b)(3)(B) of the Act. Based on the first quarter 2001 forecast of the FY 2002 market basket increase of 3.1 percent for hospitals and units subject to the prospective payment system, the proposed update to the standardized amounts is 2.55 percent (that is, the market basket rate of increase minus 0.55 percent percentage points) for hospitals in both large urban and other areas. The proposed update to the hospital-specific rate applicable to SCHs and MDHs is also 2.55 percent. The proposed update for hospitals and units excluded from the prospective payment system would range from the percentage increase in the excluded hospital market basket (currently estimated at 3.0 percent) minus a percentage between 0 and 2.5 percentage points, or 0 percentage points, resulting in an increase in the rate-of-increase limit between 0.5 and 3.0 percent, or 0 percent.

Section 1886(e)(4) of the Act requires that the Secretary, taking into consideration the recommendations of the Medicare Payment Advisory Commission (MedPAC), recommend update factors for each fiscal year that take into account the amounts necessary for the efficient and effective delivery of medically appropriate and necessary care of high quality. Under section 1886(e)(5) of the Act, we are required to publish the update factors recommended under section 1886(e)(4) of the Act. Accordingly, this Appendix provides the recommendations of appropriate update factors and the analysis underlying our recommendations and our response to MedPAC's recommendations concerning the update factors.

In its March 1, 2001 report, MedPAC stated that the legislated update of market basket minus 0.55 percentage points would provide a reasonable level of payments to hospitals. MedPAC did not make a separate recommendation for the hospital-specific rate applicable to SCHs and MDHs. We discuss MedPAC's recommendations concerning the update factors and our responses to these recommendations in section III. below.

II. Secretary's Recommendations

Under section 1886(e)(4) of the Act, we are recommending that an appropriate update factor for the standardized amounts is 2.55 percentage points for hospitals located in large urban and other areas. We are also recommending an update of 2.55 percentage points to the hospital-specific rate for SCHs and MDHs. As MedPAC states in its March 2001 report, there are signs of substantial improvement in hospitals' financial performance in FY 2000 as a result of the enactment of Public Law 106-113 and Public Law 106-554. In conjunction with the various “give-back” provisions in Public Law 106-113 and Public Law 106-554 and the continuation of positive (MedPAC estimates 12 percent for FY 1999 (page 64)) Medicare hospital inpatient margins, we believe these recommended update factors for FY 2002 would ensure that Medicare acts as a prudent purchaser and provide incentives to hospitals for increased efficiency, thereby contributing to the solvency of the Medicare Part A Trust Fund.

We recommend that hospitals excluded from the prospective payment system receive an update of between 0.5 and 3.0 percentage points, or 0 percentage points. The update for excluded hospitals and units is equal to the increase in the excluded hospital operating market basket less a percentage between 0 and 2.5 percentage points, or 0 percentage points, depending on the hospital's or unit's costs in relation to its rate-of-increase limit for the most recent cost reporting period for which information is available. The market basket rate of increase for excluded hospitals and units is currently forecast at 3.0 percent.

As required by section 1886(e)(4) of the Act, we have taken into consideration the recommendations of MedPAC in setting these recommended update factors. Our responses to the MedPAC recommendations concerning the update factors are discussed below.

III. MedPAC Recommendations for Updating the Prospective Payment System Operating Standardized Amounts

In its March 2001 Report to Congress, MedPAC recommended a combined operating and capital update for hospital inpatient prospective payment system payments for FY 2002. With the end of the transition to fully prospective capital payments ending with FY 2001, both operating and capital prospective system payments will be made using standard Federal rates adjusted by hospital specific payment variables. Currently, section 1886(b)(3)(B)(i)(XVII) of the Act sets forth the FY 2002 percentage increase in the prospective payment system operating cost standardized amounts. The prospective payment system capital update is set at the discretion of the Secretary under the framework outlined in § 412.308(c)(1).

MedPAC's FY 2001 combined operating and capital update framework uses a weighted average of HCFA's forecasts of the operating (prospective payment system input price index) and the capital input price index. This combined market basket was used to develop an estimate of the change in overall operating and capital prices. MedPAC calculated a combined market basket forecast by weighting the operating market basket forecast by 0.92 and the capital market basket forecast by 0.08, since operating costs are estimated to represent 92 percent of total hospital costs (capital costs are estimated to represent the remaining 8 percent of total hospital costs). MedPAC's combined market basket for FY 2002 is estimated to increase by 2.8 percent, based on HCFA's December 2000 forecasted operating market basket increase of 3.0 percent and HCFA's December 2000 forecasted capital market basket increase of 0.8 percent.

For FY 2002, MedPAC's update framework would support a combined operating and capital update for hospital inpatient prospective payment system payments of 1.5 percent to 3.0 percent (or between the increase in the combined operating and capital market basket minus 1.3 percentage points and the increase in the combined operating and capital market basket plus 0.2 percentage points). In its update recommendation, MedPAC studied factors affecting the adequacy of payments in FY 2001 and factors expected to affect hospital costs in FY 2002. MedPAC concluded, “there is no compelling reason to change current law setting an operating update for fiscal year 2002 of 0.55 percent below the rate of increase in the operating market basket “(page 73). MedPAC also notes that while the number of hospitals with negative inpatient hospital margins have increased in FY 1999 (from 33.7 percent in 1998 to 36.7 percent in 1999) (page 71), overall high inpatient Medicare margins generally offset hospital losses on other lines of Medicare services (page 68). MedPAC continues to project substantially improved hospital total margins for FY 2000 based on performance in the first half of the fiscal year (page 72).

Response: Our long-term goal is to develop a single update framework for operating and capital prospective payments. However, the operating system update has been determined by Congress through FY 2003 (as amended by section 301 of Public Law 106-554). In the meantime, we intend to maintain as much consistency as possible with the current operating framework in order to facilitate the eventual development of a unified framework.

We agree with MedPAC's recommendation that the current law update for FY 2002 of the market basket minus 0.55 percentage points is appropriate for the operating system update. The following analyses measure changes in hospital productivity, scientific and technological advances, practice pattern changes, changes in case-mix, the effect of reclassification on recalibration, and forecast error correction.

A. Productivity

Service level labor productivity is defined as the ratio of total service output to full-time equivalent employees (FTEs). While we recognize that productivity is a function of many variables (for example, labor, nonlabor material, and capital inputs), we use the portion of productivity attributed to direct labor since this update framework applies to operating payment. To recognize that we are apportioning the short-run output changes to the labor input and not considering the nonlabor inputs, we weight our productivity measure by the share of direct labor services in the market basket to determine the expected effect on cost per case.

Our recommendation for the service productivity component is based on historical trends in productivity and total output for both the hospital industry and the general economy, and projected levels of future hospital service output. MedPAC's predecessor, the Prospective Payment Assessment Commission (ProPAC), estimated cumulative service productivity growth to be 4.9 percent from 1985 through 1989, or 1.2 percent annually. At the same time, ProPAC estimated total output growth at 3.4 percent annually, implying a ratio of service productivity growth to output growth of 0.35.

Since it is not possible at this time to develop a productivity measure specific to Medicare patients, we examined productivity (output per hour) and output (gross domestic product) for the economy. Depending on the exact time period, annual changes in productivity range from 0.3 to 0.35 percent of the change in output (that is, a 1.0 percent increase in output would be correlated with a 0.3 to 0.35 percent change in output per hour).

Under our framework, the recommended update is based in part on expected productivity—that is, projected service output during the year, multiplied by the historical ratio of service productivity to total service output, multiplied by the share of direct labor in total operating inputs, as calculated in the hospital market basket. This method estimates an expected productivity improvement in the same proportion to expected total service growth that has occurred in the past and assumes that, at a minimum, growth in FTEs changes proportionally to the growth in total service output. Thus, the recommendation allows for unit productivity to be smaller than the historical averages in years that output growth is relatively low and larger in years that output growth is higher than the historical averages. Based on the above estimates from both the hospital industry and the economy, we have chosen to employ the range of ratios of productivity change to output change of 0.30 to 0.35.

The expected change in total hospital service output is the product of projected growth in total admissions (adjusted for outpatient usage), projected real case-mix growth, expected quality-enhancing intensity growth, and net of expected decline in intensity due to reduction of cost-ineffective practice. Case-mix growth and intensity numbers for Medicare are used as proxies for those of the total hospital, since case-mix increases (used in the intensity measure as well) are unavailable for non-Medicare patients. Thus, expected FY 2002 hospital output growth is simply the sum of the expected change in intensity (0.3 percent), projected admissions change (1.6 percent for FY 2002), and projected real case-mix growth (1.0 percent), or 2.9 percent. The share of direct labor services in the market basket (consisting of wages, salaries, and employee benefits) is 61.4 percent.

Multiplying the expected change in total hospital service output (2.9 percent) by the ratio of historical service productivity change to total service growth of 0.30 to 0.35 and by the direct labor share percentage 61.4, provides our productivity standard of −0.6 to −0.5 percent.

In past years, MedPAC made an adjustment for productivity improvement to reflect the level of improvement in the production of health care services, without affecting the quality of those services. Typically, MedPAC made a downward adjustment in its framework to reflect expected improvements in hospital productivity. In its FY 2002 combined update framework, MedPAC did not make an adjustment for productivity. Instead, MedPAC believes that the costs associated with scientific and technological advances should be financed partially through improvements in hospital productivity. As a result, MedPAC offset its adjustment for scientific and technological advances by a fixed standard of expected productivity growth of 0.5 percent for FY 2002. Our productivity adjustment of −0.6 to −0.5 percent is consistent with the range of MedPAC's fixed standard of expected productivity growth of 0.5 percent for FY 2002.

B. Intensity

We base our intensity standard on the combined effect of three separate factors: changes in the use of quality enhancing services, changes in the use of services due to shifts in within-DRG severity, and changes in the use of services due to reductions of cost-ineffective practices. For FY 2002, we recommend an adjustment of 0.2 to 0.3 percent. The basis of this recommendation is discussed below.

We have no empirical evidence that accurately gauges the level of quality-enhancing technology changes. A study published in the Winter 1992 issue of the Health Care Financing Review, “Contributions of case mix and intensity change to hospital cost increases” (pages 151-163), suggests that one-third of the intensity change is attributable to high-cost technology. The balance was unexplained but the authors speculated that it is attributable to fixed costs in service delivery.

Typically, a specific new technology increases cost in some uses and decreases cost in other uses. Concurrently, health status is improved in some situations while in other situations it may be unaffected or even worsened using the same technology. It is difficult to separate out the relative significance of each of the cost-increasing effects for individual technologies.

Other things being equal, per-discharge fixed costs tend to fluctuate in inverse proportion to changes in volume. Fixed costs exist whether patients are treated or not. If volume is declining, per-discharge fixed costs will rise, but the reverse is true if volume is increasing.

Following methods developed by HCFA's Office of the Actuary for deriving hospital output estimates from total hospital charges, we have developed Medicare-specific intensity measures based on a 5-year average using FYs 1996 through 2000 MedPAR billing data. Case-mix constant intensity is calculated as the change in total Medicare charges per discharge adjusted for changes in the average charge per unit of service as measured by the Consumer Price Index (CPI) for hospital and related services and changes in real case-mix. Thus, in order to measure changes in intensity, one must measure changes in real case-mix.

We calculate case-mix constant intensity as the change in total charges per admission, adjusted for price level changes (the CPI for hospital and related services), and changes in real case-mix. Without reliable estimates of the proportions of the overall annual intensity increases due, respectively, to ineffective practice patterns and to the combination of quality-enhancing new technologies and within-DRG complexity, we assume that one-half of the annual increase is due to each of these factors.

For FY 2002, we have developed a Medicare-specific intensity measure based on a 5-year average using FY 1996 through 2000 data. In determining case-mix constant intensity, we estimate that real case-mix increase was 1.0 to 1.4 percent each year. The estimate for those years is supported by past studies of case-mix change by the RAND Corporation. The most recent study was “Has DRG Creep Crept Up? Decomposing the Case Mix Index Change Between 1987 and 1988” by G. M. Carter, J. P. Newhouse, and D. A. Relles, R-4098-HCFA/ProPAC (1991). The study suggested that real case-mix change was not dependent on total change, but was usually a fairly steady 1.0 to 1.4 percent per year. Following that study, we consider up to 1.4 percent of observed case-mix change as real for FY 1996 through FY 2000.

We calculate case-mix constant intensity as the change in total charges per admission, adjusted for price level changes (the CPI for hospital and related services), and changes in real case-mix. The average percentage change in charge per discharge was 4.7 percent and the average annual change in the CPI for hospital and related services was 4.2 percent. Dividing the change in charge per discharge by the quantity of the real case-mix index change and the CPI for hospital and related services yields an average annual change in intensity of −0.9 percent. Assuming the technology/fixed cost ratio still holds (.33), technology would account for a −0.3 percent annual decline while fixed costs would account for a −0.6 percent annual decline. The decline in fixed costs per discharge makes intuitive sense as volume, measured by total discharges, has increased during the period.

For FYs 1995 through 1999, observed case-mix index change ranged from a low of −0.7 percent to a high of 1.6 percent, with a 5-year average change of 0.2 percent. If we assume that the upper bound of real case-mix was 1.0 percent, we estimate that case-mix constant intensity increased by an average 0.3 percent during FYs 1996 through 2000, for a cumulative increase of 1.4 percent. If we assume that the upper bound of real case-mix increase was 1.4 percent, we estimate that case-mix constant intensity increased by an average 0.2 percent during FYs 1996 through 2000, for a cumulative increase of 1.2 percent. Thus, we are recommending an intensity adjustment for FY 2002 between 0.2 and 0.3 percent.

MedPAC does not make an adjustment for intensity per se, but its combined update recommendation for FY 2002 includes two categories that we consider to be comparable with our intensity recommendation. MedPAC is recommending a 0.0 to 0.5 update for scientific and technological advances to account for anticipated uses of emerging technologies that enhance the quality of hospital services, but increase costs of hospital care. MedPAC recognized an allowance for science and technological advances of 0.5 percent to 1.0 percent. It believes that the costs associated with scientific and technological advances should be financed at least in part through improvements in hospital productivity. Hence, MedPAC offsets its allowance for science and technology by 0.5 percent for productivity. In addition, MedPAC includes, when appropriate, an adjustment for one-time factors expected to affect costs in FY 2002 and the removal of the adjustment for FY 2002 one-time factors in its science and technology adjustment. MedPAC concluded that a one-time adjustment of 0.5 percent for the Health Insurance Portability and Accountability Act of 1996 (HIPAA) regulatory requirements should be reflected in the FY 2002 payment update. Additionally, since MedPAC believes that the costs associated with one-time factors should not be built permanently into the rates, it recommended that the FY 2002 payment rates be reduced by 0.5 percent to offset the increase it recommended in the FY 2000 update for the costs associated with year 2000 (Y2K) computer improvements. Thus, MedPAC's combined FY 2002 adjustment for science and technological advances is 0.0 percent to 0.5 percent.

MedPAC's recommendation also takes into account the trend of some acute care providers to shift care to a postacute care facility. While this can occur for many reasons and the shifting of costs may maintain or improve quality of care for Medicare beneficiaries, it leads to an inappropriate distribution of payments and reduces the resources available for acute care providers to pay for services to other Medicare beneficiaries. We agree with MedPAC that the site-of-care substitution effect is real and believe that it is factored into our intensity recommendation.

C. Change in Case-Mix

Our analysis takes into account projected changes in case-mix, adjusted for changes attributable to improved coding practices. For our FY 2002 update recommendation, we are projecting a 1.0 percent increase in the case-mix index. We define real case-mix change as actual changes in the mix (and resource requirements) of Medicare patients as opposed to changes in coding behavior that result in assignment of cases to higher-weighted DRGs, but do not reflect greater resource requirements. Unlike in past years, where we differentiated between “real” case-mix increase and increases attributable to changes in coding behavior, we do not believe changes in coding behavior will impact the overall case-mix in FY 2002. As such, for FY 2002, we estimate that real case-mix is equal to projected change in case-mix. Thus, we are recommending a 0.0 percent adjustment for case-mix.

MedPAC's analysis indicates that coding change has reduced case-mix index growth. In the past, MedPAC has recommended a negative adjustment when DRG coding changes has led to case-mix index growth (upcoding) and has recommended a positive adjustment when DRG coding changes have led to a decline in case-mix (downcoding). In light of evidence that coding had no significant effect on case-mix change, MedPAC recommended an adjustment of 0.0 percent for FY 2002.

MedPAC also makes an adjustment for within-DRG severity. In past years, MedPAC has included an adjustment for increased case complexity not captured by the DRG classification system. MedPAC recognizes that as the DRG system matures, it should account for more of the variation in costs by DRG assignment, leaving less within-DRG variation in case complexity and costliness (page 76). Therefore, MedPAC recommended an adjustment of 0.0 percent for FY 2002.

D. Effect of FY 2000 DRG Reclassification and Recalibration

We estimate that DRG reclassification and recalibration for FY 2000 resulted in a 0.0 percent change in the case-mix index when compared with the case-mix index that would have resulted if we had not made the reclassification and recalibration changes to the GROUPER.

E. Forecast Error Correction

We make a forecast error correction if the actual market basket changes differ from the forecasted market basket by 0.25 percentage points or more. There is a 2-year lag between the forecast and the measurement of forecast error. The estimated market basket percentage increase used to update the FY 2000 payment rates was 2.9 percent. Our most recent data indicates the actual FY 2000 increase was 3.6 percent. The resulting forecast error in the FY 2000 market basket rate of increase is 0.7 percentage points. This forecast error is a result of prices for wages, benefits, and chemicals increasing more rapidly than expected. Market conditions enabled hospitals to be less restrictive with pay increases than initially projected. Prices for chemicals were underestimated due to the unanticipated surge in oil prices in FY 2000.

MedPAC also made a recommendation in its FY 2002 combined update framework to adjust for any error in the market basket forecasts used to set FY 2000 payment rates. It recommended a combined adjustment for FY 2000 forecast error correction of 0.7 percent. MedPAC determined this forecast error adjustment by weighting the difference between the actual and forecasted operating (92 percent) and capital (8 percent) market basket increases for FY 2000. The forecasted FY 2000 operating market basket was 2.9 percent and the actual FY 2000 operating market basket increase was 3.6 percent. The FY 2000 capital market basket was forecasted to increase by 0.6 percent and the actual market basket increase was 0.9 percent. This implies that MedPAC's combined operating and capital market basket was forecasted at 2.7 percent and the combined actual operating and capital market basket was 3.4 percent. Accordingly, MedPAC recommended a 0.7 percent forecast error correction for its FY 2002 combined update recommendation.

F. Medicare Policy Change

In developing its update recommendation for FY 2002, MedPAC includes an adjustment for Medicare policy changes affecting financial status in its section of factors affecting current level of payments. While MedPAC's update framework has not considered such costs in the past, MedPAC believes that it is appropriate to account for significant costs incurred as a result of new Medicare policy. For FY 2002, MedPAC believes that legislated updates will match cost growth and that the overall the net affects of legislative changes (from Public Law 105-33, Public Law 106-113, and Public Law 106-554) will be small. Thus, it did not recommend any additional allowance for these costs for FY 2002. Accordingly, MedPAC recommended a 0.0 percent adjustment for Medicare policy changes in its update framework for FY 2002.

Comparison of FY 2002 Update Recommendations
Market basket | HHS: MB | MedPAC ¹: MB ¹
Policy Adjustment Factors:
Productivity | −0.6 to −0.5 | (²)
Site-of-Service Substitution | (³) | −2.0 to − 1.0.
Intensity | 0.2 to 0.3 |
Science & Technology |  | 0.0 to 0.5.
Real Within DRG Change |  | (⁴)
One-Time Factors |  | 0.0
Medicare Policy Changes |  | 0.0
Subtotal | −0.4 to −0.2 | −2.0 to −0.5
Case-Mix Adjustment Factors:
Projected Case-Mix Change | 1.0 |
Real Across DRG Change | 1.0 | 0.0
Subtotal | 0.0 | 0.0
Effect of FY 2000 DRG Reclass/Recalibration | 0.0 |
Forecast Error Correction | 0.7 | 0.7
Total Recommendation Update | MB + 0.3 to MB + 0.5 | MB ¹ −1.3 to MB ¹ + 0.2.
¹ Used HCFA's December 2000 operating and capital market basket forecast in its combined update recommendation.
² Included in MedPAC's Science and Technology Adjustment.
³ Included in HHS' Intensity Factor.
⁴ Included in MedPAC's Case-Mix Adjustment.

While the above analysis would suggest an update between operating market basket plus 0.3 percentage points and the operating market basket plus 0.5 percentage points, consistent with current law, we are recommending an update of market basket increase minus 0.55 percentage points (or 2.55 percent). Just as MedPAC believes that market basket minus 0.55 percentage points will provide a reasonable level of payments for FY 2002, we believe that a 2.55 update factor for FY 2002 will appropriately reflect current trends in health care delivery, including the recent decreases in the use of hospital inpatient services and the corresponding increase in the use of hospital outpatient and postacute care services.

Also consistent with current law, we are recommending that the hospital-specific rates applicable to SCHs and MDHs be increased by the same update, 2.55 percentage points. As MedPAC states in its March 2001 report, there are signs of substantial improvement in hospital financial performance in FY 2000. In conjunction with the various “give-back” provisions in Public Law 106-113 and Public Law 106-554 and the continuation of positive (12 percent for FY 1999) Medicare hospital inpatient margins, we believe these recommended update factors for FY 2002 would ensure that Medicare acts as a prudent purchaser and provide incentives to hospitals for increased efficiency, thereby contributing to the solvency of the Medicare Part A Trust Fund.

[FR Doc. 01-11062 Filed 5-3-01; 8:45 am]

BILLING CODE 4120-01-P